FEDERAL EMERGENCY MANAGEMENT AGENCY

Compendium of Flood Map Changes

AGENCY: Federal Emergency Management Agency (FEMA).

ACTION: Notice.

SUMMARY: This Notice provides listings of changes made to National Flood Insurance Program (NFIP) maps produced by FEMA effective during the first 6 months of 2000.

DATES: The listings include changes to NFIP maps that became effective January 1, 2000, through June 30, 2000.

FOR FURTHER INFORMATION CONTACT: Michael K. Buckley, P.E., Director, Technical Services Division, Mitigation Directorate, Federal Emergency Management Agency, Washington, DC 20472, (202)646-2756.

SUPPLEMENTARY INFORMATION: In accordance with Section 1360(i) of the National Flood Insurance Reform Act of 1994, this Notice is provided to inform interested parties of changes made by FEMA to NFIP maps. The two listings provided show communities affected by map changes made by letter and communities affected by physical map changes. For each Letter of Map Change, the first listing provides the map panel(s) affected, effective (determination) date of the change, case number, and determination type. For each physical map change, the Map Revision listing provides the map panel(s) affected and the effective date of the change. The listing also identifies: (1) those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be published approximately every 6 months.

Dated: September 5, 2000.
Michael J. Armstrong,
Associate Director for Mitigation.

Two listings are provided below. The first listing includes all Letters of Map Change issued by FEMA from January 1 through June 30, 2000. The following types of letters are included in the listing:

Type | Description
01 | Letter of Map Revision Based on Fill (218-65)
02 | Letter of Map Amendment (218-70)
05 | Letter of Map Revision With Base Flood Elevation Changes
06 | Letter of Map Revision Without Base Flood Elevation Changes
08 | Denial
12 | Floodway Revision
17 | Letter of Map Revision-inadvertent inclusion in floodway (218-65)
18 | Letter of Map Revision-inadvertent inclusion in V zone (218-65)
19 | Letter of Map Change Revalidation.

The second listing includes map panels that FEMA physically revised and republished from January 1 through June 30, 2000. For those map panels on which the Special Flood Hazard Areas have not been changed or have been changed only to incorporate Letters of Map Change issued before the effective date, two asterisks(**) are shown to the right of the map panel number. For those map panels for which a Flood Insurance Rate Map is produced for the first time, resulting only in changes to flood insurance and floodplain management requirements in the affected community, three asterisks(***) are shown to the right of the map panel number.

Region | State | Community | Map panel | Determination date | Case No. | Type
01 | CT | BERLIN, TOWN OF | 0900220010D | 22-FEB-2000 | 00-01-0292A | 02
01 | CT | BETHEL, TOWN OF | 0900010010B | 31-MAR-2000 | 00-01-0602A | 02
01 | CT | CHESHIRE, TOWN OF | 0900740005C | 05-JAN-2000 | 99-01-1310A | 02
01 | CT | ELLINGTON, TOWN OF | 0901580005C | 08-FEB-2000 | 99-01-1266A | 02
01 | CT | FAIRFIELD, TOWN OF | 0900070006C | 10-MAR-2000 | 00-01-0496A | 17
01 | CT | FAIRFIELD, TOWN OF | 0900070010C | 28-JAN-2000 | 00-01-0060A | 02
01 | CT | GREENWICH, TOWN OF | 0900080018C | 14-JAN-2000 | 99-01-960A | 02
01 | CT | GROTON, TOWN OF | 0900970006E | 16-MAR-2000 | 00-01-0520A | 02
01 | CT | GROTON, TOWN OF | 0900970006E | 18-APR-2000 | 99-01-1248A | 02
01 | CT | GUILFORD, TOWN OF | 0900770005B | 02-MAY-2000 | 00-01-0312A | 02
01 | CT | GUILFORD, TOWN OF | 0900770010B | 25-APR-2000 | 00-01-0532A | 02
01 | CT | GUILFORD, TOWN OF | 0900770015B | 24-FEB-2000 | 00-01-0302A | 02
01 | CT | GUILFORD, TOWN OF | 0900770017B | 25-APR-2000 | 00-01-0558A | 02
01 | CT | LYME, TOWN OF | 0901270002A | 03-JAN-2000 | 99-01-1268A | 02
01 | CT | MANCHESTER, TOWN OF | 0900310003E | 29-MAR-2000 | 00-01-0582A | 01
01 | CT | MIDDLEFIELD, TOWN OF | 0900670004B | 11-APR-2000 | 00-01-0378A | 02
01 | CT | MIDDLETOWN, CITY OF | 0900680009B | 02-MAY-2000 | 00-01-0332A | 01
01 | CT | MILFORD, CITY OF | 0900820005F | 14-MAR-2000 | 00-01-0374A | 02
01 | CT | NEW FAIRFIELD, TOWN OF | 0901880005A | 15-MAR-2000 | 99-01-1316A | 02
01 | CT | NEW HAVEN, CITY OF | 0900840004C | 12-APR-2000 | 00-01-0188A | 02
01 | CT | NEWINGTON, TOWN OF | 0900330005B | 11-FEB-2000 | 00-01-0160A | 01
01 | CT | NEWINGTON, TOWN OF | 0900330005B | 28-JAN-2000 | 00-01-0222A | 02
01 | CT | NORTH HAVEN, TOWN OF | 0900860005B | 02-MAY-2000 | 00-01-0630A | 02
01 | CT | NORWALK, CITY OF | 0900120007C | 22-MAR-2000 | 00-01-0364A | 01
01 | CT | ORANGE, TOWN OF | 0900870007B | 07-JAN-2000 | 00-01-0166A | 02
01 | CT | OXFORD, TOWN OF | 0901500016C | 02-MAY-2000 | 00-01-0262A | 02
01 | CT | PLAINVILLE, TOWN OF | 0900340005C | 22-FEB-2000 | 99-01-1296A | 02
01 | CT | RIDGEFIELD, TOWN OF | 0900130003C | 17-FEB-2000 | 00-01-0142A | 02
01 | CT | SIMSBURY, TOWN OF | 0900350005C | 15-MAR-2000 | 99-01-1274A | 02
01 | CT | STAMFORD, CITY OF | 0900150001C | 25-FEB-2000 | 00-01-0346A | 02
01 | CT | STAMFORD, CITY OF | 0900150005C | 18-APR-2000 | 98-01-051P | 05
01 | CT | STRATFORD, TOWN OF | 0900160003D | 04-APR-2000 | 00-01-0550A | 17
01 | CT | WESTPORT, TOWN OF | 0900190003C | 19-JAN-2000 | 00-01-0240A | 02
01 | CT | WESTPORT, TOWN OF | 0900190003C | 28-JAN-2000 | 00-01-0290A | 02
01 | CT | WETHERSFIELD, TOWN OF | 0900400002B | 24-FEB-2000 | 00-01-0392A | 02
01 | MA | AGAWAM, TOWN OF | 2501330002A | 02-MAY-2000 | 00-01-0536A | 02
01 | MA | AGAWAM, TOWN OF | 2501330002A | 11-FEB-2000 | 00-01-0232A | 02
01 | MA | ASHBURNHAM, TOWN OF | 2502900010B | 03-MAR-2000 | 00-01-0506A | 02
01 | MA | BARNSTABLE, TOWN OF | 2500010016D | 28-MAR-2000 | 00-01-0306A | 02
01 | MA | BELLINGHAM, TOWN OF | 2502320007B | 09-FEB-2000 | 00-01-0426A | 02
01 | MA | BOURNE, TOWN OF | 2552100005E | 02-MAR-2000 | 00-01-0208A | 02
01 | MA | BOURNE, TOWN OF | 2552100005E | 28-JAN-2000 | 00-01-0252A | 02
01 | MA | BOURNE, TOWN OF | 2552100010F | 30-MAY-2000 | 00-01-0298A | 02
01 | MA | BOURNE, TOWN OF | 2552100011F | 16-MAY-2000 | 00-01-0336A | 02
01 | MA | BOXBOROUGH, TOWN OF | 2501840002C | 09-FEB-2000 | 00-01-0330A | 02
01 | MA | BOXBOROUGH, TOWN OF | 2501840003C | 11-MAY-2000 | 00-01-0280A | 02
01 | MA | BOXBOROUGH, TOWN OF | 2501840003C | 13-APR-2000 | 00-01-0464A | 02
01 | MA | BOXBOROUGH, TOWN OF | 2501840004C | 21-MAR-2000 | 00-01-0278A | 02
01 | MA | DEDHAM, TOWN OF | 2502370005C | 17-FEB-2000 | 00-01-0348A | 02
01 | MA | EASTON, TOWN OF | 2500530010D | 26-APR-2000 | 99-01-1086A | 02
01 | MA | FALMOUTH, TOWN OF | 2552110001G | 11-FEB-2000 | 00-01-0424A | 02
01 | MA | FRAMINGHAM, TOWN OF | 2501930011B | 21-MAR-2000 | 00-01-0398A | 02
01 | MA | HAMILTON, TOWN OF | 2500840004A | 28-MAR-2000 | 00-01-0130A | 02
01 | MA | LANCASTER, TOWN OF | 2503120001B | 11-FEB-2000 | 00-01-0226A | 02
01 | MA | LEXINGTON, TOWN OF | 2501980005C | 02-MAY-2000 | 00-01-0294A | 02
01 | MA | MATTAPOISETT, TOWN OF | 2552140009E | 02-MAR-2000 | 00-01-0422A | 02
01 | MA | MATTAPOISETT, TOWN OF | 2552140009E | 07-MAR-2000 | 00-01-0420A | 02
01 | MA | MATTAPOISETT, TOWN OF | 2552140010G | 10-FEB-2000 | 00-01-0260A | 02
01 | MA | MATTAPOISETT, TOWN OF | 2552140015E | 21-JAN-2000 | 99-01-1148A | 02
01 | MA | MELROSE , CITY OF | 2502060001B | 02-MAY-2000 | 00-01-0568A | 02
01 | MA | METHUEN, TOWN OF | 2500930005C | 17-MAR-2000 | 00-01-0194A | 02
01 | MA | MILLBURY, TOWN OF | 2503180001C | 25-APR-2000 | 00-01-0534A | 02
01 | MA | NAHANT, TOWN OF | 2500950004B | 02-MAY-2000 | 00-01-0604A | 02
01 | MA | NEWTON, CITY OF | 2502080004D | 02-MAY-2000 | 00-01-0372A | 02
01 | MA | NORTH ANDOVER, TOWN OF | 2500980003C | 19-JAN-2000 | 99-01-1224A | 02
01 | MA | NORTON, TOWN OF | 2500600002C | 14-JAN-2000 | 00-01-0154A | 02
01 | MA | PITTSFIELD, CITY OF | 2500370015D | 29-FEB-2000 | 00-01-0268A | 02
01 | MA | SOUTHWICK, TOWN OF | 2501490015B | 11-MAY-2000 | 00-01-0432A | 02
01 | MA | TAUNTON, CITY OF | 2500660008C | 04-MAY-2000 | 00-01-0696X | 02
01 | MA | TAUNTON, CITY OF | 2500660008C | 28-MAR-2000 | 00-01-0428A | 02
01 | MA | WAREHAM, TOWN OF | 2552230008C | 25-APR-2000 | 00-01-0144A | 02
01 | MA | WAREHAM, TOWN OF | 2552230016C | 29-FEB-2000 | 00-01-0408A | 02
01 | MA | WESTWOOD, TOWN OF | 2552250005C | 26-MAY-2000 | 00-01-0270A | 02
01 | MA | WESTWOOD, TOWN OF | 2552250005C | 30-MAY-2000 | 00-01-0254A | 02
01 | MA | WILMINGTON, TOWN OF | 2502270002C | 06-APR-2000 | 00-01-0248A | 02
01 | MA | WILMINGTON, TOWN OF | 2502270003C | 22-MAR-2000 | 00-01-0472A | 02
01 | MA | WILMINGTON, TOWN OF | 2502270004C | 07-MAR-2000 | 00-01-0442A | 02
01 | MA | WILMINGTON, TOWN OF | 2502270004C | 09-FEB-2000 | 00-01-0274A | 02
01 | MA | WINCHENDON, TOWN OF | 2503480010B | 14-JAN-2000 | 99-01-1260A | 02
01 | MA | WINCHENDON, TOWN OF | 2503480010B | 18-FEB-2000 | 00-01-0434X | 02
01 | MA | WINTHROP, TOWN OF | 2502890001C | 05-JAN-2000 | 99-01-1162A | 02
01 | MA | YARMOUTH, TOWN OF | 2500150006D | 23-MAY-2000 | 00-01-0444A | 02
01 | ME | APPLETON, TOWN OF | 230073 B | 23-MAR-2000 | 00-01-0390A | 02
01 | ME | BETHEL, TOWN OF | 2300880005C | 01-JUN-2000 | 99-01-1354A | 02
01 | ME | BLUE HILL, TOWN OF | 2302740020A | 13-APR-2000 | 00-01-0484A | 02
01 | ME | CARRABASSETT VALLEY, TOWN OF | 2300560010B | 25-MAY-2000 | 00-01-0512A | 02
01 | ME | CLINTON, TOWN OF | 2302360003A | 12-JAN-2000 | 00-01-0256A | 02
01 | ME | DENMARK, TOWN OF | 2304760015A | 23-MAY-2000 | 00-01-0736A | 02
01 | ME | ELIOT, TOWN OF | 2301490010B | 13-APR-2000 | 00-01-0244A | 02
01 | ME | ENFIELD, TOWN OF | 2303840010A | 30-MAY-2000 | 00-01-0754A | 02
01 | ME | FREEPORT, TOWN OF | 2300460014B | 04-MAY-2000 | 00-01-0490A | 02
01 | ME | FRIENDSHIP, TOWN OF | 2302250015A | 21-JAN-2000 | 00-01-0258A | 01
01 | ME | GOULDSBORO,TOWN OF | 2302830010B | 29-MAR-2000 | 00-01-0416A | 02
01 | ME | GOULDSBORO,TOWN OF | 2302830020B | 12-MAY-2000 | 00-01-0462A | 02
01 | ME | GRAY, TOWN OF | 2300480015A | 05-JAN-2000 | 00-01-0128A | 02
01 | ME | GRAY, TOWN OF | 2300480015A | 19-JAN-2000 | 00-01-0206A | 02
01 | ME | HARPSWELL, TOWN OF | 2301690009B | 02-MAY-2000 | 00-01-0544A | 02
01 | ME | HARPSWELL, TOWN OF | 2301690010B | 05-JAN-2000 | 99-01-1394A | 01
01 | ME | HARPSWELL, TOWN OF | 2301690011B | 23-MAY-2000 | 00-01-0564A | 02
01 | ME | HARTLAND, TOWN OF | 230361 A | 14-MAR-2000 | 00-01-0282A | 02
01 | ME | HARTLAND, TOWN OF | 230361 A | 21-JAN-2000 | 00-01-0234A | 02
01 | ME | HARTLAND, TOWN OF | 230361 A | 29-MAR-2000 | 00-01-0362A | 02
01 | ME | LAMOINE, TOWN OF | 2302850010A | 23-MAY-2000 | 00-01-0498A | 02
01 | ME | LAMOINE, TOWN OF | 2302850010A | 24-MAY-2000 | 99-01-1242A | 02
01 | ME | LEEDS, TOWN OF | 2300030005B | 03-MAR-2000 | 99-01-1340A | 02
01 | ME | LEWISTON, CITY OF | 2300040005B | 03-MAR-2000 | 00-01-0406A | 02
01 | ME | LIMERICK, TOWN OF | 2301940007B | 09-MAY-2000 | 00-01-0456A | 02
01 | ME | LINCOLNVILLE, TOWN OF | 2301720015A | 02-MAY-2000 | 00-01-0646A | 02
01 | ME | MADAWASKA, TOWN OF | 230024 B | 30-MAY-2000 | 00-01-0546A | 02
01 | ME | NAPLES, TOWN OF | 2300500016B | 23-FEB-2000 | 00-01-0352A | 02
01 | ME | NORWAY, TOWN OF | 2300960005B | 29-MAR-2000 | 00-01-0418A | 02
01 | ME | OLD TOWN, CITY OF | 2301120003A | 28-JAN-2000 | 00-01-0090A | 02
01 | ME | OWL'S HEAD, TOWN OF | 2300750005B | 03-JAN-2000 | 00-01-0054A | 02
01 | ME | PALMYRA, TOWN OF | 230366 B | 06-APR-2000 | 99-01-1188A | 02
01 | ME | PORTLAND, CITY OF | 2300510007C | 09-MAY-2000 | 00-01-0118A | 02
01 | ME | PORTLAND, CITY OF | 2300510007C | 11-FEB-2000 | 00-01-0120A | 02
01 | ME | RANGELEY, TOWN OF | 2303520006B | 12-APR-2000 | 00-01-0474A | 02
01 | ME | RANGELEY, TOWN OF | 2303520009B | 11-MAY-2000 | 00-01-0448A | 02
01 | ME | RAYMOND, TOWN OF | 2302050020B | 21-MAR-2000 | 00-01-0284A | 02
01 | ME | SACO, CITY OF | 2301550029C | 02-MAY-2000 | 00-01-0672A | 02
01 | ME | SACO, CITY OF | 2301550029C | 30-MAR-2000 | 00-01-0438A | 02
01 | ME | SEBAGO, TOWN OF | 2302060005B | 19-JAN-2000 | 99-01-1392A | 02
01 | ME | SOUTHPORT, TOWN OF | 2302210001B | 22-MAR-2000 | 00-01-0218A | 02
01 | ME | SOUTHPORT, TOWN OF | 2302210001B | 31-MAR-2000 | 00-01-005P | 05
01 | ME | ST. GEORGE, TOWN OF | 2302290010C | 12-JAN-2000 | 00-01-0088A | 02
01 | ME | STANDISH, TOWN OF | 2302070040B | 02-FEB-2000 | 00-01-0190A | 02
01 | ME | SWANS ISLAND,TOWN OF | 230297 A | 10-MAY-2000 | 00-01-0360A | 02
01 | ME | SWANVILLE,TOWN OF | 230267 A | 29-FEB-2000 | 00-01-0402A | 02
01 | ME | T17 R04 WELS, TOWNSHIP OF | 230453 A | 22-FEB-2000 | 00-01-0230A | 02
01 | ME | TRENTON, TOWN OF | 2302990005A | 14-JAN-2000 | 00-01-0276A | 02
01 | ME | WATERBORO, TOWN OF | 2301990007C | 02-FEB-2000 | 00-01-0210A | 02
01 | ME | WINDHAM, TOWN OF | 2301890015B | 13-APR-2000 | 00-01-0480A | 02
01 | ME | YARMOUTH, TOWN OF | 2300550003B | 11-MAY-2000 | 00-01-0514A | 02
01 | NH | BRENTWOOD, TOWN OF | 3301250001C | 28-JAN-2000 | 00-01-003P | 06
01 | NH | BRISTOL, TOWN OF | 3300470005C | 12-APR-2000 | 99-01-1176A | 02
01 | NH | COLEBROOK, TOWN OF | 3300310010B | 17-MAR-2000 | 00-01-0148A | 02
01 | NH | CONWAY, TOWN OF | 3300110020B | 24-JAN-2000 | 00-01-0124A | 02
01 | NH | CORNISH, TOWN OF | 3301550010B | 21-MAR-2000 | 99-01-1346A | 02
01 | NH | DANVILLE, TOWN OF | 330199 A | 02-MAY-2000 | 00-01-0058A | 02
01 | NH | EPPING, TOWN OF | 3301290010B | 07-MAR-2000 | 99-01-1028A | 02
01 | NH | FREMONT, TOWN OF | 3301310005C | 23-MAY-2000 | 00-01-0640A | 02
01 | NH | HAMPTON, TOWN OF | 3301320008B | 10-MAY-2000 | 00-01-0198A | 02
01 | NH | HAMPTON, TOWN OF | 3301320008B | 12-JAN-2000 | 99-01-1330A | 02
01 | NH | HILLSBOROUGH, TOWN OF | 3300900020B | 17-FEB-2000 | 99-01-1382A | 01
01 | NH | KEENE, CITY OF | 3300230003C | 21-APR-2000 | 00-01-001P | 06
01 | NH | KEENE, CITY OF | 3300230008C | 02-FEB-2000 | 00-01-0238A | 02
01 | NH | LACONIA, CITY OF | 3300050002B | 02-MAY-2000 | 00-01-0578A | 02
01 | NH | LEBANON, CITY OF | 3300610007C | 12-JAN-2000 | 00-01-0112A | 01
01 | NH | LISBON, TOWN OF | 3300630005B | 11-MAY-2000 | 00-01-0606A | 02
01 | NH | LOUDON, TOWN OF | 3301170003B | 17-FEB-2000 | 99-01-1402A | 02
01 | NH | MANCHESTER, CITY OF | 3301690010B | 01-MAR-2000 | 00-01-0296A | 01
01 | NH | MILFORD, TOWN OF | 3300960004B | 04-APR-2000 | 00-01-0146A | 02
01 | NH | MILTON, TOWN OF | 3301490006B | 26-MAY-2000 | 00-01-0404A | 02
01 | NH | NEWPORT, TOWN OF | 3301610010D | 15-FEB-2000 | 00-01-0320A | 02
01 | NH | PELHAM, TOWN OF | 3301000003B | 22-FEB-2000 | 00-01-0158A | 02
01 | NH | PETERBOROUGH, TOWN OF | 3301010007A | 14-APR-2000 | 00-01-0524A | 02
01 | NH | RAYMOND, TOWN OF | 3301400010D | 02-MAY-2000 | 00-01-0526A | 02
01 | NH | SALEM, TOWN OF | 3301420005C | 21-JAN-2000 | 00-01-0170A | 02
01 | NH | WAKEFIELD, TOWN OF | 3300190005A | 12-APR-2000 | 99-01-1142A | 02
01 | NH | WEARE, TOWN OF | 3302350020B | 02-FEB-2000 | 00-01-0382A | 02
01 | NH | WILMOT, TOWN OF | 330124 B | 03-MAR-2000 | 00-01-0224A | 02
01 | NH | WILMOT, TOWN OF | 330124 B | 24-FEB-2000 | 00-01-0192A | 02
01 | NH | WOLFEBORO, TOWN OF | 3302390015A | 05-JAN-2000 | 00-01-0136A | 02
01 | RI | CHARLESTOWN, TOWN OF | 4453950005E | 29-FEB-2000 | 00-01-0342A | 02
01 | RI | COVENTRY, TOWN OF | 4400040015A | 02-MAY-2000 | 00-01-0350A | 02
01 | RI | COVENTRY, TOWN OF | 4400040015A | 18-APR-2000 | 00-01-0314A | 02
01 | RI | COVENTRY, TOWN OF | 4400040015A | 18-APR-2000 | 00-01-0396A | 02
01 | RI | COVENTRY, TOWN OF | 4400040015A | 25-APR-2000 | 00-01-0388A | 02
01 | RI | COVENTRY, TOWN OF | 4400040015A | 28-MAR-2000 | 00-01-0326A | 02
01 | RI | EAST GREENWICH, TOWN OF | 4453970002B | 28-JAN-2000 | 00-01-0220A | 02
01 | RI | EAST PROVIDENCE, CITY OF | 4453980003C | 18-APR-2000 | 00-01-0196A | 01
01 | RI | NORTH PROVIDENCE, TOWN OF | 4400200001C | 07-JAN-2000 | 00-01-0034A | 02
01 | RI | NORTH SMITHFIELD, TOWN OF | 4400210005C | 25-MAY-2000 | 00-01-0580A | 02
01 | RI | WARWICK, CITY OF | 4454090006E | 04-APR-2000 | 00-01-0430A | 02
01 | VT | BRANDON, TOWN OF | 5000900015C | 06-APR-2000 | 00-01-0300A | 02
01 | VT | BRIDGEWATER, TOWN OF | 5001440015B | 11-MAY-2000 | 00-01-0502A | 02
01 | VT | CANAAN, TOWN OF | 5000460010B | 30-MAY-2000 | 00-01-0644A | 02
01 | VT | CRAFTSBURY, TOWN OF | 500247 B | 11-FEB-2000 | 00-01-0394A | 02
01 | VT | CRAFTSBURY, TOWN OF | 500247 B | 18-FEB-2000 | 00-01-0356A | 02
01 | VT | CRAFTSBURY, TOWN OF | 500247 B | 28-MAR-2000 | 00-01-0570A | 02
01 | VT | ESSEX, TOWN OF | 5000340011B | 04-APR-2000 | 00-01-0344A | 02
01 | VT | FAYSTON, TOWN OF | 5003260011A | 12-JAN-2000 | 00-01-0228A | 17
01 | VT | FAYSTON, TOWN OF | 5003260011A | 17-FEB-2000 | 00-01-0452X | 17
01 | VT | FERRISBURG, TOWN OF | 5000020020B | 14-JAN-2000 | 00-01-0132A | 02
01 | VT | GRANVILLE, TOWN OF | 5000030012A | 11-MAY-2000 | 00-01-0574A | 02
01 | VT | HARTFORD, TOWN OF | 5001480007B | 09-FEB-2000 | 00-01-0324X | 01
01 | VT | JEFFERSONVILLE, VILLAGE OF | 5000620001A | 24-FEB-2000 | 00-01-0072A | 01
01 | VT | MONTPELIER, CITY OF | 5055180002A | 11-MAY-2000 | 00-01-0338A | 02
01 | VT | MONTPELIER, CITY OF | 5055180002A | 28-JAN-2000 | 00-01-0264A | 02
01 | VT | NEWPORT, CITY OF | 5000860001B | 11-MAY-2000 | 00-01-0610A | 02
01 | VT | NORTH HERO, TOWN OF | 5002250015A | 11-MAY-2000 | 00-01-0572A | 02
01 | VT | PROCTOR, TOWN OF | 5002650005B | 02-MAY-2000 | 00-01-0478A | 02
01 | VT | TROY, TOWN OF | 5000890005B | 28-JAN-2000 | 00-01-0096A | 02
01 | VT | WALLINGFORD, TOWN OF | 5001030005B | 12-APR-2000 | 99-01-1302A | 02
01 | VT | WELLS, TOWNSHIP OF | 5002710001B | 17-FEB-2000 | 00-01-0086A | 02
01 | VT | WEST FAIRLEE, TOWN OF | 5000790005B | 11-MAY-2000 | 00-01-0600A | 02
01 | VT | WILLIAMSTOWN, TOWN OF | 5000800005B | 11-MAY-2000 | 00-01-0620A | 02
02 | NJ | ALLOWAY, TOWNSHIP OF | 3404130001B | 09-FEB-2000 | 00-02-0150A | 02
02 | NJ | BERKELEY HEIGHTS, TOWNSHIP OF | 3404590001D | 15-MAR-2000 | 00-02-0512A | 02
02 | NJ | BERKELEY HEIGHTS, TOWNSHIP OF | 3404590002D | 19-JAN-2000 | 99-02-1416A | 02
02 | NJ | COLTS NECK, TOWNSHIP OF | 3402910002C | 28-JAN-2000 | 00-02-0248A | 02
02 | NJ | EAST RUTHERFORD, BOROUGH OF | 34003C0251F | 04-MAY-2000 | 00-02-0632A | 02
02 | NJ | FAIR LAWN, BOROUGH OF | 34003C0178F | 28-JAN-2000 | 99-02-1194A | 02
02 | NJ | FRANKLIN LAKES, BOROUGH OF | 34003C0064F | 07-MAR-2000 | 99-02-1032A | 02
02 | NJ | FRANKLIN LAKES, BOROUGH OF | 34003C0064F | 13-APR-2000 | 00-02-0306A | 02
02 | NJ | HAMILTON, TOWNSHIP OF | 3400090001A | 12-JAN-2000 | 00-02-0314A | 02
02 | NJ | HAMILTON, TOWNSHIP OF | 3402460015C | 09-FEB-2000 | 99-02-1318A | 02
02 | NJ | LINCOLN PARK, BOROUGH OF | 3453000001B | 02-FEB-2000 | 99-02-1414A | 02
02 | NJ | MANALAPAN, TOWNSHIP OF | 3403080001A | 28-JAN-2000 | 00-02-0182A | 02
02 | NJ | MANASQUAN, BOROUGH OF | 3453030001C | 11-JAN-2000 | 00-02-0120A | 02
02 | NJ | MOUNT LAUREL, TOWNSHIP OF | 3401070015E | 03-MAR-2000 | 99-02-1022A | 01
02 | NJ | NEW PROVIDENCE, BOROUGH OF | 3453060001C | 14-MAR-2000 | 00-02-0054A | 02
02 | NJ | NEWARK, CITY OF | 3401890003B | 29-FEB-2000 | 00-02-0372A | 02
02 | NJ | OLD BRIDGE, TOWN OF | 3402650004D | 14-JAN-2000 | 99-02-1232A | 02
02 | NJ | PALMYRA, BOROUGH OF | 3401100001C | 23-FEB-2000 | 00-02-0354A | 01
02 | NJ | PALMYRA, BOROUGH OF | 3401100001C | 23-MAY-2000 | 00-02-0456A | 01
02 | NJ | PEQUANNOCK, TOWNSHIP OF | 3453110001C | 06-APR-2000 | 00-02-0322A | 02
02 | NJ | PEQUANNOCK, TOWNSHIP OF | 3453110003C | 11-FEB-2000 | 00-02-0418A | 01
02 | NJ | PEQUANNOCK, TOWNSHIP OF | 3453110003C | 30-MAR-2000 | 00-02-0332A | 02
02 | NJ | RAMSEY, BOROUGH OF | 34003C0067F | 02-FEB-2000 | 00-02-0312A | 01
02 | NJ | RINGWOOD, BOROUGH OF | 3404070006B | 25-MAY-2000 | 00-02-0562A | 02
02 | NJ | SAYREVILLE, BOROUGHS OF | 3402760001C | 05-JAN-2000 | 00-02-0280A | 02
02 | NJ | SOUTH BRUNSWICK, TOWNSHIP OF | 3402780010B | 14-JAN-2000 | 00-02-0114A | 02
02 | NJ | SUMMIT, CITY OF | 3404760001A | 24-FEB-2000 | 00-02-0210A | 01
02 | NJ | TRENTON, CITY OF | 3453250002B | 11-FEB-2000 | 00-02-0390A | 02
02 | NJ | VERNON, TOWNSHIP OF | 3405610035A | 15-MAR-2000 | 99-02-1102A | 02
02 | NJ | WAYNE, TOWNSHIP OF | 3453270007B | 02-FEB-2000 | 00-02-0346A | 02
02 | NJ | WAYNE, TOWNSHIP OF | 3453270008B | 25-APR-2000 | 99-02-1308A | 01
02 | NJ | WEST DEPTFORD, TOWNSHIP OF | 3402140003B | 28-MAR-2000 | 00-02-0138A | 02
02 | NJ | WEST WINDSOR, TOWNSHIP OF | 3402560010C | 11-FEB-2000 | 00-02-0400A | 02
02 | NJ | WESTFIELD, TOWN OF | 3404780001B | 16-MAY-2000 | 00-02-0238A | 02
02 | NJ | WESTWOOD, BOROUGH OF | 34003C0181F | 15-FEB-2000 | 00-02-0264A | 01
02 | NY | ALDEN, TOWN OF | 3602250010C | 28-JAN-2000 | 00-02-0154A | 02
02 | NY | AMHERST, TOWN OF | 3602260004D | 07-MAR-2000 | 00-02-0404A | 02
02 | NY | AMHERST, TOWN OF | 3602260004D | 29-FEB-2000 | 00-02-0382A | 02
02 | NY | AMHERST, TOWN OF | 3602260007E | 02-FEB-2000 | 00-02-0334A | 02
02 | NY | AMHERST, TOWN OF | 3602260007E | 11-MAY-2000 | 00-02-0296A | 02
02 | NY | BATAVIA, TOWN OF | 3602780015B | 16-FEB-2000 | 00-02-0128A | 02
02 | NY | BAYVILLE, VILLAGE OF | 36059C0039F | 19-JAN-2000 | 00-02-0050A | 02
02 | NY | BELLMONT, TOWN OF | 361392 A | 03-JAN-2000 | 00-02-0070A | 02
02 | NY | BOONVILLE, TOWN OF | 3605190010B | 16-MAY-2000 | 00-02-0384A | 02
02 | NY | BROOKHAVEN,TOWN OF | 36103C0753G | 13-APR-2000 | 00-02-0226A | 02
02 | NY | BUFFALO, CITY OF | 3602300010C | 04-FEB-2000 | 00-02-0192A | 02
02 | NY | BUFFALO, CITY OF | 3602300010C | 08-FEB-2000 | 00-02-0164A | 02
02 | NY | BUFFALO, CITY OF | 3602300010C | 09-FEB-2000 | 00-02-0246A | 02
02 | NY | BUFFALO, CITY OF | 3602300010C | 11-MAY-2000 | 00-02-0168A | 02
02 | NY | BUFFALO, CITY OF | 3602300010C | 19-JAN-2000 | 00-02-0194A | 02
02 | NY | BUFFALO, CITY OF | 3602300010C | 25-FEB-2000 | 00-02-0380A | 02
02 | NY | BUFFALO, CITY OF | 3602300010C | 28-MAR-2000 | 00-02-0278A | 02
02 | NY | CAMILLUS, TOWN OF | 3605700006D | 18-FEB-2000 | 00-02-0416A | 02
02 | NY | CANANDAIGUA, TOWN OF | 3605980025C | 28-JAN-2000 | 99-02-980A | 02
02 | NY | CASTILE, TOWN OF | 361243 A | 27-APR-2000 | 00-02-0276A | 02
02 | NY | CHESTER, TOWN OF | 3608700010B | 11-MAY-2000 | 00-02-0378A | 02
02 | NY | CICERO, TOWN OF | 3605720003D | 09-FEB-2000 | 00-02-0190A | 02
02 | NY | CICERO, TOWN OF | 3605720005D | 11-APR-2000 | 00-02-0444A | 02
02 | NY | CICERO, TOWN OF | 3605720005D | 22-FEB-2000 | 00-02-0300A | 02
02 | NY | CICERO, TOWN OF | 3605720006D | 11-FEB-2000 | 00-02-0388A | 02
02 | NY | CLARENCE, TOWN OF | 3602320005C | 05-JAN-2000 | 00-02-0046A | 02
02 | NY | CLARENCE, TOWN OF | 3602320005C | 11-MAY-2000 | 00-02-0552A | 02
02 | NY | CLARENCE, TOWN OF | 3602320005C | 14-APR-2000 | 00-02-0398X | 02
02 | NY | CLARENCE, TOWN OF | 3602320005C | 14-JAN-2000 | 00-02-0302A | 02
02 | NY | CLARENCE, TOWN OF | 3602320005C | 14-MAR-2000 | 00-02-0272A | 02
02 | NY | CLARENCE, TOWN OF | 3602320005C | 16-MAY-2000 | 00-02-0442A | 02
02 | NY | CLARENCE, TOWN OF | 3602320005C | 23-FEB-2000 | 00-02-0432A | 02
02 | NY | CLARENCE, TOWN OF | 3602320010C | 16-MAY-2000 | 00-02-0440A | 02
02 | NY | CLARENCE, TOWN OF | 3602320011C | 11-MAY-2000 | 00-02-0206A | 01
02 | NY | CLARENCE, TOWN OF | 3602320013C | 18-FEB-2000 | 00-02-0406X | 02
02 | NY | CLARKSTOWN, TOWN OF | 3606790006E | 23-MAY-2000 | 00-02-0056A | 02
02 | NY | CLARKSTOWN, TOWN OF | 3606790006E | 28-JAN-2000 | 00-02-0166A | 02
02 | NY | COPAKE, TOWN OF | 360174 B | 05-JAN-2000 | 00-02-0162A | 02
02 | NY | DRESDEN, TOWN OF | 3614100015B | 17-FEB-2000 | 00-02-0474X | 02
02 | NY | EAST FISHKILL, TOWN OF | 3613360009B | 07-JAN-2000 | 99-02-1364A | 02
02 | NY | EAST ROCKAWAY, VILLAGE OF | 36059C0218F | 25-FEB-2000 | 00-02-0148A | 02
02 | NY | EASTON, TOWN OF | 3612240010B | 06-JAN-2000 | 00-02-0316X | 02
02 | NY | ELMA,TOWN OF | 3602390006B | 25-FEB-2000 | 99-02-1270A | 02
02 | NY | ELMIRA HEIGHTS, VILLAGE OF | 3601520001B | 18-APR-2000 | 00-02-0368A | 02
02 | NY | FRANKFORT, TOWN OF | 360303 C | 02-MAY-2000 | 99-02-1358A | 02
02 | NY | FRANKLIN, TOWN OF | 361397 A | 11-MAY-2000 | 00-02-0366A | 02
02 | NY | GLENVILLE,TOWN OF | 3607380041B | 28-JAN-2000 | 00-02-0270A | 02
02 | NY | GLENVILLE,TOWN OF | 3607380041B | 29-FEB-2000 | 00-02-0434X | 02
02 | NY | GREECE, TOWN OF | 3604170006E | 24-JAN-2000 | 99-02-1316A | 02
02 | NY | HENRIETTA, TOWN OF | 3604190005E | 08-FEB-2000 | 00-02-0146A | 02
02 | NY | HENRIETTA, TOWN OF | 3604190005E | 28-MAR-2000 | 00-02-0510X | 02
02 | NY | HORSEHEADS, TOWN OF | 3601530005C | 18-FEB-2000 | 00-02-0106A | 17
02 | NY | ISLIP,TOWNSHIP OF | 36103C0882G | 21-JAN-2000 | 99-02-1030A | 02
02 | NY | KENDALL, TOWN OF | 3606430005B | 10-MAR-2000 | 00-02-0294A | 02
02 | NY | LANCASTER, VILLAGE OF | 3602480001C | 28-JAN-2000 | 00-02-0140A | 02
02 | NY | LEWISTON, TOWN OF | 3605020010B | 29-MAR-2000 | 00-02-0554X | 02
02 | NY | LINDENHURST, VILLAGE OF | 36103C0861G | 22-FEB-2000 | 00-02-0174A | 02
02 | NY | LITTLE VALLEY, TOWN OF | 3610660001B | 07-MAR-2000 | 99-02-998A | 02
02 | NY | LUMBERLAND, TOWN OF | 360825 B | 02-FEB-2000 | 99-02-1248A | 02
02 | NY | MANLIUS, TOWN OF | 3605840005E | 04-FEB-2000 | 00-02-0268A | 02
02 | NY | MANLIUS, TOWN OF | 3605840005E | 05-JAN-2000 | 00-02-0198A | 02
02 | NY | MANLIUS, TOWN OF | 3605840005E | 14-JAN-2000 | 00-02-0156A | 02
02 | NY | MOHAWK, VILLAGE OF | 3603140001C | 28-JAN-2000 | 00-02-0250A | 02
02 | NY | NASSAU, TOWN OF | 3611550011A | 15-FEB-2000 | 00-02-0408A | 02
02 | NY | NEW YORK, CITY OF | 3604970002B | 21-MAR-2000 | 00-02-0320A | 02
02 | NY | NEW YORK, CITY OF | 3604970081C | 21-MAR-2000 | 00-02-0216A | 02
02 | NY | NEW YORK, CITY OF | 3604970082C | 28-MAR-2000 | 00-02-0394A | 02
02 | NY | NEW YORK, CITY OF | 3604970092C | 07-JAN-2000 | 00-02-0218A | 02
02 | NY | NEW YORK, CITY OF | 3604970092C | 15-MAR-2000 | 00-02-0528A | 02
02 | NY | NEW YORK, CITY OF | 3604970092C | 21-JAN-2000 | 00-02-0212A | 02
02 | NY | NEW YORK, CITY OF | 3604970105C | 21-JAN-2000 | 00-02-0214A | 02
02 | NY | NEW YORK, CITY OF | 3604970105C | 28-MAR-2000 | 00-02-0392A | 02
02 | NY | NEW YORK, CITY OF | 3604970115B | 12-JAN-2000 | 00-02-0326A | 02
02 | NY | NEW YORK, CITY OF | 3604970125D | 05-JAN-2000 | 00-02-0202A | 02
02 | NY | NEW YORK, CITY OF | 3604970125D | 09-FEB-2000 | 00-02-0292A | 02
02 | NY | NEW YORK, CITY OF | 3604970126B | 12-JAN-2000 | 00-02-0240A | 02
02 | NY | NEW YORK, CITY OF | 3604970128D | 13-APR-2000 | 00-02-0396A | 02
02 | NY | NEW YORK, CITY OF | 3604970129D | 14-APR-2000 | 00-02-0610X | 02
02 | NY | NEW YORK, CITY OF | 3604970129D | 15-MAR-2000 | 00-02-0184A | 02
02 | NY | NEWCOMB, TOWN OF | 361390 A | 22-FEB-2000 | 00-02-0352A | 02
02 | NY | NORTH NORWICH, TOWN OF | 3610890010B | 04-APR-2000 | 00-02-0496A | 02
02 | NY | NORTHAMPTON, TOWN OF | 361400 B | 29-FEB-2000 | 00-02-0336A | 02
02 | NY | ONEONTA, CITY OF | 3606670005B | 09-MAY-2000 | 00-02-005P | 06
02 | NY | ONEONTA, TOWN OF | 3612750026B | 09-MAY-2000 | 00-02-007P | 06
02 | NY | ONONDAGA, TOWN OF | 3605880015B | 28-MAR-2000 | 00-02-0284A | 02
02 | NY | PENDLETON, TOWN OF | 3605090005B | 09-FEB-2000 | 00-02-0364A | 02
02 | NY | PIERMONT, VILLAGE OF | 3606870001C | 25-MAY-2000 | 99-02-1344A | 01
02 | NY | PLATTSBURGH, CITY OF | 3601680001B | 27-JAN-2000 | 00-02-0112A | 02
02 | NY | PULTENEY, TOWN OF | 3607800002B | 14-JAN-2000 | 99-02-1072A | 02
02 | NY | ROSEBOOM, TOWN OF | 361421 A | 09-FEB-2000 | 00-02-0358A | 02
02 | NY | ROTTERDAM, TOWN OF | 3607400006B | 01-JUN-2000 | 00-02-0410A | 02
02 | NY | SALINA, TOWN OF | 3605910001A | 25-FEB-2000 | 00-02-0230A | 02
02 | NY | SALINA, TOWN OF | 3605910002A | 18-FEB-2000 | 00-02-0188A | 02
02 | NY | SHANDAKEN, TOWN OF | 3608640020C | 23-MAY-2000 | 00-02-0340A | 02
02 | NY | SMITHFIELD, TOWN OF | 361294 B | 09-FEB-2000 | 00-02-0274X | 02
02 | NY | SMITHFIELD, TOWN OF | 361294 B | 19-JAN-2000 | 99-02-1070A | 02
02 | NY | TORREY, TOWN OF | 3609660010B | 23-MAR-2000 | 00-02-0256A | 02
02 | NY | VIENNA, TOWN OF | 3605620025C | 04-FEB-2000 | 00-02-0342A | 02
02 | NY | WEBB, TOWN OF | 360321 A | 14-MAR-2000 | 99-02-1398A | 02
02 | NY | WEBB, TOWN OF | 360321 A | 15-MAR-2000 | 00-02-0158A | 02
02 | NY | WEBB, TOWN OF | 360321 A | 18-MAY-2000 | 00-02-0356A | 02
02 | NY | WINFIELD, TOWN OF | 3603230001B | 20-APR-2000 | 99-02-051P | 05
02 | PR | PUERTO RICO,COMMONWEALTH OF | 7200000053D | 01-MAR-2000 | 00-02-0310A | 02
02 | PR | PUERTO RICO,COMMONWEALTH OF | 7200000063G | 06-JAN-2000 | 00-02-0002A | 01
02 | PR | PUERTO RICO,COMMONWEALTH OF | 7200000185B | 25-JAN-2000 | 99-02-061P | 05
02 | PR | PUERTO RICO,COMMONWEALTH OF | 7200000188C | 01-JUN-2000 | 00-02-0012A | 01
02 | PR | PUERTO RICO,COMMONWEALTH OF | 7200000277D | 06-JAN-2000 | 99-02-1046A | 01
02 | PR | PUERTO RICO,COMMONWEALTH OF | 7200000286D | 20-APR-2000 | 00-02-0010A | 01
03 | DE | DOVER, CITY OF | 1000060005C | 02-MAY-2000 | 00-03-0848A | 17
03 | DE | DOVER, CITY OF | 1000060005C | 20-APR-2000 | 00-03-0856A | 02
03 | DE | ELSMERE, TOWN OF | 10003C0151F | 02-MAY-2000 | 00-03-1216A | 02
03 | DE | GEORGETOWN, TOWN OF | 10005C0300F | 09-FEB-2000 | 00-03-0500A | 02
03 | DE | GREENWOOD, TOWN OF | 10005C0104F | 23-MAY-2000 | 00-03-1044A | 02
03 | DE | KENT COUNTY * | 1000010075B | 09-FEB-2000 | 00-03-0328A | 02
03 | DE | KENT COUNTY * | 1000010075B | 18-APR-2000 | 00-03-1132A | 02
03 | DE | KENT COUNTY * | 1000010075B | 20-APR-2000 | 00-03-0754A | 02
03 | DE | KENT COUNTY * | 1000010080B | 02-FEB-2000 | 00-03-0760A | 02
03 | DE | KENT COUNTY * | 1000010080B | 04-FEB-2000 | 00-03-0314A | 02
03 | DE | KENT COUNTY * | 1000010080B | 23-MAY-2000 | 00-03-1398A | 02
03 | DE | KENT COUNTY * | 1000010080B | 27-APR-2000 | 00-03-031P | 05
03 | DE | KENT COUNTY * | 1000010175B | 31-MAY-2000 | 00-03-0780A | 01
03 | DE | KENT COUNTY * | 1000010200B | 09-FEB-2000 | 00-03-0358A | 02
03 | DE | LEWES, CITY OF | 10005C0195F | 18-APR-2000 | 00-03-0930A | 02
03 | DE | LEWES, CITY OF | 10005C0195F | 27-APR-2000 | 00-03-073P | 05
03 | DE | NEW CASTLE COUNTY * | 10003C0067F | 27-APR-2000 | 00-03-1138A | 02
03 | DE | NEW CASTLE COUNTY * | 10003C0145F | 27-APR-2000 | 00-03-0922A | 02
03 | DE | NEW CASTLE COUNTY * | 10003C0300F | 21-MAR-2000 | 00-03-1048A | 02
03 | DE | NEW CASTLE COUNTY * | 10003C0320F | 27-MAY-2000 | 99-03-065P | 05
03 | DE | SUSSEX COUNTY* | 10005C00195F | 27-APR-2000 | 00-03-073P | 05
03 | DE | SUSSEX COUNTY* | 10005C0039F | 25-APR-2000 | 00-03-1162A | 02
03 | DE | SUSSEX COUNTY* | 10005C0100F | 30-MAY-2000 | 00-03-0868A | 02
03 | DE | SUSSEX COUNTY* | 10005C0125F | 27-APR-2000 | 00-03-1016A | 02
03 | DE | SUSSEX COUNTY* | 10005C0355G | 23-MAY-2000 | 00-03-1366A | 02
03 | DE | SUSSEX COUNTY* | 10005C0510F | 16-MAR-2000 | 00-03-0602A | 02
03 | MD | ALLEGANY COUNTY * | 2400010054A | 05-JAN-2000 | 00-03-0348A | 02
03 | MD | ANNE ARUNDEL COUNTY * | 2400080001C | 27-APR-2000 | 00-03-1074A | 01
03 | MD | ANNE ARUNDEL COUNTY * | 2400080020C | 30-MAY-2000 | 00-03-1034A | 02
03 | MD | ANNE ARUNDEL COUNTY * | 2400080022C | 02-MAY-2000 | 00-03-0318A | 02
03 | MD | ANNE ARUNDEL COUNTY * | 2400080043C | 28-JAN-2000 | 00-03-0496A | 02
03 | MD | ANNE ARUNDEL COUNTY * | 2400080044D | 03-MAR-2000 | 00-03-0580A | 02
03 | MD | ANNE ARUNDEL COUNTY * | 2400080044D | 12-APR-2000 | 00-03-0836A | 02
03 | MD | ANNE ARUNDEL COUNTY * | 2400080044D | 18-APR-2000 | 00-03-1226X | 02
03 | MD | ANNE ARUNDEL COUNTY * | 2400080051C | 01-MAR-2000 | 00-03-0488A | 02
03 | MD | BALTIMORE COUNTY* | 2400100245E | 11-FEB-2000 | 00-03-0360A | 17
03 | MD | BALTIMORE COUNTY* | 2400100270B | 18-APR-2000 | 00-03-1070A | 02
03 | MD | BALTIMORE COUNTY* | 2400100360B | 05-JAN-2000 | 00-03-0172A | 02
03 | MD | BALTIMORE COUNTY* | 2400100390B | 21-JAN-2000 | 00-03-0100A | 02
03 | MD | BALTIMORE COUNTY* | 2400100410B | 23-MAY-2000 | 00-03-0832A | 02
03 | MD | BALTIMORE COUNTY* | 2400100440C | 02-MAY-2000 | 00-03-0662A | 02
03 | MD | BALTIMORE COUNTY* | 2400100440C | 09-MAY-2000 | 00-03-0716A | 02
03 | MD | BALTIMORE COUNTY* | 2400100455B | 04-APR-2000 | 00-03-0986A | 02
03 | MD | BALTIMORE COUNTY* | 2400100505B | 18-FEB-2000 | 00-03-0180A | 02
03 | MD | BALTIMORE COUNTY* | 2400100555B | 29-MAR-2000 | 00-03-0708A | 02
03 | MD | BEL AIR, TOWN OF | 24025C0161D | 10-JAN-2000 | 00-03-0774V | 19
03 | MD | CAMBRIDGE, CITY OF | 2400980001B | 13-APR-2000 | 00-03-0320A | 02
03 | MD | CARROLL COUNTY * | 2400150050B | 06-APR-2000 | 00-03-0770A | 02
03 | MD | CECIL COUNTY* | 2400190031B | 27-APR-2000 | 00-03-1066A | 02
03 | MD | CECIL COUNTY* | 2400190042A | 18-MAY-2000 | 00-03-1024A | 02
03 | MD | CHARLES COUNTY * | 2400890027B | 17-MAR-2000 | 00-03-0346A | 02
03 | MD | CHARLES COUNTY * | 2400890035B | 13-APR-2000 | 00-03-1050A | 02
03 | MD | FREDERICK COUNTY * | 2400270115B | 13-APR-2000 | 00-03-0734A | 02
03 | MD | FREDERICK COUNTY * | 2400270180A | 06-APR-2000 | 99-03-1300A | 02
03 | MD | FREDERICK COUNTY * | 2400270180A | 12-JAN-2000 | 00-03-0352A | 02
03 | MD | FREDERICK COUNTY * | 2400270180A | 19-MAY-2000 | 00-03-0560A | 02
03 | MD | FREDERICK, CITY OF | 2400270115B | 13-MAR-2000 | 99-03-179P | 05
03 | MD | FREDERICK, CITY OF | 2400300004C | 12-JAN-2000 | 00-03-0168A | 02
03 | MD | HARFORD COUNTY * | 24025C0004D | 10-JAN-2000 | 00-03-0750V | 19
03 | MD | HARFORD COUNTY * | 24025C0004D | 12-JAN-2000 | 99-03-1242A | 02
03 | MD | HARFORD COUNTY * | 24025C0004D | 12-JAN-2000 | 99-03-1244A | 02
03 | MD | HARFORD COUNTY * | 24025C0254D | 03-MAY-2000 | 99-03-121P | 05
03 | MD | HAVRE DE GRACE, CITY OF | 24025C0205D | 07-MAR-2000 | 00-03-0300A | 02
03 | MD | HOWARD COUNTY* | 2400440023B | 21-JAN-2000 | 00-03-0506A | 02
03 | MD | MONTGOMERY COUNTY * | 2400490050B | 13-MAR-2000 | 99-03-1576P | 05
03 | MD | MONTGOMERY COUNTY * | 2400490125C | 13-MAR-2000 | 99-03-1576P |
03 | MD | MONTGOMERY COUNTY * | 2400490150B | 11-FEB-2000 | 00-03-0124A | 02
03 | MD | MONTGOMERY COUNTY * | 2400490150B | 30-MAR-2000 | 00-03-1128X | 02
03 | MD | NORTH EAST, TOWN OF | 2400230001A | 01-FEB-2000 | 00-04 | 02
03 | MD | PRINCE GEORGES COUNTY * | 2452080060C | 14-MAR-2000 | 00-03-0672A | 02
03 | MD | QUEEN ANNES COUNTY* | 2400540006B | 16-MAY-2000 | 00-03-0704A | 02
03 | MD | QUEEN ANNES COUNTY* | 2400540045B | 26-APR-2000 | 00-03-1372 | 02
03 | MD | QUEEN ANNES COUNTY* | 2400540047B | 11-APR-2000 | 00-03-0898X | 02
03 | MD | ST. MARYS COUNTY* | 2400640041D | 25-MAY-2000 | 00-03-0712A | 02
03 | MD | TALBOT COUNTY * | 2400660038A | 13-APR-2000 | 00-03-0590A | 02
03 | MD | TALBOT COUNTY * | 2400660038A | 16-MAY-2000 | 00-03-0652X | 02
03 | MD | WASHINGTON COUNTY * | 2400700170A | 01-MAR-2000 | 00-03-0336A | 02
03 | MD | WORCESTER COUNTY * | 2400830025A | 16-MAY-2000 | 00-03-1006A | 02
03 | PA | BENSALEM TOWNSHIP OF | 42017C0506F | 18-APR-2000 | 00-03-0758A | 02
03 | PA | BRISTOL, TOWNSHIP OF | 42017C0444F | 18-APR-2000 | 00-03-0852A | 02
03 | PA | BRISTOL, TOWNSHIP OF | 42017C0462F | 03-FEB-2000 | 00-05 | 02
03 | PA | BRISTOL, TOWNSHIP OF | 42017C0462F | 18-MAY-2000 | 00-03-1246A | 02
03 | PA | BRISTOL, TOWNSHIP OF | 42017C0508F | 12-JAN-2000 | 00-03-0370A | 02
03 | PA | BUCKINGHAM, TOWNSHIP OF | 42017C0303F | 20-APR-2000 | 00-03-0768A | 02
03 | PA | BUTLER, TOWNSHIP OF | 421247 A | 28-MAR-2000 | 00-03-0006A | 02
03 | PA | CLARKS SUMMIT, BOROUGH OF | 4205270001B | 06-APR-2000 | 00-03-059P | 06
03 | PA | CLARKSVILLE, BOROUGH OF | 4204760001B | 07-JAN-2000 | 00-03-0588A | 02
03 | PA | CONEMAUGH, TOWNSHIP OF | 4220470005A | 13-APR-2000 | 00-03-0664A | 02
03 | PA | CUMRU, TOWNSHIP OF | 420110C0516E | 11-APR-2000 | 98-03-047P |
03 | PA | CUMRU, TOWNSHIP OF | 42011C0512E | 11-APR-2000 | 98-03-047P | 05
03 | PA | DOYLESTOWN, TOWNSHIP OF | 42017C0311F | 02-MAY-2000 | 00-03-1072A | 02
03 | PA | DOYLESTOWN, TOWNSHIP OF | 42017C0311F | 13-APR-2000 | 00-03-0188A | 17
03 | PA | DOYLESTOWN, TOWNSHIP OF | 42017C0311F | 25-APR-2000 | 00-03-0722A | 02
03 | PA | EAST GOSHEN, TOWNSHIP OF | 42029C0218D | 18-FEB-2000 | 99-03-187P | 05
03 | PA | EAST GOSHEN, TOWNSHIP OF | 42029C0358D | 23-MAR-2000 | 00-03-0740A | 17
03 | PA | EAST GOSHEN, TOWNSHIP OF | 42029C0358D | 28-MAR-2000 | 00-03-0830A | 17
03 | PA | EAST LAMPETER, TOWNSHIP OF | 4217710005B | 10-MAY-2000 | 00-03-0860A | 02
03 | PA | FALLS, TOWNSHIP OF | 42017C0461F | 18-APR-2000 | 00-03-1218A | 02
03 | PA | FALLS, TOWNSHIP OF | 42017C0462F | 09-FEB-2000 | 00-03-0670A | 02
03 | PA | HARBORCREEK, TOWNSHIP OF | 4211440005B | 19-JAN-2000 | 99-03-1838A | 02
03 | PA | HARMONY, BOROUGH OF | 4202170001B | 31-MAY-2000 | 99-03-097P | 05
03 | PA | HEREFORD, TOWNSHIP OF | 42011C0441E | 28-JAN-2000 | 00-03-0382A | 02
03 | PA | HOLLENBACK, TOWNSHIP OF | 4218310005A | 28-MAR-2000 | 00-03-0334A | 02
03 | PA | JACKSON, TOWNSHIP OF | 4214200001A | 31-MAY-2000 | 99-03-097P | 05
03 | PA | JOHNSTOWN, CITY OF | 4202310010C | 28-JAN-2000 | 99-03-1688A | 02
03 | PA | KENHORST, BOROUGH OF | 412110C0512E | 11-APR-2000 | 98-03-047P |
03 | PA | KENHORST, BOROUGH OF | 42011C0516E | 11-APR-2000 | 98-03-047P | 05
03 | PA | LAPORTE, TOWNSHIP OF | 422065 A | 18-FEB-2000 | 00-03-0494A | 02
03 | PA | LOWER HEIDELBERG, TOWNSHIP OF | 42011C0483E | 04-APR-2000 | 99-03-133P | 05
03 | PA | LOWER MAKEFIELD, TOWNSHIP OF | 42017C0344F | 20-MAR-2000 | 00-11 | 02
03 | PA | LOWER MERION, TOWNSHIP OF | 42091C0432E | 19-MAY-2000 | 00-03-0728A | 02
03 | PA | LOWER MOUNT BETHEL, TOWNSHIP OF | 4207240010B | 14-MAR-2000 | 00-03-0666A | 02
03 | PA | MANHEIM, TOWNSHIP OF | 4205560010C | 16-MAY-2000 | 00-03-1156A | 02
03 | PA | MATAMORAS, BOROUGH OF | 4207580005A | 04-APR-2000 | 00-03-0702A | 02
03 | PA | MATAMORAS, BOROUGH OF | 4207580005A | 12-JAN-2000 | 00-03-0094A | 02
03 | PA | MATAMORAS, BOROUGH OF | 4207580005A | 25-FEB-2000 | 00-03-0582A | 02
03 | PA | MATAMORAS, BOROUGH OF | 4207580005A | 25-FEB-2000 | 00-03-0584A | 02
03 | PA | MIDDLETOWN, TOWNSHIP OF | 42017C0434F | 08-MAR-2000 | 99-03-151P | 05
03 | PA | MIDDLETOWN, TOWNSHIP OF | 42017C0442F | 08-MAR-2000 | 99-03-151P |
03 | PA | MIFFLINBURG, BOROUGHS OF | 4208320001B | 31-MAR-2000 | 99-03-1424A | 01
03 | PA | MONOGAHELA, CITY OF | 4208560001B | 07-FEB-2000 | 00-03 | 02
03 | PA | MORTON, BOROUGH OF | 42045C0034D | 01-JUN-2000 | 00-03-1464A | 02
03 | PA | MOUNT UNION, BOROUGH OF | 4204890001B | 22-MAR-2000 | 99-03-113P | 05
03 | PA | MUHLENBERG, TOWNSHIP OF | 42011C0366E | 04-MAY-2000 | 00-03-1032A | 02
03 | PA | NEW BRITAIN, TOWNSHIP OF | 42017C0286F | 01-FEB-2000 | 99-03-1906A | 02
03 | PA | NEW BRITAIN, TOWNSHIP OF | 42017C0288F | 22-FEB-2000 | 00-03-0844A | 02
03 | PA | NEWLIN, TOWNSHIP OF | 42029C0317D | 09-MAY-2000 | 00-03-1002A | 17
03 | PA | NORTHAMPTON, TOWNSHIP OF | 42017C0409F | 02-FEB-2000 | 00-03-0324A | 02
03 | PA | NORTHAMPTON, TOWNSHIP OF | 42017C0428F | 01-JUN-2000 | 00-03-0882A | 01
03 | PA | PARADISE, TOWNSHIP OF | 4218910005B | 02-MAY-2000 | 00-03-0994A | 02
03 | PA | PAXTANG, BOROUGH OF | 4203900001A | 02-MAY-2000 | 00-03-0888A | 02
03 | PA | PENN HILLS, TOWNSHIP OF | 42003C0383E | 17-FEB-2000 | 00-03-0166A | 02
03 | PA | PENN, TOWNSHIP OF | 42129C0382D | 18-APR-2000 | 00-03-1136A | 02
03 | PA | PEQUEA, TOWNSHIP OF | 4217790010A | 28-MAR-2000 | 00-03-0658A | 02
03 | PA | PETERS, TOWNSHIP OF | 4216540005C | 13-APR-2000 | 00-03-0108A | 02
03 | PA | PHILADELPHIA, CITY OF | 4207570186F | 16-MAY-2000 | 00-03-1026A | 02
03 | PA | RADNOR, TOWNSHIP OF | 42045C0009D | 27-APR-2000 | 00-03-1060A | 02
03 | PA | RICHMOND, TOWNSHIP OF | 42011C0360E | 04-FEB-2000 | 00-03-0132A | 02
03 | PA | RICHMOND, TOWNSHIP OF | 4208250020B | 13-APR-2000 | 00-03-0710A | 02
03 | PA | RIDLEY, TOWNSHIP OF | 42045C0046D | 25-APR-2000 | 00-14 | 02
03 | PA | SANDY LAKE, BOROUGH OF | 4206770001B | 18-APR-2000 | 00-03-0752A | 02
03 | PA | SANDY, TOWNSHIP OF | 4211910015B | 05-APR-2000 | 00-03-0732A | 02
03 | PA | SHREWSBURY, TOWNSHIP OF | 4211480012B | 18-FEB-2000 | 00-03-0126A | 02
03 | PA | SNYDERTOWN, CITY OF | 4207420001B | 09-FEB-2000 | 00-03-0008A | 01
03 | PA | SOUTH HEIDELBERG, TOWNSHIP OF | 42011C0490E | 10-FEB-2000 | 00-03-0872A | 02
03 | PA | SOUTH LEBANON, TOWNSHIP OF | 4205810008C | 13-JAN-2000 | 99-03-067P | 05
03 | PA | SPRINGFIELD, TOWNSHIP OF | 42091C0377E | 20-JAN-2000 | 00-03-0394A | 02
03 | PA | STATE COLLEGE, BOROUGH OF | 4202600005D | 14-MAR-2000 | 99-03-950A | 02
03 | PA | SWATARA, TOWNSHIP OF | 4203980005B | 24-MAY-2000 | 00-03-0692A | 02
03 | PA | UPPER FRANKFORD, TOWNSHIP OF | 4215880010B | 30-MAY-2000 | 00-03-0846A | 02
03 | PA | UPPER GWYNEDD, TOWNSHIP OF | 42091C0257E | 05-JAN-2000 | 00-03-0310A | 02
03 | PA | UPPER GWYNEDD, TOWNSHIP OF | 42091C0257E | 11-APR-2000 | 00-03-0894X | 02
03 | PA | UPPER UWCHLAN, TWP OF | 42029C0181D | 04-FEB-2000 | 00-03-0110A | 02
03 | PA | VALLEY, TOWNSHIP OF | 42029C0301D | 01-FEB-2000 | 99-03-195P | 05
03 | PA | VALLEY, TOWNSHIP OF | 42029C0301D | 18-APR-2000 | 00-03-1052A | 02
03 | PA | VENANGO, TOWNSHIP OF | 4213710005A | 25-APR-2000 | 00-03-0502A | 02
03 | PA | WARRINGTON, TOWNSHIP OF | 42017C0382F | 01-FEB-2000 | 00-03-035P | 06
03 | PA | WARWICK, TOWNSHIP OF | 4217860003B | 30-MAY-2000 | 00-03-1056A | 02
03 | PA | WAYNE, TOWNSHIP OF | 4212400015A | 22-MAR-2000 | 99-03-113P | 05
03 | PA | WILLISTOWN, TOWNSHIP OF | 42029C0218D | 18-FEB-2000 | 99-03-187P | 05
03 | PA | WRIGHT, TOWNSHIP OF | 4206320003B | 01-FEB-2000 | 00-03-017P | 05
03 | VA | ALBEMARLE COUNTY * | 5100060075B | 02-MAY-2000 | 00-03-0498A | 02
03 | VA | ALEXANDRIA, CITY OF | 5155190005D | 04-FEB-2000 | 00-03-0330A | 02
03 | VA | ARLINGTON COUNTY | 5155200022B | 02-MAY-2000 | 00-03-1232A | 02
03 | VA | BEDFORD COUNTY * | 5100160025A | 07-MAR-2000 | 00-03-0842A | 02
03 | VA | BEDFORD COUNTY * | 5100160100A | 05-MAY-2000 | 00-03-1182A | 02
03 | VA | BLAND COUNTY * | 5100170055B | 16-MAR-2000 | 00-03-0676A | 02
03 | VA | BRISTOL, CITY OF | 5100220001B | 01-JUN-2000 | 00-03-1312X | 02
03 | VA | BRISTOL, CITY OF | 5100220001B | 28-MAR-2000 | 99-03-1440A | 17
03 | VA | CHESAPEAKE, CITY OF | 5100340004C | 18-APR-2000 | 00-03-0720A | 02
03 | VA | CHESAPEAKE, CITY OF | 5100340022C | 03-MAR-2000 | 00-03-0678A | 02
03 | VA | CHESAPEAKE, CITY OF | 5100340022C | 04-APR-2000 | 00-03-1224X | 02
03 | VA | CHESAPEAKE, CITY OF | 5100340022C | 05-APR-2000 | 00-03-0028A | 02
03 | VA | CHESAPEAKE, CITY OF | 5100340022C | 05-APR-2000 | 00-03-0736A | 02
03 | VA | CHESAPEAKE, CITY OF | 5100340022C | 09-MAR-2000 | 00-03-0578A | 02
03 | VA | CHESAPEAKE, CITY OF | 5100340022C | 09-MAY-2000 | 00-03-1028A | 02
03 | VA | CHESAPEAKE, CITY OF | 5100340022C | 20-APR-2000 | 00-03-0866A | 02
03 | VA | CHESAPEAKE, CITY OF | 5100340035C | 16-MAY-2000 | 00-03-1270A | 01
03 | VA | CHESAPEAKE, CITY OF | 5100340046C | 10-FEB-2000 | 00-03-0338A | 02
03 | VA | CHESAPEAKE, CITY OF | 5100340048C | 14-JAN-2000 | 00-03-0592A | 02
03 | VA | CHESAPEAKE, CITY OF | 5100340048C | 18-MAY-2000 | 00-03-1296A | 02
03 | VA | CHESTERFIELD COUNTY * | 5100350034B | 22-MAY-2000 | 00-03-0762A | 02
03 | VA | COLONIAL HEIGHTS, CITY OF | 5100390003C | 20-APR-2000 | 00-03-1228A | 02
03 | VA | FAIRFAX COUNTY * | 5155250025D | 11-APR-2000 | 00-03-1274X | 02
03 | VA | FAIRFAX COUNTY * | 5155250025D | 12-JAN-2000 | 00-03-0654X | 02
03 | VA | FAIRFAX COUNTY * | 5155250025D | 14-MAR-2000 | 00-03-0998A | 02
03 | VA | FAIRFAX COUNTY * | 5155250025D | 21-MAR-2000 | 00-03-0674A | 02
03 | VA | FAIRFAX COUNTY * | 5155250050D | 23-MAY-2000 | 00-03-1392A | 02
03 | VA | FAIRFAX COUNTY * | 5155250075D | 04-APR-2000 | 00-03-1148A | 02
03 | VA | FAIRFAX COUNTY * | 5155250075D | 11-APR-2000 | 00-03-1272X | 02
03 | VA | FAIRFAX COUNTY * | 5155250075D | 13-APR-2000 | 00-03-1126A | 02
03 | VA | FAIRFAX COUNTY * | 5155250075D | 17-FEB-2000 | 00-03-0936X | 02
03 | VA | FAIRFAX COUNTY * | 5155250075D | 23-MAY-2000 | 00-03-1390A | 02
03 | VA | FAIRFAX COUNTY * | 5155250075D | 28-JAN-2000 | 00-03-0186A | 02
03 | VA | FAIRFAX COUNTY * | 5155250087D | 02-FEB-2000 | 00-03-0386A | 02
03 | VA | FAIRFAX COUNTY * | 5155250100D | 12-JAN-2000 | 00-03-0158A | 02
03 | VA | FAIRFAX COUNTY * | 5155250100D | 19-JAN-2000 | 00-03-0746X | 02
03 | VA | FAIRFAX COUNTY * | 5155250100D | 25-APR-2000 | 00-03-0510A | 02
03 | VA | FAIRFAX COUNTY * | 5155250125D | 18-MAY-2000 | 00-03-1030A | 01
03 | VA | FAIRFAX, CITY OF | 5155240005B | 11-APR-2000 | 00-03-0928A | 02
03 | VA | FAIRFAX, CITY OF | 5155240005B | 25-MAY-2000 | 00-03-1302A | 02
03 | VA | FALLS CHURCH, CITY OF | 5100540001B | 21-MAR-2000 | 00-03-0332A | 02
03 | VA | FRANKLIN COUNTY * | 5100610100A | 06-JAN-2000 | 99-03-1446A | 02
03 | VA | FRANKLIN COUNTY * | 5100610100A | 25-FEB-2000 | 00-09 | 02
03 | VA | FRANKLIN COUNTY * | 5100610205A | 18-APR-2000 | 00-03-0778A | 02
03 | VA | FRANKLIN COUNTY * | 5100610210A | 25-MAY-2000 | 00-03-1146A | 02
03 | VA | FRANKLIN COUNTY * | 5100610220A | 04-MAY-2000 | 00-03-1252A | 02
03 | VA | FRANKLIN COUNTY * | 5100610250A | 30-MAY-2000 | 00-03-1186A | 02
03 | VA | FRONT ROYAL, TOWN OF | 5101670002B | 07-APR-2000 | 00-03-0864A | 01
03 | VA | FRONT ROYAL, TOWN OF | 5101670002B | 27-JAN-2000 | 99-03-007P | 05
03 | VA | HANOVER COUNTY * | 5102370160A | 18-FEB-2000 | 99-03-1162A | 02
03 | VA | HANOVER COUNTY * | 5102370160A | 22-FEB-2000 | 00-03-0586A | 02
03 | VA | HENRICO COUNTY * | 5100770025B | 02-MAY-2000 | 00-03-0384A | 02
03 | VA | HENRICO COUNTY * | 5100770025B | 05-JAN-2000 | 00-03-0374A | 02
03 | VA | HENRICO COUNTY * | 5100770025B | 05-JAN-2000 | 99-03-1772A | 02
03 | VA | HENRICO COUNTY * | 5100770025B | 18-MAY-2000 | 00-03-1192A | 02
03 | VA | HENRICO COUNTY * | 5100770025B | 23-MAR-2000 | 00-03-1160X | 02
03 | VA | HENRICO COUNTY * | 5100770025B | 24-MAY-2000 | 00-03-0862A | 02
03 | VA | HENRICO COUNTY * | 5100770025B | 25-FEB-2000 | 00-03-0376A | 02
03 | VA | HENRICO COUNTY * | 5100770025B | 30-MAR-2000 | 00-03-1134A | 02
03 | VA | HERNDON, TOWN OF | 5100520001B | 02-MAY-2000 | 00-03-1254A | 02
03 | VA | JAMES CITY COUNTY * | 5102010045B | 21-MAR-2000 | 00-03-0380A | 02
03 | VA | LEXINGTON, CITY OF | 5100890001B | 07-APR-2000 | 00-03-1122V | 19
03 | VA | LOUDOUN COUNTY * | 5100900020C | 20-APR-2000 | 00-03-0826A | 02
03 | VA | LOUDOUN COUNTY * | 5100900110C | 05-JAN-2000 | 00-03-0372A | 02
03 | VA | LOUDOUN COUNTY * | 5100900110C | 14-JAN-2000 | 00-03-009P | 05
03 | VA | LOUDOUN COUNTY * | 5100900175C | 06-APR-2000 | 00-03-0302A | 02
03 | VA | LOUISA COUNTY * | 51109C0125B | 07-FEB-2000 | 00-03-0608A | 02
03 | VA | LOUISA COUNTY * | 51109C0125B | 07-MAR-2000 | 00-10 | 02
03 | VA | LOUISA COUNTY * | 51109C0125B | 28-JAN-2000 | 00-03-0026A | 02
03 | VA | LOUISA COUNTY * | 51109C0375B | 04-APR-2000 | 00-03-0718A | 02
03 | VA | LURAY, TOWN OF | 5101100002C | 16-MAR-2000 | 00-03-0594A | 02
03 | VA | MANASSAS, CITY OF | 51153C0113D | 21-MAR-2000 | 00-03-0392A | 02
03 | VA | MECKLENBURG COUNTY * | 5101890200A | 31-MAR-2000 | 99-03-1466A | 02
03 | VA | NEWPORT NEWS, CITY OF | 5101030010C | 06-APR-2000 | 00-03-1194A | 02
03 | VA | NORTHUMBERLAND COUNTY * | 5101070010C | 27-APR-2000 | 00-03-1064A | 02
03 | VA | ORANGE COUNTY * | 5102030020B | 18-MAY-2000 | 00-03-1284A | 02
03 | VA | PORTSMOUTH, CITY OF | 5155290025B | 19-JAN-2000 | 00-03-0308A | 02
03 | VA | PRINCE GEORGE COUNTY * | 5102040025A | 16-MAR-2000 | 99-03-1836A | 02
03 | VA | PRINCE WILLIAM COUNTY * | 51153C0025D | 07-MAR-2000 | 00-03-0634A | 02
03 | VA | PRINCE WILLIAM COUNTY * | 51153C0060D | 28-JAN-2000 | 00-03-0626A | 02
03 | VA | PRINCE WILLIAM COUNTY * | 51153C0060D | 28-JAN-2000 | 00-03-0628A | 02
03 | VA | PRINCE WILLIAM COUNTY * | 51153C0060D | 28-JAN-2000 | 00-03-0630A | 02
03 | VA | PRINCE WILLIAM COUNTY * | 51153C0060D | 30-MAR-2000 | 00-03-0632A | 02
03 | VA | PRINCE WILLIAM COUNTY * | 51153C0066D | 28-MAR-2000 | 00-03-0618A | 02
03 | VA | PRINCE WILLIAM COUNTY * | 51153C0066D | 28-MAR-2000 | 00-03-0620A | 02
03 | VA | PRINCE WILLIAM COUNTY * | 51153C0080D | 30-MAY-2000 | 00-03-0804A | 02
03 | VA | PRINCE WILLIAM COUNTY * | 51153C0080D | 30-MAY-2000 | 00-03-0806A | 02
03 | VA | PRINCE WILLIAM COUNTY * | 51153C0088D | 04-APR-2000 | 00-03-0980A | 02
03 | VA | PRINCE WILLIAM COUNTY * | 51153C0088D | 15-MAR-2000 | 00-03-0958A | 02
03 | VA | PRINCE WILLIAM COUNTY * | 51153C0089D | 11-APR-2000 | 00-03-0548A | 02
03 | VA | PRINCE WILLIAM COUNTY * | 51153C0089D | 16-MAR-2000 | 00-03-0954A | 02
03 | VA | PRINCE WILLIAM COUNTY * | 51153C0089D | 28-MAR-2000 | 00-03-0956A | 02
03 | VA | PRINCE WILLIAM COUNTY * | 51153C0111D | 02-MAR-2000 | 00-03-0938A | 02
03 | VA | PRINCE WILLIAM COUNTY * | 51153C0111D | 04-APR-2000 | 00-03-0968A | 02
03 | VA | PRINCE WILLIAM COUNTY * | 51153C0111D | 04-APR-2000 | 00-03-0970A | 02
03 | VA | PRINCE WILLIAM COUNTY * | 51153C0111D | 14-MAR-2000 | 00-03-0966A | 02
03 | VA | PRINCE WILLIAM COUNTY * | 51153C0111D | 16-MAR-2000 | 00-03-0976A | 02
03 | VA | PRINCE WILLIAM COUNTY * | 51153C0111D | 23-MAY-2000 | 00-03-0974A | 02
03 | VA | PRINCE WILLIAM COUNTY * | 51153C0111D | 28-MAR-2000 | 00-03-0978A | 02
03 | VA | PRINCE WILLIAM COUNTY * | 51153C0111D | 29-FEB-2000 | 00-03-0940A | 02
03 | VA | PRINCE WILLIAM COUNTY * | 51153C0111D | 29-FEB-2000 | 00-03-0964A | 02
03 | VA | PRINCE WILLIAM COUNTY * | 51153C0111D | 30-MAY-2000 | 00-03-0972A | 02
03 | VA | PRINCE WILLIAM COUNTY * | 51153C0112D | 03-JAN-2000 | 00-03-0198A | 02
03 | VA | PRINCE WILLIAM COUNTY * | 51153C0112D | 19-JAN-2000 | 00-03-0202A | 02
03 | VA | PRINCE WILLIAM COUNTY * | 51153C0112D | 29-FEB-2000 | 00-03-0948A | 02
03 | VA | PRINCE WILLIAM COUNTY * | 51153C0112D | 29-FEB-2000 | 00-03-0950A | 02
03 | VA | PRINCE WILLIAM COUNTY * | 51153C0112D | 29-FEB-2000 | 00-03-0952A | 02
03 | VA | PRINCE WILLIAM COUNTY * | 51153C0113D | 29-FEB-2000 | 00-03-0942A | 02
03 | VA | PRINCE WILLIAM COUNTY * | 51153C0113D | 29-FEB-2000 | 00-03-0944A | 02
03 | VA | PRINCE WILLIAM COUNTY * | 51153C0113D | 29-FEB-2000 | 00-03-0946A | 02
03 | VA | PRINCE WILLIAM COUNTY * | 51153C0150D | 24-FEB-2000 | 00-03-0638A | 02
03 | VA | PRINCE WILLIAM COUNTY * | 51153C0154D | 27-APR-2000 | 00-03-1096A | 02
03 | VA | PRINCE WILLIAM COUNTY * | 51153C0155D | 23-MAY-2000 | 00-03-0636A | 02
03 | VA | PRINCE WILLIAM COUNTY * | 51153C0157D | 25-APR-2000 | 00-03-0792A | 02
03 | VA | PRINCE WILLIAM COUNTY * | 51153C0157D | 25-APR-2000 | 00-03-0794A | 02
03 | VA | PRINCE WILLIAM COUNTY * | 51153C0165D | 24-FEB-2000 | 00-03-0640A | 02
03 | VA | PRINCE WILLIAM COUNTY * | 51153C0165D | 24-FEB-2000 | 00-03-0642A | 02
03 | VA | PRINCE WILLIAM COUNTY * | 51153C0165D | 24-FEB-2000 | 00-03-0644A | 02
03 | VA | PRINCE WILLIAM COUNTY * | 51153C0170D | 11-MAY-2000 | 00-03-0798A | 02
03 | VA | PRINCE WILLIAM COUNTY * | 51153C0170D | 11-MAY-2000 | 00-03-0802A | 02
03 | VA | PRINCE WILLIAM COUNTY * | 51153C0170D | 24-FEB-2000 | 00-03-0646A | 02
03 | VA | PRINCE WILLIAM COUNTY * | 51153C0170D | 24-FEB-2000 | 00-03-0648A | 02
03 | VA | PRINCE WILLIAM COUNTY * | 51153C0170D | 30-MAY-2000 | 00-03-0808A | 02
03 | VA | PRINCE WILLIAM COUNTY * | 51153C0179D | 04-APR-2000 | 00-03-1108A | 02
03 | VA | PRINCE WILLIAM COUNTY * | 51153C0179D | 04-APR-2000 | 00-03-1114A | 02
03 | VA | PRINCE WILLIAM COUNTY * | 51153C0179D | 18-MAY-2000 | 00-03-1112A | 02
03 | VA | PRINCE WILLIAM COUNTY * | 51153C0187D | 02-FEB-2000 | 00-03-0550A | 02
03 | VA | PRINCE WILLIAM COUNTY * | 51153C0191D | 11-APR-2000 | 00-03-0552A | 02
03 | VA | PRINCE WILLIAM COUNTY * | 51153C0191D | 11-APR-2000 | 00-03-0554A | 02
03 | VA | PRINCE WILLIAM COUNTY * | 51153C0191D | 11-APR-2000 | 00-03-0556A | 02
03 | VA | PRINCE WILLIAM COUNTY * | 51153C0191D | 18-APR-2000 | 00-03-0962A | 02
03 | VA | PRINCE WILLIAM COUNTY * | 51153C0191D | 25-APR-2000 | 00-03-0512A | 02
03 | VA | PRINCE WILLIAM COUNTY * | 51153C0191D | 25-APR-2000 | 00-03-0516A | 02
03 | VA | PRINCE WILLIAM COUNTY * | 51153C0191D | 25-APR-2000 | 00-03-0518A | 02
03 | VA | PRINCE WILLIAM COUNTY * | 51153C0191D | 25-APR-2000 | 00-03-0520A | 02
03 | VA | PRINCE WILLIAM COUNTY * | 51153C0191D | 25-APR-2000 | 00-03-0522A | 02
03 | VA | PRINCE WILLIAM COUNTY * | 51153C0191D | 25-APR-2000 | 00-03-0524A | 02
03 | VA | PRINCE WILLIAM COUNTY * | 51153C0191D | 25-APR-2000 | 00-03-0526A | 02
03 | VA | PRINCE WILLIAM COUNTY * | 51153C0191D | 25-APR-2000 | 00-03-0528A | 02
03 | VA | PRINCE WILLIAM COUNTY * | 51153C0191D | 25-APR-2000 | 00-03-0530A | 02
03 | VA | PRINCE WILLIAM COUNTY * | 51153C0193D | 18-APR-2000 | 00-03-0614A | 02
03 | VA | PRINCE WILLIAM COUNTY * | 51153C0194D | 05-JAN-2000 | 00-03-0210A | 02
03 | VA | PRINCE WILLIAM COUNTY * | 51153C0194D | 05-JAN-2000 | 00-03-0214A | 02
03 | VA | PRINCE WILLIAM COUNTY * | 51153C0194D | 11-APR-2000 | 00-03-0534A | 02
03 | VA | PRINCE WILLIAM COUNTY * | 51153C0194D | 13-APR-2000 | 00-03-0532A | 02
03 | VA | PRINCE WILLIAM COUNTY * | 51153C0194D | 28-JAN-2000 | 00-03-0478A | 02
03 | VA | PRINCE WILLIAM COUNTY * | 51153C0194D | 30-MAR-2000 | 00-03-0610A | 02
03 | VA | PRINCE WILLIAM COUNTY * | 51153C0201D | 29-FEB-2000 | 00-03-0960A | 02
03 | VA | PRINCE WILLIAM COUNTY * | 51153C0204D | 02-MAR-2000 | 00-03-0460A | 02
03 | VA | PRINCE WILLIAM COUNTY * | 51153C0204D | 16-FEB-2000 | 00-03-0448A | 02
03 | VA | PRINCE WILLIAM COUNTY * | 51153C0204D | 24-FEB-2000 | 00-03-0446A | 02
03 | VA | PRINCE WILLIAM COUNTY * | 51153C0204D | 24-FEB-2000 | 00-03-0454A | 02
03 | VA | PRINCE WILLIAM COUNTY * | 51153C0204D | 24-FEB-2000 | 00-03-0456A | 02
03 | VA | PRINCE WILLIAM COUNTY * | 51153C0204D | 29-FEB-2000 | 00-03-0438A | 02
03 | VA | PRINCE WILLIAM COUNTY * | 51153C0204D | 29-FEB-2000 | 00-03-0444A | 02
03 | VA | PRINCE WILLIAM COUNTY * | 51153C0204D | 29-FEB-2000 | 00-03-0450A | 02
03 | VA | PRINCE WILLIAM COUNTY * | 51153C0204D | 29-FEB-2000 | 00-03-0458A | 02
03 | VA | PRINCE WILLIAM COUNTY * | 51153C0212D | 03-JAN-2000 | 00-03-0194A | 02
03 | VA | PRINCE WILLIAM COUNTY * | 51153C0212D | 03-JAN-2000 | 00-03-0288A | 02
03 | VA | PRINCE WILLIAM COUNTY * | 51153C0212D | 03-JAN-2000 | 00-03-0656X | 02
03 | VA | PRINCE WILLIAM COUNTY * | 51153C0212D | 05-JAN-2000 | 00-03-0292A | 02
03 | VA | PRINCE WILLIAM COUNTY * | 51153C0212D | 12-JAN-2000 | 00-03-0230A | 02
03 | VA | PRINCE WILLIAM COUNTY * | 51153C0212D | 12-JAN-2000 | 00-03-0232A | 02
03 | VA | PRINCE WILLIAM COUNTY * | 51153C0212D | 12-JAN-2000 | 00-03-0234A | 02
03 | VA | PRINCE WILLIAM COUNTY * | 51153C0212D | 12-JAN-2000 | 00-03-0236A | 02
03 | VA | PRINCE WILLIAM COUNTY * | 51153C0212D | 15-MAR-2000 | 00-03-0788A | 02
03 | VA | PRINCE WILLIAM COUNTY * | 51153C0212D | 21-MAR-2000 | 00-03-0786A | 02
03 | VA | PRINCE WILLIAM COUNTY * | 51153C0212D | 23-MAR-2000 | 00-03-0790A | 02
03 | VA | PRINCE WILLIAM COUNTY * | 51153C0214D | 04-FEB-2000 | 00-03-0462A | 02
03 | VA | PRINCE WILLIAM COUNTY * | 51153C0214D | 04-FEB-2000 | 00-03-0464A | 02
03 | VA | PRINCE WILLIAM COUNTY * | 51153C0214D | 04-FEB-2000 | 00-03-0466A | 02
03 | VA | PRINCE WILLIAM COUNTY * | 51153C0214D | 04-FEB-2000 | 00-03-0468A | 02
03 | VA | PRINCE WILLIAM COUNTY * | 51153C0214D | 04-FEB-2000 | 00-03-0470A | 02
03 | VA | PRINCE WILLIAM COUNTY * | 51153C0214D | 04-FEB-2000 | 00-03-0472A | 02
03 | VA | PRINCE WILLIAM COUNTY * | 51153C0214D | 04-FEB-2000 | 00-03-0474A | 02
03 | VA | PRINCE WILLIAM COUNTY * | 51153C0216D | 05-JAN-2000 | 00-03-0294A | 02
03 | VA | PRINCE WILLIAM COUNTY * | 51153C0216D | 12-JAN-2000 | 00-03-0296A | 02
03 | VA | PRINCE WILLIAM COUNTY * | 51153C0216D | 12-JAN-2000 | 00-03-0298A | 02
03 | VA | PRINCE WILLIAM COUNTY * | 51153C0216D | 30-MAR-2000 | 00-03-0612A | 02
03 | VA | PRINCE WILLIAM COUNTY * | 51153C0217D | 04-APR-2000 | 00-03-1116A | 02
03 | VA | PRINCE WILLIAM COUNTY * | 51153C0238D | 13-APR-2000 | 00-03-1098A | 02
03 | VA | PRINCE WILLIAM COUNTY * | 51153C0238D | 25-APR-2000 | 00-03-1196A | 02
03 | VA | PULASKI COUNTY * | 5101250100B | 02-FEB-2000 | 00-03-0114A | 02
03 | VA | PULASKI COUNTY * | 5101250100B | 07-MAR-2000 | 00-03-1058X | 02
03 | VA | ROANOKE COUNTY * | 51161C0029D | 15-MAR-2000 | 00-03-0688A | 01
03 | VA | ROANOKE COUNTY * | 51161C0039E | 23-MAR-2000 | 00-03-0726A | 02
03 | VA | ROANOKE, CITY OF | 51161C0023D | 16-MAY-2000 | 00-03-0890A | 02
03 | VA | SALEM, CITY OF | 51161C0037D | 18-FEB-2000 | 99-03-1608A | 01
03 | VA | SALEM, CITY OF | 51161C0037D | 30-MAR-2000 | 99-03-1492A | 01
03 | VA | SMITHFIELD, TOWN OF | 5100810005C | 05-APR-2000 | 00-03-0992A | 02
03 | VA | SMITHFIELD, TOWN OF | 5100810005C | 05-JAN-2000 | 99-03-1568A | 02
03 | VA | SPOTSYLVANIA COUNTY* | 5103080050C | 21-MAR-2000 | 00-03-1054A | 02
03 | VA | SPOTSYLVANIA COUNTY* | 5103080225C | 02-MAR-2000 | 00-03-0340A | 02
03 | VA | SPOTSYLVANIA COUNTY* | 5103080275C | 21-MAR-2000 | 00-03-0858A | 02
03 | VA | STAFFORD COUNTY * | 5101540130B | 08-MAR-2000 | 99-03-117P | 05
03 | VA | STAFFORD COUNTY * | 5101540135D | 14-MAR-2000 | 00-03-0916A | 02
03 | VA | STAFFORD COUNTY * | 5101540165B | 08-FEB-2000 | 00-03-0304A | 02
03 | VA | STAFFORD COUNTY * | 5101540250B | 03-MAR-2000 | 00-03-0508A | 02
03 | VA | VIRGINIA BEACH, CITY OF | 5155310021E | 28-JAN-2000 | 00-03-0748X | 02
03 | VA | VIRGINIA BEACH, CITY OF | 5155310029E | 02-FEB-2000 | 99-03-1646A | 02
03 | VA | VIRGINIA BEACH, CITY OF | 5155310048E | 20-APR-2000 | 00-03-1286A | 01
03 | VA | VIRGINIA BEACH, CITY OF | 5155310059E | 24-FEB-2000 | 00-03-0482A | 02
03 | VA | WINCHESTER, CITY OF | 5101730005B | 02-FEB-2000 | 99-03-177P | 06
03 | VA | YORK COUNTY * | 5101820043B | 04-APR-2000 | 00-03-0010A | 02
03 | VA | YORK COUNTY * | 5101820043B | 04-APR-2000 | 00-03-0098A | 02
03 | WV | BERKELEY COUNTY * | 5402820083C | 09-MAY-2000 | 00-03-1298A | 02
03 | WV | CABELL COUNTY* | 5400160025A | 18-MAY-2000 | 00-03-1172A | 02
03 | WV | CHARLESTON, CITY OF | 5400730004C | 08-MAR-2000 | 99-03-1792A | 02
03 | WV | CHARLESTON, CITY OF | 5400730004C | 12-APR-2000 | 00-03-0738A | 02
03 | WV | ELEANOR, TOWN OF | 540222 B | 11-APR-2000 | 00-03-0896X | 02
03 | WV | ELEANOR, TOWN OF | 540222 B | 12-JAN-2000 | 00-03-0112A | 02
03 | WV | GARY, CITY OF | 5401170001B | 28-JAN-2000 | 00-03-0596A | 02
03 | WV | GILMER COUNTY * | 54021C0080B | 28-JAN-2000 | 00-03-0150A | 02
03 | WV | GLENVILLE, CITY OF | 54021C0078B | 16-MAY-2000 | 00-03-1244A | 01
03 | WV | HARRISON COUNTY* | 5400530059B | 02-MAY-2000 | 00-03-1130A | 02
03 | WV | HENDRICKS,TOWN OF | 54093C0084D | 07-FEB-2000 | 00-07 | 02
03 | WV | HUNTINGTON, CITY OF | 5400180006C | 20-APR-2000 | 00-03-0668A | 02
03 | WV | JEFFERSON COUNTY * | 5400650066B | 07-MAR-2000 | 00-03-0910A | 02
03 | WV | LEWIS COUNTY* | 5400850079C | 11-MAY-2000 | 00-03-1326A | 02
03 | WV | MASON COUNTY * | 5401120245A | 29-MAR-2000 | 00-03-0378A | 02
03 | WV | MCDOWELL COUNTY * | 5401140065B | 28-MAR-2000 | 00-03-0484A | 02
03 | WV | MERCER COUNTY* | 5401240114C | 25-APR-2000 | 00-03-0562A | 02
03 | WV | MONONGALIA COUNTY * | 5401390045B | 11-MAY-2000 | 00-03-1354A | 02
03 | WV | MORGANTOWN, CITY OF | 5401410001D | 18-FEB-2000 | 00-03-0840X | 02
03 | WV | PENDELTON COUNTY* | 5401530025C | 07-APR-2000 | 00-03-1142A | 02
03 | WV | PRINCETON, CITY OF | 5401280002C | 04-APR-2000 | 00-03-0870A | 01
03 | WV | PUTNAM COUNTY* | 5401640115A | 25-APR-2000 | 00-03-0908A | 02
03 | WV | RALEIGH COUNTY * | 5401690025B | 23-MAR-2000 | 00-03-0558A | 02
03 | WV | WAYNE COUNTY* | 5402000106B | 05-JAN-2000 | 00-03-0600A | 02
03 | WV | WAYNE COUNTY* | 5402000111B | 21-MAR-2000 | 00-03-1036A | 02
03 | WV | WELCH, CITY OF | 5401230001B | 07-MAR-2000 | 00-03-0390A | 02
03 | WV | WETZEL COUNTY * | 5402070035A | 31-MAR-2000 | 00-03-0686A | 02
03 | WV | WETZEL COUNTY * | 5402070070A | 27-APR-2000 | 00-03-1154A | 02
03 | WV | WHEELING, CITY OF | 5401520015D | 02-MAY-2000 | 00-03-1248A | 02
03 | WV | WOOD COUNTY * | 5402130046B | 19-MAY-2000 | 00-03-0854A | 02
04 | AL | ANNISTON, CITY OF | 0100200001C | 11-JAN-2000 | 99-04-6210A | 02
04 | AL | ANNISTON, CITY OF | 0100200001C | 16-MAY-2000 | 00-04-2788A | 17
04 | AL | AUTAUGA COUNTY * | 0103140040B | 24-FEB-2000 | 00-04-1232A | 02
04 | AL | BIRMINGHAM, CITY OF | 01073C0486E | 06-JAN-2000 | 00-04-0610A | 01
04 | AL | COLBERT COUNTY | 0103180025B | 18-MAY-2000 | 99-04-273P | 05
04 | AL | COLBERT COUNTY | 0103180125B | 03-FEB-2000 | 00-04-0258A | 02
04 | AL | COLBERT COUNTY | 0103180125B | 15-FEB-2000 | 00-04-1528A | 02
04 | AL | DALE COUNTY * | 0100600175B | 07-MAR-2000 | 00-04-1592A | 02
04 | AL | DALE COUNTY * | 0100600175B | 13-APR-2000 | 00-04-1826A | 02
04 | AL | DECATUR, CITY OF | 01103C0060D | 01-JUN-2000 | 00-04-3318A | 02
04 | AL | DECATUR, CITY OF | 01103C0060D | 01-MAY-2000 | 99-04-165P | 05
04 | AL | DECATUR, CITY OF | 01103C0060D | 04-FEB-2000 | 99-04-5708A | 02
04 | AL | DECATUR, CITY OF | 01103C0060D | 08-FEB-2000 | 00-04-1006A | 02
04 | AL | DECATUR, CITY OF | 01103C0060D | 20-APR-2000 | 00-04-2284A | 02
04 | AL | DECATUR, CITY OF | 01103C0070D | 01-MAY-2000 | 99-04-165P |
04 | AL | DECATUR, CITY OF | 01103C0070D | 09-MAR-2000 | 00-04-1864A | 02
04 | AL | DECATUR, CITY OF | 01103C0080D | 01-MAY-2000 | 99-04-165P |
04 | AL | DECATUR, CITY OF | 01103C0080D | 09-MAY-2000 | 00-04-2556A | 02
04 | AL | DECATUR, CITY OF | 01103C0080D | 22-FEB-2000 | 00-04-1540A | 02
04 | AL | DECATUR, CITY OF | 01103C0080D | 24-FEB-2000 | 00-04-1746A | 02
04 | AL | DECATUR, CITY OF | 01103C0090D | 02-MAY-2000 | 00-04-1164A | 02
04 | AL | ELMORE COUNTY* | 0104060025B | 04-MAY-2000 | 00-04-2366A | 02
04 | AL | ELMORE COUNTY* | 0104060100B | 01-JUN-2000 | 00-04-3038A | 02
04 | AL | HUEYTOWN, CITY OF | 01073C0461E | 01-JUN-2000 | 00-04-3236A | 02
04 | AL | HUEYTOWN, CITY OF | 01073C0461E | 04-JAN-2000 | 00-04-0900A | 02
04 | AL | HUNTSVILLE, CITY OF | 01089C0328D | 17-FEB-2000 | 00-04-1454A | 01
04 | AL | HUNTSVILLE, CITY OF | 01089C0331D | 27-JAN-2000 | 00-04-0680A | 02
04 | AL | HUNTSVILLE, CITY OF | 01089C0340D | 18-MAY-2000 | 00-04-2884A | 01
04 | AL | HUNTSVILLE, CITY OF | 01089C0341D | 10-FEB-2000 | 99-04-4018A | 01
04 | AL | HUNTSVILLE, CITY OF | 01089C0341D | 22-FEB-2000 | 00-04-1396A | 02
04 | AL | HUNTSVILLE, CITY OF | 01089C0362D | 23-MAY-2000 | 00-04-2806A | 01
04 | AL | JEFFERSON COUNTY * | 01073C0183F | 14-JAN-2000 | 00-04-0768A | 01
04 | AL | JEFFERSON COUNTY * | 01073C0194E | 11-MAY-2000 | 00-04-2160A | 02
04 | AL | JEFFERSON COUNTY * | 01073C0194E | 12-JAN-2000 | 00-04-0770A | 02
04 | AL | JEFFERSON COUNTY * | 01073C0484E | 18-MAY-2000 | 00-04-1804A | 02
04 | AL | JEFFERSON COUNTY * | 01073C0491E | 09-MAY-2000 | 00-04-2660A | 02
04 | AL | JEFFERSON COUNTY * | 01073C0492E | 09-MAY-2000 | 00-04-2784A | 17
04 | AL | LANETT, CITY OF | 0100290010B | 01-FEB-2000 | 00-04-1300A | 02
04 | AL | LANETT, CITY OF | 0100290010B | 09-MAR-2000 | 00-04-1212A | 02
04 | AL | LANETT, CITY OF | 0100290010B | 16-MAR-2000 | 00-04-1216A | 02
04 | AL | LEEDS, CITY OF | 01073C0366E | 16-FEB-2000 | 00-04-1740X | 01
04 | AL | MADISON, CITY OF | 01089C0284D | 14-MAR-2000 | 99-04-4344A | 01
04 | AL | MOBILE COUNTY* | 01097C0200J | 20-APR-2000 | 00-04-2286A | 02
04 | AL | MOBILE COUNTY* | 01097C0432J | 14-MAR-2000 | 00-04-1888A | 02
04 | AL | MOBILE COUNTY* | 01097C0778J | 18-APR-2000 | 00-04-1516A | 02
04 | AL | MOBILE, CITY OF | 01097C0541J | 08-FEB-2000 | 00-04-1480A | 17
04 | AL | MONTGOMERY COUNTY * | 01101C0070F | 10-FEB-2000 | 00-04-1296A | 02
04 | AL | MONTGOMERY, CITY OF | 01101C0070F | 01-JUN-2000 | 00-04-2032A | 01
04 | AL | MONTGOMERY, CITY OF | 01101C0070F | 14-MAR-2000 | 00-04-1984A | 02
04 | AL | MONTGOMERY, CITY OF | 01101C0135F | 28-MAR-2000 | 00-04-1948A | 02
04 | AL | MOULTON, CITY OF | 0101420002B | 11-JAN-2000 | 00-04-0744A | 02
04 | AL | PELHAM, TOWN OF | 0101930001B | 14-MAR-2000 | 00-04-1290A | 02
04 | AL | PLEASANT GROVE, CITY OF | 01073C0451E | 19-JAN-2000 | 00-04-0282A | 02
04 | AL | SARALAND, CITY OF | 01097C0429J | 04-MAY-2000 | 00-04-2964A | 02
04 | AL | SHELBY COUNTY* | 0101910025B | 01-FEB-2000 | 00-04-0988A | 02
04 | AL | SHELBY COUNTY* | 0101910045B | 11-MAY-2000 | 00-04-1704A | 01
04 | AL | SHELBY COUNTY* | 0101910050B | 16-MAR-2000 | 00-04-2486A | 01
04 | AL | SHELBY COUNTY* | 0101910065B | 22-FEB-2000 | 00-04-1398A | 02
04 | AL | ST. CLAIR COUNTY * | 0102900200B | 13-JAN-2000 | 99-04-5170A | 02
04 | AL | TALLADEGA COUNTY * | 0102970050B | 01-FEB-2000 | 00-04-1018A | 02
04 | AL | TALLADEGA COUNTY * | 0102970050B | 01-JUN-2000 | 00-04-2324A | 02
04 | AL | TALLADEGA COUNTY * | 0102970125B | 18-MAY-2000 | 00-04-2094A | 02
04 | AL | TALLADEGA COUNTY * | 0102970200B | 06-APR-2000 | 00-04-1866A | 02
04 | AL | TALLADEGA COUNTY * | 0102970200B | 13-APR-2000 | 00-04-2144A | 02
04 | AL | TALLADEGA COUNTY * | 0102970200B | 17-FEB-2000 | 00-04-1538A | 02
04 | AL | TUSCALOOSA, CITY OF | 0102030040A | 25-APR-2000 | 00-04-1478A | 02
04 | AL | TUSCALOOSA, CITY OF | 0102030065B | 22-FEB-2000 | 00-04-1260A | 02
04 | AL | TUSCUMBIA, CITY OF | 0100490002B | 18-MAY-2000 | 99-04-273P | 05
04 | AL | WALKER COUNTY * | 0103010055B | 01-JUN-2000 | 00-04-1378A | 02
04 | AL | WALKER COUNTY * | 0103010055B | 29-FEB-2000 | 00-04-2068A | 02
04 | AL | WINSTON COUNTY * | 0103040009B | 01-FEB-2000 | 00-04-1698A | 02
04 | FL | ALACHUA COUNTY* | 1200010269A | 20-JAN-2000 | 99-04-5830A | 02
04 | FL | ALACHUA, CITY OF | 1206640025A | 09-FEB-2000 | 98-04-341P | 05
04 | FL | ALTAMONTE SPRINGS, CITY OF | 12117C0120E | 18-APR-2000 | 99-04-5952A | 01
04 | FL | BAY COUNTY* | 1200040220D | 24-FEB-2000 | 00-04-1812A | 02
04 | FL | BOCA RATON, CITY OF | 1201950007C | 11-JAN-2000 | 00-04-1124A | 02
04 | FL | BOCA RATON, CITY OF | 1201950007C | 20-APR-2000 | 99-04-6282A | 02
04 | FL | BRADFORD COUNTY * | 12007C0245D | 15-MAR-2000 | 00-04-1790X | 02
04 | FL | BREVARD COUNTY * | 12009C0270E | 01-JUN-2000 | 00-04-3692A | 02
04 | FL | BREVARD COUNTY * | 12009C0270E | 24-MAR-2000 | 00-04-1922A | 02
04 | FL | BREVARD COUNTY * | 12009C0275E | 01-FEB-2000 | 00-04-1442A | 02
04 | FL | BREVARD COUNTY * | 12009C0275E | 27-JAN-2000 | 99-04-5934A | 01
04 | FL | BREVARD COUNTY * | 12009C0365E | 06-JAN-2000 | 00-04-0808A | 02
04 | FL | BREVARD COUNTY * | 12009C0365E | 09-MAY-2000 | 00-04-2952A | 02
04 | FL | BREVARD COUNTY * | 12009C0365E | 16-MAY-2000 | 00-04-2268A | 02
04 | FL | BREVARD COUNTY * | 12009C0430E | 02-MAY-2000 | 00-04-1180A | 01
04 | FL | BREVARD COUNTY * | 12009C0430E | 20-JAN-2000 | 00-04-0936A | 02
04 | FL | BREVARD COUNTY * | 12009C0435E | 11-JAN-2000 | 00-04-0910A | 02
04 | FL | BREVARD COUNTY * | 12009C0435E | 20-JAN-2000 | 00-04-1230A | 02
04 | FL | BREVARD COUNTY * | 12009C0435E | 23-MAY-2000 | 00-04-2946A | 02
04 | FL | BREVARD COUNTY * | 12009C0441F | 01-JUN-2000 | 00-04-1198A | 01
04 | FL | BREVARD COUNTY * | 12009C0441F | 18-JAN-2000 | 00-04-0876A | 01
04 | FL | BREVARD COUNTY * | 12009C0441F | 18-MAY-2000 | 00-04-1194A | 01
04 | FL | BREVARD COUNTY * | 12009C0441F | 30-MAR-2000 | 00-04-0446A | 01
04 | FL | BREVARD COUNTY * | 12009C0615E | 04-APR-2000 | 00-04-2028A | 02
04 | FL | BREVARD COUNTY * | 12009C0636E | 12-APR-2000 | 99-04-6178A | 02
04 | FL | BROWARD COUNTY* | 12011C0190F | 22-FEB-2000 | 00-04-1386A | 01
04 | FL | BROWARD COUNTY* | 12011C0190F | 22-FEB-2000 | 00-04-1750A | 01
04 | FL | BROWARD COUNTY* | 12011C0190F | 23-MAY-2000 | 00-04-3018A | 01
04 | FL | BROWARD COUNTY* | 12011C0190F | 25-APR-2000 | 00-04-2504A | 01
04 | FL | BROWARD COUNTY* | 12011C0190F | 27-JAN-2000 | 00-04-1074A | 01
04 | FL | BROWARD COUNTY* | 12011C0302F | 18-MAY-2000 | 00-04-2758A | 01
04 | FL | BROWARD COUNTY* | 12011C0302F | 20-APR-2000 | 99-04-179P | 05
04 | FL | CAPE CORAL, CITY OF | 1250950005C | 04-JAN-2000 | 00-04-0714A | 01
04 | FL | CAPE CORAL, CITY OF | 1250950020C | 04-JAN-2000 | 00-04-0716A | 01
04 | FL | CAPE CORAL, CITY OF | 1250950020C | 18-JAN-2000 | 00-04-1112A | 01
04 | FL | CAPE CORAL, CITY OF | 1250950020C | 22-FEB-2000 | 00-04-1572A | 01
04 | FL | CAPE CORAL, CITY OF | 1250950020C | 22-FEB-2000 | 00-04-1700A | 01
04 | FL | CAPE CORAL, CITY OF | 1250950020C | 27-APR-2000 | 00-04-1942A | 01
04 | FL | CAPE CORAL, CITY OF | 1250950020C | 28-MAR-2000 | 00-04-2222A | 01
04 | FL | CAPE CORAL, CITY OF | 1250950030C | 01-FEB-2000 | 00-04-1274A | 01
04 | FL | CAPE CORAL, CITY OF | 1250950030C | 03-FEB-2000 | 00-04-1276A | 01
04 | FL | CAPE CORAL, CITY OF | 1250950030C | 04-JAN-2000 | 00-04-0514A | 01
04 | FL | CAPE CORAL, CITY OF | 1250950030C | 04-JAN-2000 | 00-04-0684A | 01
04 | FL | CAPE CORAL, CITY OF | 1250950030C | 07-MAR-2000 | 00-04-1768A | 01
04 | FL | CAPE CORAL, CITY OF | 1250950030C | 07-MAR-2000 | 00-04-1770A | 01
04 | FL | CAPE CORAL, CITY OF | 1250950030C | 07-MAR-2000 | 00-04-1772A | 01
04 | FL | CAPE CORAL, CITY OF | 1250950030C | 09-MAY-2000 | 00-04-2740A | 01
04 | FL | CAPE CORAL, CITY OF | 1250950030C | 11-APR-2000 | 00-04-2190A | 01
04 | FL | CAPE CORAL, CITY OF | 1250950030C | 13-JAN-2000 | 00-04-0964A | 01
04 | FL | CAPE CORAL, CITY OF | 1250950030C | 14-MAR-2000 | 00-04-1840A | 01
04 | FL | CAPE CORAL, CITY OF | 1250950030C | 14-MAR-2000 | 00-04-1940A | 01
04 | FL | CAPE CORAL, CITY OF | 1250950030C | 15-FEB-2000 | 00-04-1420A | 01
04 | FL | CAPE CORAL, CITY OF | 1250950030C | 15-FEB-2000 | 00-04-1570A | 01
04 | FL | CAPE CORAL, CITY OF | 1250950030C | 16-MAY-2000 | 00-04-2742A | 01
04 | FL | CAPE CORAL, CITY OF | 1250950030C | 18-APR-2000 | 00-04-2186A | 01
04 | FL | CAPE CORAL, CITY OF | 1250950030C | 18-JAN-2000 | 00-04-1048A | 01
04 | FL | CAPE CORAL, CITY OF | 1250950030C | 18-JAN-2000 | 00-04-1050A | 01
04 | FL | CAPE CORAL, CITY OF | 1250950030C | 18-JAN-2000 | 00-04-1052A | 01
04 | FL | CAPE CORAL, CITY OF | 1250950030C | 18-MAY-2000 | 00-04-2824A | 01
04 | FL | CAPE CORAL, CITY OF | 1250950030C | 18-MAY-2000 | 00-04-2834A | 01
04 | FL | CAPE CORAL, CITY OF | 1250950030C | 20-APR-2000 | 00-04-2340A | 01
04 | FL | CAPE CORAL, CITY OF | 1250950030C | 23-MAR-2000 | 00-04-1944A | 01
04 | FL | CAPE CORAL, CITY OF | 1250950030C | 23-MAR-2000 | 00-04-2044A | 01
04 | FL | CAPE CORAL, CITY OF | 1250950030C | 23-MAR-2000 | 00-04-2046A | 01
04 | FL | CAPE CORAL, CITY OF | 1250950030C | 27-JAN-2000 | 00-04-1126A | 01
04 | FL | CAPE CORAL, CITY OF | 1250950030C | 27-JAN-2000 | 00-04-1244A | 01
04 | FL | CAPE CORAL, CITY OF | 1250950030C | 27-JAN-2000 | 00-04-1272A | 01
04 | FL | CAPE CORAL, CITY OF | 1250950030C | 28-MAR-2000 | 00-04-2226A | 01
04 | FL | CAPE CORAL, CITY OF | 1250950030C | 30-MAR-2000 | 00-04-1838A | 01
04 | FL | CAPE CORAL, CITY OF | 1250950035C | 09-MAY-2000 | 00-04-2636A | 01
04 | FL | CAPE CORAL, CITY OF | 1250950035C | 11-APR-2000 | 00-04-2188A | 01
04 | FL | CAPE CORAL, CITY OF | 1250950035C | 13-JAN-2000 | 00-04-0966A | 01
04 | FL | CAPE CORAL, CITY OF | 1250950035C | 25-MAY-2000 | 00-04-3174A | 01
04 | FL | CAPE CORAL, CITY OF | 1250950035C | 28-MAR-2000 | 00-04-2194A | 01
04 | FL | CAPE CORAL, CITY OF | 1250950035C | 28-MAR-2000 | 00-04-2224A | 01
04 | FL | CAPE CORAL, CITY OF | 1250950040C | 01-FEB-2000 | 00-04-1146A | 01
04 | FL | CAPE CORAL, CITY OF | 1250950040C | 01-JUN-2000 | 00-04-3044A | 01
04 | FL | CAPE CORAL, CITY OF | 1250950040C | 03-FEB-2000 | 00-04-1312A | 01
04 | FL | CAPE CORAL, CITY OF | 1250950040C | 04-JAN-2000 | 00-04-0800A | 01
04 | FL | CAPE CORAL, CITY OF | 1250950040C | 13-JAN-2000 | 00-04-0860A | 01
04 | FL | CAPE CORAL, CITY OF | 1250950040C | 13-JAN-2000 | 00-04-0862A | 01
04 | FL | CAPE CORAL, CITY OF | 1250950040C | 16-MAY-2000 | 00-04-2744A | 01
04 | FL | CAPE CORAL, CITY OF | 1250950040C | 18-MAY-2000 | 00-04-2878A | 01
04 | FL | CAPE CORAL, CITY OF | 1250950040C | 25-APR-2000 | 00-04-2338A | 01
04 | FL | CAPE CORAL, CITY OF | 1250950045C | 27-JAN-2000 | 00-04-1144A | 01
04 | FL | CAPE CORAL, CITY OF | 1250950045C | 27-JAN-2000 | 00-04-1384A | 01
04 | FL | CASSELBERRY, CITY OF | 12117C0140E | 30-MAR-2000 | 00-04-0438A | 01
04 | FL | CHARLOTTE COUNTY * | 1200610013E | 08-MAY-2000 | 00-04-105P | 05
04 | FL | CHARLOTTE COUNTY * | 1200610045E | 16-FEB-2000 | 99-04-329P | 05
04 | FL | CITRUS COUNTY * | 1200630120B | 18-JAN-2000 | 00-04-0916A | 02
04 | FL | CITRUS COUNTY * | 1200630175B | 14-MAR-2000 | 00-04-2026A | 02
04 | FL | CITRUS COUNTY * | 1200630175B | 23-MAR-2000 | 00-04-1902A | 02
04 | FL | CITRUS COUNTY * | 1200630220B | 04-APR-2000 | 00-04-1534A | 02
04 | FL | CITRUS COUNTY * | 1200630255B | 11-APR-2000 | 00-04-2302A | 02
04 | FL | CITRUS COUNTY * | 1200630260B | 08-FEB-2000 | 00-04-1228A | 02
04 | FL | CITRUS COUNTY * | 1200630300B | 18-MAY-2000 | 00-04-2384A | 02
04 | FL | CLAY COUNTY * | 1200640135D | 01-FEB-2000 | 00-04-0030A | 01
04 | FL | CLAY COUNTY * | 1200640135D | 23-MAR-2000 | 00-04-1872A | 02
04 | FL | CLAY COUNTY * | 1200640350D | 01-JUN-2000 | 00-04-2430A | 02
04 | FL | CLERMONT, CITY OF | 1201330001B | 08-FEB-2000 | 00-04-0252A | 02
04 | FL | COCONUT CREEK, CITY OF | 12011C0115F | 11-APR-2000 | 00-04-1302A | 01
04 | FL | COCONUT CREEK, CITY OF | 12011C0115F | 14-MAR-2000 | 00-04-1318A | 01
04 | FL | COCONUT CREEK, CITY OF | 12011C0115F | 18-APR-2000 | 00-04-2826X | 01
04 | FL | COCONUT CREEK, CITY OF | 12011C0115F | 23-MAY-2000 | 00-04-1158A | 02
04 | FL | COLLIER COUNTY * | 1200670582F | 18-JAN-2000 | 00-04-0878A | 01
04 | FL | COLLIER COUNTY * | 1200670605E | 01-JUN-2000 | 00-04-3020A | 01
04 | FL | COLLIER COUNTY * | 1200670605E | 04-JAN-2000 | 00-04-0526A | 01
04 | FL | COLLIER COUNTY * | 1200670605E | 06-APR-2000 | 00-04-2516A | 01
04 | FL | COLLIER COUNTY * | 1200670605E | 18-JAN-2000 | 99-04-5980A | 01
04 | FL | COLLIER COUNTY * | 1200670605E | 23-MAY-2000 | 00-04-2580A | 01
04 | FL | COLLIER COUNTY * | 1200670605E | 27-JAN-2000 | 00-04-0562A | 01
04 | FL | COLLIER COUNTY * | 1200670605E | 27-JAN-2000 | 00-04-0564A | 01
04 | FL | COLLIER COUNTY * | 1200670605E | 28-MAR-2000 | 00-04-1566A | 01
04 | FL | COLLIER COUNTY * | 1200670605E | 30-MAY-2000 | 00-04-3190A | 01
04 | FL | COLUMBIA COUNTY* | 1200700175B | 20-APR-2000 | 00-04-2004A | 02
04 | FL | COLUMBIA COUNTY* | 1200700175B | 28-MAR-2000 | 00-04-1236A | 01
04 | FL | CORAL SPRINGS, CITY OF | 12011C0095F | 16-MAY-2000 | 00-04-2634A | 02
04 | FL | CORAL SPRINGS, CITY OF | 12011C0095F | 31-MAR-2000 | 99-04-5988A | 01
04 | FL | DADE COUNTY* | 12025C0075J | 06-JAN-2000 | 00-04-0640A | 01
04 | FL | DADE COUNTY* | 12025C0075J | 25-MAY-2000 | 00-04-3184A | 01
04 | FL | DADE COUNTY* | 12025C0080J | 01-FEB-2000 | 00-04-0952A | 01
04 | FL | DADE COUNTY* | 12025C0080J | 02-MAY-2000 | 00-04-2540A | 01
04 | FL | DADE COUNTY* | 12025C0080J | 04-APR-2000 | 00-04-2304A | 01
04 | FL | DADE COUNTY* | 12025C0080J | 06-APR-2000 | 00-04-0022A | 02
04 | FL | DADE COUNTY* | 12025C0160J | 04-MAY-2000 | 00-04-3252A | 01
04 | FL | DADE COUNTY* | 12025C0160J | 15-FEB-2000 | 00-04-2040X | 01
04 | FL | DADE COUNTY* | 12025C0160J | 25-MAY-2000 | 00-04-3328A | 01
04 | FL | DADE COUNTY* | 12025C0160J | 25-MAY-2000 | 00-04-3540A | 01
04 | FL | DADE COUNTY* | 12025C0160J | 28-JAN-2000 | 00-04-1836A | 01
04 | FL | DADE COUNTY* | 12025C0165J | 04-APR-2000 | 00-04-1954X | 01
04 | FL | DADE COUNTY* | 12025C0190J | 18-JAN-2000 | 00-04-1088A | 02
04 | FL | DADE COUNTY* | 12025C0255J | 25-APR-2000 | 00-04-1938A | 01
04 | FL | DADE COUNTY* | 12025C0255J | 29-FEB-2000 | 00-04-1730X | 01
04 | FL | DADE COUNTY* | 12025C0260J | 15-FEB-2000 | 00-04-1610A | 01
04 | FL | DADE COUNTY* | 12025C0265J | 04-JAN-2000 | 00-04-0536A | 01
04 | FL | DADE COUNTY* | 12025C0265J | 11-APR-2000 | 00-04-0692A | 01
04 | FL | DADE COUNTY* | 12025C0356J | 22-FEB-2000 | 00-04-0434A | 01
04 | FL | DADE COUNTY* | 12025C0358K | 17-FEB-2000 | 00-04-1766A | 01
04 | FL | DEERFIELD BEACH, CITY OF | 12011C0108F | 27-APR-2000 | 00-04-1360A | 02
04 | FL | DEERFIELD BEACH, CITY OF | 12011C0109G | 20-JAN-2000 | 00-04-1082A | 02
04 | FL | ESCAMBIA COUNTY* | 12033C0025F | 21-MAR-2000 | 00-04-2122A | 02
04 | FL | ESCAMBIA COUNTY* | 12033C0025F | 24-FEB-2000 | 00-04-2178V | 19
04 | FL | EUSTIS, CITY OF | 1201340005B | 06-APR-2000 | 00-04-2260A | 02
04 | FL | FERNANDINA BEACH, CITY OF | 1201720004E | 27-JAN-2000 | 00-04-1486A | 02
04 | FL | FORT LAUDERDALE, CITY OF | 12011C0216F | 20-JAN-2000 | 00-04-1068A | 02
04 | FL | FORT MYERS, CITY OF | 1251060010B | 16-MAY-2000 | 00-04-2578A | 01
04 | FL | FORT MYERS, CITY OF | 1251060010B | 27-JAN-2000 | 00-04-1576A | 01
04 | FL | FRANKLIN COUNTY * | 1200880195B | 16-MAY-2000 | 00-04-2140A | 18
04 | FL | FRANKLIN COUNTY * | 1200880580D | 14-JAN-2000 | 00-04-0372A | 02
04 | FL | FROSTPROOF, CITY OF | 1202650001B | 02-MAY-2000 | 00-04-2856A | 02
04 | FL | GAINESVILLE, CITY OF | 1251070004B | 16-JAN-2000 | 96-04-183P | 05
04 | FL | GULF BREEZE, CITY OF | 1202750011F | 27-JAN-2000 | 00-04-0816A | 01
04 | FL | GULF BREEZE, CITY OF | 1202750011F | 28-MAR-2000 | 00-04-2628X | 01
04 | FL | HALLANDALE, CITY OF | 12011C0318F | 09-MAY-2000 | 00-04-2914A | 02
04 | FL | HAMILTON COUNTY* | 12047C0065B | 13-JAN-2000 | 00-04-1094A | 02
04 | FL | HERNANDO COUNTY * | 1201100150B | 11-JAN-2000 | 00-04-1246A | 02
04 | FL | HERNANDO COUNTY * | 1201100300B | 02-MAR-2000 | 00-04-1472A | 02
04 | FL | HIALEAH, CITY OF | 12025C0075J | 02-MAR-2000 | 00-04-1406A | 02
04 | FL | HIALEAH, CITY OF | 12025C0075J | 13-APR-2000 | 00-04-0432A | 01
04 | FL | HIGHLANDS COUNTY * | 1201110100B | 27-JAN-2000 | 99-04-5854A | 02
04 | FL | HIGHLANDS COUNTY * | 1201110250B | 07-MAR-2000 | 00-04-1284A | 02
04 | FL | HILLSBOROUGH COUNTY* | 1201120040D | 01-FEB-2000 | 00-04-1340A | 02
04 | FL | HILLSBOROUGH COUNTY* | 1201120040D | 01-JUN-2000 | 00-04-2688A | 02
04 | FL | HILLSBOROUGH COUNTY* | 1201120065D | 11-JAN-2000 | 99-04-5698A | 02
04 | FL | HILLSBOROUGH COUNTY* | 1201120090E | 11-JAN-2000 | 99-04-5946A | 01
04 | FL | HILLSBOROUGH COUNTY* | 1201120090E | 11-MAY-2000 | 00-04-2158A | 01
04 | FL | HILLSBOROUGH COUNTY* | 1201120090E | 18-MAY-2000 | 00-04-2542A | 01
04 | FL | HILLSBOROUGH COUNTY* | 1201120160C | 06-APR-2000 | 00-04-2348A | 01
04 | FL | HILLSBOROUGH COUNTY* | 1201120160C | 13-JAN-2000 | 00-04-1168A | 01
04 | FL | HILLSBOROUGH COUNTY* | 1201120167C | 15-FEB-2000 | 00-04-1060A | 01
04 | FL | HILLSBOROUGH COUNTY* | 1201120169C | 16-MAY-2000 | 00-04-1176A | 01
04 | FL | HILLSBOROUGH COUNTY* | 1201120180F | 04-JAN-2000 | 00-04-1012A | 02
04 | FL | HILLSBOROUGH COUNTY* | 1201120180F | 11-APR-2000 | 00-04-2012A | 01
04 | FL | HILLSBOROUGH COUNTY* | 1201120180F | 23-MAR-2000 | 00-04-1178A | 01
04 | FL | HILLSBOROUGH COUNTY* | 1201120185F | 03-FEB-2000 | 00-04-1374A | 02
04 | FL | HILLSBOROUGH COUNTY* | 1201120185F | 09-MAY-2000 | 00-04-2210A | 02
04 | FL | HILLSBOROUGH COUNTY* | 1201120185F | 10-FEB-2000 | 99-04-6250A | 01
04 | FL | HILLSBOROUGH COUNTY* | 1201120185F | 14-MAR-2000 | 00-04-1918A | 02
04 | FL | HILLSBOROUGH COUNTY* | 1201120185F | 24-FEB-2000 | 00-04-1664A | 01
04 | FL | HILLSBOROUGH COUNTY* | 1201120185F | 27-JAN-2000 | 00-04-0542A | 02
04 | FL | HILLSBOROUGH COUNTY* | 1201120185F | 29-FEB-2000 | 00-04-1642A | 01
04 | FL | HILLSBOROUGH COUNTY* | 1201120190D | 04-APR-2000 | 00-04-2464X | 01
04 | FL | HILLSBOROUGH COUNTY* | 1201120192D | 14-JAN-2000 | 00-04-0024A | 01
04 | FL | HILLSBOROUGH COUNTY* | 1201120205D | 02-MAY-2000 | 00-04-2390A | 02
04 | FL | HILLSBOROUGH COUNTY* | 1201120205D | 11-JAN-2000 | 99-04-6208A | 02
04 | FL | HILLSBOROUGH COUNTY* | 1201120205D | 14-MAR-2000 | 00-04-0492A | 01
04 | FL | HILLSBOROUGH COUNTY* | 1201120210E | 07-MAR-2000 | 00-04-0440A | 01
04 | FL | HILLSBOROUGH COUNTY* | 1201120210E | 22-FEB-2000 | 99-04-6304A | 01
04 | FL | HILLSBOROUGH COUNTY* | 1201120210E | 23-MAR-2000 | 00-04-0444A | 01
04 | FL | HILLSBOROUGH COUNTY* | 1201120210E | 28-JAN-2000 | 99-04-4186A | 01
04 | FL | HILLSBOROUGH COUNTY* | 1201120240C | 15-FEB-2000 | 00-04-1226A | 02
04 | FL | HILLSBOROUGH COUNTY* | 1201120380E | 04-FEB-2000 | 99-04-6326A | 01
04 | FL | HILLSBOROUGH COUNTY* | 1201120386E | 11-MAY-2000 | 00-04-2798A | 02
04 | FL | HILLSBOROUGH COUNTY* | 1201120387E | 06-JAN-2000 | 00-04-0882A | 01
04 | FL | HILLSBOROUGH COUNTY* | 1201120387E | 11-APR-2000 | 00-04-2098A | 02
04 | FL | HILLSBOROUGH COUNTY* | 1201120387E | 23-MAY-2000 | 00-04-2642A | 01
04 | FL | HILLSBOROUGH COUNTY* | 1201120387E | 24-FEB-2000 | 00-04-2184A | 01
04 | FL | HILLSBOROUGH COUNTY* | 1201120387E | 27-APR-2000 | 00-04-1666A | 01
04 | FL | HILLSBOROUGH COUNTY* | 1201120389D | 03-FEB-2000 | 00-04-0754A | 01
04 | FL | HILLSBOROUGH COUNTY* | 1201120389D | 06-JAN-2000 | 00-04-0422A | 01
04 | FL | HILLSBOROUGH COUNTY* | 1201120395E | 25-APR-2000 | 00-04-1416A | 01
04 | FL | HILLSBOROUGH COUNTY* | 1201120395E | 27-JAN-2000 | 00-04-1092X | 01
04 | FL | HILLSBOROUGH COUNTY* | 1201120415C | 06-JAN-2000 | 00-04-0600A | 01
04 | FL | HILLSBOROUGH COUNTY* | 1201120415C | 18-APR-2000 | 00-04-2472A | 01
04 | FL | HILLSBOROUGH COUNTY* | 1201120415C | 30-MAR-2000 | 00-04-2206A | 01
04 | FL | HILLSBOROUGH COUNTY* | 1201120425C | 23-MAY-2000 | 00-04-2576A | 02
04 | FL | HILLSBOROUGH COUNTY* | 1201120450B | 18-JAN-2000 | 00-04-0244A | 02
04 | FL | HILLSBOROUGH COUNTY* | 1201120494C | 27-JAN-2000 | 00-04-1468A | 01
04 | FL | HILLSBOROUGH COUNTY* | 1201120530C | 30-MAR-2000 | 00-04-2166A | 01
04 | FL | HOLLYWOOD, CITY OF | 12011C0302F | 20-APR-2000 | 99-04-179P | 05
04 | FL | HOLLYWOOD, CITY OF | 12011C0304F | 03-FEB-2000 | 00-04-1004A | 02
04 | FL | HOMESTEAD, CITY OF | 12025C0365J | 11-MAY-2000 | 00-04-2474A | 01
04 | FL | HOMESTEAD, CITY OF | 12025C0365J | 13-APR-2000 | 00-04-2192A | 01
04 | FL | INDIAN RIVER COUNTY * | 12061C0060E | 06-JAN-2000 | 00-04-1214X | 01
04 | FL | INDIAN RIVER COUNTY * | 12061C0070E | 04-JAN-2000 | 00-04-1010A | 01
04 | FL | INDIAN RIVER COUNTY * | 12061C0070E | 15-FEB-2000 | 00-04-1640A | 01
04 | FL | ISLAMORADA, VILLAGE OF | 12087C1131H | 15-FEB-2000 | 00-04-1254A | 02
04 | FL | ISLAMORADA, VILLAGE OF | 12087C1131H | 22-FEB-2000 | 00-04-1692A | 02
04 | FL | ISLAMORADA, VILLAGE OF | 12087C1131H | 22-FEB-2000 | 00-04-1732A | 02
04 | FL | JACKSON COUNTY * | 12063C0300C | 16-MAY-2000 | 00-04-2682A | 02
04 | FL | JACKSONVILLE, CITY OF | 1200770150E | 04-JAN-2000 | 99-04-4512A | 01
04 | FL | JACKSONVILLE, CITY OF | 1200770157E | 16-MAY-2000 | 00-04-1992A | 02
04 | FL | JACKSONVILLE, CITY OF | 1200770209E | 09-MAY-2000 | 00-04-0708A | 02
04 | FL | JACKSONVILLE, CITY OF | 1200770226E | 11-MAY-2000 | 00-04-2274A | 02
04 | FL | JACKSONVILLE, CITY OF | 1200770234E | 18-MAY-2000 | 00-04-2022A | 02
04 | FL | JACKSONVILLE, CITY OF | 1200770238E | 06-JAN-2000 | 00-04-0478A | 01
04 | FL | JACKSONVILLE, CITY OF | 1200770238E | 25-APR-2000 | 00-04-2052A | 01
04 | FL | JACKSONVILLE, CITY OF | 1200770241E | 06-JAN-2000 | 00-04-0678A | 02
04 | FL | JACKSONVILLE, CITY OF | 1200770241E | 25-MAY-2000 | 00-04-0450A | 01
04 | FL | LAKE COUNTY * | 1204210100B | 11-JAN-2000 | 00-04-0344A | 02
04 | FL | LAKE COUNTY * | 1204210100B | 20-APR-2000 | 00-04-2008A | 02
04 | FL | LAKE COUNTY * | 1204210125B | 01-JUN-2000 | 00-04-3034A | 02
04 | FL | LAKE COUNTY * | 1204210125B | 04-MAY-2000 | 00-04-2808A | 02
04 | FL | LAKE COUNTY * | 1204210200B | 11-MAY-2000 | 00-04-2606A | 02
04 | FL | LAKE COUNTY * | 1204210200B | 23-MAY-2000 | 00-04-2668A | 02
04 | FL | LAKE COUNTY * | 1204210200B | 23-MAY-2000 | 00-04-2982A | 02
04 | FL | LAKE COUNTY * | 1204210225B | 03-FEB-2000 | 00-04-1372A | 02
04 | FL | LAKE COUNTY * | 1204210225B | 03-FEB-2000 | 00-04-1548A | 02
04 | FL | LAKE COUNTY * | 1204210225B | 20-JAN-2000 | 00-04-0166A | 02
04 | FL | LAKE COUNTY * | 1204210225B | 27-JAN-2000 | 00-04-0944A | 02
04 | FL | LAKE COUNTY * | 1204210325B | 05-APR-2000 | 00-04-0660A | 02
04 | FL | LAKE COUNTY * | 1204210325B | 22-FEB-2000 | 00-04-1720A | 02
04 | FL | LAKE COUNTY * | 1204210350B | 16-MAR-2000 | 00-04-1976A | 02
04 | FL | LAKE COUNTY * | 1204210375B | 15-FEB-2000 | 00-04-1380A | 02
04 | FL | LAKE MARY, CITY OF | 12117C0040E | 04-MAY-2000 | 00-04-1734A | 02
04 | FL | LAKE MARY, CITY OF | 12117C0040E | 13-APR-2000 | 00-04-2214A | 01
04 | FL | LAKE MARY, CITY OF | 12117C0040E | 15-MAR-2000 | 99-04-3654A | 01
04 | FL | LAKE MARY, CITY OF | 12117C0040E | 25-APR-2000 | 00-04-0456A | 01
04 | FL | LAUDERHILL, CITY OF | 12011C0204F | 11-MAY-2000 | 00-04-2488A | 02
04 | FL | LAUDERHILL, CITY OF | 12011C0205F | 22-FEB-2000 | 00-04-1418A | 01
04 | FL | LAUDERHILL, CITY OF | 12011C0212F | 13-JAN-2000 | 00-04-0824A | 01
04 | FL | LAUDERHILL, CITY OF | 12011C0212F | 28-JAN-2000 | 99-04-5730A | 01
04 | FL | LEE COUNTY* | 1251240075D | 28-APR-2000 | 99-04-5856A | 02
04 | FL | LEE COUNTY* | 1251240200C | 15-FEB-2000 | 00-04-0780A | 01
04 | FL | LEE COUNTY* | 1251240250B | 14-MAR-2000 | 00-04-1436A | 02
04 | FL | LEE COUNTY* | 1251240465C | 06-JAN-2000 | 00-04-0786A | 01
04 | FL | LEE COUNTY* | 1251240510D | 20-JAN-2000 | 99-04-5732A | 01
04 | FL | LEON COUNTY * | 12073C0115D | 14-MAR-2000 | 00-04-0304A | 02
04 | FL | LEON COUNTY * | 12073C0115D | 22-FEB-2000 | 00-04-1504X | 01
04 | FL | LEON COUNTY * | 12073C0115D | 22-FEB-2000 | 00-04-1506X | 01
04 | FL | LEON COUNTY * | 12073C0115D | 22-FEB-2000 | 00-04-1508X | 01
04 | FL | LEON COUNTY * | 12073C0115D | 22-FEB-2000 | 00-04-1510X | 01
04 | FL | LEON COUNTY * | 12073C0115D | 22-FEB-2000 | 00-04-1512X | 01
04 | FL | LEON COUNTY * | 12073C0115D | 22-FEB-2000 | 00-04-1514X | 01
04 | FL | LEVY COUNTY * | 1201450025D | 23-MAY-2000 | 00-04-2362A | 02
04 | FL | MANATEE COUNTY * | 1201530045B | 28-MAR-2000 | 00-04-2164A | 02
04 | FL | MANATEE COUNTY * | 1201530327C | 14-MAR-2000 | 00-04-2102A | 01
04 | FL | MANATEE COUNTY * | 1201530341B | 29-FEB-2000 | 00-04-1462A | 02
04 | FL | MANATEE COUNTY * | 1201530360C | 21-MAR-2000 | 00-04-0430A | 17
04 | FL | MANATEE COUNTY * | 1201530365C | 09-MAR-2000 | 00-04-1844A | 01
04 | FL | MANATEE COUNTY * | 1201530365C | 18-APR-2000 | 99-04-5600A | 01
04 | FL | MARGATE, CITY OF | 12011C0115F | 07-MAR-2000 | 00-04-1820A | 02
04 | FL | MARGATE, CITY OF | 12011C0115F | 18-APR-2000 | 00-04-2220A | 02
04 | FL | MARION COUNTY * | 1201600100B | 14-MAR-2000 | 00-04-1788A | 02
04 | FL | MARION COUNTY * | 1201600540B | 04-MAY-2000 | 00-04-2812A | 02
04 | FL | MARTIN COUNTY * | 1201610160F | 18-APR-2000 | 00-04-1876A | 01
04 | FL | MARTIN COUNTY * | 1201610160F | 18-MAY-2000 | 00-04-2842A | 01
04 | FL | MELBOURNE, CITY OF | 12009C0441F | 27-JAN-2000 | 00-04-0424A | 01
04 | FL | MIAMI, CITY OF | 12025C0093J | 07-MAR-2000 | 00-04-1596A | 02
04 | FL | MIAMI, CITY OF | 12025C0187J | 25-APR-2000 | 00-04-1964A | 02
04 | FL | MIRAMAR, CITY OF | 12011C0295F | 01-JUN-2000 | 00-04-3238A | 01
04 | FL | MIRAMAR, CITY OF | 12011C0295F | 04-APR-2000 | 00-04-1172A | 01
04 | FL | MIRAMAR, CITY OF | 12011C0295F | 09-MAR-2000 | 00-04-1822A | 01
04 | FL | MIRAMAR, CITY OF | 12011C0295F | 09-MAR-2000 | 00-04-1882A | 01
04 | FL | MIRAMAR, CITY OF | 12011C0295F | 11-JAN-2000 | 00-04-0598A | 01
04 | FL | MIRAMAR, CITY OF | 12011C0295F | 13-JAN-2000 | 00-04-1310A | 01
04 | FL | MIRAMAR, CITY OF | 12011C0295F | 14-JAN-2000 | 00-04-1084A | 01
04 | FL | MIRAMAR, CITY OF | 12011C0295F | 20-JAN-2000 | 99-04-5456A | 01
04 | FL | MIRAMAR, CITY OF | 12011C0295F | 22-FEB-2000 | 00-04-1708A | 01
04 | FL | MIRAMAR, CITY OF | 12011C0295F | 23-MAY-2000 | 99-04-4370A | 01
04 | FL | NASSAU COUNTY* | 1201700075C | 24-FEB-2000 | 00-04-2066A | 02
04 | FL | NASSAU COUNTY* | 1201700325C | 08-MAR-2000 | 99-04-5432A | 01
04 | FL | NEW PORT RICHEY, CITY OF | 1202300189C | 14-JAN-2000 | 99-04-5244A | 01
04 | FL | OCOEE, CITY OF | 1201850005B | 04-JAN-2000 | 00-04-0896A | 02
04 | FL | OKALOOSA COUNTY * | 1201730235E | 28-MAR-2000 | 00-04-1668A | 01
04 | FL | OLDSMAR, CITY OF | 1202500001B | 16-MAY-2000 | 00-04-2236A | 02
04 | FL | OLDSMAR, CITY OF | 1202500003B | 10-FEB-2000 | 00-04-1724A | 01
04 | FL | OLDSMAR, CITY OF | 1202500003B | 18-APR-2000 | 00-04-2346A | 01
04 | FL | OLDSMAR, CITY OF | 1202500003B | 27-JAN-2000 | 00-04-1166A | 01
04 | FL | OLDSMAR, CITY OF | 1202500004B | 18-JAN-2000 | 00-04-0566A | 01
04 | FL | OPA-LOCKA, CITY OF | 12025C0090J | 15-FEB-2000 | 00-04-1658A | 02
04 | FL | ORANGE COUNTY * | 1201790125D | 15-FEB-2000 | 00-04-0810A | 02
04 | FL | ORANGE COUNTY * | 1201790125D | 18-MAY-2000 | 00-04-2448A | 02
04 | FL | ORANGE COUNTY * | 1201790200D | 07-MAR-2000 | 00-04-1562A | 02
04 | FL | ORANGE COUNTY * | 1201790200D | 16-MAY-2000 | 00-04-3196X | 02
04 | FL | ORANGE COUNTY * | 1201790200D | 19-APR-2000 | 00-04-2034A | 02
04 | FL | ORANGE COUNTY * | 1201790225C | 16-MAY-2000 | 00-04-2530A | 02
04 | FL | ORANGE COUNTY * | 1201790225C | 29-FEB-2000 | 99-04-3048A | 01
04 | FL | ORANGE COUNTY * | 1201790250D | 07-MAR-2000 | 00-04-1870A | 02
04 | FL | ORANGE COUNTY * | 1201790250D | 18-MAY-2000 | 00-04-2644A | 01
04 | FL | ORANGE COUNTY * | 1201790250D | 20-APR-2000 | 00-04-1278A | 01
04 | FL | ORANGE COUNTY * | 1201790250D | 21-JAN-2000 | 00-04-1224A | 01
04 | FL | ORANGE COUNTY * | 1201790250D | 22-FEB-2000 | 00-04-0008A | 01
04 | FL | ORANGE COUNTY * | 1201790250D | 28-MAR-2000 | 00-04-1854A | 02
04 | FL | ORANGE COUNTY * | 1201790325B | 04-APR-2000 | 00-04-1996A | 02
04 | FL | ORANGE COUNTY * | 1201790350C | 23-MAR-2000 | 00-04-1860A | 02
04 | FL | ORANGE COUNTY * | 1201790375D | 01-FEB-2000 | 00-04-1438A | 02
04 | FL | ORANGE COUNTY * | 1201790375D | 06-APR-2000 | 00-04-0016A | 01
04 | FL | ORANGE COUNTY * | 1201790375D | 10-MAY-2000 | 99-04-291P | 05
04 | FL | ORANGE COUNTY * | 1201790375D | 29-FEB-2000 | 00-04-1394A | 02
04 | FL | ORANGE COUNTY * | 1201790400C | 11-APR-2000 | 00-04-1458A | 02
04 | FL | ORANGE COUNTY * | 1201790400C | 29-FEB-2000 | 99-04-5972A | 01
04 | FL | ORMOND BEACH, CITY OF | 1251360003D | 22-FEB-2000 | 00-04-2070A | 01
04 | FL | OSCEOLA COUNTY * | 1201890025C | 08-FEB-2000 | 99-04-4516A | 01
04 | FL | OSCEOLA COUNTY * | 1201890040B | 17-FEB-2000 | 00-04-1558A | 01
04 | FL | OSCEOLA COUNTY * | 1201890120B | 01-FEB-2000 | 00-04-0756A | 02
04 | FL | OSCEOLA COUNTY * | 1201890120B | 01-FEB-2000 | 00-04-0758A | 02
04 | FL | OSCEOLA COUNTY * | 1201890120B | 01-FEB-2000 | 00-04-0760A | 02
04 | FL | OSCEOLA COUNTY * | 1201890120B | 01-FEB-2000 | 00-04-0762A | 02
04 | FL | OSCEOLA COUNTY * | 1201890120B | 09-FEB-2000 | 00-04-1066A | 02
04 | FL | OSCEOLA COUNTY * | 1201890120B | 09-MAY-2000 | 00-04-3116A | 02
04 | FL | OSCEOLA COUNTY * | 1201890120B | 27-JAN-2000 | 00-04-0960A | 02
04 | FL | OSCEOLA COUNTY * | 1201890135C | 09-MAY-2000 | 00-04-1886A | 01
04 | FL | OSCEOLA COUNTY * | 1201890140B | 01-FEB-2000 | 00-04-0986A | 02
04 | FL | OSCEOLA COUNTY * | 1201890140B | 18-APR-2000 | 00-04-1880A | 02
04 | FL | OSCEOLA COUNTY * | 1201890140B | 24-FEB-2000 | 00-04-1774A | 01
04 | FL | OSCEOLA COUNTY * | 1201890175C | 01-JUN-2000 | 00-04-2672A | 02
04 | FL | OSCEOLA COUNTY * | 1201890205B | 23-MAY-2000 | 00-04-2916A | 02
04 | FL | PALM BEACH COUNTY * | 1201920117B | 09-MAY-2000 | 00-04-2154A | 01
04 | FL | PALM BEACH COUNTY * | 1201920150A | 18-JAN-2000 | 00-04-1110A | 01
04 | FL | PALM BEACH COUNTY * | 1201920200A | 02-MAY-2000 | 00-04-2290A | 01
04 | FL | PALMETTO, CITY OF | 1201590003C | 14-JAN-2000 | 00-04-0752A | 01
04 | FL | PALMETTO, CITY OF | 1201590003C | 27-APR-2000 | 00-04-3232A | 01
04 | FL | PASCO COUNTY * | 1202300050C | 03-FEB-2000 | 00-04-1044A | 02
04 | FL | PASCO COUNTY * | 1202300100B | 27-JAN-2000 | 00-04-0922A | 02
04 | FL | PASCO COUNTY * | 1202300180C | 04-JAN-2000 | 00-04-0740A | 02
04 | FL | PASCO COUNTY * | 1202300185D | 21-MAR-2000 | 00-04-2200A | 02
04 | FL | PASCO COUNTY * | 1202300185D | 23-MAY-2000 | 00-04-2920A | 02
04 | FL | PASCO COUNTY * | 1202300189C | 27-APR-2000 | 00-04-2546A | 01
04 | FL | PASCO COUNTY * | 1202300195D | 01-JUN-2000 | 00-04-3454A | 01
04 | FL | PASCO COUNTY * | 1202300195D | 02-MAY-2000 | 00-04-3284A | 01
04 | FL | PASCO COUNTY * | 1202300195D | 15-FEB-2000 | 00-04-1628A | 02
04 | FL | PASCO COUNTY * | 1202300195D | 18-MAY-2000 | 00-04-1786A | 02
04 | FL | PASCO COUNTY * | 1202300215D | 09-MAY-2000 | 00-04-2456A | 02
04 | FL | PASCO COUNTY * | 1202300215D | 11-APR-2000 | 00-04-1994A | 02
04 | FL | PASCO COUNTY * | 1202300215D | 14-MAR-2000 | 00-04-1712A | 02
04 | FL | PASCO COUNTY * | 1202300215D | 28-MAR-2000 | 00-04-1710A | 02
04 | FL | PASCO COUNTY * | 1202300352C | 11-MAY-2000 | 00-04-2342A | 02
04 | FL | PASCO COUNTY * | 1202300352C | 25-APR-2000 | 00-04-2890A | 02
04 | FL | PASCO COUNTY * | 1202300354D | 12-APR-2000 | 99-04-5916A | 01
04 | FL | PASCO COUNTY * | 1202300354D | 13-APR-2000 | 00-04-2648A | 02
04 | FL | PASCO COUNTY * | 1202300360D | 04-APR-2000 | 00-04-2218A | 02
04 | FL | PASCO COUNTY * | 1202300360D | 04-JAN-2000 | 00-04-0048A | 01
04 | FL | PASCO COUNTY * | 1202300360D | 13-JAN-2000 | 00-04-0014A | 01
04 | FL | PASCO COUNTY * | 1202300360D | 16-MAR-2000 | 00-04-1900A | 02
04 | FL | PASCO COUNTY * | 1202300360D | 19-JAN-2000 | 99-04-5802A | 01
04 | FL | PASCO COUNTY * | 1202300360D | 22-FEB-2000 | 00-04-0002A | 01
04 | FL | PASCO COUNTY * | 1202300360D | 22-FEB-2000 | 00-04-1314A | 01
04 | FL | PASCO COUNTY * | 1202300360D | 23-MAY-2000 | 00-04-1190A | 01
04 | FL | PASCO COUNTY * | 1202300362D | 01-JUN-2000 | 00-04-3058A | 02
04 | FL | PASCO COUNTY * | 1202300370D | 01-FEB-2000 | 99-04-5936A | 01
04 | FL | PASCO COUNTY * | 1202300370D | 13-APR-2000 | 00-04-1598A | 01
04 | FL | PASCO COUNTY * | 1202300410E | 04-JAN-2000 | 00-04-1014A | 01
04 | FL | PASCO COUNTY * | 1202300410E | 11-MAY-2000 | 00-04-2170A | 01
04 | FL | PASCO COUNTY * | 1202300410E | 11-MAY-2000 | 00-04-2910A | 01
04 | FL | PASCO COUNTY * | 1202300410E | 21-JAN-2000 | 00-04-1530X | 01
04 | FL | PASCO COUNTY * | 1202300410E | 27-JAN-2000 | 00-04-1706A | 01
04 | FL | PASCO COUNTY * | 1202300410E | 29-FEB-2000 | 00-04-1132A | 02
04 | FL | PASCO COUNTY * | 1202300410E | 30-MAR-2000 | 00-04-2506A | 01
04 | FL | PASCO COUNTY * | 1202300425E | 05-APR-2000 | 00-04-2056A | 02
04 | FL | PASCO COUNTY * | 1202300425E | 07-MAR-2000 | 99-04-5646A | 02
04 | FL | PASCO COUNTY * | 1202300425E | 14-JAN-2000 | 00-04-0874A | 02
04 | FL | PASCO COUNTY * | 1202300425E | 25-FEB-2000 | 00-04-1742X | 02
04 | FL | PASCO COUNTY * | 1202300425E | 27-JAN-2000 | 00-04-0990A | 01
04 | FL | PASCO COUNTY * | 1202300425E | 28-JAN-2000 | 00-04-0300A | 01
04 | FL | PASCO COUNTY * | 1202300430E | 01-FEB-2000 | 99-04-4696A | 01
04 | FL | PASCO COUNTY * | 1202300430E | 01-JUN-2000 | 00-04-2722A | 01
04 | FL | PASCO COUNTY * | 1202300430E | 18-JAN-2000 | 99-04-5326A | 02
04 | FL | PASCO COUNTY * | 1202300450E | 09-MAR-2000 | 00-04-1654A | 02
04 | FL | PASCO COUNTY * | 1202300450E | 13-JAN-2000 | 99-04-6324A | 01
04 | FL | PASCO COUNTY * | 1202300450E | 14-MAR-2000 | 00-04-0436A | 01
04 | FL | PASCO COUNTY * | 1202300450E | 14-MAR-2000 | 99-04-5448A | 01
04 | FL | PASCO COUNTY * | 1202300455D | 09-MAR-2000 | 00-04-1586A | 01
04 | FL | PEMBROKE PINES, CITY OF | 12011C0290F | 13-JAN-2000 | 00-04-0210A | 01
04 | FL | PEMBROKE PINES, CITY OF | 12011C0295F | 04-JAN-2000 | 00-04-1204X | 01
04 | FL | PINELLAS COUNTY * | 1251390037C | 11-APR-2000 | 00-04-1726A | 01
04 | FL | PINELLAS COUNTY * | 1251390037C | 20-APR-2000 | 00-04-2670A | 02
04 | FL | PINELLAS COUNTY * | 1251390043C | 18-JAN-2000 | 00-04-1086A | 02
04 | FL | PINELLAS COUNTY * | 1251390059C | 28-MAR-2000 | 00-04-2690A | 02
04 | FL | PINELLAS COUNTY * | 1251390077C | 18-JAN-2000 | 00-04-0004A | 01
04 | FL | PINELLAS COUNTY * | 1251390077C | 25-APR-2000 | 00-04-2134A | 01
04 | FL | PINELLAS COUNTY * | 1251390081C | 08-FEB-2000 | 00-04-1170A | 01
04 | FL | PINELLAS COUNTY * | 1251390083C | 23-MAY-2000 | 00-04-2120A | 02
04 | FL | PINELLAS COUNTY * | 1251390086C | 10-FEB-2000 | 00-04-1376A | 02
04 | FL | PINELLAS COUNTY * | 1251390087C | 01-JUN-2000 | 00-04-3162A | 02
04 | FL | PINELLAS COUNTY * | 1251390119C | 14-MAR-2000 | 00-04-1956A | 02
04 | FL | PINELLAS COUNTY * | 1251390119C | 16-MAY-2000 | 00-04-1814A | 02
04 | FL | POLK COUNTY* | 1202610100B | 23-MAY-2000 | 00-04-2462A | 02
04 | FL | POLK COUNTY* | 1202610250B | 20-APR-2000 | 00-04-2400A | 02
04 | FL | POLK COUNTY* | 1202610295B | 03-FEB-2000 | 00-04-1656A | 02
04 | FL | POLK COUNTY* | 1202610295B | 25-APR-2000 | 00-04-2042A | 02
04 | FL | POLK COUNTY* | 1202610305B | 04-MAY-2000 | 00-04-1218X | 02
04 | FL | POLK COUNTY* | 1202610310B | 03-FEB-2000 | 00-04-1560A | 02
04 | FL | POLK COUNTY* | 1202610345B | 09-MAY-2000 | 00-04-2272A | 02
04 | FL | POLK COUNTY* | 1202610350B | 18-APR-2000 | 00-04-2294A | 02
04 | FL | POLK COUNTY* | 1202610350B | 21-MAR-2000 | 00-04-1986A | 02
04 | FL | POLK COUNTY* | 1202610350B | 27-JAN-2000 | 00-04-0774A | 02
04 | FL | POLK COUNTY* | 1202610375D | 28-MAR-2000 | 00-04-1858A | 02
04 | FL | POLK COUNTY* | 1202610425B | 03-FEB-2000 | 00-04-1208A | 02
04 | FL | POLK COUNTY* | 1202610475D | 07-MAR-2000 | 00-04-1350A | 01
04 | FL | POLK COUNTY* | 1202610475D | 16-MAY-2000 | 00-04-1828A | 02
04 | FL | POLK COUNTY* | 1202610480D | 03-FEB-2000 | 00-04-1544A | 02
04 | FL | POLK COUNTY* | 1202610525B | 06-JAN-2000 | 00-04-0812A | 02
04 | FL | POLK COUNTY* | 1202610575D | 16-MAY-2000 | 00-04-1716A | 02
04 | FL | POLK COUNTY* | 1202610725B | 09-MAR-2000 | 00-04-1392A | 02
04 | FL | POMPANO BEACH, CITY OF | 12011C0119G | 24-FEB-2000 | 00-04-0942A | 02
04 | FL | PORT ORANGE, CITY OF | 1203130005C | 03-FEB-2000 | 00-04-0954A | 02
04 | FL | PORT ORANGE, CITY OF | 1251550408E | 13-APR-2000 | 00-04-1184A | 01
04 | FL | PORT ORANGE, CITY OF | 1251550408E | 25-FEB-2000 | 99-04-5844A | 01
04 | FL | PUTNAM COUNTY * | 1202720125A | 07-JAN-2000 | 99-04-351P | 06
04 | FL | PUTNAM COUNTY * | 1202720125B | 24-FEB-2000 | 00-04-1796A | 02
04 | FL | PUTNAM COUNTY * | 1202720310B | 08-FEB-2000 | 00-04-0560A | 02
04 | FL | RIVIERA BEACH, CITY OF | 1251420003D | 04-APR-2000 | 00-04-1898A | 02
04 | FL | RIVIERA BEACH, CITY OF | 1251420003D | 30-MAR-2000 | 00-04-2126A | 02
04 | FL | ROCKLEDGE, CITY OF | 12009C0365E | 18-MAY-2000 | 00-04-2908A | 01
04 | FL | SANTA ROSA COUNTY * | 1202740025B | 20-JAN-2000 | 00-04-1490V | 19
04 | FL | SARASOTA COUNTY * | 1251440075D | 11-MAY-2000 | 00-04-2030A | 02
04 | FL | SARASOTA COUNTY * | 1251440075D | 12-JAN-2000 | 00-04-0392A | 02
04 | FL | SARASOTA COUNTY * | 1251440075D | 13-APR-2000 | 00-04-1348A | 02
04 | FL | SARASOTA COUNTY * | 1251440141D | 16-FEB-2000 | 99-04-333P | 05
04 | FL | SARASOTA COUNTY * | 1251440144E | 02-FEB-2000 | 00-04-1090A | 02
04 | FL | SARASOTA COUNTY * | 1251440153E | 16-MAY-2000 | 00-04-2790A | 01
04 | FL | SARASOTA COUNTY * | 1251440154E | 08-FEB-2000 | 00-04-0072A | 01
04 | FL | SARASOTA COUNTY * | 1251440239D | 21-APR-2000 | 00-04-107P | 05
04 | FL | SEMINOLE COUNTY* | 12117C0020E | 09-MAR-2000 | 00-04-0120A | 01
04 | FL | SEMINOLE COUNTY* | 12117C0040E | 04-JAN-2000 | 00-04-0704A | 01
04 | FL | SEMINOLE COUNTY* | 12117C0110E | 11-APR-2000 | 00-04-2182A | 17
04 | FL | SEMINOLE COUNTY* | 12117C0115E | 04-JAN-2000 | 00-04-0286A | 02
04 | FL | SEMINOLE COUNTY* | 12117C0120E | 11-MAY-2000 | 00-04-2264A | 02
04 | FL | SEMINOLE COUNTY* | 12117C0120E | 30-MAR-2000 | 00-04-1242A | 02
04 | FL | SEMINOLE COUNTY* | 12117C0140E | 20-JAN-2000 | 00-04-1344A | 02
04 | FL | SEMINOLE COUNTY* | 12117C0145E | 01-JUN-2000 | 00-04-2396A | 02
04 | FL | SEMINOLE COUNTY* | 12117C0145E | 02-MAY-2000 | 00-04-2666A | 02
04 | FL | SEMINOLE COUNTY* | 12117C0145E | 16-MAR-2000 | 00-04-1714A | 02
04 | FL | SEMINOLE COUNTY* | 12117C0145E | 21-MAR-2000 | 00-04-1536A | 02
04 | FL | SEMINOLE COUNTY* | 12117C0170E | 14-MAR-2000 | 00-04-1606A | 02
04 | FL | ST. AUGUSTINE, CITY OF | 1251450001D | 08-FEB-2000 | 00-04-1330A | 01
04 | FL | ST. CLOUD, CITY OF | 1201910005D | 18-MAY-2000 | 00-04-1186A | 01
04 | FL | ST. JOHNS COUNTY * | 1251470016D | 10-MAR-2000 | 99-04-6028A | 02
04 | FL | ST. JOHNS COUNTY * | 1251470090D | 03-FEB-2000 | 00-04-1466A | 01
04 | FL | ST. JOHNS COUNTY * | 1251470187D | 27-JAN-2000 | 00-04-0648A | 02
04 | FL | ST. LUCIE COUNTY * | 12111C0070F | 10-JAN-2000 | 99-04-5644A | 02
04 | FL | STUART, CITY OF | 1201650005D | 02-MAY-2000 | 00-04-1324A | 02
04 | FL | STUART, CITY OF | 1201650005D | 06-JAN-2000 | 00-04-1098A | 02
04 | FL | TALLAHASSEE, CITY OF | 12073C0284D | 20-APR-2000 | 00-04-073P | 05
04 | FL | TALLAHASSEE, CITY OF | 12073C0303 | 20-APR-2000 | 00-04-073P |
04 | FL | TAMARAC, CITY OF | 12011C0185F | 11-MAY-2000 | 00-04-1188A | 01
04 | FL | TAMARAC, CITY OF | 12011C0205F | 09-MAR-2000 | 00-04-1874A | 02
04 | FL | TAMPA, CITY OF | 1201140006C | 20-APR-2000 | 00-04-2370A | 02
04 | FL | TAMPA, CITY OF | 1201140022C | 11-MAY-2000 | 00-04-2646A | 02
04 | FL | TARPON SPRINGS, CITY OF | 1202590001B | 17-MAR-2000 | 99-04-5800A | 01
04 | FL | TARPON SPRINGS, CITY OF | 1202590005B | 04-APR-2000 | 00-04-2198A | 02
04 | FL | TAVARES, CITY OF | 1201380001B | 20-JAN-2000 | 00-04-1022A | 02
04 | FL | TITUSVILLE, CITY OF | 12009C0180E | 24-FEB-2000 | 00-04-0506A | 02
04 | FL | VOLUSIA COUNTY* | 1251550165E | 01-JUN-2000 | 00-04-2706A | 01
04 | FL | VOLUSIA COUNTY* | 1251550165E | 17-FEB-2000 | 00-04-1502A | 02
04 | FL | VOLUSIA COUNTY* | 1251550375E | 19-JAN-2000 | 99-04-4818A | 02
04 | FL | VOLUSIA COUNTY* | 1251550375E | 28-MAR-2000 | 00-04-1680A | 02
04 | FL | VOLUSIA COUNTY* | 1251550500E | 16-MAY-2000 | 00-04-2380A | 02
04 | FL | WAKULLA COUNTY * | 1203150225B | 11-MAY-2000 | 00-04-2130A | 02
04 | FL | WAKULLA COUNTY * | 1203150250B | 06-APR-2000 | 00-04-2414A | 02
04 | FL | WAKULLA COUNTY * | 1203150250B | 11-MAY-2000 | 00-04-2360A | 02
04 | FL | WAKULLA COUNTY * | 1203150250B | 20-APR-2000 | 00-04-2108A | 02
04 | FL | WALTON COUNTY * | 1203170025C | 08-MAR-2000 | 00-04-2314V | 19
04 | FL | WINTER HAVEN, CITY OF | 1202710015B | 27-JAN-2000 | 00-04-1148A | 02
04 | FL | WINTER SPRINGS, CITY OF | 12117C0135E | 16-MAY-2000 | 00-04-1000A | 02
04 | FL | ZEPHYRHILLS, CITY OF | 1202350005C | 07-MAR-2000 | 00-04-1608A | 02
04 | GA | ALPHARETTA, CITY OF | 13121C0058E | 10-FEB-2000 | 99-04-5360A | 02
04 | GA | ALPHARETTA, CITY OF | 13121C0058E | 18-MAY-2000 | 00-04-2804A | 02
04 | GA | ATHENS-CLARKE COUNTY | 1300400035C | 30-MAR-2000 | 00-04-1556A | 17
04 | GA | ATLANTA, CITY OF | 13121C0227E | 13-APR-2000 | 00-04-2152A | 01
04 | GA | ATLANTA, CITY OF | 13121C0233E | 10-FEB-2000 | 00-04-1116A | 02
04 | GA | ATLANTA, CITY OF | 13121C0233E | 22-FEB-2000 | 00-04-0938A | 02
04 | GA | ATLANTA, CITY OF | 13121C0334E | 27-JAN-2000 | 00-04-0732A | 02
04 | GA | ATLANTA, CITY OF | 13121C0353E | 23-MAY-2000 | 00-04-1834A | 02
04 | GA | ATLANTA, CITY OF | 13293C0065B | 11-JAN-2000 | 00-04-1054X | 02
04 | GA | BALDWIN COUNTY* | 1300050050B | 28-MAR-2000 | 00-04-2036A | 02
04 | GA | BARROW COUNTY* | 1304970050A | 17-APR-2000 | 00-04-039P | 05
04 | GA | BARTOW COUNTY * | 13015C0079F | 11-MAY-2000 | 99-04-5962A | 01
04 | GA | BARTOW COUNTY * | 13015C0079F | 24-MAY-2000 | 99-04-195P | 05
04 | GA | BYRON, CITY OF | 130374 A | 01-FEB-2000 | 00-04-0828A | 02
04 | GA | CAMDEN COUNTY* | 13039C0350C | 01-JUN-2000 | 00-04-3230A | 02
04 | GA | CAMDEN COUNTY* | 13039C0350C | 03-FEB-2000 | 00-04-1030A | 02
04 | GA | CAMDEN COUNTY* | 13039C0350C | 11-JAN-2000 | 99-04-6328A | 02
04 | GA | CAMDEN COUNTY* | 13039C0377C | 16-MAY-2000 | 00-04-2678A | 02
04 | GA | CAMDEN COUNTY* | 13039C0380D | 16-MAY-2000 | 00-04-2680A | 02
04 | GA | CARTERSVILLE, CITY OF | 13015C0079F | 24-MAY-2000 | 99-04-195P | 05
04 | GA | CATOOSA COUNTY* | 1300280025D | 28-MAR-2000 | 00-04-1842A | 01
04 | GA | CATOOSA COUNTY* | 1300280050D | 28-FEB-2000 | 98-04-293P | 05
04 | GA | CHATHAM COUNTY* | 1300300075C | 05-APR-2000 | 00-04-1404A | 02
04 | GA | CHATHAM COUNTY* | 1300300075C | 11-APR-2000 | 00-04-1702A | 01
04 | GA | CHATHAM COUNTY* | 1300300075C | 24-FEB-2000 | 00-04-1794A | 02
04 | GA | CHEROKEE COUNTY* | 13057C0330B | 23-MAY-2000 | 00-04-2202A | 01
04 | GA | CLAYTON COUNTY* | 1300410008A | 18-MAY-2000 | 00-04-2246A | 02
04 | GA | COBB COUNTY* | 13067C0010F | 09-MAY-2000 | 00-04-2228A | 02
04 | GA | COBB COUNTY* | 13067C0010F | 10-FEB-2000 | 00-04-1220A | 02
04 | GA | COBB COUNTY* | 13067C0010F | 25-APR-2000 | 00-04-0646A | 02
04 | GA | COBB COUNTY* | 13067C0015F | 16-MAY-2000 | 00-04-2074A | 02
04 | GA | COBB COUNTY* | 13067C0015F | 25-APR-2000 | 00-04-2138A | 02
04 | GA | COBB COUNTY* | 13067C0030F | 11-APR-2000 | 00-04-1334A | 02
04 | GA | COBB COUNTY* | 13067C0035F | 25-APR-2000 | 00-04-2436A | 02
04 | GA | COBB COUNTY* | 13067C0040F | 11-JAN-2000 | 00-04-0188A | 02
04 | GA | COBB COUNTY* | 13067C0040F | 23-MAY-2000 | 00-04-2064A | 02
04 | GA | COBB COUNTY* | 13067C0050F | 09-MAR-2000 | 00-04-1564A | 17
04 | GA | COBB COUNTY* | 13067C0050F | 22-FEB-2000 | 00-04-1426A | 02
04 | GA | COBB COUNTY* | 13067C0055F | 11-MAY-2000 | 00-04-2608A | 02
04 | GA | COBB COUNTY* | 13067C0055F | 16-MAY-2000 | 00-04-2796A | 02
04 | GA | COBB COUNTY* | 13067C0055F | 20-APR-2000 | 00-04-1682A | 02
04 | GA | COBB COUNTY* | 13067C0060F | 18-MAY-2000 | 00-04-1618A | 17
04 | GA | COBB COUNTY* | 13067C0070F | 04-FEB-2000 | 99-04-4194A | 02
04 | GA | COBB COUNTY* | 13067C0070F | 22-FEB-2000 | 00-04-1304A | 01
04 | GA | COBB COUNTY* | 13067C0075F | 28-MAR-2000 | 00-04-1524A | 02
04 | GA | COBB COUNTY* | 13067C0090F | 15-FEB-2000 | 00-04-1428A | 02
04 | GA | COFFEE COUNTY* | 1304650150B | 09-MAY-2000 | 00-04-2886A | 02
04 | GA | COLUMBUS, CITY OF | 1351580050D | 08-FEB-2000 | 00-04-0650A | 02
04 | GA | COLUMBUS, CITY OF | 1351580050D | 28-MAR-2000 | 00-04-2142A | 17
04 | GA | COLUMBUS, CITY OF | 1351580075D | 06-JAN-2000 | 99-04-4030A | 02
04 | GA | DALTON, CITY OF | 1301940005C | 22-FEB-2000 | 00-04-1062A | 02
04 | GA | DE KALB COUNTY * | 1300650002F | 03-FEB-2000 | 00-04-0318A | 02
04 | GA | DE KALB COUNTY * | 1300650004E | 10-FEB-2000 | 99-04-6120A | 02
04 | GA | DE KALB COUNTY * | 1300650004E | 18-MAY-2000 | 00-04-2588A | 02
04 | GA | DE KALB COUNTY * | 1300650007C | 25-MAY-2000 | 00-04-2176A | 02
04 | GA | DE KALB COUNTY * | 1300650009C | 01-JUN-2000 | 00-04-3004A | 17
04 | GA | DE KALB COUNTY * | 1300650010C | 22-FEB-2000 | 00-04-1496A | 02
04 | GA | DE KALB COUNTY * | 1300650013F | 18-MAY-2000 | 99-04-5566A | 01
04 | GA | DECATUR, CITY OF | 1351590001B | 11-APR-2000 | 00-04-0316A | 02
04 | GA | DECATUR, CITY OF | 1351590001B | 14-MAR-2000 | 00-04-1818A | 02
04 | GA | DOUGLASVILLE, CITY OF | 1303050005B | 29-FEB-2000 | 00-04-019P | 05
04 | GA | DULUTH, CITY OF | 1300980002C | 30-MAY-2000 | 00-04-3170A | 02
04 | GA | DULUTH, CITY OF | 1300980003C | 09-MAY-2000 | 00-04-2450A | 02
04 | GA | FANNIN COUNTY | 1302490050B | 10-FEB-2000 | 00-04-1448A | 02
04 | GA | FAYETTE COUNTY * | 13113C0125D | 10-FEB-2000 | 00-04-1130A | 02
04 | GA | FLOYD COUNTY* | 1300790160A | 11-APR-2000 | 00-04-1252A | 02
04 | GA | FORSYTH COUNTY * | 13117C0075C | 13-APR-2000 | 00-04-2386A | 02
04 | GA | FORSYTH COUNTY * | 13117C0075C | 21-MAR-2000 | 00-04-2110A | 02
04 | GA | FORSYTH COUNTY * | 13117C0115C | 18-MAY-2000 | 00-04-1846A | 02
04 | GA | FORSYTH COUNTY * | 13117C0125C | 20-APR-2000 | 00-04-2288A | 02
04 | GA | FORSYTH COUNTY * | 13117C0155C | 02-MAY-2000 | 00-04-0466A | 02
04 | GA | FULTON COUNTY * | 13121C0053E | 01-FEB-2000 | 00-04-0866A | 02
04 | GA | FULTON COUNTY * | 13121C0053E | 07-MAR-2000 | 00-04-1584A | 02
04 | GA | FULTON COUNTY * | 13121C0058E | 01-FEB-2000 | 00-04-1032A | 02
04 | GA | FULTON COUNTY * | 13121C0080E | 03-FEB-2000 | 00-04-1016A | 02
04 | GA | FULTON COUNTY * | 13121C0080E | 27-JAN-2000 | 00-04-0782A | 02
04 | GA | FULTON COUNTY * | 13121C0086E | 15-FEB-2000 | 00-04-1026A | 02
04 | GA | FULTON COUNTY * | 13121C0115E | 06-JAN-2000 | 99-04-5558A | 02
04 | GA | FULTON COUNTY * | 13121C0115E | 18-JAN-2000 | 99-04-6130A | 02
04 | GA | FULTON COUNTY * | 13121C0134E | 13-APR-2000 | 00-04-2150A | 01
04 | GA | FULTON COUNTY * | 13121C0144E | 08-FEB-2000 | 99-04-3614A | 02
04 | GA | FULTON COUNTY * | 13121C0153E | 05-APR-2000 | 00-04-1690A | 02
04 | GA | FULTON COUNTY * | 13121C0163E | 15-FEB-2000 | 00-04-0694A | 01
04 | GA | FULTON COUNTY * | 13121C0477E | 27-APR-2000 | 00-04-1240A | 02
04 | GA | FULTON COUNTY * | 13121C0478E | 04-MAY-2000 | 00-04-2080A | 17
04 | GA | FULTON COUNTY * | 13121C0478E | 16-MAY-2000 | 00-04-2656A | 02
04 | GA | GWINNETT COUNTY * | 1303220095C | 30-MAR-2000 | 00-04-0070A | 01
04 | GA | GWINNETT COUNTY * | 1303220160E | 18-APR-2000 | 00-04-0946A | 02
04 | GA | GWINNETT COUNTY * | 1303220160E | 18-APR-2000 | 99-04-277P | 05
04 | GA | GWINNETT COUNTY * | 1303220160E | 18-MAY-2000 | 00-04-2922A | 02
04 | GA | GWINNETT COUNTY * | 1303220160E | 23-MAR-2000 | 99-04-4050A | 02
04 | GA | GWINNETT COUNTY * | 1303220170C | 18-JAN-2000 | 99-04-5528A | 02
04 | GA | GWINNETT COUNTY * | 1303220185C | 09-MAR-2000 | 98-04-031P | 05
04 | GA | GWINNETT COUNTY * | 1303220190C | 20-JAN-2000 | 00-04-0644A | 02
04 | GA | GWINNETT COUNTY * | 1303220195C | 04-JAN-2000 | 99-04-6330A | 01
04 | GA | GWINNETT COUNTY * | 1303220195C | 15-FEB-2000 | 00-04-1358A | 02
04 | GA | GWINNETT COUNTY * | 1303220205C | 14-MAR-2000 | 99-04-5986A | 02
04 | GA | GWINNETT COUNTY * | 1303220285C | 18-JAN-2000 | 00-04-0322A | 02
04 | GA | HALL COUNTY * | 13139C0025E | 21-MAR-2000 | 00-04-2514V | 19
04 | GA | HARRIS COUNTY* | 1303380150A | 09-MAR-2000 | 00-04-1792A | 02
04 | GA | HARRIS COUNTY* | 1303380150A | 13-JAN-2000 | 00-04-0074A | 02
04 | GA | HARRIS COUNTY* | 1303380150A | 22-FEB-2000 | 00-04-1676A | 02
04 | GA | HARRIS COUNTY* | 1303380150A | 25-APR-2000 | 00-04-1978A | 02
04 | GA | HARRIS COUNTY* | 1303380150A | 28-MAR-2000 | 00-04-1914A | 02
04 | GA | HARRIS COUNTY* | 1303380175A | 18-MAY-2000 | 99-04-5478P | 05
04 | GA | HARRIS COUNTY* | 1303380250A | 18-MAY-2000 | 99-04-5478P |
04 | GA | HENRY COUNTY * | 1304680065B | 22-FEB-2000 | 99-04-249P | 05
04 | GA | HENRY COUNTY * | 1304680070B | 22-FEB-2000 | 99-04-249P | 05
04 | GA | HENRY COUNTY * | 1304680125B | 14-JAN-2000 | 99-04-4422A | 02
04 | GA | KENNESAW, CITY OF | 13067C0030F | 18-JAN-2000 | 00-04-0336A | 02
04 | GA | KENNESAW, CITY OF | 13067C0030F | 20-JAN-2000 | 00-04-0500A | 02
04 | GA | LAWRENCEVILLE, CITY OF | 1300990001B | 09-MAR-2000 | 98-04-031P | 05
04 | GA | LUMPKIN COUNTY | 1303540200A | 02-MAY-2000 | 00-04-0332A | 02
04 | GA | MACON, CITY OF | 1300110010D | 30-MAR-2000 | 00-04-2100A | 02
04 | GA | MACON, CITY OF | 1300110020E | 10-FEB-2000 | 00-04-1256A | 02
04 | GA | MACON, CITY OF | 1300110025D | 23-MAY-2000 | 00-04-1494A | 02
04 | GA | MACON, CITY OF | 1300110025D | 28-MAR-2000 | 00-04-1100A | 02
04 | GA | MARIETTA, CITY OF | 13067C0035F | 02-MAY-2000 | 00-04-3280A | 02
04 | GA | MARIETTA, CITY OF | 13067C0050F | 18-MAY-2000 | 00-04-1982A | 02
04 | GA | MARIETTA, CITY OF | 13067C0050F | 20-APR-2000 | 00-04-2466A | 02
04 | GA | MARIETTA, CITY OF | 13067C0055F | 23-MAY-2000 | 00-04-2994A | 02
04 | GA | MONROE COUNTY* | 1301380025C | 25-MAY-2000 | 00-04-3168A | 02
04 | GA | PAULDING COUNTY * | 13223C0253B | 15-FEB-2000 | 00-04-0326A | 02
04 | GA | POOLER, TOWN OF | 1300300075C | 30-MAY-2000 | 00-04-2148A | 01
04 | GA | RICHMOND COUNTY* | 1301580060E | 11-MAY-2000 | 00-04-2598X | 02
04 | GA | RICHMOND COUNTY* | 1301580060E | 17-FEB-2000 | 00-04-0470A | 02
04 | GA | RICHMOND COUNTY* | 1301580070E | 01-FEB-2000 | 99-04-5638A | 02
04 | GA | RICHMOND COUNTY* | 1301580070E | 09-MAY-2000 | 00-04-2510X | 02
04 | GA | ROSWELL, CITY OF | 13121C0061E | 10-FEB-2000 | 00-04-1268A | 02
04 | GA | ROSWELL, CITY OF | 13121C0061E | 27-JAN-2000 | 00-04-0794A | 02
04 | GA | SEMINOLE COUNTY* | 130387 A | 22-FEB-2000 | 00-04-1474A | 02
04 | GA | SMYRNA, CITY OF | 13067C0075F | 18-JAN-2000 | 00-04-0330A | 02
04 | GA | STOCKBRIDGE, CITY OF | 1304680055B | 22-FEB-2000 | 99-04-251P | 05
04 | GA | SUWANEE, CITY OF | 1303280002A | 01-FEB-2000 | 00-04-0788A | 02
04 | GA | UNION COUNTY* | 1302540025C | 16-MAY-2000 | 00-04-2536A | 02
04 | GA | VIDALIA, CITY OF | 1302320002A | 16-MAY-2000 | 00-04-2038A | 01
04 | GA | WALTON COUNTY * | 13297C0020B | 25-APR-2000 | 00-04-1262A | 02
04 | GA | WALTON COUNTY * | 13297C0060B | 13-APR-2000 | 00-04-2254A | 02
04 | GA | WALTON COUNTY * | 13297C0080B | 18-APR-2000 | 00-04-1456A | 02
04 | GA | WALTON COUNTY * | 13297C0100B | 11-JAN-2000 | 00-04-0324A | 02
04 | GA | WALTON COUNTY * | 13297C0110B | 18-APR-2000 | 99-04-5690A | 02
04 | GA | WHITFIELD COUNTY* | 1301930140C | 18-APR-2000 | 00-04-1446A | 02
04 | GA | WOODSTOCK, CITY OF | 13057C0330B | 11-MAY-2000 | 00-04-2418A | 02
04 | GA | WOODSTOCK, CITY OF | 13057C0330B | 17-FEB-2000 | 00-04-1752A | 02
04 | KY | BOYD COUNTY * | 2100160030B | 23-MAY-2000 | 00-04-0228A | 02
04 | KY | BROMLEY, CITY OF | 2102530001C | 27-JAN-2000 | 00-04-0642A | 02
04 | KY | BULLITT COUNTY* | 210273 B | 11-APR-2000 | 00-04-2752A | 02
04 | KY | BULLITT COUNTY* | 210273 B | 13-APR-2000 | 00-04-0486A | 01
04 | KY | BULLITT COUNTY* | 210273 B | 25-APR-2000 | 00-04-1542A | 02
04 | KY | HARDIN COUNTY* | 21093C0132C | 21-JAN-2000 | 99-04-5264A | 01
04 | KY | HENDERSON, CITY OF | 2101090005D | 09-MAY-2000 | 00-04-0836A | 01
04 | KY | HENDERSON, CITY OF | 2101090005D | 20-APR-2000 | 00-04-1974A | 02
04 | KY | HENDERSON, CITY OF | 2102860050B | 15-MAR-2000 | 99-04-5930A | 02
04 | KY | HOPKINSVILLE, CITY OF | 2100550005B | 04-APR-2000 | 00-04-1910A | 02
04 | KY | JEFFERSON COUNTY* | 21111C0020D | 08-FEB-2000 | 00-04-0354A | 02
04 | KY | JEFFERSON COUNTY* | 21111C0040D | 14-JAN-2000 | 00-04-0798X | 01
04 | KY | JEFFERSON COUNTY* | 21111C0080D | 22-FEB-2000 | 00-04-1728A | 02
04 | KY | JEFFERSON COUNTY* | 21111C0085D | 01-MAR-2000 | 99-04-4088A | 02
04 | KY | JEFFERSON COUNTY* | 21111C0085D | 29-FEB-2000 | 00-04-2156A | 02
04 | KY | JEFFERSON COUNTY* | 21111C0095D | 01-JUN-2000 | 99-04-5834A | 02
04 | KY | JEFFERSON COUNTY* | 21111C0095D | 08-FEB-2000 | 00-04-1292A | 02
04 | KY | JEFFERSON COUNTY* | 21111C0115D | 02-FEB-2000 | 00-04-0550A | 02
04 | KY | JEFFERSON COUNTY* | 21111C0115D | 06-JAN-2000 | 00-04-1370X | 02
04 | KY | JEFFERSON COUNTY* | 21111C0135D | 27-JAN-2000 | 00-04-0728A | 02
04 | KY | JEFFERSON COUNTY* | 21111C0145D | 18-MAY-2000 | 00-04-2980A | 02
04 | KY | JEFFERSON COUNTY* | 21111C0160D | 20-JAN-2000 | 00-04-0884A | 02
04 | KY | JEFFERSON COUNTY* | 21111C0170D | 04-APR-2000 | 00-04-2548A | 02
04 | KY | JEFFERSON COUNTY* | 21111C0170D | 06-APR-2000 | 00-04-2568A | 02
04 | KY | JEFFERSON COUNTY* | 21111C0170D | 08-FEB-2000 | 00-04-0776A | 02
04 | KY | JEFFERSON COUNTY* | 21111C0170D | 25-APR-2000 | 00-04-1522A | 02
04 | KY | JEFFERSON COUNTY* | 21111C0170D | 28-JAN-2000 | 00-04-1036A | 02
04 | KY | JEFFERSON COUNTY* | 21111C0170D | 28-JAN-2000 | 99-04-3926A | 01
04 | KY | LEXINGTON-FAYETTE URBAN COUNTY GOVERNMENT | 2100670080C | 02-FEB-2000 | 99-04-5804A | 01
04 | KY | LEXINGTON-FAYETTE URBAN COUNTY GOVERNMENT | 2100670080C | 12-JAN-2000 | 99-04-4644A | 02
04 | KY | LOUISVILLE, CITY OF | 21111C0090D | 16-MAY-2000 | 00-04-3068A | 02
04 | KY | LOUISVILLE, CITY OF | 21111C0090D | 24-FEB-2000 | 00-04-1612A | 02
04 | KY | MARSHALL COUNTY * | 2102520025B | 13-APR-2000 | 00-04-2256A | 01
04 | KY | MCCRACKEN COUNTY * | 2101510020B | 23-MAY-2000 | 00-04-2180A | 02
04 | KY | MOREHEAD, CITY OF | 2102040005B | 16-MAR-2000 | 99-04-171P | 05
04 | KY | NEWPORT, CITY OF | 2100390001B | 14-JAN-2000 | 99-04-4012A | 02
04 | KY | OWENSBORO, CITY OF | 21059C0260C | 02-FEB-2000 | 00-04-0216A | 02
04 | KY | OWENSBORO, CITY OF | 21059C0260C | 11-APR-2000 | 00-04-0736A | 02
04 | KY | OWENSBORO, CITY OF | 21059C0280C | 11-APR-2000 | 00-04-2408A | 02
04 | KY | OWENSBORO, CITY OF | 21059C0280C | 16-MAR-2000 | 99-04-5904A | 02
04 | KY | PIKE COUNTY* | 21195C0181F | 23-MAY-2000 | 00-04-2538A | 02
04 | KY | ROWAN COUNTY * | 2102030020B | 16-MAR-2000 | 99-04-171P | 05
04 | KY | SCOTT COUNTY * | 2102070130B | 04-APR-2000 | 99-04-5040A | 01
04 | KY | STANTON, CITY OF | 2101960001B | 28-MAR-2000 | 00-04-0848A | 02
04 | KY | STANTON, CITY OF | 2101960001B | 28-MAR-2000 | 00-04-1848A | 02
04 | KY | WINCHESTER, CITY OF | 2100560002B | 10-FEB-2000 | 99-04-6264A | 02
04 | MS | CALHOUN CITY,CITY OF | 28013C0130C | 04-APR-2000 | 00-04-2310X | 01
04 | MS | CALHOUN CITY,CITY OF | 28013C0130C | 10-FEB-2000 | 00-04-1222A | 01
04 | MS | CHICKASAW COUNTY | 2802690004A | 08-MAR-2000 | 99-04-4094A | 02
04 | MS | FLORENCE, TOWN OF | 2801440001B | 11-JAN-2000 | 99-04-173P | 05
04 | MS | FLOWOOD, TOWN OF | 2802890010C | 28-JAN-2000 | 00-04-0026A | 01
04 | MS | FLOWOOD, TOWN OF | 2802890010C | 30-MAR-2000 | 00-04-0426A | 01
04 | MS | HORN LAKE, CITY OF | 28033C0040E | 25-APR-2000 | 00-04-1182A | 01
04 | MS | JACKSON COUNTY* | 2852560050D | 18-JAN-2000 | 00-04-1452X | 02
04 | MS | JACKSON, CITY OF | 2800720015G | 14-MAR-2000 | 99-04-5900A | 02
04 | MS | JACKSON, CITY OF | 2800720015G | 30-MAR-2000 | 00-04-1430A | 02
04 | MS | JONES COUNTY * | 2802220100B | 08-FEB-2000 | 99-04-5896A | 02
04 | MS | LAUDERDALE COUNTY * | 28075C0015C | 22-MAR-2000 | 00-04-2512V | 19
04 | MS | LAWRENCE COUNTY * | 2802720025B | 14-MAR-2000 | 00-04-1554A | 02
04 | MS | LEE COUNTY * | 28081C0155D | 13-JAN-2000 | 99-04-6316A | 01
04 | MS | LEE COUNTY * | 28081C0155D | 14-MAR-2000 | 00-04-2330X | 02
04 | MS | LEE COUNTY * | 28081C0160D | 13-APR-2000 | 00-04-2072A | 02
04 | MS | LEE COUNTY * | 28081C0166D | 18-APR-2000 | 00-04-2280A | 02
04 | MS | LEFLORE COUNTY * | 2801010125B | 11-APR-2000 | 00-04-2090A | 02
04 | MS | MERIDIAN, CITY OF | 28075C0084D | 22-MAR-2000 | 00-04-2700V | 19
04 | MS | PEARL RIVER COUNTY * | 28109C0255D | 09-FEB-2000 | 99-04-6110A | 02
04 | MS | PEARL RIVER COUNTY * | 28109C0264D | 09-FEB-2000 | 00-04-1150A | 01
04 | MS | PEARL RIVER VALLEY WATER SUPPLY DISTRICT | 2803380055B | 16-MAY-2000 | 00-04-2848A | 02
04 | MS | PEARL RIVER VALLEY WATER SUPPLY DISTRICT | 2803380055B | 20-JAN-2000 | 00-04-0676A | 01
04 | MS | PEARL, CITY OF | 2801450005C | 28-FEB-2000 | 98-04-335P | 05
04 | MS | RANKIN COUNTY * | 2801420080C | 04-JAN-2000 | 99-04-5434A | 01
04 | MS | RANKIN COUNTY * | 2801420155B | 06-JAN-2000 | 00-04-0012A | 01
04 | MS | SOUTHHAVEN, CITY OF | 28033C0030E | 18-APR-2000 | 00-04-0448A | 01
04 | MS | STARKVILLE, CITY OF | 2801240003C | 10-FEB-2000 | 00-04-0710A | 02
04 | MS | STARKVILLE, CITY OF | 2801240003C | 20-JAN-2000 | 99-04-5810A | 01
04 | MS | SUMNER, TOWN OF | 280194 C | 23-MAY-2000 | 00-04-1738A | 02
04 | MS | TUPELO, CITY OF | 28081C0154D | 20-APR-2000 | 99-04-4898A | 17
04 | MS | WARREN COUNTY* | 2801980050B | 09-MAR-2000 | 00-04-1152A | 02
04 | MS | WARREN COUNTY* | 2801980125C | 20-APR-2000 | 00-04-0094A | 02
04 | MS | WASHINGTON COUNTY* | 2801770145B | 14-MAR-2000 | 00-04-1136A | 01
04 | MS | WASHINGTON COUNTY* | 2801770235B | 23-MAY-2000 | 00-04-2416A | 01
04 | NC | ALAMANCE COUNTY* | 37001C0038E | 16-MAY-2000 | 00-04-1904A | 02
04 | NC | ALAMANCE COUNTY* | 37001C0227E | 06-APR-2000 | 99-04-6080A | 02
04 | NC | ALBEMARLE, CITY OF | 3702230002C | 11-MAY-2000 | 00-04-2292A | 02
04 | NC | BLADEN COUNTY * | 3702930006B | 22-FEB-2000 | 00-04-1328A | 02
04 | NC | BRUNSWICK COUNTY* | 3702950200C | 04-APR-2000 | 00-04-1912A | 02
04 | NC | BRUNSWICK COUNTY* | 3702950300C | 22-FEB-2000 | 00-04-1298A | 02
04 | NC | BRUNSWICK COUNTY* | 3702950360E | 16-MAY-2000 | 00-04-2000A | 02
04 | NC | BRUNSWICK COUNTY* | 3702950360E | 28-MAR-2000 | 00-04-1686A | 02
04 | NC | BUNCOMBE COUNTY * | 37021C0169C | 06-JAN-2000 | 00-04-0388A | 02
04 | NC | BURLINGTON, CITY OF | 37001C0039E | 14-MAR-2000 | 00-04-0064A | 01
04 | NC | CABARRUS COUNTY * | 37025C0115D | 24-FEB-2000 | 99-04-4558A | 01
04 | NC | CALDWELL COUNTY * | 37027C0050D | 04-MAY-2000 | 00-04-2298A | 02
04 | NC | CALDWELL COUNTY * | 37027C0050D | 11-APR-2000 | 00-04-2242A | 02
04 | NC | CALDWELL COUNTY * | 37027C0050D | 28-MAR-2000 | 00-04-1258A | 02
04 | NC | CARTERET COUNTY * | 3700430440C | 20-APR-2000 | 00-04-2476A | 02
04 | NC | CARTERET COUNTY * | 3700430667D | 11-MAY-2000 | 00-04-2734A | 01
04 | NC | CARY, TOWN OF | 37183C0504E | 23-MAY-2000 | 00-04-2602A | 01
04 | NC | CATAWBA COUNTY * | 3700500020C | 14-MAR-2000 | 00-04-1234A | 02
04 | NC | CATAWBA COUNTY * | 3700500030C | 25-APR-2000 | 00-04-2078A | 02
04 | NC | CATAWBA COUNTY * | 3700500040C | 13-APR-2000 | 00-04-2082A | 02
04 | NC | CATAWBA COUNTY * | 3700500200C | 01-JUN-2000 | 00-04-3224A | 02
04 | NC | CATAWBA COUNTY * | 3700500325B | 10-FEB-2000 | 00-04-0930A | 02
04 | NC | CATAWBA COUNTY * | 3700500325B | 13-JAN-2000 | 00-04-0994A | 02
04 | NC | CATAWBA COUNTY * | 3700500325B | 20-APR-2000 | 00-04-2478A | 02
04 | NC | CATAWBA COUNTY * | 3700500325B | 25-APR-2000 | 00-04-1632A | 02
04 | NC | CATAWBA COUNTY * | 3700500325B | 27-JAN-2000 | 00-04-0790A | 02
04 | NC | CATAWBA COUNTY * | 3700500325B | 28-MAR-2000 | 00-04-1862A | 02
04 | NC | CATAWBA COUNTY * | 3700500350C | 04-JAN-2000 | 00-04-0618A | 02
04 | NC | CATAWBA COUNTY * | 3700500350C | 07-MAR-2000 | 00-04-1614A | 02
04 | NC | CATAWBA COUNTY * | 3700500350C | 08-FEB-2000 | 99-04-5348A | 02
04 | NC | CATAWBA COUNTY * | 3700500350C | 09-MAY-2000 | 00-04-2424A | 02
04 | NC | CATAWBA COUNTY * | 3700500350C | 11-JAN-2000 | 00-04-0690A | 02
04 | NC | CATAWBA COUNTY * | 3700500350C | 11-JAN-2000 | 00-04-0772A | 02
04 | NC | CATAWBA COUNTY * | 3700500350C | 11-JAN-2000 | 00-04-0804A | 02
04 | NC | CATAWBA COUNTY * | 3700500350C | 16-MAY-2000 | 00-04-2276A | 02
04 | NC | CATAWBA COUNTY * | 3700500350C | 18-APR-2000 | 00-04-2452A | 02
04 | NC | CATAWBA COUNTY * | 3700500350C | 18-JAN-2000 | 00-04-1128A | 02
04 | NC | CATAWBA COUNTY * | 3700500350C | 20-JAN-2000 | 00-04-0306A | 02
04 | NC | CATAWBA COUNTY * | 3700500350C | 20-JAN-2000 | 99-04-6268A | 02
04 | NC | CATAWBA COUNTY * | 3700500350C | 23-MAY-2000 | 00-04-2938A | 02
04 | NC | CHAPEL HILL, TOWN OF | 3701800004E | 01-FEB-2000 | 00-04-1064A | 02
04 | NC | CHAPEL HILL, TOWN OF | 3701800004E | 18-APR-2000 | 99-04-3240P | 05
04 | NC | CHARLOTTE, CITY OF | 3701590003B | 11-MAY-2000 | 00-04-1282A | 02
04 | NC | CHARLOTTE, CITY OF | 3701590020B | 06-JAN-2000 | 00-04-0038A | 02
04 | NC | CHARLOTTE, CITY OF | 3701590025B | 13-JAN-2000 | 00-04-0826A | 01
04 | NC | CHARLOTTE, CITY OF | 3701590025B | 17-FEB-2000 | 00-04-1308A | 01
04 | NC | COLUMBUS COUNTY * | 3703050225B | 02-MAY-2000 | 00-04-1906A | 02
04 | NC | CONCORD, CITY OF | 37025C0110D | 17-FEB-2000 | 00-04-1280A | 01
04 | NC | CONCORD, CITY OF | 37025C0120D | 20-APR-2000 | 00-04-1250A | 01
04 | NC | CONCORD, CITY OF | 37025C0120D | 23-MAY-2000 | 00-04-2320A | 01
04 | NC | CORNELIUS, TOWN OF | 3704980005A | 14-MAR-2000 | 00-04-2062A | 02
04 | NC | CORNELIUS, TOWN OF | 3704980005A | 17-FEB-2000 | 99-04-6102A | 02
04 | NC | CORNELIUS, TOWN OF | 3704980005A | 18-APR-2000 | 00-04-1930A | 02
04 | NC | CORNELIUS, TOWN OF | 3704980005A | 18-MAY-2000 | 00-04-2832A | 02
04 | NC | CORNELIUS, TOWN OF | 3704980005A | 23-MAR-2000 | 00-04-2060A | 02
04 | NC | CORNELIUS, TOWN OF | 3704980005A | 24-FEB-2000 | 00-04-1058A | 02
04 | NC | CRAVEN COUNTY* | 3700720320B | 30-MAR-2000 | 00-04-1756A | 02
04 | NC | CUMBERLAND COUNTY * | 3700760035B | 22-FEB-2000 | 00-04-0568A | 02
04 | NC | CUMBERLAND COUNTY * | 3700760035B | 28-JAN-2000 | 00-04-0408A | 02
04 | NC | CUMBERLAND COUNTY * | 3700760115B | 08-FEB-2000 | 00-04-1140A | 02
04 | NC | CURRITUCK COUNTY * | 3700780070C | 09-MAY-2000 | 00-04-2572A | 02
04 | NC | CURRITUCK COUNTY * | 3700780365C | 09-MAR-2000 | 00-04-1338A | 02
04 | NC | DARE COUNTY* | 3753480113D | 06-JAN-2000 | 00-04-0722A | 02
04 | NC | DAVIDSON COUNTY * | 3703070150B | 01-JUN-2000 | 00-04-3060A | 02
04 | NC | DAVIDSON COUNTY * | 3703070150B | 07-MAR-2000 | 00-04-1078A | 02
04 | NC | DURHAM COUNTY * | 37063C0005G | 22-MAR-2000 | 00-04-2696V | 19
04 | NC | DURHAM, CITY OF | 37063C0054G | 04-APR-2000 | 00-04-2442A | 02
04 | NC | DURHAM, CITY OF | 37063C0054G | 22-MAR-2000 | 00-04-2698V | 19
04 | NC | ELON COLLEGE, TOWN OF | 37001C0082E | 11-MAY-2000 | 00-04-2232A | 02
04 | NC | FAYETTEVILLE, CITY OF | 3700770008C | 25-APR-2000 | 00-04-0402A | 01
04 | NC | FORSYTH COUNTY * | 37067C0115H | 03-FEB-2000 | 00-04-0926A | 02
04 | NC | FRANKLIN COUNTY* | 3703770009A | 11-MAY-2000 | 00-04-1322A | 02
04 | NC | GASTON COUNTY * | 3700990230C | 09-MAY-2000 | 00-04-2900A | 02
04 | NC | GASTON COUNTY * | 3700990310B | 11-MAY-2000 | 00-04-2238A | 02
04 | NC | GASTONIA, CITY OF | 3701000020D | 06-JAN-2000 | 99-04-003P | 05
04 | NC | GRAHAM, CITY OF | 37001C0116E | 27-APR-2000 | 00-04-1028A | 02
04 | NC | GREENSBORO, CITY OF | 3701110111D | 17-APR-2000 | 00-04-061X | 06
04 | NC | GREENVILLE, CITY OF | 3701910005B | 23-MAY-2000 | 00-04-2822A | 01
04 | NC | GUILFORD COUNTY * | 3701110195B | 18-JAN-2000 | 99-04-5504A | 02
04 | NC | HAVELOCK, CITY OF | 3702650008B | 24-FEB-2000 | 00-04-0556A | 02
04 | NC | HERTFORD COUNTY | 3701300006A | 02-MAY-2000 | 00-04-1520A | 02
04 | NC | HICKORY, CITY OF | 3700540005B | 03-FEB-2000 | 00-04-0950A | 02
04 | NC | HICKORY, CITY OF | 3700540005B | 22-FEB-2000 | 00-04-0912A | 02
04 | NC | HICKORY, CITY OF | 3700540010C | 16-MAY-2000 | 00-04-2076A | 02
04 | NC | HICKORY, CITY OF | 3700540010C | 16-MAY-2000 | 00-04-2738A | 02
04 | NC | HIGH POINT, CITY OF | 3701130006C | 14-FEB-2000 | 99-04-6134A | 02
04 | NC | HIGH POINT, CITY OF | 3701130007C | 09-MAY-2000 | 00-04-2654A | 02
04 | NC | HUDSON, TOWN OF | 37027C0085E | 16-MAY-2000 | 00-04-1352A | 02
04 | NC | INDIAN BEACH, TOWN OF | 3704330001B | 13-JAN-2000 | 00-04-0894A | 01
04 | NC | JACKSONVILLE, CITY OF | 3701780009B | 09-MAR-2000 | 00-04-1926A | 02
04 | NC | LELAND, TOWN OF | 3704710005E | 07-MAR-2000 | 00-04-1578A | 02
04 | NC | LUMBERTON, CITY OF | 37155C0178D | 01-JUN-2000 | 00-04-2616A | 01
04 | NC | LUMBERTON, CITY OF | 37155C0179D | 18-APR-2000 | 00-04-1894A | 02
04 | NC | MADISON COUNTY * | 3701520044B | 20-APR-2000 | 00-04-1138A | 02
04 | NC | MCDOWELL COUNTY* | 37111C0175B | 18-APR-2000 | 00-04-0490A | 02
04 | NC | MECKLENBURG COUNTY * | 3701580005D | 02-MAR-2000 | 00-04-1482A | 02
04 | NC | MECKLENBURG COUNTY * | 3701580005D | 02-MAY-2000 | 00-04-2750A | 02
04 | NC | MECKLENBURG COUNTY * | 3701580005D | 16-MAY-2000 | 99-04-4086A | 01
04 | NC | MECKLENBURG COUNTY * | 3701580005D | 20-JAN-2000 | 00-04-1450V | 19
04 | NC | MECKLENBURG COUNTY * | 3701580030C | 20-APR-2000 | 00-04-1546A | 02
04 | NC | MECKLENBURG COUNTY * | 3701580035B | 09-MAY-2000 | 00-04-2620A | 17
04 | NC | MECKLENBURG COUNTY * | 3701580035B | 16-MAY-2000 | 00-04-2934A | 02
04 | NC | MECKLENBURG COUNTY * | 3701580055B | 27-JAN-2000 | 00-04-0206A | 01
04 | NC | MECKLENBURG COUNTY * | 3701580105B | 09-APR-2000 | 98-04-2750P | 05
04 | NC | MECKLENBURG COUNTY * | 3701580175C | 14-JAN-2000 | 98-04-067P | 05
04 | NC | MECKLENBURG COUNTY * | 3701580185B | 04-FEB-2000 | 99-04-5086A | 01
04 | NC | MECKLENBURG COUNTY * | 3701580185B | 25-APR-2000 | 00-04-2520A | 02
04 | NC | MECKLENBURG COUNTY * | 3701580190B | 02-MAY-2000 | 00-04-2460X | 01
04 | NC | MONTGOMERY COUNTY * | 3703360020B | 04-APR-2000 | 00-04-1946A | 02
04 | NC | MONTGOMERY COUNTY * | 3703360025B | 01-FEB-2000 | 00-04-1134A | 02
04 | NC | MONTGOMERY COUNTY * | 3703360025B | 01-FEB-2000 | 00-04-1154A | 02
04 | NC | MONTGOMERY COUNTY * | 3703360025B | 01-JUN-2000 | 00-04-2942A | 02
04 | NC | MONTGOMERY COUNTY * | 3703360025B | 01-JUN-2000 | 00-04-2948A | 02
04 | NC | MONTGOMERY COUNTY * | 3703360025B | 01-JUN-2000 | 00-04-3240A | 02
04 | NC | MONTGOMERY COUNTY * | 3703360025B | 03-FEB-2000 | 00-04-0572A | 02
04 | NC | MONTGOMERY COUNTY * | 3703360025B | 06-JAN-2000 | 00-04-0914A | 02
04 | NC | MONTGOMERY COUNTY * | 3703360025B | 07-MAR-2000 | 00-04-1342A | 02
04 | NC | MONTGOMERY COUNTY * | 3703360025B | 08-FEB-2000 | 00-04-1390A | 02
04 | NC | MONTGOMERY COUNTY * | 3703360025B | 09-MAY-2000 | 00-04-2692A | 02
04 | NC | MONTGOMERY COUNTY * | 3703360025B | 09-MAY-2000 | 00-04-2862A | 02
04 | NC | MONTGOMERY COUNTY * | 3703360025B | 11-JAN-2000 | 00-04-0872A | 02
04 | NC | MONTGOMERY COUNTY * | 3703360025B | 11-JAN-2000 | 00-04-0940A | 02
04 | NC | MONTGOMERY COUNTY * | 3703360025B | 11-MAY-2000 | 00-04-2592A | 02
04 | NC | MONTGOMERY COUNTY * | 3703360025B | 15-FEB-2000 | 00-04-0956A | 02
04 | NC | MONTGOMERY COUNTY * | 3703360025B | 17-FEB-2000 | 00-04-1354A | 02
04 | NC | MONTGOMERY COUNTY * | 3703360025B | 18-APR-2000 | 00-04-2406A | 02
04 | NC | MONTGOMERY COUNTY * | 3703360025B | 18-MAY-2000 | 00-04-2786A | 02
04 | NC | MONTGOMERY COUNTY * | 3703360025B | 20-APR-2000 | 00-04-2296A | 02
04 | NC | MONTGOMERY COUNTY * | 3703360025B | 20-JAN-2000 | 99-04-5262A | 02
04 | NC | MONTGOMERY COUNTY * | 3703360025B | 21-MAR-2000 | 00-04-2494A | 02
04 | NC | MONTGOMERY COUNTY * | 3703360025B | 22-FEB-2000 | 00-04-1600A | 02
04 | NC | MONTGOMERY COUNTY * | 3703360025B | 25-APR-2000 | 00-04-2016A | 02
04 | NC | MONTGOMERY COUNTY * | 3703360025B | 28-MAR-2000 | 00-04-1868A | 02
04 | NC | MONTGOMERY COUNTY * | 3703360055B | 01-JUN-2000 | 00-04-3154A | 02
04 | NC | MONTGOMERY COUNTY * | 3703360055B | 11-MAY-2000 | 00-04-2358A | 02
04 | NC | MONTGOMERY COUNTY * | 3703360065B | 11-MAY-2000 | 00-04-2136A | 02
04 | NC | MONTGOMERY COUNTY * | 3703360065B | 11-MAY-2000 | 00-04-2282A | 02
04 | NC | MONTGOMERY COUNTY * | 3703360065B | 13-APR-2000 | 00-04-1810A | 02
04 | NC | MONTGOMERY COUNTY * | 3703360065B | 16-MAY-2000 | 00-04-2204A | 02
04 | NC | MONTGOMERY COUNTY * | 3703360065B | 16-MAY-2000 | 00-04-2958A | 02
04 | NC | MONTGOMERY COUNTY * | 3703360065B | 20-APR-2000 | 00-04-2594A | 02
04 | NC | MORRISVILLE, TOWN OF | 37183C0291E | 16-MAY-2000 | 00-04-2780A | 01
04 | NC | NEW HANOVER COUNTY* | 3701680045E | 09-MAY-2000 | 00-04-3010A | 02
04 | NC | NEW HANOVER COUNTY* | 3701680091E | 01-JUN-2000 | 00-04-2926A | 02
04 | NC | NEW HANOVER COUNTY* | 3701680105D | 11-APR-2000 | 00-04-2376A | 02
04 | NC | ONSLOW COUNTY* | 3703400300C | 27-JAN-2000 | 00-04-0616A | 02
04 | NC | ONSLOW COUNTY* | 3703400305C | 11-JAN-2000 | 00-04-0308A | 02
04 | NC | ONSLOW COUNTY* | 3703400305C | 14-MAR-2000 | 00-04-0746A | 02
04 | NC | ONSLOW COUNTY* | 3703400305C | 18-JAN-2000 | 00-04-0584A | 02
04 | NC | ONSLOW COUNTY* | 3703400305C | 18-JAN-2000 | 00-04-0586A | 02
04 | NC | ONSLOW COUNTY* | 3703400305C | 20-JAN-2000 | 00-04-0614A | 02
04 | NC | ONSLOW COUNTY* | 3703400330C | 10-JAN-2000 | 99-04-3330P | 05
04 | NC | ONSLOW COUNTY* | 3703400367D | 04-APR-2000 | 00-04-1762A | 02
04 | NC | ORANGE COUNTY * | 3703420255B | 20-JAN-2000 | 00-04-0558A | 02
04 | NC | PENDER COUNTY* | 3703440155B | 11-APR-2000 | 00-04-2356A | 02
04 | NC | PENDER COUNTY* | 3703440285B | 02-MAR-2000 | 00-04-1634A | 02
04 | NC | PENDER COUNTY* | 3703440315B | 01-FEB-2000 | 00-04-0920A | 17
04 | NC | PENDER COUNTY* | 3703440411B | 01-FEB-2000 | 00-04-0524A | 02
04 | NC | PENDER COUNTY* | 3703440527C | 27-JAN-2000 | 00-04-0272A | 02
04 | NC | PERQUIMANS COUNTY | 3703150110B | 11-APR-2000 | 00-04-1102A | 02
04 | NC | PITT COUNTY * | 3703720260C | 09-MAR-2000 | 00-04-0814A | 02
04 | NC | RALEIGH, CITY OF | 37183C0329E | 20-MAR-2000 | 99-04-279P | 05
04 | NC | RALEIGH, CITY OF | 37183C0352E | 06-JAN-2000 | 00-04-0006A | 01
04 | NC | RALEIGH, CITY OF | 37183C0352E | 09-FEB-2000 | 99-04-5438A | 01
04 | NC | RALEIGH, CITY OF | 37183C0352E | 14-MAR-2000 | 00-04-0980A | 01
04 | NC | RANDOLPH COUNTY * | 3701950150B | 16-MAY-2000 | 00-04-3490A | 02
04 | NC | RICHLANDS, TOWN OF | 370341 A | 08-MAR-2000 | 99-04-6280A | 02
04 | NC | RIVER BEND, TOWN OF | 3704320002B | 02-FEB-2000 | 00-04-0168A | 02
04 | NC | ROBESON COUNTY * | 37155C0178D | 08-FEB-2000 | 00-04-0766A | 01
04 | NC | ROBESON COUNTY * | 37155C0190D | 27-JAN-2000 | 99-04-6034A | 01
04 | NC | RUTHERFORD COUNTY* | 3702170004B | 05-APR-2000 | 00-04-1108A | 02
04 | NC | RUTHERFORD COUNTY* | 3702170004B | 25-APR-2000 | 00-04-0888A | 02
04 | NC | SOUTHERN SHORES, TOWN OF | 3704300001C | 04-MAY-2000 | 00-04-2312A | 01
04 | NC | SPARTA, TOWN OF | 370005 B | 14-MAR-2000 | 00-04-0110A | 01
04 | NC | STANLY COUNTY * | 3703610050B | 28-MAR-2000 | 00-04-1758A | 02
04 | NC | STANLY COUNTY * | 3703610100B | 18-APR-2000 | 00-04-2434A | 02
04 | NC | TRENT WOODS, TOWNSHIP OF | 3704340001B | 02-MAY-2000 | 00-04-2534A | 02
04 | NC | TRENT WOODS, TOWNSHIP OF | 3704340001B | 13-JAN-2000 | 00-04-0948A | 02
04 | NC | VALDESE, TOWN OF | 3702980002A | 07-MAR-2000 | 00-04-0328A | 02
04 | NC | WARREN COUNTY* | 3703960002B | 11-MAY-2000 | 00-04-2240A | 02
04 | NC | WARREN COUNTY* | 3703960002B | 23-MAY-2000 | 00-04-2898A | 02
04 | NC | WAYNESVILLE, TOWN OF | 3701240002B | 22-FEB-2000 | 00-04-1056A | 01
04 | SC | AIKEN, CITY OF | 4500030005B | 16-MAR-2000 | 99-04-6242A | 02
04 | SC | BEAUFORT COUNTY* | 4500250095D | 16-MAY-2000 | 00-04-1650A | 02
04 | SC | BENNETTSVILLE, CITY OF | 4501470005B | 11-APR-2000 | 00-04-1042A | 02
04 | SC | BERKELEY COUNTY * | 4500290290C | 18-MAY-2000 | 00-04-2912A | 02
04 | SC | BERKELEY COUNTY * | 4500290355C | 01-JUN-2000 | 00-04-2020A | 02
04 | SC | BERKELEY COUNTY * | 4500290355C | 18-MAY-2000 | 00-04-2844A | 02
04 | SC | CHARLESTON COUNTY* | 4554130227F | 11-APR-2000 | 00-04-2230A | 02
04 | SC | CHARLESTON COUNTY* | 4554130425F | 08-FEB-2000 | 00-04-0908A | 02
04 | SC | EDGEFIELD COUNTY * | 4502290145C | 09-FEB-2000 | 99-04-6184A | 02
04 | SC | GREENWOOD COUNTY* | 4500940150B | 25-APR-2000 | 00-04-0632A | 02
04 | SC | HORRY COUNTY * | 45051C0582H | 27-JAN-2000 | 00-04-1574A | 02
04 | SC | IRMO, TOWN OF | 45063C0127G | 10-FEB-2000 | 00-04-1408V | 19
04 | SC | KERSHAW COUNTY * | 4501150250B | 09-MAR-2000 | 00-04-1382A | 02
04 | SC | LEXINGTON COUNTY * | 45063C0050G | 10-FEB-2000 | 00-04-1722V | 19
04 | SC | LEXINGTON COUNTY * | 45063C0050G | 23-MAY-2000 | 00-04-3148A | 02
04 | SC | LEXINGTON, TOWN OF | 45063C0138G | 10-FEB-2000 | 00-04-1414V | 19
04 | SC | NEWBERRY COUNTY* | 4502240225B | 18-APR-2000 | 00-04-1928A | 02
04 | SC | NEWBERRY COUNTY* | 4502240225B | 20-JAN-2000 | 00-04-1072A | 02
04 | SC | NEWBERRY COUNTY* | 4502240225B | 21-MAR-2000 | 00-04-2006A | 02
04 | SC | NORTH MYRTLE BEACH, TOWN OF | 45051C0601H | 02-MAY-2000 | 00-04-2596A | 02
04 | SC | RICHLAND COUNTY* | 45079C0025G | 02-MAR-2000 | 00-04-1024A | 02
04 | SC | RICHLAND COUNTY* | 45079C0025G | 04-JAN-2000 | 99-04-6074A | 02
04 | SC | RICHLAND COUNTY* | 45079C0025G | 07-MAR-2000 | 00-04-1440A | 02
04 | SC | RICHLAND COUNTY* | 45079C0080J | 15-FEB-2000 | 00-04-0996A | 02
04 | SC | ROCK HILL, CITY OF | 4501960006C | 27-APR-2000 | 99-04-5996A | 01
04 | SC | SPRINGDALE, TOWN OF | 45063C0257G | 10-FEB-2000 | 00-04-1410V | 19
04 | SC | SUMTER COUNTY * | 4501820090C | 13-APR-2000 | 00-04-2234A | 02
04 | SC | SUMTER COUNTY * | 4501820090C | 14-MAR-2000 | 00-04-1684A | 02
04 | SC | SUMTER COUNTY * | 4501820090C | 21-MAR-2000 | 00-04-1646A | 02
04 | SC | SUMTER COUNTY * | 4501820100B | 16-MAY-2000 | 00-04-2374A | 02
04 | SC | SUMTER COUNTY * | 4501820180C | 14-MAR-2000 | 00-04-1962A | 02
04 | SC | SUMTER COUNTY * | 4501820180C | 25-MAY-2000 | 00-04-3356A | 02
04 | SC | WEST COLUMBIA, CITY OF | 45051C0630H | 10-FEB-2000 | 00-04-1412V | 19
04 | SC | YORK COUNTY * | 4501930125C | 27-APR-2000 | 00-04-2954A | 02
04 | SC | YORK, CITY OF | 4501970001B | 09-MAY-2000 | 00-04-2772A | 02
04 | SC | YORK, CITY OF | 4501970001B | 16-MAY-2000 | 00-04-2770A | 02
04 | SC | YORK, CITY OF | 4501970001B | 16-MAY-2000 | 00-04-2846A | 02
04 | TN | ANDERSON COUNTY * | 4702170064C | 16-MAY-2000 | 00-04-1736A | 01
04 | TN | ARLINGTON, TOWNSHIP OF | 47157C0120E | 18-JAN-2000 | 00-04-0102A | 01
04 | TN | BENTON COUNTY | 4702180025B | 04-APR-2000 | 00-04-1808A | 02
04 | TN | BLOUNT COUNTY * | 4703560125B | 06-JAN-2000 | 00-04-0886A | 02
04 | TN | BRENTWOOD, CITY OF | 4702050005C | 01-JUN-2000 | 00-04-2086A | 02
04 | TN | BRENTWOOD, CITY OF | 4702050005C | 02-MAY-2000 | 00-04-0290A | 01
04 | TN | BRENTWOOD, CITY OF | 4702050005C | 11-APR-2000 | 00-04-1674A | 01
04 | TN | BRENTWOOD, CITY OF | 4702050005C | 11-MAY-2000 | 00-04-2518A | 01
04 | TN | BRENTWOOD, CITY OF | 4702050005C | 12-JAN-2000 | 00-04-0720A | 02
04 | TN | BRENTWOOD, CITY OF | 4702050010C | 28-JAN-2000 | 00-04-0818A | 02
04 | TN | CARTER COUNTY * | 47019C0100C | 10-FEB-2000 | 00-04-1238A | 02
04 | TN | CHATTANOOGA, CITY OF | 4700720017E | 02-FEB-2000 | 99-04-5356A | 02
04 | TN | CHATTANOOGA, CITY OF | 4700720017E | 04-MAY-2000 | 00-04-2630A | 01
04 | TN | CHATTANOOGA, CITY OF | 4700720028D | 04-APR-2000 | 99-04-4310A | 01
04 | TN | CLARKSVILLE, CITY OF | 4701370008C | 25-FEB-2000 | 99-04-5648A | 02
04 | TN | DECATUR COUNTY* | 4700410004B | 17-FEB-2000 | 00-04-1568A | 02
04 | TN | DUNLAP, CITY OF | 4702700002B | 20-JAN-2000 | 99-04-5902A | 01
04 | TN | EAGLEVILLE, CITY OF | 47149C0335E | 01-JUN-2000 | 00-04-2498A | 01
04 | TN | EAST RIDGE, CITY OF | 4754240010D | 10-FEB-2000 | 00-04-1652A | 02
04 | TN | FAYETTEVILLE, CITY OF | 47103C0166C | 18-FEB-2000 | 00-04-035P | 05
04 | TN | FRANKLIN COUNTY * | 4703440175B | 30-MAR-2000 | 00-04-0992A | 02
04 | TN | FRANKLIN, CITY OF | 4702060007D | 18-FEB-2000 | 00-04-1500A | 02
04 | TN | GERMANTOWN, CITY OF | 47157C0235E | 09-MAY-2000 | 00-04-2940A | 02
04 | TN | GERMANTOWN, CITY OF | 47157C0235E | 27-JAN-2000 | 00-04-0068A | 01
04 | TN | HARDIN COUNTY* | 4700820075C | 07-MAR-2000 | 00-04-1760A | 02
04 | TN | HARDIN COUNTY* | 4700820075C | 13-APR-2000 | 00-04-1856A | 02
04 | TN | JACKSON, CITY OF | 47113C0161D | 24-FEB-2000 | 00-04-1626A | 02
04 | TN | LOUDON COUNTY* | 4701070075B | 11-APR-2000 | 00-04-1998A | 02
04 | TN | MARSHALL COUNTY* | 47117C0100C | 02-MAY-2000 | 00-04-1916A | 02
04 | TN | MEMPHIS, CITY OF | 47157C0170E | 06-JAN-2000 | 00-04-0342A | 02
04 | TN | MEMPHIS, CITY OF | 47157C0185E | 02-MAY-2000 | 00-04-2876A | 02
04 | TN | MEMPHIS, CITY OF | 47157C0185E | 25-MAY-2000 | 00-04-1444A | 01
04 | TN | MEMPHIS, CITY OF | 47157C0230E | 01-FEB-2000 | 00-04-0076A | 02
04 | TN | MEMPHIS, CITY OF | 47157C0230E | 02-MAY-2000 | 00-04-2484A | 02
04 | TN | MEMPHIS, CITY OF | 47157C0230E | 18-FEB-2000 | 00-04-1498A | 02
04 | TN | MEMPHIS, CITY OF | 47157C0230E | 21-MAR-2000 | 00-04-1800A | 02
04 | TN | MEMPHIS, CITY OF | 47157C0230E | 30-MAR-2000 | 00-04-1798A | 02
04 | TN | MEMPHIS, CITY OF | 47157C0230E | 30-MAR-2000 | 00-04-1802A | 02
04 | TN | MONROE COUNTY | 4702330025B | 06-APR-2000 | 00-04-2350A | 01
04 | TN | MURFREESBORO, CITY OF | 47149C0259F | 03-JAN-2000 | 00-04-0796A | 02
04 | TN | MURFREESBORO, CITY OF | 47149C0260F | 05-JAN-2000 | 99-04-4106A | 01
04 | TN | MURFREESBORO, CITY OF | 47149C0260F | 08-FEB-2000 | 99-04-5812A | 01
04 | TN | NASHVILLE, CITY OF & DAVIDSON COUNTY | 4700400100B | 14-MAR-2000 | 00-04-2562A | 02
04 | TN | NASHVILLE, CITY OF & DAVIDSON COUNTY | 4700400100B | 28-MAR-2000 | 00-04-2736A | 02
04 | TN | NASHVILLE, CITY OF & DAVIDSON COUNTY | 4700400131B | 22-FEB-2000 | 99-04-6126A | 02
04 | TN | NASHVILLE, CITY OF & DAVIDSON COUNTY | 4700400177B | 01-JUN-2000 | 00-04-2344A | 01
04 | TN | NASHVILLE, CITY OF & DAVIDSON COUNTY | 4700400177B | 02-MAR-2000 | 00-04-1620A | 01
04 | TN | NASHVILLE, CITY OF & DAVIDSON COUNTY | 4700400177B | 02-MAR-2000 | 00-04-1622A | 01
04 | TN | NASHVILLE, CITY OF & DAVIDSON COUNTY | 4700400177B | 02-MAR-2000 | 00-04-1624A | 01
04 | TN | NASHVILLE, CITY OF & DAVIDSON COUNTY | 4700400177B | 02-MAR-2000 | 00-04-1662A | 01
04 | TN | NASHVILLE, CITY OF & DAVIDSON COUNTY | 4700400192C | 03-JAN-2000 | 00-04-0822A | 01
04 | TN | NASHVILLE, CITY OF & DAVIDSON COUNTY | 4700400192C | 04-JAN-2000 | 00-04-0248A | 01
04 | TN | NASHVILLE, CITY OF & DAVIDSON COUNTY | 4700400192C | 04-JAN-2000 | 00-04-0604A | 01
04 | TN | NASHVILLE, CITY OF & DAVIDSON COUNTY | 4700400192C | 09-MAR-2000 | 00-04-1660A | 01
04 | TN | NASHVILLE, CITY OF & DAVIDSON COUNTY | 4700400192C | 25-MAY-2000 | 00-04-1952A | 01
04 | TN | NASHVILLE, CITY OF & DAVIDSON COUNTY | 4700400203C | 07-JAN-2000 | 00-04-0820A | 01
04 | TN | NASHVILLE, CITY OF & DAVIDSON COUNTY | 4700400244B | 19-JAN-2000 | 00-04-0658A | 02
04 | TN | NASHVILLE, CITY OF & DAVIDSON COUNTY | 4700400253B | 11-APR-2000 | 00-04-0596A | 01
04 | TN | NASHVILLE, CITY OF & DAVIDSON COUNTY | 4700400262C | 30-MAY-2000 | 00-04-2168A | 02
04 | TN | NASHVILLE, CITY OF & DAVIDSON COUNTY | 4700400281C | 14-JAN-2000 | 00-04-0574A | 02
04 | TN | NASHVILLE, CITY OF & DAVIDSON COUNTY | 4700400281C | 25-FEB-2000 | 00-04-1744X | 02
04 | TN | OLIVER SPRINGS, TOWN OF | 4700050003B | 16-MAY-2000 | 00-04-2662A | 02
04 | TN | RIPLEY, TOWN OF | 4701000004C | 13-APR-2000 | 00-04-1850A | 02
04 | TN | RUTHERFORD COUNTY * | 47149C0137E | 02-MAR-2000 | 00-04-1648A | 02
04 | TN | RUTHERFORD COUNTY * | 47149C0255F | 15-FEB-2000 | 00-04-0410A | 02
04 | TN | SHELBY COUNTY * | 47157C0060E | 04-APR-2000 | 00-04-2440A | 02
04 | TN | SHELBY COUNTY * | 47157C0200E | 05-APR-2000 | 99-04-5932A | 01
04 | TN | SHELBY COUNTY * | 47157C0240E | 07-FEB-2000 | 99-04-4992A | 01
04 | TN | SHELBY COUNTY * | 47157C0280E | 08-FEB-2000 | 00-04-0458A | 01
04 | TN | SHELBY COUNTY * | 47157C0280E | 27-JAN-2000 | 00-04-0460A | 02
04 | TN | SMYRNA, TOWN OF | 47149C0102E | 01-JUN-2000 | 00-04-1966A | 01
04 | TN | SMYRNA, TOWN OF | 47149C0104E | 09-MAY-2000 | 00-04-1990A | 01
04 | TN | SMYRNA, TOWN OF | 47149C0106E | 09-MAR-2000 | 00-04-0832A | 02
04 | VA | FRONT ROYAL, TOWN OF | 5101670003B | 27-JAN-2000 | 99-03-007P | 05
05 | IL | ALTON, CITY OF | 1704370005C | 26-MAY-2000 | 00-05-2632A | 02
05 | IL | ANTIOCH, VILLAGE OF | 17097C0026F | 20-JAN-2000 | 00-05-0544A | 02
05 | IL | BELLWOOD, VILLAGE OF | 1700610001B | 14-MAR-2000 | 00-05-1970A | 02
05 | IL | BENSENVILLE, VILLAGE OF | 1702000002C | 09-MAR-2000 | 00-05-0588A | 01
05 | IL | BLOOMINGTON, CITY OF | 1704900005C | 27-APR-2000 | 00-05-2290A | 02
05 | IL | BOLINGBROOK, VILLAGE OF | 17197C0045F | 25-MAY-2000 | 00-05-1706A | 01
05 | IL | BRAIDWOOD, CITY OF | 17197C0415E | 06-APR-2000 | 00-05-1980A | 02
05 | IL | BUFFALO GROVE, VILLAGE OF | 17097C0261F | 06-APR-2000 | 00-05-1928A | 02
05 | IL | BUFFALO GROVE, VILLAGE OF | 17097C0261F | 24-FEB-2000 | 00-05-0094A | 02
05 | IL | BUFFALO GROVE, VILLAGE OF | 17097C0262F | 06-APR-2000 | 00-05-2566A | 17
05 | IL | BURR RIDGE, VILLAGE OF | 1700710003B | 12-JAN-2000 | 99-05-6726A | 01
05 | IL | CAHOKIA, VILLAGE OF | 1706200005C | 25-MAY-2000 | 00-05-2486A | 02
05 | IL | CARMI, CITY OF | 1706810005B | 25-APR-2000 | 00-05-2526A | 02
05 | IL | CARMI, CITY OF | 1706810005B | 28-JUN-2000 | 00-05-4016A | 02
05 | IL | CARMI, CITY OF | 1706810005B | 21-JAN-2000 | 00-05-0700A | 02
05 | IL | CARROLL COUNTY * | 1700190075B | 04-FEB-2000 | 00-05-0940A | 02
05 | IL | CARROLL COUNTY * | 1700190075B | 07-MAR-2000 | 00-05-2312A | 02
05 | IL | CHAMPAIGN COUNTY * | 1708940175B | 04-FEB-2000 | 99-05-4962A | 02
05 | IL | CHAMPAIGN COUNTY * | 1708940205B | 02-FEB-2000 | 00-05-1362A | 02
05 | IL | CHAMPAIGN COUNTY * | 1708940205B | 14-MAR-2000 | 00-05-1424A | 02
05 | IL | CHAMPAIGN COUNTY * | 1708940205B | 14-MAR-2000 | 99-05-6164A | 02
05 | IL | CHAMPAIGN COUNTY * | 1708940205B | 21-MAR-2000 | 00-05-1464A | 02
05 | IL | CHAMPAIGN, CITY OF | 1700260010B | 07-FEB-2000 | 00-05-1420A | 02
05 | IL | CHAMPAIGN, CITY OF | 1708940180B | 12-MAY-2000 | 00-05-2764X | 02
05 | IL | CHICAGO HEIGHTS, CITY OF | 1700750005B | 11-FEB-2000 | 00-05-2006A | 02
05 | IL | CLINTON COUNTY* | 170044 B | 04-FEB-2000 | 99-05-7004A | 02
05 | IL | CLINTON COUNTY* | 170044 B | 16-MAY-2000 | 00-05-1806A | 02
05 | IL | CLINTON, CITY OF | 17039C0190D | 13-APR-2000 | 00-05-2572A | 02
05 | IL | COLES COUNTY * | 1709860125B | 07-MAR-2000 | 00-05-1076A | 02
05 | IL | COOK COUNTY * | 1700540040B | 22-FEB-2000 | 99-05-6086A | 02
05 | IL | COOK COUNTY * | 1700540195B | 16-MAY-2000 | 99-05-335A | 17
05 | IL | COOK COUNTY * | 1700540215B | 22-MAR-2000 | 00-05-1276A | 02
05 | IL | COOK COUNTY | 1700540050B | 30-JUN-2000 | 00-05-4354A | 02
05 | IL | CRESTWOOD, VILLAGE OF | 1700800001E | 24-MAY-2000 | 00-05-2326A | 02
05 | IL | CRYSTAL LAKE, CITY OF | 1704760001C | 25-APR-2000 | 00-05-2244A | 02
05 | IL | DECATUR, CITY OF | 1704290005C | 29-FEB-2000 | 00-05-1468A | 02
05 | IL | DEERFIELD, VILLAGE OF | 17097C0286F | 27-APR-2000 | 00-05-1772A | 01
05 | IL | DES PLAINES, CITY OF | 1700810005C | 02-FEB-2000 | 99-05-7152A | 02
05 | IL | DOWNERS GROVE, VILLAGE OF | 1702040004B | 09-FEB-2000 | 00-05-0618A | 02
05 | IL | DOWNERS GROVE, VILLAGE OF | 1702040004B | 16-FEB-2000 | 00-05-0076A | 02
05 | IL | DOWNERS GROVE, VILLAGE OF | 1702040004B | 30-MAY-2000 | 00-05-2492A | 02
05 | IL | DU PAGE COUNTY* | 1701970010C | 16-MAY-2000 | 00-05-2020A | 02
05 | IL | DU PAGE COUNTY* | 1701970010C | 25-MAY-2000 | 00-05-1274A | 02
05 | IL | DU PAGE COUNTY* | 1701970035B | 02-MAY-2000 | 00-05-2558A | 02
05 | IL | DU PAGE COUNTY* | 1701970065B | 03-MAR-2000 | 99-05-189P | 05
05 | IL | EFFINGHAM COUNTY * | 1702270002A | 27-APR-2000 | 00-05-1160A | 02
05 | IL | EFFINGHAM, CITY OF | 170229 B | 27-APR-2000 | 00-05-0702A | 02
05 | IL | FOX LAKE, VILLAGE OF | 17097C0015F | 15-MAR-2000 | 00-05-1982A | 02
05 | IL | FOX LAKE, VILLAGE OF | 17097C0015F | 21-JAN-2000 | 00-05-0882A | 02
05 | IL | FOX LAKE, VILLAGE OF | 17097C0020F | 09-MAY-2000 | 00-05-0568A | 02
05 | IL | FREEPORT, CITY OF | 170640H&101 | 28-JUN-2000 | 00-05-2834A | 02
05 | IL | FRANKFORT, VILLAGE OF | 17197C0310E | 03-FEB-2000 | 99-05-6620P | 05
05 | IL | FRANKFORT, VILLAGE OF | 17197C0326E | 22-JAN-2000 | 99-05-165P | 05
05 | IL | FRANKFORT, VILLAGE OF | 17197C0327E | 22-JAN-2000 | 99-05-165P |
05 | IL | GALENA, CITY OF | 175168 A | 28-JAN-2000 | 00-05-0392A | 02
05 | IL | GALESBURG, CITY OF | 1703490006B | 02-FEB-2000 | 99-05-6998A | 02
05 | IL | GARDNER, VILLAGE OF | 1702610005C | 15-FEB-2000 | 00-05-0290A | 02
05 | IL | GARDNER, VILLAGE OF | 1702610005C | 15-FEB-2000 | 00-05-1484A | 02
05 | IL | GARDNER, VILLAGE OF | 1702610005C | 18-APR-2000 | 00-05-2134A | 02
05 | IL | GENOA, CITY OF | 170183 B | 28-MAR-2000 | 00-05-2458A | 02
05 | IL | GENOA, CITY OF | 170183 B | 31-MAY-2000 | 00-05-2456A | 02
05 | IL | GENOA, CITY OF | 170183 B | 31-MAY-2000 | 00-05-2460A | 02
05 | IL | GERMANTOWN, VILLAGE OF | 170049 B | 28-JAN-2000 | 00-05-0364A | 02
05 | IL | GLENDALE HEIGHTS, VILLAGE OF | 1702060001C | 04-APR-2000 | 00-05-1818A | 17
05 | IL | GLENVIEW, VILLAGE OF | 1700960008C | 28-JAN-2000 | 99-05-6162A | 02
05 | IL | GRUNDY COUNTY * | 1702560045C | 13-APR-2000 | 00-05-1764A | 02
05 | IL | GRUNDY COUNTY * | 1702560045C | 17-MAY-2000 | 00-05-2444A | 17
05 | IL | GRUNDY COUNTY * | 1702560060C | 02-MAR-2000 | 00-05-0650A | 02
05 | IL | GURNEE, VILLAGE OF | 17097C0063F | 09-MAR-2000 | 99-05-7354A | 01
05 | IL | HENRY COUNTY * | 1707390100B | 04-APR-2000 | 00-05-1912A | 17
05 | IL | HIGHLAND PARK, CITY OF | 17097C0279F | 07-MAR-2000 | 00-05-1052A | 02
05 | IL | HIGHLAND PARK, CITY OF | 17097C0279F | 29-FEB-2000 | 00-05-1072A | 02
05 | IL | HOFFMAN ESTATES, VILLAGE OF | 1701070007C | 16-MAY-2000 | 00-05-2398A | 02
05 | IL | HOFFMAN ESTATES, VILLAGE OF | 1701070008B | 22-JAN-2000 | 00-05-0470A | 02
05 | IL | HOFFMAN ESTATES, VILLAGE OF | 1701070008B | 28-MAR-2000 | 00-05-2552A | 02
05 | IL | HOLIDAY HILLS, VILLAGE OF | 1709360001B | 09-FEB-2000 | 00-05-0646A | 02
05 | IL | HOLIDAY HILLS, VILLAGE OF | 1709360001B | 16-FEB-2000 | 99-05-7302A | 02
05 | IL | HUNTLEY, VILLAGE OF | 1704800004C | 18-FEB-2000 | 00-05-1886X | 01
05 | IL | INDIAN HEAD PARK, VILLAGE OF | 1701100001B | 03-FEB-2000 | 00-05-007P | 05
05 | IL | ISLAND LAKE, VILLAGE OF | 1703700001B | 31-JAN-2000 | 00-05-1554A | 17
05 | IL | JOLIET, CITY OF | 17197C0135F | 02-MAY-2000 | 00-05-1774A | 02
05 | IL | JOLIET, CITY OF | 17197C0135F | 07-JAN-2000 | 00-05-0422A | 01
05 | IL | JOLIET, CITY OF | 17197C0135F | 21-JAN-2000 | 00-05-0456A | 01
05 | IL | JOLIET, CITY OF | 17197C0141E | 09-MAR-2000 | 99-05-047P | 05
05 | IL | JOLIET, CITY OF | 17197C0141E | 17-FEB-2000 | 00-05-141P | 06
05 | IL | JOLIET, CITY OF | 17197C0144E | 09-MAR-2000 | 00-05-0798A | 02
05 | IL | KANE COUNTY * | 1708960102B | 07-MAR-2000 | 00-05-1018A | 02
05 | IL | KANKAKEE COUNTY * | 1703360160C | 18-APR-2000 | 00-05-1150A | 02
05 | IL | KANKAKEE COUNTY * | 1703360185C | 02-MAY-2000 | 00-05-0884A | 02
05 | IL | KANKAKEE COUNTY * | 1703360190C | 02-FEB-2000 | 99-05-6328A | 02
05 | IL | KANKAKEE COUNTY * | 1703360190C | 18-APR-2000 | 00-05-1948A | 02
05 | IL | KANKAKEE, CITY OF | 1703390005C | 24-FEB-2000 | 99-05-7100A | 17
05 | IL | KENDALL COUNTY * | 1703410055C | 14-MAR-2000 | 00-05-1090A | 02
05 | IL | LAKE COUNTY * | 17097C0010F | 02-MAY-2000 | 00-05-2198A | 02
05 | IL | LAKE COUNTY * | 17097C0010F | 17-MAY-2000 | 00-05-2070A | 02
05 | IL | LAKE COUNTY * | 17097C0010F | 28-MAR-2000 | 00-05-1556A | 02
05 | IL | LAKE COUNTY * | 17097C0020F | 24-FEB-2000 | 00-05-1030A | 02
05 | IL | LAKE COUNTY * | 17097C0028F | 13-APR-2000 | 00-05-1904A | 02
05 | IL | LAKE COUNTY * | 17097C0105G | 25-APR-2000 | 00-05-1270A | 02
05 | IL | LAKE COUNTY * | 17097C0110G | 21-MAR-2000 | 00-05-1688X | 02
05 | IL | LAKE COUNTY * | 17097C0118F | 21-MAR-2000 | 00-05-1022A | 01
05 | IL | LAKE COUNTY * | 17097C0127F | 05-APR-2000 | 00-05-1974A | 02
05 | IL | LAKE FOREST, CITY OF | 17097C0257F | 10-FEB-2000 | 00-05-0474A | 17
05 | IL | LAKE FOREST, CITY OF | 17097C0276F | 10-FEB-2000 | 00-05-1868A | 02
05 | IL | LAKE FOREST, CITY OF | 17097C0277F | 25-MAY-2000 | 00-05-0612A | 17
05 | IL | LANSING, VILLAGE OF | 1701160005D | 11-APR-2000 | 00-05-1502A | 02
05 | IL | LANSING, VILLAGE OF | 1701160005D | 14-JAN-2000 | 00-05-0900A | 02
05 | IL | LANSING, VILLAGE OF | 1701160005D | 16-MAR-2000 | 00-05-1304A | 02
05 | IL | LEE COUNTY* | 17103C0100D | 09-MAR-2000 | 00-05-0570A | 02
05 | IL | LEE COUNTY* | 17103C0150D | 14-MAR-2000 | 00-05-2574A | 02
05 | IL | LINDENHURST, VILLAGE OF | 17097C0041F | 16-MAR-2000 | 00-05-1684A | 02
05 | IL | LINDENHURST, VILLAGE OF | 17097C0041F | 24-MAY-2000 | 00-05-2074A | 02
05 | IL | LIVINGSTON COUNTY | 1709290010A | 06-JUN-2000 | 00-05-2984A | 02
05 | IL | LOGAN COUNTY * | 17107C0250C | 15-FEB-2000 | 99-05-7374A | 02
05 | IL | LOMBARD, VILLAGE OF | 1702120005B | 01-JAN-2000 | 99-05-273P | 05
05 | IL | LYNWOOD, VILLAGE OF | 1701190005C | 01-JUN-2000 | 00-05-2144A | 01
05 | IL | LYNWOOD, VILLAGE OF | 1701190005C | 29-FEB-2000 | 00-05-0822A | 01
05 | IL | MADISON COUNTY * | 1704360050B | 09-FEB-2000 | 00-05-0270A | 02
05 | IL | MADISON COUNTY * | 1704360085B | 15-FEB-2000 | 00-05-0494A | 02
05 | IL | MADISON COUNTY * | 1704360090B | 21-JAN-2000 | 00-05-0328A | 02
05 | IL | MADISON COUNTY * | 1704360105B | 07-MAR-2000 | 00-05-1048A | 02
05 | IL | MADISON COUNTY * | 1704360110B | 14-JAN-2000 | 99-05-6350A | 02
05 | IL | MADISON COUNTY | 1704360085B | 23-JUN-2000 | 00-05-3356A | 02
05 | IL | MANTENO, VILLAGE OF | 1708780001A | 11-APR-2000 | 99-05-7336A | 01
05 | IL | MASON CITY, CITY OF | 170466 C | 04-APR-2000 | 00-05-1792A | 02
05 | IL | MASON CITY, CITY OF | 170466 C | 06-APR-2000 | 00-05-1988A | 02
05 | IL | MCHENRY COUNTY* | 1707320025B | 20-APR-2000 | 00-05-1784A | 01
05 | IL | MCHENRY COUNTY* | 1707320090B | 07-FEB-2000 | 00-05-1720X | 02
05 | IL | MCHENRY COUNTY* | 1707320090B | 07-JAN-2000 | 99-05-6790A | 02
05 | IL | MCHENRY COUNTY* | 1707320115B | 19-MAY-2000 | 00-05-2246A | 02
05 | IL | MCHENRY COUNTY* | 1707320115B | 28-MAR-2000 | 00-05-0582A | 02
05 | IL | MCHENRY COUNTY* | 1707320240B | 27-APR-2000 | 99-05-5892A | 17
05 | IL | MCHENRY COUNTY* | 1707320355B | 02-MAY-2000 | 99-05-4316A | 02
05 | IL | MCHENRY COUNTY* | 1707320355B | 28-MAR-2000 | 00-05-0964A | 02
05 | IL | MERRIONETTE PARK, VILLAGE OF | 170126 B | 04-APR-2000 | 00-05-0518A | 02
05 | IL | MIDLOTHIAN, VILLAGE OF | 1701270001C | 25-MAY-2000 | 00-05-1640A | 01
05 | IL | MILAN, VILLAGE OF | 1705900001D | 07-MAR-2000 | 00-05-0442A | 17
05 | IL | MONROE COUNTY* | 1705090035D | 30-MAY-2000 | 00-05-2662A | 02
05 | IL | MONROE COUNTY* | 1705090055D | 07-MAR-2000 | 99-05-6902A | 02
05 | IL | MORRIS, CITY OF | 1702630005C | 21-MAR-2000 | 00-05-0794A | 02
05 | IL | MORRISON, CITY OF | 1706910001B | 11-MAY-2000 | 00-05-2394A | 02
05 | IL | MOUNT PROSPECT, VILLAGE OF | 1701290010B | 11-MAY-2000 | 00-05-2364A | 02
05 | IL | MOUNT PROSPECT, VILLAGE OF | 1701290010B | 19-MAY-2000 | 00-05-2402A | 02
05 | IL | MOUNT PROSPECT, VILLAGE OF | 1701290010B | 24-MAY-2000 | 00-05-2466A | 02
05 | IL | MOUNT PROSPECT, VILLAGE OF | 1701290010B | 25-APR-2000 | 00-05-2240A | 02
05 | IL | MUNDELEIN, VILLAGE OF | 17097C0139F | 02-MAR-2000 | 00-05-2174X | 01
05 | IL | NAPERVILLE, CITY OF | 1702130015C | 14-MAR-2000 | 99-05-175P |
05 | IL | NAPERVILLE, CITY OF | 1702130016C | 14-MAR-2000 | 99-05-175P | 05
05 | IL | NAPERVILLE, CITY OF | 1702130020C | 04-MAY-2000 | 00-05-069P | 05
05 | IL | NAPERVILLE, CITY OF | 1702130020C | 14-MAR-2000 | 99-05-175P |
05 | IL | NAPERVILLE, CITY OF | 1702130021C | 14-MAR-2000 | 99-05-175P |
05 | IL | NAPERVILLE, CITY OF | 17197C0030E | 07-JAN-2000 | 00-05-033P | 05
05 | IL | NEBO, VILLAGE OF | 1705540001C | 14-JAN-2000 | 99-05-7084A | 02
05 | IL | NEW LENOX, VILLAGE OF | 17197C0305E | 14-JAN-2000 | 00-05-0840A | 02
05 | IL | OAK FOREST, CITY OF | 1701360005C | 11-FEB-2000 | 99-05-7162A | 02
05 | IL | OAK FOREST, CITY OF | 1701360005C | 14-JAN-2000 | 99-05-6976A | 02
05 | IL | ORLAND PARK, VILLAGE OF | 1701400003D | 16-FEB-2000 | 00-05-089P | 05
05 | IL | ORLAND PARK, VILLAGE OF | 1701400005D | 16-FEB-2000 | 00-05-089P |
05 | IL | ORLAND PARK, VILLAGE OF | 1701400005D | 30-MAY-2000 | 00-05-0566A | 02
05 | IL | PALATINE, VILLAGE OF | 1751700005B | 09-FEB-2000 | 00-05-1344A | 02
05 | IL | PALATINE, VILLAGE OF | 1751700005B | 23-MAY-2000 | 00-05-3690A | 02
05 | IL | PALOS HILLS, CITY OF | 1701430003C | 04-APR-2000 | 00-05-1828A | 17
05 | IL | PALOS HILLS, CITY OF | 1701430003C | 14-JAN-2000 | 99-05-5454A | 01
05 | IL | PARK CITY, CITY OF | 17097C0157F | 11-APR-2000 | 99-05-6390A | 01
05 | IL | PARK CITY, CITY OF | 17097C0157F | 21-MAR-2000 | 99-05-7402A | 17
05 | IL | PEORIA COUNTY * | 1705330125B | 10-FEB-2000 | 00-05-0896A | 17
05 | IL | PEORIA COUNTY * | 1705330125B | 14-MAR-2000 | 00-05-1466A | 02
05 | IL | PEORIA COUNTY * | 1705330150B | 19-JAN-2000 | 00-05-0202A | 02
05 | IL | PEORIA, CITY OF | 1705360015B | 12-APR-2000 | 00-05-1602A | 17
05 | IL | PIATT COUNTY |  | 28-JUN-2000 | 00-05-2952A | 02
05 | IL | PLAINFIELD, VILLAGE OF | 17197C0045F | 07-JAN-2000 | 00-05-1476A | 01
05 | IL | PLAINFIELD, VILLAGE OF | 17197C0127E | 09-MAR-2000 | 00-05-1002A | 01
05 | IL | PLAINFIELD, VILLAGE OF | 17197C0135F | 30-MAY-2000 | 00-05-2814A | 02
05 | IL | PROSPECT HEIGHTS, CITY OF | 1709190005C | 11-FEB-2000 | 00-05-0426A | 02
05 | IL | PROSPECT HEIGHTS, CITY OF | 1709190005C | 16-FEB-2000 | 00-05-0762A | 02
05 | IL | ROCK ISLAND COUNTY* | 1705820025B | 24-FEB-2000 | 00-05-1694A | 02
05 | IL | ROCK ISLAND COUNTY* | 1705820025B | 28-MAR-2000 | 00-05-1170A | 02
05 | IL | ROCK ISLAND COUNTY* | 1705820025B | 28-MAR-2000 | 00-05-1244A | 02
05 | IL | ROCK ISLAND COUNTY* | 1705820025B | 28-MAR-2000 | 00-05-1564A | 02
05 | IL | ROCK ISLAND COUNTY* | 1705820100C | 29-FEB-2000 | 99-05-6650A | 02
05 | IL | ROCK ISLAND COUNTY* | 1705820125B | 04-APR-2000 | 99-05-6354A | 17
05 | IL | ROCK ISLAND COUNTY* | 1705820125B | 19-MAY-2000 | 00-05-2080A | 02
05 | IL | ROMEOVILLE, VILLAGE OF | 17197C0065F | 25-APR-2000 | 00-05-0344A | 02
05 | IL | ROUND LAKE, VILLAGE OF | 17097C0127F | 07-MAR-2000 | 00-05-0284A | 02
05 | IL | SCHAUMBURG, VILLAGE OF | 1701580005D | 01-FEB-2000 | 99-05-279P | 05
05 | IL | SCHILLER PARK, VILLAGE OF | 1701590005B | 09-MAR-2000 | 00-05-1432A | 02
05 | IL | SCHILLER PARK, VILLAGE OF | 1701590005B | 11-APR-2000 | 99-05-5760A | 02
05 | IL | SCHILLER PARK, VILLAGE OF | 1701590005B | 14-MAR-2000 | 00-05-1434A | 02
05 | IL | SCHILLER PARK, VILLAGE OF | 1701590005B | 14-MAR-2000 | 00-05-1972A | 02
05 | IL | SHOREWOOD,VILLAGE OF | 17197C0139E | 10-MAY-2000 | 00-05-101P | 05
05 | IL | SHOREWOOD,VILLAGE OF | 17197C0140E | 10-MAY-2000 | 00-05-101P |
05 | IL | SOUTH HOLLAND, VILLAGE OF | 1701630004C | 09-MAY-2000 | 00-05-1598A | 02
05 | IL | ST. CLAIR COUNTY * | 1706160040A | 04-FEB-2000 | 00-05-0522A | 02
05 | IL | ST. CLAIR COUNTY * | 1706160065A | 02-MAR-2000 | 00-05-0772X | 02
05 | IL | ST. CLAIR COUNTY * | 1706160065A | 25-APR-2000 | 00-05-2206A | 02
05 | IL | ST. CLAIR COUNTY * | 1706160070B | 05-JAN-2000 | 00-05-0354A | 17
05 | IL | STEPHENSON COUNTY * | 1706390125B | 21-MAR-2000 | 00-05-0502A | 01
05 | IL | STREAMWOOD, VILLAGE OF | 1701660001C | 04-JAN-2000 | 99-05-217P | 05
05 | IL | TINLEY PARK, CITY OF | 1701690005E | 31-MAR-2000 | 99-05-303P | 05
05 | IL | TUSCOLA, CITY OF | 1701950005C | 08-JUN-2000 | 00-05-3366A | 02
05 | IL | UNIVERSITY PARK, VILLAGE OF | 17197C0361E | 30-MAY-2000 | 00-05-0732A | 01
05 | IL | VERNON HILLS, VILLAGE OF | 17097C0163F | 11-APR-2000 | 00-05-0220A | 01
05 | IL | VILLA GROVE, CITY OF | 1701960001B | 11-FEB-2000 | 00-05-0224A | 02
05 | IL | VILLA GROVE, CITY OF | 1701960001B | 14-JAN-2000 | 00-05-1278A | 02
05 | IL | VILLA GROVE, CITY OF | 1701960001B | 16-FEB-2000 | 00-05-0506A | 02
05 | IL | WAUCONDA, VILLAGE OF | 17097C0118F | 23-MAY-2000 | 00-05-3512A | 02
05 | IL | WAUCONDA, VILLAGE OF | 17097C0119F | 16-MAY-2000 | 00-05-3086A | 02
05 | IL | WAUKEGAN, CITY OF | 17097C0068F | 24-MAY-2000 | 99-05-4738A | 02
05 | IL | WESTCHESTER, VILLAGE OF | 1701700001B | 27-APR-2000 | 00-05-3078A | 02
05 | IL | WESTCHESTER, VILLAGE OF | 1701700001B | 29-FEB-2000 | 00-05-0728A | 02
05 | IL | WESTMONT, VILLAGE OF | 1702200001B | 25-APR-2000 | 00-05-1954A | 02
05 | IL | WHEATON, CITY OF | 1702210005B | 04-JAN-2000 | 99-05-6068A | 02
05 | IL | WHEELING, VILLAGE OF | 1701730005C | 11-APR-2000 | 00-05-2236A | 02
05 | IL | WHITESIDE COUNTY* | 1706870150B | 12-JAN-2000 | 99-05-7202A | 02
05 | IL | WILL COUNTY * | 17197C0030E | 13-APR-2000 | 00-05-1166A | 02
05 | IL | WILL COUNTY * | 17197C0030E | 14-MAR-2000 | 99-05-175P | 05
05 | IL | WILL COUNTY * | 17197C0030E | 21-MAR-2000 | 00-05-2320A | 02
05 | IL | WILL COUNTY * | 17197C0033F | 02-MAY-2000 | 00-05-2560A | 02
05 | IL | WILL COUNTY * | 17197C0090E | 08-MAR-2000 | 99-05-4698A | 01
05 | IL | WILL COUNTY * | 17197C0135F | 18-APR-2000 | 00-05-0104A | 02
05 | IL | WILL COUNTY * | 17197C0140E | 23-FEB-2000 | 00-05-051P | 06
05 | IL | WILL COUNTY * | 17197C0141E | 09-MAR-2000 | 99-05-047P | 05
05 | IL | WILL COUNTY * | 17197C0141E | 17-FEB-2000 | 00-05-141P | 06
05 | IL | WILL COUNTY * | 17197C0154E | 16-MAY-2000 | 00-05-075P | 05
05 | IL | WILL COUNTY * | 17197C0265E | 16-MAR-2000 | 99-05-7010A | 02
05 | IL | WILL COUNTY * | 17197C0370E | 08-MAR-2000 | 99-05-173P | 05
05 | IL | WILL COUNTY * | 17197C0370E | 25-APR-2000 | 99-05-6626A | 01
05 | IL | WILL COUNTY * | 17197C0410E | 18-MAY-2000 | 00-05-0232A | 02
05 | IL | WILL COUNTY * | 17197C0420E | 12-JAN-2000 | 99-05-6362A | 02
05 | IL | WILL COUNTY * | 17197C0580E | 31-MAR-2000 | 99-05-3098A | 01
05 | IL | WILLIAMSON COUNTY * | 1709340001B | 24-FEB-2000 | 99-05-7378A | 02
05 | IL | WINNEBAGO COUNTY * | 1707200035B | 28-MAR-2000 | 00-05-2256A | 02
05 | IL | WINNEBAGO COUNTY * | 1707200070B | 04-FEB-2000 | 99-05-6352A | 02
05 | IL | WINNEBAGO COUNTY * | 1707200070B | 04-MAY-2000 | 00-05-1830A | 02
05 | IL | WINNETKA, VILLAGE OF | 1701760003B | 12-MAY-2000 | 00-05-2420A | 02
05 | IL | WOOD RIVER, CITY OF | 1704510005B | 12-APR-2000 | 99-05-149P | 05
05 | IN | ADAMS COUNTY * | 1804240020C | 30-MAY-2000 | 00-05-2864A | 02
05 | IN | ADAMS COUNTY * | 1804240075C | 18-APR-2000 | 00-05-0286A | 02
05 | IN | ALLEN COUNTY * | 18003C0285E | 14-JAN-2000 | 99-05-7290A | 17
05 | IN | ALLEN COUNTY * | 18003C0325D | 22-FEB-2000 | 00-05-0434A | 02
05 | IN | ALLEN COUNTY * | 18003C0410D | 05-JAN-2000 | 00-05-1100A | 02
05 | IN | ALLEN COUNTY * | 18003C0455D | 09-FEB-2000 | 00-05-0234A | 02
05 | IN | ANDERSON, CITY OF | 1801500003B | 06-APR-2000 | 00-05-2724A | 02
05 | IN | ANDERSON, CITY OF | 1801500006C | 23-MAR-2000 | 00-05-091X | 06
05 | IN | AURORA, CITY OF | 1851720001B | 21-APR-2000 | 00-05-0810A | 02
05 | IN | BARTHOLOMEW COUNTY * | 1800060100B | 12-JAN-2000 | 00-05-1000A | 02
05 | IN | BENTON COUNTY* | 1804770004A | 21-MAR-2000 | 00-05-1824A | 02
05 | IN | BROWNSBURG, TOWN OF | 1800870001C | 28-MAR-2000 | 00-05-2884X | 01
05 | IN | CARMEL, CITY OF | 1800810009C | 20-APR-2000 | 00-05-2418A | 02
05 | IN | CARMEL, CITY OF | 1800810009C | 29-FEB-2000 | 00-05-2376X | 02
05 | IN | CARMEL, CITY OF | 1800810010C | 04-APR-2000 | 00-05-0668A | 01
05 | IN | CASS COUNTY | 1800220200B | 25-MAY-2000 | 00-05-2522A | 02
05 | IN | CLARK COUNTY * | 1804260125C | 03-MAY-2000 | 00-05-3092X | 02
05 | IN | CLARK COUNTY * | 1804260125C | 10-MAR-2000 | 00-05-1788X | 02
05 | IN | CLARK COUNTY * | 1804260175C | 02-MAY-2000 | 00-05-2216A | 02
05 | IN | CLARK COUNTY * | 1804260175C | 03-JAN-2000 | 00-05-0466A | 02
05 | IN | CLARK COUNTY * | 1804260175C | 16-MAR-2000 | 00-05-1624A | 02
05 | IN | CLARK COUNTY * | 1804260175C | 21-MAR-2000 | 00-05-2580A | 02
05 | IN | CLARK COUNTY * | 1804260175C | 28-JAN-2000 | 00-05-1558X | 01
05 | IN | COLUMBUS, CITY OF | 1800070010D | 07-JAN-2000 | 00-05-0236A | 01
05 | IN | COLUMBUS, CITY OF | 1800070010D | 09-MAR-2000 | 00-05-1188A | 01
05 | IN | COLUMBUS, CITY OF | 1800070010D | 24-MAY-2000 | 00-05-2504A | 17
05 | IN | COLUMBUS, CITY OF | 1800070020D | 04-FEB-2000 | 00-05-1722A | 02
05 | IN | COLUMBUS, CITY OF | 1800070020D | 21-MAR-2000 | 00-05-0486A | 02
05 | IN | DECATUR COUNTY * | 1804300105B | 23-MAR-2000 | 00-05-1264A | 01
05 | IN | DELAWARE COUNTY* | 1800510075C | 03-JAN-2000 | 99-05-6508A | 17
05 | IN | DELAWARE COUNTY* | 1800510100C | 22-FEB-2000 | 00-05-1014A | 02
05 | IN | DELAWARE COUNTY | 1800510150B | 12-APR-2000 | 00-05-2620A | 02
05 | IN | DYER, TOWN OF | 1801290001D | 30-MAR-2000 | 00-05-1272A | 02
05 | IN | ELKHART COUNTY * | 1800560015B | 19-JAN-2000 | 00-05-0152A | 17
05 | IN | ELKHART COUNTY * | 1800560020B | 21-MAR-2000 | 00-05-1348A | 17
05 | IN | ELKHART COUNTY * | 1800560075A | 06-APR-2000 | 00-05-1836A | 02
05 | IN | ELKHART COUNTY * | 1800560075A | 07-APR-2000 | 00-05-2356A | 02
05 | IN | ELKHART COUNTY * | 1800560075A | 30-MAR-2000 | 00-05-1834A | 02
05 | IN | ELKHART, CITY OF | 1800570005C | 12-APR-2000 | 00-05-2336A | 02
05 | IN | ELLETSVILLE, TOWN OF | 180170 C | 22-MAR-2000 | 99-05-5326A | 02
05 | IN | EVANSVILLE, CITY OF | 1802560025C | 18-APR-2000 | 99-05-7284A | 02
05 | IN | EVANSVILLE, CITY OF | 1802570001B | 04-APR-2000 | 00-05-1960A | 02
05 | IN | EVANSVILLE, CITY OF | 1802570001B | 09-FEB-2000 | 99-05-5538A | 02
05 | IN | EVANSVILLE, CITY OF | 1802570001B | 30-MAY-2000 | 00-05-2212A | 01
05 | IN | EVANSVILLE, CITY OF | 1802570004B | 03-JAN-2000 | 00-05-0824A | 02
05 | IN | EVANSVILLE, CITY OF | 1802570004B | 07-JAN-2000 | 00-05-0870A | 02
05 | IN | EVANSVILLE, CITY OF | 1802570005B | 28-JAN-2000 | 00-05-1162A | 02
05 | IN | FAIRMOUNT, TOWN OF | 180074 B | 18-APR-2000 | 00-05-0852A | 02
05 | IN | FORT WAYNE, CITY OF | 18003C0140D | 01-JUN-2000 | 00-05-2766A | 02
05 | IN | FORT WAYNE, CITY OF | 18003C0270E | 03-JAN-2000 | 00-05-1064A | 02
05 | IN | FORT WAYNE, CITY OF | 18003C0270E | 15-FEB-2000 | 00-05-1126A | 02
05 | IN | FORT WAYNE, CITY OF | 18003C0270E | 16-MAY-2000 | 00-05-0792A | 02
05 | IN | FORT WAYNE, CITY OF | 18003C0270E | 17-MAY-2000 | 00-05-2862A | 02
05 | IN | FORT WAYNE, CITY OF | 18003C0270E | 28-MAR-2000 | 00-05-0338A | 02
05 | IN | FORT WAYNE, CITY OF | 18003C0280E | 27-APR-2000 | 00-05-1776A | 17
05 | IN | FOUNTAIN COUNTY* | 1800640004A | 05-JAN-2000 | 00-05-0496A | 02
05 | IN | FRANKLIN, CITY OF | 1801140002B | 18-APR-2000 | 00-05-1242A | 02
05 | IN | FRANKLIN, CITY OF | 1801140002B | 26-MAY-2000 | 00-05-2060A | 17
05 | IN | GREENWOOD, CITY OF | 1801150004B | 28-JAN-2000 | 00-05-1320A | 02
05 | IN | HANCOCK COUNTY * | 1804190025B | 11-APR-2000 | 00-05-0638A | 02
05 | IN | HANCOCK COUNTY * | 1804190025B | 17-MAY-2000 | 00-05-1766A | 02
05 | IN | HANCOCK COUNTY * | 1804190025B | 21-JAN-2000 | 99-05-7158A | 02
05 | IN | HANCOCK COUNTY * | 1804190075B | 23-MAR-2000 | 00-05-2176A | 02
05 | IN | HANCOCK COUNTY * | 1804190075B | 28-JAN-2000 | 00-05-0592A | 02
05 | IN | HENDRICKS COUNTY * | 1804150050B | 12-JAN-2000 | 99-05-129P | 06
05 | IN | HENDRICKS COUNTY * | 1804150050B | 14-MAR-2000 | 00-05-1042A | 01
05 | IN | HENDRICKS COUNTY * | 1804150050B | 23-MAR-2000 | 00-05-2604A | 02
05 | IN | HENDRICKS COUNTY * | 1804150100B | 22-FEB-2000 | 00-05-1536A | 02
05 | IN | HIGHLAND, TOWN OF | 1851760001C | 06-JAN-2000 | 00-05-0806X | 01
05 | IN | HOBART, CITY OF | 1801360005B | 06-APR-2000 | 99-05-7386A | 02
05 | IN | HOBART, CITY OF | 1801360005B | 28-JUN-2000 | 00-05-2634A | 02
05 | IN | HUNTINGBURG, CITY OF | 1803620005B | 02-FEB-2000 | 00-05-1860X | 02
05 | IN | INDIANAPOLIS, CITY OF | 1801590005D | 11-APR-2000 | 00-05-2234A | 01
05 | IN | INDIANAPOLIS, CITY OF | 1801590005D | 27-APR-2000 | 00-05-2110A | 01
05 | IN | INDIANAPOLIS, CITY OF | 1801590005D | 28-JAN-2000 | 00-05-0526A | 02
05 | IN | INDIANAPOLIS, CITY OF | 1801590015D | 21-MAR-2000 | 00-05-0246A | 02
05 | IN | INDIANAPOLIS, CITY OF | 1801590020D | 13-APR-2000 | 00-05-1998A | 02
05 | IN | INDIANAPOLIS, CITY OF | 1801590025D | 02-MAR-2000 | 99-05-6252A | 02
05 | IN | INDIANAPOLIS, CITY OF | 1801590030D | 19-MAY-2000 | 00-05-2280A | 02
05 | IN | INDIANAPOLIS, CITY OF | 1801590030D | 30-MAR-2000 | 00-05-065P | 05
05 | IN | INDIANAPOLIS, CITY OF | 1801590035D | 05-JAN-2000 | 00-05-0256A | 01
05 | IN | INDIANAPOLIS, CITY OF | 1801590035D | 10-FEB-2000 | 00-05-0452A | 01
05 | IN | INDIANAPOLIS, CITY OF | 1801590035D | 11-APR-2000 | 00-05-2274A | 02
05 | IN | INDIANAPOLIS, CITY OF | 1801590035D | 24-MAY-2000 | 00-05-2254A | 01
05 | IN | INDIANAPOLIS, CITY OF | 1801590040D | 12-MAY-2000 | 00-05-0820A | 01
05 | IN | INDIANAPOLIS, CITY OF | 1801590040D | 30-MAR-2000 | 00-05-0832A | 01
05 | IN | INDIANAPOLIS, CITY OF | 1801590045D | 04-APR-2000 | 00-05-1612A | 02
05 | IN | INDIANAPOLIS, CITY OF | 1801590045D | 29-FEB-2000 | 00-05-2374X | 02
05 | IN | INDIANAPOLIS, CITY OF | 1801590055D | 04-APR-2000 | 00-05-0374A | 02
05 | IN | INDIANAPOLIS, CITY OF | 1801590060D | 16-FEB-2000 | 99-05-6982A | 01
05 | IN | INDIANAPOLIS, CITY OF | 1801590060D | 28-JAN-2000 | 00-05-1560A | 01
05 | IN | INDIANAPOLIS, CITY OF | 1801590070D | 10-FEB-2000 | 00-05-0538A | 01
05 | IN | INDIANAPOLIS, CITY OF | 1801590075D | 09-FEB-2000 | 00-05-1208A | 02
05 | IN | INDIANAPOLIS, CITY OF | 1801590090D | 02-FEB-2000 | 00-05-1778X | 01
05 | IN | INDIANAPOLIS, CITY OF | 1801590090D | 09-MAR-2000 | 00-05-1582A | 01
05 | IN | INDIANAPOLIS, CITY OF | 1801590090D | 14-MAR-2000 | 00-05-1352A | 02
05 | IN | INDIANAPOLIS, CITY OF | 1801590090D | 23-FEB-2000 | 99-05-7128A | 01
05 | IN | INDIANAPOLIS, CITY OF | 1801590095D | 28-JAN-2000 | 99-05-4150A | 01
05 | IN | INDIANAPOLIS, CITY OF | 1801590095D | 28-MAR-2000 | 00-05-1910A | 02
05 | IN | INDIANAPOLIS, CITY OF | 1801590100D | 27-APR-2000 | 00-05-2928A | 02
05 | IN | JACKSON COUNTY * | 1804050070B | 03-JAN-2000 | 00-05-0970A | 02
05 | IN | JOHNSON COUNTY * | 1801110014C | 20-MAR-2000 | 99-05-954P | 05
05 | IN | JOHNSON COUNTY * | 1801110014C | 22-FEB-2000 | 00-05-2136A | 02
05 | IN | KOSCIUSKO COUNTY* | 18085C0035C | 13-APR-2000 | 00-05-2880A | 02
05 | IN | KOSCIUSKO COUNTY* | 18085C0045C | 28-APR-2000 | 00-05-2352A | 02
05 | IN | KOSCIUSKO COUNTY* | 18085C0080C | 07-MAR-2000 | 00-05-1532A | 02
05 | IN | KOSCIUSKO COUNTY* | 18085C0080C | 21-MAR-2000 | 00-05-1732A | 02
05 | IN | KOSCIUSKO COUNTY* | 18085C0100C | 03-MAY-2000 | 00-05-2170A | 02
05 | IN | LAKE COUNTY | 1801260115B | 28-JUN-2000 | 00-05-2846A | 02
05 | IN | LAGRANGE COUNTY* | 1801250004B | 02-FEB-2000 | 99-05-7342A | 02
05 | IN | LAGRANGE COUNTY* | 1801250004B | 21-APR-2000 | 00-05-2516A | 02
05 | IN | LANESVILLE, TOWN OF | 180420 C | 05-JAN-2000 | 00-05-0580A | 02
05 | IN | LAWRENCE, CITY OF | 1801590020D | 21-JAN-2000 | 00-05-0856A | 02
05 | IN | LEBANON, CITY OF | 1800130001D | 21-MAR-2000 | 00-05-1942A | 01
05 | IN | LEBANON, CITY OF | 1800130002D | 21-MAR-2000 | 00-05-2024A | 02
05 | IN | LIBERTY, TOWNSHIP OF | 1804880002A | 22-FEB-2000 | 99-05-7056A | 02
05 | IN | LONG BEACH, TOWN OF | 185177 A | 09-FEB-2000 | 00-05-1946X | 02
05 | IN | MADISON COUNTY * | 1804420005B | 20-APR-2000 | 00-05-2224A | 02
05 | IN | MUNCIE, CITY OF | 1800530002C | 14-JAN-2000 | 99-05-6846A | 02
05 | IN | NEW ALBANY, CITY OF | 1800620005C | 02-MAR-2000 | 00-05-0358A | 02
05 | IN | NEW ALBANY, CITY OF | 1800620005C | 26-MAY-2000 | 00-05-3090A | 02
05 | IN | NEWBURGH, TOWN OF | 1802760001B | 07-JAN-2000 | 00-05-0912A | 02
05 | IN | NOBLE COUNTY * | 1801830075B | 28-JAN-2000 | 00-05-0932A | 02
05 | IN | NOBLESVILLE, CITY OF | 1800820015E | 20-APR-2000 | 00-05-0952A | 01
05 | IN | NOBLESVILLE, CITY OF | 1800820015E | 31-MAR-2000 | 00-05-2478A | 02
05 | IN | NOBLESVILLE, CITY OF | 1800820025E | 12-JAN-2000 | 99-05-5706A | 01
05 | IN | NOBLESVILLE, CITY OF | 1800820030E | 11-APR-2000 | 00-05-0110A | 01
05 | IN | NOBLESVILLE, CITY OF | 1800820030E | 27-APR-2000 | 00-05-2110A | 01
05 | IN | NOBLESVILLE, CITY OF | 1800820030E | 30-MAR-2000 | 00-05-1290A | 02
05 | IN | OHIO COUNTY* | 180406 B | 03-JAN-2000 | 00-05-0248A | 02
05 | IN | OWEN COUNTY* | 1804810006B | 22-FEB-2000 | 00-05-0658A | 02
05 | IN | PORTER COUNTY * | 1804250060B | 04-APR-2000 | 00-05-2066A | 02
05 | IN | PORTER COUNTY * | 1804250125B | 23-MAR-2000 | 99-05-7140A | 02
05 | IN | PRINCETON, CITY OF | 1800730010D | 08-MAR-2000 | 99-05-5684A | 02
05 | IN | PUTNAM COUNTY* | 1802130003B | 16-MAR-2000 | 00-05-0726A | 02
05 | IN | SCOTTSBURG, CITY OF | 1802340001C | 04-MAY-2000 | 00-05-2974A | 02
05 | IN | SEYMOUR, CITY OF | 1800990004C | 05-JAN-2000 | 00-05-0642A | 02
05 | IN | SEYMOUR, CITY OF | 1800990004C | 10-FEB-2000 | 00-05-1626A | 02
05 | IN | SEYMOUR, CITY OF | 1800990004C | 24-MAY-2000 | 00-05-1534A | 17
05 | IN | SEYMOUR, CITY OF | 1800990004C | 21-APR-2000 | 00-05-2260A | 02
05 | IN | SEYMOUR, CITY OF | 1800990004C | 08-JUN-2000 | 00-05-2990A | 02
05 | IN | SHELBY COUNTY * | 1802350060B | 09-MAY-2000 | 00-05-1572A | 02
05 | IN | SPENCER COUNTY | 1802370150A | 09-MAY-2000 | 00-05-2988A | 02
05 | IN | STEUBEN COUNTY* | 1802430025B | 05-APR-2000 | 00-05-1996A | 02
05 | IN | STEUBEN COUNTY* | 1802430025B | 12-JAN-2000 | 00-05-0536A | 02
05 | IN | STEUBEN COUNTY* | 1802430025B | 12-JAN-2000 | 00-05-0956A | 02
05 | IN | STEUBEN COUNTY* | 1802430025B | 18-MAY-2000 | 00-05-3688A | 02
05 | IN | STEUBEN COUNTY* | 1802430025B | 23-MAR-2000 | 00-05-2038A | 02
05 | IN | STEUBEN COUNTY* | 1802430050B | 22-FEB-2000 | 00-05-0140A | 02
05 | IN | STEUBEN COUNTY* | 1802430075B | 07-APR-2000 | 00-05-2670A | 02
05 | IN | STEUBEN COUNTY* | 1802430100B | 23-MAR-2000 | 00-05-1676A | 02
05 | IN | STEUBEN COUNTY* | 1802430100B | 26-MAY-2000 | 00-05-3154A | 02
05 | IN | SWITZERLAND COUNTY * | 1802510100B | 18-APR-2000 | 00-05-2798A | 02
05 | IN | TELL CITY, CITY OF | 180197 B | 09-FEB-2000 | 00-05-1254A | 02
05 | IN | TIPPECANOE COUNTY * | 1804280030B | 16-MAY-2000 | 00-05-2706A | 02
05 | IN | TIPPECANOE COUNTY * | 1804280030B | 30-MAY-2000 | 00-05-2788A | 02
05 | IN | TIPPECANOE COUNTY * | 1804280050B | 12-JAN-2000 | 00-05-1282X | 02
05 | IN | TIPPECANOE COUNTY * | 1804280060B | 12-JAN-2000 | 00-05-0938A | 02
05 | IN | TIPPECANOE COUNTY * | 1804280080B | 28-JAN-2000 | 99-05-6364A | 02
05 | IN | VANDERBURGH COUNTY * | 1802560025C | 05-JAN-2000 | 00-05-0362A | 02
05 | IN | VANDERBURGH COUNTY * | 1802560025C | 07-MAR-2000 | 00-05-0740A | 01
05 | IN | VANDERBURGH COUNTY * | 1802560025C | 09-FEB-2000 | 00-05-1368A | 01
05 | IN | VANDERBURGH COUNTY * | 1802560025C | 12-JAN-2000 | 00-05-0962A | 01
05 | IN | VANDERBURGH COUNTY * | 1802560025C | 18-APR-2000 | 00-05-2902A | 02
05 | IN | VANDERBURGH COUNTY * | 1802560025C | 21-MAR-2000 | 00-05-1870A | 01
05 | IN | VANDERBURGH COUNTY * | 1802560025C | 25-APR-2000 | 00-05-1396A | 01
05 | IN | VANDERBURGH COUNTY * | 1802560025C | 25-APR-2000 | 00-05-1958A | 01
05 | IN | VANDERBURGH COUNTY * | 1802560025C | 25-APR-2000 | 00-05-2390A | 02
05 | IN | VANDERBURGH COUNTY * | 1802560025C | 27-APR-2000 | 00-05-2474A | 02
05 | IN | VANDERBURGH COUNTY * | 1802560025C | 28-JAN-2000 | 00-05-1092A | 02
05 | IN | VANDERBURGH COUNTY * | 1802560055C | 21-APR-2000 | 00-05-2700A | 02
05 | IN | VANDERBURGH COUNTY * | 1802560075C | 21-MAR-2000 | 00-05-1492A | 02
05 | IN | VANDERBURGH COUNTY * | 1802560100B | 05-JAN-2000 | 00-05-1288X | 01
05 | IN | VANDERBURGH COUNTY * | 1802560100B | 14-MAR-2000 | 00-05-1570A | 02
05 | IN | VANDERBURGH COUNTY * | 1802560100B | 18-APR-2000 | 00-05-2152A | 02
05 | IN | VANDERBURGH COUNTY * | 1802560100B | 25-APR-2000 | 00-05-2476A | 02
05 | IN | VANDERBURGH COUNTY * | 1802560100B | 25-APR-2000 | 00-05-2480A | 02
05 | IN | VANDERBURGH COUNTY * | 1802560100B | 27-APR-2000 | 00-05-2882A | 02
05 | IN | VERMILLION COUNTY * | 1804490001B | 17-FEB-2000 | 00-05-1066A | 02
05 | IN | VIGO COUNTY * | 1802630010B | 23-FEB-2000 | 99-05-5874A | 02
05 | IN | WARRICK COUNTY * | 1804180100C | 05-JAN-2000 | 00-05-0654A | 02
05 | IN | WARRICK COUNTY * | 1804180175B | 04-MAY-2000 | 00-05-3452X | 01
05 | IN | WARRICK COUNTY * | 1804180175B | 14-MAR-2000 | 99-05-7136A | 01
05 | IN | WARRICK COUNTY * | 1804180175B | 19-JAN-2000 | 00-05-0380A | 02
05 | IN | WARRICK COUNTY * | 1804180175B | 25-APR-2000 | 00-05-2396A | 01
05 | IN | WELLS COUNTY * | 1802880100C | 13-APR-2000 | 00-05-1678A | 02
05 | IN | WEST LAFAYETTE, CITY OF | 1802540002C | 09-MAR-2000 | 99-05-6922A | 01
05 | IN | WESTFIELD, TOWN OF | 1800830011C | 09-MAY-2000 | 00-05-0528A | 01
05 | IN | WHITE COUNTY * | 1804470002C | 25-APR-2000 | 00-05-1494A | 02
05 | IN | WHITE COUNTY | 1804470005C | 25-APR-2000 | 00-05-2622A | 02
05 | IN | WHITE COUNTY | 1804470005C | 14-JUN-2000 | 00-05-3290A | 02
05 | IN | WHITLEY COUNTY* | 1802980002B | 14-MAR-2000 | 00-05-0192A | 02
05 | IN | WHITLEY COUNTY* | 1802980006B | 02-FEB-2000 | 99-05-7166A | 02
05 | MI | ALBEE, TOWNSHIP OF | 26145C0245D | 30-MAR-2000 | 00-05-1054A | 02
05 | MI | ALLEGAN, CITY OF | 2600030001B | 29-FEB-2000 | 99-05-7312A | 02
05 | MI | ANN ARBOR, CITY OF | 2602130008D | 05-MAY-2000 | 00-05-2284A | 02
05 | MI | ANN ARBOR, CITY OF | 2602130008D | 24-FEB-2000 | 00-05-1346A | 02
05 | MI | ANN ARBOR, CITY OF | 2602130005D | 25-MAY-2000 | 00-05-3004A | 02
05 | MI | AU SABLE, TOWNSHIP OF | 2600980004C | 04-FEB-2000 | 00-05-1086A | 02
05 | MI | AU TRAIN, TOWNSHIP OF | 2603420025C | 04-MAY-2000 | 00-05-2746A | 02
05 | MI | AUGRES, TOWNSHIP OF | 2600130025B | 18-APR-2000 | 00-05-2036A | 02
05 | MI | BALDWIN, TOWNSHIP OF | 2600990016D | 09-MAY-2000 | 00-05-1508A | 02
05 | MI | BAY MILLS, TOWNSHIP OF | 2603740050B | 11-APR-2000 | 00-05-1978A | 02
05 | MI | BAY MILLS, TOWNSHIP OF | 2603740050B | 21-APR-2000 | 00-05-1658A | 02
05 | MI | BEDFORD, TOWNSHIP OF | 2601420003B | 01-JUN-2000 | 00-05-3128A | 02
05 | MI | BEDFORD, TOWNSHIP OF | 2601420006B | 28-JAN-2000 | 00-05-0960A | 02
05 | MI | BEDFORD, TOWNSHIP OF | 2601420008B | 12-JAN-2000 | 00-05-0950A | 02
05 | MI | BEDFORD, TOWNSHIP OF | 2601420012B | 12-JAN-2000 | 00-05-0742A | 02
05 | MI | BENONA, TOWNSHIP OF | 260481 A | 30-MAY-2000 | 00-05-1370A | 02
05 | MI | BERLIN, TOWNSHIP OF | 2601430005A | 20-APR-2000 | 00-05-3526V | 19
05 | MI | BEVERLY HILLS, VILLAGE OF | 2602560001B | 21-MAR-2000 | 00-05-2786A | 02
05 | MI | BROWNSTOWN, CHARTER TOWNSHIP OF | 2602180010B | 02-MAR-2000 | 00-05-0712A | 02
05 | MI | BROWNSTOWN, CHARTER TOWNSHIP OF | 2602180010B | 11-APR-2000 | 00-05-3246X | 02
05 | MI | BROWNSTOWN, CHARTER TOWNSHIP OF | 2602180015B | 06-JAN-2000 | 99-05-6258A | 02
05 | MI | BROWNSTOWN, CHARTER TOWNSHIP OF | 2602180015B | 23-FEB-2000 | 99-05-6418A | 01
05 | MI | BRUCE, TOWNSHIP OF | 2603750025A | 05-JAN-2000 | 99-05-6646A | 02
05 | MI | BURTON, CITY OF | 2602870001B | 14-JUN-2000 | 00-05-3284A | 02
05 | MI | CADILLAC, CITY OF | 26165C0456C | 02-MAR-2000 | 00-05-1454A | 02
05 | MI | CADILLAC, CITY OF | 26165C0456C | 19-JAN-2000 | 00-05-1220A | 02
05 | MI | CALEDONIA, TOWNSHIP OF | 2606930005B | 28-JAN-2000 | 00-05-0436A | 02
05 | MI | CANNON, TOWNSHIP OF | 2607340025A | 15-FEB-2000 | 99-05-6606A | 01
05 | MI | CANTON, TOWNSHIP OF | 2602190002B | 31-MAR-2000 | 99-05-013P | 05
05 | MI | CANTON, TOWNSHIP OF | 2602190006B | 09-MAY-2000 | 00-05-0346A | 01
05 | MI | CHERRY GROVE, TOWNSHIP OF | 26165C0432C | 10-FEB-2000 | 00-05-0626A | 02
05 | MI | CHESTERFIELD, TOWNSHIP OF | 2601200005B | 04-FEB-2000 | 00-05-0652A | 02
05 | MI | CHESTERFIELD, TOWNSHIP OF | 2601200010B | 04-APR-2000 | 00-05-1382A | 02
05 | MI | CHESTERFIELD, TOWNSHIP OF | 2601200010B | 13-APR-2000 | 00-05-2860A | 02
05 | MI | CHOCOLAY, TOWNSHIP OF | 2604480010B | 30-JUN-2000 | 00-05-2628A | 02
05 | MI | CLARK, TOWNSHIP OF | 2607590050B | 12-JAN-2000 | 00-05-1104A | 02
05 | MI | CLARK, TOWNSHIP OF | 2607590050B | 14-JAN-2000 | 00-05-1118A | 02
05 | MI | CLAY, TOWNSHIP OF | 2601940001B | 17-FEB-2000 | 00-05-1232A | 02
05 | MI | CLEVELAND, TOWNSHIP OF | 260302 A | 18-APR-2000 | 00-05-1426A | 02
05 | MI | CLINTON, CHARTER TOWNSHIP OF | 2601210005E | 12-JAN-2000 | 00-05-0980A | 02
05 | MI | CLINTON, CHARTER TOWNSHIP OF | 2601210005E | 30-MAR-2000 | 00-05-063P | 05
05 | MI | COLDWATER, TOWNSHIP OF | 2608260010A | 19-APR-2000 | 00-05-2736A | 02
05 | MI | COLDWATER, TOWNSHIP OF |  | 16-MAY-2000 | 00-05-2550A | 02
05 | MI | COLON, VILLAGE OF | 2605110005B | 14-MAR-2000 | 00-05-1586A | 02
05 | MI | COMMERCE, TOWNSHIP OF | 2604730005B | 24-FEB-2000 | 00-05-1748A | 02
05 | MI | CORUNNA, CITY OF | 2606020001A | 29-FEB-2000 | 00-05-1852X | 02
05 | MI | DE WITT, CITY OF | 2600600005B | 09-MAR-2000 | 00-05-0196A | 01
05 | MI | DEARBORN HEIGHTS, CITY OF | 2602210007C | 02-MAY-2000 | 99-05-6662A | 02
05 | MI | DEARBORN HEIGHTS, CITY OF | 2602210007C | 06-APR-2000 | 00-05-1646A | 02
05 | MI | DEARBORN HEIGHTS, CITY OF | 2602210007C | 11-APR-2000 | 00-05-3220A | 02
05 | MI | DEARBORN, CITY OF | 2602200005D | 15-FEB-2000 | 99-05-3250A | 02
05 | MI | DEERFIELD, TOWNSHIP OF | 26073C0305C | 27-APR-2000 | 00-05-3194A | 02
05 | MI | DELHI, CHARTER TOWNSHIP OF | 2600880005C | 21-JAN-2000 | 00-05-1284A | 02
05 | MI | DEXTER, TOWNSHIP OF | 2605360002B | 18-APR-2000 | 00-05-1616A | 02
05 | MI | DUNDEE, TOWNSHIP OF | 2601440010B | 20-APR-2000 | 00-05-3258V | 19
05 | MI | ELBA, TOWNSHIP OF | 2607760001A | 01-FEB-2000 | 00-05-1070A | 02
05 | MI | ELBA, TOWNSHIP OF | 2607760001A | 14-MAR-2000 | 99-05-7174A | 02
05 | MI | EMMETT, TOWNSHIP OF | 2605610006A | 07-MAR-2000 | 00-05-0408A | 02
05 | MI | ERIE, TOWNSHIP OF | 26115C0502D | 20-APR-2000 | 00-05-3256V | 19
05 | MI | ESCANABA, TOWNSHIP OF | 26041C0605C | 30-MAY-2000 | 00-05-2002A | 02
05 | MI | FABIUS, TOWNSHIP OF | 2607810025A | 04-APR-2000 | 00-05-2608A | 02
05 | MI | FABIUS, TOWNSHIP OF | 2607810025A | 18-APR-2000 | 00-05-2032A | 02
05 | MI | FABIUS, TOWNSHIP OF | 2607810025A | 25-APR-2000 | 00-05-2386A | 02
05 | MI | FARMINGTON HILLS, CITY OF | 2601720002C | 04-MAY-2000 | 00-05-2740A | 02
05 | MI | FARMINGTON HILLS, CITY OF | 2601720003C | 18-APR-2000 | 00-05-2088A | 02
05 | MI | FARMINGTON HILLS, CITY OF | 2601720007C | 13-APR-2000 | 00-05-2056A | 01
05 | MI | FLAT ROCK, CITY OF | 2602240003B | 05-JAN-2000 | 00-05-0560A | 02
05 | MI | FLAT ROCK, CITY OF | 2602240003B | 09-MAY-2000 | 00-05-0508A | 01
05 | MI | FRASER, CITY OF | 2601220001B | 06-APR-2000 | 00-05-1892A | 02
05 | MI | FRENCHTOWN, TOWNSHIP OF | 2601460001A | 20-APR-2000 | 00-05-3522V | 19
05 | MI | GARDEN, TOWNSHIP OF | 26041C0520C | 15-MAR-2000 | 99-05-7316A | 02
05 | MI | GEORGETOWN, CHARTER TOWNSHIP OF | 2605890005B | 21-JAN-2000 | 99-05-5310A | 01
05 | MI | GRAND HAVEN, TOWNSHIP OF | 2602700005B | 05-JAN-2000 | 00-05-0804A | 02
05 | MI | GRAND HAVEN, TOWNSHIP OF | 2602700005B | 23-JUN-2000 | 00-05-4110A | 02
05 | MI | GRAND RAPIDS, CITY OF | 2601060025C | 10-FEB-2000 | 00-05-1440A | 02
05 | MI | GRANDVILLE, CITY OF | 2602710004B | 16-MAY-2000 | 00-05-1600A | 02
05 | MI | GREEN OAK, TOWNSHIP OF | 2604400005B | 13-APR-2000 | 00-05-3104A | 02
05 | MI | GREEN OAK, TOWNSHIP OF | 2604400020B | 21-MAR-2000 | 00-05-1804A | 02
05 | MI | GREENBUSH, TOWNSHIP OF | 2600010007C | 01-JUN-2000 | 00-05-2452A | 02
05 | MI | GREENBUSH, TOWNSHIP OF | 2600010007C | 12-JAN-2000 | 00-05-1230A | 02
05 | MI | GREENBUSH, TOWNSHIP OF | 2600010007C | 17-MAY-2000 | 00-05-2140A | 02
05 | MI | GREENBUSH, TOWNSHIP OF | 2600010007C | 18-APR-2000 | 00-05-1654A | 02
05 | MI | GREENBUSH, TOWNSHIP OF | 2600010007C | 18-APR-2000 | 00-05-2138A | 02
05 | MI | GREENBUSH, TOWNSHIP OF | 2600010007C | 22-FEB-2000 | 00-05-0624A | 02
05 | MI | GROSSE ILE, TOWNSHIP OF | 2602270005B | 04-APR-2000 | 00-05-1286A | 02
05 | MI | HAMBURG, TOWNSHIP OF | 2601180010C | 14-JAN-2000 | 00-05-0796A | 02
05 | MI | HAMPTON, TOWNSHIP OF | 26017C0150D | 24-FEB-2000 | 99-05-7126A | 01
05 | MI | HAMPTON, TOWNSHIP OF | 26017C0190D | 12-JAN-2000 | 00-05-0492A | 02
05 | MI | HAMPTON, TOWNSHIP OF | 26017C0190D | 15-MAR-2000 | 00-05-0736A | 01
05 | MI | HARRISON, TOWNSHIP OF | 2601230005C | 19-JAN-2000 | 00-05-1146A | 02
05 | MI | HARRISON, TOWNSHIP OF | 2601230005C | 24-FEB-2000 | 00-05-1422A | 02
05 | MI | HARRISON, TOWNSHIP OF | 2601230005C | 28-JAN-2000 | 00-05-0718A | 02
05 | MI | HARRISON, TOWNSHIP OF | 2601230010C | 04-MAY-2000 | 00-05-2346A | 02
05 | MI | HARRISON, TOWNSHIP OF | 2601230010C | 18-APR-2000 | 00-05-0640A | 02
05 | MI | HARRISON, TOWNSHIP OF | 2601230010C | 21-MAR-2000 | 00-05-1252A | 02
05 | MI | HARRISON, TOWNSHIP OF | 2601230010C | 25-APR-2000 | 00-05-3226A | 02
05 | MI | HARRISON, TOWNSHIP OF | 2601230010C | 25-APR-2000 | 00-05-3228A | 02
05 | MI | HOWELL, CITY OF | 260441 A | 19-MAY-2000 | 00-05-2294A | 02
05 | MI | HUDSONVILLE, CITY OF | 2604930002A | 15-MAR-2000 | 99-05-6374A | 01
05 | MI | HURON, TOWNSHIP OF | 2605450006B | 23-MAR-2000 | 00-05-1798A | 02
05 | MI | IDA, TOWNSHIP OF | 2601470005B | 20-APR-2000 | 00-05-3528V | 19
05 | MI | IDA, TOWNSHIP OF | 2601470015B | 21-APR-2000 | 00-05-2578A | 02
05 | MI | IDA, TOWNSHIP OF | 2601470020B | 21-APR-2000 | 99-05-7150A | 01
05 | MI | INDEPENDENCE, TOWNSHIP OF | 2604750006B | 01-FEB-2000 | 00-05-1106A | 02
05 | MI | IRONWOOD, TOWNSHIP OF | 2604030002B | 07-JAN-2000 | 00-05-0876A | 02
05 | MI | ISABELLA, TOWNSHIP OF | 26073C0200C | 18-APR-2000 | 00-05-1768A | 02
05 | MI | KOCHVILLE, TOWNSHIP OF | 26145C0035D | 12-JAN-2000 | 00-05-0666A | 02
05 | MI | L'ANSE, VILLAGE OF | 260552 A | 16-MAY-2000 | 00-05-0746A | 02
05 | MI | LAKE ORION, VILLAGE OF | 2605880001A | 19-MAY-2000 | 00-05-2944A | 02
05 | MI | LAKE, TOWNSHIP OF | 260030 A | 06-JAN-2000 | 99-05-6674A | 02
05 | MI | LAKE, TOWNSHIP OF | 260030 A | 29-FEB-2000 | 00-05-1756A | 02
05 | MI | LASALLE, TOWNSHIP OF | 2601480001C | 20-APR-2000 | 00-05-3252V | 19
05 | MI | LIVONIA, CITY OF | 2602330001B | 09-MAR-2000 | 00-05-1840A | 02
05 | MI | LOCKPORT, TOWNSHIP OF | 2607150005B | 21-MAR-2000 | 00-05-1588A | 02
05 | MI | MACOMB, TOWNSHIP OF | 2604450020B | 21-APR-2000 | 00-05-2792A | 02
05 | MI | MACOMB, TOWNSHIP OF | 2604450020B | 28-MAR-2000 | 00-05-0830A | 01
05 | MI | MARENGO, TOWNSHIP OF | 2605630005A | 02-FEB-2000 | 00-05-0098A | 02
05 | MI | MARENGO, TOWNSHIP OF | 2605630010A | 24-MAY-2000 | 00-05-2682A | 02
05 | MI | MASONVILLE, TOWNSHIP OF | 26041C0439C | 22-FEB-2000 | 00-05-1318A | 02
05 | MI | MASONVILLE, TOWNSHIP OF | 26041C0439C | 29-FEB-2000 | 00-05-1760A | 02
05 | MI | MENOMINEE, CITY OF | 2601380005B | 06-APR-2000 | 00-05-1530A | 02
05 | MI | MENOMINEE, CITY OF | 2601380005B | 21-JAN-2000 | 00-05-1204A | 02
05 | MI | MERIDIAN, CHARTER TOWNSHIP OF | 2600930001A | 03-JAN-2000 | 00-05-0698A | 02
05 | MI | MERIDIAN, CHARTER TOWNSHIP OF | 2600930001A | 12-JAN-2000 | 00-05-0324A | 02
05 | MI | MERIDIAN, CHARTER TOWNSHIP OF | 2600930001A | 12-JAN-2000 | 00-05-0326A | 02
05 | MI | MERIDIAN, CHARTER TOWNSHIP OF | 2600930001A | 16-FEB-2000 | 00-05-0312A | 02
05 | MI | MERIDIAN, CHARTER TOWNSHIP OF | 2600930001A | 18-APR-2000 | 00-05-1496A | 02
05 | MI | MIDLAND, CITY OF | 2601400005D | 07-MAR-2000 | 00-05-1436A | 02
05 | MI | MIDLAND, CITY OF | 2601400008D | 04-APR-2000 | 00-05-1356A | 17
05 | MI | MIDLAND, CITY OF | 2601400008D | 14-JAN-2000 | 00-05-1182A | 02
05 | MI | MONROE, TOWNSHIP OF | 2601540001A | 20-APR-2000 | 00-05-3254V | 19
05 | MI | MOUNT PLEASANT, CITY OF | 26073C0306C | 20-APR-2000 | 00-05-2308A | 02
05 | MI | NEW HAVEN, VILLAGE OF | 2604460001A | 10-MAR-2000 | 99-05-5442A | 02
05 | MI | NILES, TOWNSHIP OF | 260041 B | 23-MAR-2000 | 00-05-1952A | 02
05 | MI | NORTHFIELD, TOWNSHIP OF | 2606350005A | 24-FEB-2000 | 00-05-1256A | 02
05 | MI | NORTON SHORES, CITY OF | 2601650001A | 02-FEB-2000 | 00-05-1406A | 02
05 | MI | NORTON SHORES, CITY OF | 2601650001A | 30-MAR-2000 | 00-05-2360X | 02
05 | MI | NORTON SHORES, CITY OF | 2601650001A | 25-MAY-2000 | 00-05-3056A | 02
05 | MI | NOVI, CITY OF | 2601750007C | 09-FEB-2000 | 99-05-6296A | 01
05 | MI | NOVI, CITY OF | 2601750007C | 12-JAN-2000 | 00-05-0072A | 01
05 | MI | NOVI, CITY OF | 2601750009C | 18-APR-2000 | 00-05-1518A | 01
05 | MI | NOVI, CITY OF | 2601750009C | 22-FEB-2000 | 00-05-0258A | 02
05 | MI | ONTONAGON, TOWNSHIP OF | 2604070004B | 22-FEB-2000 | 00-05-1716A | 02
05 | MI | ONTONAGON, TOWNSHIP OF | 2604070004B | 28-JUN-2000 | 00-05-3382A | 02
05 | MI | OSCODA, TOWNSHIP OF | 2601010025C | 31-MAY-2000 | 00-05-2114A | 02
05 | MI | OWOSSO, CITY OF | 2605960002A | 28-MAR-2000 | 00-05-1172A | 02
05 | MI | PLAINFIELD, TOWNSHIP OF | 2601090005B | 12-JAN-2000 | 99-05-7018A | 02
05 | MI | PLAINFIELD, TOWNSHIP OF | 2601090010B | 01-JUN-2000 | 00-05-1822A | 17
05 | MI | PITTSFIELD, CHARTER TOWNSHIP OF | 2606230010C | 28-JUN-2000 | 00-05-3784A | 02
05 | MI | PORT HURON, TOWNSHIP OF | 2606720005A | 08-JUN-2000 | 00-05-3380A | 02
05 | MI | RABER, TOWNSHIP OF | 2607860025A | 02-MAR-2000 | 00-05-0546A | 02
05 | MI | RAISINVILLE, TOWNSHIP OF | 2601550010B | 20-APR-2000 | 00-05-3524V | 19
05 | MI | REDFORD, TOWNSHIP OF | 2602380005B | 12-JAN-2000 | 00-05-0934A | 02
05 | MI | REDFORD, TOWNSHIP OF | 2602380005B | 25-MAY-2000 | 00-05-3040A | 02
05 | MI | ROCKWOOD, CITY OF | 2602410005B | 25-APR-2000 | 00-05-1136A | 01
05 | MI | SAGINAW, TOWNSHIP OF | 26145C0130D | 14-JAN-2000 | 00-05-1044A | 02
05 | MI | SAGINAW, TOWNSHIP OF | 26145C0130D | 27-APR-2000 | 00-05-2436A | 17
05 | MI | SAGINAW, TOWNSHIP OF | 26145C0130D | 28-JAN-2000 | 00-05-1062A | 02
05 | MI | SALINE, CITY OF | 2602150001B | 25-APR-2000 | 00-05-1902A | 17
05 | MI | SELMA, TOWNSHIP OF | 26165C0338C | 12-JAN-2000 | 00-05-0690A | 02
05 | MI | SHELBY, TOWNSHIP OF | 2601260010B | 30-MAY-2000 | 00-05-1712A | 02
05 | MI | SIMS, TOWNSHIP OF | 2600150005C | 03-FEB-2000 | 00-05-1096A | 02
05 | MI | SOUTH HAVEN, CITY OF | 2602110002B | 19-JAN-2000 | 99-05-6850A | 01
05 | MI | SPAULDING, TOWNSHIP OF | 26145C0190D | 30-JUN-2000 | 00-05-4092A | 02
05 | MI | ST. CLAIR SHORES, CITY OF | 2601270005B | 02-FEB-2000 | 00-05-0190A | 02
05 | MI | ST. CLAIR SHORES, CITY OF | 2601270005B | 02-MAY-2000 | 00-05-1918A | 02
05 | MI | ST. CLAIR SHORES, CITY OF | 2601270005B | 02-MAY-2000 | 00-05-2744A | 02
05 | MI | ST. CLAIR SHORES, CITY OF | 2601270005B | 04-MAY-2000 | 00-05-2464A | 02
05 | MI | ST. CLAIR SHORES, CITY OF | 2601270005B | 05-APR-2000 | 00-05-2148A | 02
05 | MI | ST. CLAIR SHORES, CITY OF | 2601270005B | 09-MAR-2000 | 00-05-2664X | 02
05 | MI | ST. CLAIR SHORES, CITY OF | 2601270005B | 12-JAN-2000 | 00-05-0300A | 02
05 | MI | ST. CLAIR SHORES, CITY OF | 2601270005B | 14-MAR-2000 | 00-05-1528A | 02
05 | MI | ST. CLAIR SHORES, CITY OF | 2601270005B | 15-FEB-2000 | 00-05-1206A | 02
05 | MI | ST. CLAIR SHORES, CITY OF | 2601270005B | 18-APR-2000 | 00-05-2262A | 02
05 | MI | ST. CLAIR SHORES, CITY OF | 2601270005B | 18-FEB-2000 | 00-05-0500A | 02
05 | MI | ST. CLAIR SHORES, CITY OF | 2601270005B | 21-MAR-2000 | 00-05-1398A | 02
05 | MI | ST. CLAIR SHORES, CITY OF | 2601270005B | 24-FEB-2000 | 00-05-0848A | 02
05 | MI | ST. CLAIR SHORES, CITY OF | 2601270005B | 24-FEB-2000 | 00-05-2446A | 02
05 | MI | ST. CLAIR SHORES, CITY OF | 2601270005B | 24-MAY-2000 | 00-05-2790A | 02
05 | MI | ST. CLAIR SHORES, CITY OF | 2601270005B | 25-APR-2000 | 00-05-3150A | 02
05 | MI | ST. CLAIR SHORES, CITY OF | 2601270005B | 25-APR-2000 | 00-05-3170A | 02
05 | MI | ST. CLAIR SHORES, CITY OF | 2601270005B | 25-MAY-2000 | 00-05-3182A | 02
05 | MI | ST. CLAIR SHORES, CITY OF | 2601270005B | 27-APR-2000 | 00-05-3074A | 02
05 | MI | ST. CLAIR SHORES, CITY OF | 2601270005B | 28-JAN-2000 | 00-05-1068A | 02
05 | MI | STERLING HEIGHTS, CITY OF | 2601280015F | 05-JAN-2000 | 99-05-6792A | 02
05 | MI | STERLING HEIGHTS, CITY OF | 2601280015F | 08-MAR-2000 | 00-05-2030A | 01
05 | MI | STERLING HEIGHTS, CITY OF | 2601280015F | 21-MAR-2000 | 00-05-1596A | 02
05 | MI | SWAN CREEK, TOWNSHIP OF | 26145C0125D | 06-APR-2000 | 00-05-1294A | 02
05 | MI | SWAN CREEK, TOWNSHIP OF | 26145C0125D | 21-MAR-2000 | 00-05-1622A | 02
05 | MI | TAYLOR, CITY OF | 2607280002A | 07-JAN-2000 | 00-05-1098A | 02
05 | MI | TAYLOR, CITY OF | 2607280004A | 02-FEB-2000 | 00-05-1180A | 02
05 | MI | THOMAS, TOWNSHIP OF | 26145C0130D | 28-JAN-2000 | 00-05-1056A | 02
05 | MI | THOMAS, TOWNSHIP OF | 26145C0130D | 26-MAY-2000 | 00-05-2962A | 02
05 | MI | THORNAPPLE, TOWNSHIP OF | 2606300001B | 12-JAN-2000 | 99-05-6786A | 02
05 | MI | TRENTON, CITY OF | 2602440004C | 04-MAY-2000 | 00-05-2322A | 02
05 | MI | TRENTON, CITY OF | 2602440002B | 25-MAY-2000 | 00-05-3030A | 02
05 | MI | TROY, CITY OF | 2601800002D | 24-MAY-2000 | 00-05-2666A | 02
05 | MI | TROY, CITY OF | 2601800002D | 29-FEB-2000 | 00-05-1258A | 02
05 | MI | WARREN, CITY OF | 2601290010C | 12-MAR-2000 | 00-05-0920A | 02
05 | MI | WASHINGTON, TOWNSHIP OF | 2604470015A | 17-APR-2000 | 99-05-307P | 05
05 | MI | WATERFORD, CHARTER TOWNSHIP OF | 2602840005B | 18-APR-2000 | 00-05-2194A | 02
05 | MI | WATERFORD, CHARTER TOWNSHIP OF | 2602840010B | 14-JAN-2000 | 00-05-0590A | 02
05 | MI | WATERFORD, CHARTER TOWNSHIP OF | 2602840010B | 18-APR-2000 | 00-05-1900A | 02
05 | MI | WATERFORD, CHARTER TOWNSHIP OF | 2602840010B | 18-APR-2000 | 99-05-5648A | 02
05 | MI | WATERFORD, CHARTER TOWNSHIP OF | 2602840010B | 18-FEB-2000 | 00-05-1268A | 02
05 | MI | WATERFORD, CHARTER TOWNSHIP OF | 2602840010B | 25-APR-2000 | 00-05-3216A | 02
05 | MI | WATERFORD, CHARTER TOWNSHIP OF | 2602840010B | 28-JAN-2000 | 99-05-6776A | 02
05 | MI | WATERFORD, CHARTER TOWNSHIP OF | 2602840020B | 11-APR-2000 | 00-05-2800A | 02
05 | MI | WATERFORD, CHARTER TOWNSHIP OF | 2602840020B | 18-APR-2000 | 00-05-1652A | 02
05 | MI | WATERFORD, CHARTER TOWNSHIP OF | 2602840020B | 23-MAR-2000 | 00-05-0550A | 02
05 | MI | WHITE LAKE, TOWNSHIP OF | 2604790005B | 05-APR-2000 | 00-05-1934A | 02
05 | MI | WHITE LAKE, TOWNSHIP OF | 2604790005B | 29-FEB-2000 | 00-05-1442A | 02
05 | MI | WHITE LAKE, TOWNSHIP OF | 2604790010B | 25-APR-2000 | 00-05-1526A | 02
05 | MI | WHITE LAKE, TOWNSHIP OF | 2604790005B | 26-MAY-2000 | 00-05-2830A | 02
05 | MI | WHITEWATER, TOWNSHIP OF | 2607940025A | 21-MAR-2000 | 00-05-1414A | 02
05 | MI | WHITEWATER, TOWNSHIP OF | 2607940025A | 28-APR-2000 | 00-05-1650A | 02
05 | MI | WILLIAMSTON, CITY OF | 2600940001B | 24-MAY-2000 | 00-05-0958A | 02
05 | MI | WILLIAMSTOWN, TOWNSHIP OF | 2600950005A | 07-MAR-2000 | 00-05-1456A | 02
05 | MI | WINDSOR, CHARTER TOWNSHIP OF | 2600710005C | 21-MAR-2000 | 00-05-1034A | 01
05 | MI | ZILWAUKEE, CITY OF | 26145C0085D | 02-MAR-2000 | 00-05-1292A | 02
05 | MI | ZILWAUKEE, CITY OF | 26145C0085D | 19-APR-2000 | 00-05-2648A | 02
05 | MN | ANDOVER, CITY OF | 2706890015B | 14-JAN-2000 | 00-05-0632A | 01
05 | MN | AITKIN COUNTY | 2706280500B | 23-JUN-2000 | 00-05-3340A | 02
05 | MN | AITKIN COUNTY | 2706280240C | 23-JUN-2000 | 00-05-4002A | 02
05 | MN | BARNUM, CITY OF | 270040 B | 19-JAN-2000 | 00-05-1190A | 02
05 | MN | BENTON COUNTY * | 2700190100C | 11-FEB-2000 | 00-05-0904A | 17
05 | MN | BLAINE, CITY OF | 2700070005C | 04-APR-2000 | 00-05-1642A | 02
05 | MN | BLAINE, CITY OF | 2700070005C | 05-JAN-2000 | 00-05-1026A | 02
05 | MN | BLAINE, CITY OF | 2700070005C | 18-APR-2000 | 00-05-2310A | 02
05 | MN | BLAINE, CITY OF | 2700070005C | 20-APR-2000 | 98-05-3486P | 05
05 | MN | BLAINE, CITY OF | 2700070005C | 29-FEB-2000 | 00-05-1462A | 02
05 | MN | BLAINE, CITY OF | 2700070010C | 21-MAR-2000 | 99-05-7346A | 01
05 | MN | BROOKLYN CENTER, CITY OF | 2701510003B | 07-MAR-2000 | 00-05-1430A | 01
05 | MN | BROOKLYN PARK, CITY OF | 2701520001C | 02-MAY-2000 | 00-05-0622A | 02
05 | MN | BROOKLYN PARK, CITY OF | 2701520003D | 30-MAR-2000 | 00-05-1404A | 02
05 | MN | BROOKLYN PARK, CITY OF | 2701520003D | 30-MAR-2000 | 00-05-1714A | 02
05 | MN | BROOKLYN PARK, CITY OF | 2701520004C | 12-JAN-2000 | 99-05-6704A | 02
05 | MN | CAMBRIDGE, CITY OF | 2701980005A | 30-MAR-2000 | 00-05-1890A | 01
05 | MN | CARVER COUNTY* | 2700490105C | 19-JAN-2000 | 99-05-2978A | 02
05 | MN | CENTERVILLE, CITY OF | 2700080001C | 04-APR-2000 | 00-05-1696A | 02
05 | MN | CHISAGO COUNTY * | 2706820175C | 04-FEB-2000 | 00-05-1692A | 02
05 | MN | CHISAGO COUNTY * | 2706820175C | 11-APR-2000 | 00-05-2062A | 02
05 | MN | CHISAGO COUNTY * | 2706820200C | 16-MAY-2000 | 99-05-5596A | 02
05 | MN | COON RAPIDS,CITY OF | 2700110001A | 13-APR-2000 | 00-05-2228A | 02
05 | MN | CROOKSTON, CITY OF | 2703640002C | 19-JAN-2000 | 00-05-1212A | 02
05 | MN | CROSSLAKE, CITY OF | 270095 B | 16-MAR-2000 | 00-05-1926A | 02
05 | MN | CROSSLAKE, CITY OF | 270095 B | 23-MAR-2000 | 00-05-2102A | 02
05 | MN | CROSSLAKE, CITY OF | 270095 B | 25-MAY-2000 | 00-05-3520A | 02
05 | MN | DAKOTA COUNTY * | 2701010250B | 24-FEB-2000 | 00-05-1752A | 02
05 | MN | DELANO, CITY OF | 2705390001C | 14-MAR-2000 | 00-05-1250A | 01
05 | MN | FARIBAULT, CITY OF | 2704040001C | 27-APR-2000 | 00-05-0850A | 02
05 | MN | FREEBORN COUNTY * | 2701340185B | 10-MAY-2000 | 00-05-3204A | 02
05 | MN | GOODHUE COUNTY * | 2701400125A | 28-JAN-2000 | 00-05-1364A | 02
05 | MN | GREENFIELD, CITY OF | 2706730010C | 02-FEB-2000 | 99-05-4952A | 02
05 | MN | HAM LAKE, CITY OF | 2706740005B | 04-FEB-2000 | 00-05-0342A | 02
05 | MN | ISANTI COUNTY * | 2701970010A | 23-MAR-2000 | 00-05-1730A | 02
05 | MN | ISANTI COUNTY * | 2701970025B | 05-JAN-2000 | 00-05-1094A | 02
05 | MN | ISANTI COUNTY * | 2701970035B | 17-FEB-2000 | 00-05-2028A | 02
05 | MN | ISANTI COUNTY * | 2701970035B | 19-JAN-2000 | 00-05-1390A | 02
05 | MN | ISANTI COUNTY * | 2701970055A | 04-FEB-2000 | 00-05-1674A | 02
05 | MN | ISANTI COUNTY * | 2701970060B | 21-MAR-2000 | 00-05-2362A | 02
05 | MN | ISANTI COUNTY * | 2701970065B | 21-MAR-2000 | 00-05-2344A | 02
05 | MN | ISANTI COUNTY * | 2701970080B | 02-FEB-2000 | 00-05-1218A | 02
05 | MN | ISANTI COUNTY * | 2701970085A | 18-APR-2000 | 00-05-3070A | 02
05 | MN | ISANTI, CITY OF | 2701990001C | 25-APR-2000 | 00-05-1504A | 02
05 | MN | ITASCA COUNTY * | 2702000775A | 07-MAR-2000 | 00-05-0610A | 02
05 | MN | KOOCHICHING COUNTY * | 2702330006B | 28-JAN-2000 | 00-05-1236A | 02
05 | MN | KOOCHICHING COUNTY | 2702330010C | 23-JUN-2000 | 00-05-3050A | 02
05 | MN | LAKEVILLE, CITY OF | 2701070003C | 04-FEB-2000 | 00-05-0454A | 02
05 | MN | LAKEVILLE, CITY OF | 2701070004C | 21-JAN-2000 | 00-05-1008A | 02
05 | MN | LINO LAKES, CITY OF | 2700150010B | 04-APR-2000 | 99-05-7114A | 02
05 | MN | LINO LAKES, CITY OF | 2700150010B | 07-APR-2000 | 99-05-7178A | 02
05 | MN | LINO LAKES, CITY OF | 2700150010B | 07-APR-2000 | 99-05-7196A | 02
05 | MN | LINO LAKES, CITY OF | 2700150010B | 10-MAY-2000 | 99-05-7182A | 02
05 | MN | LINO LAKES, CITY OF | 2700150010B | 18-APR-2000 | 00-05-2334A | 02
05 | MN | LINO LAKES, CITY OF | 2700150010B | 19-JAN-2000 | 99-05-5058A | 01
05 | MN | LINO LAKES, CITY OF | 2700150010B | 19-MAY-2000 | 99-05-7180A | 02
05 | MN | MAPLE GROVE, CITY OF | 2701690001B | 19-JAN-2000 | 00-05-0664A | 01
05 | MN | MEDINA, CITY OF | 2701710001B | 07-MAR-2000 | 00-05-1736A | 02
05 | MN | MEEKER COUNTY * | 2702800005B | 21-JAN-2000 | 99-05-5446A | 02
05 | MN | MOORHEAD, CITY OF | 2752440005D | 04-FEB-2000 | 00-05-1540A | 02
05 | MN | MOORHEAD, CITY OF | 2752440010D | 04-MAY-2000 | 00-05-1878A | 02
05 | MN | MORRISON COUNTY * | 2706170025B | 16-MAY-2000 | 00-05-0906A | 02
05 | MN | MOUNDS VIEW, CITY OF | 2703790001C | 14-JAN-2000 | 99-05-7332A | 02
05 | MN | MOWER COUNTY * | 2703070090A | 18-MAY-2000 | 00-05-1418A | 17
05 | MN | ORONO, CITY OF | 2701780010C | 06-JUN-2000 | 00-05-3018A | 02
05 | MN | POLK COUNTY * | 2705030025B | 05-JAN-2000 | 99-05-6742A | 01
05 | MN | POLK COUNTY * | 2705030025B | 09-FEB-2000 | 00-05-1802A | 02
05 | MN | PRIOR LAKE, CITY OF | 2704320003C | 07-MAR-2000 | 00-05-1750A | 02
05 | MN | PRIOR LAKE, CITY OF | 2704320004C | 21-MAR-2000 | 00-05-2646A | 02
05 | MN | ROYALTON, CITY OF | 2703030001B | 14-MAR-2000 | 00-05-0600A | 02
05 | MN | SARTELL, CITY OF | 2704600005D | 04-APR-2000 | 00-05-0428A | 02
05 | MN | SAVAGE, CITY OF | 2704330001C | 29-FEB-2000 | 99-05-7092A | 02
05 | MN | SHERBURNE COUNTY * | 2704350025C | 09-MAY-2000 | 00-05-3432A | 02
05 | MN | SHERBURNE COUNTY * | 2704350095C | 04-APR-2000 | 00-05-1916A | 02
05 | MN | ST. LOUIS COUNTY * | 2704160775C | 05-JAN-2000 | 00-05-1168A | 02
05 | MN | ST. LOUIS COUNTY * | 2704161395C | 09-FEB-2000 | 00-05-1196X | 02
05 | MN | STEARNS COUNTY* | 2705460125A | 02-MAR-2000 | 99-05-6690A | 02
05 | MN | STEARNS COUNTY* | 2705460355B | 07-MAR-2000 | 00-05-1314A | 02
05 | MN | WASHINGTON COUNTY * | 2704990125B | 07-MAR-2000 | 00-05-0562A | 02
05 | MN | WATERTOWN, CITY OF | 2700560001C | 25-APR-2000 | 00-05-0010A | 01
05 | MN | WHITE BEAR,TOWNSHIP OF | 2706880005B | 05-JAN-2000 | 00-05-0854A | 02
05 | MN | WHITE BEAR,TOWNSHIP OF | 2706880005B | 12-JAN-2000 | 00-05-0488A | 02
05 | MN | WHITE BEAR,TOWNSHIP OF | 2706880005B | 14-MAR-2000 | 00-05-0630A | 02
05 | MN | WINONA, CITY OF | 2752500006D | 16-MAY-2000 | 00-05-1740A | 02
05 | MN | WRIGHT COUNTY * | 2705340009B | 02-MAY-2000 | 00-05-2514A | 02
05 | OH | ASHTABULA COUNTY * | 3900100075B | 11-MAY-2000 | 00-05-1428A | 02
05 | OH | ATHENS COUNTY* | 3907600175B | 02-FEB-2000 | 00-05-1378A | 02
05 | OH | AUGLAIZE COUNTY * | 39011C0025C | 30-MAR-2000 | 99-05-6752A | 02
05 | OH | AUGLAIZE COUNTY * | 39011C0090C | 05-MAY-2000 | 00-05-2132A | 02
05 | OH | AUGLAIZE COUNTY * | 39011C0090C | 11-FEB-2000 | 00-05-1474A | 02
05 | OH | AUGLAIZE COUNTY * | 39011C0090C | 21-JAN-2000 | 99-05-7098A | 01
05 | OH | AVON, CITY OF | 3903480005C | 09-MAY-2000 | 00-05-2124A | 02
05 | OH | BEAVERCREEK, CITY OF | 3908760002B | 05-JAN-2000 | 00-05-0516A | 02
05 | OH | BEAVERCREEK, CITY OF | 3908760002B | 05-JAN-2000 | 99-05-6866A | 02
05 | OH | BEAVERCREEK, CITY OF | 3908760002B | 30-MAY-2000 | 00-05-2510A | 02
05 | OH | BELLBROOK, CITY OF | 3901940001B | 04-MAY-2000 | 00-05-3130X | 02
05 | OH | BELLBROOK, CITY OF | 3901940001B | 09-FEB-2000 | 99-05-5440A | 02
05 | OH | BEXLEY, CITY OF | 39049C0255G | 14-JAN-2000 | 00-05-1388X | 01
05 | OH | BROOKLYN, CITY OF | 3901000001C | 30-MAR-2000 | 00-05-1176A | 02
05 | OH | BUTLER COUNTY * | 3900370130B | 19-MAY-2000 | 00-05-1986A | 02
05 | OH | BUTLER COUNTY | 3900370070C | 23-JUN-2000 | 00-05-3274A | 02
05 | OH | BUTLER COUNTY | 3900370070C | 16-JUN-2000 | 00-05-3276A | 02
05 | OH | CARROLL COUNTY * | 3907630025B | 30-MAY-2000 | 99-05-5954A | 02
05 | OH | CELINA, CITY OF | 3903930005C | 10-MAY-2000 | 00-05-2188A | 02
05 | OH | CLERMONT COUNTY | 3900650085D | 25-MAY-2000 | 00-05-3278A | 02
05 | OH | COLUMBUS, CITY OF | 39049C0045H | 30-MAR-2000 | 00-05-2802A | 01
05 | OH | COLUMBUS, CITY OF | 39049C0158G | 07-MAR-2000 | 00-05-0092A | 01
05 | OH | DELAWARE COUNTY * | 39041C0240J | 02-FEB-2000 | 00-05-1458A | 02
05 | OH | DUBLIN, CITY OF | 39049C0106G | 30-MAY-2000 | 00-05-1780A | 02
05 | OH | ERIE COUNTY * | 3901530050B | 05-MAY-2000 | 00-05-1078A | 02
05 | OH | ERIE COUNTY * | 3901530075C | 19-JAN-2000 | 00-05-0218A | 02
05 | OH | FAIRFIELD COUNTY * | 3901580015D | 27-APR-2000 | 00-05-0412A | 01
05 | OH | FAIRFIELD COUNTY * | 3901580185D | 28-MAR-2000 | 00-05-1964A | 02
05 | OH | FINDLAY, CITY OF | 3902440005C | 22-FEB-2000 | 00-05-0602A | 02
05 | OH | FINDLAY, CITY OF | 3902440009B | 11-APR-2000 | 00-05-2588X | 02
05 | OH | FINDLAY, CITY OF | 3902440009B | 15-FEB-2000 | 00-05-1470A | 02
05 | OH | FRANKLIN COUNTY* | 39049C0186G | 17-FEB-2000 | 00-05-1592A | 02
05 | OH | FRANKLIN COUNTY* | 39049C0290G | 11-APR-2000 | 00-05-1384A | 01
05 | OH | FRANKLIN COUNTY* | 39049C0290G | 15-FEB-2000 | 00-05-1102A | 02
05 | OH | FRANKLIN COUNTY* | 39049C0327G | 25-APR-2000 | 00-05-0378A | 02
05 | OH | FRANKLIN COUNTY* | 39049C0376H | 19-APR-2000 | 00-05-1682A | 02
05 | OH | GATES MILLS, VILLAGE OF | 3905930002B | 14-JAN-2000 | 00-05-0444A | 02
05 | OH | GERMANTOWN, VILLAGE OF | 3904110001B | 17-FEB-2000 | 00-05-1120A | 02
05 | OH | GRANDVIEW HEIGHTS, CITY OF | 39049C0231G | 17-MAR-2000 | 00-05-1966A | 02
05 | OH | GROVE CITY, CITY OF | 39049C0238G | 04-APR-2000 | 00-05-0722A | 01
05 | OH | GROVEPORT, VILLAGE OF | 39049C0270G | 09-MAR-2000 | 00-05-1594A | 01
05 | OH | GUERNSEY COUNTY * | 39059C0094C | 27-APR-2000 | 00-05-1132A | 02
05 | OH | GUERNSEY COUNTY * | 39059C0113C | 19-APR-2000 | 00-05-0696A | 01
05 | OH | HARRISON COUNTY * | 3902550003A | 23-MAR-2000 | 00-05-0692A | 02
05 | OH | HARRISON, CITY OF | 3902200005C | 28-JAN-2000 | 99-05-7340A | 02
05 | OH | JACKSON, CITY OF | 3902920005D | 13-APR-2000 | 00-05-1412A | 02
05 | OH | JACKSON, CITY OF | 3902920005D | 02-JUN-2000 | 00-05-2954A | 01
05 | OH | KETTERING, CITY OF | 3904120020B | 03-MAY-2000 | 99-05-7396A | 02
05 | OH | KETTERING, CITY OF | 3904120020B | 07-MAR-2000 | 00-05-0240A | 02
05 | OH | KETTERING, CITY OF | 3904120020B | 11-APR-2000 | 00-05-0114A | 02
05 | OH | KETTERING, CITY OF | 3904120020B | 22-FEB-2000 | 00-05-0264A | 02
05 | OH | KETTERING, CITY OF | 3904120020B | 24-FEB-2000 | 00-05-0126A | 02
05 | OH | KETTERING, CITY OF | 3904120020B | 30-MAY-2000 | 00-05-2242A | 02
05 | OH | KNOX COUNTY | 3903060070C | 30-JUN-2000 | 00-05-3978A | 02
05 | OH | LAKE COUNTY * | 3907710027C | 21-MAR-2000 | 00-05-0954A | 02
05 | OH | LAKE COUNTY * | 3907710028C | 14-JAN-2000 | 99-05-6030P | 05
05 | OH | LANCASTER, CITY OF | 3901610003D | 10-FEB-2000 | 00-05-0838A | 17
05 | OH | LANCASTER, CITY OF | 3901610005D | 29-FEB-2000 | 99-05-7398A | 02
05 | OH | LICKING COUNTY * | 3903280100B | 30-MAR-2000 | 00-05-2162A | 01
05 | OH | LICKING COUNTY * | 3903280125B | 21-JAN-2000 | 00-05-1226A | 02
05 | OH | LOGAN COUNTY * | 3907720100C | 25-APR-2000 | 99-05-6242A | 02
05 | OH | LORAIN COUNTY* | 3903460095B | 15-FEB-2000 | 00-05-0414A | 02
05 | OH | LUCAS COUNTY* | 3903590015B | 20-APR-2000 | 00-05-0310A | 01
05 | OH | LUCAS COUNTY* | 3903590015B | 22-FEB-2000 | 97-05-4652P | 05
05 | OH | LUCAS COUNTY* | 3903590050B | 22-FEB-2000 | 97-05-4652P |
05 | OH | MANSFIELD, CITY OF | 3904770009C | 09-MAR-2000 | 00-05-1630A | 02
05 | OH | MANSFIELD, CITY OF | 3904770009C | 25-APR-2000 | 00-05-3248A | 02
05 | OH | MEDINA COUNTY * | 3903780055B | 29-FEB-2000 | 00-05-1444A | 02
05 | OH | MERCER COUNTY * | 3903920100B | 09-MAY-2000 | 00-05-2450A | 02
05 | OH | MERCER COUNTY * | 3903920100B | 13-APR-2000 | 00-05-1670A | 02
05 | OH | MERCER COUNTY * | 3903920100B | 28-JAN-2000 | 00-05-0754A | 02
05 | OH | MERCER COUNTY * | 3903920100B | 28-JAN-2000 | 00-05-0930A | 02
05 | OH | MILLERSPORT, VILLAGE OF | 390689 A | 15-FEB-2000 | 99-05-7314A | 02
05 | OH | MONTGOMERY COUNTY * | 3907750035C | 25-APR-2000 | 00-05-1024A | 02
05 | OH | MONTGOMERY COUNTY * | 3907750040C | 04-APR-2000 | 00-05-1566A | 02
05 | OH | NEW LEXINGTON, VILLAGE OF | 3904430001C | 18-APR-2000 | 00-05-2094A | 02
05 | OH | NORTH OLMSTED, CITY OF | 3901200002C | 08-JUN-2000 | 00-05-3336A | 02
05 | OH | NORTH ROYALTON, CITY OF | 3901210006B | 14-MAR-2000 | 00-05-0004A | 01
05 | OH | OTTAWA COUNTY * | 3904320025A | 15-FEB-2000 | 00-05-1408A | 02
05 | OH | OTTAWA COUNTY * | 3904320050B | 07-JAN-2000 | 00-05-0818A | 02
05 | OH | OTTAWA COUNTY * | 3904320125B | 04-APR-2000 | 00-05-1386A | 01
05 | OH | OTTAWA, VILLAGE OF | 3904720002C | 09-FEB-2000 | 00-05-0892A | 02
05 | OH | PARMA, CITY OF | 3901230004B | 18-APR-2000 | 99-05-7368A | 02
05 | OH | PERRY COUNTY * | 3907780025C | 19-JAN-2000 | 99-05-6572A | 02
05 | OH | PORTAGE COUNTY* | 390453 C | 28-JAN-2000 | 00-05-0886A | 02
05 | OH | PUTNAM COUNTY * | 3904650100B | 19-JAN-2000 | 99-05-7228A | 02
05 | OH | PUTNAM COUNTY * | 3904650100B | 24-FEB-2000 | 00-05-0720A | 01
05 | OH | PUTNAM COUNTY * | 3904650100B | 27-APR-2000 | 00-05-1148A | 02
05 | OH | PUTNAM COUNTY * | 3904650105B | 19-JAN-2000 | 99-05-7108A | 17
05 | OH | RICHLAND COUNTY* | 3904760175B | 16-FEB-2000 | 99-05-5826A | 02
05 | OH | ROAMING SHORES, VILLAGE OF | 3908850001A | 18-APR-2000 | 99-05-7224A | 02
05 | OH | ROSS COUNTY * | 3904800150B | 14-MAR-2000 | 00-05-1738A | 02
05 | OH | RUSSIA, VILLAGE OF | 3908800001A | 05-APR-2000 | 00-05-2258A | 02
05 | OH | SABINA, VILLAGE OF | 3906270001B | 19-JAN-2000 | 00-05-0874A | 02
05 | OH | SANDUSKY COUNTY * | 3904860105B | 17-FEB-2000 | 00-05-0926A | 02
05 | OH | SANDUSKY COUNTY * | 3904860200B | 28-JAN-2000 | 99-05-6096A | 02
05 | OH | SENECA COUNTY * | 3907790085B | 24-FEB-2000 | 00-05-1884X | 02
05 | OH | SHAKER HEIGHTS, CITY OF | 3901290004C | 13-APR-2000 | 00-05-1610A | 02
05 | OH | SHEFFIELD, VILLAGE OF | 3903540005B | 19-JAN-2000 | 99-05-249P | 05
05 | OH | SHELBY COUNTY * | 3905030060C | 17-MAY-2000 | 00-05-009P | 05
05 | OH | SPRINGBORO, CITY OF | 3905640001B | 12-JAN-2000 | 00-05-1050A | 01
05 | OH | STARK COUNTY* | 3907800085B | 02-MAY-2000 | 00-05-1924A | 01
05 | OH | STARK COUNTY* | 3907800085B | 19-JAN-2000 | 00-05-0468A | 02
05 | OH | STOW, CITY OF | 3905320005B | 05-APR-2000 | 00-05-2180A | 02
05 | OH | TOLEDO, CITY OF | 3953730010A | 28-JAN-2000 | 00-05-1372A | 02
05 | OH | TOLEDO, CITY OF | 3953730020A | 02-FEB-2000 | 00-05-0976A | 02
05 | OH | TROTWOOD, CITY OF | 3904170002B | 28-MAR-2000 | 99-05-057P | 05
05 | OH | TRUMBULL COUNTY * | 3905350100B | 07-MAR-2000 | 00-05-0484A | 02
05 | OH | TUSCARAWAS COUNTY |  | 25-MAY-2000 | 00-05-2950A | 02
05 | OH | TUSCARAWAS COUNTY | 3907820055B | 30-JUN-2000 | 00-05-3374A | 02
05 | OH | UNION COUNTY * | 3908080050B | 14-MAR-2000 | 00-05-1790A | 02
05 | OH | WALBRIDGE, VILLAGE OF | 3906350001A | 19-JAN-2000 | 99-05-6458A | 02
05 | OH | WAPAKONETA, CITY OF | 39011C0105C | 14-MAR-2000 | 00-05-1178A | 02
05 | OH | WASHINGTON COUNTY * | 3905660125B | 19-APR-2000 | 00-05-2208A | 02
05 | OH | WASHINGTON COUNTY * | 3905660150B | 30-MAY-2000 | 00-05-1520A | 01
05 | OH | WESTLAKE, CITY OF | 3901360006C | 01-FEB-2000 | 99-05-107P | 05
05 | OH | WOOD COUNTY * | 3908090012C | 11-APR-2000 | 00-05-0682A | 02
05 | OH | XENIA, CITY OF | 3901970005B | 12-MAY-2000 | 00-05-2946A | 02
05 | WI | BARRON COUNTY * | 5505680175C | 23-MAR-2000 | 00-05-0636A | 02
05 | WI | BARRON COUNTY * | 5505680275B | 02-FEB-2000 | 99-05-7160A | 02
05 | WI | BARRON COUNTY * | 5505680275B | 23-MAR-2000 | 00-05-2508X | 02
05 | WI | BAYFIELD COUNTY * | 5505390022B | 09-FEB-2000 | 99-05-5122A | 02
05 | WI | BAYFIELD COUNTY * | 5505390023B | 16-MAR-2000 | 00-05-0216A | 02
05 | WI | BIRCHWOOD, VILLAGE OF | 550574 B | 30-MAR-2000 | 00-05-2408A | 02
05 | WI | BROOKFIELD, CITY OF | 5504780005B | 07-MAR-2000 | 00-05-0450A | 02
05 | WI | BROWN COUNTY * | 5500200025B | 11-MAY-2000 | 00-05-0430A | 01
05 | WI | BROWN COUNTY * | 5500200100C | 02-MAY-2000 | 00-05-2936A | 02
05 | WI | BROWN COUNTY * | 5500200125B | 04-APR-2000 | 99-05-7214A | 02
05 | WI | BURNETT COUNTY * | 5500320200B | 04-APR-2000 | 00-05-1832A | 02
05 | WI | BURNETT COUNTY * | 5500320200B | 12-APR-2000 | 00-05-1876A | 02
05 | WI | BURNETT COUNTY * | 5500320500B | 12-APR-2000 | 00-05-1874A | 02
05 | WI | BURNETT COUNTY * | 5500320500B | 17-MAY-2000 | 00-05-3656X | 02
05 | WI | BURNETT COUNTY | 5500320500B | 25-MAY-2000 | 00-05-3022A | 02
05 | WI | CASCADE, VILLAGE OF | 5504250001B | 25-FEB-2000 | 00-05-2096A | 02
05 | WI | CEDARBURG, CITY OF | 55089C0064D | 16-MAR-2000 | 99-05-7252A | 02
05 | WI | CHIPPEWA COUNTY * | 5555490050B | 02-MAY-2000 | 00-05-1544A | 02
05 | WI | CHIPPEWA COUNTY * | 5555490200C | 12-JAN-2000 | 00-05-0276A | 02
05 | WI | CHIPPEWA COUNTY * | 5555490200C | 16-MAY-2000 | 00-05-3430X | 02
05 | WI | CHIPPEWA COUNTY * | 5555490200C | 28-MAR-2000 | 00-05-1546A | 02
05 | WI | CHIPPEWA COUNTY * | 5555490275C | 06-APR-2000 | 00-05-1522A | 02
05 | WI | COLUMBIA COUNTY * | 5505810150C | 09-MAY-2000 | 00-05-0890A | 02
05 | WI | COLUMBIA COUNTY * | 5505810200C | 14-MAR-2000 | 00-05-0888A | 02
05 | WI | DE PERE, CITY OF | 5500210005C | 02-MAY-2000 | 00-05-2878A | 02
05 | WI | DE PERE, CITY OF | 5500210005C | 12-APR-2000 | 00-05-0330A | 02
05 | WI | DODGE COUNTY | 5500940205B | 28-JUN-2000 | 00-05-4046A | 02
05 | WI | DOOR COUNTY * | 5501090085A | 02-FEB-2000 | 99-05-7048A | 02
05 | WI | DUNN COUNTY * | 5501180125A | 29-FEB-2000 | 00-05-1746A | 02
05 | WI | EAU CLAIRE COUNTY * | 5555520075B | 16-MAR-2000 | 00-05-1216A | 02
05 | WI | EMBARRASS, VILLAGE OF | 550495 B | 09-MAR-2000 | 00-05-1808A | 02
05 | WI | EMBARRASS, VILLAGE OF | 550495 B | 22-FEB-2000 | 00-05-1810A | 02
05 | WI | EPHRAIM, VILLAGE OF | 5506110001A | 25-APR-2000 | 99-05-6986A | 02
05 | WI | FOND DU LAC COUNTY * | 5501310030B | 02-MAR-2000 | 99-05-7304A | 02
05 | WI | FOND DU LAC, CITY OF | 5501360005D | 02-MAY-2000 | 00-05-3190A | 02
05 | WI | FOND DU LAC, CITY OF | 5501360005D | 04-FEB-2000 | 99-05-7306A | 01
05 | WI | FOND DU LAC, CITY OF | 5501360005D | 05-JAN-2000 | 00-05-0124A | 02
05 | WI | FOND DU LAC, CITY OF | 5501360005D | 07-JAN-2000 | 99-05-6750A | 02
05 | WI | FOND DU LAC, CITY OF | 5501360005D | 09-MAY-2000 | 00-05-1700A | 02
05 | WI | FOND DU LAC, CITY OF | 5501360005D | 13-APR-2000 | 00-05-1312A | 02
05 | WI | FOND DU LAC, CITY OF | 5501360005D | 16-MAY-2000 | 00-05-3088A | 02
05 | WI | FOND DU LAC, CITY OF | 5501360005D | 20-APR-2000 | 00-05-1578A | 02
05 | WI | FOND DU LAC, CITY OF | 5501360005D | 21-JAN-2000 | 00-05-1058A | 01
05 | WI | FOND DU LAC, CITY OF | 5501360005D | 25-APR-2000 | 00-05-1438A | 02
05 | WI | FOND DU LAC, CITY OF | 5501360005D | 28-JAN-2000 | 99-05-7072A | 02
05 | WI | FOND DU LAC, CITY OF | 5501360005D | 29-FEB-2000 | 00-05-1634A | 02
05 | WI | FRANKLIN, CITY OF | 5502730005B | 04-FEB-2000 | 99-05-5216A | 17
05 | WI | GLENDALE, CITY OF | 5502750005C | 22-FEB-2000 | 00-05-0398A | 02
05 | WI | GRANT COUNTY * | 5555570275B | 16-MAY-2000 | 99-05-6886A | 01
05 | WI | GREEN LAKE COUNTY * | 5501650001A | 30-MAY-2000 | 00-05-2204A | 02
05 | WI | GREEN LAKE COUNTY * | 5501650003A | 07-APR-2000 | 00-05-2146A | 02
05 | WI | GREEN LAKE COUNTY * | 5501650003A | 13-APR-2000 | 00-05-2104A | 02
05 | WI | GREEN LAKE COUNTY * | 5501650003A | 25-MAY-2000 | 00-05-2000A | 02
05 | WI | GREEN LAKE COUNTY * | 5501650005B | 28-APR-2000 | 00-05-2108A | 02
05 | WI | HARTFORD, CITY OF | 5504730001B | 10-JAN-2000 | 98-05-239P | 06
05 | WI | HOWARD, VILLAGE OF | 5500230005B | 13-APR-2000 | 00-05-3200A | 02
05 | WI | JEFFERSON COUNTY * | 5501910200B | 04-MAY-2000 | 99-05-6100A | 02
05 | WI | JEFFERSON COUNTY * | 5501910225A | 13-APR-2000 | 00-05-3124A | 02
05 | WI | JEFFERSON COUNTY * | 5501910250B | 04-APR-2000 | 00-05-1914A | 02
05 | WI | JEFFERSON, CITY OF | 5555610001B | 23-FEB-2000 | 99-05-7050A | 01
05 | WI | JUNEAU COUNTY * | 55057C0090C | 20-APR-2000 | 00-05-1366A | 02
05 | WI | KENDALL, VILLAGE OF | 5502870001B | 04-FEB-2000 | 99-05-4492A | 02
05 | WI | KENOSHA COUNTY * | 5505230040B | 18-MAY-2000 | 00-05-1786A | 02
05 | WI | LA CROSSE COUNTY * | 5502170120A | 07-MAR-2000 | 00-05-1872A | 02
05 | WI | LA CROSSE COUNTY * | 5502170120A | 14-JAN-2000 | 00-05-0504A | 02
05 | WI | LA CROSSE COUNTY * | 5502170120A | 21-JAN-2000 | 99-05-6040A | 02
05 | WI | LA CROSSE, CITY OF | 5555620005B | 14-MAR-2000 | 00-05-0928A | 02
05 | WI | LA CROSSE, CITY OF | 5555620005B | 21-MAR-2000 | 00-05-2090A | 01
05 | WI | LAVALLE, VILLAGE OF | 5503950001C | 02-MAR-2000 | 00-05-1576A | 02
05 | WI | LODI, CITY OF | 5500610001B | 09-MAY-2000 | 00-05-1584A | 02
05 | WI | MARATHON COUNTY * | 5502450375B | 02-MAY-2000 | 00-05-3102A | 02
05 | WI | MARATHON COUNTY * | 5502450375B | 09-MAY-2000 | 00-05-3240A | 02
05 | WI | MARATHON COUNTY * | 5502450375B | 11-APR-2000 | 00-05-2112A | 02
05 | WI | MARATHON COUNTY * | 5502450375B | 12-JAN-2000 | 99-05-5900A | 02
05 | WI | MARATHON COUNTY * | 5502450400B | 28-MAR-2000 | 00-05-0808A | 02
05 | WI | MARATHON COUNTY * | 5502450525B | 18-APR-2000 | 00-05-0704A | 02
05 | WI | MARINETTE COUNTY * | 5502590625B | 02-FEB-2000 | 99-05-7390A | 02
05 | WI | MARINETTE COUNTY * | 5502590625B | 04-APR-2000 | 99-05-6892A | 02
05 | WI | MARINETTE COUNTY * | 5502590765B | 25-APR-2000 | 00-05-3114A | 02
05 | WI | MARQUETTE COUNTY* | 5506010125B | 14-MAR-2000 | 00-05-0280A | 02
05 | WI | MARQUETTE COUNTY | 5506010025B | 03-MAY-2000 | 00-05-2836A | 02
05 | WI | MENASHA, CITY OF | 5505100005C | 05-JAN-2000 | 00-05-0068A | 02
05 | WI | MENASHA, CITY OF | 5505100005C | 05-JAN-2000 | 99-05-7194A | 02
05 | WI | MENASHA, CITY OF | 5505100005C | 11-APR-2000 | 00-05-1238A | 02
05 | WI | MENASHA, CITY OF | 5505100005C | 14-JAN-2000 | 99-05-6110A | 02
05 | WI | MENASHA, CITY OF | 5505100005C | 18-APR-2000 | 00-05-2778A | 02
05 | WI | MENASHA, CITY OF | 5505100005C | 20-APR-2000 | 00-05-2896A | 02
05 | WI | MENASHA, CITY OF | 5505100005C | 20-APR-2000 | 00-05-2904A | 02
05 | WI | MENASHA, CITY OF | 5505100005C | 25-APR-2000 | 00-05-2898A | 02
05 | WI | MEQUON, CITY OF | 55089C0085D | 23-MAY-2000 | 00-05-0296A | 02
05 | WI | MERRIMAC, VILLAGE OF | 550398 B | 12-JAN-2000 | 99-05-6078A | 02
05 | WI | MILWAUKEE, CITY OF | 5502780015B | 16-MAR-2000 | 00-05-0208A | 02
05 | WI | MUSKEGO, CITY OF | 5504860001B | 18-APR-2000 | 00-05-0292A | 02
05 | WI | NECEDAH, VILLAGE OF | 55057C0090C | 15-FEB-2000 | 00-05-0608A | 02
05 | WI | NEW GLARUS, VILLAGE OF | 5501640001B | 14-MAR-2000 | 00-05-0898A | 02
05 | WI | OSHKOSH, CITY OF | 5505110020D | 02-MAY-2000 | 00-05-1604A | 01
05 | WI | OSHKOSH, CITY OF | 5505110020D | 16-MAY-2000 | 00-05-2894A | 02
05 | WI | OUTAGAMIE COUNTY * | 5503020050B | 21-JAN-2000 | 00-05-0482A | 02
05 | WI | OUTAGAMIE COUNTY * | 5503020050B | 22-FEB-2000 | 99-05-4034A | 02
05 | WI | OUTAGAMIE COUNTY * | 5503020050B | 23-MAY-2000 | 00-05-0946A | 02
05 | WI | OUTAGAMIE COUNTY * | 5503020050B | 29-MAR-2000 | 99-05-6580A | 02
05 | WI | OUTAGAMIE COUNTY * | 5503020075B | 17-FEB-2000 | 00-05-2012A | 02
05 | WI | OUTAGAMIE COUNTY * | 5503020084C | 16-MAR-2000 | 00-05-0860A | 02
05 | WI | OUTAGAMIE COUNTY * | 5503020084C | 25-APR-2000 | 00-05-2424A | 02
05 | WI | OUTAGAMIE COUNTY * | 5503020150B | 09-MAR-2000 | 99-05-7184A | 02
05 | WI | OZAUKEE COUNTY * | 55089C0056D | 28-JAN-2000 | 00-05-1562X | 01
05 | WI | PEWAUKEE, VILLAGE OF | 5504890002B | 22-MAR-2000 | 99-05-5990P | 05
05 | WI | PLEASANT PRAIRIE, VILLAGE OF | 5506130005B | 16-MAY-2000 | 00-05-2416A | 02
05 | WI | POLK COUNTY * | 5505770075B | 28-MAR-2000 | 99-05-6828A | 02
05 | WI | PORTAGE COUNTY * | 5505720150C | 01-MAR-2000 | 99-05-6916A | 02
05 | WI | PORTAGE COUNTY * | 5505720150C | 01-MAR-2000 | 99-05-7030A | 02
05 | WI | PORTAGE COUNTY * | 5505720150C | 02-MAY-2000 | 00-05-2868A | 02
05 | WI | PORTAGE COUNTY * | 5505720150C | 07-MAR-2000 | 00-05-1826A | 02
05 | WI | PORTAGE COUNTY * | 5505720150C | 25-APR-2000 | 00-05-2454A | 02
05 | WI | PORTAGE COUNTY * | 5505720250C | 05-MAY-2000 | 00-05-1844A | 02
05 | WI | PORTAGE COUNTY * | 5505720250C | 12-APR-2000 | 00-05-1820A | 02
05 | WI | PORTAGE COUNTY * | 5505720250C | 25-MAY-2000 | 00-05-1762A | 02
05 | WI | PULASKI, VILLAGE OF | 5500240001B | 07-MAR-2000 | 00-05-0680A | 01
05 | WI | RACINE COUNTY * | 5503470010B | 09-MAR-2000 | 00-05-0660A | 01
05 | WI | RACINE COUNTY * | 5503470010B | 16-MAY-2000 | 00-05-2710A | 02
05 | WI | RACINE COUNTY * | 5503470075B | 30-MAR-2000 | 00-05-0090A | 02
05 | WI | RACINE COUNTY * | 5503470080B | 16-FEB-2000 | 00-05-0532A | 02
05 | WI | RACINE, CITY OF | 555575 A | 26-MAY-2000 | 00-05-2272A | 02
05 | WI | RICHLAND COUNTY | 5503560095B | 18-APR-2000 | 00-05-2542A | 02
05 | WI | RUSK COUNTY* | 5506020225B | 29-FEB-2000 | 00-05-1754A | 02
05 | WI | RUSK COUNTY* | 5506020245B | 02-MAR-2000 | 00-05-1574A | 02
05 | WI | SAUK COUNTY * | 5503910250B | 01-JUN-2000 | 00-05-2674A | 02
05 | WI | SAUKVILLE, VILLAGE OF | 55089C0056D | 11-FEB-2000 | 00-05-0254A | 01
05 | WI | SAUKVILLE, VILLAGE OF | 55089C0056D | 16-MAR-2000 | 99-05-7028A | 02
05 | WI | SAWYER COUNTY * | 5505910025B | 02-MAY-2000 | 00-05-3212A | 02
05 | WI | SAWYER COUNTY * | 5505910045B | 13-APR-2000 | 00-05-1308A | 02
05 | WI | SAWYER COUNTY * | 5505910100B | 16-MAR-2000 | 00-05-1112A | 02
05 | WI | SAWYER COUNTY * | 5505910100B | 30-MAY-2000 | 00-05-2368A | 02
05 | WI | SAWYER COUNTY * | 5505910125B | 24-FEB-2000 | 99-05-6638A | 02
05 | WI | SAWYER COUNTY * | 5505910125B | 28-JAN-2000 | 99-05-7020A | 02
05 | WI | SHAWANO COUNTY * | 5504120150B | 09-FEB-2000 | 00-05-0042A | 02
05 | WI | SHAWANO COUNTY * | 5504120150B | 09-MAR-2000 | 99-05-6990A | 02
05 | WI | SHAWANO COUNTY * | 5504120150B | 14-MAR-2000 | 99-05-7204A | 02
05 | WI | SHAWANO COUNTY * | 5504120150B | 18-APR-2000 | 00-05-2248A | 02
05 | WI | SHEBOYGAN COUNTY * | 5504240125B | 05-JAN-2000 | 99-05-5816A | 17
05 | WI | SHIOCTON, VILLAGE OF | 5503090001B | 04-APR-2000 | 00-05-0272A | 02
05 | WI | SHIOCTON, VILLAGE OF | 5503090001B | 07-APR-2000 | 00-05-0616A | 02
05 | WI | SHIOCTON, VILLAGE OF | 5503090001B | 02-JUN-2000 | 00-05-3054A | 02
05 | WI | STANLEY, CITY OF | 550047 B | 01-MAR-2000 | 00-05-0678A | 01
05 | WI | STEVENS POINT, CITY OF | 5503420005B | 16-MAR-2000 | 00-05-1080A | 02
05 | WI | STEVENS POINT, CITY OF | 5503420005B | 16-MAR-2000 | 00-05-1082A | 02
05 | WI | STEVENS POINT, CITY OF | 5503420005B | 16-MAR-2000 | 00-05-1084A | 02
05 | WI | STURGEON BAY, CITY OF | 5501110005B | 12-JAN-2000 | 99-05-6714A | 01
05 | WI | STURGEON BAY, CITY OF | 5501110005B | 18-MAY-2000 | 00-05-2196A | 01
05 | WI | TREMPEALEAU COUNTY * | 555585 A | 07-MAR-2000 | 00-05-0764A | 02
05 | WI | VERNON COUNTY * | 5504500025B | 25-MAY-2000 | 00-05-1770A | 02
05 | WI | VERNON COUNTY | 5504500160B | 14-JUN-2000 | 00-05-2972A | 02
05 | WI | WASHBURN COUNTY* | 5506060075B | 07-MAR-2000 | 00-05-0716A | 02
05 | WI | WASHBURN COUNTY* | 5506060075B | 07-MAR-2000 | 00-05-0752A | 02
05 | WI | WASHBURN COUNTY* | 5506060125B | 29-MAR-2000 | 00-05-1880A | 02
05 | WI | WASHBURN COUNTY | 5506060075B | 28-JUN-2000 | 00-05-3986A | 02
05 | WI | WASHINGTON COUNTY * | 5504710020B | 16-MAR-2000 | 00-05-0826A | 01
05 | WI | WASHINGTON COUNTY * | 5504710085B | 10-JAN-2000 | 98-05-239P | 06
05 | WI | WASHINGTON COUNTY * | 5504710090B | 26-MAY-2000 | 00-05-2570A | 02
05 | WI | WAUKESHA COUNTY* | 5504760015B | 25-APR-2000 | 00-05-1862A | 01
05 | WI | WAUKESHA COUNTY* | 5504760040C | 02-MAR-2000 | 00-05-0194A | 17
05 | WI | WAUKESHA COUNTY* | 5504760040C | 02-MAY-2000 | 00-05-0936A | 02
05 | WI | WAUKESHA COUNTY* | 5504760040C | 28-MAR-2000 | 99-05-6320A | 02
05 | WI | WAUKESHA COUNTY* | 5504760115B | 16-MAR-2000 | 00-05-1036A | 02
05 | WI | WAUKESHA COUNTY* | 5504760115B | 28-MAR-2000 | 00-05-0748A | 02
05 | WI | WAUPACA COUNTY* | 5504920085A | 04-APR-2000 | 00-05-0724A | 02
05 | WI | WAUPACA COUNTY* | 5504920115A | 06-MAR-2000 | 00-05-1490A | 02
05 | WI | WAUPACA COUNTY* | 5504920115A | 12-JAN-2000 | 00-05-0056A | 02
05 | WI | WAUPACA COUNTY* | 5504920115A | 28-MAR-2000 | 00-05-1202A | 02
05 | WI | WAUPACA COUNTY* | 5504920160B | 30-MAY-2000 | 00-05-3082C | 02
05 | WI | WAUPUN, CITY OF | 5501080001E | 14-JAN-2000 | 00-05-1114A | 02
05 | WI | WINNEBAGO COUNTY * | 5505370025C | 18-FEB-2000 | 99-05-6852A | 02
05 | WI | WINNEBAGO COUNTY * | 5505370050C | 14-MAR-2000 | 00-05-1260A | 02
05 | WI | WINNEBAGO COUNTY * | 5505370100C | 23-MAR-2000 | 00-05-1460A | 01
05 | WI | WINNEBAGO COUNTY * | 5505370150C | 07-MAR-2000 | 00-05-1812A | 02
05 | WI | WOOD COUNTY * | 55141C0125E | 28-MAR-2000 | 00-05-1222A | 02
05 | WI | WOOD COUNTY * | 55141C0275E | 18-MAY-2000 | 00-05-1968A | 02
05 | WI | WOOD COUNTY * | 55141C0410E | 20-APR-2000 | 00-05-1360A | 02
05 | WI | WOOD COUNTY * | 55141C0420E | 16-MAR-2000 | 00-05-1016A | 02
06 | AR | ASHLEY COUNTY | 0500030365B | 28-JUN-2000 | 00-06-615A | 02
06 | AR | BATESVILLE, CITY OF | 0500910005B | 18-APR-2000 | 99-06-2002A | 17
06 | AR | BENTON COUNTY | 05007C0045E | 24-FEB-2000 | 00-06-574A | 02
06 | AR | BRADLEY COUNTY | 0504200200B | 04-MAY-2000 | 00-06-789A | 02
06 | AR | CABOT, CITY OF | 0503090005C | 30-MAR-2000 | 00-06-490A | 01
06 | AR | CABOT, CITY OF | 0503090005C | 02-MAY-2000 | 00-06-843A | 01
06 | AR | CONWAY, CITY OF | 05045C0130F | 17-APR-2000 | 00-06-601A | 02
06 | AR | FAYETTEVILLE, CITY OF | 05143C0083D | 20-APR-2000 | 00-06-519A | 02
06 | AR | FORT SMITH, CITY OF | 0550130005D | 21-MAR-2000 | 99-06-1574P | 05
06 | AR | GARLAND COUNTY | 05051C0050C | 14-JUN-2000 | 00-06-848A | 02
06 | AR | JONESBORO, CITY OF | 05031C0043C | 14-JUN-2000 | 00-06-1030A | 02
06 | AR | JONESBORO, CITY OF | 05031C0152C | 16-JUN-2000 | 00-06-965A | 01
06 | AR | LINCOLN COUNTY | 050445B | 02-JUN-2000 | 00-06-1019A | 02
06 | AR | LITTLE ROCK, CITY OF | 0501810021E | 11-FEB-2000 | 00-06-316P | 06
06 | AR | LITTLE ROCK, CITY OF | 0501810008E | 01-JUN-2000 | 00-06-711P | 06
06 | AR | LITTLE ROCK, CITY OF | 0501810010E | 21-JUN-2000 | 00-06-717A | 02
06 | AR | LOWELL, CITY OF | 05007C0165D | 02-MAY-2000 | 00-06-358A | 02
06 | AR | MAYFLOWER, CITY OF | 05045C0210E | 30-MAR-2000 | 00-06-785A | 02
06 | AR | MCGEHEE, CITY OF | 0500680005C | 28-JAN-2000 | 00-06-402A | 02
06 | AR | MCGEHEE, CITY OF | 0500680005C | 25-MAY-2000 | 00-06-832A | 02
06 | AR | PERRY, TOWN OF | 05105C0127C | 21-JUN-2000 | 99-06-2099V | 19
06 | AR | POCAHONTAS, CITY OF | 0501830003B | 24-MAR-2000 | 00-06-563A | 01
06 | AR | PULASKI COUNTY | 0501790310E | 03-MAY-2000 | 00-06-821A | 02
06 | AR | SALINE COUNTY | 0501910220B | 11-APR-2000 | 00-06-793A | 02
06 | AR | SALINE COUNTY | 0501910270B | 11-APR-2000 | 00-06-793A | 02
06 | AR | SEARCY, CITY OF | 0502290005D | 08-JUN-2000 | 00-06-934A | 02
06 | AR | SILOAM SPRINGS, CITY OF | 05007C0208E | 14-FEB-2000 | 00-06-505A | 02
06 | AR | UNION COUNTY | 0502050006A | 18-FEB-2000 | 00-06-530A | 02
06 | AR | UNION COUNTY | 0502050004B | 02-JUN-2000 | 00-06-531A | 02
06 | AR | VAN BUREN, CITY OF | 05033C0170G | 12-APR-2000 | 00-06-612A | 02
06 | AR | WEST MEMPHIS, CITY OF | 0500550016D | 05-MAY-2000 | 99-06-2096V | 19
06 | AR | WEST MEMPHIS, CITY OF | 0500550019D | 05-MAY-2000 | 99-06-2096V | 19
06 | LA | ACADIA PARISH | 2200010175B | 10-MAR-2000 | 00-06-660A | 02
06 | LA | ALEXANDRIA, CITY OF | 2201460015F | 25-APR-2000 | 00-06-700A | 02
06 | LA | ALEXANDRIA, CITY OF | 2201460010F | 12-APR-2000 | 00-06-867A | 02
06 | LA | ALLEN PARISH | 2200090100B | 28-JAN-2000 | 00-06-320A | 02
06 | LA | ALLEN PARISH | 2200090225B | 22-FEB-2000 | 00-06-529A | 02
06 | LA | ASCENSION PARISH | 2200130040B | 28-JUN-2000 | 00-06-1065A | 02
06 | LA | ASCENSION PARISH | 2200130040B | 15-MAR-2000 | 00-06-186A | 01
06 | LA | ASCENSION PARISH | 2200130110D | 16-FEB-2000 | 00-06-236A | 02
06 | LA | ASCENSION PARISH | 2200130030C | 06-JAN-2000 | 00-06-366A | 02
06 | LA | ASCENSION PARISH | 2200130065C | 27-JAN-2000 | 00-06-395A | 02
06 | LA | ASCENSION PARISH | 2200130030C | 10-FEB-2000 | 00-06-464A | 02
06 | LA | ASCENSION PARISH | 2200130030C | 28-APR-2000 | 00-06-479A | 02
06 | LA | ASCENSION PARISH | 2200130040B | 22-MAR-2000 | 00-06-510A | 02
06 | LA | ASCENSION PARISH | 2200130040B | 24-MAR-2000 | 00-06-593A | 02
06 | LA | ASCENSION PARISH | 2200130040B | 27-MAR-2000 | 00-06-595A | 02
06 | LA | ASCENSION PARISH | 2200130040B | 04-APR-2000 | 00-06-597A | 02
06 | LA | ASCENSION PARISH | 2200130130D | 24-MAY-2000 | 00-06-603A | 02
06 | LA | ASCENSION PARISH | 2200130030C | 24-FEB-2000 | 00-06-610A | 02
06 | LA | ASCENSION PARISH | 2200130040B | 02-MAY-2000 | 00-06-621A | 02
06 | LA | ASCENSION PARISH | 2200130110D | 13-MAR-2000 | 00-06-721A | 02
06 | LA | ASCENSION PARISH | 2200130030C | 18-APR-2000 | 00-06-812A | 02
06 | LA | ASCENSION PARISH | 2200130030C | 16-MAY-2000 | 00-06-871A | 02
06 | LA | ASCENSION PARISH | 2200130130D | 16-JUN-2000 | 00-06-983A | 02
06 | LA | AVOYELLES PARISH | 2200190075B | 10-FEB-2000 | 00-06-470A | 02
06 | LA | AVOYELLES PARISH | 2200190075B | 28-FEB-2000 | 00-06-538A | 02
06 | LA | AVOYELLES PARISH | 2200190075B | 29-MAR-2000 | 00-06-778A | 02
06 | LA | AVOYELLES PARISH | 2200190075B | 29-MAR-2000 | 00-06-780A | 02
06 | LA | AVOYELLES PARISH | 2200190100B | 12-APR-2000 | 00-06-860A | 02
06 | LA | BOSSIER CITY, CITY OF | 2200330030C | 30-JUN-2000 | 00-06-1046A | 02
06 | LA | BOSSIER CITY, CITY OF | 2200330030C | 27-JUN-2000 | 00-06-1088A | 02
06 | LA | BOSSIER CITY, CITY OF | 2200330015C | 10-MAR-2000 | 00-06-340A | 01
06 | LA | BOSSIER CITY, CITY OF | 2200330030C | 07-JAN-2000 | 00-06-355A | 02
06 | LA | BOSSIER CITY, CITY OF | 2200330005C | 24-FEB-2000 | 00-06-570A | 02
06 | LA | BOSSIER CITY, CITY OF | 2200330030C | 24-MAR-2000 | 00-06-764A | 02
06 | LA | BOSSIER CITY, CITY OF | 2200330030C | 31-MAR-2000 | 00-06-807A | 02
06 | LA | BOSSIER PARISH | 2200310315B | 21-JUN-2000 | 00-06-1004A | 02
06 | LA | BOSSIER PARISH | 2200310315B | 08-FEB-2000 | 00-06-419A | 02
06 | LA | BOSSIER PARISH | 2200310285B | 08-FEB-2000 | 00-06-421A | 02
06 | LA | BOSSIER PARISH | 2200310315B | 24-FEB-2000 | 00-06-569A | 02
06 | LA | BOSSIER PARISH | 2200310285B | 12-JUN-2000 | 00-06-910A | 02
06 | LA | BOSSIER PARISH | 2200310305B | 12-JUN-2000 | 00-06-910A | 02
06 | LA | CADDO PARISH | 22017C0190F | 07-APR-2000 | 00-06-968V | 19
06 | LA | CADDO PARISH | 22017C0225F | 07-APR-2000 | 00-06-968V | 19
06 | LA | CADDO PARISH | 22017C0250F | 07-APR-2000 | 00-06-968V | 19
06 | LA | CADDO PARISH | 22017C0255F | 07-APR-2000 | 00-06-968V | 19
06 | LA | CADDO PARISH | 22017C0341F | 07-APR-2000 | 00-06-968V | 19
06 | LA | CADDO PARISH | 22017C0343F | 07-APR-2000 | 00-06-968V | 19
06 | LA | CADDO PARISH | 22017C0344F | 07-APR-2000 | 00-06-968V | 19
06 | LA | CADDO PARISH | 22017C0350F | 07-APR-2000 | 00-06-968V | 19
06 | LA | CADDO PARISH | 22017C0360F | 07-APR-2000 | 00-06-968V | 19
06 | LA | CADDO PARISH | 22017C0364F | 07-APR-2000 | 00-06-968V | 19
06 | LA | CADDO PARISH | 22017C0486F | 07-APR-2000 | 00-06-968V | 19
06 | LA | CADDO PARISH | 22017C0487F | 07-APR-2000 | 00-06-968V | 19
06 | LA | CADDO PARISH | 22017C0489F | 07-APR-2000 | 00-06-968V | 19
06 | LA | CADDO PARISH | 22017C0555F | 07-APR-2000 | 00-06-968V | 19
06 | LA | CADDO PARISH | 22017C0580F | 07-APR-2000 | 00-06-968V | 19
06 | LA | CADDO PARISH | 22017C0585F | 07-APR-2000 | 00-06-968V | 19
06 | LA | CADDO PARISH | 22017C0590F | 07-APR-2000 | 00-06-968V | 19
06 | LA | CADDO PARISH | 22017C0605F | 07-APR-2000 | 00-06-968V | 19
06 | LA | CADDO PARISH | 22017C1275F | 07-APR-2000 | 00-06-968V | 19
06 | LA | CALCASIEU PARISH | 2200370375C | 28-JUN-2000 | 00-06-1184A | 02
06 | LA | CALCASIEU PARISH | 2200370250D | 09-FEB-2000 | 00-06-449A | 02
06 | LA | CALCASIEU PARISH | 2200370250D | 24-MAR-2000 | 00-06-761A | 02
06 | LA | CROWLEY, CITY OF | 2251950001C | 11-JAN-2000 | 00-06-274A | 02
06 | LA | EAST BATON ROUGE PARISH | 2200580110D | 28-JUN-2000 | 00-06-1050A | 02
06 | LA | EAST BATON ROUGE PARISH | 2200580100D | 11-MAY-2000 | 00-06-1143A | 02
06 | LA | EAST BATON ROUGE PARISH | 2200580100D | 12-JAN-2000 | 00-06-232A | 01
06 | LA | EAST BATON ROUGE PARISH | 2200580095D | 28-FEB-2000 | 00-06-565A | 02
06 | LA | EAST BATON ROUGE PARISH | 2200580100D | 03-APR-2000 | 00-06-649A | 01
06 | LA | EAST BATON ROUGE PARISH | 2200580115D | 16-JUN-2000 | 00-06-736A | 02
06 | LA | EAST BATON ROUGE PARISH | 2200580110D | 07-APR-2000 | 00-06-837A | 02
06 | LA | EAST BATON ROUGE PARISH | 2200580110D | 08-JUN-2000 | 00-06-897A | 02
06 | LA | EAST BATON ROUGE PARISH | 2200580110D | 06-JUN-2000 | 00-06-932A | 02
06 | LA | EAST BATON ROUGE PARISH | 2200580115D | 11-JAN-2000 | 99-06-1900A | 01
06 | LA | FRANKLIN, CITY OF | 2201950005C | 17-APR-2000 | 00-06-680A | 01
06 | LA | GRANT PARISH | 2200760085C | 24-FEB-2000 | 00-06-571A | 02
06 | LA | GREENWOOD, TOWN OF | 22017C0440F | 07-APR-2000 | 00-06-968V | 19
06 | LA | HAMMOND, CITY OF | 2202080003C | 24-FEB-2000 | 00-06-548A | 02
06 | LA | IBERIA PARISH | 2200780150C | 03-MAY-2000 | 00-06-438A | 02
06 | LA | JEFFERSON PARISH | 22051C0135E | 06-JAN-2000 | 00-06-094A | 02
06 | LA | LAFAYETTE PARISH | 22055C0065G | 28-FEB-2000 | 00-06-428A | 01
06 | LA | LAFAYETTE PARISH | 22055C0065G | 28-FEB-2000 | 00-06-501A | 01
06 | LA | LAFAYETTE PARISH | 22055C0065G | 29-FEB-2000 | 00-06-580A | 02
06 | LA | LAFAYETTE PARISH | 22055C0070G | 16-MAY-2000 | 00-06-690A | 02
06 | LA | LAFAYETTE PARISH | 22055C0010G | 09-MAR-2000 | 00-06-694P | 05
06 | LA | LAFAYETTE PARISH | 22055C0070G | 30-JUN-2000 | 00-06-916A | 01
06 | LA | LAFAYETTE, CITY OF | 22055C0045G | 05-JAN-2000 | 00-06-329A | 02
06 | LA | LAFAYETTE, CITY OF | 22055C0045G | 05-JAN-2000 | 00-06-379A | 02
06 | LA | LAFAYETTE, CITY OF | 22055C0045G | 28-FEB-2000 | 00-06-542A | 02
06 | LA | LAFAYETTE, CITY OF | 22055C0045G | 01-MAR-2000 | 00-06-611A | 02
06 | LA | LAFAYETTE, CITY OF | 22055C0065G | 08-MAR-2000 | 00-06-666A | 02
06 | LA | LAFAYETTE, CITY OF | 22055C0065G | 21-JUN-2000 | 00-06-743A | 02
06 | LA | LAFAYETTE, CITY OF | 22055C0045G | 24-MAR-2000 | 00-06-758A | 02
06 | LA | LAFAYETTE, CITY OF | 22055C0045G | 07-APR-2000 | 00-06-836A | 02
06 | LA | LAFAYETTE, CITY OF | 22055C0045G | 08-MAY-2000 | 00-06-840A | 02
06 | LA | LAFAYETTE, CITY OF | 22055C0045C | 23-MAY-2000 | 00-06-874A | 01
06 | LA | LAKE CHARLES, CITY OF | 2200400010E | 10-FEB-2000 | 00-06-543A | 02
06 | LA | LIVINGSTON PARISH | 2201130025B | 05-JAN-2000 | 00-06-311A | 01
06 | LA | LIVINGSTON PARISH | 2201130050B | 27-JAN-2000 | 00-06-396A | 02
06 | LA | LIVINGSTON PARISH | 2201130125B | 15-MAR-2000 | 00-06-440A | 02
06 | LA | LIVINGSTON PARISH | 2201130100B | 14-JUN-2000 | 00-06-458A | 02
06 | LA | LIVINGSTON PARISH | 2201130100B | 09-FEB-2000 | 00-06-460A | 02
06 | LA | LIVINGSTON PARISH | 2201130100B | 07-APR-2000 | 00-06-463A | 02
06 | LA | LIVINGSTON PARISH | 2201130100B | 08-MAR-2000 | 00-06-483A | 01
06 | LA | LIVINGSTON PARISH | 2201130100B | 14-FEB-2000 | 00-06-485A | 02
06 | LA | LIVINGSTON PARISH | 2201130025B | 18-FEB-2000 | 00-06-527A | 02
06 | LA | LIVINGSTON PARISH | 2201130025B | 17-MAR-2000 | 00-06-555A | 02
06 | LA | LIVINGSTON PARISH | 2201130025B | 07-MAR-2000 | 00-06-659A | 02
06 | LA | LIVINGSTON PARISH | 2201130125B | 18-APR-2000 | 00-06-794A | 02
06 | LA | LIVINGSTON PARISH | 2201130025B | 09-MAY-2000 | 00-06-857A | 01
06 | LA | MINDEN, CITY OF | 2202370005D | 02-FEB-2000 | 00-06-371A | 01
06 | LA | MOORINGSPORT, TOWN OF | 22017C0255F | 07-APR-2000 | 00-06-968V | 19
06 | LA | NATCHITOCHES PARISH | 2201290255C | 05-JAN-2000 | 00-06-333A | 02
06 | LA | OIL CITY, TOWN OF | 22017C0255F | 07-APR-2000 | 00-06-968V | 19
06 | LA | PINEVILLE, CITY OF | 2201510005B | 28-APR-2000 | 00-06-602A | 02
06 | LA | RAPIDES PARISH | 2201450125B | 09-FEB-2000 | 00-06-448A | 02
06 | LA | RAPIDES PARISH | 2201450350D | 31-MAY-2000 | 00-06-572A | 17
06 | LA | RAPIDES PARISH | 2201450125B | 24-FEB-2000 | 00-06-573A | 02
06 | LA | RAPIDES PARISH | 2201450130C | 28-APR-2000 | 00-06-839A | 01
06 | LA | RAPIDES PARISH | 2201450130C | 21-JUN-2000 | 00-06-976A | 02
06 | LA | SABINE PARISH | 22085C0205C | 27-JAN-2000 | 00-06-513A | 01
06 | LA | SCOTT, CITY OF | 22055C0040H | 11-JAN-2000 | 00-06-369A | 02
06 | LA | SCOTT, CITY OF | 22055C0040H | 02-MAY-2000 | 00-06-622A | 02
06 | LA | SHREVEPORT, CITY OF | 2200360028E | 23-FEB-2000 | 00-06-159A | 02
06 | LA | SHREVEPORT, CITY OF | 2200360029E | 27-JAN-2000 | 00-06-161A | 02
06 | LA | SHREVEPORT, CITY OF | 2200360030E | 28-FEB-2000 | 00-06-558A | 02
06 | LA | SHREVEPORT, CITY OF | 2200360033E | 23-FEB-2000 | 00-06-566A | 02
06 | LA | SHREVEPORT, CITY OF | 2200360028E | 02-MAR-2000 | 00-06-623A | 02
06 | LA | SHREVEPORT, CITY OF | 22017C0487F | 30-JUN-2000 | 00-06-822A | 02
06 | LA | SHREVEPORT, CITY OF | 22017C0478F | 19-MAY-2000 | 00-06-909A | 02
06 | LA | SHREVEPORT, CITY OF | 22017C0341F | 07-APR-2000 | 00-06-968V | 19
06 | LA | SHREVEPORT, CITY OF | 22017C0364F | 07-APR-2000 | 00-06-968V | 19
06 | LA | SHREVEPORT, CITY OF | 22017C0451F | 07-APR-2000 | 00-06-968V | 19
06 | LA | SHREVEPORT, CITY OF | 22017C0452F | 07-APR-2000 | 00-06-968V | 19
06 | LA | SHREVEPORT, CITY OF | 22017C0456F | 07-APR-2000 | 00-06-968V | 19
06 | LA | SHREVEPORT, CITY OF | 22017C0458F | 07-APR-2000 | 00-06-968V | 19
06 | LA | SHREVEPORT, CITY OF | 22017C0459F | 07-APR-2000 | 00-06-968V | 19
06 | LA | SHREVEPORT, CITY OF | 22017C0463F | 07-APR-2000 | 00-06-968V | 19
06 | LA | SHREVEPORT, CITY OF | 22017C0464F | 07-APR-2000 | 00-06-968V | 19
06 | LA | SHREVEPORT, CITY OF | 22017C0466F | 07-APR-2000 | 00-06-968V | 19
06 | LA | SHREVEPORT, CITY OF | 22017C0468F | 07-APR-2000 | 00-06-968V | 19
06 | LA | SHREVEPORT, CITY OF | 22017C0469F | 07-APR-2000 | 00-06-968V | 19
06 | LA | SHREVEPORT, CITY OF | 22017C0476F | 07-APR-2000 | 00-06-968V | 19
06 | LA | SHREVEPORT, CITY OF | 22017C0477F | 07-APR-2000 | 00-06-968V | 19
06 | LA | SHREVEPORT, CITY OF | 22017C0478F | 07-APR-2000 | 00-06-968V | 19
06 | LA | SHREVEPORT, CITY OF | 22017C0479F | 07-APR-2000 | 00-06-968V | 19
06 | LA | SHREVEPORT, CITY OF | 22017C0486F | 07-APR-2000 | 00-06-968V | 19
06 | LA | SHREVEPORT, CITY OF | 22017C0487F | 07-APR-2000 | 00-06-968V | 19
06 | LA | SHREVEPORT, CITY OF | 22017C0488F | 07-APR-2000 | 00-06-968V | 19
06 | LA | SHREVEPORT, CITY OF | 22017C0489F | 07-APR-2000 | 00-06-968V | 19
06 | LA | ST. CHARLES PARISH | 2201600150C | 12-JAN-2000 | 00-06-378A | 02
06 | LA | ST. CHARLES PARISH | 2201600125C | 07-MAR-2000 | 00-06-654A | 02
06 | LA | ST. LANDRY PARISH | 2201650400C | 09-MAR-2000 | 00-06-694P | 05
06 | LA | ST. TAMMANY PARISH | 2252050175C | 28-FEB-2000 | 00-06-295A | 02
06 | LA | ST. TAMMANY PARISH | 2252050300C | 14-FEB-2000 | 00-06-346A | 02
06 | LA | ST. TAMMANY PARISH | 2252050150C | 28-MAR-2000 | 00-06-705A | 02
06 | LA | ST. TAMMANY PARISH | 2252050245C | 07-FEB-2000 | 99-06-2073A | 02
06 | LA | TANGIPAHOA PARISH | 2202060175D | 18-FEB-2000 | 00-06-429A | 02
06 | LA | UNION PARISH | 2203590250C | 23-JUN-2000 | 00-06-1259A | 02
06 | NM | ALBUQUERQUE, CITY OF | 35001C0328D | 24-JAN-2000 | 00-06-089P | 06
06 | NM | ALBUQUERQUE, CITY OF | 35001C0141D | 16-JUN-2000 | 00-06-1048A | 02
06 | NM | ALBUQUERQUE, CITY OF | 35001C0332D | 13-JAN-2000 | 00-06-210A | 01
06 | NM | ALBUQUERQUE, CITY OF | 35001C0327D | 13-JAN-2000 | 00-06-219A | 01
06 | NM | ALBUQUERQUE, CITY OF | 35001C0332D | 21-MAR-2000 | 00-06-296P | 05
06 | NM | ALBUQUERQUE, CITY OF | 35001C0337D | 18-JAN-2000 | 00-06-380A | 02
06 | NM | ALBUQUERQUE, CITY OF | 35001C0138D | 29-FEB-2000 | 00-06-609P | 05
06 | NM | ALBUQUERQUE, CITY OF | 35001C0354D | 12-APR-2000 | 00-06-747A | 01
06 | NM | BERNALILLO COUNTY | 35001C0343D | 06-JUN-2000 | 00-06-324A | 02
06 | NM | BERNALILLO COUNTY | 35001C0142D | 08-FEB-2000 | 00-06-516A | 02
06 | NM | BERNALILLO COUNTY | 35001C0339D | 29-FEB-2000 | 00-06-598A | 02
06 | NM | BERNALILLO COUNTY | 35001C0161D | 31-MAR-2000 | 00-06-614P | 05
06 | NM | BERNALILLO COUNTY | 35001C0338D | 03-MAY-2000 | 00-06-827A | 02
06 | NM | BERNALILLO COUNTY | 35001C0142D | 19-JAN-2000 | 99-06-513P | 05
06 | NM | BERNALILLO COUNTY | 35001C0161D | 19-JAN-2000 | 99-06-513P | 05
06 | NM | BOSQUE FARMS, CITY OF | 3501420002B | 10-FEB-2000 | 00-06-650V | 19
06 | NM | CLOVIS, CITY OF | 3500100037C | 28-JUN-2000 | 00-06-923A | 02
06 | NM | CLOVIS, CITY OF | 3500100036C | 21-JUN-2000 | 00-06-948A | 02
06 | NM | GRANT COUNTY | 3501210022B | 24-APR-2000 | 00-06-815A | 02
06 | NM | LAS CRUCES, CITY OF | 35013C0631E | 28-JUN-2000 | 00-06-1028A | 01
06 | NM | LAS CRUCES, CITY OF | 35013C0518F | 21-MAR-2000 | 99-06-2033A | 01
06 | NM | SAN JUAN COUNTY | 3500640150B | 13-JAN-2000 | 00-06-314A | 02
06 | NM | SANTA FE COUNTY | 3500690175B | 10-MAR-2000 | 00-06-556A | 02
06 | NM | SANTA FE, CITY OF | 3500700008B | 22-FEB-2000 | 00-06-534A | 02
06 | NM | VALENCIA COUNTY | 3500860185D | 10-FEB-2000 | 00-06-650V | 19
06 | OK | ARDMORE,CITY OF | 4000310005B | 28-JAN-2000 | 00-06-459A | 02
06 | OK | BARTLESVILLE, CITY OF | 4002200012C | 21-JUN-2000 | 00-06-880A | 02
06 | OK | BROKEN ARROW, CITY OF | 40143C0544H | 09-FEB-2000 | 00-06-444A | 02
06 | OK | BROKEN ARROW, CITY OF | 40143C0540H | 03-MAR-2000 | 00-06-474A | 02
06 | OK | BROKEN ARROW, CITY OF | 40143C0540H | 16-FEB-2000 | 00-06-509A | 02
06 | OK | BROKEN ARROW, CITY OF | 40143C0541H | 30-JUN-2000 | 00-06-946A | 02
06 | OK | CANADIAN COUNTY | 40017C0325D | 20-JAN-2000 | 99-06-2091V | 19
06 | OK | CANADIAN COUNTY | 40017C0400D | 20-JAN-2000 | 99-06-2091V | 19
06 | OK | CLAREMORE, CITY OF | 4053750005F | 09-MAY-2000 | 00-06-782A | 02
06 | OK | CLAREMORE, CITY OF | 4053750005F | 15-MAY-2000 | 00-06-901A | 02
06 | OK | CLAREMORE, CITY OF | 4053750005F | 07-JUN-2000 | 00-06-963A | 02
06 | OK | COMANCHE COUNTY | 40031C0231C | 18-JAN-2000 | 00-06-221A | 02
06 | OK | COMANCHE COUNTY | 40031C0225C | 16-FEB-2000 | 00-06-482A | 02
06 | OK | COWETA, CITY OF | 4002160001A | 05-JAN-2000 | 00-06-200A | 01
06 | OK | COWETA, CITY OF | 4002160001A | 10-MAR-2000 | 99-06-1770P | 05
06 | OK | COWETA, CITY OF | 4002160001A | 27-JAN-2000 | 99-06-2024A | 02
06 | OK | CUSHING, CITY OF | 4001650002B | 08-FEB-2000 | 00-06-323A | 02
06 | OK | DEL CITY, CITY OF | 4002330002D | 18-APR-2000 | 00-06-640A | 02
06 | OK | DEL CITY, CITY OF | 4002330003D | 29-MAR-2000 | 00-06-774A | 02
06 | OK | DELAWARE COUNTY | 4005020075C | 03-MAR-2000 | 00-06-427A | 02
06 | OK | DELAWARE COUNTY | 4005020025C | 19-MAY-2000 | 00-06-869A | 02
06 | OK | DELAWARE COUNTY | 4005020025C | 28-JUN-2000 | 00-06-883A | 02
06 | OK | DELAWARE COUNTY | 4005020025C | 19-MAY-2000 | 00-06-890A | 02
06 | OK | DEWEY, CITY OF | 4002210005C | 11-MAY-2000 | 00-06-596A | 02
06 | OK | DUNCAN, CITY OF | 40137C0085D | 27-MAR-2000 | 00-06-772A | 17
06 | OK | EL RENO, CITY OF | 40017C0290D | 20-JAN-2000 | 99-06-2091V | 19
06 | OK | EL RENO, CITY OF | 40017C0430D | 20-JAN-2000 | 99-06-2091V | 19
06 | OK | ENID, CITY OF | 40047C0115C | 07-JAN-2000 | 00-06-353A | 17
06 | OK | ENID, CITY OF | 40047C0115C | 18-JAN-2000 | 00-06-383A | 02
06 | OK | ENID, CITY OF | 40047C0115C | 08-FEB-2000 | 00-06-424A | 02
06 | OK | ENID, CITY OF | 40047C0095D | 22-MAR-2000 | 00-06-486A | 02
06 | OK | ENID, CITY OF | 40047C0115C | 12-APR-2000 | 00-06-829A | 02
06 | OK | HENRYETTA, CITY OF | 4001440003C | 18-FEB-2000 | 00-06-342A | 02
06 | OK | INOLA, TOWN OF | 4004560005B | 14-JUN-2000 | 00-06-720A | 02
06 | OK | JENKS, CITY OF | 40143C0494H | 28-JUN-2000 | 00-06-1326A | 17
06 | OK | JENKS, CITY OF | 40143C0513H | 12-APR-2000 | 00-06-803A | 02
06 | OK | LAWTON, CITY OF | 40031C0252C | 28-FEB-2000 | 00-06-577A | 01
06 | OK | LAWTON, CITY OF | 40031C0254C | 28-FEB-2000 | 00-06-577A | 01
06 | OK | LAWTON, CITY OF | 40031C0252C | 12-APR-2000 | 00-06-838A | 02
06 | OK | LAWTON, CITY OF | 40031C0252C | 16-MAY-2000 | 00-06-919A | 02
06 | OK | MARSHALL COUNTY | 4005110020B | 30-JUN-2000 | 00-06-1051A | 02
06 | OK | MARSHALL COUNTY | 4005110025B | 30-JUN-2000 | 00-06-1051A | 02
06 | OK | MCLOUD, TOWN OF | 40125C0015D | 14-MAR-2000 | 00-06-724A | 02
06 | OK | MIDWEST CITY, CITY OF | 4004050010E | 18-APR-2000 | 00-06-641A | 02
06 | OK | MOORE, CITY OF | 40027C0037F | 28-JUN-2000 | 00-06-1098A | 02
06 | OK | MOORE, CITY OF | 40027C0037F | 16-FEB-2000 | 00-06-443A | 02
06 | OK | MOORE, CITY OF | 40027C0029F | 16-FEB-2000 | 00-06-445A | 02
06 | OK | MOORE, CITY OF | 40027C0041F | 26-JUN-2000 | 00-06-528A | 02
06 | OK | MUSKOGEE, CITY OF | 40101C0136D | 12-APR-2000 | 00-06-567A | 02
06 | OK | MUSTANG, CITY OF | 40017C0470D | 30-JUN-2000 | 00-06-1278A | 02
06 | OK | MUSTANG, CITY OF | 4004090005A | 02-MAR-2000 | 00-06-626A | 02
06 | OK | MUSTANG, CITY OF | 40017C0470D | 20-JAN-2000 | 99-06-2091V | 19
06 | OK | MUSTANG, CITY OF | 40017C0490D | 20-JAN-2000 | 99-06-2091V | 19
06 | OK | MUSTANG, CITY OF | 40017C0495D | 20-JAN-2000 | 99-06-2091V | 19
06 | OK | NEWCASTLE, TOWN OF | 4001030006E | 24-MAR-2000 | 99-06-2087V | 19
06 | OK | NEWCASTLE, TOWN OF | 4001030007F | 24-MAR-2000 | 99-06-2087V | 19
06 | OK | NORMAN,CITY OF | 40027C0090F | 03-MAR-2000 | 00-06-631A | 02
06 | OK | NORMAN,CITY OF | 40027C0115F | 04-APR-2000 | 00-06-704A | 02
06 | OK | OKLAHOMA CITY, CITY OF | 4053780160D | 28-JUN-2000 | 00-06-1159A | 02
06 | OK | OKLAHOMA CITY, CITY OF | 4053780190F | 24-JAN-2000 | 00-06-298P | 06
06 | OK | OKLAHOMA CITY, CITY OF | 4053780190F | 13-JAN-2000 | 00-06-377A | 02
06 | OK | OKLAHOMA CITY, CITY OF | 4053780195C | 28-JAN-2000 | 00-06-401A | 02
06 | OK | OKLAHOMA CITY, CITY OF | 4053780160D | 08-FEB-2000 | 00-06-425A | 02
06 | OK | OKLAHOMA CITY, CITY OF | 4053780265D | 16-FEB-2000 | 00-06-442A | 02
06 | OK | OKLAHOMA CITY, CITY OF | 4053780095C | 12-MAY-2000 | 00-06-453P | 05
06 | OK | OKLAHOMA CITY, CITY OF | 4053780195C | 10-FEB-2000 | 00-06-473A | 02
06 | OK | OKLAHOMA CITY, CITY OF | 4053780235C | 22-FEB-2000 | 00-06-517A | 02
06 | OK | OKLAHOMA CITY, CITY OF | 4053780175F | 08-FEB-2000 | 00-06-520A | 02
06 | OK | OKLAHOMA CITY, CITY OF | 4053780195C | 08-FEB-2000 | 00-06-600A | 02
06 | OK | OKLAHOMA CITY, CITY OF | 4053780160D | 16-MAY-2000 | 00-06-637A | 02
06 | OK | OKLAHOMA CITY, CITY OF | 4053780200D | 18-APR-2000 | 00-06-639A | 02
06 | OK | OKLAHOMA CITY, CITY OF | 4053780160D | 03-MAR-2000 | 00-06-647A | 02
06 | OK | OKLAHOMA CITY, CITY OF | 4053780205D | 08-MAR-2000 | 00-06-668A | 02
06 | OK | OKLAHOMA CITY, CITY OF | 4053780170F | 30-JUN-2000 | 00-06-728A | 02
06 | OK | OKLAHOMA CITY, CITY OF | 4053780265D | 29-MAR-2000 | 00-06-775A | 02
06 | OK | OKLAHOMA CITY, CITY OF | 4053780195C | 29-MAR-2000 | 00-06-777A | 02
06 | OK | OKLAHOMA CITY, CITY OF | 4053780195C | 18-APR-2000 | 00-06-779A | 02
06 | OK | OKLAHOMA CITY, CITY OF | 4053780110C | 03-MAY-2000 | 00-06-792A | 02
06 | OK | OKLAHOMA CITY, CITY OF | 4053780160D | 07-JUN-2000 | 00-06-929A | 02
06 | OK | OKLAHOMA CITY, CITY OF | 4053780080C | 07-JUN-2000 | 00-06-931A | 02
06 | OK | OKLAHOMA CITY, CITY OF | 4053780150C | 30-JUN-2000 | 00-06-954A | 02
06 | OK | OKMULGEE COUNTY | 4004920120B | 28-FEB-2000 | 00-06-360A | 02
06 | OK | OTTAWA COUNTY | 4001540150B | 03-MAR-2000 | 00-06-349A | 02
06 | OK | OTTAWA COUNTY | 4001540150B | 25-APR-2000 | 00-06-766A | 02
06 | OK | OWASSO, CITY OF | 40143C0238H | 25-APR-2000 | 00-06-886A | 02
06 | OK | PIEDMONT, CITY OF | 40017C0170D | 20-JAN-2000 | 99-06-2091V | 19
06 | OK | PIEDMONT, CITY OF | 40017C0185D | 20-JAN-2000 | 99-06-2091V | 19
06 | OK | PIEDMONT, CITY OF | 40017C0190D | 20-JAN-2000 | 99-06-2091V | 19
06 | OK | PRYOR CREEK,CITY OF | 4001170002C | 23-MAY-2000 | 00-06-902A | 02
06 | OK | ROGERS COUNTY | 4053790100B | 02-MAR-2000 | 00-06-253A | 02
06 | OK | ROGERS COUNTY | 4053790025B | 06-JAN-2000 | 00-06-345A | 02
06 | OK | ROGERS COUNTY | 4053790110C | 20-APR-2000 | 00-06-387A | 02
06 | OK | ROGERS COUNTY | 4053790120B | 14-FEB-2000 | 00-06-484A | 02
06 | OK | ROGERS COUNTY | 4053790130C | 25-MAY-2000 | 00-06-982A | 02
06 | OK | SEMINOLE, CITY OF | 40133C0068C | 27-JAN-2000 | 00-06-328A | 02
06 | OK | SHAWNEE, CITY OF | 40125C0102D | 21-JUN-2000 | 00-06-957A | 01
06 | OK | STILLWATER, CITY OF | 4053800005D | 21-MAR-2000 | 00-06-226A | 02
06 | OK | STILLWATER, CITY OF | 4053800003D | 01-MAR-2000 | 00-06-613A | 02
06 | OK | STILLWATER, CITY OF | 4053800005D | 03-MAY-2000 | 00-06-653A | 02
06 | OK | THE VILLAGE, CITY OF | 4004200005A | 03-MAR-2000 | 00-06-363A | 02
06 | OK | TULSA COUNTY | 40143C0605H | 16-FEB-2000 | 00-06-507A | 02
06 | OK | TULSA COUNTY | 40143C0510H | 09-MAY-2000 | 00-06-833A | 02
06 | OK | TULSA COUNTY | 40143C0494H | 10-APR-2000 | 00-06-835A | 02
06 | OK | TULSA, CITY OF | 40143C0530H | 14-JUN-2000 | 00-06-1035A | 02
06 | OK | TULSA, CITY OF | 40143C0540H | 21-JUN-2000 | 00-06-1106A | 02
06 | OK | TULSA, CITY OF | 40143C0530H | 23-JUN-2000 | 00-06-1135A | 02
06 | OK | TULSA, CITY OF | 40143C0510H | 05-JAN-2000 | 00-06-362A | 02
06 | OK | TULSA, CITY OF | 40143C0530H | 10-FEB-2000 | 00-06-488A | 02
06 | OK | TULSA, CITY OF | 40143C0520H | 07-APR-2000 | 00-06-599A | 02
06 | OK | TULSA, CITY OF | 40143C0510H | 03-MAR-2000 | 00-06-645A | 02
06 | OK | TULSA, CITY OF | 40143C0512H | 13-MAR-2000 | 00-06-677A | 02
06 | OK | TULSA, CITY OF | 40143C0520H | 04-APR-2000 | 00-06-709A | 02
06 | OK | TULSA, CITY OF | 40143C0505H | 21-MAR-2000 | 00-06-738A | 02
06 | OK | TULSA, CITY OF | 40143C0530H | 21-JUN-2000 | 00-06-756A | 02
06 | OK | TULSA, CITY OF | 40143C0512H | 21-JUN-2000 | 00-06-763A | 02
06 | OK | TULSA, CITY OF | 40143C0540H | 29-MAR-2000 | 00-06-781A | 02
06 | OK | TULSA, CITY OF | 40143C0530H | 12-APR-2000 | 00-06-847A | 02
06 | OK | TULSA, CITY OF | 40143C0510H | 12-APR-2000 | 00-06-865A | 02
06 | OK | TULSA, CITY OF | 40143C0530H | 08-JUN-2000 | 00-06-985A | 02
06 | OK | TULSA, CITY OF | 40143C0530H | 21-JUN-2000 | 00-06-992A | 02
06 | OK | TULSA, CITY OF | 40143C0505H | 31-MAY-2000 | 99-06-1338P | 05
06 | OK | TULSA, CITY OF | 40143C0510H | 31-MAY-2000 | 99-06-1338P | 05
06 | OK | UNION CITY, TOWN OF | 40017C0440D | 20-JAN-2000 | 99-06-2091V | 19
06 | OK | UNION CITY, TOWN OF | 40017C0550D | 20-JAN-2000 | 99-06-2091V | 19
06 | OK | WAGONER COUNTY | 4002150014B | 05-JUN-2000 | 00-06-412P | 06
06 | OK | WAGONER COUNTY | 4002150037B | 18-APR-2000 | 00-06-809A | 02
06 | OK | WARR ACRES, CITY OF | 4004490001A | 18-APR-2000 | 00-06-638A | 02
06 | OK | WASHINGTON COUNTY | 4004590040A | 13-JAN-2000 | 00-06-375A | 02
06 | OK | YUKON, CITY OF | 40017C0320D | 20-JAN-2000 | 99-06-2091V | 19
06 | OK | YUKON, CITY OF | 40017C0340D | 20-JAN-2000 | 99-06-2091V | 19
06 | OK | YUKON, CITY OF | 40017C0480D | 20-JAN-2000 | 99-06-2091V | 19
06 | TX | ABILENE, CITY OF | 4854500035D | 05-JAN-2000 | 00-06-372A | 02
06 | TX | ALTON, CITY OF | 4803340300C | 02-JUN-2000 | 00-06-575A | 02
06 | TX | ALTON, CITY OF | 4815710005A | 02-JUN-2000 | 00-06-575A | 02
06 | TX | AMARILLO, CITY OF | 4805290025A | 14-JUN-2000 | 00-06-1199A | 02
06 | TX | ARLINGTON, CITY OF | 48439C0319H | 12-MAY-2000 | 00-06-1025A | 02
06 | TX | ARLINGTON, CITY OF | 48439C0444H | 19-MAY-2000 | 00-06-884A | 01
06 | TX | ARLINGTON, CITY OF | 48439C0441H | 30-MAY-2000 | 00-06-935A | 02
06 | TX | ARLINGTON, CITY OF | 48439C0456H | 08-MAY-2000 | 00-06-980A | 02
06 | TX | ARLINGTON, CITY OF | 48439C0454H | 26-JAN-2000 | 99-06-1062P | 05
06 | TX | ARLINGTON, CITY OF | 48439C0444H | 31-MAR-2000 | 99-06-2048P | 05
06 | TX | AUSTIN, CITY OF | 48453C0210F | 06-JUN-2000 | 00-06-1158A | 02
06 | TX | AUSTIN, CITY OF | 48453C0160E | 21-JUN-2000 | 00-06-1295A | 02
06 | TX | AUSTIN, CITY OF | 48453C0245E | 01-MAR-2000 | 00-06-400A | 02
06 | TX | AUSTIN, CITY OF | 48453C0160E | 30-MAR-2000 | 00-06-784A | 02
06 | TX | AUSTIN, CITY OF | 48453C0160E | 03-APR-2000 | 00-06-808A | 02
06 | TX | AUSTIN, CITY OF | 48453C0170G | 28-JAN-2000 | 97-06-938V | 19
06 | TX | AUSTIN, CITY OF | 48453C0175F | 28-JAN-2000 | 97-06-938V | 19
06 | TX | AUSTIN, CITY OF | 48453C0215G | 28-JAN-2000 | 97-06-938V | 19
06 | TX | AUSTIN, CITY OF | 48453C0260F | 28-JAN-2000 | 97-06-938V | 19
06 | TX | AUSTIN, CITY OF | 48491C0325D | 01-MAR-2000 | 99-06-1272P | 05
06 | TX | BANDERA COUNTY | 4800200265A | 24-FEB-2000 | 00-06-576A | 02
06 | TX | BEDFORD, CITY OF | 48439C0330H | 24-JAN-2000 | 99-06-1986P | 05
06 | TX | BELL COUNTY | 4807060280B | 28-MAR-2000 | 00-06-023A | 01
06 | TX | BELL COUNTY | 4807060280B | 14-JUN-2000 | 00-06-1201A | 02
06 | TX | BELL COUNTY | 4807060145B | 18-APR-2000 | 00-06-190A | 02
06 | TX | BELL COUNTY | 4807060145B | 18-APR-2000 | 00-06-476A | 02
06 | TX | BELLAIRE, CITY OF | 48201C0855K | 21-APR-2000 | 00-06-1072V | 19
06 | TX | BELLVILLE, CITY OF | 48015C0150C | 10-MAY-2000 | 00-06-1011A | 02
06 | TX | BEXAR COUNTY | 48029C0257E | 24-MAY-2000 | 00-06-1129A | 02
06 | TX | BEXAR COUNTY | 48029C0240E | 28-JUN-2000 | 00-06-1287A | 02
06 | TX | BEXAR COUNTY | 48029C0395E | 11-FEB-2000 | 00-06-413P | 05
06 | TX | BEXAR COUNTY | 48029C0415E | 11-FEB-2000 | 00-06-413P | 05
06 | TX | BEXAR COUNTY | 48029C0416E | 30-JUN-2000 | 00-06-511A | 02
06 | TX | BEXAR COUNTY | 48029C0130E | 30-MAR-2000 | 00-06-533A | 01
06 | TX | BEXAR COUNTY | 48029C0477E | 07-JAN-2000 | 99-06-1409P | 05
06 | TX | BEXAR COUNTY | 48029C0479E | 07-JAN-2000 | 99-06-1409P | 05
06 | TX | BEXAR COUNTY | 48029C0140E | 18-FEB-2000 | 99-06-1783P | 06
06 | TX | BEXAR COUNTY | 48029C0470E | 08-FEB-2000 | 99-06-1911P | 06
06 | TX | BRAZORIA COUNTY | 48039C0030I | 08-MAY-2000 | 00-06-1004A | 02
06 | TX | BRAZORIA COUNTY | 48039C0030I | 21-JUN-2000 | 00-06-1102A | 02
06 | TX | BRAZORIA COUNTY | 48039C0030I | 21-JUN-2000 | 00-06-1153A | 02
06 | TX | BRAZORIA COUNTY | 48039C0030I | 28-APR-2000 | 00-06-961A | 02
06 | TX | BRAZORIA COUNTY | 48039C0030I | 08-MAY-2000 | 00-06-981A | 02
06 | TX | BRAZOS COUNTY | 48041C0125C | 30-MAY-2000 | 00-06-472A | 02
06 | TX | BRAZOS COUNTY | 48041C0163D | 10-FEB-2000 | 00-06-651V | 19
06 | TX | BROWNSVILLE, CITY OF | 4801010350B | 28-MAR-2000 | 00-06-706A | 01
06 | TX | BROWNSVILLE, CITY OF | 4801030010B | 24-MAR-2000 | 00-06-752A | 02
06 | TX | CANYON, CITY OF | 4805330001D | 07-APR-2000 | 00-06-634A | 02
06 | TX | CARROLLTON, CITY OF | 4801670005G | 29-FEB-2000 | 00-06-592A | 02
06 | TX | CARROLLTON, CITY OF | 4801670010E | 19-MAY-2000 | 00-06-973A | 01
06 | TX | CARROLLTON, CITY OF | 4801670015F | 07-JAN-2000 | 99-06-954P | 05
06 | TX | CEDAR HILL, CITY OF | 4801680015B | 12-JAN-2000 | 00-06-385A | 02
06 | TX | CIBOLO, CITY OF | 4802670001C | 22-MAY-2000 | 00-06-1079A | 02
06 | TX | CLEBURNE, CITY OF | 48251C0113G | 08-MAY-2000 | 00-06-846A | 02
06 | TX | COLLEGE STATION, CITY OF | 48041C0143C | 21-MAR-2000 | 99-06-1624P | 06
06 | TX | COLLEGE STATION, CITY OF | 48041C0181C | 21-MAR-2000 | 99-06-1624P | 06
06 | TX | COLLEYVILLE, CITY OF | 48439C0195H | 10-MAR-2000 | 00-06-433P | 06
06 | TX | COLLEYVILLE, CITY OF | 48439C0195H | 02-JUN-2000 | 00-06-469A | 02
06 | TX | COLLIN COUNTY | 48085C0325G | 03-APR-2000 | 00-06-493P | 06
06 | TX | COLLIN COUNTY | 48085C0175G | 02-JUN-2000 | 00-06-816A | 02
06 | TX | COMAL COUNTY | 4854630080C | 11-MAY-2000 | 00-06-942A | 02
06 | TX | COPPELL, CITY OF | 4801700010E | 15-MAY-2000 | 00-06-889A | 17
06 | TX | COPPELL, CITY OF | 4801700010E | 08-MAY-2000 | 00-06-896A | 02
06 | TX | COPPER CANYON, TOWN OF | 48121C0527E | 28-MAR-2000 | 99-06-1381P | 05
06 | TX | COPPERAS COVE, CITY OF | 4808990235B | 21-JUN-2000 | 00-06-875A | 01
06 | TX | CORINTH, TOWN OF | 48121C0393E | 20-APR-2000 | 00-06-928A | 02
06 | TX | CORPUS CHRISTI, CITY OF | 4854940520D | 22-MAR-2000 | 00-06-537A | 02
06 | TX | CORSICANA, CITY OF | 4804980005A | 16-JUN-2000 | 00-06-1215A | 02
06 | TX | DALLAS, CITY OF | 4801710185D | 08-MAY-2000 | 00-06-1002A | 02
06 | TX | DALLAS, CITY OF | 4801710185D | 16-JUN-2000 | 00-06-1055A | 02
06 | TX | DALLAS, CITY OF | 4801710100D | 19-MAY-2000 | 00-06-1069A | 02
06 | TX | DALLAS, CITY OF | 4801710050D | 26-JUN-2000 | 00-06-1253A | 01
06 | TX | DALLAS, CITY OF | 4801710085D | 17-MAR-2000 | 00-06-376A | 01
06 | TX | DALLAS, CITY OF | 4801710210C | 22-MAR-2000 | 00-06-581P | 05
06 | TX | DALLAS, CITY OF | 4801710205D | 28-APR-2000 | 00-06-644A | 02
06 | TX | DALLAS, CITY OF | 4801710100D | 25-APR-2000 | 00-06-754A | 02
06 | TX | DALLAS, CITY OF | 4801710065C | 17-JAN-2000 | 99-06-1073P | 05
06 | TX | DALLAS, CITY OF | 4801710100D | 17-JAN-2000 | 99-06-1073P | 05
06 | TX | DALLAS, CITY OF | 4801710050D | 15-MAY-2000 | 99-06-1148P | 05
06 | TX | DALLAS, CITY OF | 4801710055C | 15-MAY-2000 | 99-06-1148P | 05
06 | TX | DALLAS, CITY OF | 4801710085D | 15-MAY-2000 | 99-06-1148P | 05
06 | TX | DALLAS, CITY OF | 4801710090D | 15-MAY-2000 | 99-06-1148P | 05
06 | TX | DALLAS, CITY OF | 4801710175D | 31-MAR-2000 | 99-06-1636P | 06
06 | TX | DEER PARK, CITY OF | 48201C0940J | 10-MAR-2000 | 00-06-674A | 02
06 | TX | DENTON COUNTY | 48121C0510E | 02-FEB-2000 | 00-06-356P | 05
06 | TX | DENTON COUNTY | 48121C0526E | 02-FEB-2000 | 00-06-356P | 05
06 | TX | DENTON COUNTY | 48121C0567E | 31-MAR-2000 | 00-06-359P | 05
06 | TX | DENTON COUNTY | 48121C0570E | 31-MAR-2000 | 00-06-359P | 05
06 | TX | DENTON COUNTY | 48121C0388E | 01-JUN-2000 | 00-06-990P | 05
06 | TX | DENTON, CITY OF | 48121C0380E | 31-MAY-2000 | 00-06-1126A | 01
06 | TX | DENTON, CITY OF | 48121C0380E | 21-JUN-2000 | 00-06-1239A | 02
06 | TX | DENTON, CITY OF | 48121C0370E | 24-MAY-2000 | 00-06-988A | 01
06 | TX | DENTON, CITY OF | 48121C0388E | 24-MAY-2000 | 00-06-988A | 01
06 | TX | DENTON, CITY OF | 48121C0388E | 01-JUN-2000 | 00-06-990P | 05
06 | TX | EDGECLIFF VILLAGE, TOWN OF | 48439C0415H | 15-MAR-2000 | 00-06-740A | 02
06 | TX | EDINBURG,CITY OF | 4803380015E | 07-JUN-2000 | 99-06-2098V | 19
06 | TX | EDINBURG,CITY OF | 4803380030E | 07-JUN-2000 | 99-06-2098V | 19
06 | TX | EL PASO, CITY OF | 4802140048B | 28-JUN-2000 | 00-06-1271A | 01
06 | TX | EL PASO, CITY OF | 4802140048B | 08-MAY-2000 | 00-06-279A | 01
06 | TX | EL PASO, CITY OF | 4802140036B | 12-JAN-2000 | 00-06-475A | 01
06 | TX | ELLIS COUNTY | 48139C0085D | 08-MAY-2000 | 00-06-322A | 02
06 | TX | ELLIS COUNTY | 48139C0190D | 12-MAY-2000 | 00-06-893A | 02
06 | TX | ELLIS COUNTY | 48139C0095D | 02-JUN-2000 | 00-06-921A | 02
06 | TX | EULESS, CITY OF | 48439C0330H | 24-JAN-2000 | 99-06-1986P | 05
06 | TX | FLOWER MOUND, TOWN OF | 48121C0540E | 31-MAY-2000 | 00-06-1124A | 02
06 | TX | FLOWER MOUND, TOWN OF | 48121C0540E | 10-MAR-2000 | 00-06-687A | 02
06 | TX | FLOWER MOUND, TOWN OF | 48121C0540E | 10-JAN-2000 | 99-06-2078P | 06
06 | TX | FORT BEND COUNTY | 48157C0085J | 24-MAY-2000 | 00-06-1054A | 01
06 | TX | FORT BEND COUNTY | 48157C0085J | 05-JAN-2000 | 00-06-341A | 02
06 | TX | FORT BEND COUNTY | 48157C0085J | 31-MAR-2000 | 99-06-1727P | 05
06 | TX | FORT BEND COUNTY | 48157C0015J | 31-JAN-2000 | 99-06-1813P | 06
06 | TX | FORT BEND COUNTY L.I.D. #2 | 48157C0255J | 30-MAY-2000 | 00-06-1170A | 01
06 | TX | FORT BEND COUNTY L.I.D. #2 | 48157C0255J | 28-JUN-2000 | 00-06-1266A | 01
06 | TX | FORT BEND COUNTY L.I.D. #2 | 48157C0255J | 05-APR-2000 | 00-06-788A | 01
06 | TX | FORT BEND COUNTY L.I.D. #2 | 48157C0255J | 12-MAY-2000 | 00-06-936A | 01
06 | TX | FORT BEND COUNTY M.U.D. #34 | 48157C0085J | 31-MAR-2000 | 99-06-1727P | 05
06 | TX | FORT BEND COUNTY M.U.D. #35 | 48157C0085J | 31-MAR-2000 | 99-06-1727P | 05
06 | TX | FORT WORTH, CITY OF | 48439C0280H | 24-JAN-2000 | 00-06-101P | 05
06 | TX | FORT WORTH, CITY OF | 48439C0415H | 10-JAN-2000 | 00-06-244A | 02
06 | TX | FORT WORTH, CITY OF | 48439C0330H | 18-FEB-2000 | 00-06-280A | 02
06 | TX | FORT WORTH, CITY OF | 48439C0395H | 04-APR-2000 | 00-06-365A | 02
06 | TX | FORT WORTH, CITY OF | 48439C0170H | 22-FEB-2000 | 00-06-406P | 06
06 | TX | FORT WORTH, CITY OF | 48439C0395H | 08-FEB-2000 | 00-06-426A | 02
06 | TX | FORT WORTH, CITY OF | 48439C0395H | 24-MAR-2000 | 00-06-551A | 02
06 | TX | FORT WORTH, CITY OF | 48439C0380H | 19-APR-2000 | 00-06-895A | 02
06 | TX | FORT WORTH, CITY OF | 48439C0260H | 24-MAR-2000 | 99-06-1719P | 05
06 | TX | FORT WORTH, CITY OF | 48439C0280H | 24-MAR-2000 | 99-06-1719P | 05
06 | TX | FRIENDSWOOD, CITY OF | 4854680005E | 22-MAY-2000 | 00-06-1026A | 01
06 | TX | FRIENDSWOOD, CITY OF | 4854680005E | 08-FEB-2000 | 00-06-392A | 01
06 | TX | FRIENDSWOOD, CITY OF | 4854680005E | 10-APR-2000 | 00-06-583A | 02
06 | TX | FRIENDSWOOD, CITY OF | 4854680005E | 27-MAR-2000 | 99-06-1752V | 19
06 | TX | FRISCO, CITY OF | 48085C0410G | 24-MAY-2000 | 00-06-393P | 05
06 | TX | FRISCO, CITY OF | 48085C0405G | 09-MAR-2000 | 99-06-1954P | 05
06 | TX | GARLAND, CITY OF | 4854710005E | 10-MAY-2000 | 00-06-1008A | 02
06 | TX | GARLAND, CITY OF | 4854710020D | 10-MAY-2000 | 00-06-1009A | 02
06 | TX | GARLAND, CITY OF | 4854710020D | 02-JUN-2000 | 00-06-1137A | 02
06 | TX | GARLAND, CITY OF | 4854710020D | 16-JUN-2000 | 00-06-1225A | 02
06 | TX | GARLAND, CITY OF | 4854710030E | 21-JUN-2000 | 00-06-1229A | 02
06 | TX | GARLAND, CITY OF | 4854710020D | 21-JUN-2000 | 00-06-1236A | 02
06 | TX | GARLAND, CITY OF | 4854710030E | 10-JAN-2000 | 00-06-273A | 01
06 | TX | GARLAND, CITY OF | 4854710020D | 21-APR-2000 | 00-06-343P | 05
06 | TX | GARLAND, CITY OF | 4854710015D | 16-FEB-2000 | 00-06-481A | 02
06 | TX | GARLAND, CITY OF | 4854710030E | 14-FEB-2000 | 00-06-646A | 01
06 | TX | GARLAND, CITY OF | 4854710015D | 20-APR-2000 | 00-06-814A | 02
06 | TX | GARLAND, CITY OF | 4854710030E | 12-APR-2000 | 00-06-849A | 02
06 | TX | GARLAND, CITY OF | 4854710005E | 23-FEB-2000 | 99-06-1057P | 05
06 | TX | GILLESPIE COUNTY | 4806960007B | 26-JUN-2000 | 00-06-1237A | 02
06 | TX | GLEN ROSE, CITY OF | 48425C0040C | 28-FEB-2000 | 00-06-418A | 01
06 | TX | GONZALES, CITY OF | 4802540001B | 05-APR-2000 | 00-06-539A | 02
06 | TX | GRANBURY, CITY OF | 4803570005B | 26-JUN-2000 | 00-06-1196A | 02
06 | TX | GRAPEVINE, CITY OF | 48439C0215H | 18-JAN-2000 | 00-06-272P | 06
06 | TX | GREENVILLE, CITY OF | 48231C0180F | 03-MAR-2000 | 00-06-635A | 02
06 | TX | GREENVILLE, CITY OF | 48231C0180F | 17-MAY-2000 | 00-06-757A | 01
06 | TX | GUADALUPE COUNTY | 4802660075D | 28-JAN-2000 | 00-06-405A | 02
06 | TX | GUN BARREL, CITY OF | 48213C0035D | 13-APR-2000 | 00-06-771A | 02
06 | TX | HALTOM CITY, CITY OF | 48439C0282H | 09-JUN-2000 | 00-06-1164A | 01
06 | TX | HALTOM CITY, CITY OF | 48439C0285H | 09-JUN-2000 | 00-06-1164A | 01
06 | TX | HALTOM CITY, CITY OF | 48439C0295H | 02-JUN-2000 | 00-06-868A | 02
06 | TX | HARDIN COUNTY | 48199C0075C | 28-APR-2000 | 00-06-478A | 02
06 | TX | HARRIS COUNTY | 48201C0245K | 21-APR-2000 | 00-06-1072V | 19
06 | TX | HARRIS COUNTY | 48201C0305K | 21-APR-2000 | 00-06-1072V | 19
06 | TX | HARRIS COUNTY | 48201C0315K | 21-APR-2000 | 00-06-1072V | 19
06 | TX | HARRIS COUNTY | 48201C0320K | 21-APR-2000 | 00-06-1072V | 19
06 | TX | HARRIS COUNTY | 48201C0430K | 21-APR-2000 | 00-06-1072V | 19
06 | TX | HARRIS COUNTY | 48201C0435K | 21-APR-2000 | 00-06-1072V | 19
06 | TX | HARRIS COUNTY | 48201C0440K | 21-APR-2000 | 00-06-1072V | 19
06 | TX | HARRIS COUNTY | 48201C0445K | 21-APR-2000 | 00-06-1072V | 19
06 | TX | HARRIS COUNTY | 48201C0465K | 21-APR-2000 | 00-06-1072V | 19
06 | TX | HARRIS COUNTY | 48201C0810K | 21-APR-2000 | 00-06-1072V | 19
06 | TX | HARRIS COUNTY | 48201C0830K | 21-APR-2000 | 00-06-1072V | 19
06 | TX | HARRIS COUNTY | 48201C0840K | 21-APR-2000 | 00-06-1072V | 19
06 | TX | HARRIS COUNTY | 48201C0845K | 21-APR-2000 | 00-06-1072V | 19
06 | TX | HARRIS COUNTY | 48201C0865K | 21-APR-2000 | 00-06-1072V | 19
06 | TX | HARRIS COUNTY | 48201C1030K | 21-APR-2000 | 00-06-1072V | 19
06 | TX | HARRIS COUNTY | 48201C1070K | 21-APR-2000 | 00-06-1072V | 19
06 | TX | HARRIS COUNTY | 48201C1090K | 21-APR-2000 | 00-06-1072V | 19
06 | TX | HARRIS COUNTY | 48201C0810K | 16-MAY-2000 | 00-06-1180P | 06
06 | TX | HARRIS COUNTY | 48201C0235K | 02-JUN-2000 | 00-06-1190V | 19
06 | TX | HARRIS COUNTY | 48201C0735K | 02-JUN-2000 | 00-06-1190V | 19
06 | TX | HARRIS COUNTY | 48201C0445J | 03-APR-2000 | 00-06-120P | 05
06 | TX | HARRIS COUNTY | 48201C0635J | 03-APR-2000 | 00-06-120P | 05
06 | TX | HARRIS COUNTY | 48201C0490J | 10-JAN-2000 | 00-06-176A | 02
06 | TX | HARRIS COUNTY | 48201C0320J | 14-FEB-2000 | 00-06-292A | 02
06 | TX | HARRIS COUNTY | 48201C0215J | 07-APR-2000 | 00-06-312A | 02
06 | TX | HARRIS COUNTY | 48201C0305J | 16-FEB-2000 | 00-06-352A | 02
06 | TX | HARRIS COUNTY | 48201C0320J | 21-JAN-2000 | 00-06-384A | 02
06 | TX | HARRIS COUNTY | 48201C0245K | 02-FEB-2000 | 00-06-403P | 06
06 | TX | HARRIS COUNTY | 48201C0320J | 07-APR-2000 | 00-06-559A | 01
06 | TX | HARRIS COUNTY | 48201C1105J | 25-APR-2000 | 00-06-560A | 02
06 | TX | HARRIS COUNTY | 48201C0245J | 13-MAR-2000 | 00-06-672P | 06
06 | TX | HARRIS COUNTY | 48201C0430J | 22-MAR-2000 | 00-06-735A | 02
06 | TX | HAYS COUNTY | 48209C0160E | 10-FEB-2000 | 00-06-466A | 02
06 | TX | HAYS COUNTY | 48209C0160E | 12-APR-2000 | 00-06-864A | 02
06 | TX | HAYS COUNTY | 48209C0227E | 02-MAR-2000 | 98-06-1489P | 05
06 | TX | HAYS COUNTY | 48209C0229E | 02-MAR-2000 | 98-06-1489P | 05
06 | TX | HAYS COUNTY | 48209C0231E | 02-MAR-2000 | 98-06-1489P | 05
06 | TX | HAYS COUNTY | 48209C0155E | 18-JAN-2000 | 99-06-1984A | 02
06 | TX | HEATH, CITY OF | 4805450005A | 03-MAR-2000 | 00-06-554A | 01
06 | TX | HEATH, CITY OF | 4805450005A | 11-MAY-2000 | 00-06-960A | 02
06 | TX | HENDERSON COUNTY | 48213C0045D | 24-FEB-2000 | 00-06-550A | 02
06 | TX | HENDERSON COUNTY | 48213C0225C | 29-FEB-2000 | 00-06-590A | 02
06 | TX | HENDERSON COUNTY | 48213C0100C | 15-MAR-2000 | 00-06-686A | 02
06 | TX | HIDALGO COUNTY | 4803340300C | 11-MAY-2000 | 00-06-589A | 01
06 | TX | HIDALGO COUNTY | 4803340295D | 07-JUN-2000 | 99-06-2097V | 19
06 | TX | HIDALGO COUNTY | 4803340300D | 07-JUN-2000 | 99-06-2097V | 19
06 | TX | HIGHLAND VILLAGE, VILLAGE OF | 48121C0527E | 28-MAR-2000 | 99-06-1381P | 05
06 | TX | HOLLYWOOD PARK, TOWN OF | 48029C0276E | 11-APR-2000 | 99-06-1046P | 05
06 | TX | HOOD COUNTY | 4803560130C | 03-MAR-2000 | 00-06-632A | 02
06 | TX | HOOD COUNTY | 4803560145B | 12-APR-2000 | 00-06-870A | 02
06 | TX | HOUSTON, CITY OF | 48201C0670K | 19-MAY-2000 | 00-06-1067A | 02
06 | TX | HOUSTON, CITY OF | 48201C0465K | 21-APR-2000 | 00-06-1072V | 19
06 | TX | HOUSTON, CITY OF | 48201C0665K | 21-APR-2000 | 00-06-1072V | 19
06 | TX | HOUSTON, CITY OF | 48201C0670K | 21-APR-2000 | 00-06-1072V | 19
06 | TX | HOUSTON, CITY OF | 48201C0690K | 21-APR-2000 | 00-06-1072V | 19
06 | TX | HOUSTON, CITY OF | 48201C0830K | 21-APR-2000 | 00-06-1072V | 19
06 | TX | HOUSTON, CITY OF | 48201C0835K | 21-APR-2000 | 00-06-1072V | 19
06 | TX | HOUSTON, CITY OF | 48201C0840K | 21-APR-2000 | 00-06-1072V | 19
06 | TX | HOUSTON, CITY OF | 48201C0845K | 21-APR-2000 | 00-06-1072V | 19
06 | TX | HOUSTON, CITY OF | 48201C0855K | 21-APR-2000 | 00-06-1072V | 19
06 | TX | HOUSTON, CITY OF | 48201C0860K | 21-APR-2000 | 00-06-1072V | 19
06 | TX | HOUSTON, CITY OF | 48201C0880K | 21-APR-2000 | 00-06-1072V | 19
06 | TX | HOUSTON, CITY OF | 48201C0885K | 21-APR-2000 | 00-06-1072V | 19
06 | TX | HOUSTON, CITY OF | 48201C1005K | 21-APR-2000 | 00-06-1072V | 19
06 | TX | HOUSTON, CITY OF | 48201C1055K | 21-APR-2000 | 00-06-1072V | 19
06 | TX | HOUSTON, CITY OF | 48201C1060K | 21-APR-2000 | 00-06-1072V | 19
06 | TX | HOUSTON, CITY OF | 48201C0865K | 05-MAY-2000 | 00-06-1113P | 06
06 | TX | HOUSTON, CITY OF | 48201C0485J | 31-JAN-2000 | 00-06-137P | 05
06 | TX | HOUSTON, CITY OF | 48201C0880J | 16-FEB-2000 | 00-06-240A | 02
06 | TX | HOUSTON, CITY OF | 48201C0635K | 22-MAY-2000 | 00-06-498A | 01
06 | TX | HOUSTON, CITY OF | 48201C0435J | 07-MAR-2000 | 00-06-605A | 01
06 | TX | IRVING, CITY OF | 4801800050C | 09-MAY-2000 | 00-06-1039A | 02
06 | TX | IRVING, CITY OF | 4801800050C | 16-MAY-2000 | 00-06-762A | 02
06 | TX | IRVING, CITY OF | 4801800035C | 02-FEB-2000 | 99-06-1912P | 05
06 | TX | JERSEY VILLAGE, CITY OF | 48201C0440K | 21-APR-2000 | 00-06-1071V | 19
06 | TX | KATY, CITY OF | 48157C0015J | 31-JAN-2000 | 99-06-1813P | 05
06 | TX | KERR COUNTY | 4804190275B | 12-MAY-2000 | 00-06-1031A | 02
06 | TX | KERR COUNTY | 4804190275B | 31-MAY-2000 | 00-06-1240A | 02
06 | TX | KERR COUNTY | 4804190175B | 09-MAY-2000 | 00-06-977A | 02
06 | TX | KILLEEN, CITY OF | 4800310005C | 05-MAY-2000 | 99-06-2095V | 19
06 | TX | KILLEEN, CITY OF | 4800310007C | 05-MAY-2000 | 99-06-2095V | 19
06 | TX | KILLEEN, CITY OF | 4800310008C | 05-MAY-2000 | 99-06-2095V | 19
06 | TX | LAGO VISTA, CITY OF | 48453C0355E | 21-JUN-2000 | 00-06-675A | 02
06 | TX | LAREDO, CITY OF | 4806510005B | 17-MAY-2000 | 00-06-1056A | 02
06 | TX | LAREDO, CITY OF | 4806510005B | 31-MAR-2000 | 00-06-804A | 02
06 | TX | LEAGUE CITY, CITY OF | 4854880030E | 18-JAN-2000 | 00-06-302A | 01
06 | TX | LEAGUE CITY, CITY OF | 4854880030E | 12-MAY-2000 | 00-06-950A | 01
06 | TX | LEWISVILLE, CITY OF | 48121C0545E | 02-MAY-2000 | 00-06-670P | 05
06 | TX | LEWISVILLE, CITY OF | 48121C0555E | 05-MAY-2000 | 00-06-802P | 05
06 | TX | LEWISVILLE, CITY OF | 48121C0565E | 05-MAY-2000 | 00-06-802P | 05
06 | TX | LLANO COUNTY | 4812340285B | 10-MAR-2000 | 00-06-480A | 02
06 | TX | LLANO COUNTY | 4812340145B | 12-MAY-2000 | 00-06-671A | 02
06 | TX | LUBBOCK, CITY OF | 4804520045C | 16-JUN-2000 | 00-06-1221A | 02
06 | TX | LUBBOCK, CITY OF | 4804520025C | 29-FEB-2000 | 00-06-587A | 02
06 | TX | LUBBOCK, CITY OF | 4804520045C | 10-MAR-2000 | 00-06-630A | 02
06 | TX | LUBBOCK, CITY OF | 4804520025C | 24-MAR-2000 | 00-06-753A | 02
06 | TX | MCKINNEY, CITY OF | 48085C0285G | 12-MAY-2000 | 00-06-1023A | 02
06 | TX | MCKINNEY, CITY OF | 48085C0285G | 21-MAR-2000 | 00-06-696A | 01
06 | TX | MIDLAND COUNTY | 48329C0068E | 07-MAR-2000 | 00-06-619A | 01
06 | TX | MIDLAND COUNTY | 48329C0100E | 27-MAR-2000 | 99-06-2094V | 19
06 | TX | MIDLAND COUNTY | 48329C0125E | 27-MAR-2000 | 99-06-2094V | 19
06 | TX | MIDLAND COUNTY | 48329C0150E | 27-MAR-2000 | 99-06-2094V | 19
06 | TX | MIDLAND COUNTY | 48329C0226E | 27-MAR-2000 | 99-06-2094V | 19
06 | TX | MIDLAND COUNTY | 48329C0227E | 27-MAR-2000 | 99-06-2094V | 19
06 | TX | MIDLAND, CITY OF | 48329C0067E | 10-MAY-2000 | 00-06-1007A | 02
06 | TX | MIDLAND, CITY OF | 48329C0087E | 10-MAY-2000 | 00-06-1012A | 02
06 | TX | MIDLAND, CITY OF | 48329C0088E | 12-MAY-2000 | 00-06-1036A | 02
06 | TX | MIDLAND, CITY OF | 48329C0088E | 12-MAY-2000 | 00-06-1038A | 02
06 | TX | MIDLAND, CITY OF | 48329C0069E | 24-MAY-2000 | 00-06-1099A | 02
06 | TX | MIDLAND, CITY OF | 48329C0088E | 02-JUN-2000 | 00-06-1134A | 02
06 | TX | MIDLAND, CITY OF | 48329C0088E | 09-JUN-2000 | 00-06-1173A | 02
06 | TX | MIDLAND, CITY OF | 48329C0066E | 16-JUN-2000 | 00-06-1204A | 01
06 | TX | MIDLAND, CITY OF | 48329C0067E | 16-FEB-2000 | 00-06-452A | 01
06 | TX | MIDLAND, CITY OF | 48329C0087E | 03-MAR-2000 | 00-06-540A | 01
06 | TX | MIDLAND, CITY OF | 48329C0069E | 28-FEB-2000 | 00-06-544A | 02
06 | TX | MIDLAND, CITY OF | 48329C0088E | 28-FEB-2000 | 00-06-547A | 02
06 | TX | MIDLAND, CITY OF | 48329C0069E | 01-MAR-2000 | 00-06-607A | 02
06 | TX | MIDLAND, CITY OF | 48329C0088E | 07-APR-2000 | 00-06-642A | 02
06 | TX | MIDLAND, CITY OF | 48329C0088E | 07-MAR-2000 | 00-06-658A | 02
06 | TX | MIDLAND, CITY OF | 48329C0069E | 15-MAR-2000 | 00-06-685A | 02
06 | TX | MIDLAND, CITY OF | 48329C0088E | 07-APR-2000 | 00-06-716A | 02
06 | TX | MIDLAND, CITY OF | 48329C0088E | 24-MAR-2000 | 00-06-760A | 02
06 | TX | MIDLAND, CITY OF | 48329C0088E | 17-APR-2000 | 00-06-882A | 02
06 | TX | MIDLAND, CITY OF | 48329C0088E | 18-APR-2000 | 00-06-887A | 02
06 | TX | MIDLAND, CITY OF | 48329C0087E | 25-APR-2000 | 00-06-930A | 02
06 | TX | MIDLAND, CITY OF | 48329C0088E | 28-APR-2000 | 00-06-943A | 02
06 | TX | MIDLAND, CITY OF | 48329C0088E | 08-MAY-2000 | 00-06-984A | 02
06 | TX | MIDLAND, CITY OF | 48329C0066E | 27-MAR-2000 | 99-06-2094V | 19
06 | TX | MIDLAND, CITY OF | 48329C0068E | 27-MAR-2000 | 99-06-2094V | 19
06 | TX | MIDLAND, CITY OF | 48329C0069E | 27-MAR-2000 | 99-06-2094V | 19
06 | TX | MIDLAND, CITY OF | 48329C0086E | 27-MAR-2000 | 99-06-2094V | 19
06 | TX | MIDLAND, CITY OF | 48329C0087E | 27-MAR-2000 | 99-06-2094V | 19
06 | TX | MIDLAND, CITY OF | 48329C0088E | 27-MAR-2000 | 99-06-2094V | 19
06 | TX | MIDLAND, CITY OF | 48329C0089E | 27-MAR-2000 | 99-06-2094V | 19
06 | TX | MIDLAND, CITY OF | 48329C0100E | 27-MAR-2000 | 99-06-2094V | 19
06 | TX | MIDLAND, CITY OF | 48329C0125E | 27-MAR-2000 | 99-06-2094V | 19
06 | TX | MISSION BEND M.U.D. #2 | 48201C0810K | 16-MAY-2000 | 00-06-1180P | 06
06 | TX | MISSOURI CITY, CITY OF | 48157C0270J | 17-APR-2000 | 00-06-655A | 01
06 | TX | MISSOURI CITY, CITY OF | 48157C0255J | 12-JUN-2000 | 00-06-742A | 08
06 | TX | MONTGOMERY COUNTY | 48339C0510F | 16-FEB-2000 | 00-06-113A | 01
06 | TX | MONTGOMERY COUNTY | 48339C0539G | 16-JUN-2000 | 00-06-1174A | 02
06 | TX | MONTGOMERY COUNTY | 48339C0215F | 21-JUN-2000 | 00-06-1275A | 01
06 | TX | MONTGOMERY COUNTY | 48339C0635F | 09-MAR-2000 | 00-06-150A | 17
06 | TX | MONTGOMERY COUNTY | 48339C0195F | 25-APR-2000 | 00-06-330A | 01
06 | TX | MONTGOMERY COUNTY | 48339C0520F | 27-MAR-2000 | 00-06-394A | 01
06 | TX | MONTGOMERY COUNTY | 48339C0495F | 02-JUN-2000 | 00-06-633A | 02
06 | TX | MONTGOMERY COUNTY | 48339C0245F | 15-MAR-2000 | 00-06-702A | 02
06 | TX | MONTGOMERY COUNTY | 48339C0510F | 21-MAR-2000 | 00-06-718A | 01
06 | TX | MONTGOMERY COUNTY | 48339C0505F | 28-MAR-2000 | 00-06-751A | 01
06 | TX | MONTGOMERY COUNTY | 48339C0510F | 28-MAR-2000 | 00-06-751A | 01
06 | TX | MONTGOMERY COUNTY | 48339C0530F | 25-APR-2000 | 00-06-933A | 02
06 | TX | NACOGDOCHES COUNTY | 4809470004B | 15-MAR-2000 | 00-06-714A | 02
06 | TX | NASSAU BAY, CITY OF | 48201C1090K | 21-APR-2000 | 00-06-1072V | 19
06 | TX | NEWTON COUNTY | 48351C0525C | 17-APR-2000 | 00-06-905A | 02
06 | TX | NORTH RICHLAND HILLS, CITY OF | 48439C0302H | 24-MAY-2000 | 00-06-107P | 05
06 | TX | NORTH RICHLAND HILLS, CITY OF | 48439C0303H | 18-JAN-2000 | 00-06-132A | 02
06 | TX | NORTH RICHLAND HILLS, CITY OF | 48439C0189H | 31-MAR-2000 | 00-06-625P | 06
06 | TX | NORTH RICHLAND HILLS, CITY OF | 48439C0195H | 31-MAR-2000 | 00-06-625P | 06
06 | TX | NORTH RICHLAND HILLS, CITY OF | 48439C0301H | 03-MAY-2000 | 00-06-805P | 05
06 | TX | NORTH RICHLAND HILLS, CITY OF | 48439C0188H | 11-JAN-2000 | 99-06-1957P | 05
06 | TX | NORTH RICHLAND HILLS, CITY OF | 48439C0301H | 11-JAN-2000 | 99-06-1957P | 05
06 | TX | ODESSA, CITY OF | 48135C0170D | 28-JUN-2000 | 00-06-1280A | 02
06 | TX | ODESSA, CITY OF | 48135C0135D | 01-MAR-2000 | 00-06-367A | 01
06 | TX | ODESSA, CITY OF | 48135C0140D | 19-APR-2000 | 00-06-546A | 02
06 | TX | ODESSA, CITY OF | 48135C0170D | 24-FEB-2000 | 00-06-568A | 02
06 | TX | ODESSA, CITY OF | 48135C0140D | 30-MAR-2000 | 00-06-790A | 02
06 | TX | ODESSA, CITY OF | 48135C0175D | 28-APR-2000 | 00-06-944A | 02
06 | TX | ODESSA, CITY OF | 48135C0170D | 24-FEB-2000 | 99-06-1891A | 02
06 | TX | PEARLAND, CITY OF | 48039C0035I | 18-APR-2000 | 00-06-888A | 02
06 | TX | PFLUGERVILLE, CITY OF | 48453C0075E | 21-JUN-2000 | 00-06-1291A | 02
06 | TX | PINEY POINT VILLAGE, CITY OF | 48201C0835K | 21-APR-2000 | 00-06-1072V | 19
06 | TX | PLANO, CITY OF | 48085C0420G | 22-MAY-2000 | 00-06-1078A | 02
06 | TX | PLANO, CITY OF | 48085C0420G | 09-JUN-2000 | 00-06-1168A | 02
06 | TX | PLANO, CITY OF | 48085C0440G | 22-FEB-2000 | 00-06-281A | 02
06 | TX | PLANO, CITY OF | 48085C0445G | 20-APR-2000 | 00-06-914A | 02
06 | TX | PRINCETON, CITY OF | 48085C0325G | 03-APR-2000 | 00-06-493P | 06
06 | TX | PRINCETON, CITY OF | 48085C0350G | 03-APR-2000 | 00-06-493P | 06
06 | TX | PRINCETON, CITY OF | 48085C0325G | 28-APR-2000 | 00-06-723A | 02
06 | TX | RICHARDSON, CITY OF | 4801840010C | 03-MAR-2000 | 00-06-432A | 02
06 | TX | RICHARDSON, CITY OF | 4801840015C | 02-FEB-2000 | 00-06-477A | 02
06 | TX | RICHMOND, CITY OF | 48157C0210J | 02-JUN-2000 | 00-06-941A | 17
06 | TX | ROANOKE, CITY OF | 48121C0515F | 14-JAN-2000 | 00-06-136P | 06
06 | TX | ROANOKE, CITY OF | 48121C0655E | 14-JAN-2000 | 00-06-136P | 06
06 | TX | ROBSTOWN, CITY OF | 4855030005D | 25-APR-2000 | 00-06-926A | 02
06 | TX | ROCKWALL, CITY OF | 4805470005C | 12-MAY-2000 | 00-06-1041A | 02
06 | TX | ROCKWALL, CITY OF | 4805470005C | 15-MAR-2000 | 00-06-417A | 01
06 | TX | ROCKWALL, CITY OF | 4805470005C | 17-APR-2000 | 00-06-750A | 02
06 | TX | ROCKWALL, CITY OF | 4805470005C | 04-APR-2000 | 99-06-1987A | 01
06 | TX | ROUND ROCK, CITY OF | 48491C0330D | 12-APR-2000 | 00-06-834A | 02
06 | TX | ROUND ROCK, CITY OF | 48491C0330D | 08-FEB-2000 | 99-06-1133P | 05
06 | TX | ROWLETT, CITY OF | 4801850010C | 07-JAN-2000 | 00-06-357A | 02
06 | TX | ROWLETT, CITY OF | 4801850005C | 21-APR-2000 | 00-06-787A | 02
06 | TX | ROWLETT, CITY OF | 4801850005C | 28-APR-2000 | 00-06-830A | 02
06 | TX | SAGINAW, CITY OF | 48439C0280H | 24-JAN-2000 | 00-06-101P | 05
06 | TX | SAGINAW, CITY OF | 48439C0260H | 24-MAR-2000 | 99-06-1719P | 05
06 | TX | SAN ANTONIO, CITY OF | 48029C0244E | 12-MAY-2000 | 00-06-1016A | 02
06 | TX | SAN ANTONIO, CITY OF | 48029C0244E | 12-MAY-2000 | 00-06-1018A | 02
06 | TX | SAN ANTONIO, CITY OF | 48029C0254E | 28-JAN-2000 | 00-06-407A | 02
06 | TX | SAN ANTONIO, CITY OF | 48029C0257E | 08-MAR-2000 | 00-06-500A | 02
06 | TX | SAN ANTONIO, CITY OF | 48029C0257E | 28-FEB-2000 | 00-06-553A | 02
06 | TX | SAN ANTONIO, CITY OF | 48029C0279E | 13-MAR-2000 | 00-06-681A | 02
06 | TX | SAN ANTONIO, CITY OF | 48029C0259E | 21-APR-2000 | 00-06-924A | 02
06 | TX | SAN ANTONIO, CITY OF | 48029C0268E | 02-MAY-2000 | 00-06-969A | 02
06 | TX | SAN ANTONIO, CITY OF | 48029C0256E | 11-APR-2000 | 99-06-1046P | 05
06 | TX | SAN ANTONIO, CITY OF | 48029C0257E | 11-APR-2000 | 99-06-1046P | 05
06 | TX | SAN ANTONIO, CITY OF | 48029C0258E | 11-APR-2000 | 99-06-1046P | 05
06 | TX | SAN ANTONIO, CITY OF | 48029C0259E | 11-APR-2000 | 99-06-1046P | 05
06 | TX | SAN ANTONIO, CITY OF | 48029C0267E | 11-APR-2000 | 99-06-1046P | 05
06 | TX | SAN ANTONIO, CITY OF | 48029C0276E | 11-APR-2000 | 99-06-1046P | 05
06 | TX | SAN ANTONIO, CITY OF | 48029C0277E | 11-APR-2000 | 99-06-1046P | 05
06 | TX | SAN ANTONIO, CITY OF | 48029C0278E | 11-APR-2000 | 99-06-1046P | 05
06 | TX | SAN ANTONIO, CITY OF | 48029C0279E | 11-APR-2000 | 99-06-1046P | 05
06 | TX | SAN ANTONIO, CITY OF | 48029C0281E | 11-APR-2000 | 99-06-1046P | 05
06 | TX | SAN ANTONIO, CITY OF | 48029C0283E | 11-APR-2000 | 99-06-1046P | 05
06 | TX | SAN ANTONIO, CITY OF | 48029C0284E | 11-APR-2000 | 99-06-1046P | 05
06 | TX | SAN ANTONIO, CITY OF | 48029C0286E | 11-APR-2000 | 99-06-1046P | 05
06 | TX | SAN ANTONIO, CITY OF | 48029C0287E | 11-APR-2000 | 99-06-1046P | 05
06 | TX | SAN ANTONIO, CITY OF | 48029C0291E | 11-APR-2000 | 99-06-1046P | 05
06 | TX | SAN ANTONIO, CITY OF | 48029C0292E | 11-APR-2000 | 99-06-1046P | 05
06 | TX | SAN ANTONIO, CITY OF | 48029C0293E | 11-APR-2000 | 99-06-1046P | 05
06 | TX | SAN ANTONIO, CITY OF | 48029C0294E | 11-APR-2000 | 99-06-1046P | 05
06 | TX | SAN ANTONIO, CITY OF | 48029C0456E | 11-APR-2000 | 99-06-1046P | 05
06 | TX | SAN ANTONIO, CITY OF | 48029C0458E | 11-APR-2000 | 99-06-1046P | 05
06 | TX | SAN ANTONIO, CITY OF | 48029C0466E | 11-APR-2000 | 99-06-1046P | 05
06 | TX | SAN ANTONIO, CITY OF | 48029C0468E | 11-APR-2000 | 99-06-1046P | 05
06 | TX | SAN ANTONIO, CITY OF | 48029C0631E | 11-APR-2000 | 99-06-1046P | 05
06 | TX | SAN ANTONIO, CITY OF | 48029C0632E | 11-APR-2000 | 99-06-1046P | 05
06 | TX | SAN ANTONIO, CITY OF | 48029C0633E | 11-APR-2000 | 99-06-1046P | 05
06 | TX | SAN ANTONIO, CITY OF | 48029C0634E | 11-APR-2000 | 99-06-1046P | 05
06 | TX | SAN ANTONIO, CITY OF | 48029C0253E | 20-JAN-2000 | 99-06-1195P | 05
06 | TX | SAN ANTONIO, CITY OF | 48029C0242E | 11-MAY-2000 | 99-06-1393P | 05
06 | TX | SAN ANTONIO, CITY OF | 48029C0261E | 11-MAY-2000 | 99-06-1393P | 05
06 | TX | SAN ANTONIO, CITY OF | 48029C0442E | 28-JAN-2000 | 99-06-1411A | 02
06 | TX | SAN ANTONIO, CITY OF | 48029C0254E | 24-JAN-2000 | 99-06-1804P | 05
06 | TX | SAN ANTONIO, CITY OF | 48029C0262E | 24-JAN-2000 | 99-06-1804P | 05
06 | TX | SAN ANTONIO, CITY OF | 48029C0470E | 08-FEB-2000 | 99-06-1911P | 06
06 | TX | SAN MARCOS, CITY OF | 48209C0227E | 02-MAR-2000 | 98-06-1489P | 05
06 | TX | SAN MARCOS, CITY OF | 48209C0229E | 02-MAR-2000 | 98-06-1489P | 05
06 | TX | SAN MARCOS, CITY OF | 48209C0231E | 02-MAR-2000 | 98-06-1489P | 05
06 | TX | SCHERTZ, CITY OF | 4802690015D | 15-MAR-2000 | 00-06-699A | 02
06 | TX | SEGUIN, CITY OF | 4855080010D | 08-MAR-2000 | 99-06-2093V | 19
06 | TX | SHAVANO PARK, TOWN OF | 48029C0258E | 11-APR-2000 | 99-06-1046P | 05
06 | TX | SMITH COUNTY | 4811850300B | 24-MAY-2000 | 00-06-1087A | 02
06 | TX | SMITH COUNTY | 4811850250B | 18-JAN-2000 | 00-06-497A | 02
06 | TX | SOMERVILLE, CITY OF | 4800910001B | 02-FEB-2000 | 99-06-1953P | 05
06 | TX | SOUTH LAKE, CITY OF | 48439C0185H | 16-MAY-2000 | 00-06-959A | 02
06 | TX | SPRINGTOWN, CITY OF | 4805210005B | 24-MAR-2000 | 00-06-549A | 02
06 | TX | STAFFORD, CITY OF | 48157C0255J | 07-JAN-2000 | 00-06-211A | 01
06 | TX | TARRANT COUNTY | 48439C0130H | 17-APR-2000 | 00-06-885A | 01
06 | TX | TEXARKANA, CITY OF | 4800600010C | 08-MAY-2000 | 00-06-987A | 02
06 | TX | TRAVIS COUNTY | 48453C0325E | 28-APR-2000 | 00-06-354A | 02
06 | TX | TRAVIS COUNTY | 48453C0135F | 14-FEB-2000 | 00-06-503A | 17
06 | TX | TRAVIS COUNTY | 48453C0215G | 03-MAY-2000 | 00-06-852P | 06
06 | TX | TRAVIS COUNTY | 48453C0280E | 21-JUN-2000 | 00-06-872A | 02
06 | TX | TRAVIS COUNTY | 48453C0360E | 21-APR-2000 | 00-06-922A | 02
06 | TX | TRAVIS COUNTY | 48453C0095F | 28-JAN-2000 | 97-06-938V | 19
06 | TX | TRAVIS COUNTY | 48453C0175F | 28-JAN-2000 | 97-06-938V | 19
06 | TX | TRAVIS COUNTY | 48453C0215G | 28-JAN-2000 | 97-06-938V | 19
06 | TX | TRAVIS COUNTY | 48453C0245E | 28-JAN-2000 | 97-06-938V | 19
06 | TX | TRAVIS COUNTY | 48453C0260F | 28-JAN-2000 | 97-06-938V | 19
06 | TX | TYLER, CITY OF | 4805710015B | 27-MAR-2000 | 00-06-769A | 02
06 | TX | UVALDE COUNTY | 4806290100B | 28-FEB-2000 | 00-06-499A | 01
06 | TX | VICTORIA, CITY OF | 4806380005G | 10-MAR-2000 | 00-06-471A | 02
06 | TX | WACO, CITY OF | 4804560130B | 20-APR-2000 | 00-06-325A | 02
06 | TX | WACO, CITY OF | 4804610003A | 17-MAY-2000 | 00-06-693A | 01
06 | TX | WALKER COUNTY | 4810420007B | 09-JUN-2000 | 00-06-858A | 02
06 | TX | WAXAHACHIE, CITY OF | 48139C0185D | 21-JUN-2000 | 00-06-1235A | 02
06 | TX | WAXAHACHIE, CITY OF | 48139C0195D | 03-APR-2000 | 00-06-663A | 02
06 | TX | WEATHERFORD, CITY OF | 4805220010C | 03-MAR-2000 | 00-06-465A | 02
06 | TX | WEBSTER, CITY OF | 48201C1070K | 21-APR-2000 | 00-06-1064V | 19
06 | TX | WEST KEEGANS BAYOU IMPROVEMENT DISTRICT | 48157C0120J | 10-FEB-2000 | 99-06-1867P | 05
06 | TX | WESTLAKE, TOWN OF | 48121C0660E | 15-MAY-2000 | 00-06-876P | 05
06 | TX | WICHITA FALLS, CITY OF | 4806620030F | 11-FEB-2000 | 00-06-344P | 05
06 | TX | WICHITA FALLS, CITY OF | 4806620025E | 28-JAN-2000 | 99-06-2092V | 19
06 | TX | WICHITA FALLS, CITY OF | 4806620030F | 28-JAN-2000 | 99-06-2092V | 19
06 | TX | WILLIAMSON COUNTY | 48491C0325D | 01-MAR-2000 | 99-06-1272P | 05
06 | TX | WILSON COUNTY | 4802300006A | 06-JAN-2000 | 00-06-079A | 02
06 | TX | WILSON COUNTY | 4802300002B | 31-MAY-2000 | 00-06-971A | 02
06 | TX | WISE COUNTY | 48497C0175C | 08-MAY-2000 | 00-06-1000A | 02
06 | TX | WOLFFORTH, TOWN OF | 4809150007A | 02-FEB-2000 | 00-06-408A | 02
07 | IA | ADEL, CITY OF |  | 20-JAN-2000 | 97-07-454V | 19
07 | IA | ADEL, CITY OF | 19049C0118D | 20-JAN-2000 | 98-07-741V | 19
07 | IA | AMES, CITY OF | 1909070065B | 03-APR-2000 | 99-07-334P | 06
07 | IA | ANKENY, CITY OF | 1902260003C | 24-MAR-2000 | 98-07-896V | 19
07 | IA | BETTENDORF, CITY OF | 1902400004D | 11-FEB-2000 | 00-07-145A | 02
07 | IA | BUCHANAN COUNTY | 1908480025C | 24-FEB-2000 | 00-07-179A | 02
07 | IA | BUCHANAN COUNTY | 1908480125C | 18-FEB-2000 | 00-07-280A | 02
07 | IA | BUTLER COUNTY | 1908500005A | 21-JUN-2000 | 00-07-511A | 02
07 | IA | CEDAR COUNTY | 190050B | 16-FEB-2000 | 00-07-197A | 02
07 | IA | CEDAR FALLS, CITY OF | 1900170002B | 05-JAN-2000 | 00-07-125A | 02
07 | IA | CEDAR FALLS, CITY OF | 1900170004B | 30-JUN-2000 | 00-07-221P | 06
07 | IA | CEDAR FALLS, CITY OF | 1900170006B | 18-APR-2000 | 00-07-254A | 01
07 | IA | CEDAR FALLS, CITY OF | 1900170002B | 28-MAR-2000 | 00-07-337A | 02
07 | IA | CEDAR RAPIDS, CITY OF | 1901870015C | 13-MAR-2000 | 00-07-084P | 06
07 | IA | CLEAR LAKE, CITY OF | 1900590002B | 21-JAN-2000 | 00-07-009A | 01
07 | IA | CLEAR LAKE, CITY OF | 1900590001B | 10-JAN-2000 | 00-07-130A | 02
07 | IA | CLIVE, CITY OF | 1904880005C | 10-FEB-2000 | 00-07-201A | 02
07 | IA | CLIVE, CITY OF | 1904880010C | 04-FEB-2000 | 00-07-275A | 02
07 | IA | CLIVE, CITY OF | 1904880005C | 02-JUN-2000 | 00-07-298A | 02
07 | IA | CLIVE, CITY OF | 1904880010C | 18-FEB-2000 | 00-07-322A | 02
07 | IA | DALLAS COUNTY | 19049C0185D | 12-APR-2000 | 00-07-349A | 02
07 | IA | DES MOINES, CITY OF | 1902270006D | 13-MAR-2000 | 00-07-220P | 06
07 | IA | DES MOINES, CITY OF | 1902270009E | 13-MAR-2000 | 00-07-220P | 06
07 | IA | EMMETT COUNTY | 1908650200B | 06-JUN-2000 | 00-07-401A | 02
07 | IA | GRIMES, CITY OF | 1902280001B | 25-MAY-2000 | 00-07-369A | 02
07 | IA | GUTHRIE COUNTY | 1908710004B | 04-FEB-2000 | 00-07-165A | 02
07 | IA | HUMBOLDT, CITY OF | 1901550005B | 19-JAN-2000 | 99-07-844A | 02
07 | IA | INDEPENDENCE, CITY OF | 1900310001C | 21-JUN-2000 | 00-07-433A | 02
07 | IA | JOHNSON COUNTY | 1908820040B | 14-FEB-2000 | 00-07-190A | 02
07 | IA | JOHNSON COUNTY | 1908820055B | 21-MAR-2000 | 00-07-192A | 02
07 | IA | LEE COUNTY | 1901820125B | 14-MAR-2000 | 00-07-320A | 02
07 | IA | LINN COUNTY | 1908290085B | 13-MAR-2000 | 00-07-084P | 06
07 | IA | LINN COUNTY | 1908290090B | 30-JUN-2000 | 00-07-452A | 01
07 | IA | LINN COUNTY | 1908290130B | 23-JUN-2000 | 00-07-480A | 02
07 | IA | NASHUA, CITY OF | 1900680001B | 14-FEB-2000 | 00-07-172A | 02
07 | IA | NICHOLS, CITY OF | 1902140001B | 01-MAY-2000 | 00-07-396A | 02
07 | IA | NORTH LIBERTY, CITY OF | 1906300005A | 30-JUN-2000 | 00-07-183A | 02
07 | IA | RIVERSIDE, CITY OF | 190648A | 31-MAR-2000 | 00-07-355P | 06
07 | IA | SPENCER, CITY OF | 1900710005B | 14-MAR-2000 | 00-07-303A | 01
07 | IA | STORY COUNTY | 1909070065B | 03-APR-2000 | 99-07-334P | 06
07 | IA | VAN METER, CITY OF |  | 20-JAN-2000 | 97-07-456V | 19
07 | IA | VAN METER, CITY OF | 19049C0192D | 20-JAN-2000 | 98-07-741V | 19
07 | IA | VINTON, CITY OF | 1900160005B | 03-MAY-2000 | 00-07-399A | 02
07 | IA | VOLGA, CITY OF | 190085B | 04-APR-2000 | 00-07-289A | 02
07 | IA | WATERLOO, CITY OF | 1900250005E | 09-FEB-2000 | 00-07-175A | 01
07 | IA | WATERLOO, CITY OF | 1900250016E | 14-MAR-2000 | 00-07-302A | 02
07 | IA | WATERLOO, CITY OF | 1900250015E | 16-JUN-2000 | 00-07-365A | 02
07 | IA | WATERLOO, CITY OF | 1900250014E | 12-MAY-2000 | 00-07-456A | 02
07 | IA | WATERLOO, CITY OF | 1900250008E | 22-FEB-2000 | 99-07-355P | 05
07 | IA | WATERLOO, CITY OF | 1900250016E | 22-FEB-2000 | 99-07-355P | 05
07 | IA | WAUKEE, CITY OF | 19049C0140D | 21-JUN-2000 | 00-07-531A | 02
07 | IA | WAVERLY, CITY OF | 19017C0054C | 11-APR-2000 | 00-07-343A | 02
07 | IA | WAVERLY, CITY OF | 19017C0054C | 16-JUN-2000 | 00-07-454A | 02
07 | IA | WAVERLY, CITY OF | 19017C0054C | 02-JUN-2000 | 00-07-462A | 02
07 | IA | WEST DES MOINES, CITY OF | 1902310005B | 13-MAR-2000 | 00-07-278A | 02
07 | KS | ARKANSAS CITY, CITY OF | 2000700004B | 26-MAY-2000 | 00-07-364A | 02
07 | KS | BEL AIRE, CITY OF | 2008640005B | 04-MAY-2000 | 00-07-316A | 02
07 | KS | BUTLER COUNTY | 2000370160B | 02-MAR-2000 | 99-07-853P | 05
07 | KS | CHAPMAN, CITY OF | 20041C0085C | 18-JAN-2000 | 00-07-141A | 02
07 | KS | ELLSWORTH, CITY OF | 2000980001B | 28-JUN-2000 | 00-07-286A | 02
07 | KS | HALSTEAD, CITY OF | 2001310001D | 26-MAY-2000 | 00-07-450A | 02
07 | KS | HAYSVILLE, CITY OF | 2003240001C | 02-JUN-2000 | 00-07-467A | 02
07 | KS | KANSAS CITY, CITY OF | 2003630005C | 04-APR-2000 | 00-07-217A | 02
07 | KS | LIBERAL, CITY OF | 2003300020C | 11-APR-2000 | 00-07-330A | 02
07 | KS | LIBERAL, CITY OF | 2003300020C | 21-JUN-2000 | 00-07-451A | 02
07 | KS | LIBERAL, CITY OF | 2003300020C | 20-MAR-2000 | 99-07-925P | 06
07 | KS | MCPHERSON, CITY OF | 2002170015D | 30-MAY-2000 | 00-07-271A | 02
07 | KS | MCPHERSON, CITY OF | 2002170015D | 11-APR-2000 | 00-07-304A | 02
07 | KS | MCPHERSON, CITY OF | 2002170015D | 06-JUN-2000 | 00-07-352A | 02
07 | KS | MCPHERSON, CITY OF | 2002170015D | 09-MAY-2000 | 00-07-387A | 01
07 | KS | MCPHERSON, CITY OF | 2002170005D | 30-JUN-2000 | 00-07-513A | 02
07 | KS | MONTGOMERY COUNTY | 2005950004B | 28-JUN-2000 | 00-07-363A | 02
07 | KS | MOUNDRIDGE, CITY OF | 2002180001B | 08-JUN-2000 | 00-07-394A | 02
07 | KS | MULVANE, CITY OF | 2003260010D | 14-JUN-2000 | 00-07-446A | 02
07 | KS | NEWTON, CITY OF | 2001330005C | 14-FEB-2000 | 00-07-196A | 02
07 | KS | NEWTON, CITY OF | 2001330005C | 17-APR-2000 | 00-07-312A | 02
07 | KS | NEWTON, CITY OF | 2001330005C | 11-APR-2000 | 00-07-393A | 02
07 | KS | NEWTON, CITY OF | 2001330005C | 28-JUN-2000 | 00-07-500A | 01
07 | KS | NICKERSON, CITY OF | 20155C0090D | 28-MAR-2000 | 00-07-373A | 02
07 | KS | OGDEN, CITY OF | 2003010001B | 25-APR-2000 | 00-07-361A | 02
07 | KS | OVERLAND PARK, CITY OF | 20091C0085E | 11-FEB-2000 | 00-07-195A | 02
07 | KS | OVERLAND PARK, CITY OF | 20091C0081E | 03-MAY-2000 | 00-07-395A | 02
07 | KS | PAOLA, CITY OF | 200220A | 30-MAY-2000 | 99-07-021P | 05
07 | KS | PAOLA, CITY OF | 2002240001B | 30-MAY-2000 | 99-07-021P | 05
07 | KS | PARK CITY, CITY OF | 2009630001A | 16-FEB-2000 | 00-07-198A | 02
07 | KS | PARK CITY, CITY OF | 2003210150A | 03-MAR-2000 | 00-07-199A | 01
07 | KS | PITTSBURG, CITY OF | 2000720005D | 14-JUN-2000 | 00-07-376A | 02
07 | KS | RENO COUNTY | 20155C0500D | 10-FEB-2000 | 00-07-185A | 02
07 | KS | RENO COUNTY | 20155C0280D | 08-FEB-2000 | 00-07-241A | 02
07 | KS | RENO COUNTY | 20155C0280D | 18-FEB-2000 | 00-07-273A | 02
07 | KS | RENO COUNTY | 20155C0315D | 01-APR-2000 | 00-07-313A | 02
07 | KS | RENO COUNTY | 20155C0315D | 01-MAY-2000 | 00-07-389A | 02
07 | KS | RENO COUNTY | 20155C0315D | 02-JUN-2000 | 00-07-420A | 02
07 | KS | RENO COUNTY | 20155C0315D | 21-JUN-2000 | 00-07-423A | 01
07 | KS | RICE COUNTY | 2002900008C | 08-FEB-2000 | 00-07-169A | 02
07 | KS | RICE COUNTY | 2002900008C | 09-FEB-2000 | 00-07-186A | 02
07 | KS | SALINA, CITY OF | 2203160060B | 20-APR-2000 | 00-07-071A | 02
07 | KS | SALINA, CITY OF | 2003190015B | 05-JAN-2000 | 00-07-072A | 02
07 | KS | SALINA, CITY OF | 2003160060B | 05-JAN-2000 | 00-07-122A | 02
07 | KS | SALINA, CITY OF | 2003190015B | 11-JAN-2000 | 00-07-128A | 02
07 | KS | SALINA, CITY OF | 2003190005B | 05-JAN-2000 | 00-07-151A | 02
07 | KS | SALINA, CITY OF | 2003190005B | 05-JAN-2000 | 00-07-152A | 02
07 | KS | SALINA, CITY OF | 2003160060B | 02-FEB-2000 | 00-07-161A | 02
07 | KS | SALINA, CITY OF | 2003190015B | 24-JAN-2000 | 00-07-177A | 02
07 | KS | SALINA, CITY OF | 2003190015B | 10-MAY-2000 | 00-07-184A | 01
07 | KS | SALINA, CITY OF | 2003160060B | 11-FEB-2000 | 00-07-206A | 02
07 | KS | SALINA, CITY OF | 2003190015B | 22-FEB-2000 | 00-07-218A | 02
07 | KS | SALINA, CITY OF | 2003190015B | 14-MAR-2000 | 00-07-235A | 02
07 | KS | SALINA, CITY OF | 2003160060B | 30-MAR-2000 | 00-07-237A | 02
07 | KS | SALINA, CITY OF | 2003190015B | 30-MAR-2000 | 00-07-249A | 02
07 | KS | SALINA, CITY OF | 2003190015B | 30-MAR-2000 | 00-07-268A | 02
07 | KS | SALINA, CITY OF | 2003190015B | 01-APR-2000 | 00-07-277A | 02
07 | KS | SALINA, CITY OF | 2003190015B | 18-FEB-2000 | 00-07-287A | 02
07 | KS | SALINA, CITY OF | 2003160060B | 17-APR-2000 | 00-07-288A | 02
07 | KS | SALINA, CITY OF | 2003190005B | 06-JUN-2000 | 00-07-296A | 02
07 | KS | SALINA, CITY OF | 2003190015B | 27-MAR-2000 | 00-07-318A | 02
07 | KS | SALINA, CITY OF | 2003190015B | 27-MAR-2000 | 00-07-321A | 02
07 | KS | SALINA, CITY OF | 2003190015B | 11-APR-2000 | 00-07-344A | 02
07 | KS | SALINA, CITY OF | 2003190015B | 26-APR-2000 | 00-07-350A | 02
07 | KS | SALINA, CITY OF | 2003190015B | 02-JUN-2000 | 00-07-357A | 02
07 | KS | SALINA, CITY OF | 2003190015B | 25-MAY-2000 | 00-07-392A | 02
07 | KS | SALINA, CITY OF | 2003190005B | 06-JUN-2000 | 00-07-409A | 02
07 | KS | SALINA, CITY OF | 2003190005B | 24-APR-2000 | 00-07-410A | 02
07 | KS | SALINA, CITY OF | 2003190015B | 07-JUN-2000 | 00-07-411A | 02
07 | KS | SALINA, CITY OF | 2003190015B | 14-JUN-2000 | 00-07-439A | 02
07 | KS | SALINA, CITY OF | 2003190015B | 25-MAY-2000 | 00-07-445A | 02
07 | KS | SALINA, CITY OF | 2003190015B | 16-JUN-2000 | 00-07-463A | 02
07 | KS | SALINA, CITY OF | 2003190015B | 30-JUN-2000 | 00-07-537A | 02
07 | KS | SALINA, CITY OF | 2003160060B | 21-JAN-2000 | 99-07-896P | 06
07 | KS | SALINE COUNTY | 2003160060B | 03-MAY-2000 | 00-07-276A | 02
07 | KS | SALINE COUNTY | 2003160100B | 12-APR-2000 | 00-07-285A | 02
07 | KS | SALINE COUNTY | 2003160060B | 16-JUN-2000 | 00-07-425A | 02
07 | KS | SALINE COUNTY | 2003160055B | 08-JUN-2000 | 00-07-476A | 02
07 | KS | SEDGWICK COUNTY | 2003210125A | 10-JAN-2000 | 00-07-075A | 02
07 | KS | SEDGWICK COUNTY | 2003210300A | 18-JAN-2000 | 00-07-143A | 02
07 | KS | SEDGWICK COUNTY | 2003210150A | 03-MAR-2000 | 00-07-210A | 02
07 | KS | SEDGWICK COUNTY | 2003210125A | 11-MAY-2000 | 00-07-283A | 02
07 | KS | SEDGWICK COUNTY | 2003210225A | 25-MAY-2000 | 00-07-374A | 02
07 | KS | SEDGWICK COUNTY | 2003210225A | 16-JUN-2000 | 00-07-465A | 02
07 | KS | SHAWNEE COUNTY | 2003310095C | 28-JUN-2000 | 00-07-372A | 01
07 | KS | SUMNER COUNTY | 20191C0200B | 25-MAY-2000 | 00-07-406A | 02
07 | KS | WICHITA, CITY OF | 2003280035B | 24-JAN-2000 | 00-07-155A | 02
07 | KS | WICHITA, CITY OF | 2003280005B | 27-JAN-2000 | 00-07-159A | 02
07 | KS | WICHITA, CITY OF | 2003280015B | 27-JAN-2000 | 00-07-181A | 02
07 | KS | WICHITA, CITY OF | 2003280005B | 14-FEB-2000 | 00-07-191A | 02
07 | KS | WICHITA, CITY OF | 2003280030B | 16-FEB-2000 | 00-07-193A | 02
07 | KS | WICHITA, CITY OF | 2003280025B | 19-APR-2000 | 00-07-242A | 02
07 | KS | WICHITA, CITY OF | 2003280005B | 23-JUN-2000 | 00-07-274A | 02
07 | KS | WICHITA, CITY OF | 2003280030B | 11-APR-2000 | 00-07-338A | 02
07 | KS | WICHITA, CITY OF | 2003280025B | 01-APR-2000 | 00-07-339A | 02
07 | KS | WICHITA, CITY OF | 2003210225A | 02-JUN-2000 | 00-07-421A | 01
07 | KS | WICHITA, CITY OF | 2003280030B | 21-JUN-2000 | 00-07-437A | 02
07 | KS | WICHITA, CITY OF | 2003280030B | 21-JUN-2000 | 00-07-441A | 02
07 | KS | WICHITA, CITY OF | 2003280020B | 02-JUN-2000 | 00-07-457A | 02
07 | MO | BUTLER COUNTY | 2900440115B | 13-JAN-2000 | 00-07-016A | 02
07 | MO | BUTLER COUNTY | 2900440050C | 21-JUN-2000 | 00-07-413A | 02
07 | MO | BUTLER COUNTY | 2900440130D | 27-JAN-2000 | 99-07-946P | 05
07 | MO | CAMDEN COUNTY | 2907890002B | 28-JUN-2000 | 00-07-499A | 02
07 | MO | CASS COUNTY | 2907830100C | 28-JAN-2000 | 00-07-182A | 02
07 | MO | CASS COUNTY | 2907830075B | 26-MAY-2000 | 00-07-442A | 02
07 | MO | CHESTERFIELD, CITY OF | 29189C0120H | 17-APR-2000 | 99-07-214P | 05
07 | MO | CHESTERFIELD, CITY OF | 29189C0140H | 17-APR-2000 | 99-07-214P | 05
07 | MO | CHRISTIAN COUNTY | 2908470003A | 14-JUN-2000 | 00-07-253A | 02
07 | MO | CHRISTIAN COUNTY | 2908470003A | 19-APR-2000 | 00-07-356A | 02
07 | MO | CLAY COUNTY | 290086IND0 | 22-MAR-2000 | 99-07-807P | 05
07 | MO | COLE COUNTY | 2901070060B | 07-APR-2000 | 00-07-082A | 02
07 | MO | COOPER COUNTY | 2907940025B | 22-FEB-2000 | 00-07-108A | 02
07 | MO | DALLAS COUNTY | 2907970175A | 22-FEB-2000 | 00-07-117A | 02
07 | MO | DARDENNE PRAIRIE, TOWN OF | 29183C0430E | 01-FEB-2000 | 00-07-189A | 01
07 | MO | EUREKA, CITY OF | 29189C0263H | 09-JUN-2000 | 00-07-106A | 01
07 | MO | FENTON, CITY OF | 29189C0289H | 14-MAR-2000 | 00-07-258A | 02
07 | MO | FENTON, CITY OF | 29189C0289H | 16-JUN-2000 | 00-07-347A | 02
07 | MO | FRANKLIN COUNTY | 2904930160B | 21-JUN-2000 | 00-07-293A | 02
07 | MO | FRANKLIN COUNTY | 2904930250B | 11-APR-2000 | 00-07-341A | 02
07 | MO | FRONTENAC, CITY OF | 29189C0168H | 11-JAN-2000 | 00-07-134A | 02
07 | MO | FRONTENAC, CITY OF | 29189C0281H | 15-MAR-2000 | 00-07-168A | 02
07 | MO | FRONTENAC, CITY OF | 29189C0281H | 25-MAY-2000 | 00-07-230A | 02
07 | MO | GREENE COUNTY | 2907820090B | 24-FEB-2000 | 00-07-136A | 01
07 | MO | INDEPENDENCE, CITY OF | 2901720010E | 22-MAR-2000 | 99-07-964V | 19
07 | MO | INDEPENDENCE, CITY OF | 2901720020E | 22-MAR-2000 | 99-07-964V | 19
07 | MO | INDEPENDENCE, CITY OF | 2901720035E | 22-MAR-2000 | 99-07-964V | 19
07 | MO | JACKSON COUNTY | 290492IND0 | 15-MAY-2000 | 00-07-336P | 06
07 | MO | JACKSON COUNTY | 290492IND0 | 22-MAR-2000 | 99-07-807P | 05
07 | MO | JEFFERSON COUNTY | 2908080165B | 10-MAR-2000 | 00-07-051A | 02
07 | MO | JEFFERSON COUNTY | 2908080090D | 01-MAR-2000 | 00-07-236A | 02
07 | MO | JEFFERSON COUNTY | 2908080020B | 27-MAR-2000 | 00-07-248A | 02
07 | MO | JEFFERSON COUNTY | 2908080115C | 18-APR-2000 | 00-07-256A | 02
07 | MO | JOPLIN, CITY OF | 2901830025C | 28-JUN-2000 | 00-07-307A | 02
07 | MO | KANSAS CITY, CITY OF | 2901730060B | 22-FEB-2000 | 00-07-194A | 02
07 | MO | LAFAYETTE COUNTY | 2908120100B | 19-JAN-2000 | 00-07-144A | 02
07 | MO | MANCHESTER, CITY OF | 29189C0257H | 02-FEB-2000 | 00-07-163A | 02
07 | MO | MARYLAND HEIGHTS, CITY OF | 29189C0152H | 16-MAY-2000 | 00-07-331A | 02
07 | MO | MILLER COUNTY | 2902260200A | 13-JAN-2000 | 00-07-149A | 02
07 | MO | MORGAN COUNTY | 2902440200A | 24-APR-2000 | 00-07-244A | 02
07 | MO | O'FALLON, CITY OF | 29183C0430E | 24-MAY-2000 | 00-07-204P | 05
07 | MO | O'FALLON, CITY OF | 29183C0230E | 23-JUN-2000 | 00-07-294A | 01
07 | MO | O'FALLON, CITY OF | 29183C0235E | 18-APR-2000 | 00-07-367A | 02
07 | MO | O'FALLON, CITY OF | 29183C0430E | 19-APR-2000 | 00-07-368A | 01
07 | MO | O'FALLON, CITY OF | 29183C0239E | 23-JUN-2000 | 00-07-489A | 17
07 | MO | PECULIAR, CITY OF | 2908780001A | 09-MAY-2000 | 00-07-323A | 02
07 | MO | RAY COUNTY | 290778IND0 | 15-MAY-2000 | 00-07-336P | 06
07 | MO | RAY COUNTY | 290778IND0 | 22-MAR-2000 | 99-07-807P | 05
07 | MO | REPUBLIC, CITY OF | 2901480001B | 24-FEB-2000 | 00-07-212A | 02
07 | MO | SCOTT COUNTY | 2908370075B | 18-JAN-2000 | 00-07-160A | 02
07 | MO | SCOTT COUNTY | 2908370125B | 11-APR-2000 | 00-07-333A | 02
07 | MO | SEDALIA, CITY OF | 2902830001C | 26-APR-2000 | 00-07-188A | 02
07 | MO | SEDALIA, CITY OF | 2902830001C | 13-MAR-2000 | 00-07-233A | 02
07 | MO | ST. CHARLES COUNTY | 29183C0235E | 01-MAR-2000 | 00-07-232A | 02
07 | MO | ST. CHARLES COUNTY | 29183C0435E | 07-JUN-2000 | 00-07-292A | 02
07 | MO | ST. CHARLES COUNTY | 29183C0288E | 08-JUN-2000 | 00-07-346A | 02
07 | MO | ST. CHARLES COUNTY | 29183C0235E | 26-APR-2000 | 00-07-385A | 02
07 | MO | ST. CHARLES, CITY OF | 29183C0286E | 28-FEB-2000 | 00-07-174A | 01
07 | MO | ST. LOUIS COUNTY | 29189C0311H | 16-MAY-2000 | 00-07-334A | 02
07 | MO | ST. LOUIS COUNTY | 29189C0289H | 16-MAY-2000 | 00-07-412A | 02
07 | MO | ST. PETERS, CITY OF | 29183C0264E | 24-JAN-2000 | 00-07-150A | 02
07 | MO | ST. PETERS, CITY OF | 29183C0242E | 27-MAR-2000 | 00-07-243A | 02
07 | MO | ST. PETERS, CITY OF | 29183C0264E | 01-MAR-2000 | 00-07-257A | 02
07 | MO | UNION STAR, CITY OF | 290512B | 03-MAR-2000 | 00-07-166P | 06
07 | MO | UNION, CITY OF | 2901370005B | 30-MAY-2000 | 00-07-371A | 02
07 | MO | UNIVERSITY CITY, CITY OF | 29189C0191H | 14-JUN-2000 | 00-07-475A | 02
07 | MO | WARREN COUNTY | 2904430075C | 05-JAN-2000 | 00-07-114A | 02
07 | MO | WARREN COUNTY | 2904430125B | 05-JAN-2000 | 00-07-115A | 02
07 | MO | WARREN COUNTY | 2904430075C | 09-MAR-2000 | 00-07-148A | 02
07 | MO | WARREN COUNTY | 2904430075C | 01-MAR-2000 | 00-07-250A | 02
07 | MO | WARREN COUNTY | 2904430075C | 14-MAR-2000 | 00-07-251A | 02
07 | MO | WARREN COUNTY | 2904430125B | 01-MAR-2000 | 00-07-263A | 02
07 | MO | WARREN COUNTY | 2904430075C | 13-APR-2000 | 00-07-444A | 02
07 | MO | WILDWOOD, CITY OF | 29189C0115H | 17-APR-2000 | 99-07-214P | 05
07 | MO | WILDWOOD, CITY OF | 29189C0120H | 17-APR-2000 | 99-07-214P | 05
07 | NE | BEATRICE, CITY OF | 3100910015B | 19-APR-2000 | 00-07-213A | 01
07 | NE | CENTRAL CITY, CITY OF | 3101480005C | 24-MAR-2000 | 00-07-329A | 02
07 | NE | CENTRAL CITY, CITY OF | 3101480005C | 30-MAY-2000 | 00-07-436A | 02
07 | NE | CRETE, CITY OF | 3101860003C | 14-JUN-2000 | 00-07-470A | 02
07 | NE | DOUGLAS COUNTY | 3100730125B | 21-JUN-2000 | 00-07-332A | 01
07 | NE | GAGE COUNTY | 3100880001B | 07-APR-2000 | 00-07-211A | 02
07 | NE | GRAND ISLAND, CITY OF | 3101030015B | 19-JAN-2000 | 00-07-147A | 02
07 | NE | GRAND ISLAND, CITY OF | 3101030020B | 10-FEB-2000 | 00-07-200A | 02
07 | NE | GRAND ISLAND, CITY OF | 3101030020B | 22-MAR-2000 | 00-07-301A | 02
07 | NE | GRAND ISLAND, CITY OF | 3101030015B | 22-MAR-2000 | 00-07-306A | 02
07 | NE | GRAND ISLAND, CITY OF | 3101030005B | 11-APR-2000 | 00-07-310A | 02
07 | NE | GRAND ISLAND, CITY OF | 3101030020B | 22-MAR-2000 | 00-07-311A | 02
07 | NE | GRAND ISLAND, CITY OF | 3101030015B | 22-MAR-2000 | 00-07-315A | 02
07 | NE | GRAND ISLAND, CITY OF | 3101000100C | 01-MAY-2000 | 00-07-317A | 02
07 | NE | GRAND ISLAND, CITY OF | 3101030010B | 22-MAR-2000 | 00-07-327A | 02
07 | NE | GRAND ISLAND, CITY OF | 3101030020B | 01-APR-2000 | 00-07-335A | 02
07 | NE | GRAND ISLAND, CITY OF | 3101030005B | 26-APR-2000 | 00-07-382A | 02
07 | NE | GRAND ISLAND, CITY OF | 3101030015B | 25-APR-2000 | 00-07-384A | 02
07 | NE | GRAND ISLAND, CITY OF | 3101030015B | 01-MAY-2000 | 00-07-386A | 02
07 | NE | GRAND ISLAND, CITY OF | 3101030020B | 11-APR-2000 | 00-07-388A | 02
07 | NE | GRAND ISLAND, CITY OF | 3101030015B | 25-MAY-2000 | 00-07-428A | 02
07 | NE | GRAND ISLAND, CITY OF | 3101030010B | 25-MAY-2000 | 00-07-430A | 02
07 | NE | GRAND ISLAND, CITY OF | 3101030015B | 25-MAY-2000 | 00-07-432A | 02
07 | NE | GRAND ISLAND, CITY OF | 3101030015B | 28-JUN-2000 | 00-07-484A | 02
07 | NE | GRAND ISLAND, CITY OF | 3101030015B | 28-JUN-2000 | 00-07-533A | 02
07 | NE | GRAND ISLAND, CITY OF | 3101030015B | 28-JUN-2000 | 00-07-559A | 02
07 | NE | HALL COUNTY | 3101000025C | 30-JUN-2000 | 00-07-140A | 01
07 | NE | HALL COUNTY | 3101000050C | 19-JAN-2000 | 00-07-146A | 02
07 | NE | HAMILTON COUNTY | 3104410025A | 28-JAN-2000 | 00-07-180A | 02
07 | NE | HOWELLS, VILLAGE OF | 3103800001B | 30-MAY-2000 | 99-07-932P | 05
07 | NE | HOWELLS, VILLAGE OF | 3103800002B | 30-MAY-2000 | 99-07-932P | 05
07 | NE | JUNIATA, VILLAGE OF | 3102930001B | 18-JAN-2000 | 00-07-031A | 01
07 | NE | LINCOLN, CITY OF | 3152730020D | 21-JUN-2000 | 00-07-113A | 01
07 | NE | LINCOLN, CITY OF | 3152730040C | 24-APR-2000 | 00-07-116A | 02
07 | NE | LINCOLN, CITY OF | 3152730025D | 10-FEB-2000 | 00-07-121A | 01
07 | NE | LINCOLN, CITY OF | 3152730025D | 10-FEB-2000 | 00-07-202A | 01
07 | NE | LINCOLN, CITY OF | 3152730020D | 02-JUN-2000 | 00-07-272A | 02
07 | NE | LINCOLN, CITY OF | 3152730025D | 25-MAY-2000 | 00-07-295A | 01
07 | NE | LINCOLN, CITY OF | 3152730025D | 28-MAR-2000 | 00-07-324A | 02
07 | NE | LINCOLN, CITY OF | 3152730025D | 01-MAY-2000 | 00-07-377A | 02
07 | NE | LINCOLN, CITY OF | 3152730025D | 24-APR-2000 | 00-07-380A | 02
07 | NE | LINCOLN, CITY OF | 3152730025D | 28-JUN-2000 | 00-07-398A | 01
07 | NE | MERRICK COUNTY | 3104570150A | 13-JAN-2000 | 00-07-097A | 02
07 | NE | MERRICK COUNTY | 3104570175B | 24-MAR-2000 | 00-07-176A | 02
07 | NE | MERRICK COUNTY | 3104570125B | 14-JUN-2000 | 00-07-209A | 02
07 | NE | MERRICK COUNTY | 3104570150A | 14-JUN-2000 | 00-07-209A | 02
07 | NE | MERRICK COUNTY | 3104570150A | 02-JUN-2000 | 00-07-255A | 02
07 | NE | MERRICK COUNTY | 3104570150A | 06-JUN-2000 | 00-07-284A | 02
07 | NE | NORFOLK, CITY OF | 3101470020C | 07-JUN-2000 | 00-07-362A | 02
07 | NE | OMAHA, CITY OF | 3152740025F | 03-MAR-2000 | 00-07-138A | 01
07 | NE | OMAHA, CITY OF | 3152740040F | 25-MAY-2000 | 00-07-259A | 01
07 | NE | OMAHA, CITY OF | 3152740045G | 14-JUN-2000 | 00-07-418A | 02
07 | NE | PLATTE COUNTY | 3104670225D | 10-FEB-2000 | 98-07-196V | 19
07 | NE | PLATTE COUNTY | 3104670200D | 25-FEB-2000 | 99-07-963V | 19
07 | NE | PLATTE COUNTY | 3104670225D | 25-FEB-2000 | 99-07-963V | 19
07 | NE | SALINE COUNTY | 3104720050A | 22-FEB-2000 | 00-07-137A | 02
07 | NE | SARPY COUNTY | 31153C0150F | 16-FEB-2000 | 00-07-208A | 02
07 | NE | SAUNDERS COUNTY | 3101950105B | 28-JUN-2000 | 00-07-291A | 02
07 | NE | SCHUYLER, CITY OF | 3100460005B | 11-JAN-2000 | 00-07-132A | 02
07 | NE | SCHUYLER, CITY OF | 3100460005B | 12-JAN-2000 | 00-07-142A | 02
07 | NE | SCHUYLER, CITY OF | 3100460005B | 22-FEB-2000 | 00-07-203A | 02
07 | NE | SCHUYLER, CITY OF | 3100460005B | 13-MAR-2000 | 00-07-240A | 02
07 | NE | SCHUYLER, CITY OF | 3100460005B | 11-MAY-2000 | 00-07-340A | 02
07 | NE | SCHUYLER, CITY OF | 3100460005B | 30-JUN-2000 | 00-07-510A | 02
07 | NE | SCHUYLER, CITY OF | 3100460005B | 23-JUN-2000 | 00-07-524A | 02
07 | NE | SCOTTS BLUFF COUNTY | 3104730075A | 24-JAN-2000 | 00-07-157A | 02
07 | NE | SEWARD COUNTY | 3104740004B | 27-MAR-2000 | 00-07-267A | 02
07 | NE | SEWARD, CITY OF | 3102100005C | 30-MAY-2000 | 00-07-397A | 02
07 | NE | STANTON, CITY OF | 3102170005B | 25-MAY-2000 | 00-07-426A | 02
07 | NE | WASHINGTON COUNTY | 3104830125B | 04-FEB-2000 | 00-07-153A | 02
08 | CO | ADAMS COUNTY | 08001C0075G | 09-JUN-2000 | 00-08-188A | 02
08 | CO | ARAPAHOE COUNTY | 08005C0485J | 06-JAN-2000 | 00-08-023P | 05
08 | CO | ARAPAHOE COUNTY | 08005C0485J | 02-MAY-2000 | 00-08-122A | 01
08 | CO | ARAPAHOE COUNTY | 08005C0280J | 21-JUN-2000 | 00-08-133A | 02
08 | CO | ARAPAHOE COUNTY | 08005C0480J | 13-MAR-2000 | 99-08-204P | 05
08 | CO | ARAPAHOE COUNTY | 08005C0480J | 17-MAY-2000 | 99-08-408P | 05
08 | CO | ARAPAHOE COUNTY | 08005C0455J | 29-JUN-2000 | 99-08-410P | 05
08 | CO | ARAPAHOE COUNTY | 08005C0460J | 29-JUN-2000 | 99-08-410P | 05
08 | CO | ARAPAHOE COUNTY | 08005C0195J | 18-FEB-2000 | 99-08-416P | 06
08 | CO | ARAPAHOE COUNTY | 08005C0215J | 18-FEB-2000 | 99-08-416P | 06
08 | CO | BRIGHTON, CITY OF | 08001C0052G | 14-FEB-2000 | 99-08-445A | 01
08 | CO | BRIGHTON, CITY OF | 08001C0055G | 14-FEB-2000 | 99-08-445A | 01
08 | CO | CANON CITY, CITY OF | 0800680001D | 18-JAN-2000 | 98-08-334P | 06
08 | CO | COLORADO SPRINGS, CITY OF | 08041C0736F | 22-FEB-2000 | 00-08-020A | 02
08 | CO | DENVER, CITY AND COUNTY OF | 0800460022C | 05-APR-2000 | 00-08-154A | 01
08 | CO | DENVER, CITY AND COUNTY OF | 0800460022C | 07-FEB-2000 | 99-08-436A | 01
08 | CO | DOUGLAS COUNTY | 0800490050C | 29-JUN-2000 | 99-08-410P | 05
08 | CO | ENGLEWOOD, CITY OF | 08005C0145J | 29-JUN-2000 | 99-08-410P | 05
08 | CO | ENGLEWOOD, CITY OF | 08005C0165J | 29-JUN-2000 | 99-08-410P | 05
08 | CO | ENGLEWOOD, CITY OF | 08005C0435J | 29-JUN-2000 | 99-08-410P | 05
08 | CO | ENGLEWOOD, CITY OF | 08005C0455J | 29-JUN-2000 | 99-08-410P | 05
08 | CO | FEDERAL HEIGHTS, CITY OF | 08001C0307G | 07-FEB-2000 | 00-08-045P | 06
08 | CO | FEDERAL HEIGHTS, CITY OF | 08001C0330G | 07-FEB-2000 | 00-08-045P | 06
08 | CO | FREMONT COUNTY | 0800670200B | 03-MAR-2000 | 00-08-048A | 01
08 | CO | FREMONT COUNTY | 0800670335B | 18-JAN-2000 | 98-08-334P | 06
08 | CO | FRUITA, CITY OF | 0801940001B | 04-MAY-2000 | 00-08-189P | 06
08 | CO | GREENWOOD VILLAGE, CITY OF | 08005C0455J | 29-JUN-2000 | 99-08-410P | 05
08 | CO | GUNNISON COUNTY | 0800780615B | 14-JUN-2000 | 00-08-228A | 02
08 | CO | GUNNISON, CITY OF | 0800800002C | 09-MAR-2000 | 00-08-126A | 02
08 | CO | JEFFERSON COUNTY | 0800870360B | 31-JAN-2000 | 99-08-359P | 05
08 | CO | JEFFERSON COUNTY | 0800870380C | 31-JAN-2000 | 99-08-359P | 05
08 | CO | LAMAR, CITY OF | 0801460003B | 28-MAR-2000 | 00-08-068A | 02
08 | CO | LARIMER COUNTY | 0801010179E | 05-JAN-2000 | 00-08-064A | 02
08 | CO | LARIMER COUNTY | 0801010179E | 31-MAR-2000 | 00-08-161A | 02
08 | CO | LITTLETON, CITY OF | 0800170010D | 29-JUN-2000 | 99-08-410P | 05
08 | CO | LOUISVILLE, CITY OF | 08013C0560F | 19-JAN-2000 | 99-08-231P | 05
08 | CO | LOUISVILLE, CITY OF | 08013C0576G | 19-JAN-2000 | 99-08-231P | 05
08 | CO | MANITOU SPRINGS, CITY OF | 08041C0706F | 22-FEB-2000 | 00-08-008A | 17
08 | CO | MONTEZUMA COUNTY | 0802850225B | 02-JUN-2000 | 00-08-179A | 02
08 | CO | PALMER LAKE, TOWN OF | 08041C0260F | 22-FEB-2000 | 00-08-070A | 02
08 | CO | PUEBLO COUNTY | 0801470275B | 08-MAR-2000 | 00-08-073P | 06
08 | CO | PUEBLO COUNTY | 0801470360B | 08-MAR-2000 | 00-08-073P | 06
08 | CO | PUEBLO COUNTY | 0801470380B | 08-MAR-2000 | 00-08-073P | 06
08 | CO | ROCKY FORD, CITY OF | 0801350001B | 21-JUN-2000 | 00-08-205A | 02
08 | CO | THORNTON, CITY OF | 08001C0330G | 02-MAY-2000 | 00-08-174A | 02
08 | CO | WELD COUNTY | 0802660605D | 09-MAR-2000 | 00-08-087A | 01
08 | CO | WELD COUNTY | 0802660605D | 27-MAR-2000 | 00-08-168A | 01
08 | CO | WESTMINSTER, CITY OF | 0800080007D | 23-MAR-2000 | 00-08-147P | 06
08 | CO | WESTMINSTER, CITY OF | 0800080003C | 01-FEB-2000 | 99-08-376P | 05
08 | CO | WHEAT RIDGE, CITY OF | 0850790005C | 18-JAN-2000 | 00-08-013A | 02
08 | MT | CARBON COUNTY | 3001390040B | 24-MAR-2000 | 99-08-431A | 02
08 | MT | FLATHEAD COUNTY | 3000231435C | 27-JAN-2000 | 00-08-066A | 17
08 | MT | FLATHEAD COUNTY | 3000231840E | 24-APR-2000 | 00-08-171A | 01
08 | MT | GLENDIVE, CITY OF | 3000150005B | 28-JUN-2000 | 00-08-252A | 02
08 | MT | GRANITE COUNTY | 3001410575A | 14-JUN-2000 | 00-08-146A | 02
08 | MT | JEFFERSON COUNTY | 3001540525B | 17-MAY-2000 | 00-08-203A | 02
08 | MT | LAKE COUNTY | 30047C0100B | 08-MAR-2000 | 00-08-026A | 02
08 | MT | LEWIS AND CLARK COUNTY | 3000381625D | 03-MAR-2000 | 00-08-014A | 02
08 | MT | LEWIS AND CLARK COUNTY | 3000381542C | 27-MAR-2000 | 00-08-124A | 02
08 | MT | LINCOLN COUNTY | 3001571025B | 08-MAR-2000 | 00-08-059A | 02
08 | MT | LINCOLN COUNTY | 3001570620B | 16-JUN-2000 | 00-08-186A | 02
08 | MT | MILES CITY, CITY OF | 3000140005C | 12-JAN-2000 | 00-08-063A | 02
08 | MT | MISSOULA COUNTY | 30063C1755D | 23-FEB-2000 | 00-08-099A | 02
08 | MT | MISSOULA COUNTY | 30063C1195D | 14-JUN-2000 | 00-08-199P | 06
08 | MT | MISSOULA COUNTY | 30063C1455D | 30-JUN-2000 | 00-08-239A | 02
08 | MT | MISSOULA COUNTY | 30063C1195D | 26-APR-2000 | 99-08-240P | 06
08 | MT | MISSOULA, CITY OF | 30063C1480D | 16-MAY-2000 | 00-08-091A | 02
08 | MT | PARK COUNTY | 3001600020B | 09-FEB-2000 | 00-08-082A | 02
08 | MT | PARK COUNTY | 3001600016B | 21-APR-2000 | 00-08-165A | 02
08 | MT | PARK COUNTY | 3001600024B | 30-MAY-2000 | 00-08-216A | 02
08 | MT | PARK COUNTY | 3001600016B | 28-JUN-2000 | 00-08-222A | 02
08 | MT | PARK COUNTY | 3001600017B | 16-JUN-2000 | 00-08-229A | 02
08 | MT | RAVALLI COUNTY | 30081C0120C | 24-MAY-2000 | 00-08-110A | 01
08 | MT | ROUNDUP, CITY OF | 3000500001B | 08-MAR-2000 | 00-08-090A | 02
08 | MT | THREE FORKS, TOWN OF | 3000290001B | 09-MAR-2000 | 00-08-127A | 02
08 | MT | THREE FORKS, TOWN OF | 3000290001B | 21-MAR-2000 | 00-08-158A | 02
08 | MT | THREE FORKS, TOWN OF | 3000290001B | 28-APR-2000 | 00-08-181A | 02
08 | MT | THREE FORKS, TOWN OF | 3000290001B | 02-JUN-2000 | 00-08-207A | 02
08 | MT | WIBAUX, TOWN OF | 30109C0180D | 10-MAR-2000 | 00-08-129A | 02
08 | MT | YELLOWSTONE COUNTY | 3001420750A | 09-JUN-2000 | 00-08-225A | 02
08 | MT | YELLOWSTONE COUNTY | 3001421030B | 22-MAR-2000 | 99-08-452V | 19
08 | ND | BARNES COUNTY | 3803390355A | 24-MAY-2000 | 00-08-079A | 02
08 | ND | BARNES COUNTY | 3803390250A | 12-MAY-2000 | 00-08-198A | 02
08 | ND | BARNES COUNTY | 3803390355A | 26-JUN-2000 | 00-08-282A | 02
08 | ND | BATHGATE, CITY OF | 3800800001A | 16-MAY-2000 | 00-08-178A | 01
08 | ND | BISMARCK, CITY OF | 3801490025A | 02-MAY-2000 | 00-08-169A | 01
08 | ND | BISMARCK, CITY OF | 3801490025A | 09-JUN-2000 | 00-08-197A | 01
08 | ND | BISMARCK, CITY OF | 3801490015A | 14-JUN-2000 | 00-08-234A | 02
08 | ND | BOWMAN, CITY OF | 3800120001B | 21-MAR-2000 | 00-08-075A | 01
08 | ND | BOWMAN, CITY OF | 3800120001B | 14-JUN-2000 | 00-08-125A | 02
08 | ND | FARGO, CITY OF | 3853640030D | 07-JAN-2000 | 00-08-031A | 01
08 | ND | FARGO, CITY OF | 3853640010F | 04-MAY-2000 | 00-08-183A | 01
08 | ND | GRAND FORKS COUNTY | 3800330016B | 03-MAY-2000 | 00-08-153A | 02
08 | ND | GRAND FORKS, CITY OF | 3853650010D | 10-FEB-2000 | 00-08-089A | 02
08 | ND | GRAND FORKS, CITY OF | 3853650010D | 09-MAR-2000 | 00-08-119A | 02
08 | ND | LISBON, CITY OF | 3800910001B | 09-MAR-2000 | 00-08-071A | 02
08 | ND | MANDAN, CITY OF | 3800720020B | 31-MAY-2000 | 00-08-115A | 02
08 | ND | MCHENRY COUNTY | 38049C0325D | 17-MAY-2000 | 00-08-196P | 06
08 | ND | MCHENRY COUNTY | 38049C0450D | 17-MAY-2000 | 00-08-196P | 06
08 | ND | MCHENRY COUNTY | 38049C0500D | 17-MAY-2000 | 00-08-196P | 06
08 | ND | MCHENRY COUNTY | 38049C0625D | 17-MAY-2000 | 00-08-196P | 06
08 | ND | MCHENRY COUNTY | 38049C0675D | 17-MAY-2000 | 00-08-196P | 06
08 | ND | MCHENRY COUNTY | 38049C0775D | 17-MAY-2000 | 00-08-196P | 06
08 | ND | MCHENRY COUNTY | 38049C0780D | 17-MAY-2000 | 00-08-196P | 06
08 | ND | MCHENRY COUNTY | 38049C0850D | 17-MAY-2000 | 00-08-196P | 06
08 | ND | MCHENRY COUNTY | 38049C0875D | 17-MAY-2000 | 00-08-196P | 06
08 | ND | MCHENRY COUNTY | 38049C0975D | 17-MAY-2000 | 00-08-196P | 06
08 | ND | MCHENRY COUNTY | 38049C1000D | 17-MAY-2000 | 00-08-196P | 06
08 | ND | MCHENRY COUNTY | 38049C1025D | 17-MAY-2000 | 00-08-196P | 06
08 | ND | MCHENRY COUNTY | 38049C1050D | 17-MAY-2000 | 00-08-196P | 06
08 | ND | MCHENRY COUNTY | 38049C1100D | 17-MAY-2000 | 00-08-196P | 06
08 | ND | MCHENRY COUNTY | 38049CIND0 | 17-MAY-2000 | 00-08-196P | 06
08 | ND | MINOT, CITY OF | 38101C0777D | 24-FEB-2000 | 00-08-120A | 02
08 | ND | MINOT, CITY OF | 38101C0777D | 20-JAN-2000 | 97-08-321V | 19
08 | ND | MINOT, CITY OF | 38101C0783D | 20-JAN-2000 | 97-08-321V | 19
08 | ND | MINOT, CITY OF | 38101C0787D | 20-JAN-2000 | 97-08-321V | 19
08 | ND | PLEASANT, TOWNSHIP OF | 3802630025A | 18-FEB-2000 | 00-08-097A | 01
08 | ND | PLEASANT, TOWNSHIP OF | 3802630025A | 29-MAR-2000 | 00-08-109A | 02
08 | ND | PLEASANT, TOWNSHIP OF | 3802630025A | 14-JUN-2000 | 00-08-236A | 02
08 | ND | STANLEY, TOWNSHIP OF | 3802580005B | 08-MAR-2000 | 00-08-123A | 02
08 | ND | WALSH COUNTY | 3801350008B | 30-MAR-2000 | 00-08-086A | 02
08 | ND | WARD COUNTY | 38101C0757C | 15-MAR-2000 | 00-08-138A | 02
08 | ND | WARD COUNTY | 38101C0505D | 17-MAY-2000 | 00-08-195P | 06
08 | ND | WARD COUNTY | 38101C0540D | 17-MAY-2000 | 00-08-195P | 06
08 | ND | WARD COUNTY | 38101C0545D | 17-MAY-2000 | 00-08-195P | 06
08 | ND | WARD COUNTY | 38101C0810D | 17-MAY-2000 | 00-08-195P | 06
08 | ND | WARD COUNTY | 38101C0830D | 17-MAY-2000 | 00-08-195P | 06
08 | ND | WARD COUNTY | 38101CIND0 | 17-MAY-2000 | 00-08-195P | 06
08 | ND | WARD COUNTY | 38101C0565D | 20-JAN-2000 | 97-08-321V | 19
08 | ND | WARD COUNTY | 38101C0566D | 20-JAN-2000 | 97-08-321V | 19
08 | ND | WARD COUNTY | 38101C0803D | 20-JAN-2000 | 97-08-321V | 19
08 | ND | WARD COUNTY | 38101C0815D | 20-JAN-2000 | 97-08-321V | 19
08 | ND | WARD COUNTY | 38101C0820D | 20-JAN-2000 | 97-08-321V | 19
08 | ND | WARD COUNTY | 38101C1010D | 20-JAN-2000 | 97-08-321V | 19
08 | ND | WEST FARGO, CITY OF | 3800240005E | 17-MAY-2000 | 00-08-103A | 02
08 | SD | ELK POINT, CITY OF | 460242C | 22-MAY-2000 | 00-08-206A | 01
08 | SD | LINCOLN COUNTY | 4602770001B | 24-FEB-2000 | 00-08-098A | 02
08 | SD | PENNINGTON COUNTY | 4600641120B | 27-JAN-2000 | 00-08-024A | 02
08 | SD | RAPID CITY, CITY OF | 4654200004F | 18-JAN-2000 | 00-08-060A | 01
08 | SD | RAPID CITY, CITY OF | 4654200003F | 30-MAR-2000 | 00-08-145A | 02
08 | SD | RAPID CITY, CITY OF | 4654200003F | 18-APR-2000 | 00-08-166A | 02
08 | SD | RAPID CITY, CITY OF | 4654200003F | 28-JUN-2000 | 00-08-245A | 02
08 | SD | ROBERTS COUNTY | 4602860007B | 08-MAY-2000 | 00-08-162A | 01
08 | SD | SIOUX FALLS, CITY OF | 4600570065B | 12-JAN-2000 | 00-08-081A | 01
08 | SD | SIOUX FALLS, CITY OF | 4600600015C | 28-MAR-2000 | 00-08-157A | 01
08 | SD | SIOUX FALLS, CITY OF | 4600570065B | 25-MAY-2000 | 00-08-193A | 01
08 | SD | SIOUX FALLS, CITY OF | 4600600015C | 16-JUN-2000 | 00-08-211A | 02
08 | SD | SIOUX FALLS, CITY OF | 4600570110B | 16-JUN-2000 | 00-08-249A | 01
08 | SD | SPEARFISH, CITY OF | 4600460004D | 09-MAY-2000 | 00-08-080A | 02
08 | SD | SPEARFISH, CITY OF | 4600460001D | 09-MAR-2000 | 00-08-116A | 01
08 | SD | UNION COUNTY | 460242C | 08-FEB-2000 | 00-08-092A | 01
08 | UT | AURORA, CITY OF | 4901210006B | 17-MAY-2000 | 00-08-118A | 02
08 | UT | AURORA, CITY OF | 4901230001C | 17-MAY-2000 | 00-08-118A | 02
08 | UT | AURORA, CITY OF | 4901230001C | 31-MAR-2000 | 00-08-149A | 02
08 | UT | AURORA, CITY OF | 4901230001C | 16-JUN-2000 | 00-08-233A | 02
08 | UT | CACHE COUNTY | 4900120006B | 12-APR-2000 | 00-08-163A | 02
08 | UT | CACHE COUNTY | 4900120009B | 02-MAY-2000 | 00-08-172A | 02
08 | UT | GARFIELD COUNTY | 4900650450B | 18-JAN-2000 | 00-08-051A | 02
08 | UT | GARFIELD COUNTY | 4900650450B | 25-APR-2000 | 00-08-100A | 02
08 | UT | GARFIELD COUNTY | 4900650450B | 04-MAY-2000 | 00-08-128A | 02
08 | UT | HARRISVILLE, CITY OF | 4902080001A | 19-JAN-2000 | 00-08-033A | 02
08 | UT | MORGAN COUNTY | 4900920105B | 13-APR-2000 | 00-08-032P | 06
08 | UT | MOUNT PLEASANT, CITY OF | 4902130005A | 15-MAR-2000 | 00-08-112P | 06
08 | UT | MOUNT PLEASANT, CITY OF | 4902130005A | 18-JAN-2000 | 99-08-083P | 06
08 | UT | MURRAY, CITY OF | 4901030001C | 21-JAN-2000 | 99-08-409A | 01
08 | UT | OGDEN, CITY OF | 4901890006B | 18-JAN-2000 | 00-08-065A | 02
08 | UT | PROVO, CITY OF | 4901590002D | 22-JUN-2000 | 99-08-433P | 05
08 | UT | RIVERTON, CITY OF | 4901040002C | 09-MAY-2000 | 00-08-004P | 06
08 | UT | SALT LAKE CITY, CITY OF | 4901050027A | 26-APR-2000 | 00-08-101A | 02
08 | UT | SANDY CITY, CITY OF | 4901060012C | 04-MAY-2000 | 99-08-422P | 06
08 | UT | SANDY CITY, CITY OF | 4901060016C | 04-MAY-2000 | 99-08-422P | 06
08 | UT | SANPETE COUNTY | 4901110007B | 15-MAR-2000 | 00-08-112P | 06
08 | UT | SANPETE COUNTY | 4901110008B | 15-MAR-2000 | 00-08-112P | 06
08 | UT | SANPETE COUNTY | 4901110011B | 28-MAR-2000 | 00-08-151A | 02
08 | UT | SANPETE COUNTY | 4901110007B | 18-JAN-2000 | 99-08-083P | 06
08 | UT | SANPETE COUNTY | 4901110008B | 18-JAN-2000 | 99-08-083P | 06
08 | UT | SANTA CLARA, TOWN OF | 4901780005B | 26-MAY-2000 | 00-08-142A | 02
08 | UT | SOUTH JORDAN, CITY OF | 4901070008C | 09-MAY-2000 | 00-08-004P | 06
08 | UT | TOOELE, CITY OF | 4901450005A | 30-MAY-2000 | 00-08-131A | 01
08 | UT | UINTAH COUNTY | 4901470010C | 26-MAY-2000 | 00-08-132A | 02
08 | UT | VERNAL, CITY OF | 4901490005A | 08-MAR-2000 | 00-08-117A | 02
08 | UT | WASHINGTON,CITY OF | 4901820015C | 31-MAR-2000 | 00-08-107A | 02
08 | UT | WEST VALLEY CITY, CITY OF | 4902450025C | 22-FEB-2000 | 00-08-076A | 02
08 | WY | CASPER, CITY OF | 5600370015C | 04-MAY-2000 | 00-08-167A | 02
08 | WY | CHEYENNE, CITY OF | 5600300005E | 16-JUN-2000 | 00-08-212A | 02
08 | WY | SHERIDAN COUNTY | 5600470019C | 14-JUN-2000 | 00-08-209A | 02
08 | WY | SHERIDAN, CITY OF | 5600440005C | 06-APR-2000 | 00-08-156A | 02
09 | AZ | AVONDALE, CITY OF | 04013C2080G | 23-FEB-2000 | 00-09-009P | 05
09 | AZ | AVONDALE, CITY OF | 04013C2085E | 23-FEB-2000 | 00-09-009P | 05
09 | AZ | AVONDALE, CITY OF | 04013C2090F | 23-FEB-2000 | 00-09-009P | 05
09 | AZ | AVONDALE, CITY OF | 04013C2095D | 23-FEB-2000 | 00-09-009P | 05
09 | AZ | AVONDALE, CITY OF | 04013C2090F | 20-APR-2000 | 99-09-706P | 05
09 | AZ | AVONDALE, CITY OF | 04013C2095D | 20-APR-2000 | 99-09-706P | 05
09 | AZ | AVONDALE, CITY OF | 04013C2555D | 20-APR-2000 | 99-09-706P | 05
09 | AZ | BUCKEYE, TOWN OF | 04013C2045F | 20-APR-2000 | 99-09-706P | 05
09 | AZ | BUCKEYE, TOWN OF | 04013C2065F | 20-APR-2000 | 99-09-706P | 05
09 | AZ | BUCKEYE, TOWN OF | 04013C2485F | 20-APR-2000 | 99-09-706P | 05
09 | AZ | BUCKEYE, TOWN OF | 04013C2505F | 20-APR-2000 | 99-09-706P | 05
09 | AZ | BUCKEYE, TOWN OF | 04013C2510E | 20-APR-2000 | 99-09-706P | 05
09 | AZ | BUCKEYE, TOWN OF | 04013C2530E | 20-APR-2000 | 99-09-706P | 05
09 | AZ | CHANDLER, CITY OF | 04013C3035F | 25-MAY-2000 | 00-09-317A | 02
09 | AZ | COCHISE COUNTY | 0400120065B | 15-FEB-2000 | 98-09-165P | 05
09 | AZ | COCHISE COUNTY | 0400120070B | 15-FEB-2000 | 98-09-165P | 05
09 | AZ | COCHISE COUNTY | 0400120235B | 15-FEB-2000 | 98-09-165P | 05
09 | AZ | COCHISE COUNTY | 0400120245B | 15-FEB-2000 | 98-09-165P | 05
09 | AZ | COCHISE COUNTY | 0400120255B | 15-FEB-2000 | 98-09-165P | 05
09 | AZ | COCHISE COUNTY | 0400120265B | 15-FEB-2000 | 98-09-165P | 05
09 | AZ | COCHISE COUNTY | 0400120425B | 15-FEB-2000 | 98-09-165P | 05
09 | AZ | COCHISE COUNTY | 0400120450B | 15-FEB-2000 | 98-09-165P | 05
09 | AZ | COCHISE COUNTY | 0400121261B | 14-FEB-2000 | 99-09-231P | 06
09 | AZ | COCHISE COUNTY | 0400121275C | 14-FEB-2000 | 99-09-231P | 06
09 | AZ | DOUGLAS, CITY OF | 0400150001B | 02-MAR-2000 | 00-09-430A | 02
09 | AZ | GILA COUNTY | 0400280245B | 05-JUN-2000 | 00-09-465P | 08
09 | AZ | GILA COUNTY | 0400280435B | 05-JUN-2000 | 00-09-465P | 08
09 | AZ | GILA COUNTY | 0400280455B | 05-JUN-2000 | 00-09-465P | 08
09 | AZ | GILBERT, TOWN OF | 04013C2660E | 22-FEB-2000 | 00-09-192A | 01
09 | AZ | GILBERT, TOWN OF | 04013C2660E | 16-MAY-2000 | 00-09-252A | 01
09 | AZ | GILBERT, TOWN OF | 04013C2190E | 29-MAR-2000 | 00-09-492A | 01
09 | AZ | GILBERT, TOWN OF | 04013C2655E | 29-MAR-2000 | 00-09-492A | 01
09 | AZ | GILBERT, TOWN OF | 04013C2660E | 14-JUN-2000 | 00-09-775A | 01
09 | AZ | GILBERT, TOWN OF | 04013C2680F | 29-FEB-2000 | 99-09-1026A | 01
09 | AZ | GLENDALE, CITY OF | 04013C1595F | 02-MAY-2000 | 00-09-200P | 06
09 | AZ | GLENDALE, CITY OF | 04013C1615H | 02-MAY-2000 | 00-09-200P | 06
09 | AZ | GOODYEAR, CITY OF | 04013C2065F | 20-APR-2000 | 99-09-706P | 05
09 | AZ | GOODYEAR, CITY OF | 04013C2070F | 20-APR-2000 | 99-09-706P | 05
09 | AZ | GOODYEAR, CITY OF | 04013C2090F | 20-APR-2000 | 99-09-706P | 05
09 | AZ | GOODYEAR, CITY OF | 04013C2530E | 20-APR-2000 | 99-09-706P | 05
09 | AZ | GOODYEAR, CITY OF | 04013C2550E | 20-APR-2000 | 99-09-706P | 05
09 | AZ | GRAHAM COUNTY | 0400320925B | 15-FEB-2000 | 98-09-165P | 05
09 | AZ | GRAHAM COUNTY | 0400320950B | 15-FEB-2000 | 98-09-165P | 05
09 | AZ | GRAHAM COUNTY | 0400321075B | 15-FEB-2000 | 98-09-165P | 05
09 | AZ | GRAHAM COUNTY | 0400321100B | 15-FEB-2000 | 98-09-165P | 05
09 | AZ | MARICOPA COUNTY | 04013C2085E | 23-FEB-2000 | 00-09-009P | 05
09 | AZ | MARICOPA COUNTY | 04013C2090F | 23-FEB-2000 | 00-09-009P | 05
09 | AZ | MARICOPA COUNTY | 04013C2095D | 23-FEB-2000 | 00-09-009P | 05
09 | AZ | MARICOPA COUNTY | 04013C2105D | 23-FEB-2000 | 00-09-009P | 05
09 | AZ | MARICOPA COUNTY | 04013C2120E | 23-FEB-2000 | 00-09-009P | 05
09 | AZ | MARICOPA COUNTY | 04013C0365E | 12-APR-2000 | 00-09-156P | 06
09 | AZ | MARICOPA COUNTY | 04013C0370E | 12-APR-2000 | 00-09-156P | 06
09 | AZ | MARICOPA COUNTY | 04013C0755E | 12-APR-2000 | 00-09-156P | 06
09 | AZ | MARICOPA COUNTY | 04013C1595F | 02-MAY-2000 | 00-09-200P | 06
09 | AZ | MARICOPA COUNTY | 04013C1615H | 02-MAY-2000 | 00-09-200P | 06
09 | AZ | MARICOPA COUNTY | 04013C0255F | 26-APR-2000 | 00-09-547A | 17
09 | AZ | MARICOPA COUNTY | 04013C0370E | 17-FEB-2000 | 99-09-423P | 05
09 | AZ | MARICOPA COUNTY | 04013C0375E | 17-FEB-2000 | 99-09-423P | 05
09 | AZ | MARICOPA COUNTY | 04013C0755E | 17-FEB-2000 | 99-09-423P | 05
09 | AZ | MARICOPA COUNTY | 04013C0760E | 17-FEB-2000 | 99-09-423P | 05
09 | AZ | MARICOPA COUNTY | 04013C1720E | 20-APR-2000 | 99-09-706P | 05
09 | AZ | MARICOPA COUNTY | 04013C1750E | 20-APR-2000 | 99-09-706P | 05
09 | AZ | MARICOPA COUNTY | 04013C2045F | 20-APR-2000 | 99-09-706P | 05
09 | AZ | MARICOPA COUNTY | 04013C2065F | 20-APR-2000 | 99-09-706P | 05
09 | AZ | MARICOPA COUNTY | 04013C2070F | 20-APR-2000 | 99-09-706P | 05
09 | AZ | MARICOPA COUNTY | 04013C2090F | 20-APR-2000 | 99-09-706P | 05
09 | AZ | MARICOPA COUNTY | 04013C2095D | 20-APR-2000 | 99-09-706P | 05
09 | AZ | MARICOPA COUNTY | 04013C2115E | 20-APR-2000 | 99-09-706P | 05
09 | AZ | MARICOPA COUNTY | 04013C2120E | 20-APR-2000 | 99-09-706P | 05
09 | AZ | MARICOPA COUNTY | 04013C2140E | 20-APR-2000 | 99-09-706P | 05
09 | AZ | MARICOPA COUNTY | 04013C2160D | 20-APR-2000 | 99-09-706P | 05
09 | AZ | MARICOPA COUNTY | 04013C2170E | 20-APR-2000 | 99-09-706P | 05
09 | AZ | MARICOPA COUNTY | 04013C2180E | 20-APR-2000 | 99-09-706P | 05
09 | AZ | MARICOPA COUNTY | 04013C2185E | 20-APR-2000 | 99-09-706P | 05
09 | AZ | MARICOPA COUNTY | 04013C2190E | 20-APR-2000 | 99-09-706P | 05
09 | AZ | MARICOPA COUNTY | 04013C2205E | 20-APR-2000 | 99-09-706P | 05
09 | AZ | MARICOPA COUNTY | 04013C2485F | 20-APR-2000 | 99-09-706P | 05
09 | AZ | MARICOPA COUNTY | 04013C2505F | 20-APR-2000 | 99-09-706P | 05
09 | AZ | MARICOPA COUNTY | 04013C2510E | 20-APR-2000 | 99-09-706P | 05
09 | AZ | MARICOPA COUNTY | 04013C2530E | 20-APR-2000 | 99-09-706P | 05
09 | AZ | MARICOPA COUNTY | 04013C2555D | 20-APR-2000 | 99-09-706P | 05
09 | AZ | MARICOPA COUNTY | 04013C2560D | 20-APR-2000 | 99-09-706P | 05
09 | AZ | MARICOPA COUNTY | 04013C1300E | 29-FEB-2000 | 99-09-939P | 05
09 | AZ | MESA, CITY OF | 04013C2195E | 17-APR-2000 | 00-09-259A | 02
09 | AZ | MESA, CITY OF | 04013C2215F | 13-MAR-2000 | 00-09-395A | 02
09 | AZ | MESA, CITY OF | 04013C2195E | 14-JUN-2000 | 00-09-656A | 02
09 | AZ | MESA, CITY OF | 04013C2160D | 20-APR-2000 | 99-09-706P | 05
09 | AZ | MESA, CITY OF | 04013C2170E | 20-APR-2000 | 99-09-706P | 05
09 | AZ | MESA, CITY OF | 04013C2180E | 20-APR-2000 | 99-09-706P | 05
09 | AZ | MESA, CITY OF | 04013C2185E | 20-APR-2000 | 99-09-706P | 05
09 | AZ | MESA, CITY OF | 04013C2190E | 20-APR-2000 | 99-09-706P | 05
09 | AZ | MESA, CITY OF | 04013C2205E | 20-APR-2000 | 99-09-706P | 05
09 | AZ | MOHAVE COUNTY | 0400583110B | 20-APR-2000 | 00-09-541A | 02
09 | AZ | NAVAJO COUNTY | 0400661700B | 20-APR-2000 | 99-09-1226P | 05
09 | AZ | PAYSON, TOWN OF | 0401070003A | 18-MAY-2000 | 00-09-150P | 05
09 | AZ | PAYSON, TOWN OF | 0401070004A | 18-MAY-2000 | 00-09-150P | 05
09 | AZ | PHOENIX, CITY OF | 04013C2105D | 23-FEB-2000 | 00-09-009P | 05
09 | AZ | PHOENIX, CITY OF | 04013C2115E | 23-FEB-2000 | 00-09-009P | 05
09 | AZ | PHOENIX, CITY OF | 04013C2120E | 23-FEB-2000 | 00-09-009P | 05
09 | AZ | PHOENIX, CITY OF | 04013C1690E | 21-JAN-2000 | 00-09-220A | 02
09 | AZ | PHOENIX, CITY OF | 04013C1690E | 19-APR-2000 | 00-09-315A | 02
09 | AZ | PHOENIX, CITY OF | 04013C2630E | 02-JUN-2000 | 00-09-345P | 06
09 | AZ | PHOENIX, CITY OF | 04013C1665G | 07-MAR-2000 | 00-09-355A | 02
09 | AZ | PHOENIX, CITY OF | 04013C2095D | 20-APR-2000 | 99-09-706P | 05
09 | AZ | PHOENIX, CITY OF | 04013C2115E | 20-APR-2000 | 99-09-706P | 05
09 | AZ | PHOENIX, CITY OF | 04013C2120E | 20-APR-2000 | 99-09-706P | 05
09 | AZ | PHOENIX, CITY OF | 04013C2140E | 20-APR-2000 | 99-09-706P | 05
09 | AZ | PHOENIX, CITY OF | 04013C2145F | 20-APR-2000 | 99-09-706P | 05
09 | AZ | PHOENIX, CITY OF | 04013C2165F | 20-APR-2000 | 99-09-706P | 05
09 | AZ | PIMA COUNTY | 04019C1616K | 24-MAR-2000 | 00-09-010A | 02
09 | AZ | PIMA COUNTY | 04019C1635K | 13-JAN-2000 | 00-09-103A | 02
09 | AZ | PIMA COUNTY | 04019C2220K | 31-MAR-2000 | 00-09-152A | 01
09 | AZ | PIMA COUNTY | 04019C2252K | 21-JAN-2000 | 00-09-256A | 02
09 | AZ | PIMA COUNTY | 04019C1670K | 28-FEB-2000 | 00-09-334A | 02
09 | AZ | PIMA COUNTY | 04019C1015K | 26-APR-2000 | 00-09-346P | 06
09 | AZ | PIMA COUNTY | 04019C1605K | 26-APR-2000 | 00-09-346P | 06
09 | AZ | PIMA COUNTY | 04019C1035K | 29-MAR-2000 | 00-09-442A | 02
09 | AZ | PIMA COUNTY | 04019C2225K | 06-JUN-2000 | 00-09-482P | 06
09 | AZ | PIMA COUNTY | 04019C2825K | 06-JUN-2000 | 00-09-482P | 06
09 | AZ | PIMA COUNTY | 04019C1610K | 17-APR-2000 | 00-09-526A | 02
09 | AZ | PIMA COUNTY | 04019C1610K | 05-JUN-2000 | 00-09-675A | 02
09 | AZ | PIMA COUNTY | 04019C1665K | 09-JUN-2000 | 00-09-695A | 02
09 | AZ | PIMA COUNTY | 04019C2810K | 14-JUN-2000 | 00-09-715A | 02
09 | AZ | PIMA COUNTY | 04019C2241K | 16-JUN-2000 | 99-09-1084P | 05
09 | AZ | PIMA COUNTY | 04019C2243K | 16-JUN-2000 | 99-09-1084P | 05
09 | AZ | PIMA COUNTY | 04019C2245K | 16-JUN-2000 | 99-09-1084P | 05
09 | AZ | PIMA COUNTY | 04019C2265K | 16-JUN-2000 | 99-09-1084P | 05
09 | AZ | PIMA COUNTY | 04019C2855K | 16-JUN-2000 | 99-09-1084P | 05
09 | AZ | PIMA COUNTY | 04019C2810K | 11-JAN-2000 | 99-09-1177A | 02
09 | AZ | PIMA COUNTY | 04019C1610K | 06-JAN-2000 | 99-09-1272A | 02
09 | AZ | PIMA COUNTY | 04019C1618K | 26-APR-2000 | 99-09-434P | 05
09 | AZ | PIMA COUNTY | 04019C2210K | 26-APR-2000 | 99-09-434P | 05
09 | AZ | QUEEN CREEK, TOWN OF | 04013C2695F | 21-JUN-2000 | 00-09-145P | 06
09 | AZ | QUEEN CREEK, TOWN OF | 04013C3075F | 21-JUN-2000 | 00-09-145P | 06
09 | AZ | QUEEN CREEK, TOWN OF | 04013C3075F | 04-MAY-2000 | 00-09-404A | 01
09 | AZ | SANTA CRUZ COUNTY | 0400900020A | 05-APR-2000 | 99-09-678P | 06
09 | AZ | SCOTTSDALE, CITY OF | 04013C2160D | 13-MAR-2000 | 00-09-378A | 02
09 | AZ | SCOTTSDALE, CITY OF | 04013C2160D | 24-APR-2000 | 00-09-530A | 02
09 | AZ | SCOTTSDALE, CITY OF | 04013C2160D | 09-JUN-2000 | 00-09-688A | 02
09 | AZ | TEMPE, CITY OF | 04013C2160D | 20-APR-2000 | 99-09-706P | 05
09 | AZ | TEMPE, CITY OF | 04013C2165F | 20-APR-2000 | 99-09-706P | 05
09 | AZ | TEMPE, CITY OF | 04013C2170E | 20-APR-2000 | 99-09-706P | 05
09 | AZ | TOLLESON, CITY OF | 04013C2085E | 23-FEB-2000 | 00-09-009P | 05
09 | AZ | TOLLESON, CITY OF | 04013C2095D | 23-FEB-2000 | 00-09-009P | 05
09 | AZ | TOLLESON, CITY OF | 04013C2105D | 23-FEB-2000 | 00-09-009P | 05
09 | AZ | TUCSON, CITY OF | 04019C2227K | 20-JAN-2000 | 00-09-202A | 02
09 | AZ | TUCSON, CITY OF | 04019C2254K | 08-FEB-2000 | 00-09-249A | 02
09 | AZ | TUCSON, CITY OF | 04019C2210K | 28-JUN-2000 | 00-09-263P | 06
09 | AZ | TUCSON, CITY OF | 04019C1639K | 14-FEB-2000 | 00-09-285A | 02
09 | AZ | TUCSON, CITY OF | 04019C2227K | 20-JAN-2000 | 00-09-287P | 06
09 | AZ | TUCSON, CITY OF | 04019C2253K | 22-FEB-2000 | 00-09-296A | 02
09 | AZ | TUCSON, CITY OF | 04019C2253K | 22-FEB-2000 | 00-09-304A | 02
09 | AZ | TUCSON, CITY OF | 04019C2251K | 26-JUN-2000 | 00-09-506A | 02
09 | AZ | TUCSON, CITY OF | 04019C2256K | 06-JUN-2000 | 00-09-619A | 02
09 | AZ | TUCSON, CITY OF | 04019C2232K | 24-MAY-2000 | 00-09-665A | 02
09 | AZ | TUCSON, CITY OF | 04019C2232K | 28-JUN-2000 | 00-09-768A | 02
09 | AZ | TUCSON, CITY OF | 04019C2237K | 16-JUN-2000 | 99-09-1084P | 05
09 | AZ | TUCSON, CITY OF | 04019C2241K | 16-JUN-2000 | 99-09-1084P | 05
09 | AZ | TUCSON, CITY OF | 04019C2245K | 16-JUN-2000 | 99-09-1084P | 05
09 | AZ | TUCSON, CITY OF | 04019C2265K | 16-JUN-2000 | 99-09-1084P | 05
09 | AZ | TUCSON, CITY OF | 04019C2855K | 16-JUN-2000 | 99-09-1084P | 05
09 | AZ | TUCSON, CITY OF | 04019C2875K | 16-JUN-2000 | 99-09-1084P | 05
09 | AZ | TUCSON, CITY OF | 04019C2232K | 07-JAN-2000 | 99-09-1215A | 02
09 | AZ | TUCSON, CITY OF | 04019C1643K | 31-MAY-2000 | 99-09-719P | 05
09 | AZ | TUCSON, CITY OF | 04019C1644K | 31-MAY-2000 | 99-09-719P | 05
09 | AZ | WILLCOX, CITY OF | 0400180001C | 15-FEB-2000 | 98-09-165P | 05
09 | AZ | YAVAPAI COUNTY | 0400930860B | 16-FEB-2000 | 00-09-229A | 02
09 | AZ | YAVAPAI COUNTY | 0400930880B | 26-JUN-2000 | 00-09-648A | 01
09 | AZ | YAVAPAI COUNTY | 0400930390B | 26-JAN-2000 | 99-09-192P | 05
09 | AZ | YAVAPAI COUNTY | 0400930395B | 26-JAN-2000 | 99-09-192P | 05
09 | AZ | YAVAPAI COUNTY | 0400930580B | 26-JAN-2000 | 99-09-192P | 05
09 | AZ | YAVAPAI COUNTY | 0400930585D | 26-JAN-2000 | 99-09-192P | 05
09 | AZ | YAVAPAI COUNTY | 0400930595D | 26-JAN-2000 | 99-09-192P | 05
09 | AZ | YAVAPAI COUNTY | 0400930605C | 26-JAN-2000 | 99-09-192P | 05
09 | AZ | YAVAPAI COUNTY | 0400930615C | 26-JAN-2000 | 99-09-192P | 05
09 | AZ | YUMA COUNTY | 0400990885D | 30-JUN-2000 | 00-09-667P | 06
09 | CA | ALAMEDA COUNTY | 0600010090D | 10-FEB-2000 | 99-09-1306V | 19
09 | CA | ANAHEIM, CITY OF | 06059C0014F | 14-JUN-2000 | 00-09-153P | 06
09 | CA | ANAHEIM, CITY OF | 06059C0015F | 14-JUN-2000 | 00-09-153P | 06
09 | CA | ANAHEIM, CITY OF | 06059C0021F | 14-JUN-2000 | 00-09-153P | 06
09 | CA | ANAHEIM, CITY OF | 06059C0021F | 13-JAN-2000 | 00-09-278P | 05
09 | CA | ANAHEIM, CITY OF | 06059C0014F | 14-JUN-2000 | 00-09-469P | 06
09 | CA | ANAHEIM, CITY OF | 06059C0015F | 14-JUN-2000 | 00-09-469P | 06
09 | CA | ANAHEIM, CITY OF | 06059C0021F | 14-JUN-2000 | 00-09-469P | 06
09 | CA | ANDERSON, CITY OF | 0603590001C | 29-FEB-2000 | 00-09-151A | 02
09 | CA | ANDERSON, CITY OF | 0603590001C | 20-APR-2000 | 00-09-509A | 01
09 | CA | APPLE VALLEY, CITY OF | 06071C5840F | 31-MAY-2000 | 00-09-668A | 02
09 | CA | BRENTWOOD, CITY OF | 0600250365B | 18-JAN-2000 | 00-09-060A | 01
09 | CA | BUTTE COUNTY | 06007C0320C | 29-FEB-2000 | 00-09-340A | 02
09 | CA | BUTTE COUNTY | 06007C0310C | 07-APR-2000 | 00-09-446A | 02
09 | CA | BUTTE COUNTY | 06007C0510D | 24-MAY-2000 | 00-09-642A | 02
09 | CA | CARSON, CITY OF | 0601070005A | 25-FEB-2000 | 00-09-177P | 05
09 | CA | CHULA VISTA, CITY OF | 06073C2152F | 07-APR-2000 | 00-09-475A | 01
09 | CA | CHULA VISTA, CITY OF | 06073C1938F | 15-FEB-2000 | 99-09-1237P | 05
09 | CA | CLOVERDALE, CITY OF | 0603760001C | 13-JAN-2000 | 00-09-212A | 02
09 | CA | COMPTON, CITY OF | 0601110005A | 25-FEB-2000 | 00-09-177P | 05
09 | CA | CONCORD, CITY OF | 0650220009B | 07-MAR-2000 | 00-09-354A | 02
09 | CA | CONTRA COSTA COUNTY | 0600250355B | 27-MAR-2000 | 00-09-191A | 01
09 | CA | CONTRA COSTA COUNTY | 0600250435C | 24-MAY-2000 | 00-09-623A | 01
09 | CA | CORONA, CITY OF | 0602500005F | 05-APR-2000 | 00-09-374A | 02
09 | CA | CORONA, CITY OF | 0602500005F | 13-MAR-2000 | 99-09-1213P | 05
09 | CA | CORTE MADERA, TOWN OF | 0650230001B | 08-FEB-2000 | 00-09-292A | 02
09 | CA | COSTA MESA, CITY OF | 06059C0037F | 14-JUN-2000 | 00-09-153P | 06
09 | CA | COSTA MESA, CITY OF | 06059C0046F | 14-JUN-2000 | 00-09-153P | 06
09 | CA | COSTA MESA, CITY OF | 06059C0037F | 14-JUN-2000 | 00-09-351P | 06
09 | CA | COSTA MESA, CITY OF | 06059C0046F | 14-JUN-2000 | 00-09-351P | 06
09 | CA | COSTA MESA, CITY OF | 06059C0037F | 14-JUN-2000 | 00-09-357P | 06
09 | CA | COSTA MESA, CITY OF | 06059C0046F | 14-JUN-2000 | 00-09-357P | 06
09 | CA | COTATI, CITY OF | 0603770001D | 03-FEB-2000 | 00-09-199A | 01
09 | CA | COTATI, CITY OF | 0603770001D | 20-JAN-2000 | 00-09-201V | 19
09 | CA | COTATI, CITY OF | 0603770001D | 04-MAY-2000 | 00-09-251A | 01
09 | CA | DAVIS, CITY OF | 0604230575C | 03-APR-2000 | 00-09-457A | 01
09 | CA | DAVIS, CITY OF | 0604240002B | 13-APR-2000 | 00-09-504A | 02
09 | CA | DEL NORTE COUNTY | 0650250100C | 21-JUN-2000 | 00-09-721A | 02
09 | CA | DINUBA, CITY OF | 0604030001B | 09-FEB-2000 | 00-09-234A | 01
09 | CA | DINUBA, CITY OF | 0604030001B | 22-MAY-2000 | 00-09-653A | 01
09 | CA | DINUBA, CITY OF | 0650660280B | 26-JUN-2000 | 00-09-723A | 01
09 | CA | EAST PALO ALTO, CITY OF | 0607080001B | 04-MAY-2000 | 00-09-337A | 02
09 | CA | EAST PALO ALTO, CITY OF | 0607080001B | 28-MAR-2000 | 00-09-425A | 02
09 | CA | EAST PALO ALTO, CITY OF | 0607080001B | 26-MAY-2000 | 00-09-683A | 02
09 | CA | EAST PALO ALTO, CITY OF | 0607080001B | 28-JUN-2000 | 00-09-772A | 02
09 | CA | EAST PALO ALTO, CITY OF | 0607080001B | 28-JUN-2000 | 00-09-777A | 02
09 | CA | EAST PALO ALTO, CITY OF | 0607080001B | 28-JUN-2000 | 00-09-779A | 02
09 | CA | EL DORADO COUNTY | 0600400725C | 22-MAY-2000 | 00-09-466A | 02
09 | CA | ESCONDIDO, CITY OF | 06073C0814F | 26-MAY-2000 | 00-09-652A | 01
09 | CA | ESCONDIDO, CITY OF | 06073C1079F | 31-JAN-2000 | 99-09-888P | 05
09 | CA | ESCONDIDO, CITY OF | 06073C1083F | 31-JAN-2000 | 99-09-888P | 05
09 | CA | FAIRFIELD, CITY OF | 0603700010C | 28-APR-2000 | 00-09-419A | 01
09 | CA | FAIRFIELD, CITY OF | 0603700010C | 09-JUN-2000 | 00-09-708A | 01
09 | CA | FAIRFIELD, CITY OF | 0603700010C | 28-JUN-2000 | 00-09-767A | 01
09 | CA | FOLSOM, CITY OF | 0602630001B | 08-JUN-2000 | 00-09-323P | 05
09 | CA | FOUNTAIN VALLEY, CITY OF | 06059C0028F | 14-JUN-2000 | 00-09-153P | 06
09 | CA | FOUNTAIN VALLEY, CITY OF | 06059C0036F | 14-JUN-2000 | 00-09-153P | 06
09 | CA | FOUNTAIN VALLEY, CITY OF | 06059C0037F | 14-JUN-2000 | 00-09-153P | 06
09 | CA | FOUNTAIN VALLEY, CITY OF | 06059C0028F | 14-JUN-2000 | 00-09-154P | 06
09 | CA | FOUNTAIN VALLEY, CITY OF | 06059C0036F | 14-JUN-2000 | 00-09-154P | 06
09 | CA | FOUNTAIN VALLEY, CITY OF | 06059C0037F | 14-JUN-2000 | 00-09-154P | 06
09 | CA | FOUNTAIN VALLEY, CITY OF | 06059C0028F | 14-JUN-2000 | 00-09-449P | 06
09 | CA | FOUNTAIN VALLEY, CITY OF | 06059C0036F | 14-JUN-2000 | 00-09-449P | 06
09 | CA | FOUNTAIN VALLEY, CITY OF | 06059C0037F | 14-JUN-2000 | 00-09-449P | 06
09 | CA | FREMONT, CITY OF | 0650280029C | 21-MAR-2000 | 00-09-436A | 02
09 | CA | FREMONT, CITY OF | 0650280033C | 25-APR-2000 | 00-09-528P | 05
09 | CA | FREMONT, CITY OF | 0650280033C | 31-MAY-2000 | 00-09-587A | 02
09 | CA | FREMONT, CITY OF | 0650280029C | 12-MAY-2000 | 00-09-600A | 02
09 | CA | FREMONT, CITY OF | 0650280033C | 12-MAY-2000 | 00-09-600A | 02
09 | CA | FREMONT, CITY OF | 0650280010C | 26-JUN-2000 | 00-09-719A | 01
09 | CA | FREMONT, CITY OF | 0650280031B | 21-JUN-2000 | 00-09-728A | 02
09 | CA | FREMONT, CITY OF | 0650280030C | 10-FEB-2000 | 99-09-1306V | 19
09 | CA | FREMONT, CITY OF | 0650280045D | 10-FEB-2000 | 99-09-1306V | 19
09 | CA | FREMONT, CITY OF | 0650280046D | 10-FEB-2000 | 99-09-1306V | 19
09 | CA | FRESNO COUNTY | 0650290920B | 08-FEB-2000 | 00-09-250A | 02
09 | CA | FRESNO COUNTY | 0650290885C | 16-JUN-2000 | 00-09-389A | 01
09 | CA | FRESNO, CITY OF | 0650290590C | 08-FEB-2000 | 00-09-262A | 01
09 | CA | FRESNO, CITY OF | 0650290590C | 07-MAR-2000 | 00-09-368A | 01
09 | CA | FRESNO, CITY OF | 0650290590C | 19-APR-2000 | 00-09-551A | 01
09 | CA | FRESNO, CITY OF | 0650290590C | 30-MAY-2000 | 00-09-663A | 01
09 | CA | GARDEN GROVE, CITY OF | 06059C0020F | 14-JUN-2000 | 00-09-153P | 06
09 | CA | GARDEN GROVE, CITY OF | 06059C0021F | 14-JUN-2000 | 00-09-153P | 06
09 | CA | GARDEN GROVE, CITY OF | 06059C0028F | 14-JUN-2000 | 00-09-153P | 06
09 | CA | GARDEN GROVE, CITY OF | 06059C0029F | 14-JUN-2000 | 00-09-153P | 06
09 | CA | GARDEN GROVE, CITY OF | 06059C0020F | 14-JUN-2000 | 00-09-449P | 06
09 | CA | GARDEN GROVE, CITY OF | 06059C0021F | 14-JUN-2000 | 00-09-449P | 06
09 | CA | GARDEN GROVE, CITY OF | 06059C0028F | 14-JUN-2000 | 00-09-449P | 06
09 | CA | GARDEN GROVE, CITY OF | 06059C0029F | 14-JUN-2000 | 00-09-449P | 06
09 | CA | GARDEN GROVE, CITY OF | 06059C0020F | 02-JUN-2000 | 00-09-670A | 02
09 | CA | GARDENA, CITY OF | 0601190001A | 25-FEB-2000 | 00-09-177P | 05
09 | CA | HAYWARD, CITY OF | 0650330020E | 02-JUN-2000 | 00-09-625A | 01
09 | CA | HAYWARD, CITY OF | 0650330010E | 10-FEB-2000 | 99-09-1306V | 19
09 | CA | HAYWARD, CITY OF | 0650330011E | 10-FEB-2000 | 99-09-1306V | 19
09 | CA | HAYWARD, CITY OF | 0650330019E | 10-FEB-2000 | 99-09-1306V | 19
09 | CA | HAYWARD, CITY OF | 0650330020E | 10-FEB-2000 | 99-09-1306V | 19
09 | CA | HEALDSBURG, CITY OF | 0603780005C | 26-JUN-2000 | 00-09-391P | 06
09 | CA | HEMET, CITY OF | 0602530005D | 08-MAR-2000 | 00-09-230A | 01
09 | CA | HEMET, CITY OF | 0602530005D | 08-MAR-2000 | 00-09-361A | 01
09 | CA | HEMET, CITY OF | 0602530005D | 18-FEB-2000 | 99-09-513P | 05
09 | CA | HUMBOLDT COUNTY | 0600600615D | 24-FEB-2000 | 00-09-327A | 02
09 | CA | HUNTINGTON BEACH, CITY OF | 06059C0027F | 14-JUN-2000 | 00-09-153P | 06
09 | CA | HUNTINGTON BEACH, CITY OF | 06059C0036F | 14-JUN-2000 | 00-09-153P | 06
09 | CA | HUNTINGTON BEACH, CITY OF | 06059C0046F | 14-JUN-2000 | 00-09-153P | 06
09 | CA | HUNTINGTON BEACH, CITY OF | 06059C0054F | 14-JUN-2000 | 00-09-153P | 06
09 | CA | HUNTINGTON BEACH, CITY OF | 06059C0027F | 14-JUN-2000 | 00-09-154P | 06
09 | CA | HUNTINGTON BEACH, CITY OF | 06059C0036F | 14-JUN-2000 | 00-09-154P | 06
09 | CA | HUNTINGTON BEACH, CITY OF | 06059C0046F | 14-JUN-2000 | 00-09-154P | 06
09 | CA | HUNTINGTON BEACH, CITY OF | 06059C0054F | 14-JUN-2000 | 00-09-154P | 06
09 | CA | HUNTINGTON BEACH, CITY OF | 06059C0027F | 14-JUN-2000 | 00-09-449P | 06
09 | CA | HUNTINGTON BEACH, CITY OF | 06059C0036F | 14-JUN-2000 | 00-09-449P | 06
09 | CA | HUNTINGTON BEACH, CITY OF | 06059C0046F | 14-JUN-2000 | 00-09-449P | 06
09 | CA | HUNTINGTON BEACH, CITY OF | 06059C0054F | 14-JUN-2000 | 00-09-449P | 06
09 | CA | IONE, CITY OF | 0600160005D | 07-JUN-2000 | 99-09-1307V | 19
09 | CA | IRVINE, CITY OF | 06059C0048F | 27-JAN-2000 | 00-09-142P | 05
09 | CA | IRVINE, CITY OF | 06059C0057E | 26-MAY-2000 | 99-09-350P | 05
09 | CA | LAGUNA HILLS, CITY OF | 06059C0057E | 26-MAY-2000 | 99-09-350P | 05
09 | CA | LAKE COUNTY | 0600900510B | 25-MAY-2000 | 00-09-577P | 05
09 | CA | LAKE COUNTY | 0600900510B | 13-MAR-2000 | 99-09-1129P | 05
09 | CA | LAKEWOOD, CITY OF | 0601300005A | 25-FEB-2000 | 00-09-177P | 05
09 | CA | LAKEWOOD, CITY OF | 0601300005A | 10-FEB-2000 | 00-09-267A | 02
09 | CA | LAKEWOOD, CITY OF | 0601300005A | 07-MAR-2000 | 00-09-369A | 02
09 | CA | LASSEN COUNTY | 0600920175B | 28-APR-2000 | 00-09-118A | 02
09 | CA | LEMON GROVE, CITY OF | 06073C1907F | 27-MAR-2000 | 00-09-052P | 05
09 | CA | LONG BEACH, CITY OF | 0601360025C | 10-MAR-2000 | 00-09-057A | 01
09 | CA | LONG BEACH, CITY OF | 0601360005C | 25-FEB-2000 | 00-09-177P | 05
09 | CA | LONG BEACH, CITY OF | 0601360010C | 25-FEB-2000 | 00-09-177P | 05
09 | CA | LONG BEACH, CITY OF | 0601360020C | 25-FEB-2000 | 00-09-177P | 05
09 | CA | LONG BEACH, CITY OF | 0601360015C | 15-MAR-2000 | 00-09-193A | 02
09 | CA | LONG BEACH, CITY OF | 0601360015C | 27-JAN-2000 | 00-09-233A | 02
09 | CA | LONG BEACH, CITY OF | 0601360010C | 01-MAR-2000 | 00-09-343A | 02
09 | CA | LONG BEACH, CITY OF | 0601360025C | 17-MAY-2000 | 00-09-612A | 01
09 | CA | LOOMIS, TOWN OF | 06061C0416F | 26-APR-2000 | 00-09-532A | 01
09 | CA | LOS ALTOS HILLS, TOWN OF | 0603420001B | 02-FEB-2000 | 00-09-061A | 01
09 | CA | LOS ANGELES COUNTY | 0650431010C | 25-FEB-2000 | 00-09-177P | 05
09 | CA | LOS ANGELES COUNTY | 0650431030D | 25-FEB-2000 | 00-09-177P | 05
09 | CA | LOS ANGELES COUNTY | 0650430365B | 11-MAY-2000 | 00-09-660A | 01
09 | CA | LOS ANGELES, CITY OF | 0601370099D | 25-FEB-2000 | 00-09-177P | 05
09 | CA | LOS ANGELES, CITY OF | 0601370100D | 25-FEB-2000 | 00-09-177P | 05
09 | CA | LOS ANGELES, CITY OF | 0601370102D | 25-FEB-2000 | 00-09-177P | 05
09 | CA | LOS ANGELES, CITY OF | 0601370105D | 25-FEB-2000 | 00-09-177P | 05
09 | CA | LOS ANGELES, CITY OF | 0601370107E | 25-FEB-2000 | 00-09-177P | 05
09 | CA | LOS ANGELES, CITY OF | 0601370108E | 25-FEB-2000 | 00-09-177P | 05
09 | CA | LOS ANGELES, CITY OF | 0601370110E | 25-FEB-2000 | 00-09-177P | 05
09 | CA | LOS ANGELES, CITY OF | 0601370071C | 22-MAR-2000 | 00-09-434A | 02
09 | CA | LOS ANGELES, CITY OF | 0601370071C | 21-MAR-2000 | 00-09-439A | 02
09 | CA | LOS ANGELES, CITY OF | 0601370071C | 21-MAR-2000 | 00-09-454A | 02
09 | CA | MADERA COUNTY | 0601700750B | 05-JAN-2000 | 00-09-031A | 01
09 | CA | MADERA COUNTY | 0601700750B | 02-FEB-2000 | 00-09-302A | 01
09 | CA | MADERA COUNTY | 0601700605B | 03-MAR-2000 | 00-09-338A | 02
09 | CA | MADERA COUNTY | 0601700238C | 08-MAR-2000 | 00-09-381A | 02
09 | CA | MADERA COUNTY | 0601700225B | 25-MAY-2000 | 00-09-636A | 02
09 | CA | MARIN COUNTY | 0601730250A | 19-APR-2000 | 00-09-301A | 02
09 | CA | MARIN COUNTY | 0601730216A | 24-MAR-2000 | 00-09-412A | 02
09 | CA | MARIN COUNTY | 0601730216A | 25-APR-2000 | 00-09-579A | 02
09 | CA | MARIN COUNTY | 0601730266B | 19-MAY-2000 | 00-09-621A | 02
09 | CA | MENDOCINO COUNTY | 0601830794B | 14-JUN-2000 | 00-09-677A | 02
09 | CA | MENDOCINO COUNTY | 0601830792B | 21-JUN-2000 | 00-09-753A | 02
09 | CA | MENLO PARK, CITY OF | 0603210008D | 03-MAR-2000 | 00-09-165A | 01
09 | CA | MENLO PARK, CITY OF | 0603210007D | 15-MAR-2000 | 00-09-394A | 02
09 | CA | MENLO PARK, CITY OF | 0603210007D | 11-MAY-2000 | 00-09-588A | 02
09 | CA | MERCED, CITY OF | 06047C0440E | 30-JUN-2000 | 00-09-740A | 01
09 | CA | MILPITAS, CITY OF | 0603440003G | 03-MAR-2000 | 00-09-238A | 01
09 | CA | MILPITAS, CITY OF | 0603440004F | 30-JUN-2000 | 00-09-463A | 02
09 | CA | MILPITAS, CITY OF | 0603440003G | 02-MAY-2000 | 00-09-561A | 02
09 | CA | MILPITAS, CITY OF | 0603440001G | 09-MAY-2000 | 00-09-581A | 02
09 | CA | MILPITAS, CITY OF | 0603440003G | 24-MAY-2000 | 00-09-634A | 02
09 | CA | MODESTO, CITY OF | 0603870015C | 16-MAR-2000 | 00-09-447P | 06
09 | CA | MONTEREY COUNTY | 0601950015E | 21-JUN-2000 | 00-09-712A | 02
09 | CA | NAPA COUNTY | 060205IND0 | 14-JUN-2000 | 99-09-1245P | 05
09 | CA | NAPA, CITY OF | 0602070010C | 24-FEB-2000 | 00-09-112A | 02
09 | CA | NAPA, CITY OF | 0602070005D | 08-FEB-2000 | 00-09-291A | 02
09 | CA | NAPA, CITY OF | 0602070010C | 03-MAY-2000 | 00-09-467A | 01
09 | CA | NAPA, CITY OF | 0602070010C | 15-MAR-2000 | 00-09-470A | 02
09 | CA | NAPA, CITY OF | 0602070005D | 02-JUN-2000 | 00-09-644A | 02
09 | CA | NAPA, CITY OF | 0602070010C | 26-MAY-2000 | 00-09-669A | 02
09 | CA | NAPA, CITY OF | 0602070005D | 06-JUN-2000 | 00-09-676A | 02
09 | CA | NAPA, CITY OF | 0602070005D | 09-JUN-2000 | 00-09-703A | 02
09 | CA | NAPA, CITY OF | 0602070005D | 02-JUN-2000 | 00-09-711A | 02
09 | CA | NAPA, CITY OF | 0602070005D | 26-JUN-2000 | 00-09-756A | 02
09 | CA | NAPA, CITY OF | 0602070005D | 28-JAN-2000 | 97-09-1190V | 19
09 | CA | NEVADA COUNTY | 0602100475B | 20-APR-2000 | 00-09-516A | 02
09 | CA | NEWARK, CITY OF | 0600090005F | 06-JUN-2000 | 00-09-700A | 02
09 | CA | NEWPORT BEACH, CITY OF | 06059C0046F | 14-JUN-2000 | 00-09-153P | 06
09 | CA | NEWPORT BEACH, CITY OF | 06059C0054F | 14-JUN-2000 | 00-09-153P | 06
09 | CA | NEWPORT BEACH, CITY OF | 06059C0046F | 14-JUN-2000 | 00-09-351P | 06
09 | CA | NEWPORT BEACH, CITY OF | 06059C0054F | 14-JUN-2000 | 00-09-351P | 06
09 | CA | NEWPORT BEACH, CITY OF | 06059C0046F | 14-JUN-2000 | 00-09-357P | 06
09 | CA | NEWPORT BEACH, CITY OF | 06059C0054F | 14-JUN-2000 | 00-09-357P | 06
09 | CA | NORCO, CITY OF | 0602560003B | 13-MAR-2000 | 99-09-1213P | 05
09 | CA | NOVATO, CITY OF | 0601780002C | 24-MAY-2000 | 00-09-635A | 02
09 | CA | NOVATO, CITY OF | 0601780004C | 21-JAN-2000 | 99-09-1082A | 01
09 | CA | NOVATO, CITY OF | 0601780005C | 21-JAN-2000 | 99-09-1082A | 01
09 | CA | OAKLAND, CITY OF | 0650480025B | 26-JUN-2000 | 00-09-353A | 02
09 | CA | OCEANSIDE, CITY OF | 06073C0752F | 12-APR-2000 | 00-09-336A | 01
09 | CA | OCEANSIDE, CITY OF | 06073C0752F | 19-APR-2000 | 00-09-522A | 01
09 | CA | OCEANSIDE, CITY OF | 06073C0751F | 11-APR-2000 | 00-09-574V | 19
09 | CA | OCEANSIDE, CITY OF | 06073C0752F | 11-APR-2000 | 00-09-574V | 19
09 | CA | OCEANSIDE, CITY OF | 06073C0754F | 11-APR-2000 | 00-09-574V | 19
09 | CA | OCEANSIDE, CITY OF | 06073C0752F | 26-JUN-2000 | 00-09-730A | 01
09 | CA | ONTARIO, CITY OF | 06071C8609F | 16-FEB-2000 | 99-09-1126A | 02
09 | CA | ORANGE COUNTY | 06059C0014F | 14-JUN-2000 | 00-09-153P | 06
09 | CA | ORANGE COUNTY | 06059C0021F | 14-JUN-2000 | 00-09-153P | 06
09 | CA | ORANGE COUNTY | 06059C0027F | 14-JUN-2000 | 00-09-153P | 06
09 | CA | ORANGE COUNTY | 06059C0028F | 14-JUN-2000 | 00-09-153P | 06
09 | CA | ORANGE COUNTY | 06059C0029F | 14-JUN-2000 | 00-09-153P | 06
09 | CA | ORANGE COUNTY | 06059C0035F | 14-JUN-2000 | 00-09-153P | 06
09 | CA | ORANGE COUNTY | 06059C0036F | 14-JUN-2000 | 00-09-153P | 06
09 | CA | ORANGE COUNTY | 06059C0037F | 14-JUN-2000 | 00-09-153P | 06
09 | CA | ORANGE COUNTY | 06059C0045F | 14-JUN-2000 | 00-09-153P | 06
09 | CA | ORANGE COUNTY | 06059C0046F | 14-JUN-2000 | 00-09-153P | 06
09 | CA | ORANGE COUNTY | 06059C0054F | 14-JUN-2000 | 00-09-153P | 06
09 | CA | ORANGE COUNTY | 06059C0014F | 14-JUN-2000 | 00-09-357P | 06
09 | CA | ORANGE COUNTY | 06059C0021F | 14-JUN-2000 | 00-09-357P | 06
09 | CA | ORANGE COUNTY | 06059C0027F | 14-JUN-2000 | 00-09-357P | 06
09 | CA | ORANGE COUNTY | 06059C0028F | 14-JUN-2000 | 00-09-357P | 06
09 | CA | ORANGE COUNTY | 06059C0029F | 14-JUN-2000 | 00-09-357P | 06
09 | CA | ORANGE COUNTY | 06059C0035F | 14-JUN-2000 | 00-09-357P | 06
09 | CA | ORANGE COUNTY | 06059C0036F | 14-JUN-2000 | 00-09-357P | 06
09 | CA | ORANGE COUNTY | 06059C0037F | 14-JUN-2000 | 00-09-357P | 06
09 | CA | ORANGE COUNTY | 06059C0045F | 14-JUN-2000 | 00-09-357P | 06
09 | CA | ORANGE COUNTY | 06059C0046F | 14-JUN-2000 | 00-09-357P | 06
09 | CA | ORANGE COUNTY | 06059C0054F | 14-JUN-2000 | 00-09-357P | 06
09 | CA | ORANGE COUNTY | 06059C0057E | 10-MAY-2000 | 00-09-413A | 02
09 | CA | ORANGE COUNTY | 06059C0049G | 31-MAR-2000 | 00-09-440A | 02
09 | CA | ORANGE COUNTY | 06059C0014F | 14-JUN-2000 | 00-09-449P | 06
09 | CA | ORANGE COUNTY | 06059C0021F | 14-JUN-2000 | 00-09-449P | 06
09 | CA | ORANGE COUNTY | 06059C0027F | 14-JUN-2000 | 00-09-449P | 06
09 | CA | ORANGE COUNTY | 06059C0028F | 14-JUN-2000 | 00-09-449P | 06
09 | CA | ORANGE COUNTY | 06059C0029F | 14-JUN-2000 | 00-09-449P | 06
09 | CA | ORANGE COUNTY | 06059C0035F | 14-JUN-2000 | 00-09-449P | 06
09 | CA | ORANGE COUNTY | 06059C0036F | 14-JUN-2000 | 00-09-449P | 06
09 | CA | ORANGE COUNTY | 06059C0037F | 14-JUN-2000 | 00-09-449P | 06
09 | CA | ORANGE COUNTY | 06059C0045F | 14-JUN-2000 | 00-09-449P | 06
09 | CA | ORANGE COUNTY | 06059C0046F | 14-JUN-2000 | 00-09-449P | 06
09 | CA | ORANGE COUNTY | 06059C0054F | 14-JUN-2000 | 00-09-449P | 06
09 | CA | ORANGE COUNTY | 06059C0014F | 14-JUN-2000 | 00-09-469P | 06
09 | CA | ORANGE COUNTY | 06059C0021F | 14-JUN-2000 | 00-09-469P | 06
09 | CA | ORANGE COUNTY | 06059C0027F | 14-JUN-2000 | 00-09-469P | 06
09 | CA | ORANGE COUNTY | 06059C0028F | 14-JUN-2000 | 00-09-469P | 06
09 | CA | ORANGE COUNTY | 06059C0029F | 14-JUN-2000 | 00-09-469P | 06
09 | CA | ORANGE COUNTY | 06059C0035F | 14-JUN-2000 | 00-09-469P | 06
09 | CA | ORANGE COUNTY | 06059C0036F | 14-JUN-2000 | 00-09-469P | 06
09 | CA | ORANGE COUNTY | 06059C0037F | 14-JUN-2000 | 00-09-469P | 06
09 | CA | ORANGE COUNTY | 06059C0045F | 14-JUN-2000 | 00-09-469P | 06
09 | CA | ORANGE COUNTY | 06059C0046F | 14-JUN-2000 | 00-09-469P | 06
09 | CA | ORANGE COUNTY | 06059C0054F | 14-JUN-2000 | 00-09-469P | 06
09 | CA | ORANGE, CITY OF | 06059C0014F | 14-JUN-2000 | 00-09-153P | 06
09 | CA | ORANGE, CITY OF | 06059C0021F | 14-JUN-2000 | 00-09-153P | 06
09 | CA | ORANGE, CITY OF | 06059C0029F | 14-JUN-2000 | 00-09-153P | 06
09 | CA | ORANGE, CITY OF | 06059C0022F | 06-JAN-2000 | 00-09-217A | 02
09 | CA | ORANGE, CITY OF | 06059C0014F | 14-JUN-2000 | 00-09-469P | 06
09 | CA | ORANGE, CITY OF | 06059C0021F | 14-JUN-2000 | 00-09-469P | 06
09 | CA | ORANGE, CITY OF | 06059C0029F | 14-JUN-2000 | 00-09-469P | 06
09 | CA | PALO ALTO, CITY OF | 0603480002E | 02-FEB-2000 | 00-09-141A | 02
09 | CA | PALO ALTO, CITY OF | 0603480002E | 14-FEB-2000 | 00-09-204A | 02
09 | CA | PALO ALTO, CITY OF | 0603480002E | 06-JAN-2000 | 00-09-225A | 02
09 | CA | PALO ALTO, CITY OF | 0603480002E | 14-FEB-2000 | 00-09-271A | 02
09 | CA | PALO ALTO, CITY OF | 0603480003E | 24-FEB-2000 | 00-09-366A | 02
09 | CA | PALO ALTO, CITY OF | 0603480002E | 29-MAR-2000 | 00-09-427A | 02
09 | CA | PALO ALTO, CITY OF | 0603480003E | 20-APR-2000 | 00-09-534A | 02
09 | CA | PALO ALTO, CITY OF | 0603480002E | 11-MAY-2000 | 00-09-590A | 02
09 | CA | PALO ALTO, CITY OF | 0603480002E | 25-MAY-2000 | 00-09-682A | 02
09 | CA | PALO ALTO, CITY OF | 0603480002E | 25-MAY-2000 | 00-09-684A | 02
09 | CA | PITTSBURG, CITY OF | 0600330001D | 21-JAN-2000 | 00-09-221A | 02
09 | CA | PITTSBURG, CITY OF | 0600330001D | 21-APR-2000 | 00-09-613A | 02
09 | CA | PLACER COUNTY | 06061C0100F | 10-MAR-2000 | 99-09-637P | 06
09 | CA | PLEASANTON, CITY OF | 0600120001E | 24-JAN-2000 | 00-09-231A | 02
09 | CA | PLUMAS COUNTY | 060244B | 28-MAR-2000 | 00-09-331A | 02
09 | CA | PLUMAS COUNTY | 060244B | 22-MAY-2000 | 00-09-538A | 02
09 | CA | PLUMAS COUNTY | 060244B | 28-JUN-2000 | 00-09-752A | 01
09 | CA | PLUMAS COUNTY | 060244B | 28-JUN-2000 | 00-09-757A | 02
09 | CA | POWAY, CITY OF | 06073C1356F | 05-JUN-2000 | 00-09-535A | 02
09 | CA | RANCHO CUCAMONGA, CITY OF | 06071C7890F | 07-MAR-2000 | 00-09-359A | 02
09 | CA | RANCHO CUCAMONGA, CITY OF | 06071C7895F | 04-APR-2000 | 00-09-429P | 06
09 | CA | RANCHO CUCAMONGA, CITY OF | 06071C7890F | 26-JUN-2000 | 00-09-456A | 01
09 | CA | RANCHO CUCAMONGA, CITY OF | 06071C7890F | 10-APR-2000 | 00-09-512A | 02
09 | CA | RANCHO CUCAMONGA, CITY OF | 06071C7890F | 17-APR-2000 | 00-09-513A | 02
09 | CA | RANCHO CUCAMONGA, CITY OF | 06071C7890F | 30-JUN-2000 | 00-09-731A | 02
09 | CA | RED BLUFF, CITY OF | 0650530002F | 09-MAR-2000 | 00-09-255A | 17
09 | CA | REDDING, CITY OF | 0603600025D | 26-JUN-2000 | 00-09-735A | 02
09 | CA | REDDING, CITY OF | 0603600025D | 26-JUN-2000 | 00-09-758A | 02
09 | CA | REDDING, CITY OF | 0603600025D | 26-JUN-2000 | 00-09-760A | 02
09 | CA | REDLANDS, CITY OF | 06071C8716F | 07-FEB-2000 | 00-09-180A | 02
09 | CA | RIDGECREST, CITY OF | 0600810010B | 24-MAY-2000 | 00-09-549A | 02
09 | CA | RIVERSIDE COUNTY | 0602452065B | 27-MAR-2000 | 00-09-380A | 01
09 | CA | RIVERSIDE COUNTY | 0602451585B | 05-JAN-2000 | 99-09-1278A | 02
09 | CA | RIVERSIDE COUNTY | 0602452125B | 18-FEB-2000 | 99-09-513P | 05
09 | CA | ROCKLIN, CITY OF | 06061C0414F | 09-FEB-2000 | 00-09-196A | 01
09 | CA | SACRAMENTO COUNTY | 0602620320E | 30-MAR-2000 | 00-09-090P | 06
09 | CA | SACRAMENTO COUNTY | 0602620315D | 04-JAN-2000 | 00-09-178P | 06
09 | CA | SACRAMENTO COUNTY | 060262IND0 | 06-JAN-2000 | 00-09-184P | 06
09 | CA | SACRAMENTO COUNTY | 0602620205E | 07-MAR-2000 | 00-09-209A | 01
09 | CA | SACRAMENTO COUNTY | 0602620340D | 27-JAN-2000 | 00-09-211A | 01
09 | CA | SACRAMENTO COUNTY | 0602620320E | 18-JAN-2000 | 00-09-213A | 01
09 | CA | SACRAMENTO COUNTY | 0602620090E | 16-FEB-2000 | 00-09-270A | 02
09 | CA | SACRAMENTO COUNTY | 0602620065F | 01-MAR-2000 | 00-09-341A | 01
09 | CA | SACRAMENTO COUNTY | 0602620340D | 24-FEB-2000 | 00-09-360A | 01
09 | CA | SACRAMENTO COUNTY | 0602620115E | 14-JUN-2000 | 00-09-460A | 01
09 | CA | SACRAMENTO COUNTY | 0602620090E | 05-APR-2000 | 00-09-462A | 02
09 | CA | SACRAMENTO COUNTY | 0602620310F | 26-APR-2000 | 00-09-543A | 02
09 | CA | SACRAMENTO COUNTY | 0602620070D | 24-MAY-2000 | 00-09-645A | 02
09 | CA | SACRAMENTO COUNTY | 0602620335D | 30-MAY-2000 | 00-09-647A | 01
09 | CA | SACRAMENTO COUNTY | 0602620310F | 24-MAY-2000 | 00-09-649A | 02
09 | CA | SACRAMENTO COUNTY | 0602620205E | 24-MAY-2000 | 00-09-651A | 02
09 | CA | SACRAMENTO COUNTY | 0602620185F | 06-JUN-2000 | 00-09-690A | 02
09 | CA | SACRAMENTO COUNTY | 0602620185F | 22-MAY-2000 | 99-09-1286P | 06
09 | CA | SACRAMENTO COUNTY | 0602620190E | 22-MAY-2000 | 99-09-1286P | 06
09 | CA | SACRAMENTO COUNTY | 0602620195F | 22-MAY-2000 | 99-09-1286P | 06
09 | CA | SACRAMENTO COUNTY | 0602620205E | 22-MAY-2000 | 99-09-1286P | 06
09 | CA | SACRAMENTO COUNTY | 0602620215E | 22-MAY-2000 | 99-09-1286P | 06
09 | CA | SACRAMENTO COUNTY | 0602620285E | 22-MAY-2000 | 99-09-1286P | 06
09 | CA | SACRAMENTO COUNTY | 0602620305F | 22-MAY-2000 | 99-09-1286P | 06
09 | CA | SACRAMENTO COUNTY | 0602620205E | 21-MAR-2000 | 99-09-758P | 05
09 | CA | SACRAMENTO COUNTY | 0602620210E | 21-MAR-2000 | 99-09-758P | 05
09 | CA | SACRAMENTO COUNTY | 0602620215E | 21-MAR-2000 | 99-09-758P | 05
09 | CA | SACRAMENTO COUNTY | 0602620220C | 21-MAR-2000 | 99-09-758P | 05
09 | CA | SACRAMENTO COUNTY | 0602620250C | 21-MAR-2000 | 99-09-758P | 05
09 | CA | SACRAMENTO, CITY OF | 0602660005F | 22-MAY-2000 | 99-09-1286P | 06
09 | CA | SACRAMENTO, CITY OF | 0602660010F | 22-MAY-2000 | 99-09-1286P | 06
09 | CA | SACRAMENTO, CITY OF | 0602660015F | 22-MAY-2000 | 99-09-1286P | 06
09 | CA | SACRAMENTO, CITY OF | 0602660025F | 22-MAY-2000 | 99-09-1286P | 06
09 | CA | SACRAMENTO, CITY OF | 0602660030F | 22-MAY-2000 | 99-09-1286P | 06
09 | CA | SALINAS, CITY OF | 0601950068D | 19-MAY-2000 | 99-09-691A | 01
09 | CA | SALINAS, CITY OF | 0602020002D | 19-MAY-2000 | 99-09-691A | 01
09 | CA | SAN BERNARDINO COUNTY | 06071C7155F | 24-APR-2000 | 00-09-445A | 02
09 | CA | SAN CLEMENTE, CITY OF | 06059C0079F | 29-MAR-2000 | 00-09-123P | 06
09 | CA | SAN DIEGO COUNTY | 06073C1907F | 27-MAR-2000 | 00-09-052P | 06
09 | CA | SAN DIEGO COUNTY | 06073C1909F | 27-MAR-2000 | 00-09-052P | 06
09 | CA | SAN DIEGO COUNTY | 06073C1686F | 03-APR-2000 | 00-09-264P | 05
09 | CA | SAN DIEGO COUNTY | 06073C1687F | 03-APR-2000 | 00-09-264P | 05
09 | CA | SAN DIEGO COUNTY | 06073C1918F | 15-MAR-2000 | 00-09-352A | 01
09 | CA | SAN DIEGO COUNTY | 06073C1660F | 09-JUN-2000 | 00-09-696A | 02
09 | CA | SAN DIEGO COUNTY | 06073C1652F | 14-FEB-2000 | 99-09-492P | 05
09 | CA | SAN DIEGO, CITY OF | 06073C1904F | 30-JUN-2000 | 00-09-766A | 02
09 | CA | SAN DIEGO, CITY OF | 06073C1079F | 31-JAN-2000 | 99-09-888P | 05
09 | CA | SAN DIEGO, CITY OF | 06073C1083F | 31-JAN-2000 | 99-09-888P | 05
09 | CA | SAN JACINTO, CITY OF | 0650560005D | 25-MAY-2000 | 00-09-639A | 01
09 | CA | SAN JOSE, CITY OF | 0603490031D | 18-JAN-2000 | 00-09-208A | 02
09 | CA | SAN JOSE, CITY OF | 0603490047E | 11-MAY-2000 | 00-09-276A | 02
09 | CA | SAN JOSE, CITY OF | 0603490009G | 03-FEB-2000 | 00-09-283A | 02
09 | CA | SAN JOSE, CITY OF | 0603490009G | 16-FEB-2000 | 00-09-290A | 02
09 | CA | SAN JOSE, CITY OF | 0603490020F | 07-MAR-2000 | 00-09-371A | 02
09 | CA | SAN JOSE, CITY OF | 0603490009G | 17-MAR-2000 | 00-09-438A | 02
09 | CA | SAN JOSE, CITY OF | 0603490037D | 27-MAR-2000 | 00-09-453A | 02
09 | CA | SAN JOSE, CITY OF | 0603490009G | 03-APR-2000 | 00-09-481A | 02
09 | CA | SAN JOSE, CITY OF | 0603490014E | 10-MAY-2000 | 00-09-593A | 02
09 | CA | SAN JOSE, CITY OF | 0603490009G | 25-MAY-2000 | 00-09-666A | 02
09 | CA | SAN LEANDRO, CITY OF | 0600130002C | 28-MAR-2000 | 00-09-297A | 02
09 | CA | SAN LEANDRO, CITY OF | 0600130003C | 28-MAR-2000 | 00-09-424A | 01
09 | CA | SAN LEANDRO, CITY OF | 0600130003C | 24-MAY-2000 | 00-09-655A | 01
09 | CA | SAN LEANDRO, CITY OF | 0600130003C | 10-FEB-2000 | 99-09-1306V | 19
09 | CA | SAN LUIS OBISPO COUNTY | 0603040625C | 31-MAR-2000 | 00-09-444A | 02
09 | CA | SAN LUIS OBISPO COUNTY | 0603040729C | 05-JUN-2000 | 00-09-604A | 02
09 | CA | SAN MARCOS, CITY OF | 06073C0789G | 02-JUN-2000 | 00-09-672A | 02
09 | CA | SANTA ANA, CITY OF | 06059C0021F | 14-JUN-2000 | 00-09-153P | 06
09 | CA | SANTA ANA, CITY OF | 06059C0028F | 14-JUN-2000 | 00-09-153P | 06
09 | CA | SANTA ANA, CITY OF | 06059C0029F | 14-JUN-2000 | 00-09-153P | 06
09 | CA | SANTA ANA, CITY OF | 06059C0037F | 14-JUN-2000 | 00-09-153P | 06
09 | CA | SANTA ANA, CITY OF | 06059C0038F | 14-JUN-2000 | 00-09-153P | 06
09 | CA | SANTA ANA, CITY OF | 06059C0021F | 14-JUN-2000 | 00-09-351P | 06
09 | CA | SANTA ANA, CITY OF | 06059C0028F | 14-JUN-2000 | 00-09-351P | 06
09 | CA | SANTA ANA, CITY OF | 06059C0029F | 14-JUN-2000 | 00-09-351P | 06
09 | CA | SANTA ANA, CITY OF | 06059C0037F | 14-JUN-2000 | 00-09-351P | 06
09 | CA | SANTA ANA, CITY OF | 06059C0038F | 14-JUN-2000 | 00-09-351P | 06
09 | CA | SANTA ANA, CITY OF | 06059C0021F | 14-JUN-2000 | 00-09-357P | 06
09 | CA | SANTA ANA, CITY OF | 06059C0028F | 14-JUN-2000 | 00-09-357P | 06
09 | CA | SANTA ANA, CITY OF | 06059C0029F | 14-JUN-2000 | 00-09-357P | 06
09 | CA | SANTA ANA, CITY OF | 06059C0037F | 14-JUN-2000 | 00-09-357P | 06
09 | CA | SANTA ANA, CITY OF | 06059C0038F | 14-JUN-2000 | 00-09-357P | 06
09 | CA | SANTA ANA, CITY OF | 06059C0038F | 17-MAR-2000 | 00-09-414A | 02
09 | CA | SANTA ANA, CITY OF | 06059C0021F | 14-JUN-2000 | 00-09-449P | 06
09 | CA | SANTA ANA, CITY OF | 06059C0028F | 14-JUN-2000 | 00-09-449P | 06
09 | CA | SANTA ANA, CITY OF | 06059C0029F | 14-JUN-2000 | 00-09-449P | 06
09 | CA | SANTA ANA, CITY OF | 06059C0037F | 14-JUN-2000 | 00-09-449P | 06
09 | CA | SANTA ANA, CITY OF | 06059C0038F | 14-JUN-2000 | 00-09-449P | 06
09 | CA | SANTA ANA, CITY OF | 06059C0021F | 14-JUN-2000 | 00-09-469P | 06
09 | CA | SANTA ANA, CITY OF | 06059C0028F | 14-JUN-2000 | 00-09-469P | 06
09 | CA | SANTA ANA, CITY OF | 06059C0029F | 14-JUN-2000 | 00-09-469P | 06
09 | CA | SANTA ANA, CITY OF | 06059C0037F | 14-JUN-2000 | 00-09-469P | 06
09 | CA | SANTA ANA, CITY OF | 06059C0038F | 14-JUN-2000 | 00-09-469P | 06
09 | CA | SANTA BARBARA COUNTY | 0603310765E | 08-FEB-2000 | 00-09-254A | 02
09 | CA | SANTA BARBARA, CITY OF | 0603350004D | 11-JAN-2000 | 00-09-210A | 02
09 | CA | SANTA BARBARA, CITY OF | 0603350005D | 24-APR-2000 | 00-09-314A | 02
09 | CA | SANTA BARBARA, CITY OF | 0603350010D | 24-APR-2000 | 00-09-314A | 02
09 | CA | SANTA BARBARA, CITY OF | 0603350009D | 03-APR-2000 | 00-09-379A | 17
09 | CA | SANTA BARBARA, CITY OF | 0603350005D | 16-MAY-2000 | 00-09-525A | 02
09 | CA | SANTA BARBARA, CITY OF | 0603350010D | 04-MAY-2000 | 00-09-566A | 02
09 | CA | SANTA BARBARA, CITY OF | 0603350009D | 16-MAY-2000 | 00-09-622A | 02
09 | CA | SANTA CLARA COUNTY | 0603370630E | 11-JAN-2000 | 00-09-098A | 02
09 | CA | SANTA CLARA COUNTY | 0603370630E | 13-MAR-2000 | 00-09-307A | 02
09 | CA | SANTA CLARA COUNTY | 0603370645A | 28-JUN-2000 | 00-09-765A | 02
09 | CA | SANTA CLARA COUNTY | 0603370640E | 13-JAN-2000 | 99-09-1150A | 02
09 | CA | SANTA CLARA, CITY OF | 0603500001D | 07-FEB-2000 | 00-09-243A | 02
09 | CA | SANTA CLARA, CITY OF | 0603500005D | 07-MAR-2000 | 00-09-311A | 02
09 | CA | SANTA CLARA, CITY OF | 0603500001D | 24-MAR-2000 | 00-09-406A | 02
09 | CA | SANTA CLARA, CITY OF | 0603500003D | 22-MAR-2000 | 00-09-452A | 02
09 | CA | SANTA CLARA, CITY OF | 0603500001D | 22-MAR-2000 | 00-09-464A | 02
09 | CA | SANTA CLARA, CITY OF | 0603500001D | 21-APR-2000 | 00-09-542A | 02
09 | CA | SANTA CLARA, CITY OF | 0603500005D | 10-MAY-2000 | 00-09-599A | 02
09 | CA | SANTA CLARA, CITY OF | 0603500001D | 26-MAY-2000 | 00-09-686A | 02
09 | CA | SANTA CLARA, CITY OF | 0603500005D | 02-JUN-2000 | 00-09-718A | 02
09 | CA | SANTA CLARA, CITY OF | 0603500001D | 16-JUN-2000 | 00-09-727A | 02
09 | CA | SANTA CLARITA, CITY OF | 0607290365C | 15-MAY-2000 | 00-09-025P | 05
09 | CA | SANTA CLARITA, CITY OF | 0607290480C | 15-MAY-2000 | 00-09-025P | 05
09 | CA | SANTA CLARITA, CITY OF | 0607290485C | 15-MAY-2000 | 00-09-025P | 05
09 | CA | SANTA CLARITA, CITY OF | 0650430370B | 15-MAY-2000 | 00-09-025P | 05
09 | CA | SANTA CLARITA, CITY OF | 0607290460C | 18-JAN-2000 | 99-09-399P | 05
09 | CA | SANTA CLARITA, CITY OF | 0607290480C | 18-JAN-2000 | 99-09-399P | 05
09 | CA | SANTA PAULA, CITY OF | 0604200003D | 24-MAR-2000 | 00-09-275A | 02
09 | CA | SANTA PAULA, CITY OF | 0604200003D | 30-MAY-2000 | 00-09-630A | 01
09 | CA | SANTEE, CITY OF | 06073C1653F | 22-FEB-2000 | 00-09-309A | 02
09 | CA | SANTEE, CITY OF | 06073C1652F | 14-FEB-2000 | 99-09-492P | 05
09 | CA | SHASTA COUNTY | 0603580715B | 21-JAN-2000 | 00-09-224A | 02
09 | CA | SHASTA COUNTY | 0603580715B | 22-MAR-2000 | 00-09-408A | 02
09 | CA | SHASTA COUNTY | 0603580695D | 14-JUN-2000 | 00-09-637A | 02
09 | CA | SHASTA COUNTY | 0603580725B | 24-MAY-2000 | 00-09-640A | 02
09 | CA | SHASTA LAKE, CITY OF | 0607580005A | 24-JAN-2000 | 00-09-099A | 02
09 | CA | SIMI VALLEY, CITY OF | 0604210006B | 12-JAN-2000 | 00-09-130A | 02
09 | CA | SIMI VALLEY, CITY OF | 0604210008B | 05-JAN-2000 | 00-09-194A | 02
09 | CA | SIMI VALLEY, CITY OF | 0604210004B | 21-JAN-2000 | 00-09-222A | 02
09 | CA | SIMI VALLEY, CITY OF | 0604210004B | 07-MAR-2000 | 00-09-320A | 02
09 | CA | SIMI VALLEY, CITY OF | 0604210004B | 07-APR-2000 | 00-09-458A | 02
09 | CA | SIMI VALLEY, CITY OF | 0604210007B | 04-MAY-2000 | 00-09-502A | 01
09 | CA | SIMI VALLEY, CITY OF | 0604210002B | 20-APR-2000 | 00-09-518A | 02
09 | CA | SIMI VALLEY, CITY OF | 0604210007B | 25-APR-2000 | 00-09-537A | 02
09 | CA | SIMI VALLEY, CITY OF | 0604210008B | 12-MAY-2000 | 00-09-584A | 01
09 | CA | SIMI VALLEY, CITY OF | 0604210002B | 30-JUN-2000 | 00-09-603A | 01
09 | CA | SIMI VALLEY, CITY OF | 0604210004B | 30-JUN-2000 | 00-09-603A | 01
09 | CA | SIMI VALLEY, CITY OF | 0604210006B | 09-MAY-2000 | 00-09-605A | 02
09 | CA | SIMI VALLEY, CITY OF | 0604210004B | 09-JUN-2000 | 00-09-698A | 02
09 | CA | SISKIYOU COUNTY | 0603620850B | 27-MAR-2000 | 00-09-416A | 02
09 | CA | SISKIYOU COUNTY | 0603621325B | 09-JUN-2000 | 00-09-641A | 02
09 | CA | SOLANO COUNTY | 0606310406B | 29-FEB-2000 | 00-09-335A | 02
09 | CA | SOLANO COUNTY | 0606310406B | 25-APR-2000 | 00-09-422A | 02
09 | CA | SOLANO COUNTY | 0606310406B | 09-JUN-2000 | 00-09-681A | 02
09 | CA | SONOMA COUNTY | 0603750660B | 11-JAN-2000 | 00-09-207A | 02
09 | CA | SONOMA COUNTY | 0603750530B | 25-APR-2000 | 00-09-539A | 02
09 | CA | SONOMA COUNTY | 0603750870B | 02-JUN-2000 | 00-09-601A | 01
09 | CA | SOUTH SAN FRANCISCO, CITY OF | 0650620001B | 28-JUN-2000 | 00-09-280A | 01
09 | CA | SOUTH SAN FRANCISCO, CITY OF | 0650620007B | 28-JUN-2000 | 00-09-280A | 01
09 | CA | STOCKTON, CITY OF | 0603020015D | 24-FEB-2000 | 00-09-316A | 02
09 | CA | STOCKTON, CITY OF | 0602990290B | 10-MAY-2000 | 00-09-564P | 05
09 | CA | SUISUN CITY, CITY OF | 0603720001B | 19-MAY-2000 | 00-09-596A | 02
09 | CA | SUNNYVALE, CITY OF | 0603520001D | 24-MAY-2000 | 00-09-411A | 02
09 | CA | SUNNYVALE, CITY OF | 0603520001D | 28-APR-2000 | 00-09-553A | 02
09 | CA | SUNNYVALE, CITY OF | 0603520001D | 25-APR-2000 | 00-09-563A | 02
09 | CA | SUNNYVALE, CITY OF | 0603520001D | 09-MAY-2000 | 00-09-582A | 02
09 | CA | SUNNYVALE, CITY OF | 0603520001D | 28-APR-2000 | 00-09-609A | 02
09 | CA | SUNNYVALE, CITY OF | 0603520001D | 19-MAY-2000 | 00-09-629A | 02
09 | CA | SUTTER CREEK, CITY OF | 0604580005B | 15-MAR-2000 | 00-09-405A | 02
09 | CA | TEMECULA, CITY OF | 0607420010B | 19-APR-2000 | 00-09-578A | 02
09 | CA | THOUSAND OAKS, CITY OF | 0604220015B | 03-FEB-2000 | 00-09-171A | 02
09 | CA | THOUSAND OAKS, CITY OF | 0604220015B | 28-FEB-2000 | 00-09-328A | 02
09 | CA | TORRANCE, CITY OF | 0601650003B | 31-MAY-2000 | 00-09-540A | 02
09 | CA | TRINITY COUNTY | 06105C0625B | 03-FEB-2000 | 00-09-139A | 02
09 | CA | TRINITY COUNTY | 06105C0505C | 21-MAR-2000 | 00-09-410A | 02
09 | CA | TULARE COUNTY | 0650661210B | 13-MAR-2000 | 00-09-339A | 02
09 | CA | TULARE COUNTY | 0650660480B | 17-APR-2000 | 00-09-421A | 02
09 | CA | UKIAH, CITY OF | 0601860001E | 16-MAY-2000 | 00-09-533A | 02
09 | CA | UNION CITY, CITY OF | 0600140010B | 07-JAN-2000 | 00-09-182A | 01
09 | CA | UNION CITY, CITY OF | 0600140010C | 18-APR-2000 | 00-09-507A | 02
09 | CA | UNION CITY, CITY OF | 0600140010C | 10-FEB-2000 | 99-09-1306V | 19
09 | CA | VACAVILLE, CITY OF | 0603730012C | 24-APR-2000 | 00-09-529A | 02
09 | CA | VACAVILLE, CITY OF | 0603730014C | 21-JUN-2000 | 00-09-722A | 02
09 | CA | VENTURA COUNTY | 0604130940B | 14-FEB-2000 | 00-09-088A | 02
09 | CA | VENTURA COUNTY | 0604130645B | 28-JAN-2000 | 00-09-261A | 01
09 | CA | VENTURA COUNTY | 0604130620B | 21-MAR-2000 | 00-09-326A | 02
09 | CA | VENTURA COUNTY | 0604130940B | 02-JUN-2000 | 00-09-511A | 02
09 | CA | VENTURA COUNTY | 0604130940B | 02-JUN-2000 | 00-09-514A | 02
09 | CA | VISALIA, CITY OF | 0604090010C | 05-JAN-2000 | 00-09-195A | 01
09 | CA | VISALIA, CITY OF | 0604090010C | 14-FEB-2000 | 00-09-226P | 06
09 | CA | VISALIA, CITY OF | 0604090010C | 09-FEB-2000 | 00-09-258A | 01
09 | CA | VISALIA, CITY OF | 0650660465C | 05-APR-2000 | 00-09-298A | 01
09 | CA | WALNUT CREEK, CITY OF | 0650700002C | 08-MAR-2000 | 00-09-137P | 05
09 | CA | WESTMINSTER, CITY OF | 06059C0027F | 14-JUN-2000 | 00-09-153P | 06
09 | CA | WESTMINSTER, CITY OF | 06059C0028F | 14-JUN-2000 | 00-09-153P | 06
09 | CA | WESTMINSTER, CITY OF | 06059C0036F | 14-JUN-2000 | 00-09-153P | 06
09 | CA | WESTMINSTER, CITY OF | 06059C0037F | 14-JUN-2000 | 00-09-153P | 06
09 | CA | WESTMINSTER, CITY OF | 06059C0028F | 24-MAR-2000 | 00-09-386A | 02
09 | CA | WESTMINSTER, CITY OF | 06059C0027F | 14-JUN-2000 | 00-09-449P | 06
09 | CA | WESTMINSTER, CITY OF | 06059C0028F | 14-JUN-2000 | 00-09-449P | 06
09 | CA | WESTMINSTER, CITY OF | 06059C0036F | 14-JUN-2000 | 00-09-449P | 06
09 | CA | WESTMINSTER, CITY OF | 06059C0037F | 14-JUN-2000 | 00-09-449P | 06
09 | CA | WESTMINSTER, CITY OF | 06059C0028F | 30-JUN-2000 | 00-09-611A | 01
09 | CA | WINDSOR, TOWN OF | 0603750545B | 17-MAY-2000 | 00-09-555A | 01
09 | CA | WOODLAND, CITY OF | 0604230425C | 16-FEB-2000 | 00-09-288A | 02
09 | CA | WOODLAND, CITY OF | 0604230425C | 06-APR-2000 | 00-09-455A | 02
09 | CA | WOODLAND, CITY OF | 0604230425C | 14-JUN-2000 | 00-09-702A | 02
09 | CA | YOLO COUNTY | 0604230560C | 15-MAR-2000 | 00-09-245A | 02
09 | HI | HAWAII COUNTY | 1551660890C | 27-APR-2000 | 99-09-703P | 06
09 | HI | HAWAII COUNTY | 1551660714C | 06-JAN-2000 | 99-09-913P | 05
09 | HI | HONOLULU COUNTY | 1500010005B | 24-JAN-2000 | 99-09-1056P | 05
09 | NV | CLARK COUNTY | 32003C2135D | 12-MAY-2000 | 00-09-044P | 06
09 | NV | CLARK COUNTY | 32003C3995D | 07-JAN-2000 | 00-09-117P | 05
09 | NV | CLARK COUNTY | 32003C4015D | 07-JAN-2000 | 00-09-117P | 05
09 | NV | CLARK COUNTY | 32003C4060D | 07-JAN-2000 | 00-09-117P | 05
09 | NV | CLARK COUNTY | 32003C4080D | 07-JAN-2000 | 00-09-117P | 05
09 | NV | CLARK COUNTY | 32003C2187D | 21-MAR-2000 | 00-09-268P | 06
09 | NV | CLARK COUNTY | 32003C2190D | 21-MAR-2000 | 00-09-268P | 06
09 | NV | CLARK COUNTY | 32003C2200D | 21-MAR-2000 | 00-09-268P | 06
09 | NV | CLARK COUNTY | 32003C2567D | 21-MAR-2000 | 00-09-268P | 06
09 | NV | CLARK COUNTY | 32003C2578D | 21-MAR-2000 | 00-09-268P | 06
09 | NV | CLARK COUNTY | 32003C2579D | 21-MAR-2000 | 00-09-268P | 06
09 | NV | CLARK COUNTY | 32003C2580D | 21-MAR-2000 | 00-09-268P | 06
09 | NV | CLARK COUNTY | 32003C2583D | 21-MAR-2000 | 00-09-268P | 06
09 | NV | CLARK COUNTY | 32003C2585D | 21-MAR-2000 | 00-09-268P | 06
09 | NV | CLARK COUNTY | 32003C2586D | 21-MAR-2000 | 00-09-268P | 06
09 | NV | CLARK COUNTY | 32003C2590D | 21-MAR-2000 | 00-09-268P | 06
09 | NV | CLARK COUNTY | 32003C2605D | 21-MAR-2000 | 00-09-268P | 06
09 | NV | CLARK COUNTY | 32003C2610D | 21-MAR-2000 | 00-09-268P | 06
09 | NV | CLARK COUNTY | 32003C2551D | 30-MAR-2000 | 00-09-344A | 02
09 | NV | CLARK COUNTY | 32003C4015D | 07-MAR-2000 | 00-09-372A | 02
09 | NV | CLARK COUNTY | 32003C2545D | 28-JUN-2000 | 00-09-428P | 05
09 | NV | CLARK COUNTY | 32003C2552D | 28-JUN-2000 | 00-09-428P | 05
09 | NV | CLARK COUNTY | 32003C2553D | 28-JUN-2000 | 00-09-428P | 05
09 | NV | CLARK COUNTY | 32003C2554D | 28-JUN-2000 | 00-09-428P | 05
09 | NV | CLARK COUNTY | 32003C2561D | 28-JUN-2000 | 00-09-428P | 05
09 | NV | CLARK COUNTY | 32003C2562D | 28-JUN-2000 | 00-09-428P | 05
09 | NV | CLARK COUNTY | 32003C2187D | 19-JAN-2000 | 99-09-1119P | 05
09 | NV | CLARK COUNTY | 32003C2190D | 19-JAN-2000 | 99-09-1119P | 05
09 | NV | CLARK COUNTY | 32003C2200D | 19-JAN-2000 | 99-09-1119P | 05
09 | NV | CLARK COUNTY | 32003C2585D | 19-JAN-2000 | 99-09-1119P | 05
09 | NV | CLARK COUNTY | 32003C2605D | 19-JAN-2000 | 99-09-1119P | 05
09 | NV | CLARK COUNTY | 32003C2610D | 19-JAN-2000 | 99-09-1119P | 05
09 | NV | CLARK COUNTY | 32003C2583D | 21-MAR-2000 | 99-09-211P | 06
09 | NV | CLARK COUNTY | 32003C2595D | 21-MAR-2000 | 99-09-211P | 06
09 | NV | CLARK COUNTY | 32003C2567D | 19-JAN-2000 | 99-09-230P | 05
09 | NV | CLARK COUNTY | 32003C2580D | 19-JAN-2000 | 99-09-230P | 05
09 | NV | CLARK COUNTY | 32003C2585D | 19-JAN-2000 | 99-09-230P | 05
09 | NV | CLARK COUNTY | 32003C2590D | 19-JAN-2000 | 99-09-230P | 05
09 | NV | CLARK COUNTY | 32003C0379D | 15-MAY-2000 | 99-09-457P | 06
09 | NV | DOUGLAS COUNTY | 32005C0060F | 30-MAR-2000 | 00-09-198A | 01
09 | NV | DOUGLAS COUNTY | 32005C0240F | 06-APR-2000 | 00-09-423A | 02
09 | NV | HENDERSON, CITY OF | 32003C2930D | 24-FEB-2000 | 00-09-164P | 06
09 | NV | HENDERSON, CITY OF | 32003C2187D | 21-MAR-2000 | 00-09-268P | 05
09 | NV | HENDERSON, CITY OF | 32003C2190D | 21-MAR-2000 | 00-09-268P | 05
09 | NV | HENDERSON, CITY OF | 32003C2200D | 21-MAR-2000 | 00-09-268P | 05
09 | NV | HENDERSON, CITY OF | 32003C2567D | 21-MAR-2000 | 00-09-268P | 05
09 | NV | HENDERSON, CITY OF | 32003C2578D | 21-MAR-2000 | 00-09-268P | 05
09 | NV | HENDERSON, CITY OF | 32003C2579D | 21-MAR-2000 | 00-09-268P | 05
09 | NV | HENDERSON, CITY OF | 32003C2580D | 21-MAR-2000 | 00-09-268P | 05
09 | NV | HENDERSON, CITY OF | 32003C2583D | 21-MAR-2000 | 00-09-268P | 05
09 | NV | HENDERSON, CITY OF | 32003C2585D | 21-MAR-2000 | 00-09-268P | 05
09 | NV | HENDERSON, CITY OF | 32003C2586D | 21-MAR-2000 | 00-09-268P | 05
09 | NV | HENDERSON, CITY OF | 32003C2590D | 21-MAR-2000 | 00-09-268P | 05
09 | NV | HENDERSON, CITY OF | 32003C2605D | 21-MAR-2000 | 00-09-268P | 05
09 | NV | HENDERSON, CITY OF | 32003C2610D | 21-MAR-2000 | 00-09-268P | 05
09 | NV | HENDERSON, CITY OF | 32003C2590D | 10-FEB-2000 | 00-09-324A | 01
09 | NV | HENDERSON, CITY OF | 32003C2590D | 15-MAR-2000 | 00-09-387A | 01
09 | NV | HENDERSON, CITY OF | 32003C2580D | 19-JAN-2000 | 97-09-574P | 05
09 | NV | HENDERSON, CITY OF | 32003C2187D | 19-JAN-2000 | 99-09-1119P | 05
09 | NV | HENDERSON, CITY OF | 32003C2190D | 19-JAN-2000 | 99-09-1119P | 05
09 | NV | HENDERSON, CITY OF | 32003C2200D | 19-JAN-2000 | 99-09-1119P | 05
09 | NV | HENDERSON, CITY OF | 32003C2585D | 19-JAN-2000 | 99-09-1119P | 05
09 | NV | HENDERSON, CITY OF | 32003C2605D | 19-JAN-2000 | 99-09-1119P | 05
09 | NV | HENDERSON, CITY OF | 32003C2610D | 19-JAN-2000 | 99-09-1119P | 05
09 | NV | HENDERSON, CITY OF | 32003C2583D | 21-MAR-2000 | 99-09-211P | 06
09 | NV | HENDERSON, CITY OF | 32003C2595D | 21-MAR-2000 | 99-09-211P | 06
09 | NV | HENDERSON, CITY OF | 32003C2567D | 19-JAN-2000 | 99-09-230P | 05
09 | NV | HENDERSON, CITY OF | 32003C2580D | 19-JAN-2000 | 99-09-230P | 05
09 | NV | HENDERSON, CITY OF | 32003C2585D | 19-JAN-2000 | 99-09-230P | 05
09 | NV | HENDERSON, CITY OF | 32003C2590D | 19-JAN-2000 | 99-09-230P | 05
09 | NV | LANDER COUNTY | 3200130140E | 02-MAY-2000 | 00-09-491A | 02
09 | NV | LYON COUNTY | 3200290055C | 12-APR-2000 | 00-09-483A | 02
09 | NV | MESQUITE, CITY OF | 32003C0379D | 15-MAY-2000 | 99-09-457P | 06
09 | NV | MESQUITE, CITY OF | 32003C0387D | 15-MAY-2000 | 99-09-457P | 06
09 | NV | NORTH LAS VEGAS, CITY OF | 32003C2160D | 10-MAY-2000 | 99-09-1060P | 06
09 | NV | RENO, CITY OF | 32031C3158E | 07-JAN-2000 | 00-09-206A | 01
09 | NV | SPARKS, CITY OF | 32031C3005E | 10-FEB-2000 | 00-09-004P | 05
09 | NV | SPARKS, CITY OF | 32031C3010E | 10-FEB-2000 | 00-09-004P | 05
09 | NV | SPARKS, CITY OF | 32031C3003E | 29-FEB-2000 | 00-09-265P | 06
09 | NV | SPARKS, CITY OF | 32031C3005E | 29-FEB-2000 | 00-09-265P | 06
09 | NV | SPARKS, CITY OF | 32031C2994E | 28-APR-2000 | 00-09-329A | 02
09 | NV | WASHOE COUNTY | 32031C3158E | 07-FEB-2000 | 00-09-121A | 02
09 | NV | WASHOE COUNTY | 32031C3003E | 29-FEB-2000 | 00-09-265P | 06
09 | NV | WASHOE COUNTY | 32031C3005E | 29-FEB-2000 | 00-09-265P | 06
09 | NV | WASHOE COUNTY | 32031C3176E | 25-APR-2000 | 00-09-589A | 02
09 | NV | WASHOE COUNTY | 32031C2825E | 28-JUN-2000 | 00-09-762A | 02
10 | AK | FAIRBANKS-NORTH STAR BOROUGH | 0250090181G | 06-APR-2000 | 00-10-116A | 02
10 | AK | FAIRBANKS-NORTH STAR BOROUGH | 0250090212H | 03-MAY-2000 | 00-10-255A | 02
10 | AK | JUNEAU, CITY AND BOROUGH OF | 0200090880C | 18-APR-2000 | 00-10-266A | 02
10 | AK | MATANUSKA-SUSITNA, BOROUGH OF | 0200219700C | 28-MAR-2000 | 00-10-091A | 02
10 | ID | ADA COUNTY | 16001C0153G | 23-FEB-2000 | 00-10-072P | 05
10 | ID | ADA COUNTY | 16001C0154G | 23-FEB-2000 | 00-10-072P | 05
10 | ID | ADA COUNTY | 16001C0254G | 25-APR-2000 | 00-10-210A | 01
10 | ID | ADA COUNTY | 16001C0153G | 09-JUN-2000 | 00-10-289P | 06
10 | ID | ADA COUNTY | 16001C0254G | 09-JUN-2000 | 00-10-309A | 02
10 | ID | BELLEVUE, CITY OF | 1600210857D | 08-FEB-2000 | 00-10-104A | 01
10 | ID | BELLEVUE, CITY OF | 1600210857D | 04-JAN-2000 | 00-10-115P | 05
10 | ID | BELLEVUE, CITY OF | 1600210859D | 04-JAN-2000 | 00-10-115P | 05
10 | ID | BLAINE COUNTY | 1651670857C | 04-JAN-2000 | 00-10-115P | 05
10 | ID | BLAINE COUNTY | 1651671175B | 21-APR-2000 | 00-10-284V | 19
10 | ID | BOISE COUNTY | 16015C0400B | 24-FEB-2000 | 00-10-145A | 02
10 | ID | BONNER COUNTY | 1602060210B | 16-FEB-2000 | 00-10-111A | 02
10 | ID | BONNER COUNTY | 1602060300C | 18-FEB-2000 | 00-10-142A | 02
10 | ID | BONNER COUNTY | 1602060325B | 10-APR-2000 | 00-10-233A | 02
10 | ID | BONNER COUNTY | 1602060325B | 17-MAY-2000 | 00-10-287A | 02
10 | ID | CASSIA COUNTY | 1600410100B | 21-JUN-2000 | 00-10-326A | 02
10 | ID | EAGLE, CITY OF | 16001C0153G | 23-FEB-2000 | 00-10-072P | 05
10 | ID | EAGLE, CITY OF | 16001C0154G | 23-FEB-2000 | 00-10-072P | 05
10 | ID | EAGLE, CITY OF | 16001C0153G | 25-APR-2000 | 00-10-179A | 01
10 | ID | EAGLE, CITY OF | 16001C0153G | 09-JUN-2000 | 00-10-289P | 06
10 | ID | FREMONT COUNTY | 1600610125B | 29-FEB-2000 | 00-10-157A | 02
10 | ID | GARDEN CITY, CITY OF | 16001C0166G | 21-JUN-2000 | 00-10-334A | 02
10 | ID | KOOTENAI COUNTY | 1600760125C | 28-JUN-2000 | 00-10-336A | 02
10 | ID | MERIDIAN, CITY OF | 16001C0144G | 09-FEB-2000 | 00-10-118A | 02
10 | ID | MERIDIAN, CITY OF | 16001C0143G | 20-APR-2000 | 00-10-237A | 02
10 | ID | MINIDOKA COUNTY | 160201B | 15-MAY-2000 | 00-10-164A | 02
10 | ID | MOUNTAIN HOME, CITY OF | 1600580005C | 14-JUN-2000 | 00-10-314A | 02
10 | ID | MOUNTAIN HOME, CITY OF | 1602120605C | 14-JUN-2000 | 00-10-314A | 02
10 | ID | SANDPOINT,CITY OF | 1600250001C | 07-MAR-2000 | 00-10-110A | 02
10 | ID | SUN VALLEY, CITY OF | 1600240453D | 21-MAR-2000 | 00-10-199A | 02
10 | ID | TWIN FALLS, CITY OF | 1601200005B | 14-JUN-2000 | 00-10-286A | 02
10 | ID | VALLEY COUNTY | 1602200325A | 09-MAY-2000 | 00-10-001A | 02
10 | ID | VALLEY COUNTY | 1602200325A | 24-FEB-2000 | 00-10-148A | 02
10 | ID | WASHINGTON COUNTY | 1602210320B | 01-FEB-2000 | 00-10-093A | 02
10 | OR | ALBANY, CITY OF | 4101370001F | 12-JAN-2000 | 00-10-066A | 02
10 | OR | ALBANY, CITY OF | 4101370001F | 24-FEB-2000 | 00-10-151A | 02
10 | OR | ALBANY, CITY OF | 4101370005F | 09-JUN-2000 | 00-10-331A | 02
10 | OR | ASHLAND, CITY OF | 4100900003B | 28-JUN-2000 | 00-10-229A | 02
10 | OR | ATHENA, CITY OF | 4102060001D | 27-MAR-2000 | 97-10-329V | 19
10 | OR | BAY CITY, CITY OF | 4101970001B | 21-MAR-2000 | 00-10-169A | 02
10 | OR | BEAVERTON, CITY OF | 4102400002C | 25-MAY-2000 | 99-10-610P | 05
10 | OR | BEAVERTON, CITY OF | 4102400003C | 25-MAY-2000 | 99-10-610P | 05
10 | OR | CANNON BEACH, CITY OF | 4100290005B | 28-JUN-2000 | 99-10-518P | 08
10 | OR | CLACKAMAS COUNTY | 4155880020A | 13-MAR-2000 | 00-10-060A | 02
10 | OR | CLACKAMAS COUNTY | 4155880030A | 26-JUN-2000 | 00-10-173P | 05
10 | OR | CLACKAMAS COUNTY | 4155880055B | 09-MAY-2000 | 00-10-257A | 02
10 | OR | COLUMBIA COUNTY | 41009C0425C | 28-JAN-2000 | 00-10-114A | 02
10 | OR | COLUMBIA COUNTY | 41009C0450C | 18-APR-2000 | 00-10-234A | 02
10 | OR | CRESWELL, CITY OF | 41039C1661F | 14-JUN-2000 | 00-10-094A | 01
10 | OR | DEPOE BAY, CITY OF | 4102830001B | 21-JAN-2000 | 00-10-098A | 02
10 | OR | DOUGLAS COUNTY | 4100590940A | 25-MAY-2000 | 00-10-120A | 02
10 | OR | DOUGLAS COUNTY | 4100591135A | 08-FEB-2000 | 00-10-133A | 02
10 | OR | DOUGLAS COUNTY | 4100590325A | 24-FEB-2000 | 00-10-147A | 02
10 | OR | DOUGLAS COUNTY | 4100590930A | 21-MAR-2000 | 00-10-200A | 02
10 | OR | DOUGLAS COUNTY | 4100590550A | 09-JUN-2000 | 00-10-313A | 02
10 | OR | EAGLE POINT, CITY OF | 4100930001B | 29-FEB-2000 | 99-10-588A | 01
10 | OR | EUGENE, CITY OF | 41039C1104F | 10-JAN-2000 | 00-10-053A | 01
10 | OR | EUGENE, CITY OF | 41039C1136F | 04-FEB-2000 | 00-10-090A | 02
10 | OR | EUGENE, CITY OF | 41039C1107F | 29-FEB-2000 | 00-10-106A | 02
10 | OR | EUGENE, CITY OF | 41039C0619F | 31-MAY-2000 | 00-10-155A | 02
10 | OR | EUGENE, CITY OF | 41039C1126F | 27-MAR-2000 | 00-10-186A | 02
10 | OR | EUGENE, CITY OF | 41039C1106F | 07-MAR-2000 | 00-10-189A | 02
10 | OR | EUGENE, CITY OF | 41039C1107F | 07-MAR-2000 | 00-10-189A | 02
10 | OR | EUGENE, CITY OF | 41039C1126F | 21-MAR-2000 | 00-10-196A | 02
10 | OR | EUGENE, CITY OF | 41039C1107F | 28-MAR-2000 | 00-10-206A | 02
10 | OR | EUGENE, CITY OF | 41039C1107F | 03-MAY-2000 | 00-10-243A | 02
10 | OR | EUGENE, CITY OF | 41039C1106F | 28-APR-2000 | 00-10-252A | 02
10 | OR | EUGENE, CITY OF | 41039C1128F | 09-MAY-2000 | 00-10-265A | 02
10 | OR | EUGENE, CITY OF | 41039C1107F | 30-MAY-2000 | 00-10-270A | 02
10 | OR | EUGENE, CITY OF | 41039C1136F | 09-JUN-2000 | 00-10-275A | 02
10 | OR | EUGENE, CITY OF | 41039C1109F | 21-JUN-2000 | 00-10-332A | 02
10 | OR | EUGENE, CITY OF | 41039C1137F | 28-JUN-2000 | 00-10-338A | 02
10 | OR | EUGENE, CITY OF | 41039C1136F | 28-JUN-2000 | 00-10-348A | 02
10 | OR | FAIRVIEW, CITY OF | 4101800001D | 05-JUN-2000 | 00-10-267A | 01
10 | OR | FLORENCE, CITY OF | 41039C1427F | 22-FEB-2000 | 00-10-123A | 02
10 | OR | FLORENCE, CITY OF | 41039C0945F | 12-APR-2000 | 00-10-227A | 02
10 | OR | FLORENCE, CITY OF | 41039C1427F | 09-MAY-2000 | 00-10-264A | 02
10 | OR | FLORENCE, CITY OF | 41039C1427F | 21-JUN-2000 | 00-10-273A | 02
10 | OR | GRANT COUNTY | 4100740650B | 07-APR-2000 | 00-10-188A | 02
10 | OR | JACKSON COUNTY | 4155890412B | 11-JAN-2000 | 00-10-089A | 02
10 | OR | JACKSON COUNTY | 4155890406B | 31-MAY-2000 | 00-10-305A | 02
10 | OR | JOSEPHINE COUNTY | 4155900237D | 15-MAR-2000 | 00-10-096A | 17
10 | OR | JOSEPHINE COUNTY | 4155900237D | 24-MAY-2000 | 00-10-205A | 02
10 | OR | KEIZER, CITY OF | 41047C0193G | 16-FEB-2000 | 00-10-136A | 02
10 | OR | KEIZER, CITY OF | 41047C0332G | 22-FEB-2000 | 00-10-139A | 02
10 | OR | KEIZER, CITY OF | 41047C0193G | 14-JUN-2000 | 00-10-306A | 02
10 | OR | KEIZER, CITY OF | 41047C0188G | 20-JAN-2000 | 99-10-624V | 19
10 | OR | KEIZER, CITY OF | 41047C0189G | 20-JAN-2000 | 99-10-624V | 19
10 | OR | KEIZER, CITY OF | 41047C0331G | 20-JAN-2000 | 99-10-624V | 19
10 | OR | KEIZER, CITY OF | 41047C0332G | 20-JAN-2000 | 99-10-624V | 19
10 | OR | LANE COUNTY | 41039C2135F | 22-FEB-2000 | 00-10-027A | 02
10 | OR | LANE COUNTY | 41039C1165F | 05-JAN-2000 | 00-10-058A | 02
10 | OR | LANE COUNTY | 41039C1107F | 30-MAR-2000 | 00-10-132A | 02
10 | OR | LANE COUNTY | 41039C1107F | 24-MAR-2000 | 00-10-137A | 02
10 | OR | LANE COUNTY | 41039C1107F | 24-FEB-2000 | 00-10-146A | 02
10 | OR | LANE COUNTY | 41039C1660F | 02-MAR-2000 | 00-10-163A | 02
10 | OR | LANE COUNTY | 41039C1660F | 02-MAR-2000 | 00-10-165A | 02
10 | OR | LANE COUNTY | 41039C1106F | 03-MAR-2000 | 00-10-167A | 02
10 | OR | LANE COUNTY | 41039C0790F | 07-MAR-2000 | 00-10-174A | 02
10 | OR | LANE COUNTY | 41039C0600F | 07-MAR-2000 | 00-10-176A | 02
10 | OR | LANE COUNTY | 41039C1107F | 29-MAR-2000 | 00-10-193A | 02
10 | OR | LANE COUNTY | 41039C0615F | 04-APR-2000 | 00-10-219A | 02
10 | OR | LANE COUNTY | 41039C0620F | 28-MAR-2000 | 00-10-221A | 02
10 | OR | LANE COUNTY | 41039C2400F | 28-APR-2000 | 00-10-251A | 02
10 | OR | LANE COUNTY | 41039C1105F | 14-JUN-2000 | 00-10-317A | 02
10 | OR | LANE COUNTY | 41039C0700F | 21-JUN-2000 | 00-10-340A | 02
10 | OR | LANE COUNTY | 41039C2085F | 28-JUN-2000 | 00-10-342A | 02
10 | OR | LANE COUNTY | 41039C0550F | 30-JUN-2000 | 00-10-344A | 02
10 | OR | LANE COUNTY | 41039C1107F | 28-JUN-2000 | 00-10-346A | 02
10 | OR | LANE COUNTY | 41039C1104F | 10-JAN-2000 | 99-10-583A | 01
10 | OR | LINCOLN CITY, CITY OF | 4101300001C | 10-JAN-2000 | 00-10-085A | 02
10 | OR | LINCOLN CITY, CITY OF | 4101300001C | 21-APR-2000 | 00-10-149A | 17
10 | OR | LINCOLN CITY, CITY OF | 4101300001C | 25-MAY-2000 | 00-10-177A | 02
10 | OR | LINCOLN CITY, CITY OF | 4101300001C | 11-MAY-2000 | 00-10-254A | 02
10 | OR | LINCOLN CITY, CITY OF | 4101300001C | 12-MAY-2000 | 00-10-279A | 02
10 | OR | LINCOLN CITY, CITY OF | 4101300001C | 16-MAR-2000 | 98-10-423P | 06
10 | OR | LINCOLN COUNTY | 4101290075B | 16-FEB-2000 | 00-10-131A | 02
10 | OR | LINN COUNTY | 4101360380B | 27-MAR-2000 | 00-10-236A | 02
10 | OR | LINN COUNTY | 4101360350B | 21-JUN-2000 | 00-10-325A | 02
10 | OR | MADRAS, CITY OF | 4101030001C | 02-FEB-2000 | 00-10-117A | 02
10 | OR | MARION COUNTY | 41047C0275G | 17-APR-2000 | 99-10-543A | 02
10 | OR | MARION COUNTY | 41047C0050G | 20-JAN-2000 | 99-10-624V | 19
10 | OR | MARION COUNTY | 41047C0132G | 20-JAN-2000 | 99-10-624V | 19
10 | OR | MARION COUNTY | 41047C0225G | 20-JAN-2000 | 99-10-624V | 19
10 | OR | MARION COUNTY | 41047C0339G | 20-JAN-2000 | 99-10-624V | 19
10 | OR | MARION COUNTY | 41047C0351G | 20-JAN-2000 | 99-10-624V | 19
10 | OR | MARION COUNTY | 41047C0375G | 20-JAN-2000 | 99-10-624V | 19
10 | OR | MARION COUNTY | 41047C0400G | 20-JAN-2000 | 99-10-624V | 19
10 | OR | MARION COUNTY | 41047C0676G | 20-JAN-2000 | 99-10-624V | 19
10 | OR | MARION COUNTY | 41047C0677G | 20-JAN-2000 | 99-10-624V | 19
10 | OR | MARION COUNTY | 41047C0775G | 20-JAN-2000 | 99-10-624V | 19
10 | OR | MARION COUNTY | 41047C1000G | 20-JAN-2000 | 99-10-624V | 19
10 | OR | MEDFORD, CITY OF | 4100960003C | 12-APR-2000 | 00-10-166A | 02
10 | OR | MEDFORD, CITY OF | 4100960007B | 02-JUN-2000 | 00-10-301A | 02
10 | OR | MILWAUKIE, CITY OF | 4100190001B | 26-JUN-2000 | 00-10-173P | 05
10 | OR | MILWAUKIE, CITY OF | 4100190002B | 26-JUN-2000 | 00-10-173P | 05
10 | OR | MULTNOMAH COUNTY | 4101790379B | 26-JUN-2000 | 00-10-173P | 05
10 | OR | MULTNOMAH COUNTY | 4101790381B | 26-JUN-2000 | 00-10-173P | 05
10 | OR | MULTNOMAH COUNTY | 4101790382B | 26-JUN-2000 | 00-10-173P | 05
10 | OR | MULTNOMAH COUNTY | 4101790401B | 26-JUN-2000 | 00-10-173P | 05
10 | OR | NORTH PLAINS, CITY OF | 4102700001B | 30-MAY-2000 | 00-10-293A | 02
10 | OR | PHILOMATH, CITY OF | 4100110001B | 21-JAN-2000 | 00-10-097A | 01
10 | OR | POLK COUNTY | 41053C0010C | 14-FEB-2000 | 00-10-124A | 02
10 | OR | POLK COUNTY | 41053C0010C | 09-MAY-2000 | 00-10-258A | 02
10 | OR | PORTLAND, CITY OF | 4101830047D | 26-JUN-2000 | 00-10-173P | 06
10 | OR | PORTLAND, CITY OF | 4101830048C | 26-JUN-2000 | 00-10-173P | 06
10 | OR | PORTLAND, CITY OF | 4101830049D | 26-JUN-2000 | 00-10-173P | 06
10 | OR | PORTLAND, CITY OF | 4101830051C | 26-JUN-2000 | 00-10-173P | 06
10 | OR | PORTLAND, CITY OF | 4101830052C | 26-JUN-2000 | 00-10-173P | 06
10 | OR | ROSEBURG, CITY OF | 4100670005E | 12-JAN-2000 | 00-10-063A | 02
10 | OR | ROSEBURG, CITY OF | 4100670005E | 09-FEB-2000 | 00-10-119A | 02
10 | OR | ROSEBURG, CITY OF | 4100670005E | 29-FEB-2000 | 00-10-156A | 02
10 | OR | ROSEBURG, CITY OF | 4100670005E | 10-APR-2000 | 00-10-228A | 02
10 | OR | ROSEBURG, CITY OF | 4100670005E | 09-JUN-2000 | 00-10-321A | 02
10 | OR | ROSEBURG, CITY OF | 4100670005E | 28-JUN-2000 | 00-10-341A | 02
10 | OR | SALEM, CITY OF | 41047C0342G | 16-JUN-2000 | 00-10-315A | 02
10 | OR | SALEM, CITY OF | 41047C0187G | 20-JAN-2000 | 99-10-624V | 19
10 | OR | SALEM, CITY OF | 41047C0329G | 20-JAN-2000 | 99-10-624V | 19
10 | OR | SALEM, CITY OF | 41047C0333G | 20-JAN-2000 | 99-10-624V | 19
10 | OR | SALEM, CITY OF | 41047C0337G | 20-JAN-2000 | 99-10-624V | 19
10 | OR | SALEM, CITY OF | 41047C0342G | 20-JAN-2000 | 99-10-624V | 19
10 | OR | SALEM, CITY OF | 41047C0344G | 20-JAN-2000 | 99-10-624V | 19
10 | OR | SALEM, CITY OF | 41047C0351G | 20-JAN-2000 | 99-10-624V | 19
10 | OR | SALEM, CITY OF | 41047C0657G | 20-JAN-2000 | 99-10-624V | 19
10 | OR | SCIO, CITY OF | 4101440001A | 05-JAN-2000 | 00-10-077A | 02
10 | OR | SHERIDAN, CITY OF | 4102570002C | 07-FEB-2000 | 00-10-079A | 02
10 | OR | SHERIDAN, CITY OF | 4102570002C | 03-APR-2000 | 00-10-192A | 02
10 | OR | SILVERTON, CITY OF | 41047C0243G | 20-JAN-2000 | 99-10-624V | 19
10 | OR | SPRINGFIELD, CITY OF | 41039C1134F | 07-JAN-2000 | 00-10-068A | 02
10 | OR | TIGARD, CITY OF | 4102760003B | 19-APR-2000 | 00-10-209A | 01
10 | OR | TROUTDALE, CITY OF | 4101840005D | 02-MAY-2000 | 00-10-222A | 01
10 | OR | TUALATIN, CITY OF | 4102770002D | 28-JAN-2000 | 00-10-086A | 01
10 | OR | TUALATIN, CITY OF | 4102770002D | 10-JAN-2000 | 00-10-088A | 02
10 | OR | WASHINGTON COUNTY | 4102380368B | 21-MAR-2000 | 00-10-202A | 02
10 | OR | WASHINGTON COUNTY | 4102380342B | 03-MAY-2000 | 00-10-223A | 02
10 | OR | WASHINGTON COUNTY | 4102380502C | 25-MAY-2000 | 99-10-610P | 05
10 | OR | WASHINGTON COUNTY | 4102380506C | 25-MAY-2000 | 99-10-610P | 05
10 | OR | WOODBURN, CITY OF | 41047C0138G | 20-JAN-2000 | 99-10-624V | 19
10 | WA | ABERDEEN, CITY OF | 5300580002B | 10-MAR-2000 | 00-10-181A | 02
10 | WA | BRIER, CITY OF | 53061C1317E | 30-JUN-2000 | 00-10-280A | 02
10 | WA | CHEHALIS, CITY OF | 5301040001B | 21-JAN-2000 | 00-10-122A | 02
10 | WA | CHELAN COUNTY | 5300150775B | 11-FEB-2000 | 99-10-145P | 05
10 | WA | EAST WENATCHEE, TOWN OF | 5300360535A | 14-APR-2000 | 00-10-194P | 05
10 | WA | EAST WENATCHEE, TOWN OF | 5300380001C | 14-APR-2000 | 00-10-194P | 05
10 | WA | FERNDALE, TOWN OF | 5302010005B | 22-JUN-2000 | 00-10-129A | 01
10 | WA | HOQUIAM, CITY OF | 5300610005B | 02-MAR-2000 | 00-10-172A | 02
10 | WA | KING COUNTY | 53033C1225F | 22-FEB-2000 | 00-10-022A | 02
10 | WA | KING COUNTY | 53033C1280F | 14-FEB-2000 | 00-10-102A | 02
10 | WA | KING COUNTY | 53033C0040F | 04-APR-2000 | 00-10-182A | 02
10 | WA | KING COUNTY | 53033C0063G | 25-APR-2000 | 00-10-218A | 02
10 | WA | KING COUNTY | 53033C1259F | 17-APR-2000 | 00-10-232A | 02
10 | WA | KING COUNTY | 53033C0615F | 05-JAN-2000 | 99-10-576A | 02
10 | WA | KING COUNTY | 53033C0063G | 27-MAR-2000 | 99-10-626V | 19
10 | WA | KING COUNTY | 53033C0068G | 27-MAR-2000 | 99-10-626V | 19
10 | WA | KING COUNTY | 53033C0360G | 27-MAR-2000 | 99-10-626V | 19
10 | WA | KING COUNTY | 53033C0360G | 27-MAR-2000 | 99-10-626V | 19
10 | WA | KITSAP COUNTY | 5300920310B | 12-MAY-2000 | 00-10-246A | 02
10 | WA | KITTITAS COUNTY | 5300950261B | 21-MAR-2000 | 00-10-109A | 17
10 | WA | KITTITAS COUNTY | 5300950229B | 29-MAR-2000 | 00-10-140A | 17
10 | WA | KITTITAS COUNTY | 5300950409B | 08-MAY-2000 | 00-10-235A | 02
10 | WA | LAKE STEVENS, CITY OF | 53061C0743E | 04-MAY-2000 | 00-10-113A | 02
10 | WA | LAKE STEVENS, CITY OF | 53061C0743E | 09-MAY-2000 | 00-10-249A | 02
10 | WA | LEWIS COUNTY | 5301020360B | 24-FEB-2000 | 00-10-144A | 02
10 | WA | LEWIS COUNTY | 5301020460B | 09-MAR-2000 | 00-10-187A | 02
10 | WA | MASON COUNTY | 5301150200C | 18-APR-2000 | 00-10-160A | 02
10 | WA | MOUNTLAKE TERRACE, CITY OF | 53061C1315E | 09-MAY-2000 | 00-10-268A | 02
10 | WA | OAK HARBOR, CITY OF | 53029C0120D | 09-FEB-2000 | 00-R10-001 | 02
10 | WA | OKANOGAN COUNTY | 5301170675D | 12-APR-2000 | 00-10-084P | 06
10 | WA | OKANOGAN COUNTY | 5301171100B | 01-MAR-2000 | 00-10-158A | 02
10 | WA | OLYMPIA, CITY OF | 5301910005B | 09-JUN-2000 | 00-10-292A | 02
10 | WA | OROVILLE, TOWN OF | 5301210001C | 29-MAR-2000 | 00-10-170A | 02
10 | WA | PACIFIC COUNTY | 5301260053A | 21-JUN-2000 | 00-10-180A | 02
10 | WA | PEND OREILLE COUNTY | 530131B | 17-MAY-2000 | 00-10-288A | 02
10 | WA | PULLMAN, CITY OF | 5302120001C | 23-FEB-2000 | 00-10-143A | 02
10 | WA | RAYMOND, CITY OF | 5301290005B | 19-MAY-2000 | 00-10-295A | 02
10 | WA | REDMOND, CITY OF | 53033C0370F | 12-JUN-2000 | 00-10-224P | 06
10 | WA | REDMOND, CITY OF | 53033C0370F | 15-MAR-2000 | 00-10-226A | 01
10 | WA | REDMOND, CITY OF | 53033C0370F | 20-APR-2000 | 00-10-239A | 02
10 | WA | SAN JUAN COUNTY | 5301490003B | 27-JAN-2000 | 00-10-108A | 02
10 | WA | SEATTLE, CITY OF | 53033C0331F | 29-FEB-2000 | 00-10-059P | 06
10 | WA | SKAGIT COUNTY | 5301510225C | 07-APR-2000 | 00-10-083P | 05
10 | WA | SKAGIT COUNTY | 5301510235D | 16-FEB-2000 | 00-10-112A | 02
10 | WA | SKAGIT COUNTY | 5301510425C | 24-MAY-2000 | 00-10-298A | 02
10 | WA | SKAGIT COUNTY | 5301510225C | 09-JUN-2000 | 00-10-300A | 02
10 | WA | SKAGIT COUNTY | 5301510260C | 24-MAY-2000 | 00-10-304A | 02
10 | WA | SKAGIT COUNTY | 5301510235D | 14-JUN-2000 | 00-10-324A | 02
10 | WA | SKAGIT COUNTY | 5301510235D | 14-JUN-2000 | 00-10-327A | 02
10 | WA | SKAGIT COUNTY | 5301510330C | 13-JAN-2000 | 99-10-617A | 02
10 | WA | SNOHOMISH COUNTY | 53061C0760E | 26-JUN-2000 | 00-10-135A | 17
10 | WA | SNOHOMISH COUNTY | 53061C0743E | 21-MAR-2000 | 00-10-201A | 02
10 | WA | SNOHOMISH COUNTY | 53061C0710E | 10-MAR-2000 | 00-10-207A | 02
10 | WA | SNOHOMISH COUNTY | 53061C1055E | 31-MAR-2000 | 00-10-215A | 02
10 | WA | SNOHOMISH COUNTY | 53061C0695E | 08-MAY-2000 | 00-10-259A | 02
10 | WA | SNOHOMISH COUNTY | 53061C0715E | 28-JUN-2000 | 00-10-303A | 02
10 | WA | SNOHOMISH COUNTY | 53061C0715E | 21-JUN-2000 | 00-10-335A | 02
10 | WA | SPOKANE COUNTY | 5301740277B | 02-JUN-2000 | 00-10-064A | 02
10 | WA | SPOKANE COUNTY | 5301740303C | 02-MAR-2000 | 00-10-138A | 02
10 | WA | SPOKANE COUNTY | 5301740294C | 31-MAR-2000 | 00-10-191A | 02
10 | WA | SPOKANE COUNTY | 5301740294C | 04-MAY-2000 | 00-10-216A | 02
10 | WA | SULTAN, TOWN OF | 53061C1406E | 27-JAN-2000 | 00-10-099A | 02
10 | WA | SULTAN, TOWN OF | 53061C1402E | 12-MAY-2000 | 00-10-105A | 01
10 | WA | SULTAN, TOWN OF | 53061C1406E | 08-FEB-2000 | 00-10-107A | 02
10 | WA | SULTAN, TOWN OF | 53061C1406E | 10-MAY-2000 | 00-10-278A | 02
10 | WA | THURSTON COUNTY | 5301880282C | 03-APR-2000 | 00-10-220A | 02
10 | WA | YAKIMA COUNTY | 5302171036B | 07-APR-2000 | 00-10-231A | 02

Region | State | Community | Panel | Panel date
01 | MAINE | DALLAS PLANTATION | 2304550025B | 23-FEB-2000
01 | MAINE | STARKS, TOWN OF | 2300620005C | 20-APR-2000
01 | MAINE | STARKS, TOWN OF | 2300620006C | 20-APR-2000
01 | MAINE | STARKS, TOWN OF | 2300620008C | 20-APR-2000
01 | MAINE | STARKS, TOWN OF | 2303720000 | 20-APR-2000
01 | MAINE | STARKS, TOWN OF | 2303720012C | 20-APR-2000
01 | MAINE | STARKS, TOWN OF | 2303720014C | 20-APR-2000
01 | MAINE | STARKS, TOWN OF | 2303720016C | 20-APR-2000
01 | MAINE | TEMPLE, TOWN OF | 2300620000 | 20-APR-2000
01 | MAINE | TEMPLE, TOWN OF | 2300620002C | 20-APR-2000
01 | MAINE | TEMPLE, TOWN OF | 2300620005C | 20-APR-2000
01 | MAINE | TEMPLE, TOWN OF | 2300620006C | 20-APR-2000
01 | MAINE | TEMPLE, TOWN OF | 2300620008C | 20-APR-2000
01 | MAINE | TEMPLE, TOWN OF | 2300620015C | 20-APR-2000
01 | MAINE | TEMPLE, TOWN OF | 2300620016C | 20-APR-2000
01 | MAINE | TEMPLE, TOWN OF | 2300620018C | 20-APR-2000
01 | MASSACHUSETTS | MILLBURY, TOWN OF | 2503180000 | 07-JAN-2000
01 | MASSACHUSETTS | MILLBURY, TOWN OF | 2503180001C** | 07-JAN-2000
01 | MASSACHUSETTS | MILLBURY, TOWN OF | 2503180002C | 07-JAN-2000
01 | MASSACHUSETTS | MILLBURY, TOWN OF | 2503180003C** | 07-JAN-2000
01 | MASSACHUSETTS | MILLBURY, TOWN OF | 2503180004C** | 07-JAN-2000
01 | MASSACHUSETTS | MILLBURY, TOWN OF | 2503180006C | 07-JAN-2000
01 | NEW HAMPSHIRE | BRENTWOOD, TOWN OF | 3301250000 | 04-MAY-2000
01 | NEW HAMPSHIRE | BRENTWOOD, TOWN OF | 3301250002C | 04-MAY-2000
01 | NEW HAMPSHIRE | BRENTWOOD, TOWN OF | 3301250003C | 04-MAY-2000
01 | NEW HAMPSHIRE | BRENTWOOD, TOWN OF | 3301250004C | 04-MAY-2000
01 | NEW HAMPSHIRE | CHARLESTOWN, TOWN OF | 3301530000 | 04-MAY-2000
01 | NEW HAMPSHIRE | CHARLESTOWN, TOWN OF | 3301530005D | 04-MAY-2000
01 | NEW HAMPSHIRE | CHARLESTOWN, TOWN OF | 3301530006D | 04-MAY-2000
01 | NEW HAMPSHIRE | CHARLESTOWN, TOWN OF | 3301530010D | 04-MAY-2000
01 | NEW HAMPSHIRE | CHARLESTOWN, TOWN OF | 3301530015D | 04-MAY-2000
01 | NEW HAMPSHIRE | LINCOLN, TOWN OF | 3300620000 | 20-APR-2000
01 | NEW HAMPSHIRE | LINCOLN, TOWN OF | 3300620020D | 20-APR-2000
01 | NEW HAMPSHIRE | LINCOLN, TOWN OF | 3300620035D | 20-APR-2000
01 | NEW HAMPSHIRE | LINCOLN, TOWN OF | 3300620040D | 20-APR-2000
01 | NEW HAMPSHIRE | WALPOLE, TOWN OF | 3300270000 | 04-MAY-2000
01 | NEW HAMPSHIRE | WALPOLE, TOWN OF | 3300270005B | 04-MAY-2000
01 | NEW HAMPSHIRE | WALPOLE, TOWN OF | 3300270010B | 04-MAY-2000
01 | NEW HAMPSHIRE | WOODSTOCK, TOWN OF | 3300790000 | 06-APR-2000
01 | NEW HAMPSHIRE | WOODSTOCK, TOWN OF | 3300790020C | 06-APR-2000
01 | RHODE ISLAND | PROVIDENCE, CITY OF (PROVIDENCE) | 4454060000 | 06-JUN-2000
01 | RHODE ISLAND | PROVIDENCE, CITY OF (PROVIDENCE) | 4454060001F** | 06-JUN-2000
01 | RHODE ISLAND | PROVIDENCE, CITY OF (PROVIDENCE) | 4454060002F** | 06-JUN-2000
01 | RHODE ISLAND | PROVIDENCE, CITY OF (PROVIDENCE) | 4454060004F** | 06-JUN-2000
01 | RHODE ISLAND | PROVIDENCE, CITY OF (PROVIDENCE) | 4454060005F | 06-JUN-2000
01 | RHODE ISLAND | PROVIDENCE, CITY OF (PROVIDENCE) | 4454060006F** | 06-JUN-2000
01 | VERMONT | WOLCOTT, TOWN OF | 5000680000 | 06-JUN-2000
01 | VERMONT | WOLCOTT, TOWN OF | 5000680011C | 06-JUN-2000
01 | VERMONT | WOLCOTT, TOWN OF | 5000680012C | 06-JUN-2000
01 | VERMONT | WOLCOTT, TOWN OF | 5000680013C | 06-JUN-2000
01 | VERMONT | WOLCOTT, TOWN OF | 5000680014C | 06-JUN-2000
01 | VERMONT | WOLCOTT, TOWN OF | 5000680020C | 06-JUN-2000
01 | VERMONT | WOLCOTT, TOWN OF | 5000680026C | 06-JUN-2000
01 | VERMONT | WOLCOTT, TOWN OF | 5000680027C | 06-JUN-2000
02 | NEW JERSEY | BARNEGAT, TOWNSHIP OF (OCEAN COUNTY) | 3403960000 | 20-JUN-2000
02 | NEW JERSEY | BARNEGAT, TOWNSHIP OF (OCEAN COUNTY) | 3403960015D** | 20-JUN-2000
02 | NEW JERSEY | BARNEGAT, TOWNSHIP OF (OCEAN COUNTY) | 3403960020D** | 20-JUN-2000
02 | NEW YORK | CLARKSTOWN, TOWN OF (ROCKLAND COUNTY) | 3603790003E** | 18-MAY-2000
02 | NEW YORK | CLARKSTOWN, TOWN OF (ROCKLAND COUNTY) | 3603790004** | 18-MAY-2000
02 | NEW YORK | CLARKSTOWN, TOWN OF (ROCKLAND COUNTY) | 3603790005E** | 18-MAY-2000
02 | NEW YORK | CLARKSTOWN, TOWN OF (ROCKLAND COUNTY) | 3603790006F** | 18-MAY-2000
02 | NEW YORK | CLARKSTOWN, TOWN OF (ROCKLAND COUNTY) | 3603790007E | 18-MAY-2000
02 | NEW YORK | CLARKSTOWN, TOWN OF (ROCKLAND COUNTY) | 3603790008E** | 18-MAY-2000
02 | NEW YORK | CLARKSTOWN, TOWN OF (ROCKLAND COUNTY) | 3603790010E | 18-MAY-2000
02 | NEW YORK | CLARKSTOWN, TOWN OF (ROCKLAND COUNTY) | 3603790011E** | 18-MAY-2000
02 | NEW YORK | CLARKSTOWN, TOWN OF (ROCKLAND COUNTY) | 3603790012E** | 18-MAY-2000
02 | NEW YORK | CLARKSTOWN, TOWN OF (ROCKLAND COUNTY) | 3603790014E | 18-MAY-2000
02 | NEW YORK | CLARKSTOWN, TOWN OF (ROCKLAND COUNTY) | 3603790015E** | 18-MAY-2000
02 | NEW YORK | CLARKSTOWN, TOWN OF (ROCKLAND COUNTY) | 3603790016E** | 18-MAY-2000
02 | NEW YORK | CLARKSTOWN, TOWN OF (ROCKLAND COUNTY) | 3606790000 | 18-MAY-2000
02 | NEW YORK | COOPERSTOWN, VILLAGE OF | 3606650001D | 04-MAY-2000
02 | NEW YORK | ELLICOTTVILLE, TOWN OF | 3600690000 | 19-JAN-2000
02 | NEW YORK | ELLICOTTVILLE, TOWN OF | 3600690031D | 19-JAN-2000
02 | NEW YORK | ELLICOTTVILLE, TOWN OF | 3600690032D | 19-JAN-2000
02 | NEW YORK | GREENWICH, VILLAGE OF | 3608870001C | 04-MAY-2000
02 | NEW YORK | LOWVILLE, TOWN OF (LEWIS COUNTY) | 3615580000 | 20-JUN-2000
02 | NEW YORK | LOWVILLE, TOWN OF (LEWIS COUNTY) | 3615580005C | 20-JUN-2000
02 | NEW YORK | LOWVILLE, TOWN OF (LEWIS COUNTY) | 3615580010C | 20-JUN-2000
02 | NEW YORK | LOWVILLE, TOWN OF (LEWIS COUNTY) | 3615580015C | 20-JUN-2000
02 | NEW YORK | LOWVILLE, VILLAGE OF (LEWIS COUNTY) | 3615580001C | 20-JUN-2000
02 | NEW YORK | NEW BREMEN, TOWN OF | 3603730000 | 04-MAY-2000
02 | NEW YORK | NEW BREMEN, TOWN OF | 3603730005C | 04-MAY-2000
02 | NEW YORK | NEW BREMEN, TOWN OF | 3603730010C | 04-MAY-2000
02 | NEW YORK | NEW BREMEN, TOWN OF | 3603730020C | 04-MAY-2000
02 | NEW YORK | NEW BREMEN, TOWN OF | 3603730025C | 04-MAY-2000
02 | NEW YORK | NEW YORK MILLS, VILLAGE OF | 3605370001C | 04-MAY-2000
02 | NEW YORK | PAINTED POST, VILLAGE OF (STEUBEN COUNTY) | 3607790001E | 18-MAY-2000
02 | NEW YORK | WHITESBORO, VILLAGE OF | 365660001C | 04-MAY-2000
02 | NEW YORK | WHITESTOWN, TOWN OF | 3605670000 | 04-MAY-2000
02 | NEW YORK | WHITESTOWN, TOWN OF | 365670004C | 04-MAY-2000
02 | NEW YORK | WHITESTOWN, TOWN OF | 365670008C | 04-MAY-2000
02 | NEW YORK | YORKVILLE, VILLAGE OF | 365680001C | 04-MAY-2000
03 | MARYLAND | ABERDEEN, TOWN OF HARFORD COUNTY | 24025C0000 | 07-JAN-2000
03 | MARYLAND | ABERDEEN, TOWN OF HARFORD COUNTY | 24025C0187D | 07-JAN-2000
03 | MARYLAND | ABERDEEN, TOWN OF HARFORD COUNTY | 24025C0189D | 07-JAN-2000
03 | MARYLAND | ABERDEEN, TOWN OF HARFORD COUNTY | 24025C0191D | 07-JAN-2000
03 | MARYLAND | ABERDEEN, TOWN OF HARFORD COUNTY | 24025C0193D | 07-JAN-2000
03 | MARYLAND | ABERDEEN, TOWN OF HARFORD COUNTY | 24025C0194D | 07-JAN-2000
03 | MARYLAND | ABERDEEN, TOWN OF HARFORD COUNTY | 24025C0277D | 07-JAN-2000
03 | MARYLAND | ABERDEEN, TOWN OF HARFORD COUNTY | 24025C0281D | 07-JAN-2000
03 | MARYLAND | BEL AIR, TOWN OF HARFORD COUNTY | 24025C0000 | 07-JAN-2000
03 | MARYLAND | BEL AIR, TOWN OF HARFORD COUNTY | 24025C0161D | 07-JAN-2000
03 | MARYLAND | BEL AIR, TOWN OF HARFORD COUNTY | 24025C0162D | 07-JAN-2000
03 | MARYLAND | BEL AIR, TOWN OF HARFORD COUNTY | 24025C0163D | 07-JAN-2000
03 | MARYLAND | BEL AIR, TOWN OF HARFORD COUNTY | 24025C0164D | 07-JAN-2000
03 | MARYLAND | HARFORD COUNTY * | 24025C0000D | 07-JAN-2000
03 | MARYLAND | HARFORD COUNTY * | 24025C0004D | 07-JAN-2000
03 | MARYLAND | HARFORD COUNTY * | 24025C0008D | 07-JAN-2000
03 | MARYLAND | HARFORD COUNTY * | 24025C0015D | 07-JAN-2000
03 | MARYLAND | HARFORD COUNTY * | 24025C0016D | 07-JAN-2000
03 | MARYLAND | HARFORD COUNTY * | 24025C0017D | 07-JAN-2000
03 | MARYLAND | HARFORD COUNTY * | 24025C0020D | 07-JAN-2000
03 | MARYLAND | HARFORD COUNTY * | 24025C0035D | 07-JAN-2000
03 | MARYLAND | HARFORD COUNTY * | 24025C0036D | 07-JAN-2000
03 | MARYLAND | HARFORD COUNTY * | 24025C0037D | 07-JAN-2000
03 | MARYLAND | HARFORD COUNTY * | 24025C0038D | 07-JAN-2000
03 | MARYLAND | HARFORD COUNTY * | 24025C0039D | 07-JAN-2000
03 | MARYLAND | HARFORD COUNTY * | 24025C0041D | 07-JAN-2000
03 | MARYLAND | HARFORD COUNTY * | 24025C0042D | 07-JAN-2000
03 | MARYLAND | HARFORD COUNTY * | 24025C0043D | 07-JAN-2000
03 | MARYLAND | HARFORD COUNTY * | 24025C0044D | 07-JAN-2000
03 | MARYLAND | HARFORD COUNTY * | 24025C0055D | 07-JAN-2000
03 | MARYLAND | HARFORD COUNTY * | 24025C0060D | 07-JAN-2000
03 | MARYLAND | HARFORD COUNTY * | 24025C0063D | 07-JAN-2000
03 | MARYLAND | HARFORD COUNTY * | 24025C0064D | 07-JAN-2000
03 | MARYLAND | HARFORD COUNTY * | 24025C0065D | 07-JAN-2000
03 | MARYLAND | HARFORD COUNTY * | 24025C0070D | 07-JAN-2000
03 | MARYLAND | HARFORD COUNTY * | 24025C0080D | 07-JAN-2000
03 | MARYLAND | HARFORD COUNTY * | 24025C0090D | 07-JAN-2000
03 | MARYLAND | HARFORD COUNTY * | 24025C0095D | 07-JAN-2000
03 | MARYLAND | HARFORD COUNTY * | 24025C0105D | 07-JAN-2000
03 | MARYLAND | HARFORD COUNTY * | 24025C0110D | 07-JAN-2000
03 | MARYLAND | HARFORD COUNTY * | 24025C0120D | 07-JAN-2000
03 | MARYLAND | HARFORD COUNTY * | 24025C0126D | 07-JAN-2000
03 | MARYLAND | HARFORD COUNTY * | 24025C0127D | 07-JAN-2000
03 | MARYLAND | HARFORD COUNTY * | 24025C0128D | 07-JAN-2000
03 | MARYLAND | HARFORD COUNTY * | 24025C0129D | 07-JAN-2000
03 | MARYLAND | HARFORD COUNTY * | 24025C0132D | 07-JAN-2000
03 | MARYLAND | HARFORD COUNTY * | 24025C0133D | 07-JAN-2000
03 | MARYLAND | HARFORD COUNTY * | 24025C0134D | 07-JAN-2000
03 | MARYLAND | HARFORD COUNTY * | 24025C0136D | 07-JAN-2000
03 | MARYLAND | HARFORD COUNTY * | 24025C0137D | 07-JAN-2000
03 | MARYLAND | HARFORD COUNTY * | 24025C0140D | 07-JAN-2000
03 | MARYLAND | HARFORD COUNTY * | 24025C0141D | 07-JAN-2000
03 | MARYLAND | HARFORD COUNTY * | 24025C0142D | 07-JAN-2000
03 | MARYLAND | HARFORD COUNTY * | 24025C0143D | 07-JAN-2000
03 | MARYLAND | HARFORD COUNTY * | 24025C0144D | 07-JAN-2000
03 | MARYLAND | HARFORD COUNTY * | 24025C0151D | 07-JAN-2000
03 | MARYLAND | HARFORD COUNTY * | 24025C0152D | 07-JAN-2000
03 | MARYLAND | HARFORD COUNTY * | 24025C0153D | 07-JAN-2000
03 | MARYLAND | HARFORD COUNTY * | 24025C0160D | 07-JAN-2000
03 | MARYLAND | HARFORD COUNTY * | 24025C0161D | 07-JAN-2000
03 | MARYLAND | HARFORD COUNTY * | 24025C0162D | 07-JAN-2000
03 | MARYLAND | HARFORD COUNTY * | 24025C0163D | 07-JAN-2000
03 | MARYLAND | HARFORD COUNTY * | 24025C0164D | 07-JAN-2000
03 | MARYLAND | HARFORD COUNTY * | 24025C0166D | 07-JAN-2000
03 | MARYLAND | HARFORD COUNTY * | 24025C0167D | 07-JAN-2000
03 | MARYLAND | HARFORD COUNTY * | 24025C0168D | 07-JAN-2000
03 | MARYLAND | HARFORD COUNTY * | 24025C0169D | 07-JAN-2000
03 | MARYLAND | HARFORD COUNTY * | 24025C0180D | 07-JAN-2000
03 | MARYLAND | HARFORD COUNTY * | 24025C0185D | 07-JAN-2000
03 | MARYLAND | HARFORD COUNTY * | 24025C0186D | 07-JAN-2000
03 | MARYLAND | HARFORD COUNTY * | 24025C0187D | 07-JAN-2000
03 | MARYLAND | HARFORD COUNTY * | 24025C0188D | 07-JAN-2000
03 | MARYLAND | HARFORD COUNTY * | 24025C0189D | 07-JAN-2000
03 | MARYLAND | HARFORD COUNTY * | 24025C0191D | 07-JAN-2000
03 | MARYLAND | HARFORD COUNTY * | 24025C0192D | 07-JAN-2000
03 | MARYLAND | HARFORD COUNTY * | 24025C0193D | 07-JAN-2000
03 | MARYLAND | HARFORD COUNTY * | 24025C0194D | 07-JAN-2000
03 | MARYLAND | HARFORD COUNTY * | 24025C0205D | 07-JAN-2000
03 | MARYLAND | HARFORD COUNTY * | 24025C0211D | 07-JAN-2000
03 | MARYLAND | HARFORD COUNTY * | 24025C0212D | 07-JAN-2000
03 | MARYLAND | HARFORD COUNTY * | 24025C0213D | 07-JAN-2000
03 | MARYLAND | HARFORD COUNTY * | 24025C0214D | 07-JAN-2000
03 | MARYLAND | HARFORD COUNTY * | 24025C0220D | 07-JAN-2000
03 | MARYLAND | HARFORD COUNTY * | 24025C0231D | 07-JAN-2000
03 | MARYLAND | HARFORD COUNTY * | 24025C0232D | 07-JAN-2000
03 | MARYLAND | HARFORD COUNTY * | 24025C0235D | 07-JAN-2000
03 | MARYLAND | HARFORD COUNTY * | 24025C0245D | 07-JAN-2000
03 | MARYLAND | HARFORD COUNTY * | 24025C0251D | 07-JAN-2000
03 | MARYLAND | HARFORD COUNTY * | 24025C0252D | 07-JAN-2000
03 | MARYLAND | HARFORD COUNTY * | 24025C0254D | 07-JAN-2000
03 | MARYLAND | HARFORD COUNTY * | 24025C0256D | 07-JAN-2000
03 | MARYLAND | HARFORD COUNTY * | 24025C0257D | 07-JAN-2000
03 | MARYLAND | HARFORD COUNTY * | 24025C0258D | 07-JAN-2000
03 | MARYLAND | HARFORD COUNTY * | 24025C0259D | 07-JAN-2000
03 | MARYLAND | HARFORD COUNTY * | 24025C0261D | 07-JAN-2000
03 | MARYLAND | HARFORD COUNTY * | 24025C0262D | 07-JAN-2000
03 | MARYLAND | HARFORD COUNTY * | 24025C0263D | 07-JAN-2000
03 | MARYLAND | HARFORD COUNTY * | 24025C0264D | 07-JAN-2000
03 | MARYLAND | HARFORD COUNTY * | 24025C0266D | 07-JAN-2000
03 | MARYLAND | HARFORD COUNTY * | 24025C0267D | 07-JAN-2000
03 | MARYLAND | HARFORD COUNTY * | 24025C0270D | 07-JAN-2000
03 | MARYLAND | HARFORD COUNTY * | 24025C0276D | 07-JAN-2000
03 | MARYLAND | HARFORD COUNTY * | 24025C0277D | 07-JAN-2000
03 | MARYLAND | HARFORD COUNTY * | 24025C0278D | 07-JAN-2000
03 | MARYLAND | HARFORD COUNTY * | 24025C0281D | 07-JAN-2000
03 | MARYLAND | HARFORD COUNTY * | 24025C0286D | 07-JAN-2000
03 | MARYLAND | HARFORD COUNTY * | 24025C0300D | 07-JAN-2000
03 | MARYLAND | HARFORD COUNTY * | 24025C0325D | 07-JAN-2000
03 | MARYLAND | HARFORD COUNTY * | 24025C0350D | 07-JAN-2000
03 | MARYLAND | HARFORD COUNTY * | 24025C0375D | 07-JAN-2000
03 | MARYLAND | HAVRE DE GRACE, CITY OF HARFORD COUNTY | 24025C0000 | 07-JAN-2000
03 | MARYLAND | HAVRE DE GRACE, CITY OF HARFORD COUNTY | 24025C0005D | 07-JAN-2000
03 | MARYLAND | HAVRE DE GRACE, CITY OF HARFORD COUNTY | 24025C0211D | 07-JAN-2000
03 | MARYLAND | HAVRE DE GRACE, CITY OF HARFORD COUNTY | 24025C0212D | 07-JAN-2000
03 | MARYLAND | HAVRE DE GRACE, CITY OF HARFORD COUNTY | 24025C0212D | 07-JAN-2000
03 | MARYLAND | HAVRE DE GRACE, CITY OF HARFORD COUNTY | 24025C0213D | 07-JAN-2000
03 | MARYLAND | HAVRE DE GRACE, CITY OF HARFORD COUNTY | 24025C0214D | 07-JAN-2000
03 | PENNSYLVANIA | CLARKS SUMMIT, BOROUGH OF | 4205270001B** | 07-JAN-2000
03 | PENNSYLVANIA | GREENWICH, TOWNSHIP OF BERKS COUNTY | 42011C0000 | 07-JAN-2000
03 | PENNSYLVANIA | GREENWICH, TOWNSHIP OF BERKS COUNTY | 42011C0195F | 07-JAN-2000
03 | PENNSYLVANIA | KUTZTOWN, BOROUGH OF | 42011C0000 | 07-JAN-2000
03 | PENNSYLVANIA | KUTZTOWN, BOROUGH OF | 42011C0194F | 07-JAN-2000
03 | PENNSYLVANIA | KUTZTOWN, BOROUGH OF | 42011C0195F | 07-JAN-2000
03 | PENNSYLVANIA | LONGSWAMP, TOWNSHIP OF BERKS COUNTY | 42011C0000 | 07-JAN-2000
03 | PENNSYLVANIA | LONGSWAMP, TOWNSHIP OF BERKS COUNTY | 42011C195F | 07-JAN-2000
03 | PENNSYLVANIA | LONGSWAMP, TOWNSHIP OF BERKS COUNTY | 42011C382F | 07-JAN-2000
03 | PENNSYLVANIA | MAXATAWNY, TOWNSHIP OF | 42011C0000 | 07-JAN-2000
03 | PENNSYLVANIA | MAXATAWNY, TOWNSHIP OF | 42011C0194F | 07-JAN-2000
03 | PENNSYLVANIA | MAXATAWNY, TOWNSHIP OF | 42011C0195F | 07-JAN-2000
03 | PENNSYLVANIA | MAXATAWNY, TOWNSHIP OF | 42011C0215F | 07-JAN-2000
03 | PENNSYLVANIA | MAXATAWNY, TOWNSHIP OF | 42011C0382F | 07-JAN-2000
03 | PENNSYLVANIA | MAXATAWNY, TOWNSHIP OF | 42011C0401F | 07-JAN-2000
03 | PENNSYLVANIA | RICHMOND, TOWNSHIP OF BERKS COUNTY | 42011C0000 | 07-JAN-2000
03 | PENNSYLVANIA | RICHMOND, TOWNSHIP OF BERKS COUNTY | 42011C195F | 07-JAN-2000
03 | PENNSYLVANIA | RICHMOND, TOWNSHIP OF BERKS COUNTY | 42011C382F | 07-JAN-2000
03 | PENNSYLVANIA | ROCKLAND, TOWNSHIP OF | 42011C0000 | 07-JAN-2000
03 | PENNSYLVANIA | ROCKLAND, TOWNSHIP OF | 42011C0382F | 07-JAN-2000
03 | PENNSYLVANIA | ROCKLAND, TOWNSHIP OF | 42011C0401F | 07-JAN-2000
03 | PENNSYLVANIA | SOUTH LONDONDERRY, TOWNSHIP OF LEBANON COUNTY | 4210430000 | 06-JUN-2000
03 | PENNSYLVANIA | SOUTH LONDONDERRY, TOWNSHIP OF LEBANON COUNTY | 4210430003B | 06-JUN-2000
03 | PENNSYLVANIA | SOUTH LONDONDERRY, TOWNSHIP OF LEBANON COUNTY | 4210430010B** | 06-JUN-2000
03 | VIRGINIA | BUENA VISTA, CITY OF | 51163C0000 | 06-APR-2000
03 | VIRGINIA | BUENA VISTA, CITY OF | 51163C0290C | 06-APR-2000
03 | VIRGINIA | BUENA VISTA, CITY OF | 51163C0385C | 06-APR-2000
03 | VIRGINIA | BUENA VISTA, CITY OF | 51163C0401C | 06-APR-2000
03 | VIRGINIA | BUENA VISTA, CITY OF | 51163C0405C | 06-APR-2000
03 | VIRGINIA | GLASGOW, TOWN OF | 51163C0000 | 06-APR-2000
03 | VIRGINIA | GLASGOW, TOWN OF | 51163C0389C | 06-APR-2000
03 | VIRGINIA | GLASGOW, TOWN OF | 51163C0390C | 06-APR-2000
03 | VIRGINIA | GLASGOW, TOWN OF | 51163C0393C | 06-APR-2000
03 | VIRGINIA | GLASGOW, TOWN OF | 51163C0452C | 06-APR-2000
03 | VIRGINIA | GOSHEN, TOWN OF | 51163C0000 | 06-APR-2000
03 | VIRGINIA | GOSHEN, TOWN OF | 51163C0107C** | 06-APR-2000
03 | VIRGINIA | GOSHEN, TOWN OF | 51163C0126C** | 06-APR-2000
03 | VIRGINIA | HALIFAX, TOWN OF | 5103010001C | 19-JAN-2000
03 | VIRGINIA | LEXINGTON, CITY OF (INDEPENDENT CITY) | 27015C0262C | 06-APR-2000
03 | VIRGINIA | LEXINGTON, CITY OF (INDEPENDENT CITY) | 27015C0264C | 06-APR-2000
03 | VIRGINIA | LEXINGTON, CITY OF (INDEPENDENT CITY) | 27015C0266C | 06-APR-2000
03 | VIRGINIA | LEXINGTON, CITY OF (INDEPENDENT CITY) | 27015C0270C | 06-APR-2000
03 | VIRGINIA | LEXINGTON, CITY OF (INDEPENDENT CITY) | 5100890000 | 06-APR-2000
03 | VIRGINIA | ROCKBRIDGE COUNTY * | 51163C0000 | 06-APR-2000
03 | VIRGINIA | ROCKBRIDGE COUNTY * | 51163C0025C | 06-APR-2000
03 | VIRGINIA | ROCKBRIDGE COUNTY * | 51163C0050C | 06-APR-2000
03 | VIRGINIA | ROCKBRIDGE COUNTY * | 51163C0075C | 06-APR-2000
03 | VIRGINIA | ROCKBRIDGE COUNTY * | 51163C0107C | 06-APR-2000
03 | VIRGINIA | ROCKBRIDGE COUNTY * | 51163C0125C | 06-APR-2000
03 | VIRGINIA | ROCKBRIDGE COUNTY * | 51163C0126C | 06-APR-2000
03 | VIRGINIA | ROCKBRIDGE COUNTY * | 51163C0130C | 06-APR-2000
03 | VIRGINIA | ROCKBRIDGE COUNTY * | 51163C0135C | 06-APR-2000
03 | VIRGINIA | ROCKBRIDGE COUNTY * | 51163C0140C | 06-APR-2000
03 | VIRGINIA | ROCKBRIDGE COUNTY * | 51163C0145C | 06-APR-2000
03 | VIRGINIA | ROCKBRIDGE COUNTY * | 51163C0175C | 06-APR-2000
03 | VIRGINIA | ROCKBRIDGE COUNTY * | 51163C0190C | 06-APR-2000
03 | VIRGINIA | ROCKBRIDGE COUNTY * | 51163C0200C | 06-APR-2000
03 | VIRGINIA | ROCKBRIDGE COUNTY * | 51163C0225C | 06-APR-2000
03 | VIRGINIA | ROCKBRIDGE COUNTY * | 51163C0250C | 06-APR-2000
03 | VIRGINIA | ROCKBRIDGE COUNTY * | 51163C0262C | 06-APR-2000
03 | VIRGINIA | ROCKBRIDGE COUNTY * | 51163C0264C | 06-APR-2000
03 | VIRGINIA | ROCKBRIDGE COUNTY * | 51163C0266C | 06-APR-2000
03 | VIRGINIA | ROCKBRIDGE COUNTY * | 51163C0270C | 06-APR-2000
03 | VIRGINIA | ROCKBRIDGE COUNTY * | 51163C0275C | 06-APR-2000
03 | VIRGINIA | ROCKBRIDGE COUNTY * | 51163C0280C | 06-APR-2000
03 | VIRGINIA | ROCKBRIDGE COUNTY * | 51163C0285C | 06-APR-2000
03 | VIRGINIA | ROCKBRIDGE COUNTY * | 51163C0290C | 06-APR-2000
03 | VIRGINIA | ROCKBRIDGE COUNTY * | 51163C0295C | 06-APR-2000
03 | VIRGINIA | ROCKBRIDGE COUNTY * | 51163C0305C | 06-APR-2000
03 | VIRGINIA | ROCKBRIDGE COUNTY * | 51163C0325C | 06-APR-2000
03 | VIRGINIA | ROCKBRIDGE COUNTY * | 51163C0350C | 06-APR-2000
03 | VIRGINIA | ROCKBRIDGE COUNTY * | 51163C0375C | 06-APR-2000
03 | VIRGINIA | ROCKBRIDGE COUNTY * | 51163C0380C | 06-APR-2000
03 | VIRGINIA | ROCKBRIDGE COUNTY * | 51163C0385C | 06-APR-2000
03 | VIRGINIA | ROCKBRIDGE COUNTY * | 51163C0389C | 06-APR-2000
03 | VIRGINIA | ROCKBRIDGE COUNTY * | 51163C0390C | 06-APR-2000
03 | VIRGINIA | ROCKBRIDGE COUNTY * | 51163C0393C | 06-APR-2000
03 | VIRGINIA | ROCKBRIDGE COUNTY * | 51163C0395C | 06-APR-2000
03 | VIRGINIA | ROCKBRIDGE COUNTY * | 51163C0401C | 06-APR-2000
03 | VIRGINIA | ROCKBRIDGE COUNTY * | 51163C0405C | 06-APR-2000
03 | VIRGINIA | ROCKBRIDGE COUNTY * | 51163C0430C | 06-APR-2000
03 | VIRGINIA | ROCKBRIDGE COUNTY * | 51163C0435C | 06-APR-2000
03 | VIRGINIA | ROCKBRIDGE COUNTY * | 51163C0445C | 06-APR-2000
03 | VIRGINIA | ROCKBRIDGE COUNTY * | 51163C0452C | 06-APR-2000
03 | VIRGINIA | ROCKBRIDGE COUNTY * | 51163C0455C | 06-APR-2000
03 | VIRGINIA | ROCKBRIDGE COUNTY * | 51163C0460C | 06-APR-2000
03 | WEST VIRGINIA | GRANT COUNTY* | 5400380000 | 04-MAY-2000
03 | WEST VIRGINIA | GRANT COUNTY* | 5400380129C | 04-MAY-2000
03 | WEST VIRGINIA | GRANT COUNTY* | 5400380133C | 04-MAY-2000
03 | WEST VIRGINIA | GRANT COUNTY* | 5400380141C | 04-MAY-2000
03 | WEST VIRGINIA | LOGAN COUNTY | 5455360000 | 18-MAY-2000
03 | WEST VIRGINIA | LOGAN COUNTY | 5455360092C** | 18-MAY-2000
03 | WEST VIRGINIA | LOGAN COUNTY | 5455360096C | 18-MAY-2000
03 | WEST VIRGINIA | LOGAN COUNTY | 5455360098C | 18-MAY-2000
03 | WEST VIRGINIA | LOGAN COUNTY | 5455360131C** | 18-MAY-2000
03 | WEST VIRGINIA | LOGAN COUNTY | 5455360133C | 18-MAY-2000
03 | WEST VIRGINIA | LOGAN COUNTY | 5455360162C | 18-MAY-2000
03 | WEST VIRGINIA | MORGAN COUNTY | 5401440000 | 18-MAY-2000
03 | WEST VIRGINIA | MORGAN COUNTY | 5401440025D | 18-MAY-2000
03 | WEST VIRGINIA | MORGAN COUNTY | 5401440075D | 18-MAY-2000
03 | WEST VIRGINIA | PETERSBURG, TOWN OF | 5400390001E | 04-MAY-2000
04 | FLORIDA | CENTURY, CITY OF | 12033C0000 | 23-FEB-2000
04 | FLORIDA | CENTURY, CITY OF | 12033C0075F | 23-FEB-2000
04 | FLORIDA | CENTURY, CITY OF | 12033C0100F | 23-FEB-2000
04 | FLORIDA | DE FUNIAK SPRINGS, CITY OF (WALTON COUNTY) | 12131C0000 | 07-MAR-2000
04 | FLORIDA | DE FUNIAK SPRINGS, CITY OF (WALTON COUNTY) | 12131C0275F** | 07-MAR-2000
04 | FLORIDA | DE FUNIAK SPRINGS, CITY OF (WALTON COUNTY) | 12131C0300F** | 07-MAR-2000
04 | FLORIDA | ESCAMBIA COUNTY* | 12033C0000 | 23-FEB-2000
04 | FLORIDA | ESCAMBIA COUNTY* | 12033C0005F | 23-FEB-2000
04 | FLORIDA | ESCAMBIA COUNTY* | 12033C0025F | 23-FEB-2000
04 | FLORIDA | ESCAMBIA COUNTY* | 12033C0050F | 23-FEB-2000
04 | FLORIDA | ESCAMBIA COUNTY* | 12033C0075F | 23-FEB-2000
04 | FLORIDA | ESCAMBIA COUNTY* | 12033C0100F | 23-FEB-2000
04 | FLORIDA | ESCAMBIA COUNTY* | 12033C0115F | 23-FEB-2000
04 | FLORIDA | ESCAMBIA COUNTY* | 12033C0120F | 23-FEB-2000
04 | FLORIDA | ESCAMBIA COUNTY* | 12033C0125F | 23-FEB-2000
04 | FLORIDA | ESCAMBIA COUNTY* | 12033C0145F | 23-FEB-2000
04 | FLORIDA | ESCAMBIA COUNTY* | 12033C0150F | 23-FEB-2000
04 | FLORIDA | ESCAMBIA COUNTY* | 12033C0155F | 23-FEB-2000
04 | FLORIDA | ESCAMBIA COUNTY* | 12033C0160F | 23-FEB-2000
04 | FLORIDA | ESCAMBIA COUNTY* | 12033C0165F | 23-FEB-2000
04 | FLORIDA | ESCAMBIA COUNTY* | 12033C0170F | 23-FEB-2000
04 | FLORIDA | ESCAMBIA COUNTY* | 12033C0185F | 23-FEB-2000
04 | FLORIDA | ESCAMBIA COUNTY* | 12033C0210F | 23-FEB-2000
04 | FLORIDA | ESCAMBIA COUNTY* | 12033C0230F | 23-FEB-2000
04 | FLORIDA | ESCAMBIA COUNTY* | 12033C0235F | 23-FEB-2000
04 | FLORIDA | ESCAMBIA COUNTY* | 12033C0240F | 23-FEB-2000
04 | FLORIDA | ESCAMBIA COUNTY* | 12033C0245F | 23-FEB-2000
04 | FLORIDA | ESCAMBIA COUNTY* | 12033C0260F | 23-FEB-2000
04 | FLORIDA | ESCAMBIA COUNTY* | 12033C0265F | 23-FEB-2000
04 | FLORIDA | ESCAMBIA COUNTY* | 12033C0270F | 23-FEB-2000
04 | FLORIDA | ESCAMBIA COUNTY* | 12033C0280F | 23-FEB-2000
04 | FLORIDA | ESCAMBIA COUNTY* | 12033C0285F | 23-FEB-2000
04 | FLORIDA | ESCAMBIA COUNTY* | 12033C0290F | 23-FEB-2000
04 | FLORIDA | ESCAMBIA COUNTY* | 12033C0295F | 23-FEB-2000
04 | FLORIDA | ESCAMBIA COUNTY* | 12033C0305F | 23-FEB-2000
04 | FLORIDA | ESCAMBIA COUNTY* | 12033C0315F | 23-FEB-2000
04 | FLORIDA | ESCAMBIA COUNTY* | 12033C0320F | 23-FEB-2000
04 | FLORIDA | ESCAMBIA COUNTY* | 12033C0335F | 23-FEB-2000
04 | FLORIDA | ESCAMBIA COUNTY* | 12033C0345F | 23-FEB-2000
04 | FLORIDA | ESCAMBIA COUNTY* | 12033C0355F | 23-FEB-2000
04 | FLORIDA | ESCAMBIA COUNTY* | 12033C0360F | 23-FEB-2000
04 | FLORIDA | ESCAMBIA COUNTY* | 12033C0364F | 23-FEB-2000
04 | FLORIDA | ESCAMBIA COUNTY* | 12033C0365F | 23-FEB-2000
04 | FLORIDA | ESCAMBIA COUNTY* | 12033C0368F | 23-FEB-2000
04 | FLORIDA | ESCAMBIA COUNTY* | 12033C0369F | 23-FEB-2000
04 | FLORIDA | ESCAMBIA COUNTY* | 12033C0370F | 23-FEB-2000
04 | FLORIDA | ESCAMBIA COUNTY* | 12033C0380F | 23-FEB-2000
04 | FLORIDA | ESCAMBIA COUNTY* | 12033C0385F | 23-FEB-2000
04 | FLORIDA | ESCAMBIA COUNTY* | 12033C0386F | 23-FEB-2000
04 | FLORIDA | ESCAMBIA COUNTY* | 12033C0388F | 23-FEB-2000
04 | FLORIDA | ESCAMBIA COUNTY* | 12033C0389F | 23-FEB-2000
04 | FLORIDA | ESCAMBIA COUNTY* | 12033C0443F | 23-FEB-2000
04 | FLORIDA | ESCAMBIA COUNTY* | 12033C0444F | 23-FEB-2000
04 | FLORIDA | ESCAMBIA COUNTY* | 12033C0463F | 23-FEB-2000
04 | FLORIDA | ESCAMBIA COUNTY* | 12033C0492F | 23-FEB-2000
04 | FLORIDA | ESCAMBIA COUNTY* | 12033C0494F | 23-FEB-2000
04 | FLORIDA | ESCAMBIA COUNTY* | 12033C0505F | 23-FEB-2000
04 | FLORIDA | ESCAMBIA COUNTY* | 12033C0508F | 23-FEB-2000
04 | FLORIDA | ESCAMBIA COUNTY* | 12033C0509F | 23-FEB-2000
04 | FLORIDA | ESCAMBIA COUNTY* | 12033C0510F | 23-FEB-2000
04 | FLORIDA | ESCAMBIA COUNTY* | 12033C0511F | 23-FEB-2000
04 | FLORIDA | ESCAMBIA COUNTY* | 12033C0512F | 23-FEB-2000
04 | FLORIDA | ESCAMBIA COUNTY* | 12033C0516F | 23-FEB-2000
04 | FLORIDA | ESCAMBIA COUNTY* | 12033C0517F | 23-FEB-2000
04 | FLORIDA | ESCAMBIA COUNTY* | 12033C0526F | 23-FEB-2000
04 | FLORIDA | ESCAMBIA COUNTY* | 12033C0527F | 23-FEB-2000
04 | FLORIDA | ESCAMBIA COUNTY* | 12033C0528F | 23-FEB-2000
04 | FLORIDA | ESCAMBIA COUNTY* | 12033C0529F | 23-FEB-2000
04 | FLORIDA | ESCAMBIA COUNTY* | 12033C0531F | 23-FEB-2000
04 | FLORIDA | ESCAMBIA COUNTY* | 12033C0532F | 23-FEB-2000
04 | FLORIDA | ESCAMBIA COUNTY* | 12033C0533F | 23-FEB-2000
04 | FLORIDA | ESCAMBIA COUNTY* | 12033C0534F | 23-FEB-2000
04 | FLORIDA | ESCAMBIA COUNTY* | 12033C0536F | 23-FEB-2000
04 | FLORIDA | ESCAMBIA COUNTY* | 12033C0553F | 23-FEB-2000
04 | FLORIDA | ESCAMBIA COUNTY* | 12033C0554F | 23-FEB-2000
04 | FLORIDA | ESCAMBIA COUNTY* | 12033C0558F | 23-FEB-2000
04 | FLORIDA | ESCAMBIA COUNTY* | 12033C0581F | 23-FEB-2000
04 | FLORIDA | ESCAMBIA COUNTY* | 12033C0582F | 23-FEB-2000
04 | FLORIDA | ESCAMBIA COUNTY* | 12033C0601F | 23-FEB-2000
04 | FLORIDA | ESCAMBIA COUNTY* | 12033C0602F | 23-FEB-2000
04 | FLORIDA | ESCAMBIA COUNTY* | 12033C0606F | 23-FEB-2000
04 | FLORIDA | ESCAMBIA COUNTY* | 12033C0607F | 23-FEB-2000
04 | FLORIDA | FREEPORT, CITY OF | 12131C0000 | 07-MAR-2000
04 | FLORIDA | FREEPORT, CITY OF | 12131C0420F | 07-MAR-2000
04 | FLORIDA | FREEPORT, CITY OF | 12131C0440F | 07-MAR-2000
04 | FLORIDA | FREEPORT, CITY OF | 12131C0556F | 07-MAR-2000
04 | FLORIDA | FREEPORT, CITY OF | 12131C0557F | 07-MAR-2000
04 | FLORIDA | FREEPORT, CITY OF | 12131C0580F | 07-MAR-2000
04 | FLORIDA | GREEN COVE SPRINGS, CITY OF | 1200650000 | 06-APR-2000
04 | FLORIDA | GREEN COVE SPRINGS, CITY OF | 1200650001D | 06-APR-2000
04 | FLORIDA | GREEN COVE SPRINGS, CITY OF | 1200650002D | 06-APR-2000
04 | FLORIDA | GREEN COVE SPRINGS, CITY OF | 1200650003D | 06-APR-2000
04 | FLORIDA | GREEN COVE SPRINGS, CITY OF | 1200650004D | 06-APR-2000
04 | FLORIDA | GULF BREEZE, CITY OF | 1202750000 | 19-JAN-2000
04 | FLORIDA | GULF BREEZE, CITY OF | 1202750011F | 19-JAN-2000
04 | FLORIDA | GULF BREEZE, CITY OF | 1202750012F | 19-JAN-2000
04 | FLORIDA | GULF BREEZE, CITY OF | 1202750013F** | 19-JAN-2000
04 | FLORIDA | PAXTON, TOWN OF (WALTON COUNTY) | 12131C0000 | 07-MAR-2000
04 | FLORIDA | PAXTON, TOWN OF (WALTON COUNTY) | 12131C0050F** | 07-MAR-2000
04 | FLORIDA | PENSACOLA BEACH-SANTA ROSA ISLAND AUTHORITY | 12033C0000 | 23-FEB-2000
04 | FLORIDA | PENSACOLA BEACH-SANTA ROSA ISLAND AUTHORITY | 12033C0557F | 23-FEB-2000
04 | FLORIDA | PENSACOLA BEACH-SANTA ROSA ISLAND AUTHORITY | 12033C0558F | 23-FEB-2000
04 | FLORIDA | PENSACOLA BEACH-SANTA ROSA ISLAND AUTHORITY | 12033C0559F | 23-FEB-2000
04 | FLORIDA | PENSACOLA BEACH-SANTA ROSA ISLAND AUTHORITY | 12033C0577F | 23-FEB-2000
04 | FLORIDA | PENSACOLA BEACH-SANTA ROSA ISLAND AUTHORITY | 12033C0578F | 23-FEB-2000
04 | FLORIDA | PENSACOLA BEACH-SANTA ROSA ISLAND AUTHORITY | 12033C0579F | 23-FEB-2000
04 | FLORIDA | PENSACOLA BEACH-SANTA ROSA ISLAND AUTHORITY | 12033C0581F | 23-FEB-2000
04 | FLORIDA | PENSACOLA, CITY OF | 12033C0000 | 23-FEB-2000
04 | FLORIDA | PENSACOLA, CITY OF | 12033C0315F** | 23-FEB-2000
04 | FLORIDA | PENSACOLA, CITY OF | 12033C0320F** | 23-FEB-2000
04 | FLORIDA | PENSACOLA, CITY OF | 12033C0369F | 23-FEB-2000
04 | FLORIDA | PENSACOLA, CITY OF | 12033C0370F** | 23-FEB-2000
04 | FLORIDA | PENSACOLA, CITY OF | 12033C0380F** | 23-FEB-2000
04 | FLORIDA | PENSACOLA, CITY OF | 12033C0383F** | 23-FEB-2000
04 | FLORIDA | PENSACOLA, CITY OF | 12033C0385F** | 23-FEB-2000
04 | FLORIDA | PENSACOLA, CITY OF | 12033C0386F** | 23-FEB-2000
04 | FLORIDA | PENSACOLA, CITY OF | 12033C0387F | 23-FEB-2000
04 | FLORIDA | PENSACOLA, CITY OF | 12033C0388F | 23-FEB-2000
04 | FLORIDA | PENSACOLA, CITY OF | 12033C0389F | 23-FEB-2000
04 | FLORIDA | PENSACOLA, CITY OF | 12033C0391F** | 23-FEB-2000
04 | FLORIDA | SANTA ROSA COUNTY * | 1202740000 | 19-JAN-2000
04 | FLORIDA | SANTA ROSA COUNTY * | 1202740329C | 19-JAN-2000
04 | FLORIDA | SANTA ROSA COUNTY * | 1202740333D | 19-JAN-2000
04 | FLORIDA | SANTA ROSA COUNTY * | 1202740334D | 19-JAN-2000
04 | FLORIDA | SANTA ROSA COUNTY * | 1202740335D | 19-JAN-2000
04 | FLORIDA | SANTA ROSA COUNTY * | 1202740337C | 19-JAN-2000
04 | FLORIDA | SANTA ROSA COUNTY * | 1202740341C | 19-JAN-2000
04 | FLORIDA | SANTA ROSA COUNTY * | 1202740342C | 19-JAN-2000
04 | FLORIDA | SANTA ROSA COUNTY * | 1202740353E | 19-JAN-2000
04 | FLORIDA | SANTA ROSA COUNTY * | 1202740354E | 19-JAN-2000
04 | FLORIDA | SANTA ROSA COUNTY * | 1202740355E | 19-JAN-2000
04 | FLORIDA | SANTA ROSA COUNTY * | 1202740358D | 19-JAN-2000
04 | FLORIDA | SANTA ROSA COUNTY * | 1202740359D | 19-JAN-2000
04 | FLORIDA | SANTA ROSA COUNTY * | 1202740360D | 19-JAN-2000
04 | FLORIDA | SANTA ROSA COUNTY * | 1202740361C | 19-JAN-2000
04 | FLORIDA | SANTA ROSA COUNTY * | 1202740362C | 19-JAN-2000
04 | FLORIDA | SANTA ROSA COUNTY * | 1202740366C | 19-JAN-2000
04 | FLORIDA | SANTA ROSA COUNTY * | 1202740367C | 19-JAN-2000
04 | FLORIDA | WALTON COUNTY | 12131C0000 | 07-MAR-2000
04 | FLORIDA | WALTON COUNTY | 12131C0025F** | 07-MAR-2000
04 | FLORIDA | WALTON COUNTY | 12131C0050F** | 07-MAR-2000
04 | FLORIDA | WALTON COUNTY | 12131C0075F** | 07-MAR-2000
04 | FLORIDA | WALTON COUNTY | 12131C0100F** | 07-MAR-2000
04 | FLORIDA | WALTON COUNTY | 12131C0125F** | 07-MAR-2000
04 | FLORIDA | WALTON COUNTY | 12131C0150F** | 07-MAR-2000
04 | FLORIDA | WALTON COUNTY | 12131C0175F** | 07-MAR-2000
04 | FLORIDA | WALTON COUNTY | 12131C0200F** | 07-MAR-2000
04 | FLORIDA | WALTON COUNTY | 12131C0225F** | 07-MAR-2000
04 | FLORIDA | WALTON COUNTY | 12131C0250F** | 07-MAR-2000
04 | FLORIDA | WALTON COUNTY | 12131C0275F** | 07-MAR-2000
04 | FLORIDA | WALTON COUNTY | 12131C0300F** | 07-MAR-2000
04 | FLORIDA | WALTON COUNTY | 12131C0305F** | 07-MAR-2000
04 | FLORIDA | WALTON COUNTY | 12131C0310F** | 07-MAR-2000
04 | FLORIDA | WALTON COUNTY | 12131C0315F** | 07-MAR-2000
04 | FLORIDA | WALTON COUNTY | 12131C0320F** | 07-MAR-2000
04 | FLORIDA | WALTON COUNTY | 12131C0330F** | 07-MAR-2000
04 | FLORIDA | WALTON COUNTY | 12131C0340F | 07-MAR-2000
04 | FLORIDA | WALTON COUNTY | 12131C0360F | 07-MAR-2000
04 | FLORIDA | WALTON COUNTY | 12131C0370F | 07-MAR-2000
04 | FLORIDA | WALTON COUNTY | 12131C0390F | 07-MAR-2000
04 | FLORIDA | WALTON COUNTY | 12131C0395F | 07-MAR-2000
04 | FLORIDA | WALTON COUNTY | 12131C0400F | 07-MAR-2000
04 | FLORIDA | WALTON COUNTY | 12131C0415F | 07-MAR-2000
04 | FLORIDA | WALTON COUNTY | 12131C0420F | 07-MAR-2000
04 | FLORIDA | WALTON COUNTY | 12131C0425F | 07-MAR-2000
04 | FLORIDA | WALTON COUNTY | 12131C0440F | 07-MAR-2000
04 | FLORIDA | WALTON COUNTY | 12131C0445F | 07-MAR-2000
04 | FLORIDA | WALTON COUNTY | 12131C0450F | 07-MAR-2000
04 | FLORIDA | WALTON COUNTY | 12131C0455F | 07-MAR-2000
04 | FLORIDA | WALTON COUNTY | 12131C0465F | 07-MAR-2000
04 | FLORIDA | WALTON COUNTY | 12131C0470F | 07-MAR-2000
04 | FLORIDA | WALTON COUNTY | 12131C0490F | 07-MAR-2000
04 | FLORIDA | WALTON COUNTY | 12131C0507F | 07-MAR-2000
04 | FLORIDA | WALTON COUNTY | 12131C0509F | 07-MAR-2000
04 | FLORIDA | WALTON COUNTY | 12131C0519F | 07-MAR-2000
04 | FLORIDA | WALTON COUNTY | 12131C0526F | 07-MAR-2000
04 | FLORIDA | WALTON COUNTY | 12131C0527F | 07-MAR-2000
04 | FLORIDA | WALTON COUNTY | 12131C0528F | 07-MAR-2000
04 | FLORIDA | WALTON COUNTY | 12131C0532F | 07-MAR-2000
04 | FLORIDA | WALTON COUNTY | 12131C0532F | 07-MAR-2000
04 | FLORIDA | WALTON COUNTY | 12131C0537F | 07-MAR-2000
04 | FLORIDA | WALTON COUNTY | 12131C0538F | 07-MAR-2000
04 | FLORIDA | WALTON COUNTY | 12131C0539F | 07-MAR-2000
04 | FLORIDA | WALTON COUNTY | 12131C0541F | 07-MAR-2000
04 | FLORIDA | WALTON COUNTY | 12131C0542F | 07-MAR-2000
04 | FLORIDA | WALTON COUNTY | 12131C0543F | 07-MAR-2000
04 | FLORIDA | WALTON COUNTY | 12131C0544F | 07-MAR-2000
04 | FLORIDA | WALTON COUNTY | 12131C0551F | 07-MAR-2000
04 | FLORIDA | WALTON COUNTY | 12131C0552F | 07-MAR-2000
04 | FLORIDA | WALTON COUNTY | 12131C0554F | 07-MAR-2000
04 | FLORIDA | WALTON COUNTY | 12131C0554F | 07-MAR-2000
04 | FLORIDA | WALTON COUNTY | 12131C0556F | 07-MAR-2000
04 | FLORIDA | WALTON COUNTY | 12131C0557F | 07-MAR-2000
04 | FLORIDA | WALTON COUNTY | 12131C0558F | 07-MAR-2000
04 | FLORIDA | WALTON COUNTY | 12131C0559F | 07-MAR-2000
04 | FLORIDA | WALTON COUNTY | 12131C0561F | 07-MAR-2000
04 | FLORIDA | WALTON COUNTY | 12131C0562F | 07-MAR-2000
04 | FLORIDA | WALTON COUNTY | 12131C0563F | 07-MAR-2000
04 | FLORIDA | WALTON COUNTY | 12131C0564F | 07-MAR-2000
04 | FLORIDA | WALTON COUNTY | 12131C0566F | 07-MAR-2000
04 | FLORIDA | WALTON COUNTY | 12131C0568F | 07-MAR-2000
04 | FLORIDA | WALTON COUNTY | 12131C0569F | 07-MAR-2000
04 | FLORIDA | WALTON COUNTY | 12131C0580F | 07-MAR-2000
04 | FLORIDA | WALTON COUNTY | 12131C0585F | 07-MAR-2000
04 | FLORIDA | WALTON COUNTY | 12131C0590F | 07-MAR-2000
04 | FLORIDA | WALTON COUNTY | 12131C0595F | 07-MAR-2000
04 | FLORIDA | WALTON COUNTY | 12131C0595F | 07-MAR-2000
04 | FLORIDA | WALTON COUNTY | 12131C0605F | 07-MAR-2000
04 | FLORIDA | WALTON COUNTY | 12131C0615F | 07-MAR-2000
04 | FLORIDA | WALTON COUNTY | 12131C0630F | 07-MAR-2000
04 | FLORIDA | WALTON COUNTY | 12131C0676F | 07-MAR-2000
04 | FLORIDA | WALTON COUNTY | 12131C0677F | 07-MAR-2000
04 | FLORIDA | WALTON COUNTY | 12131C0681F | 07-MAR-2000
04 | FLORIDA | WALTON COUNTY | 12131C0682F | 07-MAR-2000
04 | FLORIDA | WALTON COUNTY | 12131C0701F | 07-MAR-2000
04 | FLORIDA | WALTON COUNTY | 12131C0702F | 07-MAR-2000
04 | FLORIDA | WALTON COUNTY | 12131C0703F | 07-MAR-2000
04 | FLORIDA | WALTON COUNTY | 12131C0704F | 07-MAR-2000
04 | FLORIDA | WALTON COUNTY | 12131C0706F** | 07-MAR-2000
04 | FLORIDA | WALTON COUNTY | 12131C0707F** | 07-MAR-2000
04 | FLORIDA | WALTON COUNTY | 12131C0708F | 07-MAR-2000
04 | FLORIDA | WALTON COUNTY | 12131C0709F | 07-MAR-2000
04 | FLORIDA | WALTON COUNTY | 12131C0726F** | 07-MAR-2000
04 | FLORIDA | WALTON COUNTY | 12131C0728F | 07-MAR-2000
04 | FLORIDA | WALTON COUNTY | 12131C0730F** | 07-MAR-2000
04 | FLORIDA | WALTON COUNTY | 12131C0735F** | 07-MAR-2000
04 | FLORIDA | WALTON COUNTY | 12131C0736F | 07-MAR-2000
04 | FLORIDA | WALTON COUNTY | 12131C0737F | 07-MAR-2000
04 | FLORIDA | WALTON COUNTY | 12131C0741F | 07-MAR-2000
04 | FLORIDA | WALTON COUNTY | 12131C0742F | 07-MAR-2000
04 | FLORIDA | WALTON COUNTY | 12131C0744F | 07-MAR-2000
04 | FLORIDA | WALTON COUNTY | 12131C0755F | 07-MAR-2000
04 | FLORIDA | WALTON COUNTY | 12131C0761F | 07-MAR-2000
04 | FLORIDA | WALTON COUNTY | 12131C0763F | 07-MAR-2000
04 | GEORGIA | CLERMONT, TOWN OF (HALL COUNTY) | 13139C0000 | 21-MAR-2000
04 | GEORGIA | CLERMONT, TOWN OF (HALL COUNTY) | 13139C0081E | 21-MAR-2000
04 | GEORGIA | CLERMONT, TOWN OF (HALL COUNTY) | 13139C0085E | 21-MAR-2000
04 | GEORGIA | FLOWERY BRANCH, CITY OF | 13139C0000 | 21-MAR-2000
04 | GEORGIA | FLOWERY BRANCH, CITY OF | 13139C0283E | 21-MAR-2000
04 | GEORGIA | FLOWERY BRANCH, CITY OF | 13139C0291E | 21-MAR-2000
04 | GEORGIA | FLOWERY BRANCH, CITY OF | 13139C0300E | 21-MAR-2000
04 | GEORGIA | GAINESVILLE, CITY OF | 13139C0000 | 21-MAR-2000
04 | GEORGIA | GAINESVILLE, CITY OF | 13139C0169E | 21-MAR-2000
04 | GEORGIA | GAINESVILLE, CITY OF | 13139C0170E | 21-MAR-2000
04 | GEORGIA | GAINESVILLE, CITY OF | 13139C0175E | 21-MAR-2000
04 | GEORGIA | GAINESVILLE, CITY OF | 13139C0179E | 21-MAR-2000
04 | GEORGIA | GAINESVILLE, CITY OF | 13139C0180E | 21-MAR-2000
04 | GEORGIA | GAINESVILLE, CITY OF | 13139C0183E | 21-MAR-2000
04 | GEORGIA | GAINESVILLE, CITY OF | 13139C0185E | 21-MAR-2000
04 | GEORGIA | GAINESVILLE, CITY OF | 13139C0186E | 21-MAR-2000
04 | GEORGIA | GAINESVILLE, CITY OF | 13139C0187E | 21-MAR-2000
04 | GEORGIA | GAINESVILLE, CITY OF | 13139C0188E | 21-MAR-2000
04 | GEORGIA | GAINESVILLE, CITY OF | 13139C0189E | 21-MAR-2000
04 | GEORGIA | GAINESVILLE, CITY OF | 13139C0195E | 21-MAR-2000
04 | GEORGIA | GAINESVILLE, CITY OF | 13139C0301E | 21-MAR-2000
04 | GEORGIA | GAINESVILLE, CITY OF | 13139C0302E | 21-MAR-2000
04 | GEORGIA | GAINESVILLE, CITY OF | 13139C0310E | 21-MAR-2000
04 | GEORGIA | GILLSVILLE, CITY OF | 13139C0000 | 21-MAR-2000
04 | GEORGIA | GILLSVILLE, CITY OF | 13139C0225E** | 21-MAR-2000
04 | GEORGIA | HALL COUNTY * | 13139C0000 | 21-MAR-2000
04 | GEORGIA | HALL COUNTY * | 13139C0025E | 21-MAR-2000
04 | GEORGIA | HALL COUNTY * | 13139C0040E | 21-MAR-2000
04 | GEORGIA | HALL COUNTY * | 13139C0045E | 21-MAR-2000
04 | GEORGIA | HALL COUNTY * | 13139C0059E | 21-MAR-2000
04 | GEORGIA | HALL COUNTY * | 13139C0060E | 21-MAR-2000
04 | GEORGIA | HALL COUNTY * | 13139C0067E | 21-MAR-2000
04 | GEORGIA | HALL COUNTY * | 13139C0070E | 21-MAR-2000
04 | GEORGIA | HALL COUNTY * | 13139C0075E | 21-MAR-2000
04 | GEORGIA | HALL COUNTY * | 13139C0076E | 21-MAR-2000
04 | GEORGIA | HALL COUNTY * | 13139C0077E | 21-MAR-2000
04 | GEORGIA | HALL COUNTY * | 13139C0078E | 21-MAR-2000
04 | GEORGIA | HALL COUNTY * | 13139C0079E | 21-MAR-2000
04 | GEORGIA | HALL COUNTY * | 13139C0081E | 21-MAR-2000
04 | GEORGIA | HALL COUNTY * | 13139C0083E | 21-MAR-2000
04 | GEORGIA | HALL COUNTY * | 13139C0085E | 21-MAR-2000
04 | GEORGIA | HALL COUNTY * | 13139C0086E | 21-MAR-2000
04 | GEORGIA | HALL COUNTY * | 13139C0087E | 21-MAR-2000
04 | GEORGIA | HALL COUNTY * | 13139C0088E | 21-MAR-2000
04 | GEORGIA | HALL COUNTY * | 13139C0089E | 21-MAR-2000
04 | GEORGIA | HALL COUNTY * | 13139C0091E | 21-MAR-2000
04 | GEORGIA | HALL COUNTY * | 13139C0093E | 21-MAR-2000
04 | GEORGIA | HALL COUNTY * | 13139C0095E | 21-MAR-2000
04 | GEORGIA | HALL COUNTY * | 13139C0110E | 21-MAR-2000
04 | GEORGIA | HALL COUNTY * | 13139C0125E | 21-MAR-2000
04 | GEORGIA | HALL COUNTY * | 13139C0169E | 21-MAR-2000
04 | GEORGIA | HALL COUNTY * | 13139C0170E | 21-MAR-2000
04 | GEORGIA | HALL COUNTY * | 13139C0175E | 21-MAR-2000
04 | GEORGIA | HALL COUNTY * | 13139C0179E | 21-MAR-2000
04 | GEORGIA | HALL COUNTY * | 13139C0180E | 21-MAR-2000
04 | GEORGIA | HALL COUNTY * | 13139C0183E | 21-MAR-2000
04 | GEORGIA | HALL COUNTY * | 13139C0185E | 21-MAR-2000
04 | GEORGIA | HALL COUNTY * | 13139C0186E | 21-MAR-2000
04 | GEORGIA | HALL COUNTY * | 13139C0187E | 21-MAR-2000
04 | GEORGIA | HALL COUNTY * | 13139C0188E | 21-MAR-2000
04 | GEORGIA | HALL COUNTY * | 13139C0189E | 21-MAR-2000
04 | GEORGIA | HALL COUNTY * | 13139C0195E | 21-MAR-2000
04 | GEORGIA | HALL COUNTY * | 13139C0225E | 21-MAR-2000
04 | GEORGIA | HALL COUNTY * | 13139C0275E | 21-MAR-2000
04 | GEORGIA | HALL COUNTY * | 13139C0281E | 21-MAR-2000
04 | GEORGIA | HALL COUNTY * | 13139C0282E | 21-MAR-2000
04 | GEORGIA | HALL COUNTY * | 13139C0283E | 21-MAR-2000
04 | GEORGIA | HALL COUNTY * | 13139C0284E | 21-MAR-2000
04 | GEORGIA | HALL COUNTY * | 13139C0291E | 21-MAR-2000
04 | GEORGIA | HALL COUNTY * | 13139C0292E | 21-MAR-2000
04 | GEORGIA | HALL COUNTY * | 13139C0294E | 21-MAR-2000
04 | GEORGIA | HALL COUNTY * | 13139C0300E | 21-MAR-2000
04 | GEORGIA | HALL COUNTY * | 13139C0301E | 21-MAR-2000
04 | GEORGIA | HALL COUNTY * | 13139C0302E | 21-MAR-2000
04 | GEORGIA | HALL COUNTY * | 13139C0303E | 21-MAR-2000
04 | GEORGIA | HALL COUNTY * | 13139C0304E | 21-MAR-2000
04 | GEORGIA | HALL COUNTY * | 13139C0308E | 21-MAR-2000
04 | GEORGIA | HALL COUNTY * | 13139C0310E | 21-MAR-2000
04 | GEORGIA | HALL COUNTY * | 13139C0311E | 21-MAR-2000
04 | GEORGIA | HALL COUNTY * | 13139C0312E | 21-MAR-2000
04 | GEORGIA | HALL COUNTY * | 13139C0313E | 21-MAR-2000
04 | GEORGIA | HALL COUNTY * | 13139C0314E | 21-MAR-2000
04 | GEORGIA | HALL COUNTY * | 13139C0316E | 21-MAR-2000
04 | GEORGIA | HALL COUNTY * | 13139C0317E | 21-MAR-2000
04 | GEORGIA | HALL COUNTY * | 13139C0318E | 21-MAR-2000
04 | GEORGIA | HALL COUNTY * | 13139C0350E | 21-MAR-2000
04 | GEORGIA | HALL COUNTY * | 13139C0356E | 21-MAR-2000
04 | GEORGIA | HALL COUNTY * | 13139C0357E** | 21-MAR-2000
04 | GEORGIA | HALL COUNTY * | 13139C0376E | 21-MAR-2000
04 | GEORGIA | HALL COUNTY * | 13139C0377E | 21-MAR-2000
04 | GEORGIA | LULA, CITY OF | 13139C0000 | 21-MAR-2000
04 | GEORGIA | LULA, CITY OF | 13139C0125E** | 21-MAR-2000
04 | GEORGIA | LULA, CITY OF | 13139C0225E** | 21-MAR-2000
04 | GEORGIA | OAKWOOD, CITY OF (HALL COUNTY) | 13139C0000 | 21-MAR-2000
04 | GEORGIA | OAKWOOD, CITY OF (HALL COUNTY) | 13139C0169E | 21-MAR-2000
04 | GEORGIA | OAKWOOD, CITY OF (HALL COUNTY) | 13139C0188E** | 21-MAR-2000
04 | GEORGIA | OAKWOOD, CITY OF (HALL COUNTY) | 13139C0282E | 21-MAR-2000
04 | GEORGIA | OAKWOOD, CITY OF (HALL COUNTY) | 13139C0284E** | 21-MAR-2000
04 | GEORGIA | OAKWOOD, CITY OF (HALL COUNTY) | 13139C0301E | 21-MAR-2000
04 | GEORGIA | OAKWOOD, CITY OF (HALL COUNTY) | 13139C0303E | 21-MAR-2000
04 | KENTUCKY | INEZ, CITY OF | 2103620001D | 07-MAR-2000
04 | KENTUCKY | MARTIN COUNTY* | 2101660000 | 07-MAR-2000
04 | KENTUCKY | MARTIN COUNTY* | 2101660014D | 07-MAR-2000
04 | KENTUCKY | MARTIN COUNTY* | 2101660025D | 07-MAR-2000
04 | KENTUCKY | MARTIN COUNTY* | 2101660031D | 07-MAR-2000
04 | KENTUCKY | MARTIN COUNTY* | 2101660032D | 07-MAR-2000
04 | MISSISSIPPI | BROOKHAVEN, CITY OF | 2801070000 | 07-JAN-2000
04 | MISSISSIPPI | BROOKHAVEN, CITY OF | 2801070001B | 07-JAN-2000
04 | MISSISSIPPI | BROOKHAVEN, CITY OF | 2801070003B | 07-JAN-2000
04 | MISSISSIPPI | LAUDERDALE COUNTY * | 28075C0000 | 21-MAR-2000
04 | MISSISSIPPI | LAUDERDALE COUNTY * | 28075C0084D | 21-MAR-2000
04 | MISSISSIPPI | LAUDERDALE COUNTY * | 28075C0085D | 21-MAR-2000
04 | MISSISSIPPI | LAUDERDALE COUNTY * | 28075C0092E | 21-MAR-2000
04 | MISSISSIPPI | LAUDERDALE COUNTY * | 28075C0095E | 21-MAR-2000
04 | MISSISSIPPI | LAUDERDALE COUNTY * | 28075C0101E | 21-MAR-2000
04 | MISSISSIPPI | LAUDERDALE COUNTY * | 28075C0103E | 21-MAR-2000
04 | MISSISSIPPI | LAUDERDALE COUNTY * | 28075C0105E | 21-MAR-2000
04 | MISSISSIPPI | LAUDERDALE COUNTY * | 28075C0115E | 21-MAR-2000
04 | MISSISSIPPI | LAUDERDALE COUNTY * | 28075C0160E | 21-MAR-2000
04 | MISSISSIPPI | LINCOLN COUNTY | 2802730000 | 07-JAN-2000
04 | MISSISSIPPI | LINCOLN COUNTY | 2802730110C | 07-JAN-2000
04 | MISSISSIPPI | MERIDIAN, CITY OF | 28075C0000 | 21-MAR-2000
04 | MISSISSIPPI | MERIDIAN, CITY OF | 28075C005E | 21-MAR-2000
04 | MISSISSIPPI | MERIDIAN, CITY OF | 28075C0084D | 21-MAR-2000
04 | MISSISSIPPI | MERIDIAN, CITY OF | 28075C0085D | 21-MAR-2000
04 | MISSISSIPPI | MERIDIAN, CITY OF | 28075C0092E | 21-MAR-2000
04 | MISSISSIPPI | MERIDIAN, CITY OF | 28075C0095E | 21-MAR-2000
04 | MISSISSIPPI | MERIDIAN, CITY OF | 28075C0101E | 21-MAR-2000
04 | MISSISSIPPI | MERIDIAN, CITY OF | 28075C0103E | 21-MAR-2000
04 | MISSISSIPPI | MERIDIAN, CITY OF | 28075C0111E | 21-MAR-2000
04 | MISSISSIPPI | MERIDIAN, CITY OF | 28075C0115E | 21-MAR-2000
04 | MISSISSIPPI | MERIDIAN, CITY OF | 28075C0160E | 21-MAR-2000
04 | NORTH CAROLINA | BURGAW, TOWN OF PENDER COUNTY | 3704830000 | 19-JAN-2000
04 | NORTH CAROLINA | BURGAW, TOWN OF PENDER COUNTY | 3704830001A | 19-JAN-2000
04 | NORTH CAROLINA | BURGAW, TOWN OF PENDER COUNTY | 3704830002A | 19-JAN-2000
04 | NORTH CAROLINA | BURGAW, TOWN OF PENDER COUNTY | 3704830003A | 19-JAN-2000
04 | NORTH CAROLINA | CORNELIUS, TOWN OF | 3704980000 | 19-JAN-2000
04 | NORTH CAROLINA | CORNELIUS, TOWN OF | 3704980005A | 19-JAN-2000
04 | NORTH CAROLINA | CORNELIUS, TOWN OF | 3704980010A | 19-JAN-2000
04 | NORTH CAROLINA | CORNELIUS, TOWN OF | 3704980015A | 19-JAN-2000
04 | NORTH CAROLINA | CUMBERLAND COUNTY (UNINCORPORATED AREAS) | 3700760000 | 04-MAY-2000
04 | NORTH CAROLINA | CUMBERLAND COUNTY (UNINCORPORATED AREAS) | 3700760030C** | 04-MAY-2000
04 | NORTH CAROLINA | CUMBERLAND COUNTY (UNINCORPORATED AREAS) | 3700760035C** | 04-MAY-2000
04 | NORTH CAROLINA | CUMBERLAND COUNTY (UNINCORPORATED AREAS) | 3700760070C** | 04-MAY-2000
04 | NORTH CAROLINA | CUMBERLAND COUNTY (UNINCORPORATED AREAS) | 3700760075C** | 04-MAY-2000
04 | NORTH CAROLINA | DAVIDSON, TOWN OF IREDELL AND MECKLENBURG COUNTIES | 3705030005A | 19-JAN-2000
04 | NORTH CAROLINA | DURHAM COUNTY (UNINCORPORATED AREAS) | 37063C0000 | 21-MAR-2000
04 | NORTH CAROLINA | DURHAM COUNTY (UNINCORPORATED AREAS) | 37063C0154H | 21-MAR-2000
04 | NORTH CAROLINA | DURHAM COUNTY (UNINCORPORATED AREAS) | 37063C0159H | 21-MAR-2000
04 | NORTH CAROLINA | DURHAM COUNTY (UNINCORPORATED AREAS) | 37063C0162H | 21-MAR-2000
04 | NORTH CAROLINA | DURHAM COUNTY (UNINCORPORATED AREAS) | 37063C0166H | 21-MAR-2000
04 | NORTH CAROLINA | MECKLENBURG COUNTY * | 3701580000 | 19-JAN-2000
04 | NORTH CAROLINA | MECKLENBURG COUNTY * | 3701580005D** | 19-JAN-2000
04 | NORTH CAROLINA | MECKLENBURG COUNTY * | 3701580010D** | 19-JAN-2000
04 | NORTH CAROLINA | MECKLENBURG COUNTY * | 3701580015D** | 19-JAN-2000
04 | NORTH CAROLINA | MECKLENBURG COUNTY * | 3701580020D** | 19-JAN-2000
04 | NORTH CAROLINA | MECKLENBURG COUNTY * | 3701580025C** | 19-JAN-2000
04 | NORTH CAROLINA | MECKLENBURG COUNTY * | 3701580030D** | 19-JAN-2000
04 | NORTH CAROLINA | SPRING LAKE, TOWN OF (CUMBERLAND COUNTY) | 3700760000 | 04-MAY-2000
04 | NORTH CAROLINA | SPRING LAKE, TOWN OF (CUMBERLAND COUNTY) | 3700760001A** | 04-MAY-2000
04 | NORTH CAROLINA | SPRING LAKE, TOWN OF (CUMBERLAND COUNTY) | 3700760002A** | 04-MAY-2000
04 | SOUTH CAROLINA | BATESBURG-LEESVILLE, TOWN OF | 45063C0000 | 09-FEB-2000
04 | SOUTH CAROLINA | BATESBURG-LEESVILLE, TOWN OF | 45063C0195G | 09-FEB-2000
04 | SOUTH CAROLINA | BATESBURG-LEESVILLE, TOWN OF | 45063C0200G | 09-FEB-2000
04 | SOUTH CAROLINA | BATESBURG-LEESVILLE, TOWN OF | 45063C0225G | 09-FEB-2000
04 | SOUTH CAROLINA | CAYCE, CITY OF | 45063C0000 | 09-FEB-2000
04 | SOUTH CAROLINA | CAYCE, CITY OF | 45063C0277G** | 09-FEB-2000
04 | SOUTH CAROLINA | CAYCE, CITY OF | 45063C0278G** | 09-FEB-2000
04 | SOUTH CAROLINA | CAYCE, CITY OF | 45063C0279G** | 09-FEB-2000
04 | SOUTH CAROLINA | CAYCE, CITY OF | 45063C0287G** | 09-FEB-2000
04 | SOUTH CAROLINA | CHAPIN, TOWN OF LEXINGTON COUNTY | 45063C0000 | 09-FEB-2000
04 | SOUTH CAROLINA | CHAPIN, TOWN OF LEXINGTON COUNTY | 45063C0040G** | 09-FEB-2000
04 | SOUTH CAROLINA | COLUMBIA, CITY OF | 45063C0000 | 09-FEB-2000
04 | SOUTH CAROLINA | COLUMBIA, CITY OF | 45063C0133G** | 09-FEB-2000
04 | SOUTH CAROLINA | COLUMBIA, CITY OF | 45063C0134G** | 09-FEB-2000
04 | SOUTH CAROLINA | GASTON,TOWN OF | 45063C0000 | 09-FEB-2000
04 | SOUTH CAROLINA | GASTON,TOWN OF | 45063C0404G | 09-FEB-2000
04 | SOUTH CAROLINA | GASTON,TOWN OF | 45063C0411G | 09-FEB-2000
04 | SOUTH CAROLINA | GASTON,TOWN OF | 45063C0412G | 09-FEB-2000
04 | SOUTH CAROLINA | GILBERT, TOWN OF | 45063C0000 | 09-FEB-2000
04 | SOUTH CAROLINA | GILBERT, TOWN OF | 45063C0217G** | 09-FEB-2000
04 | SOUTH CAROLINA | IRMO, TOWN OF | 45063C0000 | 09-FEB-2000
04 | SOUTH CAROLINA | IRMO, TOWN OF | 45063C0127G** | 09-FEB-2000
04 | SOUTH CAROLINA | IRMO, TOWN OF | 45063C0129G** | 09-FEB-2000
04 | SOUTH CAROLINA | IRMO, TOWN OF | 45063C0133G** | 09-FEB-2000
04 | SOUTH CAROLINA | LEXINGTON COUNTY (UNINCORPORATED AREAS) | 45063C0000 | 09-FEB-2000
04 | SOUTH CAROLINA | LEXINGTON COUNTY (UNINCORPORATED AREAS) | 45063C0020G** | 09-FEB-2000
04 | SOUTH CAROLINA | LEXINGTON COUNTY (UNINCORPORATED AREAS) | 45063C0040G** | 09-FEB-2000
04 | SOUTH CAROLINA | LEXINGTON COUNTY (UNINCORPORATED AREAS) | 45063C0050G | 09-FEB-2000
04 | SOUTH CAROLINA | LEXINGTON COUNTY (UNINCORPORATED AREAS) | 45063C0080G** | 09-FEB-2000
04 | SOUTH CAROLINA | LEXINGTON COUNTY (UNINCORPORATED AREAS) | 45063C0085G** | 09-FEB-2000
04 | SOUTH CAROLINA | LEXINGTON COUNTY (UNINCORPORATED AREAS) | 45063C0090G** | 09-FEB-2000
04 | SOUTH CAROLINA | LEXINGTON COUNTY (UNINCORPORATED AREAS) | 45063C0095G** | 09-FEB-2000
04 | SOUTH CAROLINA | LEXINGTON COUNTY (UNINCORPORATED AREAS) | 45063C0110G** | 09-FEB-2000
04 | SOUTH CAROLINA | LEXINGTON COUNTY (UNINCORPORATED AREAS) | 45063C0111G** | 09-FEB-2000
04 | SOUTH CAROLINA | LEXINGTON COUNTY (UNINCORPORATED AREAS) | 45063C0112G** | 09-FEB-2000
04 | SOUTH CAROLINA | LEXINGTON COUNTY (UNINCORPORATED AREAS) | 45063C0113G** | 09-FEB-2000
04 | SOUTH CAROLINA | LEXINGTON COUNTY (UNINCORPORATED AREAS) | 45063C0114G** | 09-FEB-2000
04 | SOUTH CAROLINA | LEXINGTON COUNTY (UNINCORPORATED AREAS) | 45063C0116G** | 09-FEB-2000
04 | SOUTH CAROLINA | LEXINGTON COUNTY (UNINCORPORATED AREAS) | 45063C0117G** | 09-FEB-2000
04 | SOUTH CAROLINA | LEXINGTON COUNTY (UNINCORPORATED AREAS) | 45063C0118G** | 09-FEB-2000
04 | SOUTH CAROLINA | LEXINGTON COUNTY (UNINCORPORATED AREAS) | 45063C0119G** | 09-FEB-2000
04 | SOUTH CAROLINA | LEXINGTON COUNTY (UNINCORPORATED AREAS) | 45063C0126G** | 09-FEB-2000
04 | SOUTH CAROLINA | LEXINGTON COUNTY (UNINCORPORATED AREAS) | 45063C0127G** | 09-FEB-2000
04 | SOUTH CAROLINA | LEXINGTON COUNTY (UNINCORPORATED AREAS) | 45063C0128G** | 09-FEB-2000
04 | SOUTH CAROLINA | LEXINGTON COUNTY (UNINCORPORATED AREAS) | 45063C0129G** | 09-FEB-2000
04 | SOUTH CAROLINA | LEXINGTON COUNTY (UNINCORPORATED AREAS) | 45063C0133G** | 09-FEB-2000
04 | SOUTH CAROLINA | LEXINGTON COUNTY (UNINCORPORATED AREAS) | 45063C0134G** | 09-FEB-2000
04 | SOUTH CAROLINA | LEXINGTON COUNTY (UNINCORPORATED AREAS) | 45063C0136G** | 09-FEB-2000
04 | SOUTH CAROLINA | LEXINGTON COUNTY (UNINCORPORATED AREAS) | 45063C0137G** | 09-FEB-2000
04 | SOUTH CAROLINA | LEXINGTON COUNTY (UNINCORPORATED AREAS) | 45063C0138G** | 09-FEB-2000
04 | SOUTH CAROLINA | LEXINGTON COUNTY (UNINCORPORATED AREAS) | 45063C0139G** | 09-FEB-2000
04 | SOUTH CAROLINA | LEXINGTON COUNTY (UNINCORPORATED AREAS) | 45063C0141G** | 09-FEB-2000
04 | SOUTH CAROLINA | LEXINGTON COUNTY (UNINCORPORATED AREAS) | 45063C0142G** | 09-FEB-2000
04 | SOUTH CAROLINA | LEXINGTON COUNTY (UNINCORPORATED AREAS) | 45063C0143G | 09-FEB-2000
04 | SOUTH CAROLINA | LEXINGTON COUNTY (UNINCORPORATED AREAS) | 45063C0144G** | 09-FEB-2000
04 | SOUTH CAROLINA | LEXINGTON COUNTY (UNINCORPORATED AREAS) | 45063C0161G** | 09-FEB-2000
04 | SOUTH CAROLINA | LEXINGTON COUNTY (UNINCORPORATED AREAS) | 45063C0163G** | 09-FEB-2000
04 | SOUTH CAROLINA | LEXINGTON COUNTY (UNINCORPORATED AREAS) | 45063C0195G | 09-FEB-2000
04 | SOUTH CAROLINA | LEXINGTON COUNTY (UNINCORPORATED AREAS) | 45063C0200G | 09-FEB-2000
04 | SOUTH CAROLINA | LEXINGTON COUNTY (UNINCORPORATED AREAS) | 45063C0216G | 09-FEB-2000
04 | SOUTH CAROLINA | LEXINGTON COUNTY (UNINCORPORATED AREAS) | 45063C0217G** | 09-FEB-2000
04 | SOUTH CAROLINA | LEXINGTON COUNTY (UNINCORPORATED AREAS) | 45063C0218G | 09-FEB-2000
04 | SOUTH CAROLINA | LEXINGTON COUNTY (UNINCORPORATED AREAS) | 45063C0219G | 09-FEB-2000
04 | SOUTH CAROLINA | LEXINGTON COUNTY (UNINCORPORATED AREAS) | 45063C0225G | 09-FEB-2000
04 | SOUTH CAROLINA | LEXINGTON COUNTY (UNINCORPORATED AREAS) | 45063C0226G | 09-FEB-2000
04 | SOUTH CAROLINA | LEXINGTON COUNTY (UNINCORPORATED AREAS) | 45063C0227G | 09-FEB-2000
04 | SOUTH CAROLINA | LEXINGTON COUNTY (UNINCORPORATED AREAS) | 45063C0228G** | 09-FEB-2000
04 | SOUTH CAROLINA | LEXINGTON COUNTY (UNINCORPORATED AREAS) | 45063C0229G** | 09-FEB-2000
04 | SOUTH CAROLINA | LEXINGTON COUNTY (UNINCORPORATED AREAS) | 45063C0231G** | 09-FEB-2000
04 | SOUTH CAROLINA | LEXINGTON COUNTY (UNINCORPORATED AREAS) | 45063C0232G** | 09-FEB-2000
04 | SOUTH CAROLINA | LEXINGTON COUNTY (UNINCORPORATED AREAS) | 45063C0233G** | 09-FEB-2000
04 | SOUTH CAROLINA | LEXINGTON COUNTY (UNINCORPORATED AREAS) | 45063C0234G** | 09-FEB-2000
04 | SOUTH CAROLINA | LEXINGTON COUNTY (UNINCORPORATED AREAS) | 45063C0236G** | 09-FEB-2000
04 | SOUTH CAROLINA | LEXINGTON COUNTY (UNINCORPORATED AREAS) | 45063C0237G** | 09-FEB-2000
04 | SOUTH CAROLINA | LEXINGTON COUNTY (UNINCORPORATED AREAS) | 45063C0238G | 09-FEB-2000
04 | SOUTH CAROLINA | LEXINGTON COUNTY (UNINCORPORATED AREAS) | 45063C0239G | 09-FEB-2000
04 | SOUTH CAROLINA | LEXINGTON COUNTY (UNINCORPORATED AREAS) | 45063C0241G** | 09-FEB-2000
04 | SOUTH CAROLINA | LEXINGTON COUNTY (UNINCORPORATED AREAS) | 45063C0242G** | 09-FEB-2000
04 | SOUTH CAROLINA | LEXINGTON COUNTY (UNINCORPORATED AREAS) | 45063C0243G | 09-FEB-2000
04 | SOUTH CAROLINA | LEXINGTON COUNTY (UNINCORPORATED AREAS) | 45063C0244G** | 09-FEB-2000
04 | SOUTH CAROLINA | LEXINGTON COUNTY (UNINCORPORATED AREAS) | 45063C0251G** | 09-FEB-2000
04 | SOUTH CAROLINA | LEXINGTON COUNTY (UNINCORPORATED AREAS) | 45063C0252G | 09-FEB-2000
04 | SOUTH CAROLINA | LEXINGTON COUNTY (UNINCORPORATED AREAS) | 45063C0253G** | 09-FEB-2000
04 | SOUTH CAROLINA | LEXINGTON COUNTY (UNINCORPORATED AREAS) | 45063C0254G** | 09-FEB-2000
04 | SOUTH CAROLINA | LEXINGTON COUNTY (UNINCORPORATED AREAS) | 45063C0256G | 09-FEB-2000
04 | SOUTH CAROLINA | LEXINGTON COUNTY (UNINCORPORATED AREAS) | 45063C0257G** | 09-FEB-2000
04 | SOUTH CAROLINA | LEXINGTON COUNTY (UNINCORPORATED AREAS) | 45063C0258G** | 09-FEB-2000
04 | SOUTH CAROLINA | LEXINGTON COUNTY (UNINCORPORATED AREAS) | 45063C0259G** | 09-FEB-2000
04 | SOUTH CAROLINA | LEXINGTON COUNTY (UNINCORPORATED AREAS) | 45063C0261G** | 09-FEB-2000
04 | SOUTH CAROLINA | LEXINGTON COUNTY (UNINCORPORATED AREAS) | 45063C0262G** | 09-FEB-2000
04 | SOUTH CAROLINA | LEXINGTON COUNTY (UNINCORPORATED AREAS) | 45063C0263G** | 09-FEB-2000
04 | SOUTH CAROLINA | LEXINGTON COUNTY (UNINCORPORATED AREAS) | 45063C0264G** | 09-FEB-2000
04 | SOUTH CAROLINA | LEXINGTON COUNTY (UNINCORPORATED AREAS) | 45063C0266G** | 09-FEB-2000
04 | SOUTH CAROLINA | LEXINGTON COUNTY (UNINCORPORATED AREAS) | 45063C0267G** | 09-FEB-2000
04 | SOUTH CAROLINA | LEXINGTON COUNTY (UNINCORPORATED AREAS) | 45063C0268G** | 09-FEB-2000
04 | SOUTH CAROLINA | LEXINGTON COUNTY (UNINCORPORATED AREAS) | 45063C0269G** | 09-FEB-2000
04 | SOUTH CAROLINA | LEXINGTON COUNTY (UNINCORPORATED AREAS) | 45063C0276G** | 09-FEB-2000
04 | SOUTH CAROLINA | LEXINGTON COUNTY (UNINCORPORATED AREAS) | 45063C0277G** | 09-FEB-2000
04 | SOUTH CAROLINA | LEXINGTON COUNTY (UNINCORPORATED AREAS) | 45063C0278G** | 09-FEB-2000
04 | SOUTH CAROLINA | LEXINGTON COUNTY (UNINCORPORATED AREAS) | 45063C0279G** | 09-FEB-2000
04 | SOUTH CAROLINA | LEXINGTON COUNTY (UNINCORPORATED AREAS) | 45063C0286G** | 09-FEB-2000
04 | SOUTH CAROLINA | LEXINGTON COUNTY (UNINCORPORATED AREAS) | 45063C0287G** | 09-FEB-2000
04 | SOUTH CAROLINA | LEXINGTON COUNTY (UNINCORPORATED AREAS) | 45063C0288G** | 09-FEB-2000
04 | SOUTH CAROLINA | LEXINGTON COUNTY (UNINCORPORATED AREAS) | 45063C0289G | 09-FEB-2000
04 | SOUTH CAROLINA | LEXINGTON COUNTY (UNINCORPORATED AREAS) | 45063C0325G | 09-FEB-2000
04 | SOUTH CAROLINA | LEXINGTON COUNTY (UNINCORPORATED AREAS) | 45063C0350G | 09-FEB-2000
04 | SOUTH CAROLINA | LEXINGTON COUNTY (UNINCORPORATED AREAS) | 45063C0355G | 09-FEB-2000
04 | SOUTH CAROLINA | LEXINGTON COUNTY (UNINCORPORATED AREAS) | 45063C0356G | 09-FEB-2000
04 | SOUTH CAROLINA | LEXINGTON COUNTY (UNINCORPORATED AREAS) | 45063C0357G** | 09-FEB-2000
04 | SOUTH CAROLINA | LEXINGTON COUNTY (UNINCORPORATED AREAS) | 45063C0365G | 09-FEB-2000
04 | SOUTH CAROLINA | LEXINGTON COUNTY (UNINCORPORATED AREAS) | 45063C0370G | 09-FEB-2000
04 | SOUTH CAROLINA | LEXINGTON COUNTY (UNINCORPORATED AREAS) | 45063C0376G** | 09-FEB-2000
04 | SOUTH CAROLINA | LEXINGTON COUNTY (UNINCORPORATED AREAS) | 45063C0378G | 09-FEB-2000
04 | SOUTH CAROLINA | LEXINGTON COUNTY (UNINCORPORATED AREAS) | 45063C0379G | 09-FEB-2000
04 | SOUTH CAROLINA | LEXINGTON COUNTY (UNINCORPORATED AREAS) | 45063C0381G** | 09-FEB-2000
04 | SOUTH CAROLINA | LEXINGTON COUNTY (UNINCORPORATED AREAS) | 45063C0382G** | 09-FEB-2000
04 | SOUTH CAROLINA | LEXINGTON COUNTY (UNINCORPORATED AREAS) | 45063C0383G** | 09-FEB-2000
04 | SOUTH CAROLINA | LEXINGTON COUNTY (UNINCORPORATED AREAS) | 45063C0384G** | 09-FEB-2000
04 | SOUTH CAROLINA | LEXINGTON COUNTY (UNINCORPORATED AREAS) | 45063C0390G | 09-FEB-2000
04 | SOUTH CAROLINA | LEXINGTON COUNTY (UNINCORPORATED AREAS) | 45063C0395G | 09-FEB-2000
04 | SOUTH CAROLINA | LEXINGTON COUNTY (UNINCORPORATED AREAS) | 45063C0401G** | 09-FEB-2000
04 | SOUTH CAROLINA | LEXINGTON COUNTY (UNINCORPORATED AREAS) | 45063C0402G | 09-FEB-2000
04 | SOUTH CAROLINA | LEXINGTON COUNTY (UNINCORPORATED AREAS) | 45063C0404G | 09-FEB-2000
04 | SOUTH CAROLINA | LEXINGTON COUNTY (UNINCORPORATED AREAS) | 45063C0406G | 09-FEB-2000
04 | SOUTH CAROLINA | LEXINGTON COUNTY (UNINCORPORATED AREAS) | 45063C0408G | 09-FEB-2000
04 | SOUTH CAROLINA | LEXINGTON COUNTY (UNINCORPORATED AREAS) | 45063C0411G | 09-FEB-2000
04 | SOUTH CAROLINA | LEXINGTON COUNTY (UNINCORPORATED AREAS) | 45063C0412G | 09-FEB-2000
04 | SOUTH CAROLINA | LEXINGTON COUNTY (UNINCORPORATED AREAS) | 45063C0415G | 09-FEB-2000
04 | SOUTH CAROLINA | LEXINGTON COUNTY (UNINCORPORATED AREAS) | 45063C0416G | 09-FEB-2000
04 | SOUTH CAROLINA | LEXINGTON COUNTY (UNINCORPORATED AREAS) | 45063C0450G | 09-FEB-2000
04 | SOUTH CAROLINA | LEXINGTON COUNTY (UNINCORPORATED AREAS) | 45063C0475G | 09-FEB-2000
04 | SOUTH CAROLINA | LEXINGTON COUNTY (UNINCORPORATED AREAS) | 45063C0500G | 09-FEB-2000
04 | SOUTH CAROLINA | LEXINGTON COUNTY (UNINCORPORATED AREAS) | 45063C0525G | 09-FEB-2000
04 | SOUTH CAROLINA | LEXINGTON COUNTY (UNINCORPORATED AREAS) | 45063C0530G | 09-FEB-2000
04 | SOUTH CAROLINA | LEXINGTON COUNTY (UNINCORPORATED AREAS) | 45063C0550G | 09-FEB-2000
04 | SOUTH CAROLINA | LEXINGTON COUNTY (UNINCORPORATED AREAS) | 45063C0575G | 09-FEB-2000
04 | SOUTH CAROLINA | PELION, TOWN OF | 45063C0000 | 09-FEB-2000
04 | SOUTH CAROLINA | PELION, TOWN OF | 45063C0370G | 09-FEB-2000
04 | SOUTH CAROLINA | PELION, TOWN OF | 45063C0390G | 09-FEB-2000
04 | SOUTH CAROLINA | PELION, TOWN OF | 45063C0525G | 09-FEB-2000
04 | SOUTH CAROLINA | PINE RIDGE, TOWN OF | 45063C0000 | 09-FEB-2000
04 | SOUTH CAROLINA | PINE RIDGE, TOWN OF | 45063C0286G** | 09-FEB-2000
04 | SOUTH CAROLINA | PINE RIDGE, TOWN OF | 45063C0287G** | 09-FEB-2000
04 | SOUTH CAROLINA | PINE RIDGE, TOWN OF | 45063C0288G** | 09-FEB-2000
04 | SOUTH CAROLINA | PINE RIDGE, TOWN OF | 45063C0289G | 09-FEB-2000
04 | SOUTH CAROLINA | SOUTH CONGAREE, TOWN OF | 45063C0000 | 09-FEB-2000
04 | SOUTH CAROLINA | SOUTH CONGAREE, TOWN OF | 45063C0266G** | 09-FEB-2000
04 | SOUTH CAROLINA | SOUTH CONGAREE, TOWN OF | 45063C0267G** | 09-FEB-2000
04 | SOUTH CAROLINA | SOUTH CONGAREE, TOWN OF | 45063C0268G** | 09-FEB-2000
04 | SOUTH CAROLINA | SOUTH CONGAREE, TOWN OF | 45063C0269G** | 09-FEB-2000
04 | SOUTH CAROLINA | SOUTH CONGAREE, TOWN OF | 45063C0286G** | 09-FEB-2000
04 | SOUTH CAROLINA | SOUTH CONGAREE, TOWN OF | 45063C0288G** | 09-FEB-2000
04 | SOUTH CAROLINA | SPRINGDALE, TOWN OF | 45063C0000 | 09-FEB-2000
04 | SOUTH CAROLINA | SPRINGDALE, TOWN OF | 45063C0257G** | 09-FEB-2000
04 | SOUTH CAROLINA | SPRINGDALE, TOWN OF | 45063C0259G** | 09-FEB-2000
04 | SOUTH CAROLINA | SPRINGDALE, TOWN OF | 45063C0276G** | 09-FEB-2000
04 | SOUTH CAROLINA | SPRINGDALE, TOWN OF | 45063C0277G** | 09-FEB-2000
04 | SOUTH CAROLINA | SPRINGDALE, TOWN OF | 45063C0278G** | 09-FEB-2000
04 | SOUTH CAROLINA | SPRINGDALE, TOWN OF | 45063C0279G** | 09-FEB-2000
04 | SOUTH CAROLINA | SUMMIT, TOWN OF | 45063C0000 | 09-FEB-2000
04 | SOUTH CAROLINA | SUMMIT, TOWN OF | 45063CO216G | 09-FEB-2000
04 | SOUTH CAROLINA | SWANSEA, TOWN OF | 45063C0000 | 09-FEB-2000
04 | SOUTH CAROLINA | SWANSEA, TOWN OF | 45063C0530G | 09-FEB-2000
04 | SOUTH CAROLINA | WEST COLUMBIA, CITY OF | 45063C0000 | 09-FEB-2000
04 | SOUTH CAROLINA | WEST COLUMBIA, CITY OF | 45063C0163G** | 09-FEB-2000
04 | SOUTH CAROLINA | WEST COLUMBIA, CITY OF | 45063C0276G** | 09-FEB-2000
04 | SOUTH CAROLINA | WEST COLUMBIA, CITY OF | 45063C0277G** | 09-FEB-2000
04 | SOUTH CAROLINA | WEST COLUMBIA, CITY OF | 45063C0278G** | 09-FEB-2000
04 | SOUTH CAROLINA | WEST COLUMBIA, CITY OF | 45063C0279G** | 09-FEB-2000
04 | TENNESSEE | DECATUR COUNTY* | 4700410000 | 07-JAN-2000
04 | TENNESSEE | DECATUR COUNTY* | 4700410001C | 07-JAN-2000
04 | TENNESSEE | DECATUR COUNTY* | 4700410002D | 07-JAN-2000
04 | TENNESSEE | DECATUR COUNTY* | 4700410003D | 07-JAN-2000
04 | TENNESSEE | DECATUR COUNTY* | 4700410004C | 07-JAN-2000
04 | TENNESSEE | DECATUR COUNTY* | 4700410005C | 07-JAN-2000
04 | TENNESSEE | DECATUR COUNTY* | 4700410006C | 07-JAN-2000
05 | MICHIGAN | ASH, TOWNSHIP OF | 26115C0000 | 20-APR-2000
05 | MICHIGAN | ASH, TOWNSHIP OF | 26115C0084D | 20-APR-2000
05 | MICHIGAN | ASH, TOWNSHIP OF | 26115C0085D | 20-APR-2000
05 | MICHIGAN | ASH, TOWNSHIP OF | 26115C0094D | 20-APR-2000
05 | MICHIGAN | ASH, TOWNSHIP OF | 26115C0095D | 20-APR-2000
05 | MICHIGAN | ASH, TOWNSHIP OF | 26115C0103D | 20-APR-2000
05 | MICHIGAN | ASH, TOWNSHIP OF | 26115C0108D | 20-APR-2000
05 | MICHIGAN | ASH, TOWNSHIP OF | 26115C0111D | 20-APR-2000
05 | MICHIGAN | ASH, TOWNSHIP OF | 26115C0112D | 20-APR-2000
05 | MICHIGAN | ASH, TOWNSHIP OF | 26115C0113D | 20-APR-2000
05 | MICHIGAN | ASH, TOWNSHIP OF | 26115C0114D | 20-APR-2000
05 | MICHIGAN | ASH, TOWNSHIP OF | 26115C0116D | 20-APR-2000
05 | MICHIGAN | ASH, TOWNSHIP OF | 26115C0118D | 20-APR-2000
05 | MICHIGAN | BEDFORD, TOWNSHIP OF (MONROE COUNTY) | 26115C0000 | 20-APR-2000
05 | MICHIGAN | BEDFORD, TOWNSHIP OF (MONROE COUNTY) | 26115C0344D | 20-APR-2000
05 | MICHIGAN | BEDFORD, TOWNSHIP OF (MONROE COUNTY) | 26115C0345D | 20-APR-2000
05 | MICHIGAN | BEDFORD, TOWNSHIP OF (MONROE COUNTY) | 26115C0350D | 20-APR-2000
05 | MICHIGAN | BEDFORD, TOWNSHIP OF (MONROE COUNTY) | 26115C0355D | 20-APR-2000
05 | MICHIGAN | BEDFORD, TOWNSHIP OF (MONROE COUNTY) | 26115C0360D | 20-APR-2000
05 | MICHIGAN | BEDFORD, TOWNSHIP OF (MONROE COUNTY) | 26115C0363D | 20-APR-2000
05 | MICHIGAN | BEDFORD, TOWNSHIP OF (MONROE COUNTY) | 26115C0364D | 20-APR-2000
05 | MICHIGAN | BEDFORD, TOWNSHIP OF (MONROE COUNTY) | 26115C0365D | 20-APR-2000
05 | MICHIGAN | BEDFORD, TOWNSHIP OF (MONROE COUNTY) | 26115C0366D | 20-APR-2000
05 | MICHIGAN | BEDFORD, TOWNSHIP OF (MONROE COUNTY) | 26115C0367D | 20-APR-2000
05 | MICHIGAN | BEDFORD, TOWNSHIP OF (MONROE COUNTY) | 26115C0368D | 20-APR-2000
05 | MICHIGAN | BEDFORD, TOWNSHIP OF (MONROE COUNTY) | 26115C0369D | 20-APR-2000
05 | MICHIGAN | BEDFORD, TOWNSHIP OF (MONROE COUNTY) | 26115C0457D | 20-APR-2000
05 | MICHIGAN | BEDFORD, TOWNSHIP OF (MONROE COUNTY) | 26115C0476D | 20-APR-2000
05 | MICHIGAN | BEDFORD, TOWNSHIP OF (MONROE COUNTY) | 26115C0477D | 20-APR-2000
05 | MICHIGAN | BEDFORD, TOWNSHIP OF (MONROE COUNTY) | 26115C0481D | 20-APR-2000
05 | MICHIGAN | BEDFORD, TOWNSHIP OF (MONROE COUNTY) | 26115C0482D | 20-APR-2000
05 | MICHIGAN | BERLIN, TOWNSHIP OF | 26115C0000 | 20-APR-2000
05 | MICHIGAN | BERLIN, TOWNSHIP OF | 26115C0108D | 20-APR-2000
05 | MICHIGAN | BERLIN, TOWNSHIP OF | 26115C0109D | 20-APR-2000
05 | MICHIGAN | BERLIN, TOWNSHIP OF | 26115C0114D | 20-APR-2000
05 | MICHIGAN | BERLIN, TOWNSHIP OF | 26115C0116D | 20-APR-2000
05 | MICHIGAN | BERLIN, TOWNSHIP OF | 26115C0117D | 20-APR-2000
05 | MICHIGAN | BERLIN, TOWNSHIP OF | 26115C0118D | 20-APR-2000
05 | MICHIGAN | BERLIN, TOWNSHIP OF | 26115C0119D | 20-APR-2000
05 | MICHIGAN | BERLIN, TOWNSHIP OF | 26115C0136D | 20-APR-2000
05 | MICHIGAN | BERLIN, TOWNSHIP OF | 26115C0140D | 20-APR-2000
05 | MICHIGAN | BERLIN, TOWNSHIP OF | 26115C0145D | 20-APR-2000
05 | MICHIGAN | BERLIN, TOWNSHIP OF | 26115C0252D | 20-APR-2000
05 | MICHIGAN | BERLIN, TOWNSHIP OF | 26115C0256D | 20-APR-2000
05 | MICHIGAN | BERLIN, TOWNSHIP OF | 26115C0257D | 20-APR-2000
05 | MICHIGAN | BERLIN, TOWNSHIP OF | 26115C0280D | 20-APR-2000
05 | MICHIGAN | CARLETON, VILLAGE OF | 26115C0000 | 20-APR-2000
05 | MICHIGAN | CARLETON, VILLAGE OF | 26115C0084D | 20-APR-2000
05 | MICHIGAN | CARLETON, VILLAGE OF | 26115C0095D | 20-APR-2000
05 | MICHIGAN | DUNDEE, TOWNSHIP OF | 26115C0000 | 20-APR-2000
05 | MICHIGAN | DUNDEE, TOWNSHIP OF | 26115C0175D | 20-APR-2000
05 | MICHIGAN | DUNDEE, TOWNSHIP OF | 26115C0180D | 20-APR-2000
05 | MICHIGAN | DUNDEE, TOWNSHIP OF | 26115C0183D | 20-APR-2000
05 | MICHIGAN | DUNDEE, TOWNSHIP OF | 26115C0184D | 20-APR-2000
05 | MICHIGAN | DUNDEE, TOWNSHIP OF | 26115C0185D | 20-APR-2000
05 | MICHIGAN | DUNDEE, TOWNSHIP OF | 26115C0200D | 20-APR-2000
05 | MICHIGAN | DUNDEE, TOWNSHIP OF | 26115C0205D | 20-APR-2000
05 | MICHIGAN | DUNDEE, TOWNSHIP OF | 26115C0215D | 20-APR-2000
05 | MICHIGAN | ERIE, TOWNSHIP OF MONROE COUNTY | 26115C0000 | 20-APR-2000
05 | MICHIGAN | ERIE, TOWNSHIP OF MONROE COUNTY | 26115C0360D | 20-APR-2000
05 | MICHIGAN | ERIE, TOWNSHIP OF MONROE COUNTY | 26115C0367D | 20-APR-2000
05 | MICHIGAN | ERIE, TOWNSHIP OF MONROE COUNTY | 26115C0369D | 20-APR-2000
05 | MICHIGAN | ERIE, TOWNSHIP OF MONROE COUNTY | 26115C0379D | 20-APR-2000
05 | MICHIGAN | ERIE, TOWNSHIP OF MONROE COUNTY | 26115C0380D | 20-APR-2000
05 | MICHIGAN | ERIE, TOWNSHIP OF MONROE COUNTY | 26115C0383D | 20-APR-2000
05 | MICHIGAN | ERIE, TOWNSHIP OF MONROE COUNTY | 26115C0386D | 20-APR-2000
05 | MICHIGAN | ERIE, TOWNSHIP OF MONROE COUNTY | 26115C0387D | 20-APR-2000
05 | MICHIGAN | ERIE, TOWNSHIP OF MONROE COUNTY | 26115C0388D | 20-APR-2000
05 | MICHIGAN | ERIE, TOWNSHIP OF MONROE COUNTY | 26115C0389D | 20-APR-2000
05 | MICHIGAN | ERIE, TOWNSHIP OF MONROE COUNTY | 26115C0395D | 20-APR-2000
05 | MICHIGAN | ERIE, TOWNSHIP OF MONROE COUNTY | 26115C0482D | 20-APR-2000
05 | MICHIGAN | ERIE, TOWNSHIP OF MONROE COUNTY | 26115C0501D | 20-APR-2000
05 | MICHIGAN | ERIE, TOWNSHIP OF MONROE COUNTY | 26115C0502D | 20-APR-2000
05 | MICHIGAN | ERIE, TOWNSHIP OF MONROE COUNTY | 26115C0510D | 20-APR-2000
05 | MICHIGAN | ESTRAL BEACH, VILLAGE OF MONROE COUNTY | 26115C0000 | 20-APR-2000
05 | MICHIGAN | ESTRAL BEACH, VILLAGE OF MONROE COUNTY | 26115C0280D | 20-APR-2000
05 | MICHIGAN | EXETER, TOWNSHIP OF MONROE COUNTY | 26115C0000 | 20-APR-2000
05 | MICHIGAN | EXETER, TOWNSHIP OF MONROE COUNTY | 26115C0085D | 20-APR-2000
05 | MICHIGAN | EXETER, TOWNSHIP OF MONROE COUNTY | 26115C0095D | 20-APR-2000
05 | MICHIGAN | EXETER, TOWNSHIP OF MONROE COUNTY | 26115C0210D | 20-APR-2000
05 | MICHIGAN | EXETER, TOWNSHIP OF MONROE COUNTY | 26115C0230D | 20-APR-2000
05 | MICHIGAN | FRENCHTOWN, TOWNSHIP OF | 26115C0000 | 20-APR-2000
05 | MICHIGAN | FRENCHTOWN, TOWNSHIP OF | 26115C0094D | 20-APR-2000
05 | MICHIGAN | FRENCHTOWN, TOWNSHIP OF | 26115C0095D | 20-APR-2000
05 | MICHIGAN | FRENCHTOWN, TOWNSHIP OF | 26115C0113D | 20-APR-2000
05 | MICHIGAN | FRENCHTOWN, TOWNSHIP OF | 26115C0114D | 20-APR-2000
05 | MICHIGAN | FRENCHTOWN, TOWNSHIP OF | 26115C0230D | 20-APR-2000
05 | MICHIGAN | FRENCHTOWN, TOWNSHIP OF | 26115C0232D | 20-APR-2000
05 | MICHIGAN | FRENCHTOWN, TOWNSHIP OF | 26115C0234D | 20-APR-2000
05 | MICHIGAN | FRENCHTOWN, TOWNSHIP OF | 26115C0235D | 20-APR-2000
05 | MICHIGAN | FRENCHTOWN, TOWNSHIP OF | 26115C0237D | 20-APR-2000
05 | MICHIGAN | FRENCHTOWN, TOWNSHIP OF | 26115C0241D | 20-APR-2000
05 | MICHIGAN | FRENCHTOWN, TOWNSHIP OF | 26115C0242D | 20-APR-2000
05 | MICHIGAN | FRENCHTOWN, TOWNSHIP OF | 26115C0251D | 20-APR-2000
05 | MICHIGAN | FRENCHTOWN, TOWNSHIP OF | 26115C0252D | 20-APR-2000
05 | MICHIGAN | FRENCHTOWN, TOWNSHIP OF | 26115C0253D | 20-APR-2000
05 | MICHIGAN | FRENCHTOWN, TOWNSHIP OF | 26115C0254D | 20-APR-2000
05 | MICHIGAN | FRENCHTOWN, TOWNSHIP OF | 26115C0256D | 20-APR-2000
05 | MICHIGAN | FRENCHTOWN, TOWNSHIP OF | 26115C0257D | 20-APR-2000
05 | MICHIGAN | FRENCHTOWN, TOWNSHIP OF | 26115C0258D | 20-APR-2000
05 | MICHIGAN | FRENCHTOWN, TOWNSHIP OF | 26115C0261D | 20-APR-2000
05 | MICHIGAN | FRENCHTOWN, TOWNSHIP OF | 26115C0262D | 20-APR-2000
05 | MICHIGAN | FRENCHTOWN, TOWNSHIP OF | 26115C0263D | 20-APR-2000
05 | MICHIGAN | FRENCHTOWN, TOWNSHIP OF | 26115C0264D | 20-APR-2000
05 | MICHIGAN | FRENCHTOWN, TOWNSHIP OF | 26115C0270D | 20-APR-2000
05 | MICHIGAN | FRENCHTOWN, TOWNSHIP OF | 26115C0280D | 20-APR-2000
05 | MICHIGAN | FRENCHTOWN, TOWNSHIP OF | 26115C0405D | 20-APR-2000
05 | MICHIGAN | IDA, TOWNSHIP OF | 26115C0000 | 20-APR-2000
05 | MICHIGAN | IDA, TOWNSHIP OF | 26115C0200D | 20-APR-2000
05 | MICHIGAN | IDA, TOWNSHIP OF | 26115C0215D | 20-APR-2000
05 | MICHIGAN | IDA, TOWNSHIP OF | 26115C0220D | 20-APR-2000
05 | MICHIGAN | IDA, TOWNSHIP OF | 26115C0350D | 20-APR-2000
05 | MICHIGAN | IDA, TOWNSHIP OF | 26115C0355D | 20-APR-2000
05 | MICHIGAN | IDA, TOWNSHIP OF | 26115C0360D | 20-APR-2000
05 | MICHIGAN | LASALLE, TOWNSHIP OF | 26115C0000 | 20-APR-2000
05 | MICHIGAN | LASALLE, TOWNSHIP OF | 26115C0220D | 20-APR-2000
05 | MICHIGAN | LASALLE, TOWNSHIP OF | 26115C0238D | 20-APR-2000
05 | MICHIGAN | LASALLE, TOWNSHIP OF | 26115C0239D | 20-APR-2000
05 | MICHIGAN | LASALLE, TOWNSHIP OF | 26115C0360D | 20-APR-2000
05 | MICHIGAN | LASALLE, TOWNSHIP OF | 26115C0377D | 20-APR-2000
05 | MICHIGAN | LASALLE, TOWNSHIP OF | 26115C0379D | 20-APR-2000
05 | MICHIGAN | LASALLE, TOWNSHIP OF | 26115C0380D | 20-APR-2000
05 | MICHIGAN | LASALLE, TOWNSHIP OF | 26115C0381D | 20-APR-2000
05 | MICHIGAN | LASALLE, TOWNSHIP OF | 26115C0382D | 20-APR-2000
05 | MICHIGAN | LASALLE, TOWNSHIP OF | 26115C0383D | 20-APR-2000
05 | MICHIGAN | LASALLE, TOWNSHIP OF | 26115C0384D | 20-APR-2000
05 | MICHIGAN | LONDON, TOWNSHIP OF | 26115C0000 | 20-APR-2000
05 | MICHIGAN | LONDON, TOWNSHIP OF | 26115C0035D | 20-APR-2000
05 | MICHIGAN | LONDON, TOWNSHIP OF | 26115C0045D | 20-APR-2000
05 | MICHIGAN | LONDON, TOWNSHIP OF | 26115C0055D | 20-APR-2000
05 | MICHIGAN | LONDON, TOWNSHIP OF | 26115C0060D | 20-APR-2000
05 | MICHIGAN | LONDON, TOWNSHIP OF | 26115C0065D | 20-APR-2000
05 | MICHIGAN | LONDON, TOWNSHIP OF | 26115C0185D | 20-APR-2000
05 | MICHIGAN | LONDON, TOWNSHIP OF | 26115C0205D | 20-APR-2000
05 | MICHIGAN | LONDON, TOWNSHIP OF | 26115C0210D | 20-APR-2000
05 | MICHIGAN | LUNA PIER, CITY OF | 26115C0000 | 20-APR-2000
05 | MICHIGAN | LUNA PIER, CITY OF | 26115C0379D | 20-APR-2000
05 | MICHIGAN | LUNA PIER, CITY OF | 26115C0383D | 20-APR-2000
05 | MICHIGAN | LUNA PIER, CITY OF | 26115C0387D | 20-APR-2000
05 | MICHIGAN | MAYBEE, VILLAGE OF (MONROE COUNTY) | 26115C0000 | 20-APR-2000
05 | MICHIGAN | MAYBEE, VILLAGE OF (MONROE COUNTY) | 26115C0210D | 20-APR-2000
05 | MICHIGAN | MILAN, TOWNSHIP OF | 26115C0000 | 20-APR-2000
05 | MICHIGAN | MILAN, TOWNSHIP OF | 26115C0010D | 20-APR-2000
05 | MICHIGAN | MILAN, TOWNSHIP OF | 26115C0020D | 20-APR-2000
05 | MICHIGAN | MILAN, TOWNSHIP OF | 26115C0030D | 20-APR-2000
05 | MICHIGAN | MILAN, TOWNSHIP OF | 26115C0035D | 20-APR-2000
05 | MICHIGAN | MILAN, TOWNSHIP OF | 26115C0040D | 20-APR-2000
05 | MICHIGAN | MILAN, TOWNSHIP OF | 26115C0045D | 20-APR-2000
05 | MICHIGAN | MILAN, TOWNSHIP OF | 26115C0175D | 20-APR-2000
05 | MICHIGAN | MILAN, TOWNSHIP OF | 26115C0180D | 20-APR-2000
05 | MICHIGAN | MILAN, TOWNSHIP OF | 26115C0185D | 20-APR-2000
05 | MICHIGAN | MONROE, CITY OF | 26115C0000 | 20-APR-2000
05 | MICHIGAN | MONROE, CITY OF | 26115C0234D | 20-APR-2000
05 | MICHIGAN | MONROE, CITY OF | 26115C0235D | 20-APR-2000
05 | MICHIGAN | MONROE, CITY OF | 26115C0237D | 20-APR-2000
05 | MICHIGAN | MONROE, CITY OF | 26115C0241D | 20-APR-2000
05 | MICHIGAN | MONROE, CITY OF | 26115C0242D | 20-APR-2000
05 | MICHIGAN | MONROE, CITY OF | 26115C0244D | 20-APR-2000
05 | MICHIGAN | MONROE, CITY OF | 26115C0253D | 20-APR-2000
05 | MICHIGAN | MONROE, CITY OF | 26115C0261D | 20-APR-2000
05 | MICHIGAN | MONROE, CITY OF | 26115C0262D | 20-APR-2000
05 | MICHIGAN | MONROE, CITY OF | 26115C0263D | 20-APR-2000
05 | MICHIGAN | MONROE, CITY OF | 26115C0264D | 20-APR-2000
05 | MICHIGAN | MONROE, TOWNSHIP OF | 26115C0000 | 20-APR-2000
05 | MICHIGAN | MONROE, TOWNSHIP OF | 26115C0236D | 20-APR-2000
05 | MICHIGAN | MONROE, TOWNSHIP OF | 26115C0237D | 20-APR-2000
05 | MICHIGAN | MONROE, TOWNSHIP OF | 26115C0238D | 20-APR-2000
05 | MICHIGAN | MONROE, TOWNSHIP OF | 26115C0239D | 20-APR-2000
05 | MICHIGAN | MONROE, TOWNSHIP OF | 26115C0241D | 20-APR-2000
05 | MICHIGAN | MONROE, TOWNSHIP OF | 26115C0242D | 20-APR-2000
05 | MICHIGAN | MONROE, TOWNSHIP OF | 26115C0243D | 20-APR-2000
05 | MICHIGAN | MONROE, TOWNSHIP OF | 26115C0244D | 20-APR-2000
05 | MICHIGAN | MONROE, TOWNSHIP OF | 26115C0263D | 20-APR-2000
05 | MICHIGAN | MONROE, TOWNSHIP OF | 26115C0377D | 20-APR-2000
05 | MICHIGAN | MONROE, TOWNSHIP OF | 26115C0381D | 20-APR-2000
05 | MICHIGAN | MONROE, TOWNSHIP OF | 26115C0382D | 20-APR-2000
05 | MICHIGAN | MONROE, TOWNSHIP OF | 26115C0405D | 20-APR-2000
05 | MICHIGAN | PETERSBURG, CITY OF | 26115C0000 | 20-APR-2000
05 | MICHIGAN | PETERSBURG, CITY OF | 26115C0200D | 20-APR-2000
05 | MICHIGAN | RAISINVILLE, TOWNSHIP OF | 26115C0000 | 20-APR-2000
05 | MICHIGAN | RAISINVILLE, TOWNSHIP OF | 26115C0095D | 20-APR-2000
05 | MICHIGAN | RAISINVILLE, TOWNSHIP OF | 26115C0205D | 20-APR-2000
05 | MICHIGAN | RAISINVILLE, TOWNSHIP OF | 26115C0210D | 20-APR-2000
05 | MICHIGAN | RAISINVILLE, TOWNSHIP OF | 26115C0215D | 20-APR-2000
05 | MICHIGAN | RAISINVILLE, TOWNSHIP OF | 26115C0220D | 20-APR-2000
05 | MICHIGAN | RAISINVILLE, TOWNSHIP OF | 26115C0230D | 20-APR-2000
05 | MICHIGAN | RAISINVILLE, TOWNSHIP OF | 26115C0235D | 20-APR-2000
05 | MICHIGAN | RAISINVILLE, TOWNSHIP OF | 26115C0236D | 20-APR-2000
05 | MICHIGAN | RAISINVILLE, TOWNSHIP OF | 26115C0237D | 20-APR-2000
05 | MICHIGAN | RAISINVILLE, TOWNSHIP OF | 26115C0238D | 20-APR-2000
05 | MICHIGAN | SOUTH ROCKWOOD, VILLAGE OF | 26115C0000 | 20-APR-2000
05 | MICHIGAN | SOUTH ROCKWOOD, VILLAGE OF | 26115C0109D | 20-APR-2000
05 | MICHIGAN | SOUTH ROCKWOOD, VILLAGE OF | 26115C0117D | 20-APR-2000
05 | MICHIGAN | SOUTH ROCKWOOD, VILLAGE OF | 26115C0136D | 20-APR-2000
05 | MICHIGAN | SUMMERFIELD, TOWNSHIP OF | 26115C0000 | 20-APR-2000
05 | MICHIGAN | SUMMERFIELD, TOWNSHIP OF | 26115C0175D | 20-APR-2000
05 | MICHIGAN | SUMMERFIELD, TOWNSHIP OF | 26115C0200D | 20-APR-2000
05 | MICHIGAN | SUMMERFIELD, TOWNSHIP OF | 26115C0350D | 20-APR-2000
05 | MICHIGAN | WHITEFORD, TOWNSHIP OF | 26115C0000 | 20-APR-2000
05 | MICHIGAN | WHITEFORD, TOWNSHIP OF | 26115C0310D | 20-APR-2000
05 | MICHIGAN | WHITEFORD, TOWNSHIP OF | 26115C0320D | 20-APR-2000
05 | MICHIGAN | WHITEFORD, TOWNSHIP OF | 26115C0340D | 20-APR-2000
05 | MICHIGAN | WHITEFORD, TOWNSHIP OF | 26115C0344D | 20-APR-2000
05 | MICHIGAN | WHITEFORD, TOWNSHIP OF | 26115C0345D | 20-APR-2000
05 | MICHIGAN | WHITEFORD, TOWNSHIP OF | 26115C0350D | 20-APR-2000
05 | MICHIGAN | WHITEFORD, TOWNSHIP OF | 26115C0435D | 20-APR-2000
05 | MICHIGAN | WHITEFORD, TOWNSHIP OF | 26115C0451D | 20-APR-2000
05 | MICHIGAN | WHITEFORD, TOWNSHIP OF | 26115C0452D | 20-APR-2000
05 | MICHIGAN | WHITEFORD, TOWNSHIP OF | 26115C0456D | 20-APR-2000
05 | MICHIGAN | WHITEFORD, TOWNSHIP OF | 26115C0457D | 20-APR-2000
05 | MINNESOTA | BECKER, CITY OF(SHERBURNE COUNTY) | 27141C0000 | 04-MAY-2000
05 | MINNESOTA | BECKER, CITY OF(SHERBURNE COUNTY) | 27141C0220E | 04-MAY-2000
05 | MINNESOTA | BECKER, CITY OF(SHERBURNE COUNTY) | 27141C0240E | 04-MAY-2000
05 | MINNESOTA | BECKER, CITY OF(SHERBURNE COUNTY) | 27141C0310E | 04-MAY-2000
05 | MINNESOTA | BECKER, CITY OF(SHERBURNE COUNTY) | 27141C0330E | 04-MAY-2000
05 | MINNESOTA | BELLECHESTER, CITY OF (WABASHA AND GOODHUE COUNTIES) | 2707540000 | 20-JUN-2000
05 | MINNESOTA | BELLECHESTER, CITY OF (WABASHA AND GOODHUE COUNTIES) | 2707540110D** | 20-JUN-2000
05 | MINNESOTA | BIG LAKE, CITY OF (SHERBURNE COUNTY) | 27141C0000 | 04-MAY-2000
05 | MINNESOTA | BIG LAKE, CITY OF (SHERBURNE COUNTY) | 27141C0335E | 04-MAY-2000
05 | MINNESOTA | BIG LAKE, CITY OF (SHERBURNE COUNTY) | 27141C0355E** | 04-MAY-2000
05 | MINNESOTA | BROWN COUNTY | 27015C0000 | 06-JUN-2000
05 | MINNESOTA | BROWN COUNTY | 27015C0005C | 06-JUN-2000
05 | MINNESOTA | BROWN COUNTY | 27015C0010C | 06-JUN-2000
05 | MINNESOTA | BROWN COUNTY | 27015C0025C | 06-JUN-2000
05 | MINNESOTA | BROWN COUNTY | 27015C0030C | 06-JUN-2000
05 | MINNESOTA | BROWN COUNTY | 27015C0040C | 06-JUN-2000
05 | MINNESOTA | BROWN COUNTY | 27015C0045C | 06-JUN-2000
05 | MINNESOTA | BROWN COUNTY | 27015C0065C | 06-JUN-2000
05 | MINNESOTA | BROWN COUNTY | 27015C0100C** | 06-JUN-2000
05 | MINNESOTA | BROWN COUNTY | 27015C0125C | 06-JUN-2000
05 | MINNESOTA | BROWN COUNTY | 27015C0150C | 06-JUN-2000
05 | MINNESOTA | BROWN COUNTY | 27015C0175C | 06-JUN-2000
05 | MINNESOTA | BROWN COUNTY | 27015C0180C | 06-JUN-2000
05 | MINNESOTA | BROWN COUNTY | 27015C0185C | 06-JUN-2000
05 | MINNESOTA | BROWN COUNTY | 27015C0190C | 06-JUN-2000
05 | MINNESOTA | BROWN COUNTY | 27015C0195C | 06-JUN-2000
05 | MINNESOTA | BROWN COUNTY | 27015C0205C | 06-JUN-2000
05 | MINNESOTA | BROWN COUNTY | 27015C0215C | 06-JUN-2000
05 | MINNESOTA | BROWN COUNTY | 27015C0220C | 06-JUN-2000
05 | MINNESOTA | BROWN COUNTY | 27015C0250C | 06-JUN-2000
05 | MINNESOTA | BROWN COUNTY | 27015C0255C | 06-JUN-2000
05 | MINNESOTA | BROWN COUNTY | 27015C0275C | 06-JUN-2000
05 | MINNESOTA | BROWN COUNTY | 27015C0300C | 06-JUN-2000
05 | MINNESOTA | BROWN COUNTY | 27015C0325C | 06-JUN-2000
05 | MINNESOTA | BROWN COUNTY | 27015C0350C** | 06-JUN-2000
05 | MINNESOTA | BROWN COUNTY | 27015C0375C** | 06-JUN-2000
05 | MINNESOTA | BROWN COUNTY | 27015C0400C | 06-JUN-2000
05 | MINNESOTA | BROWN COUNTY | 27015C0425C** | 06-JUN-2000
05 | MINNESOTA | BROWN COUNTY | 27015C0450C | 06-JUN-2000
05 | MINNESOTA | BROWN COUNTY | 27015C0475C | 06-JUN-2000
05 | MINNESOTA | BROWN COUNTY | 27015C0500C** | 06-JUN-2000
05 | MINNESOTA | CLEAR LAKE, CITY OF (SHERBURNE CO.) | 27141C0000 | 04-MAY-2000
05 | MINNESOTA | CLEAR LAKE, CITY OF (SHERBURNE CO.) | 27141C0185E** | 04-MAY-2000
05 | MINNESOTA | CLEAR LAKE, CITY OF (SHERBURNE CO.) | 27141C0205E | 04-MAY-2000
05 | MINNESOTA | COBDEN, CITY OF (BROWN COUNTY) | 27015C0000 | 06-JUN-2000
05 | MINNESOTA | COBDEN, CITY OF (BROWN COUNTY) | 27015C0150C | 06-JUN-2000
05 | MINNESOTA | COMFREY, CITY OF | 27015C0000 | 06-JUN-2000
05 | MINNESOTA | COMFREY, CITY OF | 27015C0425C** | 06-JUN-2000
05 | MINNESOTA | ELGIN, CITY OF (WABASHA COUNTY) | 27151C0000 | 20-JUN-2000
05 | MINNESOTA | ELGIN, CITY OF (WABASHA COUNTY) | 27151C0320D | 20-JUN-2000
05 | MINNESOTA | ELGIN, CITY OF (WABASHA COUNTY) | 27151C0340D | 20-JUN-2000
05 | MINNESOTA | ELK RIVER, CITY OF (SHERBURNE COUNTY) | 27141C0000 | 04-MAY-2000
05 | MINNESOTA | ELK RIVER, CITY OF (SHERBURNE COUNTY) | 27141C0270E | 04-MAY-2000
05 | MINNESOTA | ELK RIVER, CITY OF (SHERBURNE COUNTY) | 27141C0360E | 04-MAY-2000
05 | MINNESOTA | ELK RIVER, CITY OF (SHERBURNE COUNTY) | 27141C0370E | 04-MAY-2000
05 | MINNESOTA | ELK RIVER, CITY OF (SHERBURNE COUNTY) | 27141C0380E | 04-MAY-2000
05 | MINNESOTA | ELK RIVER, CITY OF (SHERBURNE COUNTY) | 27141C0385E | 04-MAY-2000
05 | MINNESOTA | ELK RIVER, CITY OF (SHERBURNE COUNTY) | 27141C0390E | 04-MAY-2000
05 | MINNESOTA | ELK RIVER, CITY OF (SHERBURNE COUNTY) | 27141C0395E | 04-MAY-2000
05 | MINNESOTA | ELK RIVER, CITY OF (SHERBURNE COUNTY) | 27141C0410E | 04-MAY-2000
05 | MINNESOTA | EVAN, CITY OF (BROWN COUNTY) | 27015C0000 | 06-JUN-2000
05 | MINNESOTA | EVAN, CITY OF (BROWN COUNTY) | 27015C0150C | 06-JUN-2000
05 | MINNESOTA | HAMMOND, CITY OF (WABASHA COUNTY) | 27151C0000 | 20-JUN-2000
05 | MINNESOTA | HAMMOND, CITY OF (WABASHA COUNTY) | 27151C0282D | 20-JUN-2000
05 | MINNESOTA | HAMMOND, CITY OF (WABASHA COUNTY) | 27151C0301D | 20-JUN-2000
05 | MINNESOTA | HANSKA, CITY OF (BROWN COUNTY) | 27015C0000 | 06-JUN-2000
05 | MINNESOTA | HANSKA, CITY OF (BROWN COUNTY) | 27015C0375C** | 06-JUN-2000
05 | MINNESOTA | KELLOGG, CITY OF (WABASHA COUNTY) | 27151C0000 | 20-JUN-2000
05 | MINNESOTA | KELLOGG, CITY OF (WABASHA COUNTY) | 27151C225D** | 20-JUN-2000
05 | MINNESOTA | KELLOGG, CITY OF (WABASHA COUNTY) | 27151C240D | 20-JUN-2000
05 | MINNESOTA | LAKE CITY, CITY OF (WABASHA AND GOODHUE COUNTIES) | 27151C0000 | 20-JUN-2000
05 | MINNESOTA | LAKE CITY, CITY OF (WABASHA AND GOODHUE COUNTIES) | 27151C0031D | 20-JUN-2000
05 | MINNESOTA | LAKE CITY, CITY OF (WABASHA AND GOODHUE COUNTIES) | 27151C0032D** | 20-JUN-2000
05 | MINNESOTA | LAKE CITY, CITY OF (WABASHA AND GOODHUE COUNTIES) | 27151C0033D | 20-JUN-2000
05 | MINNESOTA | LAKE CITY, CITY OF (WABASHA AND GOODHUE COUNTIES) | 27151C0034D | 20-JUN-2000
05 | MINNESOTA | LAKE CITY, CITY OF (WABASHA AND GOODHUE COUNTIES) | 27151C0041D** | 20-JUN-2000
05 | MINNESOTA | LAKE CITY, CITY OF (WABASHA AND GOODHUE COUNTIES) | 27151C0042D | 20-JUN-2000
05 | MINNESOTA | LAKE CITY, CITY OF (WABASHA AND GOODHUE COUNTIES) | 27151C0065D | 20-JUN-2000
05 | MINNESOTA | MAZEPPA, CITY OF (WABASHA COUNTY) | 27151C0000 | 20-JUN-2000
05 | MINNESOTA | MAZEPPA, CITY OF (WABASHA COUNTY) | 27151C0116D | 20-JUN-2000
05 | MINNESOTA | MAZEPPA, CITY OF (WABASHA COUNTY) | 27151C0118D | 20-JUN-2000
05 | MINNESOTA | MILLVILLE, CITY OF (WABASHA COUNTY) | 27151C0000 | 20-JUN-2000
05 | MINNESOTA | MILLVILLE, CITY OF (WABASHA COUNTY) | 27151C0306D | 20-JUN-2000
05 | MINNESOTA | MINNEISKA, CITY OF (WABASHA AND WINONA COUNTIES) | 27151C0000 | 20-JUN-2000
05 | MINNESOTA | MINNEISKA, CITY OF (WABASHA AND WINONA COUNTIES) | 27151C0385D | 20-JUN-2000
05 | MINNESOTA | MINNEISKA, CITY OF (WABASHA AND WINONA COUNTIES) | 27151C0405D | 20-JUN-2000
05 | MINNESOTA | MINNEOTA, CITY OF | 2702590001B | 06-APR-2000
05 | MINNESOTA | NEW ULM, CITY OF (BROWN COUNTY) | 27015C0000 | 06-JUN-2000
05 | MINNESOTA | NEW ULM, CITY OF (BROWN COUNTY) | 27015C0185C | 06-JUN-2000
05 | MINNESOTA | NEW ULM, CITY OF (BROWN COUNTY) | 27015C0205C | 06-JUN-2000
05 | MINNESOTA | NEW ULM, CITY OF (BROWN COUNTY) | 27015C0215C | 06-JUN-2000
05 | MINNESOTA | NEW ULM, CITY OF (BROWN COUNTY) | 27015C0220C | 06-JUN-2000
05 | MINNESOTA | PLAINVIEW, CITY OF (WABASHA COUNTY) | 27151C0000 | 20-JUN-2000
05 | MINNESOTA | PLAINVIEW, CITY OF (WABASHA COUNTY) | 27151C0340D** | 20-JUN-2000
05 | MINNESOTA | PLAINVIEW, CITY OF (WABASHA COUNTY) | 27151C0350D** | 20-JUN-2000
05 | MINNESOTA | SHERBURNE COUNTY * | 27141C0000 | 04-MAY-2000
05 | MINNESOTA | SHERBURNE COUNTY * | 27141C0005E | 04-MAY-2000
05 | MINNESOTA | SHERBURNE COUNTY * | 27141C0020E | 04-MAY-2000
05 | MINNESOTA | SHERBURNE COUNTY * | 27141C0045E | 04-MAY-2000
05 | MINNESOTA | SHERBURNE COUNTY * | 27141C0065E | 04-MAY-2000
05 | MINNESOTA | SHERBURNE COUNTY * | 27141C0070E | 04-MAY-2000
05 | MINNESOTA | SHERBURNE COUNTY * | 27141C0100E | 04-MAY-2000
05 | MINNESOTA | SHERBURNE COUNTY * | 27141C0125E | 04-MAY-2000
05 | MINNESOTA | SHERBURNE COUNTY * | 27141C0150E | 04-MAY-2000
05 | MINNESOTA | SHERBURNE COUNTY * | 27141C0160E | 04-MAY-2000
05 | MINNESOTA | SHERBURNE COUNTY * | 27141C0180E | 04-MAY-2000
05 | MINNESOTA | SHERBURNE COUNTY * | 27141C0185E | 04-MAY-2000
05 | MINNESOTA | SHERBURNE COUNTY * | 27141C0195E | 04-MAY-2000
05 | MINNESOTA | SHERBURNE COUNTY * | 27141C0210E | 04-MAY-2000
05 | MINNESOTA | SHERBURNE COUNTY * | 27141C0215E | 04-MAY-2000
05 | MINNESOTA | SHERBURNE COUNTY * | 27141C0220E | 04-MAY-2000
05 | MINNESOTA | SHERBURNE COUNTY * | 27141C0240E | 04-MAY-2000
05 | MINNESOTA | SHERBURNE COUNTY * | 27141C0245E | 04-MAY-2000
05 | MINNESOTA | SHERBURNE COUNTY * | 27141C0265E | 04-MAY-2000
05 | MINNESOTA | SHERBURNE COUNTY * | 27141C0270E | 04-MAY-2000
05 | MINNESOTA | SHERBURNE COUNTY * | 27141C0275E | 04-MAY-2000
05 | MINNESOTA | SHERBURNE COUNTY * | 27141C0310E | 04-MAY-2000
05 | MINNESOTA | SHERBURNE COUNTY * | 27141C0330E | 04-MAY-2000
05 | MINNESOTA | SHERBURNE COUNTY * | 27141C0335E | 04-MAY-2000
05 | MINNESOTA | SHERBURNE COUNTY * | 27141C0345E | 04-MAY-2000
05 | MINNESOTA | SHERBURNE COUNTY * | 27141C0355E | 04-MAY-2000
05 | MINNESOTA | SHERBURNE COUNTY * | 27141C0360E | 04-MAY-2000
05 | MINNESOTA | SHERBURNE COUNTY * | 27141C0365E | 04-MAY-2000
05 | MINNESOTA | SHERBURNE COUNTY * | 27141C0370E | 04-MAY-2000
05 | MINNESOTA | SHERBURNE COUNTY * | 27141C0380E | 04-MAY-2000
05 | MINNESOTA | SHERBURNE COUNTY * | 27141C0385E | 04-MAY-2000
05 | MINNESOTA | SHERBURNE COUNTY * | 27141C0390E | 04-MAY-2000
05 | MINNESOTA | SHERBURNE COUNTY * | 27141C0395E | 04-MAY-2000
05 | MINNESOTA | SHERBURNE COUNTY * | 27141C0410E | 04-MAY-2000
05 | MINNESOTA | SLEEPY EYE, CITY OF (BROWN COUNTY) | 270150175C | 06-JUN-2000
05 | MINNESOTA | SLEEPY EYE, CITY OF (BROWN COUNTY) | 27015C0000 | 06-JUN-2000
05 | MINNESOTA | SPRINGFIELD, CITY OF (BROWN COUNTY) | 27015C0000 | 06-JUN-2000
05 | MINNESOTA | SPRINGFIELD, CITY OF (BROWN COUNTY) | 27015C0255C | 06-JUN-2000
05 | MINNESOTA | WABASHA COUNTY | 27151C0000 | 20-JUN-2000
05 | MINNESOTA | WABASHA COUNTY | 27151C0029D** | 20-JUN-2000
05 | MINNESOTA | WABASHA COUNTY | 27151C0031D | 20-JUN-2000
05 | MINNESOTA | WABASHA COUNTY | 27151C0032D | 20-JUN-2000
05 | MINNESOTA | WABASHA COUNTY | 27151C0033D | 20-JUN-2000
05 | MINNESOTA | WABASHA COUNTY | 27151C0034D | 20-JUN-2000
05 | MINNESOTA | WABASHA COUNTY | 27151C0041D** | 20-JUN-2000
05 | MINNESOTA | WABASHA COUNTY | 27151C0042D | 20-JUN-2000
05 | MINNESOTA | WABASHA COUNTY | 27151C0065D | 20-JUN-2000
05 | MINNESOTA | WABASHA COUNTY | 27151C0070D | 20-JUN-2000
05 | MINNESOTA | WABASHA COUNTY | 27151C0090D | 20-JUN-2000
05 | MINNESOTA | WABASHA COUNTY | 27151C0110D** | 20-JUN-2000
05 | MINNESOTA | WABASHA COUNTY | 27151C0116D | 20-JUN-2000
05 | MINNESOTA | WABASHA COUNTY | 27151C0117D** | 20-JUN-2000
05 | MINNESOTA | WABASHA COUNTY | 27151C0118D | 20-JUN-2000
05 | MINNESOTA | WABASHA COUNTY | 27151C0119D | 20-JUN-2000
05 | MINNESOTA | WABASHA COUNTY | 27151C0140D | 20-JUN-2000
05 | MINNESOTA | WABASHA COUNTY | 27151C0141D | 20-JUN-2000
05 | MINNESOTA | WABASHA COUNTY | 27151C0145D | 20-JUN-2000
05 | MINNESOTA | WABASHA COUNTY | 27151C0155D** | 20-JUN-2000
05 | MINNESOTA | WABASHA COUNTY | 27151C0160D** | 20-JUN-2000
05 | MINNESOTA | WABASHA COUNTY | 27151C0165D** | 20-JUN-2000
05 | MINNESOTA | WABASHA COUNTY | 27151C0170D | 20-JUN-2000
05 | MINNESOTA | WABASHA COUNTY | 27151C0200D | 20-JUN-2000
05 | MINNESOTA | WABASHA COUNTY | 27151C0210D | 20-JUN-2000
05 | MINNESOTA | WABASHA COUNTY | 27151C0225D** | 20-JUN-2000
05 | MINNESOTA | WABASHA COUNTY | 27151C0230D | 20-JUN-2000
05 | MINNESOTA | WABASHA COUNTY | 27151C0235D** | 20-JUN-2000
05 | MINNESOTA | WABASHA COUNTY | 27151C0240D | 20-JUN-2000
05 | MINNESOTA | WABASHA COUNTY | 27151C0245D | 20-JUN-2000
05 | MINNESOTA | WABASHA COUNTY | 27151C0260D** | 20-JUN-2000
05 | MINNESOTA | WABASHA COUNTY | 27151C0280D | 20-JUN-2000
05 | MINNESOTA | WABASHA COUNTY | 27151C0282D | 20-JUN-2000
05 | MINNESOTA | WABASHA COUNTY | 27151C0301D | 20-JUN-2000
05 | MINNESOTA | WABASHA COUNTY | 27151C0305D | 20-JUN-2000
05 | MINNESOTA | WABASHA COUNTY | 27151C0306D | 20-JUN-2000
05 | MINNESOTA | WABASHA COUNTY | 27151C0310D** | 20-JUN-2000
05 | MINNESOTA | WABASHA COUNTY | 27151C0315D** | 20-JUN-2000
05 | MINNESOTA | WABASHA COUNTY | 27151C0320D | 20-JUN-2000
05 | MINNESOTA | WABASHA COUNTY | 27151C0340D** | 20-JUN-2000
05 | MINNESOTA | WABASHA COUNTY | 27151C0350D** | 20-JUN-2000
05 | MINNESOTA | WABASHA COUNTY | 27151C0375D** | 20-JUN-2000
05 | MINNESOTA | WABASHA COUNTY | 27151C0380D | 20-JUN-2000
05 | MINNESOTA | WABASHA COUNTY | 27151C0385D | 20-JUN-2000
05 | MINNESOTA | WABASHA COUNTY | 27151C0405D | 20-JUN-2000
05 | MINNESOTA | WABASHA COUNTY | 27151C0435D** | 20-JUN-2000
05 | MINNESOTA | WABASHA COUNTY | 27151C0475D** | 20-JUN-2000
05 | MINNESOTA | WABASHA, CITY OF (WABASHA COUNTY) | 27151C0000 | 20-JUN-2000
05 | MINNESOTA | WABASHA, CITY OF (WABASHA COUNTY) | 27151C0090D | 20-JUN-2000
05 | MINNESOTA | WABASHA, CITY OF (WABASHA COUNTY) | 27151C0095D | 20-JUN-2000
05 | MINNESOTA | WABASHA, CITY OF (WABASHA COUNTY) | 27151C0210D | 20-JUN-2000
05 | MINNESOTA | WABASHA, CITY OF (WABASHA COUNTY) | 27151C0225D** | 20-JUN-2000
05 | MINNESOTA | WABASHA, CITY OF (WABASHA COUNTY) | 27151C0230D | 20-JUN-2000
05 | MINNESOTA | ZIMMERMAN, CITY OF (SHERBURNE COUNTY) | 27141C0000 | 04-MAY-2000
05 | MINNESOTA | ZUMBRO FALLS, CITY OF (WABASHA COUNTY) | 27151C0000 | 20-JUN-2000
05 | MINNESOTA | ZUMBRO FALLS, CITY OF (WABASHA COUNTY) | 27151C0141D | 20-JUN-2000
05 | OHIO | WAYNE LAKES, VILLAGE OF (DARKE COUNTY0 | 3909040001D | 20-JUN-2000
05 | WISCONSIN | CRAWFORD COUNTY | 5555510000 | 18-MAY-2000
05 | WISCONSIN | CRAWFORD COUNTY | 5555510025D | 18-MAY-2000
05 | WISCONSIN | CRAWFORD COUNTY | 5555510035D | 18-MAY-2000
05 | WISCONSIN | CRAWFORD COUNTY | 5555510100D | 18-MAY-2000
05 | WISCONSIN | CRAWFORD COUNTY | 5555510175D | 18-MAY-2000
05 | WISCONSIN | CRAWFORD COUNTY | 5555510180D | 18-MAY-2000
05 | WISCONSIN | CRAWFORD COUNTY | 5555510185D | 18-MAY-2000
05 | WISCONSIN | CRAWFORD COUNTY | 5555510190D | 18-MAY-2000
05 | WISCONSIN | CRAWFORD COUNTY | 5555510195D | 18-MAY-2000
05 | WISCONSIN | CRAWFORD COUNTY | 5555510205D | 18-MAY-2000
05 | WISCONSIN | CRAWFORD COUNTY | 5555510250D | 18-MAY-2000
05 | WISCONSIN | CRAWFORD COUNTY | 5555510255D | 18-MAY-2000
05 | WISCONSIN | FOND DU LAC COUNTY | 5501310000 | 06-JUN-2000
05 | WISCONSIN | FOND DU LAC COUNTY | 5501310130C | 06-JUN-2000
05 | WISCONSIN | FOND DU LAC COUNTY | 5501310135D | 06-JUN-2000
05 | WISCONSIN | FOND DU LAC COUNTY | 5501310155D | 06-JUN-2000
05 | WISCONSIN | FOND DU LAC COUNTY | 5501310170C | 06-JUN-2000
06 | AR | ADONA, CITY OF | 05105CIND0 ** | 20-JUN-2000
06 | AR | BIGELOW, TOWN OF | 05105CIND0 ** | 20-JUN-2000
06 | AR | CASA, CITY OF | 05105CIND0 ** | 20-JUN-2000
06 | AR | FOURCHE, CITY OF | 05105CIND0 ** | 20-JUN-2000
06 | AR | HOUSTON, TOWN OF | 05105CIND0 ** | 20-JUN-2000
06 | AR | PERRY COUNTY | 05105C0039C | 20-JUN-2000
06 | AR | PERRY COUNTY | 05105C0050C | 20-JUN-2000
06 | AR | PERRY COUNTY | 05105C0127C | 20-JUN-2000
06 | AR | PERRY COUNTY | 05105CIND0 ** | 20-JUN-2000
06 | AR | PERRY, TOWN OF | 05105C0127C | 20-JUN-2000
06 | AR | PERRY, TOWN OF | 05105CIND0 ** | 20-JUN-2000
06 | AR | PERRYVILLE, CITY OF | 05105C0127C | 20-JUN-2000
06 | AR | PERRYVILLE, CITY OF | 05105CIND0 ** | 20-JUN-2000
06 | AR | WEST MEMPHIS, CITY OF | 0500550008D** | 04-MAY-2000
06 | AR | WEST MEMPHIS, CITY OF | 0500550009D** | 04-MAY-2000
06 | AR | WEST MEMPHIS, CITY OF | 0500550012D** | 04-MAY-2000
06 | AR | WEST MEMPHIS, CITY OF | 0500550014D** | 04-MAY-2000
06 | AR | WEST MEMPHIS, CITY OF | 0500550016D** | 04-MAY-2000
06 | AR | WEST MEMPHIS, CITY OF | 0500550017D** | 04-MAY-2000
06 | AR | WEST MEMPHIS, CITY OF | 0500550018D** | 04-MAY-2000
06 | AR | WEST MEMPHIS, CITY OF | 0500550019D** | 04-MAY-2000
06 | AR | WEST MEMPHIS, CITY OF | 050055IND0 ** | 04-MAY-2000
06 | AR | WHITE COUNTY * | 0504670001B*** | 01-MAR-2000
06 | AR | WHITE COUNTY * | 0504670002B*** | 01-MAR-2000
06 | AR | WHITE COUNTY * | 0504670003B*** | 01-MAR-2000
06 | AR | WHITE COUNTY * | 0504670004B*** | 01-MAR-2000
06 | AR | WHITE COUNTY * | 0504670005B*** | 01-MAR-2000
06 | AR | WHITE COUNTY * | 0504670006B*** | 01-MAR-2000
06 | AR | WHITE COUNTY * | 0504670007B*** | 01-MAR-2000
06 | AR | WHITE COUNTY * | 0504670008B*** | 01-MAR-2000
06 | AR | WHITE COUNTY * | 0504670009B*** | 01-MAR-2000
06 | AR | WHITE COUNTY * | 0504670010B*** | 01-MAR-2000
06 | AR | WHITE COUNTY * | 0504670011B*** | 01-MAR-2000
06 | AR | WHITE COUNTY * | 0504670012B*** | 01-MAR-2000
06 | AR | WHITE COUNTY * | 0504670013B*** | 01-MAR-2000
06 | AR | WHITE COUNTY * | 0504670014B*** | 01-MAR-2000
06 | AR | WHITE COUNTY * | 0504670015B*** | 01-MAR-2000
06 | AR | WHITE COUNTY * | 0504679999B*** | 01-MAR-2000
06 | AR | WHITE COUNTY * | 050467IND0 *** | 01-MAR-2000
06 | LA | BELCHER, VILLAGE OF | 22017C0214F | 06-APR-2000
06 | LA | BELCHER, VILLAGE OF | 22017C0225F | 06-APR-2000
06 | LA | BELCHER, VILLAGE OF | 22017C0276F | 06-APR-2000
06 | LA | BELCHER, VILLAGE OF | 22017C0277F | 06-APR-2000
06 | LA | BELCHER, VILLAGE OF | 22017CIND0 ** | 06-APR-2000
06 | LA | BLANCHARD, VILLAGE OF | 22017C0335F | 06-APR-2000
06 | LA | BLANCHARD, VILLAGE OF | 22017C0355F | 06-APR-2000
06 | LA | BLANCHARD, VILLAGE OF | 22017CIND0 ** | 06-APR-2000
06 | LA | CADDO PARISH* | 22017C0025F | 06-APR-2000
06 | LA | CADDO PARISH* | 22017C0050F | 06-APR-2000
06 | LA | CADDO PARISH* | 22017C0075F | 06-APR-2000
06 | LA | CADDO PARISH* | 22017C0100F | 06-APR-2000
06 | LA | CADDO PARISH* | 22017C0125F | 06-APR-2000
06 | LA | CADDO PARISH* | 22017C0150F | 06-APR-2000
06 | LA | CADDO PARISH* | 22017C0175F | 06-APR-2000
06 | LA | CADDO PARISH* | 22017C0190F | 06-APR-2000
06 | LA | CADDO PARISH* | 22017C0200F | 06-APR-2000
06 | LA | CADDO PARISH* | 22017C0214F | 06-APR-2000
06 | LA | CADDO PARISH* | 22017C0225F | 06-APR-2000
06 | LA | CADDO PARISH* | 22017C0250F | 06-APR-2000
06 | LA | CADDO PARISH* | 22017C0255F | 06-APR-2000
06 | LA | CADDO PARISH* | 22017C0270F | 06-APR-2000
06 | LA | CADDO PARISH* | 22017C0275F | 06-APR-2000
06 | LA | CADDO PARISH* | 22017C0276F | 06-APR-2000
06 | LA | CADDO PARISH* | 22017C0277F | 06-APR-2000
06 | LA | CADDO PARISH* | 22017C0300F | 06-APR-2000
06 | LA | CADDO PARISH* | 22017C0325F | 06-APR-2000
06 | LA | CADDO PARISH* | 22017C0335F | 06-APR-2000
06 | LA | CADDO PARISH* | 22017C0339F | 06-APR-2000
06 | LA | CADDO PARISH* | 22017C0341F | 06-APR-2000
06 | LA | CADDO PARISH* | 22017C0342F | 06-APR-2000
06 | LA | CADDO PARISH* | 22017C0343F | 06-APR-2000
06 | LA | CADDO PARISH* | 22017C0344F | 06-APR-2000
06 | LA | CADDO PARISH* | 22017C0350F | 06-APR-2000
06 | LA | CADDO PARISH* | 22017C0355F | 06-APR-2000
06 | LA | CADDO PARISH* | 22017C0358F | 06-APR-2000
06 | LA | CADDO PARISH* | 22017C0359F | 06-APR-2000
06 | LA | CADDO PARISH* | 22017C0360F | 06-APR-2000
06 | LA | CADDO PARISH* | 22017C0361F | 06-APR-2000
06 | LA | CADDO PARISH* | 22017C0362F | 06-APR-2000
06 | LA | CADDO PARISH* | 22017C0363F | 06-APR-2000
06 | LA | CADDO PARISH* | 22017C0364F | 06-APR-2000
06 | LA | CADDO PARISH* | 22017C0366F | 06-APR-2000
06 | LA | CADDO PARISH* | 22017C0367F | 06-APR-2000
06 | LA | CADDO PARISH* | 22017C0368F | 06-APR-2000
06 | LA | CADDO PARISH* | 22017C0369F | 06-APR-2000
06 | LA | CADDO PARISH* | 22017C0380F | 06-APR-2000
06 | LA | CADDO PARISH* | 22017C0386F | 06-APR-2000
06 | LA | CADDO PARISH* | 22017C0388F | 06-APR-2000
06 | LA | CADDO PARISH* | 22017C0389F | 06-APR-2000
06 | LA | CADDO PARISH* | 22017C0410F | 06-APR-2000
06 | LA | CADDO PARISH* | 22017C0420F | 06-APR-2000
06 | LA | CADDO PARISH* | 22017C0430F | 06-APR-2000
06 | LA | CADDO PARISH* | 22017C0432F | 06-APR-2000
06 | LA | CADDO PARISH* | 22017C0434F | 06-APR-2000
06 | LA | CADDO PARISH* | 22017C0435F | 06-APR-2000
06 | LA | CADDO PARISH* | 22017C0440F | 06-APR-2000
06 | LA | CADDO PARISH* | 22017C0442F | 06-APR-2000
06 | LA | CADDO PARISH* | 22017C0444F | 06-APR-2000
06 | LA | CADDO PARISH* | 22017C0445F | 06-APR-2000
06 | LA | CADDO PARISH* | 22017C0451F | 06-APR-2000
06 | LA | CADDO PARISH* | 22017C0452F | 06-APR-2000
06 | LA | CADDO PARISH* | 22017C0453F | 06-APR-2000
06 | LA | CADDO PARISH* | 22017C0454F | 06-APR-2000
06 | LA | CADDO PARISH* | 22017C0456F | 06-APR-2000
06 | LA | CADDO PARISH* | 22017C0457F | 06-APR-2000
06 | LA | CADDO PARISH* | 22017C0458F | 06-APR-2000
06 | LA | CADDO PARISH* | 22017C0459F | 06-APR-2000
06 | LA | CADDO PARISH* | 22017C0461F | 06-APR-2000
06 | LA | CADDO PARISH* | 22017C0462F | 06-APR-2000
06 | LA | CADDO PARISH* | 22017C0463F | 06-APR-2000
06 | LA | CADDO PARISH* | 22017C0464F | 06-APR-2000
06 | LA | CADDO PARISH* | 22017C0466F | 06-APR-2000
06 | LA | CADDO PARISH* | 22017C0467F | 06-APR-2000
06 | LA | CADDO PARISH* | 22017C0468F | 06-APR-2000
06 | LA | CADDO PARISH* | 22017C0469F | 06-APR-2000
06 | LA | CADDO PARISH* | 22017C0476F | 06-APR-2000
06 | LA | CADDO PARISH* | 22017C0477F | 06-APR-2000
06 | LA | CADDO PARISH* | 22017C0478F | 06-APR-2000
06 | LA | CADDO PARISH* | 22017C0479F | 06-APR-2000
06 | LA | CADDO PARISH* | 22017C0485F | 06-APR-2000
06 | LA | CADDO PARISH* | 22017C0486F | 06-APR-2000
06 | LA | CADDO PARISH* | 22017C0487F | 06-APR-2000
06 | LA | CADDO PARISH* | 22017C0488F | 06-APR-2000
06 | LA | CADDO PARISH* | 22017C0489F | 06-APR-2000
06 | LA | CADDO PARISH* | 22017C0495F | 06-APR-2000
06 | LA | CADDO PARISH* | 22017C0525F | 06-APR-2000
06 | LA | CADDO PARISH* | 22017C0535F | 06-APR-2000
06 | LA | CADDO PARISH* | 22017C0545F | 06-APR-2000
06 | LA | CADDO PARISH* | 22017C0555F | 06-APR-2000
06 | LA | CADDO PARISH* | 22017C0560F | 06-APR-2000
06 | LA | CADDO PARISH* | 22017C0565F | 06-APR-2000
06 | LA | CADDO PARISH* | 22017C0570F | 06-APR-2000
06 | LA | CADDO PARISH* | 22017C0580F | 06-APR-2000
06 | LA | CADDO PARISH* | 22017C0585F | 06-APR-2000
06 | LA | CADDO PARISH* | 22017C0590F | 06-APR-2000
06 | LA | CADDO PARISH* | 22017C0595F | 06-APR-2000
06 | LA | CADDO PARISH* | 22017C0605F | 06-APR-2000
06 | LA | CADDO PARISH* | 22017C0610F | 06-APR-2000
06 | LA | CADDO PARISH* | 22017C0625F | 06-APR-2000
06 | LA | CADDO PARISH* | 22017C0650F | 06-APR-2000
06 | LA | CADDO PARISH* | 22017C0675F | 06-APR-2000
06 | LA | CADDO PARISH* | 22017C0700F | 06-APR-2000
06 | LA | CADDO PARISH* | 22017C0725F | 06-APR-2000
06 | LA | CADDO PARISH* | 22017C0750F | 06-APR-2000
06 | LA | CADDO PARISH* | 22017C0775F | 06-APR-2000
06 | LA | CADDO PARISH* | 22017C0800F | 06-APR-2000
06 | LA | CADDO PARISH* | 22017CIND0 ** | 06-APR-2000
06 | LA | CATAHOULA PARISH* | 2200470175D | 04-MAY-2000
06 | LA | CATAHOULA PARISH* | 2200470200D | 04-MAY-2000
06 | LA | CATAHOULA PARISH* | 2200470225D | 04-MAY-2000
06 | LA | CATAHOULA PARISH* | 2200470250D | 04-MAY-2000
06 | LA | CATAHOULA PARISH* | 2200470275D | 04-MAY-2000
06 | LA | CATAHOULA PARISH* | 2200470300D | 04-MAY-2000
06 | LA | CATAHOULA PARISH* | 220047IND0 ** | 04-MAY-2000
06 | LA | GREENWOOD, TOWN OF | 22017C0410F | 06-APR-2000
06 | LA | GREENWOOD, TOWN OF | 22017C0430F | 06-APR-2000
06 | LA | GREENWOOD, TOWN OF | 22017C0435F | 06-APR-2000
06 | LA | GREENWOOD, TOWN OF | 22017C0440F | 06-APR-2000
06 | LA | GREENWOOD, TOWN OF | 22017C0445F | 06-APR-2000
06 | LA | GREENWOOD, TOWN OF | 22017CIND0 ** | 06-APR-2000
06 | LA | MOORINGSPORT, TOWN OF | 22017C0255F | 06-APR-2000
06 | LA | MOORINGSPORT, TOWN OF | 22017C0275F | 06-APR-2000
06 | LA | MOORINGSPORT, TOWN OF | 22017CIND0 ** | 06-APR-2000
06 | LA | OIL CITY, TOWN OF | 22017C0190F | 06-APR-2000
06 | LA | OIL CITY, TOWN OF | 22017C0255F | 06-APR-2000
06 | LA | OIL CITY, TOWN OF | 22017CIND0 ** | 06-APR-2000
06 | LA | SHREVEPORT, CITY OF | 22017C0339F | 06-APR-2000
06 | LA | SHREVEPORT, CITY OF | 22017C0341F | 06-APR-2000
06 | LA | SHREVEPORT, CITY OF | 22017C0342F | 06-APR-2000
06 | LA | SHREVEPORT, CITY OF | 22017C0343F | 06-APR-2000
06 | LA | SHREVEPORT, CITY OF | 22017C0344F | 06-APR-2000
06 | LA | SHREVEPORT, CITY OF | 22017C0358F | 06-APR-2000
06 | LA | SHREVEPORT, CITY OF | 22017C0359F | 06-APR-2000
06 | LA | SHREVEPORT, CITY OF | 22017C0361F | 06-APR-2000
06 | LA | SHREVEPORT, CITY OF | 22017C0362F | 06-APR-2000
06 | LA | SHREVEPORT, CITY OF | 22017C0363F | 06-APR-2000
06 | LA | SHREVEPORT, CITY OF | 22017C0364F | 06-APR-2000
06 | LA | SHREVEPORT, CITY OF | 22017C0366F | 06-APR-2000
06 | LA | SHREVEPORT, CITY OF | 22017C0367F | 06-APR-2000
06 | LA | SHREVEPORT, CITY OF | 22017C0368F | 06-APR-2000
06 | LA | SHREVEPORT, CITY OF | 22017C0369F | 06-APR-2000
06 | LA | SHREVEPORT, CITY OF | 22017C0386F | 06-APR-2000
06 | LA | SHREVEPORT, CITY OF | 22017C0388F | 06-APR-2000
06 | LA | SHREVEPORT, CITY OF | 22017C0389F | 06-APR-2000
06 | LA | SHREVEPORT, CITY OF | 22017C0430F | 06-APR-2000
06 | LA | SHREVEPORT, CITY OF | 22017C0432F | 06-APR-2000
06 | LA | SHREVEPORT, CITY OF | 22017C0434F | 06-APR-2000
06 | LA | SHREVEPORT, CITY OF | 22017C0435F | 06-APR-2000
06 | LA | SHREVEPORT, CITY OF | 22017C0442F | 06-APR-2000
06 | LA | SHREVEPORT, CITY OF | 22017C0444F | 06-APR-2000
06 | LA | SHREVEPORT, CITY OF | 22017C0445F | 06-APR-2000
06 | LA | SHREVEPORT, CITY OF | 22017C0451F | 06-APR-2000
06 | LA | SHREVEPORT, CITY OF | 22017C0452F | 06-APR-2000
06 | LA | SHREVEPORT, CITY OF | 22017C0453F | 06-APR-2000
06 | LA | SHREVEPORT, CITY OF | 22017C0454F | 06-APR-2000
06 | LA | SHREVEPORT, CITY OF | 22017C0456F | 06-APR-2000
06 | LA | SHREVEPORT, CITY OF | 22017C0457F | 06-APR-2000
06 | LA | SHREVEPORT, CITY OF | 22017C0458F | 06-APR-2000
06 | LA | SHREVEPORT, CITY OF | 22017C0459F | 06-APR-2000
06 | LA | SHREVEPORT, CITY OF | 22017C0461F | 06-APR-2000
06 | LA | SHREVEPORT, CITY OF | 22017C0462F | 06-APR-2000
06 | LA | SHREVEPORT, CITY OF | 22017C0463F | 06-APR-2000
06 | LA | SHREVEPORT, CITY OF | 22017C0464F | 06-APR-2000
06 | LA | SHREVEPORT, CITY OF | 22017C0466F | 06-APR-2000
06 | LA | SHREVEPORT, CITY OF | 22017C0467F | 06-APR-2000
06 | LA | SHREVEPORT, CITY OF | 22017C0468F | 06-APR-2000
06 | LA | SHREVEPORT, CITY OF | 22017C0469F | 06-APR-2000
06 | LA | SHREVEPORT, CITY OF | 22017C0476F | 06-APR-2000
06 | LA | SHREVEPORT, CITY OF | 22017C0477F | 06-APR-2000
06 | LA | SHREVEPORT, CITY OF | 22017C0478F | 06-APR-2000
06 | LA | SHREVEPORT, CITY OF | 22017C0479F | 06-APR-2000
06 | LA | SHREVEPORT, CITY OF | 22017C0485F | 06-APR-2000
06 | LA | SHREVEPORT, CITY OF | 22017C0486F | 06-APR-2000
06 | LA | SHREVEPORT, CITY OF | 22017C0487F | 06-APR-2000
06 | LA | SHREVEPORT, CITY OF | 22017C0488F | 06-APR-2000
06 | LA | SHREVEPORT, CITY OF | 22017C0489F | 06-APR-2000
06 | LA | SHREVEPORT, CITY OF | 22017C0495F | 06-APR-2000
06 | LA | SHREVEPORT, CITY OF | 22017C0605F | 06-APR-2000
06 | LA | SHREVEPORT, CITY OF | 22017CIND0 ** | 06-APR-2000
06 | NM | BOSQUE FARMS, CITY OF | 3501420001B | 09-FEB-2000
06 | NM | BOSQUE FARMS, CITY OF | 3501420002B | 09-FEB-2000
06 | NM | BOSQUE FARMS, CITY OF | 350142IND0 ** | 09-FEB-2000
06 | NM | LOS LUNAS, VILLAGE OF | 3501440005A | 06-APR-2000
06 | NM | VALENCIA COUNTY * | 3500860070D | 09-FEB-2000
06 | NM | VALENCIA COUNTY * | 3500860100D | 09-FEB-2000
06 | NM | VALENCIA COUNTY * | 3500860185D | 09-FEB-2000
06 | NM | VALENCIA COUNTY * | 3500860195D | 09-FEB-2000
06 | NM | VALENCIA COUNTY * | 3500860200D | 09-FEB-2000
06 | NM | VALENCIA COUNTY * | 3500860225D | 09-FEB-2000
06 | NM | VALENCIA COUNTY * | 3500860300D | 09-FEB-2000
06 | NM | VALENCIA COUNTY * | 350086IND0 ** | 09-FEB-2000
06 | OK | CALUMET, TOWN OF | 40017C0120D | 19-JAN-2000
06 | OK | CALUMET, TOWN OF | 40017C0250D | 19-JAN-2000
06 | OK | CALUMET, TOWN OF | 40017C0255D | 19-JAN-2000
06 | OK | CALUMET, TOWN OF | 40017C0260D | 19-JAN-2000
06 | OK | CALUMET, TOWN OF | 40017C0265D | 19-JAN-2000
06 | OK | CALUMET, TOWN OF | 40017C0270D | 19-JAN-2000
06 | OK | CALUMET, TOWN OF | 40017CIND0 ** | 19-JAN-2000
06 | OK | CANADIAN COUNTY* | 40017C0075D | 19-JAN-2000
06 | OK | CANADIAN COUNTY* | 40017C0100D | 19-JAN-2000
06 | OK | CANADIAN COUNTY* | 40017C0120D | 19-JAN-2000
06 | OK | CANADIAN COUNTY* | 40017C0125D | 19-JAN-2000
06 | OK | CANADIAN COUNTY* | 40017C0150D | 19-JAN-2000
06 | OK | CANADIAN COUNTY* | 40017C0160D | 19-JAN-2000
06 | OK | CANADIAN COUNTY* | 40017C0170D | 19-JAN-2000
06 | OK | CANADIAN COUNTY* | 40017C0175D | 19-JAN-2000
06 | OK | CANADIAN COUNTY* | 40017C0180D | 19-JAN-2000
06 | OK | CANADIAN COUNTY* | 40017C0185D | 19-JAN-2000
06 | OK | CANADIAN COUNTY* | 40017C0190D | 19-JAN-2000
06 | OK | CANADIAN COUNTY* | 40017C0195D | 19-JAN-2000
06 | OK | CANADIAN COUNTY* | 40017C0225D | 19-JAN-2000
06 | OK | CANADIAN COUNTY* | 40017C0250D | 19-JAN-2000
06 | OK | CANADIAN COUNTY* | 40017C0255D | 19-JAN-2000
06 | OK | CANADIAN COUNTY* | 40017C0260D | 19-JAN-2000
06 | OK | CANADIAN COUNTY* | 40017C0265D | 19-JAN-2000
06 | OK | CANADIAN COUNTY* | 40017C0270D | 19-JAN-2000
06 | OK | CANADIAN COUNTY* | 40017C0280D | 19-JAN-2000
06 | OK | CANADIAN COUNTY* | 40017C0285D | 19-JAN-2000
06 | OK | CANADIAN COUNTY* | 40017C0290D | 19-JAN-2000
06 | OK | CANADIAN COUNTY* | 40017C0295D | 19-JAN-2000
06 | OK | CANADIAN COUNTY* | 40017C0315D | 19-JAN-2000
06 | OK | CANADIAN COUNTY* | 40017C0320D | 19-JAN-2000
06 | OK | CANADIAN COUNTY* | 40017C0325D | 19-JAN-2000
06 | OK | CANADIAN COUNTY* | 40017C0340D | 19-JAN-2000
06 | OK | CANADIAN COUNTY* | 40017C0375D | 19-JAN-2000
06 | OK | CANADIAN COUNTY* | 40017C0400D | 19-JAN-2000
06 | OK | CANADIAN COUNTY* | 40017C0410D | 19-JAN-2000
06 | OK | CANADIAN COUNTY* | 40017C0420D | 19-JAN-2000
06 | OK | CANADIAN COUNTY* | 40017C0425D | 19-JAN-2000
06 | OK | CANADIAN COUNTY* | 40017C0430D | 19-JAN-2000
06 | OK | CANADIAN COUNTY* | 40017C0435D | 19-JAN-2000
06 | OK | CANADIAN COUNTY* | 40017C0440D | 19-JAN-2000
06 | OK | CANADIAN COUNTY* | 40017C0445D | 19-JAN-2000
06 | OK | CANADIAN COUNTY* | 40017C0455D | 19-JAN-2000
06 | OK | CANADIAN COUNTY* | 40017C0460D | 19-JAN-2000
06 | OK | CANADIAN COUNTY* | 40017C0465D | 19-JAN-2000
06 | OK | CANADIAN COUNTY* | 40017C0470D | 19-JAN-2000
06 | OK | CANADIAN COUNTY* | 40017C0480D | 19-JAN-2000
06 | OK | CANADIAN COUNTY* | 40017C0490D | 19-JAN-2000
06 | OK | CANADIAN COUNTY* | 40017C0495D | 19-JAN-2000
06 | OK | CANADIAN COUNTY* | 40017C0535D | 19-JAN-2000
06 | OK | CANADIAN COUNTY* | 40017C0555D | 19-JAN-2000
06 | OK | CANADIAN COUNTY* | 40017CIND0 ** | 19-JAN-2000
06 | OK | EL RENO, CITY OF | 40017C0120D | 19-JAN-2000
06 | OK | EL RENO, CITY OF | 40017CIND0 ** | 19-JAN-2000
06 | OK | FAIRLAND, TOWN OF | 40017C0150D | 19-JAN-2000
06 | OK | FAIRLAND, TOWN OF | 40017C0175D | 19-JAN-2000
06 | OK | FAIRLAND, TOWN OF | 40017C0255D | 19-JAN-2000
06 | OK | FAIRLAND, TOWN OF | 40017C0260D | 19-JAN-2000
06 | OK | FAIRLAND, TOWN OF | 40017C0265D | 19-JAN-2000
06 | OK | FAIRLAND, TOWN OF | 40017C0270D | 19-JAN-2000
06 | OK | FAIRLAND, TOWN OF | 40017C0280D | 19-JAN-2000
06 | OK | FAIRLAND, TOWN OF | 40017C0285D | 19-JAN-2000
06 | OK | FAIRLAND, TOWN OF | 40017C0290D | 19-JAN-2000
06 | OK | FAIRLAND, TOWN OF | 40017C0295D | 19-JAN-2000
06 | OK | FAIRLAND, TOWN OF | 40017C0315D | 19-JAN-2000
06 | OK | FAIRLAND, TOWN OF | 40017C0325D | 19-JAN-2000
06 | OK | FAIRLAND, TOWN OF | 40017C0410D | 19-JAN-2000
06 | OK | FAIRLAND, TOWN OF | 40017C0430D | 19-JAN-2000
06 | OK | FAIRLAND, TOWN OF | 40017C0435D | 19-JAN-2000
06 | OK | MUSTANG, CITY OF | 40017C0470D | 19-JAN-2000
06 | OK | MUSTANG, CITY OF | 40017C0490D | 19-JAN-2000
06 | OK | MUSTANG, CITY OF | 40017C0495D | 19-JAN-2000
06 | OK | MUSTANG, CITY OF | 40017CIND0 ** | 19-JAN-2000
06 | OK | PIEDMONT, CITY OF | 40017C0160D | 19-JAN-2000
06 | OK | PIEDMONT, CITY OF | 40017C0170D | 19-JAN-2000
06 | OK | PIEDMONT, CITY OF | 40017C0175D | 19-JAN-2000
06 | OK | PIEDMONT, CITY OF | 40017C0180D | 19-JAN-2000
06 | OK | PIEDMONT, CITY OF | 40017C0190D | 19-JAN-2000
06 | OK | PIEDMONT, CITY OF | 40017C0195D | 19-JAN-2000
06 | OK | PIEDMONT, CITY OF | 40017CIND0 ** | 19-JAN-2000
06 | OK | UNION CITY, TOWN OF | 40017C0410D | 19-JAN-2000
06 | OK | UNION CITY, TOWN OF | 40017C0420D | 19-JAN-2000
06 | OK | UNION CITY, TOWN OF | 40017C0430D | 19-JAN-2000
06 | OK | UNION CITY, TOWN OF | 40017C0435D | 19-JAN-2000
06 | OK | UNION CITY, TOWN OF | 40017C0440D | 19-JAN-2000
06 | OK | UNION CITY, TOWN OF | 40017C0445D | 19-JAN-2000
06 | OK | UNION CITY, TOWN OF | 40017C0455D | 19-JAN-2000
06 | OK | UNION CITY, TOWN OF | 40017C0465D | 19-JAN-2000
06 | OK | UNION CITY, TOWN OF | 40017C0535D | 19-JAN-2000
06 | OK | UNION CITY, TOWN OF | 40017C0555D | 19-JAN-2000
06 | OK | UNION CITY, TOWN OF | 40017CIND0 ** | 19-JAN-2000
06 | OK | YUKON, CITY OF | 40017C0315D | 19-JAN-2000
06 | OK | YUKON, CITY OF | 40017C0320D | 19-JAN-2000
06 | OK | YUKON, CITY OF | 40017C0340D | 19-JAN-2000
06 | OK | YUKON, CITY OF | 40017C0460D | 19-JAN-2000
06 | OK | YUKON, CITY OF | 40017C0480D | 19-JAN-2000
06 | OK | YUKON, CITY OF | 40017CIND0 ** | 19-JAN-2000
06 | TX | ARCOLA CITY OF | 48157CIND0 ** | 20-APR-2000
06 | TX | AUSTIN, CITY OF | 48453C0095F | 19-JAN-2000
06 | TX | AUSTIN, CITY OF | 48453C0100F | 19-JAN-2000
06 | TX | AUSTIN, CITY OF | 48453C0130F | 19-JAN-2000
06 | TX | AUSTIN, CITY OF | 48453C0135F | 19-JAN-2000
06 | TX | AUSTIN, CITY OF | 48453C0170G | 19-JAN-2000
06 | TX | AUSTIN, CITY OF | 48453C0175F | 19-JAN-2000
06 | TX | AUSTIN, CITY OF | 48453C0215G | 19-JAN-2000
06 | TX | AUSTIN, CITY OF | 48453C0260F | 19-JAN-2000
06 | TX | AUSTIN, CITY OF | 48453C0265F | 19-JAN-2000
06 | TX | AUSTIN, CITY OF | 48453C0305F | 19-JAN-2000
06 | TX | AUSTIN, CITY OF | 48453CIND0 ** | 19-JAN-2000
06 | TX | BAYTOWN, CITY OF | 48201C0745K | 20-APR-2000
06 | TX | BAYTOWN, CITY OF | 48201CIND0 ** | 20-APR-2000
06 | TX | BEE CAVE, VILLAGE OF | 48453CIND0 ** | 19-JAN-2000
06 | TX | BELLAIRE, CITY OF | 48201C0855K | 20-APR-2000
06 | TX | BELLAIRE, CITY OF | 48201CIND0 ** | 20-APR-2000
06 | TX | BIG OAKS M.U.D. | 48157CIND0 ** | 20-APR-2000
06 | TX | BRAZOS COUNTY * | 48041C0163D | 09-FEB-2000
06 | TX | BRAZOS COUNTY * | 48041C0201D | 09-FEB-2000
06 | TX | BRAZOS COUNTY * | 48041C0205D | 09-FEB-2000
06 | TX | BRAZOS COUNTY * | 48041CIND0 ** | 09-FEB-2000
06 | TX | BRYAN, CITY OF | 48041C0163D | 09-FEB-2000
06 | TX | BRYAN, CITY OF | 48041CIND0 ** | 09-FEB-2000
06 | TX | BUNKER HILL VILLAGE, CITY OF | 48201CIND0 ** | 20-APR-2000
06 | TX | CEDAR PARK, CITY OF | 48453CIND0 ** | 19-JAN-2000
06 | TX | CHELFORD M.U.D., CITY | 48157CIND0 ** | 20-APR-2000
06 | TX | CHELFORD M.U.D., CITY | 48201C0810K | 20-APR-2000
06 | TX | CHELFORD M.U.D., CITY | 48201CIND0 ** | 20-APR-2000
06 | TX | COLLEGE STATION, CITY OF | 48041C0163D | 09-FEB-2000
06 | TX | COLLEGE STATION, CITY OF | 48041C0201D | 09-FEB-2000
06 | TX | COLLEGE STATION, CITY OF | 48041C0205D | 09-FEB-2000
06 | TX | COLLEGE STATION, CITY OF | 48041CIND0 ** | 09-FEB-2000
06 | TX | DEER PARK, CITY OF | 48201CIND0 ** | 20-APR-2000
06 | TX | EDINBURG, CITY OF | 4803380005E | 06-JUN-2000
06 | TX | EDINBURG, CITY OF | 4803380010E | 06-JUN-2000
06 | TX | EDINBURG, CITY OF | 4803380015E | 06-JUN-2000
06 | TX | EDINBURG, CITY OF | 4803380020E | 06-JUN-2000
06 | TX | EDINBURG, CITY OF | 4803380030E | 06-JUN-2000
06 | TX | EDINBURG, CITY OF | 4803380035E | 06-JUN-2000
06 | TX | EDINBURG, CITY OF | 480338IND0 ** | 06-JUN-2000
06 | TX | EL LAGO, CITY OF | 48201CIND0 ** | 20-APR-2000
06 | TX | FAIRCHILDS, VILLAGE OF | 48157CIND0 ** | 20-APR-2000
06 | TX | FIRST COLONY L.I.D. | 48157CIND0 ** | 20-APR-2000
06 | TX | FORT BEND COUNTY * | 48157C0140K | 20-APR-2000
06 | TX | FORT BEND COUNTY * | 48157C0280K | 20-APR-2000
06 | TX | FORT BEND COUNTY * | 48157C0283K | 20-APR-2000
06 | TX | FORT BEND COUNTY * | 48157CIND0 ** | 20-APR-2000
06 | TX | FORT BEND COUNTY L.I.D. #2 | 48157C0140K | 20-APR-2000
06 | TX | FORT BEND COUNTY L.I.D. #2 | 48157C0280K | 20-APR-2000
06 | TX | FORT BEND COUNTY L.I.D. #2 | 48157C0283K | 20-APR-2000
06 | TX | FORT BEND COUNTY L.I.D. #2 | 48157CIND0 ** | 20-APR-2000
06 | TX | FORT BEND COUNTY L.I.D. #7 | 48157C0140K | 20-APR-2000
06 | TX | FORT BEND COUNTY L.I.D. #7 | 48157C0280K | 20-APR-2000
06 | TX | FORT BEND COUNTY L.I.D. #7 | 48157C0283K | 20-APR-2000
06 | TX | FORT BEND COUNTY L.I.D. #7 | 48157CIND0 ** | 20-APR-2000
06 | TX | FORT BEND COUNTY M.U.D. #2 | 48157C0140K | 20-APR-2000
06 | TX | FORT BEND COUNTY M.U.D. #2 | 48157C0280K | 20-APR-2000
06 | TX | FORT BEND COUNTY M.U.D. #2 | 48157C0283K | 20-APR-2000
06 | TX | FORT BEND COUNTY M.U.D. #2 | 48157CIND0 ** | 20-APR-2000
06 | TX | FORT BEND COUNTY M.U.D. #2 | 48201C0840K | 20-APR-2000
06 | TX | FORT BEND COUNTY M.U.D. #2 | 48201CIND0 ** | 20-APR-2000
06 | TX | FORT BEND COUNTY M.U.D. #23 | 48157C0140K | 20-APR-2000
06 | TX | FORT BEND COUNTY M.U.D. #23 | 48157C0280K | 20-APR-2000
06 | TX | FORT BEND COUNTY M.U.D. #23 | 48157C0283K | 20-APR-2000
06 | TX | FORT BEND COUNTY M.U.D. #23 | 48157CIND0 ** | 20-APR-2000
06 | TX | FORT BEND COUNTY M.U.D. #25 | 48157C0140K | 20-APR-2000
06 | TX | FORT BEND COUNTY M.U.D. #25 | 48157C0280K | 20-APR-2000
06 | TX | FORT BEND COUNTY M.U.D. #25 | 48157C0283K | 20-APR-2000
06 | TX | FORT BEND COUNTY M.U.D. #25 | 48157CIND0 ** | 20-APR-2000
06 | TX | FORT BEND COUNTY M.U.D. #30 | 48157C0140K | 20-APR-2000
06 | TX | FORT BEND COUNTY M.U.D. #30 | 48157C0280K | 20-APR-2000
06 | TX | FORT BEND COUNTY M.U.D. #30 | 48157C0283K | 20-APR-2000
06 | TX | FORT BEND COUNTY M.U.D. #30 | 48157CIND0 ** | 20-APR-2000
06 | TX | FORT BEND COUNTY M.U.D. #34 | 48157C0140K | 20-APR-2000
06 | TX | FORT BEND COUNTY M.U.D. #34 | 48157C0280K | 20-APR-2000
06 | TX | FORT BEND COUNTY M.U.D. #34 | 48157C0283K | 20-APR-2000
06 | TX | FORT BEND COUNTY M.U.D. #34 | 48157CIND0 ** | 20-APR-2000
06 | TX | FORT BEND COUNTY M.U.D. #35 | 48157C0140K | 20-APR-2000
06 | TX | FORT BEND COUNTY M.U.D. #35 | 48157C0280K | 20-APR-2000
06 | TX | FORT BEND COUNTY M.U.D. #35 | 48157C0283K | 20-APR-2000
06 | TX | FORT BEND COUNTY M.U.D. #35 | 48157CIND0 ** | 20-APR-2000
06 | TX | FORT BEND COUNTY M.U.D. #41 | 48157C0140K | 20-APR-2000
06 | TX | FORT BEND COUNTY M.U.D. #41 | 48157C0280K | 20-APR-2000
06 | TX | FORT BEND COUNTY M.U.D. #41 | 48157C0283K | 20-APR-2000
06 | TX | FORT BEND COUNTY M.U.D. #41 | 48157CIND0 ** | 20-APR-2000
06 | TX | FORT BEND COUNTY M.U.D. #42 | 48157C0140K | 20-APR-2000
06 | TX | FORT BEND COUNTY M.U.D. #42 | 48157C0280K | 20-APR-2000
06 | TX | FORT BEND COUNTY M.U.D. #42 | 48157C0283K | 20-APR-2000
06 | TX | FORT BEND COUNTY M.U.D. #42 | 48157CIND0 ** | 20-APR-2000
06 | TX | FORT BEND COUNTY M.U.D. #81 | 48157C0140K | 20-APR-2000
06 | TX | FORT BEND COUNTY M.U.D. #81 | 48157C0280K | 20-APR-2000
06 | TX | FORT BEND COUNTY M.U.D. #81 | 48157C0283K | 20-APR-2000
06 | TX | FORT BEND COUNTY M.U.D. #81 | 48157CIND0 ** | 20-APR-2000
06 | TX | FRISCO, CITY OF | 48157C0140K | 20-APR-2000
06 | TX | FULSHEAR, CITY OF | 48157CIND0 ** | 20-APR-2000
06 | TX | GALENA PARK, CITY OF | 48201C0885K | 20-APR-2000
06 | TX | GALENA PARK, CITY OF | 48201CIND0 ** | 20-APR-2000
06 | TX | GARFIELD, VILLAGE OF | 48453CIND0 ** | 19-JAN-2000
06 | TX | HARRIS COUNTY* | 48201C0235K | 20-APR-2000
06 | TX | HARRIS COUNTY* | 48201C0245K | 20-APR-2000
06 | TX | HARRIS COUNTY* | 48201C0305K | 20-APR-2000
06 | TX | HARRIS COUNTY* | 48201C0315K | 20-APR-2000
06 | TX | HARRIS COUNTY* | 48201C0320K | 20-APR-2000
06 | TX | HARRIS COUNTY* | 48201C0420K | 20-APR-2000
06 | TX | HARRIS COUNTY* | 48201C0430K | 20-APR-2000
06 | TX | HARRIS COUNTY* | 48201C0440K | 20-APR-2000
06 | TX | HARRIS COUNTY* | 48201C0445K | 20-APR-2000
06 | TX | HARRIS COUNTY* | 48201C0465K | 20-APR-2000
06 | TX | HARRIS COUNTY* | 48201C0635K | 20-APR-2000
06 | TX | HARRIS COUNTY* | 48201C0655K | 20-APR-2000
06 | TX | HARRIS COUNTY* | 48201C0660K | 20-APR-2000
06 | TX | HARRIS COUNTY* | 48201C0665K | 20-APR-2000
06 | TX | HARRIS COUNTY* | 48201C0670K | 20-APR-2000
06 | TX | HARRIS COUNTY* | 48201C0680K | 20-APR-2000
06 | TX | HARRIS COUNTY* | 48201C0690K | 20-APR-2000
06 | TX | HARRIS COUNTY* | 48201C0735K | 20-APR-2000
06 | TX | HARRIS COUNTY* | 48201C0745K | 20-APR-2000
06 | TX | HARRIS COUNTY* | 48201C0810K | 20-APR-2000
06 | TX | HARRIS COUNTY* | 48201C0830K | 20-APR-2000
06 | TX | HARRIS COUNTY* | 48201C0835K | 20-APR-2000
06 | TX | HARRIS COUNTY* | 48201C0840K | 20-APR-2000
06 | TX | HARRIS COUNTY* | 48201C0845K | 20-APR-2000
06 | TX | HARRIS COUNTY* | 48201C0855K | 20-APR-2000
06 | TX | HARRIS COUNTY* | 48201C0860K | 20-APR-2000
06 | TX | HARRIS COUNTY* | 48201C0865K | 20-APR-2000
06 | TX | HARRIS COUNTY* | 48201C0870K | 20-APR-2000
06 | TX | HARRIS COUNTY* | 48201C0880K | 20-APR-2000
06 | TX | HARRIS COUNTY* | 48201C0885K | 20-APR-2000
06 | TX | HARRIS COUNTY* | 48201C1005K | 20-APR-2000
06 | TX | HARRIS COUNTY* | 48201C1010K | 20-APR-2000
06 | TX | HARRIS COUNTY* | 48201C1030K | 20-APR-2000
06 | TX | HARRIS COUNTY* | 48201C1035K | 20-APR-2000
06 | TX | HARRIS COUNTY* | 48201C1045K | 20-APR-2000
06 | TX | HARRIS COUNTY* | 48201C1055K | 20-APR-2000
06 | TX | HARRIS COUNTY* | 48201C1060K | 20-APR-2000
06 | TX | HARRIS COUNTY* | 48201C1065K | 20-APR-2000
06 | TX | HARRIS COUNTY* | 48201C1070K | 20-APR-2000
06 | TX | HARRIS COUNTY* | 48201C1090K | 20-APR-2000
06 | TX | HARRIS COUNTY* | 48201CIND0 ** | 20-APR-2000
06 | TX | HEDWIG VILLAGE, CITY OF | 48201CIND0 ** | 20-APR-2000
06 | TX | HIDALGO COUNTY * | 4803340290D | 06-JUN-2000
06 | TX | HIDALGO COUNTY * | 4803340295D | 06-JUN-2000
06 | TX | HIDALGO COUNTY * | 4803340300D | 06-JUN-2000
06 | TX | HIDALGO COUNTY * | 4803340325D | 06-JUN-2000
06 | TX | HIDALGO COUNTY * | 4803340350C | 06-JUN-2000
06 | TX | HIDALGO COUNTY * | 4803340450C | 06-JUN-2000
06 | TX | HIDALGO COUNTY * | 480334IND0 ** | 06-JUN-2000
06 | TX | HILSHIRE VILLAGE, CITY OF | 48201C0665K | 20-APR-2000
06 | TX | HILSHIRE VILLAGE, CITY OF | 48201CIND0 ** | 20-APR-2000
06 | TX | HOUSTON, CITY OF | 48201C0235K | 20-APR-2000
06 | TX | HOUSTON, CITY OF | 48201C0315K | 20-APR-2000
06 | TX | HOUSTON, CITY OF | 48201C0320K | 20-APR-2000
06 | TX | HOUSTON, CITY OF | 48201C0420K | 20-APR-2000
06 | TX | HOUSTON, CITY OF | 48201C0430K | 20-APR-2000
06 | TX | HOUSTON, CITY OF | 48201C0440K | 20-APR-2000
06 | TX | HOUSTON, CITY OF | 48201C0445K | 20-APR-2000
06 | TX | HOUSTON, CITY OF | 48201C0465K | 20-APR-2000
06 | TX | HOUSTON, CITY OF | 48201C0635K | 20-APR-2000
06 | TX | HOUSTON, CITY OF | 48201C0655K | 20-APR-2000
06 | TX | HOUSTON, CITY OF | 48201C0660K | 20-APR-2000
06 | TX | HOUSTON, CITY OF | 48201C0665K | 20-APR-2000
06 | TX | HOUSTON, CITY OF | 48201C0670K | 20-APR-2000
06 | TX | HOUSTON, CITY OF | 48201C0680K | 20-APR-2000
06 | TX | HOUSTON, CITY OF | 48201C0690K | 20-APR-2000
06 | TX | HOUSTON, CITY OF | 48201C0745K | 20-APR-2000
06 | TX | HOUSTON, CITY OF | 48201C0810K | 20-APR-2000
06 | TX | HOUSTON, CITY OF | 48201C0830K | 20-APR-2000
06 | TX | HOUSTON, CITY OF | 48201C0835K | 20-APR-2000
06 | TX | HOUSTON, CITY OF | 48201C0840K | 20-APR-2000
06 | TX | HOUSTON, CITY OF | 48201C0845K | 20-APR-2000
06 | TX | HOUSTON, CITY OF | 48201C0855K | 20-APR-2000
06 | TX | HOUSTON, CITY OF | 48201C0860K | 20-APR-2000
06 | TX | HOUSTON, CITY OF | 48201C0865K | 20-APR-2000
06 | TX | HOUSTON, CITY OF | 48201C0870K | 20-APR-2000
06 | TX | HOUSTON, CITY OF | 48201C0880K | 20-APR-2000
06 | TX | HOUSTON, CITY OF | 48201C0885K | 20-APR-2000
06 | TX | HOUSTON, CITY OF | 48201C1005K | 20-APR-2000
06 | TX | HOUSTON, CITY OF | 48201C1010K | 20-APR-2000
06 | TX | HOUSTON, CITY OF | 48201C1030K | 20-APR-2000
06 | TX | HOUSTON, CITY OF | 48201C1035K | 20-APR-2000
06 | TX | HOUSTON, CITY OF | 48201C1055K | 20-APR-2000
06 | TX | HOUSTON, CITY OF | 48201C1060K | 20-APR-2000
06 | TX | HOUSTON, CITY OF | 48201C1070K | 20-APR-2000
06 | TX | HOUSTON, CITY OF | 48201C1090K | 20-APR-2000
06 | TX | HOUSTON, CITY OF | 48201CIND0 ** | 20-APR-2000
06 | TX | HUMBLE, CITY OF | 48201C0315K | 20-APR-2000
06 | TX | HUMBLE, CITY OF | 48201CIND0 ** | 20-APR-2000
06 | TX | HUNTER'S CREEK VILLAGE, CITY OF | 48201C0665K | 20-APR-2000
06 | TX | HUNTER'S CREEK VILLAGE, CITY OF | 48201CIND0 ** | 20-APR-2000
06 | TX | JACINTO CITY, CITY OF | 48201CIND0 ** | 20-APR-2000
06 | TX | JERSEY VILLAGE, CITY OF | 48201C0440K | 20-APR-2000
06 | TX | JERSEY VILLAGE, CITY OF | 48201C0445K | 20-APR-2000
06 | TX | JERSEY VILLAGE, CITY OF | 48201C0635K | 20-APR-2000
06 | TX | JERSEY VILLAGE, CITY OF | 48201CIND0 ** | 20-APR-2000
06 | TX | JONESTOWN, CITY OF | 48453CIND0 ** | 19-JAN-2000
06 | TX | KENDLETON, TOWN OF | 48157CIND0 ** | 20-APR-2000
06 | TX | KILLEEN, CITY OF | 4800310005C** | 04-MAY-2000
06 | TX | KILLEEN, CITY OF | 4800310007C** | 04-MAY-2000
06 | TX | KILLEEN, CITY OF | 4800310008C** | 04-MAY-2000
06 | TX | KILLEEN, CITY OF | 480031IND0 ** | 04-MAY-2000
06 | TX | KINGSBRIDGE M.U.D. | 48157CIND0 ** | 20-APR-2000
06 | TX | KINGSBRIDGE M.U.D. | 48201CIND0 ** | 20-APR-2000
06 | TX | LA PORTE, CITY OF | 48201CIND0 ** | 20-APR-2000
06 | TX | LAGO VISTA, CITY OF | 48453CIND0 ** | 19-JAN-2000
06 | TX | LAKEWAY, CITY OF | 48453CIND0 ** | 19-JAN-2000
06 | TX | LEANDER, CITY OF | 48453CIND0 ** | 19-JAN-2000
06 | TX | MANOR, CITY OF | 48453CIND0 ** | 19-JAN-2000
06 | TX | MEADOWS PLACE, CITY OF | 48157CIND0 ** | 20-APR-2000
06 | TX | MISSION BEND M.U.D. #1 | 48201C0810K | 20-APR-2000
06 | TX | MISSION BEND M.U.D. #1 | 48201CIND0 ** | 20-APR-2000
06 | TX | MISSION BEND M.U.D. #2 | 48201C0810K | 20-APR-2000
06 | TX | MISSION BEND M.U.D. #2 | 48201CIND0 ** | 20-APR-2000
06 | TX | MISSOURI CITY, CITY OF | 48157CIND0 ** | 20-APR-2000
06 | TX | MISSOURI CITY, CITY OF | 48201C0845K | 20-APR-2000
06 | TX | MISSOURI CITY, CITY OF | 48201CIND0 ** | 20-APR-2000
06 | TX | MORGANS POINT, CITY OF | 48201CIND0 ** | 20-APR-2000
06 | TX | NASSAU BAY, CITY OF | 48201C1090K | 20-APR-2000
06 | TX | NASSAU BAY, CITY OF | 48201CIND0 ** | 20-APR-2000
06 | TX | NEEDVILLE, CITY OF | 48157CIND0 ** | 20-APR-2000
06 | TX | PASADENA, CITY OF | 48201C1090K | 20-APR-2000
06 | TX | PASADENA, CITY OF | 48201CIND0 ** | 20-APR-2000
06 | TX | PEARLAND, CITY OF | 48201C1045K | 20-APR-2000
06 | TX | PEARLAND, CITY OF | 48201C1055K | 20-APR-2000
06 | TX | PEARLAND, CITY OF | 48201C1065K | 20-APR-2000
06 | TX | PEARLAND, CITY OF | 48201CIND0 ** | 20-APR-2000
06 | TX | PECAN GROVE M.U.D. | 48157CIND0 ** | 20-APR-2000
06 | TX | PFLUGERVILLE, CITY OF | 48453CIND0 ** | 19-JAN-2000
06 | TX | PINEY POINT VILLAGE, CITY OF | 48201C0835K | 20-APR-2000
06 | TX | PINEY POINT VILLAGE, CITY OF | 48201CIND0 ** | 20-APR-2000
06 | TX | PLEAK, VILLAGE OF | 48157CIND0 ** | 20-APR-2000
06 | TX | RICHMOND, CITY OF | 48157CIND0 ** | 20-APR-2000
06 | TX | ROLLINGWOOD, CITY OF | 48453CIND0 ** | 19-JAN-2000
06 | TX | ROSENBERG, CITY OF | 48157CIND0 ** | 20-APR-2000
06 | TX | ROUND ROCK, CITY OF | 48453CIND0 ** | 19-JAN-2000
06 | TX | SAN LEANNA, CITY OF | 48453C0260F | 19-JAN-2000
06 | TX | SAN LEANNA, CITY OF | 48453CIND0 ** | 19-JAN-2000
06 | TX | SEABROOK, CITY OF | 48201CIND0 ** | 20-APR-2000
06 | TX | SEGUIN, CITY OF | 4855080005D | 07-MAR-2000
06 | TX | SEGUIN, CITY OF | 4855080010D | 07-MAR-2000
06 | TX | SEGUIN, CITY OF | 485508IND0 ** | 07-MAR-2000
06 | TX | SEGUIN, CITY OF | 485508V000 | 07-MAR-2000
06 | TX | SHOREACRES, CITY OF | 48201CIND0 ** | 20-APR-2000
06 | TX | SIMONTON, VILLAGE OF | 48157CIND0 ** | 20-APR-2000
06 | TX | SOUTH HOUSTON,CITY OF | 48201CIND0 ** | 20-APR-2000
06 | TX | SOUTHSIDE PLACE, CITY OF | 48201C0855K | 20-APR-2000
06 | TX | SOUTHSIDE PLACE, CITY OF | 48201C0860K | 20-APR-2000
06 | TX | SOUTHSIDE PLACE, CITY OF | 48201CIND0 ** | 20-APR-2000
06 | TX | SPRING VALLEY, CITY OF | 48201C0665K | 20-APR-2000
06 | TX | SPRING VALLEY, CITY OF | 48201CIND0 ** | 20-APR-2000
06 | TX | STAFFORD, CITY OF | 48157C0140K | 20-APR-2000
06 | TX | STAFFORD, CITY OF | 48157CIND0 ** | 20-APR-2000
06 | TX | STAFFORD, CITY OF | 48201C0845K | 20-APR-2000
06 | TX | STAFFORD, CITY OF | 48201CIND0 ** | 20-APR-2000
06 | TX | SUGAR LAND, CITY OF | 48157C0140K | 20-APR-2000
06 | TX | SUGAR LAND, CITY OF | 48157CIND0 ** | 20-APR-2000
06 | TX | SUNSET VALLEY, CITY OF | 48453CIND0 ** | 19-JAN-2000
06 | TX | TAYLOR LAKE VILLAGE, CITY OF | 48201CIND0 ** | 20-APR-2000
06 | TX | THOMPSONS, TOWN OF | 48157CIND0 ** | 20-APR-2000
06 | TX | TOMBALL, CITY OF | 48201CIND0 ** | 20-APR-2000
06 | TX | TRAVIS COUNTY* | 48453C0095F | 19-JAN-2000
06 | TX | TRAVIS COUNTY* | 48453C0100F | 19-JAN-2000
06 | TX | TRAVIS COUNTY* | 48453C0130F | 19-JAN-2000
06 | TX | TRAVIS COUNTY* | 48453C0135F | 19-JAN-2000
06 | TX | TRAVIS COUNTY* | 48453C0170G | 19-JAN-2000
06 | TX | TRAVIS COUNTY* | 48453C0175F | 19-JAN-2000
06 | TX | TRAVIS COUNTY* | 48453C0215G | 19-JAN-2000
06 | TX | TRAVIS COUNTY* | 48453C0260F | 19-JAN-2000
06 | TX | TRAVIS COUNTY* | 48453C0265F | 19-JAN-2000
06 | TX | TRAVIS COUNTY* | 48453C0305F | 19-JAN-2000
06 | TX | TRAVIS COUNTY* | 48453C0340F | 19-JAN-2000
06 | TX | TRAVIS COUNTY* | 48453CIND0 ** | 19-JAN-2000
06 | TX | WEBSTER, CITY OF | 48201C1070K | 20-APR-2000
06 | TX | WEBSTER, CITY OF | 48201C1090K | 20-APR-2000
06 | TX | WEBSTER, CITY OF | 48201CIND0 ** | 20-APR-2000
06 | TX | WEST KEEGANS BAYOU IMPROVEMENT DISTRICT | 48157CIND0 ** | 20-APR-2000
06 | TX | WEST LAKE HILLS, CITY OF | 48453CIND0 ** | 19-JAN-2000
06 | TX | WEST UNIVERSITY PLACE, CITY OF | 48201C0855K | 20-APR-2000
06 | TX | WEST UNIVERSITY PLACE, CITY OF | 48201C0860K | 20-APR-2000
06 | TX | WEST UNIVERSITY PLACE, CITY OF | 48201CIND0 ** | 20-APR-2000
06 | TX | WICHITA FALLS, CITY OF | 4806620025E | 19-JAN-2000
06 | TX | WICHITA FALLS, CITY OF | 4806620030F | 19-JAN-2000
06 | TX | WICHITA FALLS, CITY OF | 480662IND0 ** | 19-JAN-2000
06 | TX | WILLOW FORK DRAINAGE DISTRICT | 48157CIND0 ** | 20-APR-2000
06 | TX | WILLOW FORK DRAINAGE DISTRICT | 48201CIND0 ** | 20-APR-2000
06 | TX | WIXON VALLEY, CITY OF | 48041CIND0 ** | 09-FEB-2000
07 | IA | ADEL, CITY OF | 19049C0118D | 19-JAN-2000
07 | IA | ADEL, CITY OF | 19049C0181D | 19-JAN-2000
07 | IA | ADEL, CITY OF | 19049CIND0 ** | 19-JAN-2000
07 | IA | DALLAS CENTER, TOWN OF | 19049C0120D | 19-JAN-2000
07 | IA | DALLAS CENTER, TOWN OF | 19049C0125D | 19-JAN-2000
07 | IA | DALLAS CENTER, TOWN OF | 19049CIND0 ** | 19-JAN-2000
07 | IA | DALLAS COUNTY * | 19049C0010D** | 19-JAN-2000
07 | IA | DALLAS COUNTY * | 19049C0025D** | 19-JAN-2000
07 | IA | DALLAS COUNTY * | 19049C0030D** | 19-JAN-2000
07 | IA | DALLAS COUNTY * | 19049C0050D** | 19-JAN-2000
07 | IA | DALLAS COUNTY * | 19049C0069D** | 19-JAN-2000
07 | IA | DALLAS COUNTY * | 19049C0075D** | 19-JAN-2000
07 | IA | DALLAS COUNTY * | 19049C0100D** | 19-JAN-2000
07 | IA | DALLAS COUNTY * | 19049C0118D** | 19-JAN-2000
07 | IA | DALLAS COUNTY * | 19049C0120D** | 19-JAN-2000
07 | IA | DALLAS COUNTY * | 19049C0125D** | 19-JAN-2000
07 | IA | DALLAS COUNTY * | 19049C0130D** | 19-JAN-2000
07 | IA | DALLAS COUNTY * | 19049C0140D** | 19-JAN-2000
07 | IA | DALLAS COUNTY * | 19049C0160D** | 19-JAN-2000
07 | IA | DALLAS COUNTY * | 19049C0175D** | 19-JAN-2000
07 | IA | DALLAS COUNTY * | 19049C0181D** | 19-JAN-2000
07 | IA | DALLAS COUNTY * | 19049C0185D** | 19-JAN-2000
07 | IA | DALLAS COUNTY * | 19049C0191D** | 19-JAN-2000
07 | IA | DALLAS COUNTY * | 19049C0192D** | 19-JAN-2000
07 | IA | DALLAS COUNTY * | 19049C0195D** | 19-JAN-2000
07 | IA | DALLAS COUNTY * | 19049C0200D** | 19-JAN-2000
07 | IA | DALLAS COUNTY * | 19049C0215D** | 19-JAN-2000
07 | IA | DALLAS COUNTY * | 19049C0220D** | 19-JAN-2000
07 | IA | DALLAS COUNTY * | 19049C0225D** | 19-JAN-2000
07 | IA | DALLAS COUNTY * | 19049CIND0 ** | 19-JAN-2000
07 | IA | DAWSON, CITY OF | 19049C0010D | 19-JAN-2000
07 | IA | DAWSON, CITY OF | 19049CIND0 ** | 19-JAN-2000
07 | IA | DESOTO, CITY OF | 19049C0191D | 19-JAN-2000
07 | IA | DESOTO, CITY OF | 19049CIND0 ** | 19-JAN-2000
07 | IA | DICKINSON COUNTY * | 1908640025C | 20-APR-2000
07 | IA | DICKINSON COUNTY * | 1908640050C | 20-APR-2000
07 | IA | DICKINSON COUNTY * | 1908640075C | 20-APR-2000
07 | IA | DICKINSON COUNTY * | 1908640100C | 20-APR-2000
07 | IA | DICKINSON COUNTY * | 190864IND0 ** | 20-APR-2000
07 | IA | GRANGER, CITY OF | 19049C0069D | 19-JAN-2000
07 | IA | GRANGER, CITY OF | 19049C0075D | 19-JAN-2000
07 | IA | GRANGER, CITY OF | 19049C0130D | 19-JAN-2000
07 | IA | GRANGER, CITY OF | 19049CIND0 ** | 19-JAN-2000
07 | IA | MITCHELL COUNTY * | 1908920001B*** | 01-MAR-2000
07 | IA | MITCHELL COUNTY * | 1908920002B*** | 01-MAR-2000
07 | IA | MITCHELL COUNTY * | 1908920003B*** | 01-MAR-2000
07 | IA | MITCHELL COUNTY * | 1908920004B*** | 01-MAR-2000
07 | IA | MITCHELL COUNTY * | 1908920005B*** | 01-MAR-2000
07 | IA | MITCHELL COUNTY * | 1908920006B*** | 01-MAR-2000
07 | IA | MITCHELL COUNTY * | 1908929999B*** | 01-MAR-2000
07 | IA | MITCHELL COUNTY * | 190892IND0 *** | 01-MAR-2000
07 | IA | PERRY, CITY OF | 19049C0030D | 19-JAN-2000
07 | IA | PERRY, CITY OF | 19049CIND0 ** | 19-JAN-2000
07 | IA | REDFIELD, CITY OF | 19049C0160D | 19-JAN-2000
07 | IA | REDFIELD, CITY OF | 19049CIND0 ** | 19-JAN-2000
07 | IA | RICEVILLE, CITY OF | 190418 A*** | 01-MAR-2000
07 | IA | RICEVILLE, CITY OF | 1904189999A*** | 01-MAR-2000
07 | IA | VAN METER, CITY OF | 19049C0192D | 19-JAN-2000
07 | IA | VAN METER, CITY OF | 19049CIND0 ** | 19-JAN-2000
07 | IA | WAUKEE, CITY OF | 19049C0140D | 19-JAN-2000
07 | IA | WAUKEE, CITY OF | 19049C0225D | 19-JAN-2000
07 | IA | WAUKEE, CITY OF | 19049CIND0 ** | 19-JAN-2000
07 | KS | LEAVENWORTH COUNTY * | 2001860125D | 20-JUN-2000
07 | KS | LEAVENWORTH COUNTY * | 200186IND0 ** | 20-JUN-2000
07 | KS | TONGANOXIE, CITY OF | 2001920001C | 20-JUN-2000
07 | MO | BULL CREEK, VILLAGE OF | 2909160001B | 19-JAN-2000
07 | MO | CLARK COUNTY * | 2907920025C | 19-JAN-2000
07 | MO | CLARK COUNTY * | 2907920050C | 19-JAN-2000
07 | MO | CLARK COUNTY * | 2907920075C | 19-JAN-2000
07 | MO | CLARK COUNTY * | 2907920100C | 19-JAN-2000
07 | MO | CLARK COUNTY * | 2907920125C | 19-JAN-2000
07 | MO | CLARK COUNTY * | 2907920150C | 19-JAN-2000
07 | MO | CLARK COUNTY * | 2907920175C | 19-JAN-2000
07 | MO | CLARK COUNTY * | 290792IND0 ** | 19-JAN-2000
07 | MO | HOLLISTER, CITY OF | 2904370001C | 19-JAN-2000
07 | MO | INDEPENDENCE, CITY OF | 2901720005E | 21-MAR-2000
07 | MO | INDEPENDENCE, CITY OF | 2901720010E | 21-MAR-2000
07 | MO | INDEPENDENCE, CITY OF | 2901720015E | 21-MAR-2000
07 | MO | INDEPENDENCE, CITY OF | 2901720020E | 21-MAR-2000
07 | MO | INDEPENDENCE, CITY OF | 2901720025E | 21-MAR-2000
07 | MO | INDEPENDENCE, CITY OF | 2901720035E | 21-MAR-2000
07 | MO | INDEPENDENCE, CITY OF | 2901720040E | 21-MAR-2000
07 | MO | INDEPENDENCE, CITY OF | 290172IND0 ** | 21-MAR-2000
07 | MO | MCDONALD COUNTY * | 2908170025B*** | 01-MAR-2000
07 | MO | MCDONALD COUNTY * | 2908170050B*** | 01-MAR-2000
07 | MO | MCDONALD COUNTY * | 2908170075B*** | 01-MAR-2000
07 | MO | MCDONALD COUNTY * | 2908170100B*** | 01-MAR-2000
07 | MO | MCDONALD COUNTY * | 2908170125B*** | 01-MAR-2000
07 | MO | MCDONALD COUNTY * | 2908170150B*** | 01-MAR-2000
07 | MO | MCDONALD COUNTY * | 2908179999B*** | 01-MAR-2000
07 | MO | MCDONALD COUNTY * | 290817IND0 *** | 01-MAR-2000
07 | MO | ROCKAWAY BEACH, TOWN OF | 290438 A*** | 01-MAR-2000
07 | MO | ROCKAWAY BEACH, TOWN OF | 2904389999A*** | 01-MAR-2000
07 | NE | LINDSAY, VILLAGE OF | 3101770005C | 09-FEB-2000
07 | NE | PLATTE COUNTY * | 3104670010C | 09-FEB-2000
07 | NE | PLATTE COUNTY * | 3104670020C | 09-FEB-2000
07 | NE | PLATTE COUNTY * | 3104670025C | 09-FEB-2000
07 | NE | PLATTE COUNTY * | 3104670040C | 09-FEB-2000
07 | NE | PLATTE COUNTY * | 3104670050C | 09-FEB-2000
07 | NE | PLATTE COUNTY * | 3104670075C | 09-FEB-2000
07 | NE | PLATTE COUNTY * | 3104670100C | 09-FEB-2000
07 | NE | PLATTE COUNTY * | 3104670105D | 09-FEB-2000
07 | NE | PLATTE COUNTY * | 3104670115D | 09-FEB-2000
07 | NE | PLATTE COUNTY * | 3104670120D | 09-FEB-2000
07 | NE | PLATTE COUNTY * | 3104670125D | 09-FEB-2000
07 | NE | PLATTE COUNTY * | 3104670140C | 09-FEB-2000
07 | NE | PLATTE COUNTY * | 3104670145C | 09-FEB-2000
07 | NE | PLATTE COUNTY * | 3104670150C | 09-FEB-2000
07 | NE | PLATTE COUNTY * | 3104670175C | 09-FEB-2000
07 | NE | PLATTE COUNTY * | 3104670200D | 09-FEB-2000
07 | NE | PLATTE COUNTY * | 3104670225D | 09-FEB-2000
07 | NE | PLATTE COUNTY * | 3104670250C | 09-FEB-2000
07 | NE | PLATTE COUNTY * | 310467IND0 ** | 09-FEB-2000
08 | MT | YELLOWSTONE COUNTY * | 3001421010B | 21-MAR-2000
08 | MT | YELLOWSTONE COUNTY * | 3001421030B | 21-MAR-2000
08 | MT | YELLOWSTONE COUNTY * | 300142IND0 ** | 21-MAR-2000
08 | ND | JAMESTOWN CITY OF | 3853660004D | 21-MAR-2000
08 | ND | JAMESTOWN CITY OF | 3853660012D | 21-MAR-2000
08 | ND | JAMESTOWN CITY OF | 3853660016D | 21-MAR-2000
08 | ND | JAMESTOWN CITY OF | 3853660018D | 21-MAR-2000
08 | ND | JAMESTOWN CITY OF | 385366IND0 ** | 21-MAR-2000
08 | ND | MCHENRY COUNTY* | 38049C0070D | 19-JAN-2000
08 | ND | MCHENRY COUNTY* | 38049C0090D | 19-JAN-2000
08 | ND | MCHENRY COUNTY* | 38049C0095D | 19-JAN-2000
08 | ND | MCHENRY COUNTY* | 38049C0210D | 19-JAN-2000
08 | ND | MCHENRY COUNTY* | 38049C0225D | 19-JAN-2000
08 | ND | MCHENRY COUNTY* | 38049C0230D | 19-JAN-2000
08 | ND | MCHENRY COUNTY* | 38049C0235D | 19-JAN-2000
08 | ND | MCHENRY COUNTY* | 38049C0240D | 19-JAN-2000
08 | ND | MCHENRY COUNTY* | 38049C0245D | 19-JAN-2000
08 | ND | MCHENRY COUNTY* | 38049C0255D | 19-JAN-2000
08 | ND | MCHENRY COUNTY* | 38049C0260D | 19-JAN-2000
08 | ND | MCHENRY COUNTY* | 38049C0265D | 19-JAN-2000
08 | ND | MCHENRY COUNTY* | 38049C0270D | 19-JAN-2000
08 | ND | MCHENRY COUNTY* | 38049C0280D | 19-JAN-2000
08 | ND | MCHENRY COUNTY* | 38049C0285D | 19-JAN-2000
08 | ND | MCHENRY COUNTY* | 38049C0290D | 19-JAN-2000
08 | ND | MCHENRY COUNTY* | 38049C0295D | 19-JAN-2000
08 | ND | MCHENRY COUNTY* | 38049C0455D | 19-JAN-2000
08 | ND | MCHENRY COUNTY* | 38049C0460D | 19-JAN-2000
08 | ND | MCHENRY COUNTY* | 38049C0465D | 19-JAN-2000
08 | ND | MCHENRY COUNTY* | 38049C0470D | 19-JAN-2000
08 | ND | MCHENRY COUNTY* | 38049C0620D | 19-JAN-2000
08 | ND | MCHENRY COUNTY* | 38049C0630D | 19-JAN-2000
08 | ND | MCHENRY COUNTY* | 38049C0635D | 19-JAN-2000
08 | ND | MCHENRY COUNTY* | 38049C0640D | 19-JAN-2000
08 | ND | MCHENRY COUNTY* | 38049C0645D | 19-JAN-2000
08 | ND | MCHENRY COUNTY* | 38049C0770D | 19-JAN-2000
08 | ND | MCHENRY COUNTY* | 38049C0785D | 19-JAN-2000
08 | ND | MCHENRY COUNTY* | 38049C0790D | 19-JAN-2000
08 | ND | MCHENRY COUNTY* | 38049C0795D | 19-JAN-2000
08 | ND | MCHENRY COUNTY* | 38049C0805D | 19-JAN-2000
08 | ND | MCHENRY COUNTY* | 38049C0810D | 19-JAN-2000
08 | ND | MCHENRY COUNTY* | 38049C0815D | 19-JAN-2000
08 | ND | MCHENRY COUNTY* | 38049C0820D | 19-JAN-2000
08 | ND | MCHENRY COUNTY* | 38049C0910D | 19-JAN-2000
08 | ND | MCHENRY COUNTY* | 38049C0929D | 19-JAN-2000
08 | ND | MCHENRY COUNTY* | 38049C0930D | 19-JAN-2000
08 | ND | MCHENRY COUNTY* | 38049C0933D | 19-JAN-2000
08 | ND | MCHENRY COUNTY* | 38049C0935D | 19-JAN-2000
08 | ND | MCHENRY COUNTY* | 38049C0937D | 19-JAN-2000
08 | ND | MCHENRY COUNTY* | 38049C0940D | 19-JAN-2000
08 | ND | MCHENRY COUNTY* | 38049C0941D | 19-JAN-2000
08 | ND | MCHENRY COUNTY* | 38049C0945D | 19-JAN-2000
08 | ND | MCHENRY COUNTY* | 38049C0955D | 19-JAN-2000
08 | ND | MCHENRY COUNTY* | 38049C0960D | 19-JAN-2000
08 | ND | MCHENRY COUNTY* | 38049C0980D | 19-JAN-2000
08 | ND | MCHENRY COUNTY* | 38049C1244D | 19-JAN-2000
08 | ND | MCHENRY COUNTY* | 38049C1263D | 19-JAN-2000
08 | ND | MCHENRY COUNTY* | 38049CIND0 ** | 19-JAN-2000
08 | ND | MCKINNEY, TOWNSHIP OF | 3803110040C | 19-JAN-2000
08 | ND | MCKINNEY, TOWNSHIP OF | 3803110045C | 19-JAN-2000
08 | ND | MCKINNEY, TOWNSHIP OF | 3803110085C | 19-JAN-2000
08 | ND | MCKINNEY, TOWNSHIP OF | 380311IND0 ** | 19-JAN-2000
08 | ND | WARD COUNTY * | 38101C0090D | 19-JAN-2000
08 | ND | WARD COUNTY * | 38101C0095D | 19-JAN-2000
08 | ND | WARD COUNTY * | 38101C0100D | 19-JAN-2000
08 | ND | WARD COUNTY * | 38101C0180D | 19-JAN-2000
08 | ND | WARD COUNTY * | 38101C0185D | 19-JAN-2000
08 | ND | WARD COUNTY * | 38101C0190D | 19-JAN-2000
08 | ND | WARD COUNTY * | 38101C0195D | 19-JAN-2000
08 | ND | WARD COUNTY * | 38101C0205D | 19-JAN-2000
08 | ND | WARD COUNTY * | 38101C0215D | 19-JAN-2000
08 | ND | WARD COUNTY * | 38101C0219D | 19-JAN-2000
08 | ND | WARD COUNTY * | 38101C0220D | 19-JAN-2000
08 | ND | WARD COUNTY * | 38101C0240D | 19-JAN-2000
08 | ND | WARD COUNTY * | 38101C0255D | 19-JAN-2000
08 | ND | WARD COUNTY * | 38101C0260D | 19-JAN-2000
08 | ND | WARD COUNTY * | 38101C0280D | 19-JAN-2000
08 | ND | WARD COUNTY * | 38101C0285D | 19-JAN-2000
08 | ND | WARD COUNTY * | 38101C0290D | 19-JAN-2000
08 | ND | WARD COUNTY * | 38101C0295D | 19-JAN-2000
08 | ND | WARD COUNTY * | 38101C0303D | 19-JAN-2000
08 | ND | WARD COUNTY * | 38101C0304D | 19-JAN-2000
08 | ND | WARD COUNTY * | 38101C0315D | 19-JAN-2000
08 | ND | WARD COUNTY * | 38101C0330D | 19-JAN-2000
08 | ND | WARD COUNTY * | 38101C0335D | 19-JAN-2000
08 | ND | WARD COUNTY * | 38101C0345D | 19-JAN-2000
08 | ND | WARD COUNTY * | 38101C0505D | 19-JAN-2000
08 | ND | WARD COUNTY * | 38101C0510D | 19-JAN-2000
08 | ND | WARD COUNTY * | 38101C0520D | 19-JAN-2000
08 | ND | WARD COUNTY * | 38101C0530D | 19-JAN-2000
08 | ND | WARD COUNTY * | 38101C0535D | 19-JAN-2000
08 | ND | WARD COUNTY * | 38101C0540D | 19-JAN-2000
08 | ND | WARD COUNTY * | 38101C0545D | 19-JAN-2000
08 | ND | WARD COUNTY * | 38101C0555D | 19-JAN-2000
08 | ND | WARD COUNTY * | 38101C0560D | 19-JAN-2000
08 | ND | WARD COUNTY * | 38101C0565D | 19-JAN-2000
08 | ND | WARD COUNTY * | 38101C0566D | 19-JAN-2000
08 | ND | WARD COUNTY * | 38101C0568D | 19-JAN-2000
08 | ND | WARD COUNTY * | 38101C0570D | 19-JAN-2000
08 | ND | WARD COUNTY * | 38101C0590D | 19-JAN-2000
08 | ND | WARD COUNTY * | 38101C0595D | 19-JAN-2000
08 | ND | WARD COUNTY * | 38101C0615D | 19-JAN-2000
08 | ND | WARD COUNTY * | 38101C0620D | 19-JAN-2000
08 | ND | WARD COUNTY * | 38101C0735D | 19-JAN-2000
08 | ND | WARD COUNTY * | 38101C0755D | 19-JAN-2000
08 | ND | WARD COUNTY * | 38101C0757D | 19-JAN-2000
08 | ND | WARD COUNTY * | 38101C0760D | 19-JAN-2000
08 | ND | WARD COUNTY * | 38101C0776D | 19-JAN-2000
08 | ND | WARD COUNTY * | 38101C0777D | 19-JAN-2000
08 | ND | WARD COUNTY * | 38101C0779D | 19-JAN-2000
08 | ND | WARD COUNTY * | 38101C0780D | 19-JAN-2000
08 | ND | WARD COUNTY * | 38101C0781D | 19-JAN-2000
08 | ND | WARD COUNTY * | 38101C0782D | 19-JAN-2000
08 | ND | WARD COUNTY * | 38101C0783D | 19-JAN-2000
08 | ND | WARD COUNTY * | 38101C0784D | 19-JAN-2000
08 | ND | WARD COUNTY * | 38101C0787D | 19-JAN-2000
08 | ND | WARD COUNTY * | 38101C0791D | 19-JAN-2000
08 | ND | WARD COUNTY * | 38101C0795D | 19-JAN-2000
08 | ND | WARD COUNTY * | 38101C0801D | 19-JAN-2000
08 | ND | WARD COUNTY * | 38101C0802D | 19-JAN-2000
08 | ND | WARD COUNTY * | 38101C0803D | 19-JAN-2000
08 | ND | WARD COUNTY * | 38101C0804D | 19-JAN-2000
08 | ND | WARD COUNTY * | 38101C0810D | 19-JAN-2000
08 | ND | WARD COUNTY * | 38101C0815D | 19-JAN-2000
08 | ND | WARD COUNTY * | 38101C0820D | 19-JAN-2000
08 | ND | WARD COUNTY * | 38101C0830D | 19-JAN-2000
08 | ND | WARD COUNTY * | 38101C0835D | 19-JAN-2000
08 | ND | WARD COUNTY * | 38101C0840D | 19-JAN-2000
08 | ND | WARD COUNTY * | 38101C0845D | 19-JAN-2000
08 | ND | WARD COUNTY * | 38101C0975D | 19-JAN-2000
08 | ND | WARD COUNTY * | 38101C0985D | 19-JAN-2000
08 | ND | WARD COUNTY * | 38101C1000D | 19-JAN-2000
08 | ND | WARD COUNTY * | 38101C1005D | 19-JAN-2000
08 | ND | WARD COUNTY * | 38101C1010D | 19-JAN-2000
08 | ND | WARD COUNTY * | 38101C1020D | 19-JAN-2000
08 | ND | WARD COUNTY * | 38101C1025D | 19-JAN-2000
08 | ND | WARD COUNTY * | 38101C1029D | 19-JAN-2000
08 | ND | WARD COUNTY * | 38101C1030D | 19-JAN-2000
08 | ND | WARD COUNTY * | 38101C1031D | 19-JAN-2000
08 | ND | WARD COUNTY * | 38101C1033D | 19-JAN-2000
08 | ND | WARD COUNTY * | 38101C1035D | 19-JAN-2000
08 | ND | WARD COUNTY * | 38101C1040D | 19-JAN-2000
08 | ND | WARD COUNTY * | 38101C1045D | 19-JAN-2000
08 | ND | WARD COUNTY * | 38101CIND0D** | 19-JAN-2000
08 | WY | GREEN RIVER, TOWN OF | 5600500005C | 20-JUN-2000
09 | CA | ALAMEDA COUNTY* | 0600010090D | 09-FEB-2000
09 | CA | ALAMEDA COUNTY* | 0600010180C | 09-FEB-2000
09 | CA | ALAMEDA COUNTY* | 060001IND0 ** | 09-FEB-2000
09 | CA | AMADOR COUNTY * | 060015 E | 06-JUN-2000
09 | CA | AVENAL, CITY OF | 0650730010B | 07-MAR-2000
09 | CA | AVENAL, CITY OF | 065073IND0 ** | 07-MAR-2000
09 | CA | BUTTE COUNTY * | 06007C0310D | 20-APR-2000
09 | CA | BUTTE COUNTY * | 06007C0320D | 20-APR-2000
09 | CA | BUTTE COUNTY * | 06007C0330D | 20-APR-2000
09 | CA | BUTTE COUNTY * | 06007C0510D | 20-APR-2000
09 | CA | BUTTE COUNTY * | 06007C0985D | 20-APR-2000
09 | CA | BUTTE COUNTY * | 06007C1025D | 20-APR-2000
09 | CA | CHICO, CITY OF | 06007C0310D | 20-APR-2000
09 | CA | CHICO, CITY OF | 06007C0320D | 20-APR-2000
09 | CA | CHICO, CITY OF | 06007C0330D | 20-APR-2000
09 | CA | CHICO, CITY OF | 06007C0510D | 20-APR-2000
09 | CA | FREMONT,CITY OF | 0650280010C | 09-FEB-2000
09 | CA | FREMONT,CITY OF | 0650280029C | 09-FEB-2000
09 | CA | FREMONT,CITY OF | 0650280030C | 09-FEB-2000
09 | CA | FREMONT,CITY OF | 0650280033C | 09-FEB-2000
09 | CA | FREMONT,CITY OF | 0650280045D | 09-FEB-2000
09 | CA | FREMONT,CITY OF | 0650280046D | 09-FEB-2000
09 | CA | FREMONT,CITY OF | 0650280048D | 09-FEB-2000
09 | CA | FREMONT,CITY OF | 065028IND0 ** | 09-FEB-2000
09 | CA | HAYWARD, CITY OF | 0650330002D | 09-FEB-2000
09 | CA | HAYWARD, CITY OF | 0650330003E | 09-FEB-2000
09 | CA | HAYWARD, CITY OF | 0650330010E | 09-FEB-2000
09 | CA | HAYWARD, CITY OF | 0650330011E | 09-FEB-2000
09 | CA | HAYWARD, CITY OF | 0650330019E | 09-FEB-2000
09 | CA | HAYWARD, CITY OF | 0650330020E | 09-FEB-2000
09 | CA | HAYWARD, CITY OF | 0650330024E | 09-FEB-2000
09 | CA | HAYWARD, CITY OF | 0650330025D | 09-FEB-2000
09 | CA | HAYWARD, CITY OF | 065033IND0 ** | 09-FEB-2000
09 | CA | IONE, CITY OF | 0600160005D | 06-JUN-2000
09 | CA | NAPA, CITY OF | 0602070005D | 19-JAN-2000
09 | CA | NAPA, CITY OF | 060207IND0 ** | 19-JAN-2000
09 | CA | NEWARK, CITY OF | 0600090005F | 09-FEB-2000
09 | CA | NEWARK, CITY OF | 060009IND0 ** | 09-FEB-2000
09 | CA | OROVILLE, CITY OF | 06007C0985D | 20-APR-2000
09 | CA | SAN LEANDRO, CITY OF | 0600130001C | 09-FEB-2000
09 | CA | SAN LEANDRO, CITY OF | 0600130002C | 09-FEB-2000
09 | CA | SAN LEANDRO, CITY OF | 0600130003C | 09-FEB-2000
09 | CA | SAN LEANDRO, CITY OF | 060013IND0 ** | 09-FEB-2000
09 | CA | UNION CITY, CITY OF | 0600140010C | 09-FEB-2000
09 | CA | UNION CITY, CITY OF | 060014IND0 ** | 09-FEB-2000
09 | NV | RENO, CITY OF | 32031C2968F | 20-APR-2000
09 | NV | RENO, CITY OF | 32031CIND0 ** | 20-APR-2000
09 | NV | SPARKS, CITY OF | 32031CIND0 ** | 20-APR-2000
09 | NV | WASHOE COUNTY* | 32031C2968F | 20-APR-2000
09 | NV | WASHOE COUNTY* | 32031CIND0 ** | 20-APR-2000
10 | ID | BLAINE COUNTY * | 1651671154B** | 20-APR-2000
10 | ID | BLAINE COUNTY * | 1651671162B | 20-APR-2000
10 | ID | BLAINE COUNTY * | 1651671166B | 20-APR-2000
10 | ID | BLAINE COUNTY * | 1651671175B | 20-APR-2000
10 | ID | BLAINE COUNTY * | 165167IND0 ** | 20-APR-2000
10 | ID | CAREY, CITY OF | 1602341154A | 20-APR-2000
10 | ID | CAREY, CITY OF | 1602341162A | 20-APR-2000
10 | ID | CAREY, CITY OF | 1602341166A | 20-APR-2000
10 | ID | CAREY, CITY OF | 160234IND0 ** | 20-APR-2000
10 | OR | AUMSVILLE, CITY OF | 41047C0682G | 19-JAN-2000
10 | OR | AUMSVILLE, CITY OF | 41047C0684G | 19-JAN-2000
10 | OR | AUMSVILLE, CITY OF | 41047C0701G | 19-JAN-2000
10 | OR | AUMSVILLE, CITY OF | 41047C0703G | 19-JAN-2000
10 | OR | AUMSVILLE, CITY OF | 41047CIND0 ** | 19-JAN-2000
10 | OR | AURORA, CITY OF | 41047C0132G | 19-JAN-2000
10 | OR | AURORA, CITY OF | 41047CIND0 ** | 19-JAN-2000
10 | OR | DETROIT, CITY OF | 41047C1060D | 19-JAN-2000
10 | OR | DETROIT, CITY OF | 41047CIND0 ** | 19-JAN-2000
10 | OR | MARION COUNTY* | 41047C0025G | 19-JAN-2000
10 | OR | MARION COUNTY* | 41047C0050G | 19-JAN-2000
10 | OR | MARION COUNTY* | 41047C0075G | 19-JAN-2000
10 | OR | MARION COUNTY* | 41047C0100G | 19-JAN-2000
10 | OR | MARION COUNTY* | 41047C0117G | 19-JAN-2000
10 | OR | MARION COUNTY* | 41047C0119G | 19-JAN-2000
10 | OR | MARION COUNTY* | 41047C0125G | 19-JAN-2000
10 | OR | MARION COUNTY* | 41047C0130G | 19-JAN-2000
10 | OR | MARION COUNTY* | 41047C0131G | 19-JAN-2000
10 | OR | MARION COUNTY* | 41047C0132G | 19-JAN-2000
10 | OR | MARION COUNTY* | 41047C0133G | 19-JAN-2000
10 | OR | MARION COUNTY* | 41047C0134G | 19-JAN-2000
10 | OR | MARION COUNTY* | 41047C0136G | 19-JAN-2000
10 | OR | MARION COUNTY* | 41047C0137G | 19-JAN-2000
10 | OR | MARION COUNTY* | 41047C0138G | 19-JAN-2000
10 | OR | MARION COUNTY* | 41047C0139G | 19-JAN-2000
10 | OR | MARION COUNTY* | 41047C0141G | 19-JAN-2000
10 | OR | MARION COUNTY* | 41047C0145G | 19-JAN-2000
10 | OR | MARION COUNTY* | 41047C0175G | 19-JAN-2000
10 | OR | MARION COUNTY* | 41047C0192G | 19-JAN-2000
10 | OR | MARION COUNTY* | 41047C0193G | 19-JAN-2000
10 | OR | MARION COUNTY* | 41047C0194G | 19-JAN-2000
10 | OR | MARION COUNTY* | 41047C0200G | 19-JAN-2000
10 | OR | MARION COUNTY* | 41047C0213G | 19-JAN-2000
10 | OR | MARION COUNTY* | 41047C0225G | 19-JAN-2000
10 | OR | MARION COUNTY* | 41047C0243G | 19-JAN-2000
10 | OR | MARION COUNTY* | 41047C0244G | 19-JAN-2000
10 | OR | MARION COUNTY* | 41047C0250G | 19-JAN-2000
10 | OR | MARION COUNTY* | 41047C0266G | 19-JAN-2000
10 | OR | MARION COUNTY* | 41047C0275G | 19-JAN-2000
10 | OR | MARION COUNTY* | 41047C0325G | 19-JAN-2000
10 | OR | MARION COUNTY* | 41047C0327G | 19-JAN-2000
10 | OR | MARION COUNTY* | 41047C0328G | 19-JAN-2000
10 | OR | MARION COUNTY* | 41047C0329G | 19-JAN-2000
10 | OR | MARION COUNTY* | 41047C0331G | 19-JAN-2000
10 | OR | MARION COUNTY* | 41047C0332G | 19-JAN-2000
10 | OR | MARION COUNTY* | 41047C0333G | 19-JAN-2000
10 | OR | MARION COUNTY* | 41047C0334G | 19-JAN-2000
10 | OR | MARION COUNTY* | 41047C0336G | 19-JAN-2000
10 | OR | MARION COUNTY* | 41047C0337G | 19-JAN-2000
10 | OR | MARION COUNTY* | 41047C0338G | 19-JAN-2000
10 | OR | MARION COUNTY* | 41047C0339G | 19-JAN-2000
10 | OR | MARION COUNTY* | 41047C0341G | 19-JAN-2000
10 | OR | MARION COUNTY* | 41047C0342G | 19-JAN-2000
10 | OR | MARION COUNTY* | 41047C0343G | 19-JAN-2000
10 | OR | MARION COUNTY* | 41047C0344G | 19-JAN-2000
10 | OR | MARION COUNTY* | 41047C0351G | 19-JAN-2000
10 | OR | MARION COUNTY* | 41047C0361G | 19-JAN-2000
10 | OR | MARION COUNTY* | 41047C0363G | 19-JAN-2000
10 | OR | MARION COUNTY* | 41047C0364G | 19-JAN-2000
10 | OR | MARION COUNTY* | 41047C0375G | 19-JAN-2000
10 | OR | MARION COUNTY* | 41047C0382G | 19-JAN-2000
10 | OR | MARION COUNTY* | 41047C0400G | 19-JAN-2000
10 | OR | MARION COUNTY* | 41047C0425G | 19-JAN-2000
10 | OR | MARION COUNTY* | 41047C0650G | 19-JAN-2000
10 | OR | MARION COUNTY* | 41047C0652G | 19-JAN-2000
10 | OR | MARION COUNTY* | 41047C0656G | 19-JAN-2000
10 | OR | MARION COUNTY* | 41047C0657G | 19-JAN-2000
10 | OR | MARION COUNTY* | 41047C0675G | 19-JAN-2000
10 | OR | MARION COUNTY* | 41047C0676G | 19-JAN-2000
10 | OR | MARION COUNTY* | 41047C0677G | 19-JAN-2000
10 | OR | MARION COUNTY* | 41047C0679G | 19-JAN-2000
10 | OR | MARION COUNTY* | 41047C0681G | 19-JAN-2000
10 | OR | MARION COUNTY* | 41047C0682G | 19-JAN-2000
10 | OR | MARION COUNTY* | 41047C0683G | 19-JAN-2000
10 | OR | MARION COUNTY* | 41047C0684G | 19-JAN-2000
10 | OR | MARION COUNTY* | 41047C0700G | 19-JAN-2000
10 | OR | MARION COUNTY* | 41047C0701G | 19-JAN-2000
10 | OR | MARION COUNTY* | 41047C0703G | 19-JAN-2000
10 | OR | MARION COUNTY* | 41047C0704G | 19-JAN-2000
10 | OR | MARION COUNTY* | 41047C0708G | 19-JAN-2000
10 | OR | MARION COUNTY* | 41047C0716G | 19-JAN-2000
10 | OR | MARION COUNTY* | 41047C0725G | 19-JAN-2000
10 | OR | MARION COUNTY* | 41047C0750G | 19-JAN-2000
10 | OR | MARION COUNTY* | 41047C0775G | 19-JAN-2000
10 | OR | MARION COUNTY* | 41047C0793G | 19-JAN-2000
10 | OR | MARION COUNTY* | 41047C0794G | 19-JAN-2000
10 | OR | MARION COUNTY* | 41047C0800G | 19-JAN-2000
10 | OR | MARION COUNTY* | 41047C0975G | 19-JAN-2000
10 | OR | MARION COUNTY* | 41047C1000G | 19-JAN-2000
10 | OR | MARION COUNTY* | 41047C1025G | 19-JAN-2000
10 | OR | MARION COUNTY* | 41047C1060D | 19-JAN-2000
10 | OR | MARION COUNTY* | 41047C1078G | 19-JAN-2000
10 | OR | MARION COUNTY* | 41047C1079G | 19-JAN-2000
10 | OR | MARION COUNTY* | 41047C1083G | 19-JAN-2000
10 | OR | MARION COUNTY* | 41047CIND0 ** | 19-JAN-2000

[FR Doc. 00-23353 Filed 9-13-00; 8:45 am]

BILLING CODE 6718-04-F